DEPARTMENT OF HEALTH AND HUMAN SERVICES

Centers for Medicare & Medicaid Services

42 CFR Parts 410 and 419

[CMS-1471-P]

RIN 0938-AL19

Medicare Program; Changes to the Hospital Outpatient Prospective Payment System and Calendar Year 2004 Payment Rates

AGENCY: Centers for Medicare & Medicaid Services (CMS), HHS.

ACTION: Proposed rule.

SUMMARY: This proposed rule would revise the Medicare hospital outpatient prospective payment system to implement applicable statutory requirements and changes arising from our continuing experience with this system. In addition, it would describe proposed changes to the amounts and factors used to determine the payment rates for Medicare hospital outpatient services paid under the prospective payment system. These changes would be applicable to services furnished on or after January 1, 2004.

DATES: We will consider comments if we receive them at the appropriate address, as provided below, no later than 5 p.m. on October 6, 2003.

ADDRESSES: In commenting, please refer to file code CMS-1471-P. Because of staff and resource limitations, we cannot accept comments by facsimile (FAX) transmission or e-mail.

Mail written comments (one original and two copies) to the following address ONLY:

Centers for Medicare & Medicaid Services, Department of Health and Human Services, Attention: CMS-1471-P, P.O. Box 8018, Baltimore, MD 21244-8018.

Please allow sufficient time for mailed comments to be timely received in the event of delivery delays.

If you prefer, you may deliver (by hand or courier) your written comments (one original and two copies) to one of the following addresses:

Room 445-G, Hubert H. Humphrey Building, 200 Independence Avenue, SW., Washington, DC 20201, or Room C5-14-03, 7500 Security Boulevard, Baltimore, MD 21244-1850.

(Because access to the interior of the HHH Building is not readily available to persons without Federal Government identification, commenters are encouraged to leave their comments in the CMS drop slots located in the main lobby of the building. A stamp-in clock is available for persons wishing to retain a proof of filing by stamping in and retaining an extra copy of the comments being filed.)

Comments mailed to the addresses indicated as appropriate for hand or courier delivery may be delayed and could be considered late.

We encourage commenters submitting as comments information that contains beneficiary specific information (for example, medical records, or invoices with beneficiary identification) to remove any individually identifiable information, such as information that identifies an individual, diagnoses, addresses, telephone numbers, attending physician, medical record number, or Medicare or other insurance number. Moreover, individually identifiable beneficiary medical records, including progress notes, medical orders, test results, consultation reports, and photocopies of checks from hospitals or other documents that contain bank routing numbers should not be submitted to us. Persons or organizations submitting proprietary information as public comments must designate in writing if part or all of the information contained in such comments should be considered as exempt from disclosure under Exemption 4 of the Freedom of Information Act (FOIA). Generally, Exemption 4 of the FOIA protects trade secrets and commercial or financial information that is privileged or confidential, and affords the same protections as the Trade Secrets Act, which is also applicable. We will attempt to keep confidential and protect from disclosure information that qualifies under Exemption 4. However, only data that can be available for public inspection would be used for the final rule. For information on viewing public comments, see the beginning of the SUPPLEMENTARY INFORMATION section.

FOR FURTHER INFORMATION CONTACT: Dana Burley, (410) 786-4532—outpatient prospective payment issues; Suzanne Asplen, (410) 786-4558 or Jana Petze, (410) 786-9374—partial hospitalization and community mental health centers issues.

SUPPLEMENTARY INFORMATION:

Inspection of Public Comments: Comments received timely will be available for public inspection as they are received, generally beginning approximately 3 weeks after publication of a document, at the headquarters of the Centers for Medicare & Medicaid Services, 7500 Security Boulevard, Baltimore, Maryland 21244, Monday through Friday of each week from 8:30 a.m. to 4 p.m. To schedule an appointment to view public comments, call (410) 786-7197.

Availability of Copies and Electronic Access

Copies: To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 (or toll-free at 1-888-293-6498) or by faxing to (202) 512-2250. The cost for each copy is $10. As an alternative, you can view and photocopy the Federal Register document at most libraries designated as Federal Depository Libraries and at many other public and academic libraries throughout the country that receive the Federal Register.

This Federal Register document is also available from the Federal Register online database through GPO Access, a service of the U.S. Government Printing Office. The Web site address is: http://www.access.gpo.gov/nara/index.html.

To assist readers in referencing sections contained in this document, we are providing the following table of contents.

Outline of Contents

I. Background

A. Authority for the Outpatient Prospective Payment System

B. Summary of Rulemaking for the Outpatient Prospective Payment System

II. Proposed Changes to the Ambulatory Payment Classification (APC) Groups and Relative Weights

A. Recommendations of the Advisory Panel on APC Groups

1. Establishment of the Advisory Panel on APC Groups

2. The Panel's Meetings

3. Establishment of an Observation Subcommittee

4. Recommendations of the Advisory Panel and Our Responses

B. Other Changes Affecting the APCs

1. Limit on Variation of Costs of Services Classified Within an APC Group

2. Procedures Moved from New Technology APCs to Clinically Appropriate APCs

3. Revision of Cost Bands and Payment Amounts for New Technology APCs

4. APC Assignment for New Codes Created During Calendar Year (CY) 2003

5. Creation of APCs for Combinations of Device Procedures

6. New APC for Antepartum Care

III. Recalibration of APC Weights for CY 2004

A. Data Issues

1. Period of Claims Data Used

2. Treatment of “Multiple Procedure” Claims

3. Adjustment of Median Costs for CY 2003 OPPS

B. Description of How We Propose To Calculate Weights for CY 2004

IV. Transitional Pass-Through and Related Payment Issues

A. Background

B. Discussion of Pro Rata Reduction

V. Payment for Devices

A. Pass-Through Devices

B. Expiration of Transitional Pass-Through Payments in CY 2004

C. Other Policy Issues Relating to Pass-Through Device Categories

VI. Payment for Drugs, Biologicals, Radiopharmaceutical Agents, Blood, and Blood Products

A. Pass-Through Drugs and Biologicals

B. Drugs, Biologicals, and Radiopharmaceuticals Without Pass-Through Status

1. Background

2. Proposed Criteria for Packaging Payment for Drugs, Biologicals, and Radiopharmaceuticals

3. Payment for Drugs, Biologicals, and Radiopharmaceuticals That Are Not Packaged

4. Proposed Payment Methodology for Drug Administration

5. Generic Drugs and Radiopharmaceuticals

6. Orphan Drugs

7. Vaccines

8. Blood and Blood Products

9. Intravenous Immune Globulin

10. Drug and Device Coding

11. Payment for Split Unit of Blood

12. Other Issues

VII. Wage Index Changes for CY 2004

VIII. Copayment for CY 2004

IX. Conversion Factor Update for CY 2004

X. Proposed Outlier Policy and Elimination of Transitional Corridor Payments for CY 2004

A. Proposed Outlier Policy for CY 2004

B. Elimination of Transitional Corridor Payments for CY 2004

XI. Other Policy Decisions and Proposed Changes

A. Hospital Coding for Evaluation and Management (E/M) Services

B. Status Indicators and Issues Related to OCE Editing

C. Observation Services

D. Procedures That Will Be Paid Only As Inpatient Procedures

E. Partial Hospitalization Payment Methodology

1. Background

2. PHP APC Update for CY 2004

3. Outlier Payments to CMHCs

XII. Summary of and Responses to MedPAC Recommendations

XIII. Summary of Proposed Changes for 2004

A. Changes Required by Statute

B. Additional Changes

XIV. Collection of Information Requirements

XV. Response to Public Comments

XVI. Regulatory Impact Analysis

A. General

B. Changes in This Proposed Rule

C. Limitations of Our Analysis

D. Estimated Impacts of This Proposed Rule on Hospitals

E. Projected Distribution of Outlier Payments

F. Estimated Impacts of This Proposed Rule on Beneficiaries

Addenda

Addendum A—List of Ambulatory Payment Classifications (APCs) with Status Indicators, Relative Weights, Payment Rates, and Copayment Amounts

Addendum B—Payment Status by HCPCS Code, and Related Information

Addendum C—Hospital Outpatient Payment for Procedures by APC: Displayed on Web Site Only

Addendum D—Payment Status Indicators for the Hospital Outpatient Prospective Payment System

Addendum E—CPT Codes That Would Be Paid Only as Inpatient Procedures

Addendum H—Wage Index for Urban Areas

Addendum I—Wage Index for Rural Areas

Addendum J—Wage Index for Hospitals That Are Reclassified

Addendum L—Packaged Nonchemotherapy Infusion Drugs

Addendum M—Separately Paid Nonchemotherapy Infusion Drugs

Addendum N—Packaged Chemotherapy Drugs Other Than Infusion

Addendum O—Separately Paid Chemotherapy Drugs Other Than Infusion

Addendum P—Packaged Chemotherapy Drugs Infusion Only

Addendum Q—Separately Paid Chemotherapy Drugs Infusion Only

Alphabetical List of Acronyms Appearing in the Proposed Rule

ACEP—American College of Emergency Physicians

AHA—American Hospital Association

AHIMA—American Health Information Management Association

AMA—American Medical Association

APC—Ambulatory payment classification

ASC—Ambulatory surgical center

AWP—Average wholesale price

BBA—Balanced Budget Act of 1997

BIPA—Medicare, Medicaid, and SCHIP Benefits Improvement and Protection Act of 2000

BBRA—Medicare, Medicaid, and SCHIP Balanced Budget Refinement Act of 1999

CAH—Critical access hospital

CCR—Cost center specific cost-to-charge ratio

CMHC—Community mental health center

CMS—Centers for Medicare & Medicaid Services (Formerly known as the Health Care Financing Administration)

CPT—[Physicians'] Current Procedural Terminology, Fourth Edition, 2002, copyrighted by the American Medical Association

CY—Calendar year

DMEPOS—Durable medical equipment, prosthetics, orthotics, and supplies

DRG—Diagnosis-related group

DSH—Disproportionate Share Hospital

EACH—Essential Access Community Hospital

E/M—Evaluation and management

ESRD—End-stage renal disease

FACA—Federal Advisory Committee Act

FDA—Food and Drug Administration

FI—Fiscal intermediary

FSS—Federal Supply Schedule

FY—Federal fiscal year

HCPCS—Healthcare Common Procedure Coding System

HCRIS—Hospital Cost Report Information System

HHA—Home health agency

HIPAA—Health Insurance Portability and Accountability Act of 1996

ICD-9-CM—International Classification of Diseases, Ninth Edition, Clinical Modification

IME—Indirect Medical Education

IPPS—(Hospital) inpatient prospective payment system

IVIG—Intravenous Immune Globulin

LTC—Long Term Care

MedPAC—Medicare Payment Advisory Commission

MDH—Medicare Dependent Hospital

MSA—Metropolitan statistical area

NECMA—New England County Metropolitan Area

OCE—Outpatient code editor

OMB—Office of Management and Budget

OPD—(Hospital) outpatient department

OPPS—(Hospital) outpatient prospective payment system

PHP—Partial hospitalization program

PM—Program memorandum

PPS—Prospective payment system

PPV—Pneumococcal pneumonia (virus)

PRA—Paperwork Reduction Act

RFA—Regulatory Flexibility Act

RRC—Rural Referral Center

SBA—Small Business Administration

SCH—Sole Community Hospital

SDP—Single drug pricer

SI—Status Indicator

TEFRA—Tax Equity and Fiscal Responsibility Act

TOPS—Transitional outpatient payments

USPDI—United States Pharmacopoeia Drug Information

I. Background

A. Authority for the Outpatient Prospective Payment System

When the Medicare statute was originally enacted, Medicare payment for hospital outpatient services was based on hospital-specific costs. In an effort to ensure that Medicare and its beneficiaries pay appropriately for services and to encourage more efficient delivery of care, the Congress mandated replacement of the cost-based payment methodology with a prospective payment system (PPS). The Balanced Budget Act of 1997 (BBA) (Pub. L. 105-33), enacted on August 5, 1997, added section 1833(t) to the Social Security Act (the Act) authorizing implementation of a PPS for hospital outpatient services. The Balanced Budget Refinement Act of 1999 (BBRA) (Pub. L. 106-113), enacted on November 29, 1999, made major changes that affected the hospital outpatient PPS (OPPS). The Medicare, Medicaid, and SCHIP Benefits Improvement and Protection Act of 2000 (BIPA) (Pub. L. 106-554), enacted on December 21, 2000, made further changes in the OPPS. The OPPS was first implemented for services furnished on or after August 1, 2000.

B. Summary of Rulemaking for the Outpatient Prospective Payment System

• On September 8, 1998, we published a proposed rule (63 FR 47552) to establish in regulations a PPS for hospital outpatient services, to eliminate the formula-driven overpayment for certain hospital outpatient services, and to extend reductions in payment for costs of hospital outpatient services. On June 30, 1999, we published a correction notice (64 FR 35258) to correct a number of technical and typographic errors in the September 1998 proposed rule including the proposed amounts and factors used to determine the payment rates.

• On April 7, 2000, we published a final rule with comment period (65 FR 18434) that addressed the provisions of the PPS for hospital outpatient services scheduled to be effective for services furnished on or after July 1, 2000. Under this system, Medicare payment for hospital outpatient services included in the PPS is made at a predetermined, specific rate. These outpatient services are classified according to a list of ambulatory payment classifications (APCs). The April 7, 2000 final rule with comment period also established requirements for provider departments and provider-based entities and prohibited Medicare payment for nonphysician services furnished to a hospital outpatient by a provider or supplier other than a hospital unless the services are furnished under arrangement. In addition, this rule extended reductions in payment for costs of hospital outpatient services as required by the BBA and amended by the BBRA. Medicare regulations governing the hospital OPPS are set forth at 42 CFR part 419.

• On June 30, 2000, we published a notice (65 FR 40535) announcing a delay in implementation of the OPPS from July 1, 2000 to August 1, 2000. We implemented the OPPS on August 1, 2000.

• On August 3, 2000, we published an interim final rule with comment period (65 FR 47670) that modified criteria that we use to determine which medical devices are eligible for transitional pass-through payments. The August 3, 2000 rule also corrected and clarified certain provider-based provisions included in the April 7, 2000 rule.

• On November 13, 2000, we published an interim final rule with comment period (65 FR 67798). This rule provided for the annual update to the amounts and factors for OPPS payment rates effective for services furnished on or after January 1, 2001. We implemented the 2001 OPPS on January 1, 2001. We also responded to public comments on those portions of the April 7, 2000 final rule that implemented related provisions of the BBRA and public comments on the August 3, 2000 rule.

• On November 2, 2001, we published a final rule (66 FR 55857) that announced the Medicare OPPS conversion factor for calendar year (CY) 2002. In addition, it described the Secretary's estimate of the total amount of the transitional pass-through payments for CY 2002 and the implementation of a uniform reduction in each of the pass-through payments for that year.

• On November 2, 2001, we also published an interim final rule with comment period (66 FR 55850) that set forth the criteria the Secretary will use to establish new categories of medical devices eligible for transitional pass-through payments under Medicare's OPPS.

• On November 30, 2001, we published a final rule (66 FR 59856) that revised the Medicare OPPS to implement applicable statutory requirements, including relevant provisions of BIPA, and changes resulting from continuing experience with this system. In addition, it described the CY 2002 payment rates for Medicare hospital outpatient services paid under the PPS. This final rule also announced a uniform reduction of 68.9 percent to be applied to each of the transitional pass-through payments for certain categories of medical devices and drugs and biologicals.

• On December 31, 2001, we published a final rule (66 FR 67494) that delayed, until no later than April 1, 2002, the effective date of CY 2002 payment rates and the uniform reduction of transitional pass-through payments that were announced in the November 30, 2001 final rule. In addition, this final rule indefinitely delayed certain related regulatory provisions.

• On March 1, 2002, we published a final rule (67 FR 9556) that corrected technical errors that affected the amounts and factors used to determine the payment rates for services paid under the Medicare OPPS and corrected the uniform reduction to be applied to transitional pass-through payments for CY 2002 as published in the November 30, 2001 final rule. These corrections and the regulatory provisions that had been delayed became effective on April 1, 2002.

• On November 1, 2002, we published a final rule (67 FR 66718) that revised the Medicare OPPS to update the payment weights and conversion factor for services payable under the 2003 OPPS on the basis of data from claims for services furnished from April 1, 2001 through March 31, 2002. The rule also removed from pass-through status most drugs and devices that had been paid under pass-through provisions in 2002 as required by the applicable provisions of law governing the duration of pass-through payment.

II. Proposed Changes to the Ambulatory Payment Classification (APC) Groups and Relative Weights

Under the OPPS, we pay for hospital outpatient services on a rate-per-service basis that varies according to the APC group to which the service is assigned. Each APC weight represents the median hospital cost of the services included in that APC relative to the median hospital cost of the services included in APC 601, Mid-Level Clinic Visits. The APC weights are scaled to APC 601 because a mid-level clinic visit is one of the most frequently performed services in the outpatient setting.

Section 1833(t)(9)(A) of the Act requires the Secretary to review the components of the OPPS not less often than annually and to revise the groups, relative payment weights, and other adjustments to take into account changes in medical practice, changes in technology, and the addition of new services, new cost data, and other relevant information and factors. Section 1833(t)(9)(A) of the Act requires the Secretary, beginning in 2001, to consult with an outside panel of experts to review the APC groups and the relative payment weights.

Finally, section 1833(t)(2) of the Act provides that, subject to certain exceptions, the items and services within an APC group cannot be considered comparable with respect to the use of resources if the highest median (or mean cost, if elected by the Secretary) for an item or service in the group is more than 2 times greater than the lowest median cost for an item or service within the same group (referred to as the “2 times rule”).

We use the median cost of the item or service in implementing this provision. The statute authorizes the Secretary to make exceptions to the 2 times rule “in unusual cases, such as low volume items and services.”

For purposes of this proposed rule, we analyzed the APC groups within this statutory framework.

A. Recommendations of the Advisory Panel on APC Groups

1. Establishment of the Advisory Panel on APC Groups

Section 1833(t)(9)(A) of the Act requires that we consult with an outside panel of experts, the Advisory Panel on APC Groups (the Panel), to review the clinical integrity of the groups and weights. The Act specifies that the Panel will act in an advisory capacity. This expert panel, which is to be composed of representatives of providers subject to the OPPS (currently employed full-time, in their respective areas of expertise), reviews and advises us about the clinical integrity of the APC groups and their weights. The Panel is not restricted to using our data and may use data collected or developed by organizations outside the Department in conducting its review.

On November 21, 2000, the Secretary signed the charter establishing an “Advisory Panel on APC Groups.” The Panel is technical in nature and is governed by the provisions of the Federal Advisory Committee Act (FACA) as amended (Pub. L. 92-463).

On November 1, 2002, the Secretary renewed the charter. The new charter indicates that the Panel continues to be technical in nature, is governed by the provisions of the FACA, may convene “up to three meetings per year,” and is chaired by a Federal official.

To establish the Panel, we solicited members in a notice published in the Federal Register on December 5, 2000 (65 FR 75943). We received applications from more than 115 individuals nominating either a colleague or themselves. After carefully reviewing the applications, we chose 15 highly qualified individuals to serve on the Panel.

Because of the loss of 6 Panel members in March 2003 due to the expiration of terms of office, retirement, and a career change, a Federal Register notice was published on February 28, 2003 (68 FR 9671), requesting nominations of Panel members. From the 40 nominations we received, 6 new members have been chosen and will be identified on the CMS Web site.

2. The Panel's Meetings

The first Panel meeting was held on February 27, February 28, and March 1, 2001. During the 2001 meeting, the Panel members felt that requiring consistency for all presentations with regard to format, data submission, and general information would assist them in analyzing the submissions and presentations and making recommendations. Therefore, upon the Panel's recommendation, the Research Subcommittee was established during the 2001 meeting.

The Panel began its 2002 meeting on January 22, 2002, by considering the Research Subcommittee's recommendation to the Panel on requirements for written submissions and oral presentations. The Research Subcommittee recommended that all future oral presentations and written submissions contain the following:

• Name, address, and telephone number of the proposed presenter.

• Financial relationship(s), if any, with any company whose products, services, or procedures are under consideration.

• CPT ([Physicians'] Current Procedural Technology) codes involved.

• APC(s) affected.

• Description of the issue.

• Clinical description of the service under discussion, with comparison to other services within the APC.

• Description of the resource inputs associated with the service under discussion, with a comparison to resource inputs for other services within the APC.

• Recommendations and rationale for change.

• Expected outcome of change and potential consequences of no change.

The Panel adopted these Subcommittee recommendations.

The third Panel meeting was held on January 21 and 22, 2003, to discuss the APCs of the newly implemented 2003 OPPS. We published a notice in the Federal Register on December 27, 2002 (67 FR 79107), to announce the following: The location and time of the third Panel meeting; a list of agenda items; and that the meeting was open to the public. In that document, we solicited public comment specifically on the items included on the agenda for the January 2003 Panel meeting. In this section, “commenter” refers to entities that provided comments in response to that Federal Register notice. We also provided additional information about the Panel meeting through a press release and on the CMS Web site. Presentations for the 2003 meeting met, at a minimum, the adopted guidelines for presentations referred to above.

3. Establishment of an Observation Subcommittee

At the third annual meeting in January 2003, the Panel suggested numerous changes to the APCs (listed below) and that a subcommittee be established to review observation issues, such as allowable International Classification of Diseases, clinical modification codes, and operational issues. Therefore, before the close of the third annual meeting, the Observation Subcommittee was established. Other Panel members that are not currently participating in this subcommittee are welcome to take part in this subcommittee, which is tasked with reviewing International Classification of Disease Codes, clinical modification codes, and operational issues related to observation. This subcommittee will report its findings to the Panel in 1 year.

4. Recommendations of the Advisory Panel and Our Responses

In this section, we consider the Panel's recommendations affecting specific APCs. The Panel based its recommendations on claims data for the period April 1, 2002 through September 30, 2002. This data set comprises a portion of the data that will be used to set 2004 payment rates. APC titles in this discussion are those that existed when the APC Panel met in January 2003. In a few cases, APC titles have been changed for this proposed rule, and, therefore, some APCs do not have the same title in Addendum A as they have in this section.

The Panel's agenda included APCs that our staff believe violate the 2 times rule as well as APCs for which comments were submitted. As discussed below, the Panel sometimes declined to recommend a change in an APC even though the APC appeared to violate the 2 times rule. In section II.B of this preamble, we discuss our proposals regarding the 2 times rule based on the April 1, 2002 through December 31, 2002 data that we used to determine the proposed 2004 APC relative weights. Section II.B also details the criteria we used when deciding to propose exceptions to the 2 times rule.

a. Debridement and Destruction.

APC 0012: Level I Debridement & Destruction.

APC 0013: Level II Debridement & Destruction.

We expressed concern to the Panel that APCs 0012 and 0013 appear to violate the 2 times rule. In order to remedy these violations, we asked the Panel to consider the following changes:

(1) Move the following codes from APC 0013 to APC 0012:

HCPCS | Description
11001 | Debride infected skin add-on.
11302 | Shave skin lesion.
15786 | Abrasion, lesion, single.
15793 | Chemical peel, nonfacial.
15851 | Removal of sutures.
16000 | Initial treatment of burn(s).
16025 | Treatment of burn(s).

(2) Move code 11057 (Trim skin lesions, over 4) from APC 0012 to APC 0013.

The Panel agreed with our staff and recommended that we make these changes. We propose to accept the Panel's recommendation.

b. Excision/Biopsy.

APC 0019: Level I Excision/Biopsy.

APC 0020: Level II Excision/Biopsy.

APC 0021: Level III Excision/Biopsy.

We expressed concern to the Panel that APCs 0019 and 0020 appear to violate the 2 times rule. In order to remedy these violations, we asked the Panel to consider the following changes:

(1) Move the following HCPCS codes from APC 0019 to a new APC:

HCPCS | Description
11755 | Biopsy, nail unit.
11976 | Removal of contraceptive cap.
24200 | Removal of arm foreign body.
28190 | Removal of foot foreign body.
56605 | Biopsy of vulva/perineum.
56606 | Biopsy of vulva/perineum.
69100 | Biopsy of external ear.

(2) Move the following HCPCS codes from APC 0020 to APC 0021:

HCPCS | Description
11404 | Removal of skin lesion.
11423 | Removal of skin lesion.
11604 | Removal of skin lesion.
11623 | Removal of skin lesion.

The Panel recommended that we not change the structure of APCs 0019, 0020, and 0021 at this time in the interest of preserving clinical homogeneity. We propose to accept the Panel's recommendation that we make no changes to the structure of these APCs for 2004. We plan to place these APCs on the Panel's agenda for the 2005 update.

c. Thoracentesis/Lavage Procedures and Endoscopies.

APC 0071: Level I Endoscopy Upper Airway.

APC 0072: Level II Endoscopy Upper Airway.

APC 0073: Level III Endoscopy Upper Airway.

We expressed concern to the Panel that APCs 0071 and 0072 appear to violate the 2 times rule. In order to remedy these violations, we asked the Panel to consider the following changes:

Move the following HCPCS codes as described below:

Table 1.—HCPCS Codes Proposed To Be Redistributed From APCs 0071 and 0072 to APCs 0071, 0072, and 0073
HCPCS | Description | 2003 APC | 2004 APC
31505 | Diagnostic laryngoscopy | 0072 | 0071
31575 | Diagnostic laryngoscopy | 0071 | 0072
31720 | Clearance of airways | 0072 | 0073

The Panel recommended that we make the above changes. We propose to accept the Panel's recommendation, with the exception of CPT code 31720. After reviewing an additional quarter of claims data that was not available at the time the Panel convened, placement of CPT code 31720 into APC 0072 better reflects its resource consumption. Therefore, we propose to keep CPT code 31720 in APC 0072.

d. Cardiac and Ambulatory Blood Pressure Monitoring.

APC 0097: Cardiac and Ambulatory Blood Pressure Monitoring.

We expressed concern to the Panel that APC 0097 appears to violate the 2 times rule. We asked the Panel to recommend options for resolving this violation, and suggested splitting APC 0097 into two APCs. The Panel recommended that the structure of APC 0097 should not be changed at this time based on clinical homogeneity considerations. We propose to accept the Panel's recommendation that we make no changes to APC 0097 for 2004. We plan to place this APC on the Panel's agenda for the 2005 update.

e. Electrocardiograms.

APC 0099: Electrocardiograms.

APC 0340: Minor Ancillary Procedures.

We expressed concern to the Panel that APC 0099 appears to violate the 2 times rule. We asked the Panel to recommend options for resolving this violation, and suggested moving CPT code 93701 (Bioimpedance, thoracic) from APC 0099 to APC 0340. The Panel felt, however, that the structure of APC 0099 should not be changed at this time based on clinical homogeneity considerations. We propose to accept the Panel's recommendation that we make no changes to APC 0099 for 2004. We plan to place this APC on the Panel's agenda for the 2005 update.

f. Cardiac Stress Tests.

APC 0100: Cardiac Stress Tests.

A presenter to the Panel, who represented a device manufacturer, requested that we move CPT code 93025 (Microvolt t-wave assessment) out of APC 0100. The presenter believes that the actual cost for this procedure is significantly higher than for other procedures in the same APC. Since this technology is often billed in conjunction with other procedures (for example, stress tests, CPT code 93017), few single-APC claims were available to evaluate the presenter's contention.

The Panel felt the data presented are insufficient to merit moving the code and recommends that CPT code 93025 remain in APC 0100 until more data are available for review. We propose to accept the Panel's recommendation that CPT code 93025 remain in APC 0100 until more claims data become available for review.

g. Revision/Removal of Pacemakers or Automatic Implantable Cardioverter Defibrillators.

APC 0105: Revision/Removal of Pacemakers, AICD, or Vascular.

We asked the Panel to review the codes within APC 0105 for an apparent violation of the 2 times rule, stating that we believe the apparent violation is a result of incorrectly coded claims. The Panel agreed and recommended no changes to APC 0105 at this time. We propose to accept the Panel's recommendation that we make no changes to APC 0105 until more accurate claims data become available and support the need for a change.

h. Sigmoidoscopy.

APC 0146: Level I Sigmoidoscopy.

APC 0147: Level II Sigmoidoscopy.

We expressed concern to the Panel that relatively simple procedures such as anoscopy and rigid sigmoidoscopy have higher median costs than more complex procedures such as flexible sigmoidoscopy. Panel members suggested the high costs may be due to the need to perform an otherwise minor office procedure in a hospital setting (for example, due to the clinical condition of the patient). Panel members also suggested that claims may be incorrectly coded because coding instructions do not clearly state how to code when the procedure performed is not as extensive as the procedure planned (for example, when a colonoscopy is planned but only a sigmoidoscopy is performed). In these cases, coding instructions are unclear as to whether the planned procedure should be reported with a modifier for reduced services or with the code for the actual procedure performed.

The Panel recommended that we make no changes to APCs 0146 and 0147 at this time. We propose to accept the Panel's recommendation that we make no changes to APCs 0146 and 0147. We plan to place this APC on the Panel's agenda for the 2005 update.

i. Anal/Rectal Procedures.

APC 0148: Level I Anal/Rectal Procedure.

APC 0149: Level III Anal/Rectal Procedure.

APC 0155: Level II Anal/Rectal Procedure.

We expressed concern to the Panel that APCs 0148 and 0149 appear to violate the 2 times rule. We asked the Panel to recommend options for resolving these violations, and suggested rearranging some of the CPT codes within APCs 0148, 0149, and 0155. The Panel recommended that we move CPT code 46040 (Incision of rectal abscess) from APC 0155 to APC 0149. We propose to accept the Panel's recommendation.

j. Insertion of Penile Prosthesis.

APC 0179: Urinary Incontinence Procedures.

APC 0182: Insertion of Penile Prosthesis.

A presenter to the Panel representing manufacturers and providers requested that APC 0182 be split into two APCs, based on whether the procedure used inflatable or non-inflatable penile prostheses. The presenter stated that the complexity of the procedure, the cost of the devices, and related resources were all significantly higher with inflatable prostheses.

The Panel recommended that we eliminate APCs 0179 and 0182 and create two new APCs, 0385 and 0386 that contain the following CPT codes:

HCPCS | Description
APC 0385:
52282 | Cystoscopy, implant stent.
53440 | Correct bladder function.
53444 | Insert tandem cuff.
54400 | Insert semi-rigid prosthesis.
54416 | Remv/repl penis contain prosthesis.
APC 0386:
53445 | Insert uro/ves nck sphincter.
53447 | Remove/replace ur sphincter.
54401 | Insert self-contained prosthesis.
54405 | Insert multi-comp penis prosthesis.
54410 | Remove/replace penis prosthesis.

We propose to accept the Panel's recommendation to eliminate APCs 0179 and 0182 and create two new APCs, 0644 and 0645, containing the above CPT code configurations.

k. Surgical Hysteroscopy.

APC 0190: Surgical Hysteroscopy.

A presenter to the Panel, who represented a device manufacturer, requested that we move CPT code 58563 (Hysteroscopy, ablation) from APC 0190 to a higher paying APC. The presenter noted that endometrial cryoablation is included in a new technology APC, while a thermal ablation system is included with older, less costly techniques. The presenter expressed concern that cryoablation may be reimbursed at a higher rate than the thermal ablation system, giving its manufacturers an unfair competitive advantage.

Panel members agreed that new, more expensive technologies that prove to be more effective merit review for a higher payment rate. Without substantial evidence of greater effectiveness, however, the Panel was reluctant to create APCs that provide an incentive to use a more expensive device. In its discussion of whether or not to recommend moving CPT code 58563 to a higher paying APC, the Panel recommended that we take into account different methods of endometrial ablation associated with hysteroscopy, adequately reflect the resources used for the various procedures, avoid creating a competitive advantage or disadvantage, and collect data needed to track costs on the type of technologies used for this procedure.

After consulting with experts in the field, we propose to split APC 0190 (Surgical Hysteroscopy) into 2 APCs that are more clinically homogeneous. We propose to change the description for APC 0190 from “Surgical Hysteroscopy” to “Level I Hysteroscopy” and keep the following HCPCS codes in APC 0190:

HCPCS | Description
58558 | Hysteroscopy, biopsy.
58559 | Hysteroscopy, lysis.
58562 | Hysteroscopy, remove fb.
58579 | Hysteroscope procedure.

We also propose to move the following HCPCS codes from APC 0190 to newly created APC 0387 titled “Level II Hysteroscopy”:

HCPCS | Description
58560 | Hysteroscopy, resect septum.
58561 | Hysteroscopy, remove myoma.
58563 | Hysteroscopy, ablation.

In addition, we propose to move the following HCPCS codes as described below:

Table 2.—HCPCS Codes Proposed To Be Redistributed to APCs 0130, 0195, and 0190
HCPCS | Description | 2003 APC | 2004 APC
58578 | Laparoscopic procedure, uterus | 0190 | 0130
58353 | Endometrial ablate, thermal | 0193 | 0195
58555 | Hysteroscopy, diagnostic, sep. procedure | 0194 | 0190

We believe these proposed changes take into account the different technologies used to perform these procedures while maintaining the clinical comparability of these APCs as well as improving their homogeneity in terms of resource consumption.

l. Female Reproductive Procedures.

APC 0195: Level VII Female Reproductive Proc. APC 0202: Level VIII Female Reproductive Proc.

A commenter requested that we place CPT code 57288 (Repair bladder defect) in its own APC because it requires the use of a device. Our staff suggested that CPT codes 57288 and 57287 remain in APC 0202, while the remaining codes in APC 0202 be moved to APC 0195:

HCPCS | Description
57109 | Vaginectomy partial w/nodes.
58920 | Partial removal of ovary(s).
58925 | Removal of ovarian cyst(s).

The Panel agreed with our staff, and we propose to accept the Panel's recommendation to move CPT codes 57109, 58920, and 58925 from APC 0202 to APC 0195.

m. Nerve Injections.

APC 0203: Level IV Nerve Injections.

APC 0204: Level I Nerve Injections.

APC 0206: Level II Nerve Injections.

APC 0207: Level III Nerve Injections.

Several commenters suggested changes in the configuration of APCs 0203, 0204, 0206, and 0207 because of concerns that the current classifications result in payment rates that are too low relative to the resource costs associated with certain procedures in these APCs. Several of these APCs include procedures associated with drugs or devices for which pass-through payments are scheduled to expire in 2003.

We requested the Panel's input regarding whether or not these APCs should be restructured. The Panel stated that the current configuration of APCs 0203, 0204, 0206, and 0207 is more clinically cohesive than the previous year's configuration and that more data should be collected before making any changes. We propose to accept the Panel's recommendation that we make no changes to the structure of these APCs until more data become available for review.

n. Laminotomies and Laminectomies; Implantation of Pain Management Device.

APC 0208: Laminotomies and Laminectomies.

APC 0223: Implantation of Pain Management Device.

A presenter to the Panel, who represented a device manufacturer, requested that we move CPT code 62351 (Implant spinal canal catheter) from APC 0208 to APC 0223 to better capture the device cost that may be involved with the procedure. The Panel felt the data were insufficient to merit moving the code and recommended that CPT code 62351 remain in APC 0208 until more data are available for review. We propose to accept the Panel's recommendation that CPT code 62351 remain in APC 0208 until more claims data become available for review.

o. Extended EEG Studies and Sleep Studies; Electroencephalogram.

APC 0209: Extended EEG Studies and Sleep Studies, Level II.

APC 0213: Extended EEG Studies and Sleep Studies, Level I.

APC 0214: Electroencephalogram.

We expressed concern to the Panel that APC 0213 appears to minimally violate the 2 times rule. In order to remedy this violation, we asked the Panel to consider a commenter's suggestion that we move CPT code 95955 (EEG during surgery) from APC 0214 to APC 0213. The Panel agreed with the commenter's suggestion. We propose to accept the Panel's recommendation to move CPT code 95955 from APC 0214 to APC 0213.

p. Nerve and Muscle Tests.

APC 0215: Level I Nerve and Muscle Tests.

APC 0216: Level III Nerve and Muscle Tests.

APC 0218: Level II Nerve and Muscle Tests.

We expressed concern to the Panel that APC 0218 appears to violate the 2 times rule. In order to remedy this violation, one commenter requested that we move CPT codes 95921 (Autonomic nerve function test) and 95922 (Autonomic nerve function test) from APC 0218 to APC 0216, while another commenter requested that we move CPT code 95904 (Sensory nerve conduction test) from APC 0215 to APC 0218. Alternatively, our staff suggested to the Panel that the following CPT codes be moved from APC 0218 to APC 0215.

HCPCS | Description
95858 | Tensilon test & myogram.
95870 | Muscle test, nonparaspinal.
95900 | Motor nerve conduction test.
95903 | Motor nerve conduction test.

After considering all of the above proposals, the Panel recommended that we move CPT codes 95858, 95870, 95900, and 95903 from APC 0218 to APC 0215. We propose to accept the Panel's recommendation.

q. Implantation of Drug Infusion Device.

APC 0227: Implantation of Drug Infusion Device.

APC 0227 contains only two CPT codes: one for implantation of programmable spine infusion pumps, 62362, and for implantation of non-programmable spine infusion pumps, 62361. A commenter requested that we split APC 0227 into two APCs to recognize the cost difference between CPT code 62361 and CPT code 62362. However, since our cost data do not show a significant cost difference between the two devices and APC 227 does not violate the 2 times rule, the Panel recommended that CPT codes 62361 and 62362 remain in APC 0227. We propose to accept the Panel's recommendation.

r. Ophthalmologic APCs.

APC 0230: Level I Eye Tests & Treatments.

APC 0235: Level I Posterior Segment Eye Procedures.

APC 0236: Level II Posterior Segment Eye Procedures.

APC 0698: Level II Eye Tests & Treatments.

We advised the Panel that APCs 0230 and 0235 violate the 2 times rule but that the current configuration of these APCs reflects the Panel's previous recommendations. A presenter to the Panel, who represented a device manufacturer, expressed concern that the pass-through device category “New Technology: Intraocular Lens” was discontinued and these devices are now packaged. The presenter asked the Panel to recommend that future new intraocular lens devices be considered for a new pass-through category.

To remedy the violations to the 2 times rule, we asked the Panel to consider moving CPT code 67820 (Revise eyelashes) from APC 0230 to APC 0698 and CPT code 67110 (Repair detached retina) from APC 0235 to APC 0236. The Panel recommended that we make these changes. We propose to accept the Panel's recommendation and monitor the data for APC 0235 for possible review next year. The Panel also acknowledged that making recommendations concerning pass-through categories is beyond their purview.

s. Skin Tests and Miscellaneous Red Blood Cell Tests; Transfusion Laboratory Procedures.

APC 0341: Skin Tests and Miscellaneous Red Blood Cell Tests.

APC 0345: Level I Transfusion Laboratory Procedures.

We advised the Panel that APCs 0341 and 0345 minimally violate the 2 times rule and suggested moving several CPT codes within these APCs into a new APC because a commenter expressed concern over the combination of skin tests and miscellaneous red blood cell tests in APC 0341, asserting that services within this APC cannot be considered comparable with respect to resource usage.

In order to remedy these violations to the 2 times rule, we suggested moving CPT code 86901 (Blood typing, Rh (D)) from APC 0345 to a new APC along with the following CPT codes from APC 0341:

HCPCS | Description
86880 | Coombs test, direct.
86885 | Coombs test, indirect, qualitative.
86886 | Coombs test, indirect, titer.
86900 | Blood typing, ABO.

The Panel recommended that we make the above changes. We propose to accept the Panel's recommendation to move HCPCS codes 86880, 86885, 86886, and 86900 from APC 0341 to new APC 0409 and to move CPT code 86901 (Blood typing, Rh (D)) from APC 0345 to new APC 0409.

t. Otorhinolaryngologic Function Tests.

APC 0363: Level I Otorhinolaryngologic Function Tests.

APC 0660: Level II Otorhinolaryngologic Function Tests.

We expressed concern to the Panel that APC 0660 appears to violate the 2 times rule and suggested moving CPT codes 92543 (Caloric vestibular test) and 92588 (Evoked auditory test) from APC 0660 to APC 0363. The Panel recommended that we make these CPT code changes. We propose to accept the Panel's recommendation to move CPT codes 92543 and 92588 from APC 0660 to APC 0363.

u. Tube Changes and Repositioning.

APC 0121: Level I Tube changes and Repositioning

APC 0122: Level II Tube changes and Repositioning

We expressed concern to the Panel that APC 0121 appears to violate the 2 times rule. In order to remedy this violation, we suggested moving the following CPT codes from APC 0121 to APC 0122:

HCPCS | Description
47530 | Revise/reinsert bile tube.
50688 | Change of ureter tube.
51710 | Change of bladder tube.
62225 | Replace/irrigate catheter.

The Panel recommended that we make these CPT code changes. We propose to accept the Panel's recommendation to move CPT codes 47530, 50688, 51710, and 62225 from APC 0121 to APC 0122.

v. Myelography.

APC 0274: Myelography.

We advised the Panel that APC 0274 minimally violates the 2 times rule and suggested moving CPT codes 72285 (X-ray c/t spine disk) and 72295 (X-ray

c/t spine disk) from APC 0274 to a new APC. A presenter, from an organization representing radiologists, agreed with our proposal. The Panel recommended that we make these CPT code changes. We propose to accept the Panel's recommendation to move CPT codes 72285 and 72295 from APC 0274 to new APC 0388.

w. Therapeutic Radiologic Procedures.

APC 0296: Level I Therapeutic Radiologic Procedures

APC 0297: Level II Therapeutic Radiologic Procedures

We advised the Panel that APCs 0296 and 0297 appear to minimally violate the 2 times rule as a result of changes recommended by the Panel and adopted by CMS last year. The Panel recommended that no changes be made to APCs 0296 and 0297 in the interest of preserving the clinical homogeneity of these APCs. We propose to accept the Panel's recommendation that we make no CPT code changes to APCs 0296 and 0297.

x. Vascular Procedures; Cannula/Access Device Procedures.

APC 0103: Miscellaneous Vascular Procedures

APC 0115: Cannula/Access Device Procedures

A commenter requested that we move CPT code 36860 (External cannula declotting) from APC 0103 to APC 0115, asserting that this procedure is more similar to other procedures in APC 0115 and does not fit well in its current miscellaneous APC. The Panel found that the claims data were insufficient to support moving CPT code 36860 from APC 0103 to the higher paying APC 0115 and recommends that CPT code 36860 remain in APC 0103 until more data are available for review. We propose to accept the Panel's recommendation that CPT code 36860 remain in APC 0103 until more claims data become available for review.

y. Angiography and Venography Except Extremity.

APC 0279: Level II Angiography and Venography except Extremity.

APC 0280: Level III Angiography and Venography except Extremity.

APC 0668: Level I Angiography and Venography except Extremity.

A commenter requested that we move CPT code 75978 (Repair venous blockage) from APC 0668 to APC 0280 and that we move CPT code 75774 (Artery x-ray, each vessel) from APC 0668 to APC 0279. A presenter to the Panel testified that CPT code 75978 is commonly used for dialysis patients and often requires multiple intraoperative attempts to succeed; thus, it should be paid under APC 280. The Panel felt that APCs 0279, 0280, and 0668 were clinically homogenous and recommended that we only make changes after consulting with experts in the field. We propose to accept the Panel's recommendation to make no changes to APCs 0279, 0280, and 0668 until consulting with experts in the field. We plan to place these APCs on the Panel's agenda for the 2005 update.

z. Computed Tomography (CT), Magnetic Resonance (MR), and Ultrasound Guidance Procedures Currently Packaged.

APC 0332: Computerized Axial Tomography and Computerized Angiography without Contrast Material.

APC 0335: Magnetic Resonance Imaging, Miscellaneous.

APC 0268: Ultrasound Guidance Procedures.

A presenter to the Panel expressed concern that the packaging of guidance procedures for tissue ablation does not recognize the significant difference in cost and time required to perform each procedure (for example, MRI vs. CT). This presenter felt that hospitals needed more education on the appropriate application of these codes. Another commenter requested that CPT codes 76362, 76394, and 76490 be changed from a status indicator of N to a status indicator of S and included in an appropriate clinical or new technology APC.

The Panel agreed with the above comments and stated that the packaging of these three procedures made it difficult for hospitals to track their use for the purpose of allocating funds. The Panel recommended changing the following CPT codes from a packaged status (N status indicator) to a separately payable status (S status indicator) within the indicated APCs:

Table 3.—HCPCS Codes Proposed To Be Designated as Separately Payable
HCPCS | Description | 2003 status | 2004 APC
76362 | CT scan for tissue ablation | Packaged | 0332
76394 | MRI for tissue ablation | Packaged | 0335
76490 | US for tissue ablation | Packaged | 0268

We propose to accept the Panel's recommendation to change HCPCS codes 76362, 76394, and 76490 from a packaged status to a separately payable status as indicated above.

aa. Magnetic Resonance Imaging and Magnetic Resonance Angiography Without Contrast.

APC 0336: Magnetic Resonance Imaging and Magnetic Resonance Angiography without Contrast

A commenter requested that we change CPT code 76393 (MR guidance for needle placement) from a packaged status to a separately payable status within APC 0336. Based on clinical homogeneity considerations, the Panel agreed with the commenter and recommended that CPT code 76393 be changed from a status indicator of N to a status indicator of S and placed in APC 0335. We propose to accept the Panel's recommendation.

bb. Plain Film Except Teeth; Plain Film Except Teeth Including Bone Density Measurement.

APC 0260: Level I Plain Film Except Teeth.

APC 0261: Level II Plain Film Except Teeth Including Bone Density Measurement.

APC 0272: Level I Fluoroscopy.

A commenter requested that we move CPT codes 76120 (Cine/video x-rays) and 76125 (Cine/video x-rays add-on) from APC 0260 to APC 0261. However, a presenter to the Panel argued that these CPT codes are fluoroscopic procedures that should not be grouped with Level I radiography procedures. The Panel recommended that we move CPT code 76120 from APC 0260 to APC 0272 and that CPT code 76125 remain in APC 0260. This change makes the APCs more clinically coherent. We propose to accept the Panel's recommendation.

cc. Chemotherapy Administration by Other Technique Except Infusion.

APC 0116: Chemotherapy Administration by Other Technique Except Infusion.

A presenter to the Panel requested that we split APC 0116 into three APCs according to the method of administration: (a) Subcutaneous or intramuscular administration (CPT code 96400); (b) “push” administration (CPT code 96408); and (c) central nervous system administration (CPT code 96450). The presenter also requested that existing CPT codes should replace the more nonspecific Q codes for administration of chemotherapy because the CPT codes would provide more detailed data on methods of chemotherapy administration, which could be used for future payment policy decisions. Another presenter agreed with this request and stated that CPT codes are preferable to Q codes because other payers require CPT codes.

The Panel agreed with the above suggestions to split APC 0116 into 3 APCs according to the method of administration. The Panel recommended that we require hospitals to use the existing CPT codes (for example, 96400, 96408, and 96450) for administration of chemotherapy and map them to APCs 0116, 0117, and 0118, as appropriate. The Panel also recommended that payment rates be based on current Q code cost data until cost data for the CPT codes are available. These cost data would be used to determine whether to change the APC structure for chemotherapy administration.

We propose not to accept the Panel's recommendations to split APC 0116 into 3 APCs and to use CPT codes for administration of chemotherapy. We would consider such a split in the future but would like to first address the administration of drugs issue. We believe that making a change in APC 116 would be too complicated for hospitals given the changes for administration in general that we are considering in this proposed rule for implementation in CY 2004. We will consider such a split for APC 116 for CY 2005. We also believe the use of CPT codes would be burdensome to hospitals, would require extensive education, and would result in a significant amount of miscoding. The CPT codes for infusion therapy are based on the service furnished per hour. We do not believe that all hospitals routinely record the start and stop time for infusion therapy and that doing so in order to be able to bill the proper number of hours of infusion therapy could be very burdensome for them. Moreover, the historic cost data on which we base the payment for the service is reported on a per visit basis (much easier to cull from the record than the number of hours of service) and if we changed to CPT codes for these services, we would be unable to convert the charge/cost data now on a per visit basis to a per hour basis (as required by the CPT code) for budget neutrality purposes. Please see section VI of this proposed rule for further discussion on payments for drugs and drug administration.

dd. Capturing the Costs of Drugs and Biologicals Packaged Into APCs.

APC 0290: Level I Diagnostic Nuclear Medicine Excluding Myocardial Scans.

APC 0291: Level II Diagnostic Nuclear Medicine Excluding Myocardial Scans.

APC 0292: Level III Diagnostic Nuclear Medicine Excluding Myocardial Scans.

APC 0294: Level II Therapeutic Nuclear Medicine.

APC 0666: Myocardial Add-on Scans.

We told the Panel that APCs 0290 and 0291 appear to violate the 2 times rule. Several presenters to the Panel expressed concern that our cost data are inadequate because of confusion over coding due to changes in codes and coding instructions for these procedures, poor hospital reporting of radiopharmaceutical use, and the use of single (not multiple) claims in determining costs. One presenter claimed that the current cost data used for CPT code 78122 (Whole blood volume determination) underestimated real costs because of confusion about whether to code radiopharmaceuticals on a “per dose” basis or “per millicurie” basis. This presenter requested that we move CPT code 78122 from APC 0290 to the higher paying APC 0292.

Other presenters agreed with these concerns and said they were applicable to payments for all drugs, not just radiopharmaceuticals. These commenters were also concerned about the loss of drug-specific data due to packaging because hospitals would have no incentive to code, and thereby, identify, packaged drugs.

Pass-through payments for 236 drugs, biologicals, and radiopharmaceuticals expired as of 2003, and these items are now paid either separately or packaged with the procedures with which they are associated. Drugs and radiopharmaceuticals with median costs for administration of $150 or less were packaged. Beginning in 2003 claims data will not provide specific cost information for packaged items. We requested input from the Panel for methods to determine drug costs.

Panel members were concerned that packaging the costs of radiopharmaceuticals into procedures would result in underpayments for the service because we lack adequate data on the cost of radiopharmaceuticals. They were also concerned about creating incentives to use radiopharmaceuticals based on cost rather than clinical efficacy. The Panel recommended that we consider grouping drugs and radiopharmaceuticals into new APCs taking into account both their cost and clinical use. The Panel further recommended that, if new APCs for radionucliides are created, the descriptors should be as simple as possible and use of confusing units of measure should be limited.

Due to the packaging of radiopharmaceuticals into the APC payments for nuclear medicine procedures, we, along with commenters have expressed concern to the Panel regarding whether the current nuclear medicine APC structure is homogeneous in terms of resource consumption. We have reviewed information about the use and cost of various radiopharmaceuticals and believe that reorganizing the APCs for nuclear medicine would result in greater clinical and resource homogeneity. Therefore, we propose to eliminate APCs 0286, 0290, 0291, 0292, 0294, 0666 and create 20 new APCs for nuclear medicine that contain the following CPT codes:

HCPCS | Description
APC 0389:
78000 | Thyroid, single uptake.
78001 | Thyroid, multiple uptakes.
78003 | Thyroid suppress/stimul.
78020 | Thyroid met uptake.
78099 | Endocrine nuclear procedure.
78190 | Platelet survival, kinetics.
78191 | Platelet survival.
78199 | Blood/lymph nuclear exam.
78299 | GI nuclear procedure.
78399 | Musculoskeletal nuclear exam.
78499 | Cardiovascular nuclear exam.
78599 | Respiratory nuclear exam.
78699 | Nervous system nuclear exam.
78725 | Kidney function study.
78799 | Genitourinary nuclear exam.
78999 | Nuclear diagnostic exam.
79999 | Nuclear medicine therapy.
APC 0390:
78006 | Thyroid imaging with uptake.
78010 | Thyroid imaging.
78015 | Thyroid met imaging.
78016 | Thyroid met imaging/studies.
APC 0391:
78007 | Thyroid image, mult uptakes.
78011 | Thyroid imaging with flow.
78018 | Thyroid met imaging, body.
78070 | Parathyroid nuclear imaging.
APC 0392:
78075 | Adrenal nuclear imaging.
APC 0393:
78110 | Plasma volume, single.
78111 | Plasma volume, multiple.
78120 | Red cell mass, single.
78121 | Red cell mass, multiple.
78122 | Blood volume.
78130 | Red cell survival study.
78135 | Red cell survival kinetics.
78140 | Red cell sequestration.
78160 | Plasma iron turnover.
78162 | Radioiron absorption exam.
78170 | Red cell iron utilization.
78172 | Total body iron estimation.
APC 0400:
78102 | Bone marrow imaging, ltd.
78103 | Bone marrow imaging, mult.
78104 | Bone marrow imaging, body.
78185 | Spleen imaging.
78195 | Lymph system imaging.
APC 0394:
78201 | Liver imaging.
78202 | Liver imaging with flow.
78205 | Liver imaging (3D).
78206 | Liver image (3d) with flow.
78215 | Liver and spleen imaging.
78216 | Liver & spleen image/flow.
78220 | Liver function study.
78223 | Hepatobiliary imaging.
APC 0395:
78230 | Salivary gland imaging.
78231 | Serial salivary imaging.
78232 | Salivary gland function exam.
78258 | Esophageal motility study.
78261 | Gastric mucosa imaging.
78262 | Gastroesophageal reflux exam.
78264 | Gastric emptying study.
78278 | Acute GI blood loss imaging.
78290 | Meckel's divert exam.
78291 | Leveen/shunt patency exam.
78270 | Vit B-12 absorption exam.
78271 | Vit b-12 absrp exam, int fac.
78272 | Vit B-12 absorp, combined.
78282 | GI protein loss exam.
APC 0396:
78300 | Bone imaging, limited area.
78305 | Bone imaging, multiple areas.
78306 | Bone imaging, whole body.
78315 | Bone imaging, 3 phase.
78320 | Bone imaging (3D).
APC 0397:
78414 | Non-imaging heart function.
78445 | Venous thrombosis study.
78455 | Venous thrombosis study.
78456 | Acute venous thrombus image.
78457 | Venous thrombosis imaging.
78458 | Ven thrombosis images, bilat.
APC 0398:
78428 | Cardiac shunt imaging.
78460 | Heart muscle blood, single.
78461 | Heart muscle blood, multiple.
78464 | Heart image (3d), single.
78465 | Heart image (3d), multiple.
78466 | Heart infarct image.
78468 | Heart infarct image (ef).
78469 | Heart infarct image (3D).
78472 | Gated heart, planar, single.
78473 | Gated heart, multiple.
78481 | Heart first pass, single.
78483 | Heart first pass, multiple.
78494 | Heart image, spect.
APC 0399:
78478 | Heart wall motion add-on.
78480 | Heart function add-on.
78496 | Heart first pass add-on.
APC 0401:
78580 | Lung perfusion imaging.
78584 | Lung V/Q image single breath.
78585 | Lung V/Q imaging.
78586 | Aerosol lung image, single.
78587 | Aerosol lung image, multiple.
78588 | Perfusion lung image.
78591 | Vent image, 1 breath, 1 proj.
78593 | Vent image, 1 proj, gas.
78594 | Vent image, mult proj, gas.
78596 | Lung differential function.
APC 0402:
78600 | Brain imaging, ltd static.
78601 | Brain imaging, ltd w/flow.
78605 | Brain imaging, complete.
78606 | Brain imaging, compl w/flow.
78607 | Brain imaging (3D).
78610 | Brain flow imaging only.
78615 | Cerebral vascular flow image.
APC 0403:
78630 | Cerebrospinal fluid scan.
78635 | CSF ventriculography.
78645 | CSF shunt evaluation.
78647 | Cerebrospinal fluid scan.
78650 | CSF leakage imaging.
78660 | Nuclear exam of tear flow.
APC 0404:
78700 | Kidney imaging, static.
78701 | Kidney imaging with flow.
78704 | Imaging renogram.
78707 | Kidney flow/function image.
78708 | Kidney flow/function image.
78709 | Kidney flow/function image.
78710 | Kidney imaging (3D).
78715 | Renal vascular flow exam.
APC 0405:
78730 | Urinary bladder retention.
78740 | Ureteral reflux study.
78760 | Testicular imaging.
78761 | Testicular imaging/flow.
APC 0406:
78800 | Tumor imaging, limited area.
78801 | Tumor imaging, mult areas.
78802 | Tumor imaging, whole body.
78803 | Tumor imaging, whole body.
78805 | Abscess imaging, ltd area.
78806 | Abscess imaging, whole body.
78807 | Nuclear localization/abscess.
G0273 | Pretx planning, non-Hodgkins.
APC 0407:
79000 | Init hyperthyroid therapy.
79001 | Repeat hyperthyroid therapy.
79020 | Thyroid ablation.
79030 | Thyroid ablation, carcinoma.
79035 | Thyroid metastatic therapy.
APC 0408:
79100 | Hematopoetic nuclear therapy.
79200 | Intracavitary nuclear trmt.
79300 | Interstitial nuclear therapy.
79400 | Nonhemato nuclear therapy.
79420 | Thyroid metastatic therapy.
79440 | Nuclear joint therapy.
G0274 | Radiopharm tx, non-Hodgkins.

We believe that the proposed APC structure, which takes into account the organ(s) being examined (or treated) as well as the type and complexity of the procedure, is more homogeneous both clinically and in terms of resource consumption than the current APC structure.

Currently, payment for the radiopharmaceutical “zevalin” (Ibritumomab Tiuxetan) is packaged into the payment for HCPCS codes G0273 (Pretx planning, non-Hodgkins) and G0274 (Radiopharm tx, non-Hodgkins). To ensure consistency with our payment policy for other radiopharmaceuticals (that is, making separate payment for radiopharmaceuticals whose costs are greater than $150 per episode of care), we are proposing to make payment for “zevalin” (Ibritumomab Tiuxetan) separately from payment for the procedures with which “zevalin” (Ibritumomab Tiuxetan) is used.

We propose to use HCPCS A9522 (Indium 111 ibritumomab tiuxetan) to report the use of In-111 Zevalin (In-111 Ibritumomab Tiuxetan) and HCPCS A9523 (Yttrium 90 ibritumomab tiuxetan) to report the use of Y90 Zevalin (Y90 Ibritumomab Tiuxetan). We would place HCPCS A9522 in APC 9118 with a payment amount of $2,084.55 and HCPCS A9523 in APC 9117 with a payment amount of $18,066.09. We note that payment rates for radiopharmaceuticals are not subject to wage index adjustments because no portion of the payment is attributed to labor-related costs.

Because we propose that payment for G0273 and G0274 no longer include payment for “zevalin,” we also propose to place G0273 into newly created APC 0406 and G0274 into newly created APC 0408. These APCs include procedures that are similar clinically and in terms of resource consumption to G0274 and G0273, respectively.

Please see section VI of this proposed rule for further discussion on payments for drugs, biologicals, and radiopharmaceuticals.

ee. Endoscopy Lower Airway.

APC 0076: Endoscopy Lower Airway.

A presenter to the Panel expressed concern that APC 0076 apparently violates the 2 times rule and requested that we move CPT code 31631 (bronchoscopy with tracheal stent placement) from APC 0076 and into a new APC.

The Panel suggested that a new APC comprised of the four most costly procedures in APC 0076 would result in a more homogenous grouping, and recommended that we move the following CPT codes from APC 0076 and into newly created APC 0415.

HCPCS | Description
31630 | Bronchoscopy dilate/fracture reduction.
31631 | Bronchoscopy, dilate w/stent.
31640 | Bronchoscopy w/tumor excise.
31641 | Bronchoscopy, treat blockage.

We propose to accept the Panel's recommendation that we move CPT codes 31630, 31631, 31640, and 31641 from APC 0076 to new APC 0415.

ff. Gastrointestinal Endoscopic Stenting Procedures.

APC 0141: Upper GI Procedures.

APC 0142: Small Intestine Endoscopy.

APC 0143: Lower GI Endoscopy.

APC 0147: Level II Sigmoidoscopy.

A commenter requested that we create a new APC that would be comprised of all the gastrointestinal endoscopic stent codes. The Panel agreed with the commenter's suggestion because the resource requirements for all gastrointestinal endoscopic stents appear to be similar.

The Panel recommended that we move the following CPT codes from their 2003 APCs to newly created APC 0384 for 2004:

Table 4.—HCPCS Codes To Be Moved Into New APC 0646
HCPCS | Description | 2003 APC | 2004 APC
43219 | Esophagus endoscopy | 0141 | 0384
43256 | Upper GI endoscopy w/stent | 0141 | 0384
44370 | Small bowel endoscopy w/stent | 0142 | 0384
44379 | Small bowel endoscopy w/stent | 0142 | 0384
44383 | Small bowel endoscopy | 0142 | 0384
44397 | Colonoscopy w/stent | 0143 | 0384
45387 | Colonoscopy w/stent | 0143 | 0384
45327 | Proctosigmoidoscopy w/stent | 0147 | 0384
45345 | Sigmoidoscopy w/stent | 0147 | 0384

We propose to accept the Panel's recommendation to move the following gastrointestinal endoscopic stent CPT codes into newly created APC 0384: 43219, 43256 (from APC 0141); 44370, 44379, 44383 (from APC 0142); 44397, 45387 (from APC 0143); 45327, and 45345 (from APC 0147).

gg. Capturing the Costs of Devices That Are Packaged Into APCs.

APC 0081: Non-Coronary Angioplasty or Atherectomy.

APC 0083: Coronary Angioplasty and Percutaneous Valvuloplasty.

APC 0104: Transcatheter Placement of Intracoronary Stents.

APC 0222: Implantation of Neurological Device.

APC 0223: Implantation of Pain Management Device.

APC 0227: Implantation of Drug Infusion Device.

APC 0229: Transcatheter Placement of Intravascular Shunts.

Several commenters requested that the status indicators for the above APCs (all of which include high-cost devices) be changed from T (multiple-procedure discount applies) to S (multiple-procedure discount does not apply). Two presenters to the Panel stated that hospitals do not pay less for devices when they are used in the context of a multiple-procedure claim and suggested that we apply the multiple-procedure reduction to the non-device portion of the claim only. Alternatively, these presenters recommended that we apply the discount policy only when the device cost is below a predetermined proportion of the APC cost. Another presenter to the Panel requested that APCs 0222, 0223, and 0227 be exempt from the multiple procedure discount policy because the cost of the devices used in these procedures makes up more than 50 percent of the APC cost.

We sought the Panel's input as to whether there are situations in which we should not apply our multiple procedure discount policy. The Panel recommended no changes to the status indicators for any of the device-related APCs discussed because they were concerned that exemptions from the discount policy could result in incentives to use more devices than necessary. However, the Panel asked that we analyze our data to determine if we may be underpaying for devices when the multiple procedure discounting policy is applied and recommended that we develop some methodology to track device costs. In section V.C of this proposed rule, we discuss the issue of device costs and multiple procedure reductions and our progress to date in developing “combination APCs” to address the Panel's concern.

hh. Discussion of Ways To Increase the Use of Multiple Claims To Set APC Payment Rates.

A presenter to the Panel suggested that we use dates of service on multiple procedure claims to increase the number of claims we use to set payment rates. Another presenter suggested that we could further increase the number of multiple procedure claims that could be used to set payment rates by ignoring codes with status indicator K. Other suggestions were to exclude from consideration those APCs with small dollar values and to create a new code or APC specifically for the insertion and removal of devices.

The Panel recommended that our staff explore ways to increase the number of claims used to set payment rates, including the following methodologies: sort multiple claims by date of service; exclude codes with K status indicator from evaluation; exclude those APCs with nominal costs (the definition of “nominal” can be determined by modeling a variety of possible dollar amounts). In addition, the Panel recommended that we create no G codes as part of the effort to use multiple procedure claims for developing relative weights. If new codes are needed, the Panel suggested that our staff work with the American Medical Association's CPT Board to identify possible new codes. Please see section V.C of this proposed rule for our discussion of the use of multiple procedure claims for developing payment rates for procedures that use devices.

B. Other Changes Affecting the APCs

1. Limit on Variation of Costs of Services Classified Within an APC Group

Section 1833(t)(2) of the Act provides that the items and services within an APC group cannot be considered comparable with respect to the use of resources if the highest cost item or service within an APC group is more than 2 times greater than the lowest cost item or service within the same group. However, the statute authorizes the Secretary to make exceptions to this limit on the variation of costs within each APC group in unusual cases such as low volume items and services. No exception may be made in the case of a drug or biological that has been designated as an orphan drug under section 526 of the Federal Food, Drug, and Cosmetic Act.

Taking into account the proposed APC changes discussed in relation to the APC Panel recommendations in section II.A.4 of this proposed rule and the use of 2002 claims data to calculate the median cost of procedures classified to APCs, we reviewed all the APCs to determine which of them would not meet the 2 times limit. We use the following criteria when deciding whether to make exceptions to the 2 times rule for affected APCs:

• Resource homogeneity.

• Clinical homogeneity.

• Hospital concentration.

• Frequency of service (volume).

• Opportunity for upcoding and code fragmentation.

For a detailed discussion of these criteria, refer to the April 7, 2000 final rule (65 FR 18457).

The following table contains APCs that we propose to exempt from the 2 times rule based on the criteria cited above. In cases in which a recommendation of the APC Panel appeared to result in or allow a violation of the 2 times rule, we generally accepted the Panel recommendation because Panel recommendations were based on explicit consideration of resource use, clinical homogeneity, hospital specialization, and the quality of the data used to determine payment rates.

The median cost for hospital outpatient services for these and all other APCs can be found at Web site: http://www.cms.hhs.gov.

Table 5.—Table of APCs Exempted From 2 Times Rule
Proposed rule APC | Description
0004 | Level I Needle Biopsy/Aspiration Except Bone Marrow.
0018 | Biopsy of Skin/Puncture of Lesion.
0019 | Level I Excision/Biopsy.
0020 | Level II Excision/Biopsy.
0032 | Insertion of Central Venous/Arterial Catheter.
0043 | Closed Treatment Fracture Finger/Toe/Trunk.
0046 | Open/Percutaneous Treatment Fracture or Dislocation.
0048 | Arthroplasty with Prosthesis.
0055 | Level I Foot Musculoskeletal Procedures.
0058 | Level I Strapping and Cast Application.
0060 | Manipulation Therapy.
0072 | Level II Endoscopy Upper Airway.
0073 | Level III Endoscopy Upper Airway.
0080 | Diagnostic Cardiac Catheterization.
0084 | Level I Electrophysiologic Evaluation.
0097 | Cardiac and Ambulatory Blood Pressure Monitoring.
0099 | Electrocardiograms.
0105 | Revision/Removal of Pacemakers, AICD, or Vascular.
0130 | Level I Laparoscopy.
0147 | Level II Sigmoidoscopy.
0148 | Level I Anal/Rectal Procedure.
0155 | Level II Anal/Rectal Procedure.
0164 | Level I Urinary and Anal Procedures.
0165 | Level III Urinary and Anal Procedures.
0192 | Level IV Female Reproductive Proc.
0203 | Level IV Nerve Injections
0204 | Level I Nerve Injections.
0207 | Level III Nerve Injections.
0213 | Extended EEG Studies and Sleep Studies, Level I.
0214 | Electroencephalogram.
0218 | Level II Nerve and Muscle Tests.
0231 | Level III Eye Tests & Treatments.
0233 | Level II Anterior Segment Eye Procedures.
0235 | Level I Posterior Segment Eye Procedures.
0239 | Level II Repair and Plastic Eye Procedures.
0245 | Level I Cataract Procedures without IOL Insert.
0252 | Level II ENT Procedures.
0262 | Plain Film of Teeth.
0266 | Level II Diagnostic Ultrasound Except Vascular.
0274 | Myelography.
0303 | Treatment Device Construction.
0330 | Dental Procedures.
0340 | Minor Ancillary Procedures.
0341 | Skin Tests.
0344 | Level III Pathology.
0363 | Level I Otorhinolaryngologic Function Tests.
0364 | Level I Audiometry.
0367 | Level I Pulmonary Test.
0368 | Level II Pulmonary Tests.
0370 | Allergy Tests.
0373 | Neuropsychological Testing.
0385 | Urinary Incontinence Procedures.
0397 | Vascular Imaging.
0408 | Non-thyroid Radionucliide Treatment.
0409 | Red Blood Cell Tests.
0600 | Low Level Clinic Visits.
0668 | Level I Angiography and Venography except Extremity.
0692 | Electronic Analysis of Neurostimulator Pulse Generators.
0698 | Level II Eye Tests & Treatments.

2. Procedures Moved From New Technology APCs to Clinically Appropriate APCs

In the November 30, 2001 final rule (66 FR 59903), we made final our proposal to change the period of time during which a service may be paid under a new technology APC. The April 7, 2000 final rule initially established the time frame that new technology APCs would be in effect (65 FR 18457). Beginning in 2002, we retain a service within a new technology APC group until we have acquired adequate data that allow us to assign the service to a clinically appropriate APC. This policy allows us to move a service from a new technology APC in less than 2 years if sufficient data are available, and it also allows us to retain a service in a new technology APC for more than 3 years if sufficient data upon which to base a decision for reassignment have not been collected.

In the context of new technology procedures, we create HCPCS codes for services only. We do not create HCPCS codes for equipment that is used in the course of providing an item or service (except in the case of “C” codes for devices that meet the criteria for transitional pass-through payments). Equipment that is used to provide an item or service is not separately coded because it is a resource required to furnish the service. Like other resources that are required to furnish a service (for example, cost of a room, cost of staff, cost of supplies), the hospital should show charges either as part of its charge for the procedure or with a revenue code.

As described in more detail below, we propose to delete four HCPCS codes that are currently paid in new technology APCs. These four HCPCS codes do not conform to our current policy to not create HCPCS codes for equipment used to provide a service. In addition, there exist, or soon will exist, CPT codes to describe the services being furnished, including any equipment that is needed to perform them, so we believe it is appropriate at this time to delete the HCPCS codes. The HCPCS codes we propose to delete effective January 1, 2004 are:

C1088: Laser Optic Treatment system, Indigo Laseroptic Treatment System,

C9701: Stretta System,

C9703: Bard Endoscopic Suturing System, and

C9711: H.E.L.P. Apheresis System.

These codes were created and assigned to New Technology APCs when it was CMS policy to create a C code to describe an item of equipment for which there was no other means of making payment for the service in which the equipment was used. In the November 30, 2001 final rule, we announced that we would not use New Technology APCs to pay for drugs, devices, and equipment that are used in the performance of a procedure, but which are not in and of themselves a complete service. It is due to an oversight on our part that we did not delete these codes at that time. We stopped using C codes to describe specific devices in April 2001 and no longer create C codes to describe items of equipment. Moreover, we have found that there are existing CPT codes or, in the case of C9701, there will soon be a CPT tracking code, that will accurately report the services being furnished, and under which the hospital should report the charges for providing the services, including charges related to the equipment needed to furnish the service. Therefore, payment will be appropriate regardless of whether there are separate codes for these items of equipment.

HCPCS code C1088, the Laser Optic Treatment System, Indigo Laseroptic Treatment System, now paid under APC 0980 is no longer needed because our review of data shows that the equipment it describes is appropriately reported under CPT codes 52647 and 52648. The procedures described by these CPT codes may be performed by using several types of equipment, one of which is the type described by C1088. In fact, most of the claims containing line items for C1088 are accompanied by line items for 52647 or 52648. This means that hospitals are appropriately reporting these services under the applicable CPT codes and that any charges associated with C1088 are likely duplicate charges for the service provided. Therefore, we propose to delete C1088 and to have hospitals continue to report these services under CPT codes 52647 and 52648, which are in APC 0163.

HCPCS code C9701, the Stretta System, now paid under APC 0980, is used in a procedure that will soon be given a CPT Category Three Tracking Code by the American Medical Association's CPT Editorial Panel. We propose to use the CPT tracking code to report services using the Stretta System and to delete HCPCS code C9701. We propose to assign the new CPT tracking code in APC 1557.

HCPCS code C9703, the Bard Endoscopic Suturing System, now paid under APC 0979, is used in a procedure that has been granted a CPT Category Three Tracking Code, 0008T, which describes the procedure for which this equipment is used. We propose to delete C9703 and to require hospitals to use 0008T to report services using this equipment. We propose to assign CPT code 0008T to APC 1555 for 2004.

HCPCS code C9711, the H.E.L.P. Apheresis System, now paid under APC 0978, is used to provide apheresis, which is appropriately reported using CPT codes 36511 through 36516. Therefore, we propose to delete C9711 and to require hospitals to report the service in which this equipment is used by using CPT codes 36511 through 36516.

3. Revision of Cost Bands and Payment Amounts for New Technology APCs

In the April 7, 2000 final rule (68 FR 18477), we created 15 new technology APCs (APCs 0970 through 0984) to pay for certain new technology services under the OPPS. As discussed in both the April 7, 2000 and November 30, 2001 final rules, new technology APCs are intended to pay for new or rarely performed procedures for which we lack sufficient cost data to make an assignment to a clinical APC. New technology APCs are defined on the basis of costs, not the clinical characteristics of a service. The payment rate for each new technology APC is based on the midpoint of a range of costs.

In the November 30, 2001 final rule (66 FR 59856), we revised several of the cost bands, added a payment level to the original group of new technology APCs, and assigned status indicator “T” to APCs 0970 through 0985. We also created a parallel set of new technology APCs (APCs 0706 through 0721), each of which was assigned status indicator “S.” In addition, we changed the definition of what is appropriately paid for under a new technology APC; we refined the criteria for determining assignment of a procedure or service to a new technology APC; we clarified the information that must be supplied for a request for new technology status to be considered; and we removed the restrictions on how long a procedure can be assigned to a new technology APC. These changes, which are discussed in detail in the November 30, 2001 final rule, were implemented effective April 1, 2002.

In the November 1, 2002 final rule, we established two additional new technology APCs, APC 989, and APC 725; as these APCs were not discussed in the proposed rule, they were considered interim with comment.

In this proposed rule, we are proposing to implement a comprehensive restructuring of all the new technology APCs. First, the cost intervals in the current new technology APCs are inconsistent, ranging from $50 to $1,500. Secondly, as the number of procedures assigned to new technology APCs increases, we believe that narrower cost bands are required to avoid significant mispayment for new technology services. The increased number of new technology APCs that would result from narrowing the cost bands cannot be accommodated within the current sequence of available APC numbers. Therefore, we are proposing to dedicate two new series of APC numbers to the restructured new technology APCs, which would allow us to narrow the cost bands and also afford us flexibility in creating additional bands as future needs may dictate.

We propose to establish cost bands from $0 to $100 in increments of $50, from $100 through $2,000 in intervals of $100, and from $2,000 through $6,000 in intervals of $500. We believe that these intervals would allow us to price new technology services more appropriately and consistently. We also propose to retain two parallel sets of new technology APCs, one with status indicator “S” and the other with status indicator “T.” We invite comments on the hierarchy of cost levels of the restructured new technology APCs.

We would reassign current new technology procedures to the level in the restructured new technology APCs so that the payment amount for the procedure in 2004 closely approximates the current payment amount. As we explained in the November 30, 2001 final rule, we generally keep a procedure in the new technology APC to which it is initially assigned until we have collected data sufficient to enable us to move the procedure to a clinically appropriate APC. However, in cases where we find that our original new technology APC assignment was based on inaccurate or inadequate information, we may, based on more recent information (including claims data), reassign the procedure or service to a different new technology APC that more appropriately reflects its cost.

The proposed restructured new technology APCs are listed in Addendum A.

4. APC Assignment for New Codes Created During Calendar Year (CY) 2003

During CY 2003, we created several HCPCS codes to describe services payable under the hospital OPPS. These codes have already been assigned to APCs for CY 2003. In this proposed rule, we solicit comment on the APC assignment of these services. In addition, in this proposed rule, we propose to create a new HCPCS code with an effective date of July 1, 2003. Table 6 includes a new procedural HCPCS code created for implementation in July 2003.

Table 6 does not include new codes for drugs and devices for which we established or intend to establish pass-through payment eligibility effective July or October 2003. Furthermore, neither the new procedural HCPCS nor the new pass-through codes proposed for implementation beginning October 2003, or later, are included in Addendum B of this proposed rule.

Table 6—New G Code for 2003
HCPCS code | Long descriptor | SI | Effective date | APC
G0296 | PET imaging, full and partial ring PET scanner only, for restaging of previously treated thyroid cancer of follicular cell origin following negative I-131 whole body scan | S | 07/01/03 | 0714

5. Creation of APCs for Combinations of Device Procedures

In the course of developing the proposed rule for the 2004 OPPS, we wanted to ensure that the claims we use to set payment rates for APCs into which we package medical devices accurately reflect the costs of both the device and non-device portions of the service. As discussed in section III of this proposed rule, we have made a number of changes to our methodology for the creation of single procedure claims used to set relative weights. These changes enabled us to use charge data from more claims to set relative weights. However, we have noted that in spite of our new methodology, we were unable to significantly increase the number of single procedure claims used to set relative weights for several APCs that use high cost devices. One reason for this is that these APCs are often billed in combination with several other major procedures so that we are unable to generate single procedure claims for these APCs.

In the past, commenters have alleged that without using multiple procedure claims, we will be unable to capture the costs of the more complex cases in which multiple procedures are performed and multiple devices are used. These commenters further requested that we change the status indicator of certain APCs from “T” to “S” in order to appropriately capture the cost of high cost devices when multiple procedures, each using devices, were billed. In addition to attempting to find a way to use multiple procedure claims, we also decided to examine our claims data to investigate whether our current payments for multiple procedures performed on the same date, each using high cost devices accurately captured the costs of the device and non-device portion of each procedure.

In order to do this, we reviewed claims from APCs that required high cost devices and from which we were unable to use the majority of claims to set a relative weight for the APC (for example, APCs for insertion of pacemakers, defibrillators, and neurostimulators). We determined the frequency with which other APCs were billed with the high cost device APCs. We then selected those claims where two APCs using high cost devices, or one APC using high cost devices and one high cost, non-device-requiring APC, were billed together with a frequency of more than 100 for the time period April 1, 2002 through September 30, 2002. This number was chosen in order to ensure that we had enough claims to determine reliable median costs. We included the APC combination 0081/0104 unintentionally and performed the analysis without realizing until after the data were developed that it had fewer than 100 claims and therefore should not have been selected. We expected that the data being used to set the 2004 weights would have a similar number of each combination to the number we found in the April 2002 to September 2002 claims. Review of Table 7, Combination APCs Used in Analysis, shows that even starting with 100 claims, we frequently had to determine median costs with very few claims. Additionally, Table 7 reveals that only a few combinations of two high cost device-requiring APCs are billed together 100 or more times. Six of the twelve combinations we analyzed (for example, claims for insertion of pacemakers and defibrillators) contained APC 0105 (Removal of pacemaker defibrillator), which is not a high cost, device-requiring APC. As the data show, APC 0105 is frequently found on multiple procedure claims, but because it is not a high cost device-requiring APC, when it is billed with these APCs, the multiple procedure reductions are applied to APC 0105. Therefore, we have determined that the vast majority of claims for APCs, such as “insertion of Cardioverter Defibrillators,” were not usable multiple procedure claims for the purpose of determining relative weights under our single claim process because they were billed with APC 0105.

After selecting the combinations to review, we determined the hospital costs associated with providing these “combination” procedures using the following methodology:

1. We selected claims where the two APCs of interest both appeared on the claim with the same date of service, and subjected them to the same trimming methodology we use for single procedure claims.

2. We then required that each APC appear on the claim only once. (For example, if two HCPCS codes from APC 0081 appeared on a claim with one HCPCS code from APC 0229, we did not use the claim. Many claims were discarded because of this requirement.)

3. From the claims in step two, we selected only those claims that included the device category codes for the devices required to perform the service. This is similar to our methodology for using single procedure claims where the procedure requires the use of a device with a category code (for example, for claims involving APCs 0222/0225, we used only claims that contained C codes for both a neurostimulator pulse generator and neuroelectrodes).

4. We ignored any line items for separately payable services under OPPS or the lab fee schedule and any line items with revenue centers containing HCPCS other than those in the APCs of interest.

5. At this point, we were left with claims where the only separately payable services were the line items for the HCPCS in the APCs of interest.

6. We packaged into the payable HCPCS codes all device category codes, all packaged HCPCS codes, and all revenue center codes without HCPCS.

7. We then determined the median cost for each APC pair using the remaining claims.

We believe the median cost estimate determined by this methodology should, if anything, overestimate the costs of the procedure combinations studied since all packaged line items were attributed to the APCs of interest unless they were clearly identified as being associated with other procedures. For example, if line items for a clinic visit and a medical or surgical supply revenue center appeared on the claim, we packaged the charges associated with the revenue center entirely into the APCs of interest and not into the APC for clinic visits.

We also determined the median costs for these APCs using our usual single claims methodology (these medians are contained in Addendum A). We then determined a summed median cost of each APC pair using our current payment policy, which allows payment at 100 percent for the most expensive APC with “T” status indicator and 50 percent for each additional APC with “T” status indicator. That is, we added the median cost of the more expensive APC and 50 percent of the median cost of the less expensive APC as a proxy for the total median cost (and payment) using our current payment policy. We then compared this figure with the median cost for the “combination APC.” (See Table 7.) We believe this comparison is an indicator of whether our current payment policy accurately pays for the costs of these APCs when they are billed together on the same date of service.

Our comparison reveals that, of the 12 “combination APCs” created, 7 had higher median costs than the median costs obtained with the multiple procedure methodology (we note that because APC 222 has a status indicator of “S”, we did not apply the multiple procedure reduction for the APC 0222/0225 combination).

For three of these seven combinations, we consider the data unreliable because we were able to use very few claims to determine the “combination” median cost. Specifically, for APC combination 0085/0655, we were able to use only 37 claims; for APC combination 0105/0089, we were to use only 16 claims; and for APC combination 0105/0655, we were able to use only 12 claims. This is in distinction to the number of claims we used to determine the median costs for APCs 0655 and 0089 alone (1,170 and 303 respectively). Further, two of these combinations contain only one APC using high cost devices because APC 0105 does not require the use of high cost devices. This means that the multiple procedure reduction was applied to APC 0105. In such cases, we believe the reduction is appropriate because when a pacemaker or defibrillator is removed and replaced, the patient is only anesthetized once, the room only needs to be prepared once, and the time for replacement is usually less than the time for insertion due to the existence of a subcutaneous pocket.

Three other APC combinations, 0105/0090, 0105/0107, and 0105/0654, also contain only one APC requiring the use of high cost devices and therefore should not pose the problem of underpayment due to the multiple procedure reduction, which was applied to APC 0105. Furthermore, in these three cases, the difference in median costs between the combination median and the median determined by our multiple procedure reduction methodology was, in our view, insignificant (all much less than 5 percent).

For APC combination 0222/0225, the difference in median cost could be considered significant at slightly under 5 percent, but only 74 claims were used to determine the combination median. Because we used approximately 600 claims to determine the median costs for APCs 0222 and APC 0225 individually, we consider the combination median cost comparatively unreliable.

Lastly, we note that for the other five combinations, our current payment policy pays more than the “combination” payment methodology.

Based on this comparison we considered several options for payment of these APCs when billed together:

1. Maintain our current payment policy.

2. Change the status indicators of certain APCs requiring the use of high cost devices to “S.”

3. Create “combination APCs” with relative weights calculated using the methodology described above in order to make a single payment when the two APCs in the combination are billed together.

The third option need not result in creation of new HCPCS codes and APCs for hospitals to report. Instead, we could make changes in the logic of the outpatient code editor (OCE) so that when hospitals bill the two APCs in a combination, the OCE would “map” the payment to a single amount rather than paying the more expensive APC at 100 percent and the less expensive at 50 percent. The following is an example of how combination APCs might work: If a unit of a code in APC 0081 was billed with a unit of a code in APC 0104 on the same date, the multiple procedure discount would not be applied, so payment would no longer be made at 100 percent of the payment for APC 0104 (the highest paid APC in the pair) and 50 percent of the payment for APC 0081. Instead, if we were to implement combination APCs for this pair, the combination of codes would be mapped to a new “combination” APC, and we would make a single payment for both services. The payment rate for the new “combination” APC would be based upon a scaled weight calculated from the median cost for all claims containing one unit of a code from APC 0081 and one unit of a code from APC 0104 (using the methodology described above). If either of the APCs were billed without the partner APC for that established “combination” APC, then the APC would map to the current APC that contains the code.

Based on our analysis, we are proposing option one: Maintaining our current payment policy. We believe that our analysis shows that our current payments for these APCs adequately reflect the costs of the procedures, even when billed in combination.

We note that only a few APCs requiring the use of high cost devices are billed in combination. Thus, we do not believe there are compelling reasons to establish a new, or special, payment policy in situations where two APCs requiring high cost devices are billed together fewer than 100 times. Even when APCs are billed together, we have shown that frequently the data are unreliable due to the low number of claims we can actually use to determine the total median cost of the “combined” procedure. Furthermore, even where the number of usable claims is large enough to give us some assurance that the data are reliable, the median costs as determined by the two methodologies do not support any changes in our current payment policy. In some instances, adoption of the new payment policy would actually reduce payments for these services, and, in most other cases, any increase in payments would be negligible.

One commenter has brought to our attention the fact that, rarely, correct coding does not allow hospitals to bill for two APCs requiring high cost devices. One example is APC 0082 (Coronary Atherectomy) and APC 0104 (Transcoronary Stent Placement) because atherectomy is considered to be a component of stent placement when both are performed together. In those cases, we would expect hospitals to bill for all the devices used to accomplish the atherectomy and the stent placement. To the extent that both were performed, the median cost of stent placement should reflect the cost of performing an atherectomy. Therefore, we do not believe there is a compelling reason to create new payment policy for these rare situations. (See also the discussion below on “case rate” purchasing by hospitals.)

It could be reasoned that our analysis of the costs of “combined” procedures is faulty because hospital coding and billing inaccuracies may apply to these claims as well as single procedure claims (and may even be magnified). However, that reasoning would undercut, and be contrary to, the repeated comments that we need to use more multiple procedure claims to set relative weights because single procedure claims do not capture the true costs of complex procedures or episodes of care. Our investigation was performed precisely to address these concerns, determine how we might use multiple procedure claims, and what effect use of those claims would have on payment rates. Even with use of a methodology that overestimated the costs of combination procedures, we were unable to show that the median costs (and payments) using our current payment policy do not accurately reflect the costs for performing these procedures.

Other possible factors affecting our analysis include charge compression and/or inadequate charges for these procedures or the devices associated with them. However, it is not possible for us to know the magnitude of how charge compression or inadequate charges might affect costs or what methodologic or payment adjustment would be appropriate to address the problem. Furthermore, we point out that charge compression and inadequate charges should affect our cost data for these APCs when billed alone and when these APCs are billed in combination. It is unknown whether the effects would be similar in each instance but we have no reason to believe they would be different. Therefore, we do not believe that adjusting for charge compression or inadequate charges would change the “relative” median costs of the APCs when billed alone or in combination. Finally, we believe that the median costs of the APCs billed in combination support the concept that economies of scale are achieved in those cases. There are at least two reasons why this might occur: First, many hospitals purchase devices on a case rate or capitated basis, which means that the hospitals' device cost “per case” is fixed (with quarterly adjustments made based on volume and actual device use in the previous quarter(s)). For example, inserting a stent or cardioverter defibrillator requires the use of multiple devices in addition to the stent or defibrillator. A hospital may agree to pay $XXXX “per case” for all the devices used to insert a stent (for example, guidewires, introducers, catheters, rotablators etc.). This “per case” payment means that the hospital has the same cost irrespective of whether a rotablator, two catheters, or four catheters were used for a specific patient. Second, even if hospitals purchase devices on a “per device” basis, it is possible that no extra catheters, guidewires, and/or introducers, for example, are used when a second related procedure is performed (for example, an electrophysiology study and a defibrillator lead placement, or an angioplasty and a stent placement).

In summary, we have concluded that there is no compelling reason to change our current payment policy for APCs requiring the use of high cost devices.

We solicit public comments on our methodology, analysis, and payment options for these APCs. We particularly solicit comments on how our analysis should affect any use of external data sources in the final rule. Specifically, we ask commenters to explain why submitted external data should be used in preference to our single or multiple claim data for APCs requiring the use of high cost devices.

We also note that creation of “combination APCs” would allow us to set relative weights using a number of claims that we otherwise would not be able to use. Therefore we solicit comments on this approach to using more claims to set relative weights and specifically request comments on how to use those claims even if we do not create “combination APCs.”

Table 7.—Combination APCs Used in Analysis
Combination of APCs | Descriptions of both APCs in the combination | Sum of single APC medians adjusted for multiple procedure policy | Frequency of combination APC billed on the same date | Frequency of claims used for median cost of services in both APCs | Median cost of services in both APCs | Percent difference median for both APCs to sum of adjusted single medians
0081/0104 | Noncoronary Angioplasty/Athectomy & Transcatheter Placement of Intracoronary Stent | $5,760.50 | 55 | 2 | $5,589.14 | −2.97
0081/0229 | Noncoronary Angioplasty/Athectomy & Transcatheter Placement of Iintravascular Stent | 4,507.09 | 6177 | 135 | 4,116.50 | −8.67
0085/0108 | Level II Electrophysiologic Evaluation & Insertion/Replacement/Convert of Cardioverter Defibrillator | 29,749.68 | 502 | 63 | 20,438.99 | −31.30
0085/0655 | Level II Electrophysiologic Evaluation & Insertion/Replacement/Conversion of Permanent Dual Chamber Pacemaker | 9,398.45 | 268 | 37 | 10,832.16 | 15.25
0105/0089 | Revision/Removal of Pacemakers, AICD, or Vascular & Insertion/replacement of Permanent Pacemaker and Electrodes | 7,360.80 | 221 | 16 | 12,268.96 | 66.68
0105/0090 | Revision/Removal of Pacemakers, AICD, or Vascular & Insertion/replacement of Permanent Pacemaker Pulse Generator | 5,668.72 | 1426 | 516 | 5,751.30 | 1.46
0105/0107 | Revision/Removal of Pacemakers, AICD, or Vascular & Insertion of Cardioverter-Defibrillator | 17,579.21 | 1106 | 235 | 18,294.85 | 4.07
0105/0108 | Revision/Removal of Pacemakers, AICD, or Vascular & Insertion/Replacement/Repair of Cardioverter-Defibrillator Leads | 29,239.29 | 294 | 8 | 26,843.72 | −8.19
0105/0654 | Revision/Removal of Pacemakers, AICD, or Vascular & Insertion/Replacement of a permanent dual chamber pacemaker | 6,639.65 | 3653 | 1475 | 7,014.00 | 5.64
0105/0655 | Revision/Removal of Pacemakers, AICD, or Vascular & Insertion/Replacement/Conversion of a Permanent Dual Chamber Pacemaker | 8,888.06 | 237 | 12 | 10,290.88 | 15.78
0222/0225 | Implantation of Neurological Device & Implantation of Neurostimulator Electrodes | 14,345.41 | 368 | 74 | 15,002.40 | 4.58
0223/0227 | Implantation of Pain Management Device & Implantation of Drug Infusion Device | 10,350.16 | 222 | 65 | 9,815.08 | −5.17
Table 7 lists the combinations that we investigated, abbreviated titles for the single APCs in the pair, the number of times the APCs were billed together, the number of claims used to set the combination APC median, a combined median cost for claims in which both the APCs appeared (derived from the methodology discussed above), the median cost for the two APCs using the multiple procedure reduction policy, and the difference in median costs (expressed in percent).

6. New APC for Antepartum Care

We propose to split APC 0199, Obstetrical Care Service into two APCs. New APC 0700, Antepartum Care Service, would be created and 59412 (external cephalic version) would be assigned there. The two remaining HCPCS code 59409 (vaginal delivery only) and 59612 (vaginal delivery only, after previous cesarean delivery) would remain in APC 0199, Obstetrical Care Service. We propose to make this change because of the great difference in cost between vaginal delivery and the external cephalic version procedures. We believe that inclusion of the lower cost procedure in the APC with vaginal deliveries may have an affect on the median cost for the APC that results in less accurate payment.

III. Recalibration of APC Weights for CY 2004

Section 1833(t)(9)(A) of the Act requires that the Secretary review and revise the relative payment weights for APCs at least annually, beginning in 2001. In the April 7, 2000 final rule (65 FR 18482), we explained in detail how we calculated the relative payment weights that were implemented on August 1, 2000 for each APC group. Except for some reweighting due to APC changes, these relative weights continued to be in effect for CY 2001. (See the November 13, 2000 interim final rule (65 FR 67824 to 67827).)

To recalibrate the relative APC weights for services furnished on or after January 1, 2004 and before January 1, 2005, we are proposing to use the same basic methodology that we described in the April 7, 2000 final rule. That is, we would recalibrate the weights based on claims and cost report data for outpatient services. We propose to use the most recent available data to construct the database for calculating APC group weights. For the purpose of recalibrating APC relative weights for CY 2004, the most recent available claims data are the approximately 115 million final action claims for hospital outpatient department services furnished on or after January 1, 2002 and before January 1, 2003. We then eliminated the following 45.7 million claims because many of these claims were for services that are not paid under OPPS: Claims in the first quarter of calendar year 2002; claims for bill types other than OPPS bill types; claims for services furnished in Maryland, Guam, and the Virgin Islands. We matched the 69.3 million claims that were paid under the OPPS to the most recent cost report filed by the individual hospitals represented in our claims data. The APC relative weights would continue to be based on the median hospital costs for services in the APC groups.

A. Data Issues

1. Period of Claims Data Used

We propose to use claims for the period beginning April 1, 2002 through and including December 31, 2002 as the base for the CY 2004 OPPS. The statute requires that we take into account new cost data and other relevant information and factors in reviewing and revising the weights, and we believe that this period will give us the most recent costs. We chose not to include the claims for the period beginning on January 1, 2002 through March 31, 2002 because they were used to set the payment rates for the 2003 OPPS and we believe that the most recent 9 months of claims data will result in payment rates that are most representative of the current relative costs of hospital outpatient services.

The claims base used to calculate the proposed payment weights and payment rates in this proposed rule is not the totality of claims on which the final weights and rates will be based. The use of this claims base is due to (1) a lag in claims submission by providers; (2) a statutory limit on the date before which no claim can be paid; and (3) the additional processing time it takes for the claims data to be included in the national claims history, which is the source of our claims data. For these reasons, the claims data used for this proposed rule are for the period of services furnished between April 1, 2002 and November 1, 2002. However, when the final weights and rates are calculated, we will have access to approximately 95 percent of the claims data for services furnished from April 1, 2002 through December 1, 2002.

2. Treatment of “Multiple Procedure” Claims

We have received many requests asking that we ensure that the data from claims that contain charges for multiple procedures are included in the data from which we calculate the CY 2004 relative payment weights. Those making the requests believe that relying solely on single-procedure claims to recalibrate APC weights fails to take into account data for many frequently performed procedures, particularly those commonly performed in combination with other procedures.

We agree that optimally, it is desirable to use the data from as many claims as possible to recalibrate the relative payment weights, including those with multiple procedures. We identified certain multiple-procedure claims that could be treated as single-procedure claims, enabling us to greatly increase the number of services used to develop the APC payment weights for CY 2003. However, several inherent features of multiple procedure claims prevented us from using all of them to recalibrate the payment weights. We discussed these obstacles in detail in the August 9, 2002 proposed rule (67 FR 52092, 52108 through 52111), and the November 1, 2002 final rule (67 FR 66718, 66743 through 66746).

For the CY 2004 OPPS, we propose several changes to how we handle and use claims data to enable us to use more claims in the creation of median costs on which our payment weights and rates are based. Specifically, we propose to expand the number of HCPCS codes that we ignore for purposes of creating a pseudo single claim from claims that contain other separately payable HCPCS codes. We also looked at dates of service on packaged HCPCS codes and packaged revenue centers, and propose, where possible, to attribute the charges to major, separately payable HCPCS codes based on the codes' dates of service. Our complete discussion of the use of data to set the weights for CY 2004 OPPS follows in section III.B of this proposed rule.

Expansion of the list of codes to be ignored in creation of single claims. For CY 2003 OPPS, we ignored the presence of HCPCS codes 93005, 71010, and 71020 to create pseudo single claims where there was one remaining separately paid, major HCPCS code on the claim. This enabled us to attribute the costs of packaged HCPCS codes and packaged revenue centers to the remaining separately paid HCPCS codes and, therefore, to use the charge data on the claim. We did this based on our belief that these three separately payable HCPCS codes would not have charges related to them that would be placed in packaged HCPCS codes or packaged revenue centers. Instead, we believe that the charges found in the packaged HCPCS or packaged revenue centers would be appropriately associated with the only other separately payable HCPCS that remained on the claim when these codes are ignored.

For CY 2004 OPPS, we propose to expand the list of HCPCS codes that we would ignore for purposes of creating pseudo single claims. On claims that contain other separately payable HCPCS, we propose to ignore the HCPCS codes in the APCs identified in Table 9. As with HCPCS codes 93005, 71010, and 71020, we believe that these codes are highly unlikely to have charges that are found in packaged HCPCS or in packaged revenue centers. Therefore, we believe that they can be ignored for the purpose of creating a pseudo single claim from the remaining charges on the claim. We solicit comments on the proposed methodology to create pseudo single claims, on the list of codes in Table 9 that we propose to ignore, and whether there are other low cost services that we could ignore in using this methodology. We also request comments on whether we should use the charges for the codes in the APCs in Table 9 to create pseudo single claims to be used in setting the median costs for these APCs.

Use of dates of service to create single claims. For CY 2003, we did not use dates of service to attribute charges on packaged HCPCS and packaged revenue centers to major separately payable HCPCS codes. For CY 2004, we propose to use dates of service on HCPCS codes and on packaged revenue centers to attribute charges to a major payable HCPCS code where the dates of service match. We can only use this approach where there are different dates of service for the separately payable major HCPCS codes. Where there are multiple major payable HCPCS codes on a claim with the same date, we cannot use this approach because there is no way to tell to which major payable HCPCS code the charges from the packaged HCPCS or packaged revenue center belong. Moreover, where the hospital does not provide dates for all packaged revenue centers, we cannot attribute charges based on the date of service.

We believe that this methodology yields more single claims than if we did not use dates of service. However, because hospitals are not required to put dates of service for line items with only a revenue center but no HCPCS code, we will not be able to perform this analysis routinely for each claim. Therefore, the claims from hospitals that do provide those dates are more likely to be used for weight-setting than claims of hospitals that do not provide those dates on the claim. We are unable to determine what impact, if any, this methodology has on the weights for the services and we solicit comments on the approach.

We invite comments on whether we should require hospitals to enter a line item date of service for every OPPS charge. We are interested in receiving comments regarding the implications the policy would have for hospitals, including potential obstacles and estimates on the amount of time that would be required to implement this change.

3. Adjustment of Median Costs for CY 2003 OPPS

The relative weights of several APCs, especially APCs requiring the use of high cost devices, that were developed for the 2003 OPPS fee schedule, using claims data from April 1, 2001 to March 31, 2002, showed a significant decrease from the relative weights that were established for the 2002 OPPS fee schedule. The 2002 OPPS relative weights were based on both claims data and packaging of 75 percent of the manufacturer submitted costs for devices into the APC cost. Using our April 1, 2001, through March 31, 2002 claims data resulted in significant decreases in payment for many blood products and separately payable drugs. In order to minimize any beneficiary access problems related to the reduction in payment for blood products, separately payable drugs, and certain device-related APCs, we created a limit for any payment reductions as follows:

Device and Procedural APCs

For APCs requiring the use of one or more devices receiving pass-through payments, we determined the median cost of the APC using only claims that contained device category “C” codes. For selected APCs, we used only claims containing the device “C” code specific to the service furnished (for example, we used only claims containing the “C” codes for cardioverter defibrillators to determine the median cost for the APC for inserting cardioverter defibrillators).

We then compared the median costs established for the 2002 OPPS fee schedule and the median costs based on our April 1, 2001, through March 31, 2002 claims data and limited decreases in median costs (from the 2002 fee schedule) by 15 percent plus half the amount of any reduction beyond 15 percent (for example, if the claims data showed the median cost of an APC decreased 45 percent, the amount of allowed reduction would have been 15 percent + ½ × (45 percent−15 percent) = 30 percent). For a few APCs where device costs accounted for more than 80 percent of the total cost of the APC, we also incorporated external data into our calculation of the median cost.

Blood and Blood Products

We limited reductions in median costs to 11 percent as compared to the 2002 median costs so that the reduction in payments, after other adjustments, for these items would generally not exceed 15 percent.

Separately Payable Drugs

We noted in the November 1, 2002 final rule that the reason our April 1, 2001, through March 31, 2002 claims data resulted in lower median costs for many drugs was that the payment rates for 2002 were based on 95 percent of average wholesale price (AWP) as required by law for pass-through drugs. We believed, and continue to believe, that the acquisition cost for many drugs is considerably less than 95 percent of AWP. However, we limited reductions in median costs for separately payable drugs and for administration of packaged drugs using the same methodology as described above for device and procedural APCs.

Procedural and Device Intense APCs for 2004 OPPS

Comparison of procedural APC medians for 2004 OPPS to adjusted medians for 2003 OPPS. Our analysis of the April 1, 2002, through December 31, 2002 claims data, which is the basis for the proposed median costs for the 2004 OPPS, reveals a distribution of changes in median costs that are not unusual. Compared to the adjusted median costs used for the 2003 OPPS, most of the median cost increases and decreases were for nondevice-related APCs. Very few device-related APCs saw their median costs decrease significantly. We also note that, with a few exceptions, the median cost increases and decreases were not unusually distributed; we believe that the fluctuations should not be unexpected in a new payment system. For example, the cost of providing items and services changes yearly and, in a new payment system, the accuracy of coding services will improve year to year. We also compared the actual median costs from the April 1, 2001 through March 31, 2002 claims data with the actual median costs from the April 1, 2002 through December 31, 2002 claims data. Given the level of consistency we see in our claims data, we believe that adjustment of median costs last year may have resulted in payment amounts for some APCs that were too high.

The medians we propose to use to set weights for the 2004 OPPS for APCs in Table 8 have decreased more than 10 percent in median cost when compared to the adjusted median costs for 2003 OPPS. For reference, we also provide the actual median cost from the claims data we used to set 2003 OPPS payment rates. Some changes appear to be the result of normal fluctuation in the costs of services. In other cases the actual median cost in the April through December 2002 data (the 2004 OPPS medians) is consistent with the actual median cost in the April 1, 2001 through March 31, 2002 data (used for the 2003 OPPS medians), but decreased significantly only in comparison to the adjusted 2001 medians used for 2003 OPPS. In general, where there is consistency between the 2001 (2003 OPPS) and 2002 (2004 OPPS) unadjusted medians or where a change appears to represent normal fluctuations in costs, and we know of no special circumstances that would cause us to believe that there are problems in the claims data, we conclude that the claims data accurately represent the cost of the service. After reviewing the data, we believe that there is no sound basis for making an across-the-board adjustment to our April through December 2002 median costs, notwithstanding that using the unadjusted 2004 median may result in a reduced payment compared to the payment that was based on adjusted medians under 2003 OPPS.

Table 8.—APCs With Median Cost Decreases of 10 Percent or More
Final APC | Description | SI | Final 2003 dampened median cost | 2004 proposed rule APC median cost | % diff APC median cost (2003 dampened vs. 2004 proposed rule)
0312 | Radioelement Applications | S | $3,141.77 | $216.18 | −93.12
0330 | Dental Procedures | S | 284.02 | 32.87 | −88.43
0692 | Electronic Analysis of Neurostimulator Pulse Generators | S | 371.55 | 56.40 | −84.82
0651 | Complex Interstitial Radiation Source Application | S | 3,250.63 | 588.67 | −81.89
0225 | Implantation of Neurostimulator Electrodes | S | 8,277.07 | 3,283.68 | −60.33
0352 | Level I Injections | X | 13.10 | 6.31 | −51.83
0068 | CPAP Initiation | S | 123.29 | 65.83 | −46.61
0124 | Revision of Implanted Infusion Pump | T | 2,975.12 | 1,608.78 | −45.93
0688 | Revision/Removal of Neurostimulator Pulse Generator Receiver | T | 4,429.71 | 2,495.57 | −43.66
1719 | Brachytx seed, Non-HDR Ir-192 | K | 31.04 | 17.89 | −42.36
0699 | Level IV Eye Tests & Treatments | T | 223.07 | 130.15 | −41.65
0199 | Obstetrical Care Service | T | 232.46 | 142.74 | −38.59
0313 | Brachytherapy | S | 1,249.57 | 769.14 | −38.45
0236 | Level II Posterior Segment Eye Procedures | T | 1,873.66 | 1,153.59 | −38.43
0123 | Bone Marrow Harvesting and Bone Marrow/Stem Cell Transplant | S | 380.54 | 234.84 | −38.29
0223 | Implantation or Revision of Pain Management Catheter | T | 2,437.21 | 1,525.61 | −37.40
0385 | Level I Prosthetic Urological Procedures | T | 6,199.09 | 3,895.76 | −37.16
0681 | Knee Arthroplasty | T | 8,780.47 | 5,669.25 | −35.43
0302 | Level III Radiation Therapy | S | 548.35 | 363.26 | −33.75
0301 | Level II Radiation Therapy | S | 187.53 | 125.03 | −33.33
0094 | Level I Resuscitation and Cardioversion | S | 228.18 | 154.77 | −32.17
0671 | Level II Echocardiogram Except Transesophageal | S | 140.57 | 96.05 | −31.67
0098 | Injection of Sclerosing Solution | T | 99.06 | 68.15 | −31.20
0346 | Level II Transfusion Laboratory Procedures | X | 30.59 | 22.72 | −25.73
0043 | Closed Treatment Fracture Finger/Toe/Trunk | T | 148.63 | 112.70 | −24.17
0687 | Revision/Removal of Neurostimulator Electrodes | T | 1,535.37 | 1,171.45 | −23.70
0359 | Level II Injections | X | 67.50 | 51.53 | −23.66
0122 | Level II Tube changes and Repositioning | T | 638.40 | 494.56 | −22.53
0363 | Level I Otorhinolaryngologic Function Tests | X | 64.56 | 50.02 | −22.52
0081 | Non-Coronary Angioplasty or Atherectomy | T | 2,584.47 | 2,041.29 | −21.02
0191 | Level I Female Reproductive Proc | T | 12.27 | 9.84 | −19.80
0685 | Level III Needle Biopsy/Aspiration Except Bone Marrow | T | 355.90 | 286.61 | −19.47
0371 | Level I Allergy Injections | X | 29.69 | 23.93 | −19.39
0152 | Percutaneous Abdominal and Biliary Procedures | T | 595.64 | 486.01 | −18.41
0222 | Implantation of Neurological Device | T | 13,528.13 | 11,061.74 | −18.23
0118 | Chemotherapy Administration by Both Infusion and Other Technique | S | 325.75 | 267.63 | −17.84
0086 | Ablate Heart Dysrhythm Focus | T | 3,138.30 | 2,611.43 | −16.79
0202 | Level VIII Female Reproductive Proc | T | 2,706.38 | 2,273.91 | −15.98
0228 | Creation of Lumbar Subarachnoid Shunt | T | 3,541.71 | 2,996.28 | −15.40
0347 | Level III Transfusion Laboratory Procedures | X | 66.49 | 56.52 | −14.99
0245 | Level I Cataract Procedures without IOL Insert | T | 863.71 | 736.87 | −14.69
0189 | Level III Female Reproductive Proc | T | 90.69 | 77.39 | −14.67
0085 | Level II Electrophysiologic Evaluation | T | 2,478.31 | 2,128.77 | −14.10
0665 | Bone Density: AppendicularSkeleton | S | 49.02 | 42.34 | −13.63
0670 | Intravenous and Intracardiac Ultrasound | S | 1,796.55 | 1,555.61 | −13.41
0368 | Level II Pulmonary Tests | X | 62.61 | 54.62 | −12.76
0107 | Insertion of Cardioverter-Defibrillator | T | 19,378.60 | 17,025.21 | −12.14
0362 | Level III Otorhinolaryngologic Function Tests | X | 168.41 | 148.74 | −11.68
0287 | Complex Venography | S | 415.06 | 368.16 | −11.30
0120 | Infusion Therapy Except Chemotherapy | T | 129.56 | 115.11 | −11.15
0212 | Nervous System Injections | T | 196.63 | 175.73 | −10.63
0004 | Level I Needle Biopsy/ Aspiration Except Bone Marrow | T | 103.36 | 92.43 | −10.57
0676 | Level II Transcatheter Thrombolysis | T | 245.24 | 219.77 | −10.39
0268 | Ultrasound Guidance Procedures | S | 82.47 | 74.07 | −10.19
0106 | Insertion/Replacement/Repair of Pacemaker and/or Electrodes | T | 3,256.61 | 2,927.17 | −10.12

We solicit comments on the proposed weights for all APCs and for the APC placement of all HCPCS codes. However, because we believe the public may be interested in commenting on APCs where the payment rate decreases, we discuss several APCs whose payment rates decrease by more than 10 percent. We are particularly interested in comments, including the submission of external data (as discussed below) regarding these APCs.

Discussion of Selected APCs

APC 312 Radioelement Applications—The proposed median for this APC falls 93.12 percent in comparison with the 2003 adjusted median (from $3,141.77 to $216.18). The 2003 OPPS median was adjusted against the 2002 OPPS median ($7,080.00) into which we packaged the cost of brachytherapy seeds. However, for 2003 and 2004, we are making separate payment for bracytherapy seeds (with the exception of prostate brachytherapy) and, therefore, the costs of those seeds is not packaged into the APC payment (except for prostate brachytherapy). The 2003 OPPS unadjusted median was $265.53, which is comparable to the proposed 2004 OPPS median. Hence, we think the 2003 OPPS median reflects the costs of brachytherapy, with seeds paid separately.

APC 692 Electronic Analysis of Neurostimulator Pulse Generators—The proposed median for this APC falls 84.82 percent in comparison with the 2003 OPPS adjusted median (from $371.55 to $56.40). The 2003 OPPS median was adjusted against the 2002 OPPS median ($819.00), which contained costs for devices that should not have been packaged. Moreover, the 2003 OPPS unadjusted median for the service was $46.95, and this is comparable to the 2004 OPPS median of $56.40. Hence, we believe that the proposed 2004 OPPS median reflects the cost of the service.

APC 651 Complex Interstitial Radiation Source Application—The proposed median for this APC falls 81.89 percent in comparison with the 2003 OPPS adjusted median (from $3,250.63 to $588.67). The 2003 OPPS median was adjusted against the 2002 OPPS median ($7,080.00), which contained costs for brachytherapy seeds that are currently paid separately. Moreover, the 2003 OPPS unadjusted median for the service was $483.25, and this is comparable to the proposed 2004 OPPS median of $588.67. Hence, we believe that the proposed 2004 OPPS median reflects the cost of the service because brachytherapy seeds are paid separately.

APC 225 Implantation of Neurostimulator Electrodes—The proposed median for this APC fell 60.33 percent (from $8,277.07 to $3,283.68) as compared to the adjusted median used for the 2003 OPPS. The 2003 OPPS median was adjusted against the 2002 OPPS median ($15,286.00), which reflected the manufacturer(s) price(s) for the devices packaged into the APC. However, the proposed 2004 OPPS median ($3,283.68) is very close to the unadjusted 2003 OPPS median ($3,561.03), causing us to believe that the 2004 proposed median accurately reflects the costs of the procedure. Because this APC is commonly performed with implantation of a neurostimulator pulse generator (APC 222), we changed the status indicator of APC 225 to “S” so that it would not be subjected to the multiple procedure reduction when it is performed with implantation of a neurological device. We do not propose to change the status indicator this year, and the multiple procedure reductions would not be applied in CY 2004 to APC 0225.

We determined the proposed 2004 OPPS median for APC 225, using only claims that contained the C codes for the neurostimulator leads (either C1778 Lead, neurostimulator, or C1897 Lead, neurostimulator test kit) in order to ensure that we captured the costs for the leads in the data used to calculate the median. We solicit comments concerning the accuracy of our data and whether they appropriately reflect the cost of neurostimulator electrodes, as well as submission of data on the acquisition cost of neurostimulator electrodes (both permanent and test electrodes).

APC 352 Level 1 Injections—The proposed 2004 OPPS median for this APC fell 51.83 percent (from $13.10 to $6.31) as compared to the adjusted 2003 OPPS median. The 2003 OPPS median was adjusted against the 2002 OPPS median ($23.00). However, the 2003 OPPS median ($6.65) is very close to the proposed 2004 OPPS median ($6.31), and this leads us to believe that the proposed 2004 median reflects the cost of the service.

APC 313 Brachytherapy.—The proposed median for this APC falls 38.45 percent in comparison with the 2003 OPPS adjusted median (from $1,249.57 to $769.14) because the 2003 OPPS median was adjusted against the 2002 OPPS median ($2,030.00), which contained costs for brachytherapy seeds that should not have been included because the radioelement sources used in this APC are not single use seeds. Moreover, the 2003 OPPS unadjusted median for the service was $773.63, and this is comparable to the proposed 2004 OPPS median of $769.14. Hence, we believe that the proposed 2004 OPPS median reflects the cost of the service.

APC 223 Implantation or Revision of Pain Management Catheter.—The proposed median for this APC falls 37.40 percent in comparison with the 2003 OPPS adjusted median (from $2,437.21 to $1,525.61). The single CPT code in this APC describes three procedures: revision, repositioning, and insertion of a pain management catheter. Therefore, the median cost of this APC should reflect the relative frequencies with which these three procedures are performed. Furthermore, the descriptor makes it inappropriate to use only claims containing “C” codes to determine the median cost for this APC because a device is not always used when this procedure is performed. To require that a “C” code be on claims for this procedure would result in inaccurate median costs. We believe the decrease in median cost is due to the packaging of 75 percent of the cost of the catheter into the APC amount for the 2002 OPPS fee schedule.

APC 385 Level 1 Prosthetic Urological Procedures.—The proposed median for this APC fell 37.16 percent compared to the adjusted median for this APC in 2003 OPPS ($3895.76 compared to $6,199.09). This occurred because we removed the more expensive inflatable penile prosthesis and prosthetic urinary sphincters from APC 179 and placed them in a new APC (APC 386 with proposed 2004 OPPS median of $6,298.89). Hence, we believe that the proposed medians for both APCs reflect the costs of the services that they now contain.

APC 687 Revision/Removal of Neurostimulator Electrodes—The proposed median costs of this APC decreased 23.7 percent as compared to the adjusted median used for the 2003 OPPS fee schedule ($1,171.45 compared to $1,535.37). (See Table 8.) However, none of the procedures in this APC require the use of high cost devices, and we believe the change in median cost reflects fluctuation in the costs of providing these services.

APC 359 Level II Injections—See section VI.B.4 of this proposed rule for the discussion of administration of drugs.

APC 81 Non Coronary Angioplasty or Atherectomy—The median for this APC fell 21.02 percent in comparison with the actual median cost used in the 2003 OPPS fee schedule (from $2,584.47 to $2,041.29). The median cost used for OPPS 2003 was significantly higher than the median cost used for the 2002 OPPS, which included packaging of 75 percent of the devices used in this APC. We believe the decrease this year, which is still substantially higher than the median used for 2002, reflects the fluctuating costs of providing this service.

APC 222 Implantation of Neurological Device—The proposed median for this APC fell 18.23 percent in comparison with the 2003 OPPS adjusted median (from $13,528.13 to $11.528.13). The 2003 OPPS adjusted median was adjusted against the 2002 OPPS median, which packaged 75 percent of the cost (based on manufacturer submitted data) of the devices ($17,284.00) into the APC. However, the proposed 2004 OPPS median of $11,061.74 compares favorably with the unadjusted 2003 OPPS median of $9,146.22. Because we developed the proposed 2004 median for APC 222 using only claims that contained charges for device code C1767, we believe our current cost data better reflect the cost of these devices. We solicit comments on the accuracy of our data as well as the submission of data on the acquisition cost of these devices.

APC 118 Chemotherapy Administration by Both Infusion and Other Technique—See section VI.B.4 of this proposed rule for the discussion of administration of drugs.

APC 86 Ablate Heart Dysrhythm Focus—The proposed median for this APC fell 16.79 percent for 2004 OPPS when compared to the adjusted median for 2003 (from $3,138.30 to $2,611.43). The proposed 2004 OPPS median is comparable to the unadjusted median for 2003 OPPS of $2,745.69. Because this APC requires the use of a device, we required that the claims used to set the median for this APC contain a device code to qualify. We believe that our cost data accurately reflect the cost of providing this service. We note that the high payment rate for 2003 was adjusted against the 2002 median, which reflected packaging 75 percent of the device cost (based on manufacturer submitted costs) into the APC.

APC 202 Level VIII Female Reproductive Procedure—We made several changes to the structure of this APC and the proposed median for this APC fell 15.98 percent for 2004 OPPS when compared to the adjusted median for the 2003 (from $2,706.38 to $2,273.91). The proposed 2004 OPPS median is comparable to the unadjusted median for 2003 OPPS of $2,327.25. This APC requires the use of a device and, therefore, we required that the claims used to set the median for this APC must contain one or more specified device codes to qualify (C1771 Repair device, urinary incontinence, with sling graft, C2631 Repair device, urinary incontinence, without sling graft). We believe our cost data accurately reflect the costs of providing this service.

APC 670 Intravenous and Intracardiac Ultrasound—The proposed median for this APC fell 13.41 percent for the 2004 OPPS when compared to the median for 2003 OPPS (from $1,796.55 to $1,555.61). This APC requires the use of a device and therefore we required that the claims used to set the median for this APC must contain a device code to qualify. We believe that our cost data accurately reflect the cost of providing this service and that any change in median cost is due to fluctuations in hospital costs.

APC 107 Insertion of Cardioverter-Defibrillator—The proposed 2004 OPPS median for this APC fell 12.14 percent (from $19,378.60 to $17,025.21) as compared to the adjusted median cost for the 2003 OPPS fee schedule. The 2003 OPPS median was adjusted against the 2002 OPPS median ($21,679.00) which reflected packaging 75 percent of the manufacturer submitted prices for the devices used in this APC. The proposed 2004 OPPS median is much closer to the adjusted median than it is to the unadjusted 2003 OPPS median ($13,572.62).

We acquired the proposed 2004 OPPS median for APC 107 by using only claims that contained the C codes for cardioverter-defibrillators (either C1721 Cardioverter-defibrillator dual chamber, C1722 Cardioverter-defibrillator, single chamber, or C1882 Cardioverter-defibrillator, other than single or dual chamber) in order to ensure that we captured the costs for the device in the data used to calculate the median. Although the proposed median cost of this APC is lower than the adjusted median used last year, it is considerably higher than the actual median from last year, and we have confidence that it reflects the cost of the devices used in the procedure. We would also note that the proposed median cost for APC 108 also rose dramatically and is higher than the adjusted median used for the 2003 OPPS fee schedule. Assuming that the proposed median cost for APC 108 accurately reflects the cost of inserting a cardioverter-defibrillator with leads, we would expect that the proposed median cost of APC 107, which also rose significantly as compared to the actual median cost used for OPPS 2003, accurately reflects the cost of inserting a cardioverter-defibrillator without leads.

APC 120 Infusion Therapy Except Chemotherapy—See section VI.B.4 of this proposed rule for a discussion of infusion therapy other than chemotherapy.

APC 106 Insertion/Replacement/Repair of Pacemaker and/or Electrodes—The proposed 2004 OPPS median for this APC fell 10.12 percent compared to the 2003 OPPS median (from a final 2003 OPPS median of $3,256.61 to a proposed 2004 Median of $2,927.17). This APC contains both CPT codes for insertion of temporary pacemaker leads (CPT codes 33210 and 33211) and repair and revision of pacemaker leads (33216, 33217, 33218, and 33220). This APC contains a mixture of services and, therefore, its median cost should reflect the mixture of services provided. We solicit comments on whether the proposed median cost for this APC reflects the cost of providing these services as well as the submission of data on the acquisition costs of the leads used for each service in this APC.

Preferred Characteristics of External Data Submitted in Comments. We will consider external data on devices that are provided to the extent that they enable us to verify or adjust claims data where we are convinced that an adjustment is appropriate. All data we use to create payment amounts for the final rule will be available for public inspection.

External data must meet the following criterion:

• Be available for public inspection.

External data that are likely to be of optimal use should meet the following criteria:

• Represent a diverse group of hospitals both by location (for example, rural, urban) and by type (for example, community, teaching). We would prefer that commenters identify each hospital including location with city and State, nonprofit vs. for profit status, teaching vs. nonteaching status, and the percent of Medicare vs. non-Medicare patients receiving the service; a pseudo identifier could be used for the hospital identification. Data should be submitted both “per hospital” and in the aggregate.

• Identify the number of devices billed to Medicare by each hospital as well as any rebates or reductions for bulk purchase or similar discounts and identify the characteristics of providers to which any such price rebates or reductions apply.

• Identify all HCPCS codes with which each item would be used.

• Identify the source of the data.

• Include both the charges and costs for each hospital, by quarter for the last 3 quarters of 2002. Cost data for 2003 are not compatible with 2002 claims data.

This information would enable us to compare our claims data to the external data and help us determine whether the submitted data are representative of hospitals that submit claims under OPPS.

Please note that information that contains beneficiary-specific information (for example, medical records, invoices with beneficiary identification on it) should be altered, if necessary, to remove any individually identifiable information, such as information that identifies an individual, diagnoses, addresses, telephone numbers, attending physician, medical record number, Medicare or other insurance number, etc. Moreover, individually identifiable beneficiary medical records, including progress notes, medical orders, test results, consultation reports, etc. should not be submitted to us. Similarly, photocopies of checks from hospitals or other documents that contain bank routing numbers should not be submitted to us.

Blood and Blood Products

See section VI.B.8 of this proposed rule for our discussion of the analysis of data for blood and blood products and our proposal.

Separately Paid Drugs

See section VI.B.3 of this proposed rule for our discussion of the analysis of data for separately paid drugs and our proposal.

B. Description of How We Propose To Calculate Weights for CY 2004

The methodology we followed to calculate the APC relative payment weights proposed for CY 2004 is as follows:

• We excluded from the data claims for those bill and claim types that would not be paid under the OPPS (for example, bill type 72X for dialysis services for patients with end-stage renal disease (ESRD)).

• We eliminated claims from hospitals located in Maryland, Guam, and the U.S. Virgin Islands.

• Using the most recent available cost report from each hospital, we converted billed charges to costs and aggregated them to the procedure or visit level first by identifying the cost-to-charge ratio specific to each hospital's cost centers (“cost center specific cost-to-charge ratios” or CCRs) and then by matching the CCRs to revenue centers used on the hospital's CY 2001 outpatient bills. The CCRs include operating and capital costs but exclude items paid on a reasonable cost basis.

• We eliminated from the hospital CCR data 325 hospitals that we identified as having reported charges on their cost reports that were not actual charges (for example, a uniform charge applied to all services). Of these, only 166 hospitals had claims data.

• We eliminated from our data claims for critical access hospitals that are not paid under OPPS and whose claims are therefore not suitable for use in setting weights for services paid under OPPS.

• We calculated the geometric mean of the total operating CCRs of hospitals remaining in the CCR data. We removed from the CCR data 29 hospitals whose total operating CCR deviated from the geometric mean by more than three standard deviations.

• We excluded from our data approximately 2.1 million claims submitted by the hospitals that we removed or trimmed from the hospital CCR data.

• We matched revenue centers from the remaining universe of claims to hospital CCRs.

• We separated the 66.345 million claims that we had matched with a cost report into the following three distinct groups: (1) Single-procedure claims; (2) multiple-procedure claims; and (3) claims on which we could not identify at least one OPPS covered service. Single-procedure claims are those that include only one HCPCS code (other than laboratory and incidentals such as packaged drugs and venipuncture) that could be grouped to an APC. Multiple-procedure claims include more than one HCPCS code that could be mapped to an APC. Thus, dividing the claims yielded approximately 21.92 million single-procedure claims and 14.8 million multiple-procedure claims. Approximately 19.57 million claims without at least one covered OPPS service were set aside.

We converted 8.47 million multiple-procedure claims to single-procedure claims using the following criteria: (1) If a multiple-procedure claim contained lines with a HCPCS code in the pathology series (that is, CPT 80000 series of codes), we treated each of those lines as a single claim. (2) For multiple-procedure claims with a packaged HCPCS code (status indicator “N”) on the claim, we ignored line items for preoperative procedures and for those services in the APCs identified in Table 9. These are services with payment amounts below $50 (under CY 2003 OPPS) for which we believe the charge represents the totality of the charges associated with the service (that is, that there are no packaged HCPCS or packaged revenue centers attributable to the service). If only one procedure (other than HCPCS codes in Table 9) existed on the claim, we treated it as a single-procedure claim. (3) If the claim had no packaged HCPCS codes and if there were no packaged revenue centers on the claim, we treated each line with a procedure as a single-procedure claim if billed with single units. (4) If the claim had no packaged HCPCS codes but had packaged revenue centers for the procedure, we ignored the line item for codes in the APCs identified in Table 9. If only one HCPCS code remained, we treated the claim as a single-procedure claim.

Table 9.—APCS That Were Ignored To Create Pseudo Single Procedure Claims
0001 | Level I Photochemotherapy | S
0060 | Manipulation Therapy | S
0077 | Level I Pulmonary Treatment | S
0099 | Electrocardiograms | S
0215 | Level I Nerve and Muscle Tests | S
0215 | Level I Nerve and Muscle Tests | S
0230 | Level I Eye Tests & Treatments | S
0260 | Level I Plain Film Except Teeth | X
0262 | Plain Film of Teeth | X
0271 | Mammography | S
0341 | Skin Tests and Miscellaneous Red Blood Cell Tests | X
0342 | Level I Pathology | X
0343 | Level II Pathology | X
0344 | Level III Pathology | X
0345 | Level I Transfusion Laboratory Procedures | X
0364 | Level I Audiometry | X
0367 | Level I Pulmonary Test | X
0669 | Digital Mammography | S
0690 | Electronic Analysis of Pacemakers and other Cardiac Devices | S
0706 | New Technology—Level I ($0-$50) | S

In addition, we assessed the dates of service for HCPCS codes and packaged revenue centers on each claim that contained more than one major code. Where it was possible to attribute charges for packaged HCPCS and packaged revenue centers to HCPCS codes for major procedures by matching unique dates of service, we did this and created single claims by packaging charges into the charge for the major service on the same date. We were only able to do this if the multiple major procedures had different dates of service and if there were dates of service on all of the packaged revenue centers. Dates of service on revenue centers are not required and, therefore, only claims from hospitals that submitted dates of service on revenue centers in CY 2002 could be used in this process for maximizing the number of single-procedure claims to be used for weight setting. We created an additional 23.58 million single-procedure bills through this process, which enabled us to use these data from multiple-procedure claims in calculation of the APC relative payment weights.

• To calculate median costs for services within an APC, we used only single-procedure bills and those multiple-procedure bills that we converted into single claims except as described otherwise. If a claim had a single code with a zero charge (that would have been considered a single-procedure claim), we did not use it. As we discussed in section III.A.2 of this proposed rule, we did not use multiple-procedure claims that billed more than one separately payable HCPCS code with charges for packaged items and services such as anesthesia, recovery room, or supplies that could not be reliably allocated or apportioned among the primary HCPCS codes on the claim. We have not yet developed what we regard as an acceptable method of using multiple procedure bills to recalibrate APC weights that minimizes the risk of improperly assigning charges to the wrong procedure or visit.

For APCs in Table 10, we required that there be a C code on the claim for the claim to be used. These APCs require the use of a device in the provision of the service. Moreover, in 2002, hospitals were required to bill the C code in order for the device to receive pass-through payment for the device. Therefore, if no C code was billed on the claim, we presumed that the claim was incorrectly coded, and we did not use it. For some of these APCs, we further required that specific devices be on the claim.

Table 10.—APCS for Which a HCPCS for a Device Was Required To Be on a Claim Used for Weight Setting
APC | APC description | Status
0032 | Insertion of Central Venous/Arterial Catheter | T
0048 | Arthroplasty with Prosthesis | T
0080 | Diagnostic Cardiac Catheterization | T
0081 | Non-Coronary Angioplasty or Atherectomy | T
0082 | Coronary Atherectomy | T
0083 | Coronary Angioplasty and Percutaneous Valvuloplasty | T
0085 | Level II Electrophysiologic Evaluation | T
0086 | Ablate Heart Dysrhythm Focus | T
0087 | Cardiac Electrophysiologic Recording/Mapping | T
0089 | Insertion/Replacement of Permanent Pacemaker and Electrodes | T
0090 | Insertion/Replacement of Pacemaker Pulse Generator | T
0104 | Transcatheter Placement of Intracoronary Stents | T
0106 | Insertion/Replacement/Repair of Pacemaker and/or Electrodes | T
0107 | Insertion of Cardioverter-Defibrillator | T
0108 | Insertion/Replacement/Repair of Cardioverter-Defibrillator Leads | T
0115 | Cannula/Access Device Procedures | T
0119 | Implantation of Devices | T
0122 | Level II Tube Changes and Repositioning | T
0167 | Level III Urethral Procedures | T
0182 | Insertion of Penile Prosthesis | T
0202 | Level VIII Female Reproductive Proc | T
0222 | Implantation of Neurological Device | T
0225 | Implantation of Neurostimulator Electrodes | S
0226 | Implantation of Drug Infusion Reservoir | T
0227 | Implantation of Drug Infusion Device | T
0229 | Transcatheter Placement of Intravascular Shunts | T
0259 | Level VI ENT Procedures | T
0313 | Brachytherapy | S
0384 | GI Procedures with Stents | T
0385 | Level I Prosthetic Urological Procedures | T
0386 | Level II Prosthetic Urological Procedures | T
0648 | Breast Reconstruction with Prosthesis | T
0652 | Insertion of Intraperitoneal Catheters | T
0653 | Vascular Reconstruction/Fistula Repair with Device | T
0654 | Insertion/Replacement of a permanent dual chamber pacemaker | T
0655 | Insertion/Replacement/Conversion of a permanent dual chamber pacemaker | T
0670 | Intravenous and Intracardiac Ultrasound | S
0674 | Prostate Cryoablation | T
0680 | Insertion of Patient Activated Event Recorders | S
0681 | Knee Arthroplasty | T

• For each single-procedure claim, we calculated a cost for every billed line item charge by multiplying each revenue center charge by the appropriate hospital-specific CCR. We used the most recent settled or submitted cost reports. Using the most recent “submitted to settled ratio,” we adjusted CCRs for the submitted cost reports but not the settled ones. If an appropriate cost center did not exist for a given hospital, we crosswalked the revenue center to a secondary cost center when possible, or used the hospital's overall CCR for outpatient department services. We excluded from this calculation all charges associated with HCPCS codes previously defined as not paid under the OPPS (for example, laboratory, ambulance, and therapy services). We included all charges associated with HCPCS codes that are designated as packaged services (that is, HCPCS codes with the status indicator of “N”).

• To calculate per-service costs, we used the charges shown in revenue centers that contained items integral to performing services. Table 11 contains a list of the revenue centers that we packaged into major HCPCS codes when they appeared on the same claim. This is a change to the packaging of revenue centers by category of service that had been done since the inception of the OPPS in the April 7, 2000 final rule (65 FR 18457). In all prior years of OPPS, we had specific subsets of revenue centers that we packaged into major HCPCS codes based on the type of service we assigned to the HCPCS code for this purpose. For example, we had a set of revenue centers that could be packaged into visit codes and a different, but overlapping, set of revenue centers that could be packaged into surgery codes. We propose to convert these categories to a single set of revenue codes (see Table 11) that would be packaged into the major HCPCS code with which it appears on a claim. We believe that this will increase the likelihood that the total charge for the major HCPCS code will capture all of the costs attributed to the services furnished.

Table 11 lists packaged services by revenue center that we are proposing to use to calculate per-service costs for outpatient services furnished in CY 2004.

Table 11.—Packaged Services by Revenue Code
Revenue Code | Description
250 | PHARMACY
251 | GENERIC
252 | NONGENERIC
254 | PHARMACY INCIDENT TO OTHER DIAGNOSTIC
255 | PHARMACY INCIDENT TO RADIOLOGY
257 | NONPRESCRIPTION DRUGS
258 | IV SOLUTIONS
259 | OTHER PHARMACY
260 | IV THERAPY, GENERAL CLASS
262 | IV THERAPY/PHARMACY SERVICES
263 | SUPPLY/DELIVERY
264 | IV THERAPY/SUPPLIES
269 | OTHER IV THERAPY
270 | M&S SUPPLIES
271 | NONSTERILE SUPPLIES
272 | STERILE SUPPLIES
274 | PROSTHETIC/ORTHOTIC DEVICES
275 | PACEMAKER DRUG
276 | INTRAOCULAR LENS SOURCE DRUG
278 | OTHER IMPLANTS
279 | OTHER M&S SUPPLIES
280 | ONCOLOGY
289 | OTHER ONCOLOGY
290 | DURABLE MEDICAL EQUIPMENT
370 | ANESTHESIA
371 | ANESTHESIA INCIDENT TO RADIOLOGY
372 | ANESTHESIA INCIDENT TO OTHER DIAGNOSTIC
379 | OTHER ANESTHESIA
390 | BLOOD STORAGE AND PROCESSING
399 | OTHER BLOOD STORAGE AND PROCESSING
560 | MEDICAL SOCIAL SERVICES
569 | OTHER MEDICAL SOCIAL SERVICES
621 | SUPPLIES INCIDENT TO RADIOLOGY
622 | SUPPLIES INCIDENT TO OTHER DIAGNOSTIC
624 | INVESTIGATIONAL DEVICE (IDE)
630 | DRUGS REQUIRING SPECIFIC IDENTIFICATION, GENERAL CLASS
631 | SINGLE SOURCE
632 | MULTIPLE
633 | RESTRICTIVE PRESCRIPTION
637 | SELF-ADMINISTERED DRUG (INSULIN ADMIN. IN EMERGENCY DIABETIC COMA)
700 | CAST ROOM
709 | OTHER CAST ROOM
710 | RECOVERY ROOM
719 | OTHER RECOVERY ROOM
720 | LABOR ROOM
721 | LABOR
762 | OBSERVATION ROOM
810 | ORGAN ACQUISITION
819 | OTHER ORGAN ACQUISITION
942 | EDUCATION/TRAINING

• We standardized costs for geographic wage variation by dividing the labor-related portion of the operating and capital costs for each billed item by the proposed FY 2004 hospital inpatient prospective payment system (IPPS) wage index published in the Federal Register on May 9, 2002 (67 FR 31602). We used 60 percent to represent our estimate of that portion of costs attributable, on average, to labor. We have used this estimate since the inception of the OPPS and continue to believe that it is appropriate. (See the April 7, 2000 final rule (65 FR 18496) for a complete description of how we derived this percentage).

• We summed the standardized labor-related cost and the nonlabor-related cost component for each billed item to derive the total standardized cost for each procedure or medical visit.

• We removed extremely unusual costs that appeared to be errors in the data using a trimming methodology analogous to what we use in calculating the diagnosis-related group (DRG) weights for the hospital IPPS. That is, we eliminated any bills with costs outside of three standard deviations from the geometric mean.

• After trimming the procedure and visit level costs, we mapped each procedure or visit cost to its assigned APC, including, to the extent possible, the proposed APC changes.

• We calculated the median cost for each APC.

To develop the median cost for observation (APC 339, HCPCS code G0244), we selected claims containing HCPCS code G0244 (Observation care provided by a facility to a patient with CHF, chest pain, or asthma, minimum eight hours, maximum forty-eight hours) that also showed one or more of the ICD-9 (International Classification of Diseases, Ninth Edition) diagnosis codes required for payment of APC 339. We ignored other separately payable codes so that the claims with G0244 would not be excluded for having multiple major procedures on a single claim. We packaged the costs of allowable revenue centers and HCPCS codes with status indicator “N” into the cost of G0244, and trimmed as was done for the calculation of the median costs for other APCs.

To calculate the weights for APCs 649 (Prostate Brachytherapy with Palladium seeds) and 684 (Prostate Brachytherapy with Iodine seeds) into which the cost of brachytherapy seeds are packaged, we selected claims that contained HCPCS codes 77778 and 55859 where the lines containing codes 77778 and 55859 have the same date of service and the claim contained either HCPCS code C1720 (Palladium seeds) or C1718 (Iodine seeds) (which need not be the same date of service as 77778 and 55859). We ignored line items for services paid on the laboratory fee schedule and lines with separately payable HCPCS (even if multiple majors). We packaged all remaining costs from allowable revenue centers and packaged HCPCS into the claim (regardless of date of service). We separated the claims with Palladium seeds from claims with Iodine seeds. We then created a median cost for prostate brachytherapy with Palladium seeds (APC 0649; G0256) from the claims containing 77778, 55859, and C1720 (Palladium seeds), and we created a median cost for prostate brachytherapy with Iodine seeds (APC 0684; G0261) from claims containing 77778, 55859, and C1718 (Iodine seeds).

• Using the median APC costs, we calculated the relative payment weights for each APC. As in prior years, we scaled all the relative payment weights to APC 0601, Mid-level clinic visit, because it is one of the most frequently performed services in the hospital outpatient setting. We assigned APC 0601 a relative payment weight of 1.00 and divided the median cost for each APC by the median cost for APC 0601 to derive the relative payment weight for each APC. Using 2002 data, the median cost for APC 0601 is $58.78.

Section 1833(t)(9)(B) of the Act requires that APC revisions, relative payment weight revisions, and wage index and other adjustments be made in a manner that ensures that estimated aggregate payments under the OPPS for 2004 are neither greater than nor less than the estimated aggregate payments that would have been made without the changes. To comply with this requirement concerning the APC changes, we compared aggregate payments using the CY 2003 relative weights to aggregate payments using the CY 2004 proposed weights. Based on this comparison, we are proposing to make an adjustment of 1.003107132 to the weights. The weights that we are proposing for CY 2004, which incorporate the recalibration adjustments explained in this section, are listed in Addendum A and Addendum B.

IV. Transitional Pass-Through and Related Payment Issues

A. Background

Section 1833(t)(6) of the Act provides for temporary additional payments or “transitional pass-through payments” for certain medical devices, drugs, and biological agents. As originally enacted by the BBRA, this provision required the Secretary to make additional payments to hospitals for current orphan drugs, as designated under section 526 of the Federal Food, Drug, and Cosmetic Act, Public Law 107-186; current drugs, biological agents, and brachytherapy devices used for the treatment of cancer; and current drugs and biological products.

For those drugs, biological agents, and devices referred to as “current,” the transitional pass-through payment began on the first date the hospital OPPS was implemented (before enactment of the Medicare, Medicaid, and SCHIP Benefits Improvement and Protection Act (BIPA), Public Law 106-554, enacted December 21, 2000).

Transitional pass-through payments are also required for certain “new” medical devices, drugs, and biological agents that were not being paid for as a hospital outpatient service as of December 31, 1996 and whose cost is “not insignificant” in relation to the OPPS payment for the procedures or services associated with the new device, drug, or biological. Under the statute, transitional pass-through payments can be made for at least 2 years but not more than 3 years.

Section 1833(t)(6)(B)(i) of the Act required that we establish by April 1, 2001, initial categories to be used for purposes of determining which medical devices are eligible for transitional pass-through payments. Section 1833(t)(6)(B)(i)(II) of the Act explicitly authorized us to establish initial categories by program memorandum (PM). On March 22, 2001, we issued two PMs, Transmittals A-01-40 and A-01-41 that established the initial categories. We posted them on our Web site at: http://www.hcfa.gov/pubforms/transmit/A0140.pdf and http://www.hcfa.gov/pubforms/transmit/A0141.pdf, respectively.

Transmittal A-01-41 includes a list of the initial device categories, a crosswalk of all the item-specific codes for individual devices that were approved for transitional pass-through payments, and the initial category code by which the cross-walked individual device was to be billed beginning April 1, 2001. Items eligible for transitional pass-through payments are generally coded using a Level II HCPCS code with an alpha prefix of “C.” Pass-through device categories are identified by status indicator “H” and pass-through drugs and biological agents are identified by status indicator “G.” Subsequently, we added a number of additional categories, retired 95 categories effective January 1, 2003, and made clarifications to some of the categories' long descriptors found in various program transmittals. A list of device category codes in effect as of July 1, 2003, can be found in Transmittal A-03-051, which was issued on June 13, 2003. This PM can be accessed on our Web site at http://www.cms.gov.

Section 1833(t)(6)(B)(ii) of the Act also requires us to establish, through rulemaking, criteria that will be used to create additional device categories. The criteria for new categories were the subject of a separate interim final rule with comment period published in the Federal Register on November 2, 2001 (66 FR 55850) and made final in the November 1, 2002 Federal Register (67 FR 66781) announcing the 2003 update to the OPPS.

Transitional pass-through categories are for devices only; they do not apply to drugs or biological agents. The regulations at § 419.64 governing transitional pass-through payments for eligible drugs and biological agents are unaffected by the creation of categories.

The process to apply for transitional pass-through payment for eligible drugs and biological agents or for additional device categories can be found on respective pages on our Web site at http://www.cms.gov. If we revise the application instructions in any way, we will post the revisions on our Web site and submit the changes for approval by the Office of Management and Budget (OMB) as required under the Paperwork Reduction Act (PRA). Notification of new drug, biological, or device category application processes is generally posted on the OPPS Web site at http://www.cms.gov.

B. Discussion of Pro Rata Reduction

Section 1833(t)(6)(E) of the Act limits the total projected amount of transitional pass-through payments for a given year to an “applicable percentage” of projected total Medicare and beneficiary payments under the hospital OPPS. For a year before 2004, the applicable percentage is 2.5 percent; for 2004 and subsequent years, we specify the applicable percentage up to 2.0 percent. We propose to set the percentage at 2.0 percent for the 2004 OPPS.

If we estimate before the beginning of the calendar year that the total amount of pass-through payments in that year would exceed the applicable percentage, section 1833(t)(6)(E)(iii) of the Act requires a prospective uniform reduction in the amount of each of the transitional pass-through payments made in that year to ensure that the limit is not exceeded. We make an estimate of pass-through spending to determine not only whether payment exceeds the applicable percentage but also to determine the appropriate reduction to the conversion factor.

For devices, making an estimate of pass-through spending in 2004 entails estimating spending for two groups of items. The first group consists of those items for which we have claims data (that is, items that were eligible in 2002 and that will continue to be eligible in 2004). The second group consists of those items for which we have no direct claims data (that is, items that became, or will become, eligible in 2003 and will retain pass-through status and items that will be newly eligible beginning in 2004).

To estimate 2004 pass-through spending for device categories in the first group, we would use volume and hospital cost (derived from charges on claims using cost-to-charge ratios) information from 2002 claims data. This information would be projected forward to 2004 levels using appropriate inflation and utilization factors. For existing categories with no claims data in 2002 that are, or will be, active in 2004, we would follow the method described in the November 2, 2001 final rule (66 FR 55857). We would use price information from manufacturers and volume estimates from claims related to procedures that use the devices in question. This information would be projected forward to 2004 using appropriate inflation and utilization factors to estimate 2004 pass-through spending for this group of categories. For categories that become eligible in 2004, we would use the same method as described for categories that were newly active in 2002. We anticipate that any new categories for January 1, 2004 will be announced after the publication of this proposed rule but before the publication of the final rule. Therefore, the estimate of pass-through spending would incorporate pass-through spending for categories made effective January 1, 2004.

To estimate 2004 pass-through spending for drugs and biological agents, we would make estimates of utilization, collect data on average wholesale price (AWP) and combine these with ratios used to represent hospital acquisition costs for these drugs. We would collect drug-specific information on Medicare use from the pharmaceutical manufacturer where possible and rely on other sources (such as peer-reviewed clinical studies) as needed. In the past, we relied upon the AWP published in the Redbook to establish the AWP of pass-through drugs payable under the OPPS. As described elsewhere in this preamble, we plan to adopt and apply the provisions outlined in the Payment Reform for Part B drugs. For the purpose of calculating payments for transitional pass-through items, we would determine 95 percent of the drug's average wholesale price based on the newly established AWP. We would use published ratios on hospital acquisition costs reported in our proposed rule of August 9, 2002 (67 FR 52129). For sole source drugs the ratio of acquisition cost to AWP equals 0.71; for multi-source drugs, the ratio is 0.68; and for multi-source drugs with generic competitors, the ratio equals 0.46.

For drugs and biological agents that may receive pass-through status effective January 1, 2004, we propose to use the same methodology as described for drugs and biological agents that received pass-through status in 2003. Any new pass-through drugs and biological agents effective beginning in 2004 would be announced after the publication of this proposed rule but before the publication of the final rule. Therefore, the estimate of pass-through spending would incorporate pass-through spending for these drugs and biological agents made effective January 1, 2004.

After using the methodologies described above to determine projected 2004 pass-through spending for the groups of devices, drugs, and biological agents, we would calculate total projected 2004 pass-through spending as a percentage of the total projected payments (Medicare and beneficiary payments) under OPPS to determine if the pro rata reduction will be required.

Table 12 shows our current estimate of 2004 pass-through spending for known pass-through drugs, biologicals, and devices based on information available at the time this table was developed. We are uncertain whether estimated pass-through spending in 2004 will exceed $456 million (2.0 percent of total estimated OPPS spending). We have not yet completed the estimate of pass-through spending for a number of drugs and devices. In particular, we do not have estimates for those drugs still under agency review for additional pass-through payments beginning October 2003 or the changes in pass-through spending that could result from quarterly rather than annual updates of AWP for pass-through drugs. Finally, we would incorporate an estimate of pass-through spending for items for which pass-through payment becomes effective later in 2004 (that is, April 1, 2004; July 1, 2004; and October 1, 2004) based on estimates of items that become eligible for pass-through payment on October 1, 2003 and January 1, 2004. Specifically, we would assume a proportionate amount of spending for items that become eligible later in the year while making an adjustment to account for the fact that items made eligible later in the year will not receive pass-through payments for the entire year. We invite comments on the methodology as described above and the estimates for utilization that appear in the table below.

Table 12.—Estimates for 2004 Transitional Pass-Through Spending
New HCPC | APC | Drug biological | 2004 pass-through payment portion | 2004 estimated utilization | 2004 anticipated pass-through payments
|  | Existing Pass-through Drugs/Biologicals
C9111 | 9111 | Injection Bivalrudin, 250 mg per vial | $100.50 | 21,007 | 2,111,200
C9112 | 9112 | Perflutren lipid microsphere, per 2 ml | $37.44 | 67,000 | 2,508,480
C9113 | 9113 | Inj Pantoprazole sodium, per vial | $5.76 | 20,000 | 115,200
C9116 | 9116 | Ertapenum sodium, per 1 gm vial | $11.45 | 7,200 | 82,440
Q4053 | 9119 | Pegfilgrastim, per 1 mg single dose vial | $118.00 | 662,062 | 78,123,329
C9120 | 9120 | Faslodex, per 50 mg injection | $44.25 | 137,078 | 6,065,702
C9121 | 9121 | Argatroban, per 5 mg | $3.60 | 50,000 | 180,000
C9200 | 9200 | Orcel, per 36 cm2 | $286.80 | 1,000 | 286,800
C9203 | 9203 | Perflexane lipid microspheres, per single use vial | $36.00 | 82,400 | 2,966,400
J2324 | 9114 | Nesiritide, per 0.5 mg vial | $36.48 | 60,000 | 2,188,800
J3315 | 9122 | Triptorelin pamoate, per 3.75 mg | $104.90 | 219,600 | 23,036,040
J3487 | 9115 | Zoledronic acid, 1 mg | $51.38 | 539,000 | 27,693,820
C9204 | 9204 | Ziprasidone mesylate, per 20 mg | $10.50 | 117,143 | 1,230,000
C9205 | 9205 | Oxaliplatin, per 5 mg | $23.86 | 280,756 | 6,698,845

HCPCS | APC | Description |  | 2004 estimated utilization | 2004 anticipated payment
|  | Existing Pass-through Devices
C1783 | 1783 | Ocular implant, aqueous drainage assist device |  | 323 | 159,756
C1814 | 1814 | Retinal tamponade device, silicone oil |  | 35106 | 13,649,018
C1884 | 1884 | Embolization Protective System |  | 25000 | 38,601,544
C1888 | 1888 | Catheter, ablation, non-cardiac, endovascular (implantable) |  | 214 | 129,128
C1900 | 1900 | Lead, left ventricular coronary venous system |  | 2091 | 2,814,528
C2614 | 2614 | Probe, percutaneous lumbar discectomy |  | 899 | 1,748,555
C2632 | 2632 | Brachytherapy solution, iodine-125, per mCi |  | 225 | 1,890,000
C1818 | 1818 | Integrated keratoprosthesis |  | 4 | 27,800

V. Payment for Devices

A. Pass-Through Devices

Section 1833(t)(6)(B)(iii) of the Act requires that a category of devices be eligible for transitional pass-through payments for at least 2, but not more than 3, years. This period begins with the first date on which a transitional pass-through payment is made for any medical device that is described by the category. We propose that two device categories currently in effect would expire effective January 1, 2004. Our proposed payment methodology for devices that have been paid by means of pass-through categories, and for which pass-through status would expire effective January 1, 2004, is discussed in the section below.

Although the device category codes became effective April 1, 2001, most of the item-specific “C” codes for pass-through devices that were crosswalked to the new category codes were approved for pass-through payment in CY 2000 and as of January 1, 2001. (The crosswalk for item-specific “C” codes to category codes was issued in Transmittals A-01-41 and A-01-97). We based the expiration dates for the category codes listed in Table 13, on when a category was first created, or when the item-specific devices that are described by, and included in, the initial categories were first paid as pass-through devices, before the implementation of device categories. These proposed device category expiration dates are listed in Table 13. We propose to base the expiration date for a device category on the earliest effective date of pass-through payment status of the devices that populate that category. There are two categories for devices that will have been eligible for pass-through payments for over 2 1/2 years as of December 31, 2003, and we propose that they would not be eligible for pass-through payments effective January 1, 2004. The two categories we propose for expiration are C1765 and C2618, as indicated in Table 13. Each category includes devices for which pass-through payment was first made under OPPS in 2000 or 2001.

A comprehensive list of all pass-through device categories effective on or before July 2003 is displayed in Table 13. Also displayed are the dates the devices described by the category were populated and their respective proposed expiration dates.

The methodology used to base expiration of a device category is the same as that used to determine the 95 initial categories that expired as of January 1, 2003. A list including those 95 categories that expired as of January 1, 2003 (as well as 5 categories that continue to be paid in 2003) is found in the November 1, 2002 final rule (67 FR 66761 through 66763).

Table 13.—List of Current Pass-Through Device Categories With Proposed Expiration Dates
| HCPCS codes | Category long descriptor | Date(s) populated | Expiration date
| C1765 | Adhesion Barrier | 10/1/00-3/31/01; 7/1/01 | 12/31/03
| C2618 | Probe, cryoblation | 4/1/01 | 12/31/03
| C1888 | Catheter, ablation, non-cardiac, endovascular (implantable) | 7/1/02 | 12/31/04
| C1900 | Lead, left ventricular coronary venous system | 7/1/02 | 12/31/04
| C1783 | Ocular implant, aqueous drainage assist device | 7/1/02 | 12/31/04
| C1884 | Embolization protective system | 1/1/03 | 12/31/04
| C2614 | Probe, percutaneous lumbar discectomy | 1/1/03 | 12/31/04
| C2632 | Brachytherapy solution, iodine-125, per mCi | 1/1/03 | 12/31/04
| C1814 | Retinal tamponade device, silicone oil | 4/1/03 | 12/31/05
| C1818 | Integrated keratoprosthesis | 7/1/03 | 12/31/05

The methodology that we propose to use to package pass-through device costs is consistent with the packaging methodology that we describe in section II.B.5. For the codes in APCs displayed in Table 10, we propose to use only those claims on which the hospital included the “C” code and to discard the claims on which no “C” code is billed.

We propose to limit our analysis to the claims with “C” codes because we are not confident that the claims for the relevant APCs include the charges for the devices unless the “C” codes are specifically billed.

To calculate the total cost for a service on a per-service basis, we included all charges billed with the service in a revenue center in addition to packaged HCPCS codes with status indicator “N.” We also packaged the costs of devices that we propose would no longer be eligible for pass-through payment in 2004 into the HCPCS codes with which the devices were billed.

B. Expiration of Transitional Pass-Through Payments in CY 2004

In the November 1, 2002 final rule, we established a policy for payment of devices included in pass-through categories that are due to expire (67 FR 66763). We stated that we would package the costs of the devices no longer eligible for pass-through payments in 2003 into the costs of the procedures with which the devices were billed in 2001. There were very few exceptions to the policy (for example, brachytherapy seed for other than prostate brachytherapy), and we propose to continue this policy. Therefore, we propose that the payment for the devices that populate C1765 and C2618, which we propose will cease to be eligible for pass-through payment on January 1, 2004, would be made as part of the payment for the APCs with which they are billed.

C. Other Policy Issues Relating to Pass-Through Device Categories

Reducing Transitional Pass-Through Payments To Offset Costs Packaged Into APC Groups

In the November 30, 2001 final rule, we explained the methodology we used to estimate the portion of each APC rate that could reasonably be attributed to the cost of associated devices that are eligible for pass-through payments (66 FR 59904). Beginning with the implementation of the 2002 OPPS update (April 1, 2002), we deduct from the pass-through payments for the identified devices an amount that offsets the portion of the APC payment amount that we determine is associated with the device, as required by section 1833(t)(6)(D)(ii) of the Act. In the November 1, 2002 final rule, we published the applicable offset amounts for 2003 (67 FR 66801).

For the 2002 and 2003 OPPS updates, we estimated the portion of each APC rate that could reasonably be attributed to the cost of an associated pass-through device that is eligible for pass-through payment using claims data from the period used for recalibration of the APC rates. Using these claims, we calculated a median cost for every APC without packaging the costs of associated “C” codes for device categories that were billed with the APC. We then calculated a median cost for every APC with the costs of associated device category “C” codes that were billed with the APC packaged into the median. Comparing the median APC cost minus device packaging to the median APC cost including device packaging enables us to determine the percentage of the median APC cost that is attributable to associated pass-through devices. By applying these percentages to the median APC costs, we determined the applicable offset amount. We included any APC on the offset list for which the device cost was at least 1 percent of the APC's cost.

As we discussed in our November 1, 2002 final rule (67 FR 66801), the listed offsets are those that may potentially be used because we do not know which procedures would be billed with newly created categories.

After publication of the November 1, 2002 final rule, we received a comment indicating that in some cases it may be inappropriate to apply an offset to a new device category because the device category is not replacing any device whose costs have been packaged into the APC. We agree with this comment. Therefore, we propose to modify our policy for applying offsets. Specifically, we would apply an offset to a new device category only when we can determine that an APC contains costs associated with the device. At this time, we propose to continue our existing methodology for determining the offset amount, described above. However, we solicit comments for alternative methodologies for determining the offset amounts that potentially could be applied to the payment amounts for new device categories.

We can use this methodology to establish the device offset amounts for the 2004 OPPS because we are using 2002 claims on which device codes are reported. However, for the 2005 update to OPPS, we would use 2003 claims that would not include device coding. Thus, for 2005, we are considering whether or not to use the charges from lines on the claim having no HCPCS code but have charges under revenue codes 272, 275, 276, 278, 279, 280, 289, and 624 as proxies for the device charges that would have been billed with HCPCS codes for these devices in previous years. We are also considering the reinstitution of the “C” codes for expired device categories and requiring hospitals to use one or more newly created “C” codes for identification of devices and costs on claims. See section VI.B of this proposed rule for further discussion.

We propose to review each new device category on a case-by-case basis to determine whether device costs associated with the new category are packaged into the existing APC structure.

We reviewed the device categories eligible for continuing pass-through payment in 2004 to determine whether the costs associated with the device categories are packaged into the existing APCs. For the categories existing as of publication of this proposed rule, we have determined that there are no close or identifiable costs associated with the devices in our data related to the respective APCs that are normally billed with those devices. Therefore, for these categories we are proposing to set the offset to $0 for 2004.

If we create a new device category and determine that our data contain identifiable costs associated with the devices in any APC, we would apply an offset. We propose, if any offsets apply, for new categories, to announce the offsets in the program memorandum that announces the information regarding the new category.

VI. Payment for Drugs, Biologicals, Radiopharmaceutical Agents, Blood, and Blood Products

A. Pass-Through Drugs and Biologicals

Section 1833(t)(6)(D)(i) of the Act requires us to make transitional pass-through payment for new drugs equal to the amount by which 95 percent of the average wholesale price (AWP) of the drug exceeds the proposed payment rate. In the past, we have used the AWP published in the Red Book to determine payment amounts for pass-through drugs as we explain in the correction notice issued on February 10, 2003 (68 FR 6637). However, we are concerned about the extent to which Medicare pays more for drugs than other payers and more than the market-based price of drugs. To address this problem of how to pay appropriately for drugs that are priced using the AWP, we are developing regulations that would revise the current payment methodology for part B covered drugs paid under section 1842(o) of the Act. When the AWP regulations are made final, we propose to adopt and apply the provisions of the final AWP rule to establish the AWP of pass-through drugs payable under the OPPS. If implementation of the AWP final rule necessitates mid-year changes in the 2004 OPPS payment rates for pass-through drugs, we propose to make those changes on a prospective payment basis through our regular OPPS PM and PRICER quarterly updates. We further propose to issue instructions by program memorandum regarding implementation of the provisions of the AWP final rule to set payment rates for pass-through drugs under the OPPS.

An AWP final rule could be published before 2004. However, if the AWP final rule is not issued in time to permit us to apply its provisions to price pass-through drugs furnished on or after January 1, 2004, we propose to use 95 percent of the AWP listed in the most recent quarterly update of the Single Drug Pricer (SDP). In the past, we have relied solely on the Red Book to determine the AWP for a pass-through drug, as we explain in the correction notice issued on February 10, 2003 (68 FR 6637). However, on January 1, 2003, we introduced for the first time a single pricing source for approximately 400 drugs and biologicals for which the Medicare payment allowance is based on 95 percent of their AWP. We established the SDP to address apparent discrepancies in drug pricing that were the unintended result of delegating calculation of AWP to multiple contractors, whose application of the pricing methodology established under 42 CFR 405.517 sometimes varied. The SDP continues to rely on published compilations such as the Red Book and First Data Bank to identify wholesale drug prices. However, using the SDP enables us to establish a uniform Medicare payment allowance for drugs whose payment is based on 95 percent of their AWP, which results in greater consistency in Medicare drug pricing nationally. If a drug with pass-through status is not included in the SDP, we propose to forward to the SDP contractor the AWP information submitted as part of the pass-through application.

Because the January SDP would not be available in time, we propose to announce the January 1, 2004 prices for pass-through drugs in our January 2004 OPPS implementing instructions to fiscal intermediaries and in the January 2004 OPPS PRICER rather than in the 2004 final rule, which is to be published in the Federal Register by November 1, 2003. We further propose to update the AWP for pass-through drugs paid under the OPPS on a quarterly basis in accordance with the quarterly updates of the SDP. The updated rates for pass-through drugs and biologicals would also be issued through our quarterly OPPS program memoranda and PRICER updates.

Additional information regarding the SDP can be found on the CMS Web site in Program Memorandum AB-02-174, issued December 3, 2002.

B. Drugs, Biologicals, and Radiopharmaceuticals Without Pass-Through Status

1. Background

Under the OPPS, we currently pay for radiopharmaceuticals, drugs, and biologicals including blood, and blood products, which do not have pass-through status, in one of three ways: packaged payment, separate payment (individual APCs), and reasonable cost. As we explained in the April 7, 2000 final rule (65 FR 18450), we generally package the cost of drugs and radiopharmaceuticals into the APC payment rate for the procedure or treatment with which the products are usually furnished. Hospitals do not receive separate payment from Medicare for packaged items and supplies, and hospitals may not bill beneficiaries separately for any such packaged items and supplies whose costs are recognized and paid for within the national OPPS payment rate for the associated procedure or service. (Transmittal A-01-133, a Program Memorandum issued to Intermediaries on November 20, 2001, explains in greater detail the rules regarding separate payment for packaged services). As we explained in the November 1, 2002 final rule (67 FR 66757), we do not classify diagnostic and therapeutic radiopharmaceutical agents as drugs or biologicals as described in section 1861(t) of the Act.

Packaging costs into a single aggregate payment for a service, procedure, or episode of care is a fundamental principle that distinguishes a prospective payment system from a fee schedule. In general, packaging the costs of items and services into the payment for the primary procedure or service with which they are associated encourages hospital efficiencies and also enables hospitals to manage their resources with maximum flexibility. Notwithstanding our commitment to package as many costs as possible, we are aware that packaging payments for certain drugs and radiopharmaceuticals, especially those that are particularly expensive or rarely used, might result in insufficient payments to hospitals, which could adversely affect beneficiary access to medically necessary services.

As discussed in the November 1, 2002 final rule (67 FR 66774), we packaged payment for drugs and radiopharmaceuticals into the APCs with which they were billed if the median cost per line for the drug or radiopharmaceutical was less than $150, and we established a separate APC payment for drugs and radiopharmaceuticals for which the median cost per line exceeded than $150. This supported our general view that payment for drugs and radiopharmaceuticals should be made as part of the payment for the services in which they are used in order to encourage efficient purchase and use of drugs and radiopharmaceuticals provided in the hospital outpatient department.

Payment Rates for 2003

To limit the dramatic reduction in payment rates for many of the separately payable drugs and radiopharmaceuticals from 2002 to 2003, we limited the decrease in their median costs from 2002 median costs to 15 percent plus half of the difference between the total proposed reduction and 15 percent reduction. (For example, for a drug whose cost decreased by 35 percent from the applicable 2002 median cost, the allowed reduction from 2002 to 2003 was 15 percent plus (½ times 35-15) percent = 25 percent.) For each blood and blood product, we provide separate payment in an individual APC and limited any decrease in payment rate from 2002 to 2003 to 15 percent. In 2003, we also excluded from OPPS certain vaccines and orphan drugs (that met our orphan criteria) and paid for these items at reasonable cost. Our intent in implementing these policies was to avoid adversely affecting beneficiary access to needed treatment.

Drugs for Which We Propose Pass-Through Status Will Expire in 2004

Section 1833(t)(6)(C)(i) of the Act specifies that the duration of transitional pass-through payments for drugs and biologicals must be no less than 2 years nor any longer than 3 years. The drugs that are due to expire December 31, 2003 meet that criterion. Table 14 lists the drugs and biologicals for which we propose pass-through status will expire on December 31, 2003.

Table 14.—Proposed List of Drugs and Biologicals for Which Pass-Through Status Expires CY 2004
HCPCS | APC | Long descriptor | Trade name | Proposed pass-through Expiration date
A9700 | 9016 | Injection, Octafluoropropane, per 3 ml | Optison (single source) | 12-31-03
J0587 | 9018 | Injection, Botulinum toxin, type B, per 100 units | Myobloc (single source) | 12-31-03
J0637 | 9019 | Injection, Caspofungin acetate, 5 mg | Cancidas (single source) | 12-31-03
J7517 | 9015 | Mycophenolate mofetil, oral per 250 mg | CellCept (single source) | 12-31-03
J9010 | 9110 | Injection, Alemtuzumab, per 10 mg | Campath (single source) | 12-31-03
J9017 | 9012 | Injection, Arsenic trioxide, per 1 mg | Trisenox (single source) | 12-31-03
J9219 | 7051 | Implant, Leuprolide acetate, per 65 mg implant | Viadur (single source) | 12-31-03
C9201 | 9201 | Dermagraft, per 37.5 sq. centimeters | Dermagraft (single source) | 12-31-03

2. Proposed Criteria for Packaging Payment for Drugs, Biologicals, and Radiopharmaceuticals

To the maximum extent possible, our intention is to package into the APC payment the costs of any items and supplies that are furnished with an outpatient procedure. We considered several options for packaging in 2004 and propose the following policy:

For 2004, we propose to continue with our policy of paying separately for drugs and radiopharmaceuticals whose median cost per day exceeds $150 and packaging the cost of drugs and radiopharmaceuticals with median cost per day of less than $150 into the procedures with which they are billed.

As discussed in the November 1, 2002 final rule, we received several comments on our methodology of analyzing single line items on drug claims for the 2003 OPPS (67 FR 66772). Commenters stated that our methodology was not consistent with how hospitals bill for certain drugs, biologicals, and radiopharmaceuticals. They believe that this inconsistency affected whether or not a drug, biological, or radiopharmaceutical fell below the $150 median cost per line threshold. Commenters claimed that we incorrectly assumed “that a single administration of a drug was billed as a single line item on a claim.” These commenters alleged that hospitals often bill for certain drugs administered during a single patient encounter using multiple lines on a claim. For example, if 10 units of a drug were administered at a cost of $100 but the hospital billed 2 line items of 5 units at a cost of $50 each, then a methodology that determines median costs on a per line basis would incorporate 2 line items at $50 when the real cost was one line item at $100. If a significant percentage of administrations for this drug was billed in this manner, it would result in median costs that underestimate the true cost of the drug. We agree with this comment. Therefore, we propose to change our packaging methodology to account for such hospital billing practices.

We calculated the median cost per day using claims data from April 1, 2002 to December 31, 2002 for all drugs and radiopharmaceuticals paid under the OPPS that had a HCPCS code during this time period including drugs for which transitional pass-through payment ended on January 1, 2003. Although we included orphan drugs in this methodology, we discuss them separately below. We excluded from these calculations vaccines and blood and blood products that are discussed below. In order to calculate the median cost per day for the drugs, biologicals, and radiopharmaceuticals, we took the following steps:

• After application of the cost-to-charge ratios, we aggregated all line items for a single date of service on a single claim for each drug or radiopharmaceutical. This resulted in creating a single line item with the total number of units and the total cost of a drug or radiopharmaceutical given to a patient in a single day.

• A separate record was then created for each drug or radiopharmaceutical by date of service, regardless of the number of lines the drug or radiopharmaceutical was billed in each claim. For example, drug X is billed on a claim with two different dates of service, and for each date of service, the drug is billed on 2 line items with costs of $10 and 5 units in each line item. In this case, the computer program would have created two records for this drug, and each record would have a total cost of $20 and 10 units.

• For each record created for a drug or radiopharmaceutical, the cost per unit of the drug was calculated. If drug X's descriptor is “per 1 mg” and one record was created for a total of 10 mg (as indicated by the total number of units for the drug on the claim for each unique date of service), then the computer program divided the total cost for the record by 10 to give a per unit cost. This unit cost was then weighted by the total number of units in the record. This was done by generating a number of line items equivalent to the number of units in that particular claim. Thus, a claim with 100 units and a total cost of $200 would be given 100 line items each with a cost of $2 while a claim of 50 units with a cost of $50 would be given 50 line items each with a cost of $1.

• The unit records with cost per unit greater or less than 3 standard deviations from the geometric mean were then trimmed.

• The remaining unit observations were arrayed and the median cost per unit of the drug or radiopharmaceutical was established.

• Next, the total number of units billed on all claims for the drug or radiopharmaceutical was divided by the total number of unique per-day records for the drug or radiopharmaceutical to arrive at an average number of units per day.

• The average number of units per day for each drug or radiopharmaceutical was then multiplied by the median cost per unit to arrive at its “median cost” per day.

• We then arrayed the median cost per day for all drugs and radiopharmaceuticals in ascending order and examined the distribution.

Many commenters have alleged that hospitals do not accurately bill the number of units for drugs and radiopharmaceuticals. Because this methodology assumes that hospitals bill the number of units accurately, we compared the median cost per day obtained by the above methodology with the median cost per day derived as follows: We aggregated line items as above and created records for each drug and radiopharmaceutical based on date of service. However, instead of calculating costs on a per-unit basis, we simply reduced total charges to total costs for each record and determined the median. This methodology assumes that hospitals record charges more accurately than units. We believed that calculating median costs using the second methodology would address the concerns of commenters and would help us determine whether our median cost per unit calculation accurately reflected the costs of drugs and radiopharmaceuticals.

In most cases, the median costs determined by the two methodologies were similar. Based on this comparison, we believe that calculating median costs per unit accurately reflects the actual cost of the drug or radiopharmaceutical. Furthermore, given the wide variability of doses used for many drugs, we believe that it is important to pay on a “per unit” basis for separately payable drugs and radiopharmaceuticals. For example, many chemotherapy agents are dosed based on both body area and frequency of administration. Thus, a patient with a body area of 2 m squared could receive 600 mg of a drug every 3 weeks, 400 mg every 2 weeks, or 200 mg every week depending on the chemotherapy regimen.

Based on our analyses, we believe that it is reasonable to continue our current policy of packaging drugs and radiopharmaceuticals with a median cost of less than $150 per day. This means that approximately 52 percent of the drugs and radiopharmaceuticals will be packaged and 48 percent of the drugs and radiopharmaceuticals will be paid separately.

We noticed that several drugs and radiopharmaceuticals with median cost per line that were under $150 for the 2003 OPPS have median costs per day that are equal to or greater than $150 based on the data used for the 2004 OPPS. For some other drugs and radiopharmaceuticals, we saw that their median costs per line were equal to or greater than $150 for 2003 OPPS; however, using the 2002 data, their median costs per day fell below $150. These shifts from 2003 to 2004 would affect packaging decisions for a number of drugs.

Given that these variations exist, we propose to provide an exception in 2004 to the packaging rule for drugs and radiopharmaceuticals whose payment status would change as a result of using newer data and a different methodology. As we explain elsewhere in this proposed rule, we expect to use additional 2002 claims data for the establishment of our final policies for CY 2004. Based on this additional data and comments from the public, we intend to re-evaluate whether to package or pay separately for drugs for which the per-day median cost would cross the threshold from 2003 to 2004. For 2004, we propose that:

• Currently packaged drugs and radiopharmaceuticals with median costs per day that are at or above $150 would receive separate payment in 2004.

• Currently separately payable drugs and radiopharmaceuticals with median costs per day that are under $150 would continue to receive separate payment in CY 2004.

• Drugs whose pass-through status would expire on December 31, 2003, and whose median costs per day are under $150 would receive separate payment in 2004.

• Currently packaged drugs and radiopharmaceuticals with median costs per day below $150 would remain packaged in 2004.

We request comments on the methodology we used to determine the median cost per day, on the threshold we propose to use for packaging drugs and radiopharmaceuticals, and on the proposal to pay separately for drugs and radiopharmaceuticals whose payment status would change based on use of recent claims data and our proposed methodology.

Although in the future we expect to expand packaging the costs of drugs and radiopharmaceuticals into the APCs for the services with which they are billed, we request comments on alternatives to packaging.

3. Payment for Drugs, Biologicals, and Radiopharmaceuticals That Are Not Packaged

For the 2003 OPPS, the APC payment rate for separately payable drugs and radiopharmaceuticals with status indicator “K” is based on a relative weight calculated in the same way that the relative weights for procedural APCs are calculated. As with procedural APCs, we observed a decrease in the proposed payment rates for many separately payable drugs and radiopharmaceuticals; therefore, we dampened the payment reduction for APCs whose median costs decreased by more than 15 percent from 2002 to 2003.

In order to establish payment rates for separately payable drugs and radiopharmaceuticals for the 2004 OPPS, we first determined each drug's and radiopharmaceutical's median cost as described above. When we compared the median cost per unit used for determining the 2003 payment rate (for example, the true or dampened median cost) for separately payable drugs and radiopharmaceuticals with their 2004 median cost per unit, we found fluctuations in costs from 2003 to 2004.

CY 2004 median costs decreased more than 15 percent from the corresponding 2003 median cost for many of the separately payable drugs and radiopharmaceuticals. Many of these decreases affected low-volume drugs and radiopharmaceuticals and may be the result of inaccurate coding. Similarly, the 2004 median costs increased by more than 15 percent from the corresponding 2003 median cost for approximately 12 (mostly low volume) drugs and radiopharmaceuticals. For many of the high-volume, separately payable drugs and radiopharmaceuticals, the 2004 median costs increased or decreased by less than 15 percent as compared to the corresponding 2003 median cost. We solicit comments concerning the reasons for the fluctuations in median costs from 2003 to 2004. We are interested in determining whether these fluctuations reflect changes in the market prices of these drugs and radiopharmaceuticals or problems in the hospital claims data (for example, inaccurate coding, improper charges) that we use for setting payment rates.

We considered several options to address the fluctuations in median costs for separately payable drugs and radiopharmaceuticals. One option was to base payment on our 2002 claims data without modification. A second option was to adopt for 2004 the same methodology that we used to moderate payment decreases in 2003.

A third option was to create drug and radiopharmaceutical cost bands for separately payable drugs and radiopharmaceuticals (for example, all drugs with median costs per unit of $60.01 to $70 would be assigned a proxy median of $70), which would be based on their median costs calculated using 2002 claims data. We considered adopting two sets of cost bands: one for separately payable drugs and biologicals other than radiopharmaceutical agents and one for separately payable radiopharmaceutical agents. The cost bands for drugs and radiopharmaceuticals would be assigned based solely on cost, with no consideration given to the therapeutic use or chemical composition of the drug.

When we applied the dampening methodology used for the 2003 OPPS to drugs and radiopharmaceuticals that will be separately payable in 2004, we observed that this methodology did not sufficiently limit payment reductions for many of the drugs and radiopharmaceuticals with large decreases in median cost from 2003 to 2004. Therefore, a fourth option that we considered and are proposing for 2004 is a variation of the methodology used for the 2003 OPPS. For separately payable drugs and radiopharmaceuticals whose 2004 median costs decreased by more than 15 percent from the applicable 2003 median cost, we propose to limit the reduction in median costs to one fourth of the difference between the value derived from claims data and a 15 percent reduction (for example, for a drug whose cost decreased by 35 percent from the applicable 2003 median cost, the allowed reduction from 2003 to 2004 would be 15 percent + (¼ times 35−15) percent = 20 percent). For separately payable drugs and radiopharmaceuticals whose median costs decreased by less than 15 percent from 2003 to 2004, we propose to establish their payment rates using the median costs derived from the 2002 claims data. We believe that it is appropriate to determine payment rates based on our claims data where those data show the cost of drugs and radiopharmaceuticals to be stable over 2 years. In cases where costs show significant fluctuation, we believe it is appropriate to mitigate the potential for underpayment. We believe our proposal bases payment rates on our claims data as required by statute and addresses the potential for making underpayments. However, based on more complete claims data we expect to have for the final rule and on the comments from the public, we will re-evaluate the appropriateness of adjusting median costs for drugs for which median costs would decline in 2004.

We also propose a separate payment policy, which is described below, for drugs, biologicals, and radiopharmaceuticals that have generic alternatives approved by the Food and Drug Administration (FDA) between October 2001 and December 2002.

We solicit comment on both our proposed methodology and payment rates for separately payable drugs and radiopharmaceuticals for 2004. Commenters who disagree with the proposed rate for a drug or radiopharmaceutical should submit verifiable information that shows our payment rate does not reflect the price that is widely available to the hospital market. Thus, information should demonstrate actual, market-based pricing of drugs and radiopharmaceuticals and should be prices at which a broadly based, national sample of hospitals are routinely able to procure the drug or radiopharmaceutical. We do not consider the published average wholesale price (AWP) for a drug to be an indication of its market-based price.

4. Proposed Payment Methodology for Drug Administration

Currently, payment for drug administration is made separately using HCPCS codes Q0081, Q0083, Q0084, Q0085, 90782, 90783, 90784, and 90788 with certain drugs packaged into the median cost for administration. The amount packaged should reflect the costs of the packaged drugs in relation to the frequency with which they are administered. Each of these codes is to be reported once per visit no matter how many drugs are administered. When a hospital administers only packaged drug(s), the appropriate HCPCS code is reported once and no separate payment is made for the drugs. When a hospital administers only separately payable drug(s) the appropriate HCPCS code is reported once; in addition, separate payment is made for the drugs. Because the payment for administration includes payment for packaged drugs, a hospital receives inappropriate reimbursement every time it administers a separately payable drug.

In order to facilitate accurate payments for drugs and drug administration, we are considering whether to make several changes in our current payment policy with regard to payment for Q0081, Q0083, Q0084, and Q0085. We are not considering changes to payment policy for HCPCS codes 90782, 90783, 90784, and 90788 at this time, although we are interested in receiving comments regarding payment for these codes.

We are proposing to continue our current policy of packaging drugs and radiopharmaceuticals that cost less than $150 per episode of care into the APC with which they are associated (for example, nuclear medicine scans, drug administration).

We are considering whether and how to make different payments to hospitals for administration of packaged drugs and administration of unpackaged drugs. We would like to ensure that when a hospital administers a separately paid drug, it would receive payment for the drug and the drug administration, but not for any drugs packaged into the administration. We also would like to ensure that the payments that are made for administration of packaged drugs are appropriate for the costs of the drugs as well as the cost of the administration.

In order to achieve the above objectives, we considered several coding and payment options and analyzed our claims data for the period April 1, 2002 through December 31, 2002.

Summary of Findings and Alternatives

As explained in greater detail below, we carefully examined data for administration of packaged and separately paid drugs billed under Q0081, Q0083, Q0084 and Q0085. We found that the data showed that paying based on a median cost for the APC for each of the current four codes generally results in underpayment when packaged drugs are billed on the claim and overpayment when separately paid drugs are billed on the claim. In the sections that follow, we discuss our data analysis in detail. We also discuss four alternatives to the current codes and APC payments in detail. In summary, those alternatives are:

1. Maintain the current codes and APCs with payments based on the median costs of all claims in the APC.

2. Eliminate the four current codes and create eight new codes to enable hospitals to report that they administered a packaged drug or a separately paid drug. We would pay a different APC amount for each of the eight new codes. The new code descriptors would parallel those of the current codes. This would retain the concept of using one code rather than two when both “infusion” and administration of chemotherapy by “other than infusion” occurred (as exists under the current codes). Coders would have to look up the drugs administered to know which code to bill.

3. Eliminate the four current codes and create six new codes to enable hospitals to report that they administered a packaged drug or separately paid drug and pay a different APC amount for each of the six new codes. In this option, no code equivalent to Q0085 would exist. Therefore, when administering chemotherapy by “infusion” or “other than infusion,” hospitals would report two codes, one for administration by “infusion” and one for administration by “other than infusion.” This would eliminate the need to use one code when both infusion and another method of administration of chemotherapy occurred. Coders would have to look up the drugs administered to know which code to bill.

4. Retain three of the current codes (Q0081, Q0083, and Q0084) but delete Q0085 (infusion and other administration of chemotherapy) and modify the OCE to use the drugs billed on the claim to assign an APC for packaged drugs or an APC for separately paid drugs. No drug administration code could be paid without a drug also being reported on the claim.

Claims Data Analysis

Using our methodology for creating single procedure claims, we looked at all single claims for HCPCS codes Q0081, Q0083, Q0084, and Q0085. We created separate files for each HCPCS code and further subdivided those into four subgroups for each code. The subgroups were for the HCPCS code billed (1) without any HCPCS for drugs; (2) with HCPCS only for packaged drugs; (3) with HCPCS only for separately payable drugs; and (4) with HCPCS for both packaged and separately packaged drugs.

We then reviewed the median costs for each of these subgroups and determined that we could use these subgroups to create two median costs for each existing administration HCPCS code (Q0081, Q0083, Q0084, and Q0085). See Table 15 for median cost data for HCPCS subgroups. We used claims where packaged drugs appeared (subgroups W and X) to create a median cost for administration of packaged drugs. We used claims without HCPCS codes for drugs and claims with HCPCS for only separately payable drugs (subgroups Y and Z) to create a median cost for the administration of separately payable drugs.

We believe that the resultant median costs accurately reflect the costs of packaged drugs and the costs of administration of separately payable drugs. It is obvious that there are significant differences in median costs of services within the same drug administration code, depending on whether a packaged or separately paid drug was administered, the type of drug administered (chemotherapy versus non-chemotherapy) and the route of administration (infusion versus other route or both).

Table 15.—Median Costs by Types of Drugs on the Claim
HCPCS | Description | Neither packaged nor separate drug (W) | With packaged drug but no separate drug (X) | No packaged drug but with separate drug (Y) | Both packaged drug and separate drug (Z)
Q0081 | Infusion therapy other than chemo | $104.97 | $276.98 | $117.89 | $231.56
Q0083 | Chemotherapy other than infusion | 35.16 | 119.88 | 42.26 | 188.98
Q0084 | Chemotherapy by infusion | 127.34 | 250.97 | 159.01 | 265.46
Q0085 | Chemotherapy by both infusion and other | 97.11 | 154.01 | 203.43 | 318.05

We then calculated medians for circumstances in which there were neither packaged nor separately paid drugs on the claim, and there were no packaged drugs, but there were separately paid drugs on the claim (both W and Y). We also calculated medians for circumstances in which there were packaged drugs on the claim (both X and Z). The resultant medians and the number of claims used to set the medians appear in Table 16 below with the HCPCS medians for all claims (packaged and separately paid drugs together).

Table 16.—Numbers of Claims and Medians by Code
HCPCS code | Number of claims with packaged drugs | Median of claims with packaged drugs | Number of claims with no drug or separately paid drug | Median for claims with no drug or separately paid drug | HCPCS Median for all claims for 2004
Q0081 | 19,116 | $274.47 | 280,939 | $107.93 | $115.11
Q0083 | 8,681 | 125.86 | 24,710 | 39.10 | 48.25
Q0084 | 34,085 | 257.57 | 23,933 | 142.38 | 205.70
Q0085 | 17,749 | 303.87 | 3,242 | 126.55 | 267.63

Review of the data reveals that the median costs for all claims for Q0081 and Q0083 more closely reflect the median cost of claims where no drug or only separately payable drugs were on the claim because that subset of claims represents the vast majority of claims for Q0081 and Q0083. Therefore, if we do not differentiate payment for Q0081 and Q0083 based on whether or not a packaged drug was administered, we would underpay the cases in which a packaged drug was administered. The opposite is true of Q0084 and Q0085 in which more claims reflect packaged drugs than separately paid drugs, and, therefore, the claims with packaged drugs will determine the median cost for the code, thus overpaying cases in which the drug is separately paid.

We also examined the mean and median number of drugs billed with each of the Q codes when only packaged drugs were billed, only separately paid drugs were billed, and both packaged and separately payable drugs were billed (see Table 17). With the exception of Q0085, we believe the data on the number of drugs billed per claim is consistent with the cost data in Table 15. Again, with the exception of Q0085, we are confident that the cost of packaged drugs is accurately reflected in the median cost of the codes for administration of packaged drugs. We are also confident that the median cost for administration of separately payable drugs is appropriate.

Table 17.—Numbers of Drugs Billed per Specified Codes
HCPCS | Mean number of drugs packaged | Median number of drugs packaged | Mean number of drugs separately paid | Median number of drugs separately paid
Q0081 | 1.05 | 1 | 1.01 | 1
Q0083 | 1.77 | 2 | 1.02 | 1
Q0084 | 1.68 | 1 | 1.10 | 1
Q0085 | 2.33 | 2 | 1.19 | 1

We have some concerns about the cost data for Q0085. The cost for administration of only separately payable drugs is less than the comparable cost for Q0084 ($126 vs. $142). This is counterintuitive as Q0085 describes administration of, at minimum, two drugs, while Q0084 describes administration of one or more drugs. These cost data for Q0085 also raise the concern that proper usage of the code is not understood by hospitals and, therefore, the data are not being used properly.

We believe our analysis supports the need for creating different payment amounts for the administration of packaged drugs and for the administration of separately payable drugs (and, in the case of Q0081, the administration of no drug).

While reviewing options for coding and payment for drug administration we kept five major considerations in mind:

1. Ensuring beneficiary access to drugs.

2. Making accurate payment for both packaged and separately payable drugs.

3. Collecting sufficient data on drugs and drug administration to ensure that future policy development in this area will be properly informed.

4. Facilitating proper coding by hospitals.

5. Avoiding complicated billing rules and hospital burden to the extent possible.

We thought that three basic coding and payment options were available:

1. Continuing the current coding structure and payment policy (for example, a single payment for drug administration per day no matter how many drugs were administered). (Option 1 below).

2. Creation of new codes and new payment policy to describe drug administration (for example, different sets of codes for administration of packaged and separately payable drugs along with allowance for more than one payment for drug administration per day). (Options 2 and 3 below).

3. Continuation of the current drug administration codes but creating new payment policy (for example, allowance for more than one payment for drug administration per day).

After reviewing these three basic options, we developed more fully four specific options. Under all of these options, hospitals would be required to bill all drugs using the HCPCS code for the drug.

Moreover, although we have included an expanded option for Q0085 (Chemotherapy by both infusion and other technique) in option 2, and have retained Q0085 in option 1, we have serious concerns about the extent to which Q0085 is used correctly and about the extent to which the data for this code validly reflect the costs of an identifiable service. Hence, we are particularly interested in comments regarding whether we should eliminate Q0085. (Option 4 below).

Option 1—Retain the current codes and continue to pay on a per-visit basis, based on median costs for each code regardless of whether or not packaged or separately paid drugs are administered.

We would retain the current codes, use all claims for these services to set a relative weight, and make a single payment based on the median costs for the code regardless of whether or not packaged or separately paid drugs are administered. This would result in significant underpayment for administration of packaged drugs because the largest volume of claims with this code are either for administration of no drug (Q0081) or for drugs that are separately paid (and have no packaged drug costs). See Table 16 for the median costs determined on the basis of all claims for the existing codes. We would require hospitals to report HCPCS codes for both packaged and separately payable drugs in order to inform future policy decisions in this area.

We do not propose payment amounts for this option because the budget neutrality scalar would be different under this proposal than under option 2 (which was used in the scalar and impact analysis).

Option 2—Create eight new drug administration codes to enable hospitals to report administration of both packaged and separately payable drugs.

We would create two new sets of HCPCS codes to describe administration of packaged and separately payable drugs. Each of the eight codes would have its own APC payment. The descriptions and median costs for these proposed codes would be as follows:

Table 18.—Median Costs of Proposed G Codes Under Option 2
HCPCS | 2004 APC | 2004 SI | Description | Median costs
GXXX1 | 0382 | S | Infusion of packaged non-cancer chemotherapy drug(s), per day | $274.47
GXXX3 | 0376 | S | Administration of packaged cancer chemotherapy drug(s) by other than infusion, per day | 125.86
GXXX4 | 0378 | S | Administration of packaged cancer chemotherapy drug(s) by infusion, per day | 257.57
GXXX5 | 0380 | S | Administration of packaged cancer chemotherapy drugs by both infusion and other than infusion, per day | 303.87
GYYY1 | 0383 | S | Infusion of separately payable non-cancer chemotherapy drug(s) or non-drug infusion therapy, per day | 107.93
GYYY3 | 0377 | S | Administration of separately payable cancer chemotherapy drug(s) by other than infusion, per day | 39.10
GYYY4 | 0379 | S | Administration of separately payable cancer chemotherapy drug(s) by infusion, per day | 142.38
GYYY5 | 0381 | S | Administration of separately payable cancer chemotherapy drugs by both infusion and other than infusion, per day | 126.55

The median costs for administration of packaged drugs would be determined from claims that contain at least one packaged drug and the median costs for administration of separately payable drugs (or no drugs in the case of Q0081) would be determined from claims that contained only separately payable (or no) drugs.

Although payment would not depend on accurate reporting of HCPCS codes for drugs, we would require hospitals to use HCPCS codes for both packaged and separately payable drugs in order to ensure that we had reliable data upon which to base future relative weights for these services. As described under option 4, we would create six lists of drugs in order to facilitate proper payment in the future.

Hospitals would report the appropriate code for the type of drug administered and the route(s) of administration. In this option, hospitals could bill for administration of both chemotherapy agents and administration of non-chemotherapy agents (or non-drug infusions). We would permit a maximum of one chemotherapy and one non-chemotherapy administration per day.

We are concerned that creation of these codes could require complicated billing rules and cause burden to hospitals. We would need to specify how to bill different combinations of route and category of drug (for example, two infused drugs, one pushed drug, antiemetics, and hydration). Because hospital billers would have to review both the type of administration and the type of drug administered to determine the correct code to bill, we are concerned about the potential for miscoding (with resultant mispayment) under this option, and we solicit comments on both of these issues. In some cases, this additional coding burden might result in less payment for administration (particularly Q0081).

Under this option, all codes would have a status indicator of S, and no multiple procedure reductions would apply.

This option is modeled for purposes of the budget neutrality scalar and the impact analysis (see Table 18).

Option 3—Create six new drug administration codes to enable hospitals to report administration of both packaged and separately payable drugs.

This option is similar to option 2 except that we would eliminate the codes used to describe administration of chemotherapy by both infusion and other techniques. Where a code is billed with a packaged drug suitable for the code, we would pay the APC for the packaged drug. Where both a packaged drug and a separately paid drug were administered via the same route of administration (and therefore only one code was billed), we would pay the APC only for the administration of the packaged drug and would pay separately for the separately paid drug and would not pay the APC for administration of the separately paid drug. Under this option, we would allow up to three payments for administration of drugs or infusions. We would allow one payment for non-chemotherapy drugs/infusions (for example, antiemetics, fluids), one payment for chemotherapy administered by infusion, and one payment for chemotherapy administered by “other than infusion.” As stated above, we would not allow payment for administration of packaged chemotherapy drugs by infusion and payment for administration of separately payable chemotherapy by infusion. This coding scheme would allow us to more accurately recognize the true costs of administering multiple drugs. For example, there are some economies of scale when infusing two or more drugs (for example, only one I. V. line needed), but each drug requires its own mixing and nursing care. This option would allow up to three payments for administration of drugs or non-drug infusion, thereby recognizing the unique costs of administering each drug while not making duplicate payment. In order to ensure that we do not make duplicate payment for patients receiving chemotherapy drugs and non-chemotherapy drugs (and/or hydration), we would pay GXXX1 and GYYY1 at 50 percent of their payment when one of these codes is paid in addition to chemotherapy administration (GXXX3, GXXX4, GYYY3, and GYYY4). This is because we believe there are economies of scale achieved for multiple drug administrations and that the additional resources used to provide non-chemotherapy treatment are minimal.

Following are examples of how payment would be made:

• When both packaged and separately payable chemotherapy drugs are infused, we would make payment for GXXX4—Administration of packaged chemotherapy drugs by infusion and for each separately payable chemotherapy drug, but we would not make payment for GYYY4—Infusion of separately payable chemotherapy drugs.

• When packaged chemotherapy drugs are pushed and infused, and separately payable chemotherapy drugs are infused, we would make payment for GXXX3 and GXXX4 and for each separately payable chemotherapy drug, but we would not make payment for GYYY4.

• When packaged chemotherapy drugs are infused and pushed; separately payable chemotherapy drugs are infused and packaged; and separately payable non-chemotherapy drugs are infused (for example, antiemetics), and hydration is given; we would make payment for GXXX3, GXXX4, each separately infused chemotherapy drug, GXXX1, and each separately payable non-chemotherapy drug. We would not make payment for GYYY1 or GYYY3. Note that payment for GXXX1 in this case would be made at 50 percent because it was billed with chemotherapy (if it was billed without chemotherapy, then payment would be made at 100 percent).

Medians for these codes would be as follows:

Table 19.—Median Costs Under Option 3
HCPCS | 2004 APC | 2004 SI | Description | Median costs
GXXX1 | XXX1 | T | Infusion of packaged non-cancer chemotherapy drug(s), per day | $274.47
GXXX3 | XXX3 | S | Administration of packaged cancer chemotherapy drug(s) by other than infusion, per day | 125.86
GXXX4 | XXX4 | S | Administration of packaged cancer chemotherapy drug(s) by infusion, per day | 257.57
GYYY1 | YYY1 | T | Infusion of separately payable non-cancer chemotherapy drug(s) or non-drug infusion therapy, per day | 107.93
GYYY3 | YYY3 | S | Administration of separately payable cancer chemotherapy drug(s) by other than infusion, per day | 39.10
GYYY4 | YYY4 | S | Administration of separately payable cancer chemotherapy drug(s) by infusion, per day | 142.38

As modeled, these codes would have status indicator S (except as described above for GXXX1 and GYYY1).

Similar to option 2, we would require hospitals to report HCPCS codes for packaged and separately payable drugs to ensure that we have reliable data upon which to base future relative weights for these services. As described under option 4, we would create six lists of drugs in order to facilitate proper coding and payment in the future.

We do not propose payment amounts for this option because the budget neutrality scalar would be different under this proposal than under option 2 (which was used in the scalar and impact analysis).

Option 4—Use of codes Q0081, Q0083, and Q0084 and deletion of Q0085 with creation of logic in the outpatient code editor (OCE) to enable differential payment for administration of packaged and separately payable drugs.

This option is similar to option 3 in terms of payment policy. However, instead of creating six new codes, hospitals would continue to report codes Q0081, Q0083, Q0084, and the HCPCS codes for all packaged and separately payable drugs. We would delete Q0085 in order to simplify hospital reporting and to facilitate creation of payment logic in the OCE.

We would create six lists of drugs (see Addenda L, M, N, O, P, Q): packaged chemotherapy agents administered by other than infusion, separately payable chemotherapy agents administered by other than infusion, packaged chemotherapy agents administered by infusion, separately payable chemotherapy agents administered by infusion, packaged non-chemotherapy agents administered by infusion, and separately payable non-chemotherapy agents administered by infusion. These lists would be coded into the OCE, and would be updated quarterly by program memoranda. We realize that a few drugs may be administered by both infusion and other techniques. In these lists, we would assign each drug to its predominant form of administration in a hospital outpatient setting. If we could not determine whether a drug was infused or administered by a technique other than infusion (for example, we receive a claim with Q0083 and Q0084 and two drugs that may be administered by either infusion or another technique), we would associate each drug with its predominant administration code.

We would create logic in the OCE that would base payment on the combination of administration and drug codes on the claim but would only allow one unit of each administration type as described in option 3. The medians for the APCs to which OCE would assign the codes are described in Table 20.

Table 20.—Medians for APCS Under Option 4
Drug administration codes on the claim | Nonchemo drug, packaged list (subgroup X) | Chemo drug, packaged list (subgroup W) | Nonchemo drug, separately paid list or no drug billed (subgroup Z) | Chemo drug, separately paid list (subgroup Y) | Admin APC | APC median | Applicable addenda
Q0081 | X |  |  |  | A | $274.47 | L
Q0081 |  |  | X |  | B | 107.93 | M
Q0083 |  | X |  |  | C | 125.86 | N
Q0083 |  |  |  | X | D | 39.10 | O
Q0084 |  | X |  |  | E | 257.57 | P
Q0084 |  |  |  | X | F | 149.38 | Q

The payment policy is identical to the policy described in option 3 including the discount for Q0081 when billed with Q0083 and/or Q0084. Although this option would not require hospitals to change coding of drug administration it would, unlike options 2 and 3, require accurate coding of HCPCS codes for drugs in order to ensure proper payment. Additionally, we would revise the definitions of the administration codes to “per day” instead of “per visit.”

Similar to option 3, we would make payment for up to three drug administrations per day, if appropriate. Where a code is billed with a packaged drug suitable for the code, we would pay the APC for the packaged drug. Where both a packaged drug and a separately paid drug were administered via the same route of administration (and therefore only one code was billed), we would pay the APC only for the administration of the packaged drug and would pay separately for the separately paid drug and would not pay the APC for administration of the separately paid drug. In no case would we pay for more than one unit of an administration code.

Under options 2, 3, and 4, we would return a claim to the provider when a chemotherapy administration code was reported without a HCPCS code for a chemotherapy drug. Therefore, it is very important that commenters advise us as to whether there are any cancer chemotherapy drugs that are not included in Addenda L, M, N, O, P, or Q. Specifically, we solicit comments as to whether there are any cancer chemotherapy drugs that do not have HCPCS codes.

We do not propose payment amounts for this option because the budget neutrality scalar would be different under this proposal than under option 2 (which was used in the scalar and impact analysis). We solicit comment on each option described above.

General Billing Instructions

Any previous regulatory or sub-regulatory guidance notwithstanding, we propose to implement the following billing rules under any of the above payment options:

(1) Q0081 may not be used to bill separately for the hanging of a bag of solution for which the sole purpose is to administer chemotherapy drugs; that charge should be billed as part of the charge for Q0084 or Q0085.

(2) Q0081 may not be billed when it is an integral part of another procedure. In those cases, the charge for the procedure should reflect the costs of the infusion therapy, either as part of the charge for the HCPCS code or as a revenue code charge (for example, hydration or drug administration during a surgical procedure performed under general anesthesia).

(3) Q0081, Q0083, and Q0084 should not be used to bill for the administration of radiopharmaceuticals that are administered as part of diagnostic or therapeutic nuclear medicine procedures. In those cases, the radionucliide should be billed with the appropriate nuclear medicine HCPCS code.

(4) Q0081, Q0083, and Q0084 may not be used to report the transfusion of blood, platelets, or any other blood products. Those transfusions should be reported by use of the appropriate HCPCS code(s) in APC 0110.

5. Generic Drugs, and Radiopharmaceuticals

In general, hospital acquisition costs for drugs, biologicals, and radiopharmaceutical agents with generic competitors are lower than the acquisition costs for sole source or multi-source drugs. In order to ensure that Medicare recognizes these lower costs in a timely manner, we are proposing a new method of calculating payment amounts for drugs, biologicals, and radiopharmaceuticals that are separately paid under the OPPS and for which the Food and Drug Administration (FDA) has recently approved generic alternatives when we determine our claims data do not reflect the costs of the generic alternatives.

Because many hospitals have long term purchasing arrangements for drugs and radiopharmaceuticals, we believe that there is generally a 12-month lag between the time that generic items are made available and when our claims data will accurately reflect the costs associated with the availability of the generic alternative. Therefore, during the interval between FDA approval of a generic item and the time when we would reasonably expect claims data to reflect the cost of generic alternatives, we propose to adopt the following methodology to price the affected drugs, biologicals, and radiopharmaceuticals under the OPPS.

We would first identify items approved for generic availability by the FDA during the 6 months before the first day of the claims period we would use as the basis for an annual OPPS update. Where we determine that our claims data do not reflect the costs of generic alternatives for a separately payable drug, biological, or radiopharmaceutical, we propose to base our payment rate on 43 percent of the AWP for the drug, biological, or radiopharmaceutical. As described in the 2003 OPPS rule (67 FR 66768), the ratio of hospital acquisition cost, on average, to AWP for multisource drugs with generic competitors equals 0.43. We believe that using this ratio would allow us to appropriately calculate the costs that hospitals incur when purchasing generic drugs or radiopharmaceuticals. When we determine that our claims data accurately reflect the cost of the generic alternative(s), we would use the claims data to set payment rates in preference to 43 percent of AWP for the drug or radiopharmaceutical.

We considered another payment option where we would base our payment rate on the lower of: (1) The median cost (with dampening if applicable) based on claims data; or (2) the Federal Supply Schedule price. We are not proposing this policy because we believe we would not be able to calculate payment rates that are close to the actual hospital acquisition costs of generic alternatives since the Federal Supply Schedule represents prices that are lower than the prices paid by most hospitals. Also, median costs from the claims data would not reflect the actual cost of generics because of the time lag described above.

To apply this payment methodology to the 2004 OPPS update, we reviewed FDA approvals for generic drugs, biologicals, and radiopharmaceuticals issued between October 2001 and December 2002. We found six drugs, which we propose to be separately paid under the 2004 OPPS that had generic alternatives approved during that time. These drugs are: Daunorubicin, Bleomycin, Pamidronate, Paclitaxel, Ifosfomide, and Idarubicin. Table 21 shows the dates when the FDA approved generic alternatives for these drugs.

We understand that there is a wide range of utilization for these drugs in the OPPS and that price reductions for generic drugs will depend on their utilization and the types of illnesses for which they are used. However, we would not expect claims data from April 1, 2002 through December 31, 2002 to reflect fully the availability of the generic alternatives.

Table 21 shows the median cost for these six drugs as determined by claims data (with any adjustments for APCs that decreased in median cost by more than 15 percent from 2003 to 2004) and their costs at 43 percent of AWP as determined under the July 2003 update of the Medicare Single Drug Pricer.

We solicit comments on this proposed method of calculating payment for drugs, biologicals, and radiopharmaceuticals for which generic alternatives have recently been approved. Specifically, we are interested in comments concerning our proposed methodology for identifying these items, whether we properly identified all the items, and whether our proposed payment policy for these generic alternatives is appropriate.

Table 21.—Proposed List of Separately Payable OPPS Drugs With Generic Alternatives Approved Between October 2001 and December 2002
APC | Description | Date of Generic Approval by the FDA | 43% of AWP | 2004 Median cost (with dampening if applicable)
0832 | Idarubicin hcl injection | May 2002 | $190.08 | $188.25
0831 | Ifosfomide injection | May 2002 | 68.07 | 115.46
0863 | Paclitaxel injection | May 2002 | 74.27 | 116.61
0730 | Pamidronate disodium | May 2002 | 120.34 | 184.40
0857 | Bleomycin sulfate injection | October 2001 | 130.98 | 169.28
0820 | Daunorubicin hcl injection | November 2001 | 35.46 | 89.65

6. Orphan Drugs

In response to last year's proposed rule, many commenters explained that many orphan drugs were life-saving therapies used solely for the treatment of rare disorders where no other treatment was available. They further stated that many of these drugs would be received by very few Medicare beneficiaries and that if we packaged these drugs into other procedures, our payment rates would be insufficient to recognize their high cost, thus impairing the access of beneficiaries who needed the drugs. These commenters also stated that the claims data we used to set payment rates for 2003 did not accurately reflect the cost of these drugs. We shared these concerns, and in the November 1, 2002 final rule (67 FR 66772), we set forth the following payment policy:

We identified orphan drugs that are used solely for orphan conditions by applying the following criteria:

• The drug is designated as an orphan drug by the FDA and approved by the FDA for treatment of only one or more orphan condition(s).

• The current United States Pharmacopoeia Drug Information (USPDI) shows that the drug has neither an approved use nor an off-label use for other than the orphan condition(s). Payment for drugs that met these criteria was made outside of OPPS under reasonable cost.

In that same rule, we identified four orphan drugs (J0205 Injection, alglucerase, per 10 units; J0256 Injection, alpha 1-proteinase inhibitor, 10 mg; J9300 Gemtuzumab ozogamicin, 5 mg; and J1785 Injection, imiglucerase, per unit) as meeting these criteria. Therefore, we excluded them from payment under OPPS and paid for them at reasonable cost in 2003.

We received several comments in response to the final rule, stating that we had not identified all drugs that qualified for special payment as orphans under our criteria. After reviewing these comments, we have identified 7 additional drugs that meet our criteria. These drugs are: J2355 Injection, oprelvekin, 5 mg; J3240 Injection, thyrotropin alpha, 0.9 mg; J7513 Daclizumab parenteral, 25 mg; J9015 Aldesleukin, per vial; J9160 Denileukin diftitox, 300 mcg; J9216 Interferon, gamma 1-b, 3 million units; and Q2019 Injection, basiliximab, 20 mg.

We have now identified a total of 11 drugs that meet our orphan drug criteria, and we expect to identify more such drugs in the future. Last year's policy was intended to narrowly target a very small number of drugs received by very few Medicare beneficiaries in order to ensure beneficiary access to life saving therapies. The aggregate number of Medicare beneficiaries who will receive the 11 drugs that meet our criteria for orphans is significantly higher than the number who receive the 4 we identified last year. Furthermore, as we identify more drugs that meet our criteria, we expect the number of beneficiaries who receive these drugs to grow. As the number of beneficiaries who receive these drugs increases, so do total payments for the drugs. Therefore, we no longer believe that paying for these drugs at reasonable cost, outside of OPPS, is appropriate. Our goal is to pay for as many hospital outpatient department (OPD) services as possible under the OPPS system. We believe that any payments made outside of OPPS should remain relatively small and, as in the case of vaccines, be made because it is unlikely our claims data will reflect the cost of the item or service (see discussion of vaccines below).

In the case of orphan drugs, we believe that our claims data for April 1, 2002 through December 31, 2002 do reflect the cost of orphan drugs, and we are concerned about the potential of making ever increasing payments for these drugs outside of the OPPS. Furthermore, we believe that many of the concerns expressed by commenters would be addressed if we continue to make separate payment for these drugs.

Therefore, we propose the following payment policy for orphan drugs:

• We propose to continue using the same criteria to identify orphan drugs used solely for an orphan condition under the OPPS.

• We propose to discontinue retrospective cost payments and to make prospective payments under the OPPS for those identified orphan drugs.

• We propose to base payments on the same methodology we use to pay for other drugs including any limitation on payment reductions (as described above).

• We propose to make separate payment for orphan drugs and place them in APCs.

We solicit comment on each of these proposals and request that commenters submit information meeting the same criteria as comments for other drugs (as discussed above).

7. Vaccines

Outpatient hospital departments administer large amounts of the vaccines for influenza (flu) and pneumococcal pneumonia (PPV), typically by participating in immunization programs. In recent years, the availability and cost of some vaccines (particularly the flu vaccine) have fluctuated considerably. As discussed in the November 1, 2002 final rule (67 FR 66718), we were advised by providers that OPPS payment was insufficient to cover the costs of the flu vaccine and that access of Medicare beneficiaries to flu vaccines might be limited. They cited the timing of updates to OPPS rates as a major concern. They said that our update methodology, which uses 2-year-old claims data to recalibrate payment rates would never be able to take into account yearly fluctuations in the cost of the flu vaccine. We agreed with this concern and decided to pay hospitals for influenza and pneumococcal pneumonia vaccines based on a reasonable cost methodology. As a result of this change, hospitals, home health agencies (HHAs), and hospices, which were paid for these vaccines under OPPS in 2002 are being paid at reasonable cost for these vaccines in 2003. We are aware that access concerns continue to exist for these vaccines; therefore, we propose to continue paying for influenza and pneumococcal pneumonia vaccines under reasonable cost methodology.

8. Blood and Blood Products

From the onset of the OPPS, we have made separate payment for blood and blood products in APCs rather than packaging them into payment for the procedures with which they were administered. As we explained in the April 7, 2000 final rule (65 FR 18449), wide variations in patient requirements convinced us that we should pay for these items separately rather than packaging their costs into the procedural APCs. Moreover, the Secretary's Advisory Council on Blood Safety and Access recommended that blood and blood products be paid separately to ensure that we did not create any incentives that were inconsistent with the promotion of blood safety and access. Therefore, we propose to continue to pay separately for blood and blood products.

As described in the November 1, 2002 final rule (67 FR 66773), we applied a special dampening option to blood and blood products that had significant reductions in payment rates from 2002 to 2003. For 2003, we limited the decrease in payment rates for blood and blood products to approximately 15 percent.

After careful comparison of the 2003 dampened medians with the 2004 medians from our claims data, we believe that establishing payment rates based on the 2004 median costs would, for many blood and blood products, result in payments that are significantly lower than hospital acquisition costs. In order to mitigate any significant payment reductions and to minimize any compromise in access of beneficiaries to these products, we propose to limit the decrease in payment rates for blood and blood products from 2003 to 2004 by approximately 10 percent.

This is different than the amount by which we limited payment decreases last year because when we applied the dampening methodology used for the 2003 OPPS to blood and blood products, we observed that it did not sufficiently limit payment reductions for the blood and blood products with large decreases in median cost from 2003 to 2004. Therefore, we are proposing for 2004 a variation of the methodology used for the 2003 OPPS because we believe that a 10 percent limit in the decrease in payment rates for blood and blood products would better reflect hospital acquisition costs, ensure appropriate reimbursement to hospitals, and enable continued beneficiary access to blood and blood products.

The list of APCs containing blood and blood products can be found in the November 1, 2002 final rule (67 FR 66750). We note that the APCs for these products are intended to make payment for the costs of the products. Costs for storage and other administrative expenses are packaged into the APCs for the procedures with which the products are used.

We solicit comment on this proposal especially from hospitals. We are especially interested in comments that include verifiable information about the widely available acquisition cost of commonly used blood and blood products.

9. Intravenous Immune Globulin

Following publication of the proposed rule on August 9, 2002, we received comments urging us to reclassify intravenous immune globulin (IVIG) as a blood product. After carefully reviewing these comments with our medical advisors, we decided to make final our proposal to classify immune globulin as a biological, subject to the same payment policy we implemented for other drugs and biologicals. Our reasons were set forth in the November 1, 2002 final rule (67 FR 66774). Since implementation of the 2003 OPPS update, we have received further comments on this decision. These commenters continue to assert that we should make special payment provisions for IVIG and reclassify IVIG as a blood and blood product. They have expressed particular concern about the potentially negative impact of our payment policy for IVIG on patient access, especially for those individuals who have primary immune deficiency diseases.

We appreciate the concerns regarding our decision to pay for IVIG in accordance with the payment methodology we applied to other drugs and biologicals in the 2003 update of the OPPS. We have reviewed the claims data that are the basis for the payment rates in this proposed rule, and our analysis reveals that IVIG would be separately payable in 2004. The claims data for IVIG are robust, and the most recent claims data, when compared with claims data used in earlier updates of the OPPS suggest that hospital costs are consistent and that hospitals are billing accurately for these products. Therefore, we believe that payment for these products is appropriate using the methodology we propose to implement for other drugs and biologicals. Therefore, we propose to continue to classify IVIG as a biologic. We solicit comments on this proposal.

10. Drug and Device Coding

We propose to require hospitals to report individual codes for all drugs and devices used during the episode, including those that are packaged.

Last year (CY 2003), the pass-through status of many drugs and devices expired. These drugs and devices were packaged, consistent with the fundamental principles of a prospective payment system. By packaging the costs of items and services into the payment for the primary procedure or service with which they are associated, we encourage hospital efficiency and provide hospitals with the ability to manage their resources with maximum flexibility. We believed that an additional advantage of increased packaging would be that hospitals would no longer need to report codes for the individual items and services included in the package. While we continue to support packaging to the greatest extent possible, the loss of coding information on claims creates some obstacles to accurate rate-setting.

The data for 2002 that we are using for CY 2004 rate-setting still have considerable drug and device coding information. However, for the CY 2005 OPPS update, for which 2003 data would be used, there will be much less information regarding specific drug and device costs. We do not expect to have as much Medicare claims information on which to base certain decisions such as which drugs to remove from packaged status and pay separately.

This concerns us and has led us to consider the need for drug and device coding. Even though payment is not directly related to that information, we believe that reporting the codes may be in hospitals' best interest because it may result in the most accurate payments. For example, in setting the weights of certain device-related APCs, we discovered that the median costs of those APCs were higher when we used only claims on which the device codes appeared. Similarly, certain drug administration APCs have higher median costs when separate HCPCS for drugs are reported on the claims.

If we are to continue to price drugs and devices using up-to-date median costs from claims data, we need information on the costs of the items, even when packaged. We propose to require the separate coding of individual drugs and device categories, even where their costs are packaged, to address this need. We would like comments on whether or not to require coding of devices. We also solicit comments regarding our proposal to report drug codes on claims and alternative methods for rate-setting if codes for drugs and/or devices are no longer present on the claims. We are particularly interested in receiving comments from hospitals on this proposal.

11. Payment for Split Unit of Blood

Since implementation of the OPPS, we have assigned status indicator “E” to HCPCS code P9011, blood (split unit). Status indicator “E” designates services for which payment is not allowed under the OPPS or services that are not covered by Medicare. P9011 was created to identify situations where one unit of red blood cells or whole blood, for example, is split and half of the unit is transfused to one patient and the other half to another patient. Because use of split units is not uncommon, we propose to change the status indicator for P9011 from “E” to “K” and assign it to a blood and blood product APC that pays approximately 50 percent of the payment for the whole unit of blood. We propose to assign P9010 to APC 0957 (Platelet concentrate) with a payment rate of $37.30. We invite comments on this proposed change in the status indicator and payment amount for P9010.

12. Other Issues

We propose to continue our payment policy for Procrit and Aranesp for calendar year 2004. As explained in detail in the November 1, 2002 final rule (67 FR 66758), Aranesp and Procrit are in separate APCs, and are paid at equivalent rates with the application of a ratio to convert the dosage units of Aranesp into units of Procrit. The current conversion ratio is based on the best information available at the time we developed the final rule for calendar year 2003. In the final rule, we explained that we based our conclusion regarding the appropriate conversion ratio on the FDA labeling for each product and the body of available clinical evidence contained in published and unpublished articles and abstracts and in materials provided by the products' manufacturers. We indicated that we might refine the conversion ratio as soon as feasible based on information not available at the time we established the current conversion ratio.

Consistent with our statements in the final rule, we have continued to gather information regarding an appropriate conversion ratio by reviewing recent published studies and data from alternative sources. We have met with the manufacturers of the products and consulted with clinicians. We are continuing to evaluate this additional data and information. However, we have not yet determined whether the data would support a change to the current policy. We remain open to establishing a different conversion ratio in the final rule if we conclude that a change is warranted based on public comments and information submitted during the public comment period and/or any other information we consider in developing the final rule.

Therefore, we propose to continue with the current policy regarding payment for Procrit and Aranesp, including the current conversion ratio. We solicit comments on this issue and are especially interested in submission of articles in peer-reviewed publications and other clinical data concerning the frequency of administration and the dosage amounts of these agents. Submission of prospective, randomized, controlled trials comparing the dosage amounts, frequency of administration, and clinical outcomes of these agents are preferred. All data submitted would be available to the public. We would base any changes to our current payment policy for these two drugs only on data that we could make available to the public.

VII. Wage Index Changes for CY 2004

Section 1833(t)(2)(D) of the Act requires that we determine a wage adjustment factor to adjust for geographic wage differences, in a budget neutral manner, that portion of the OPPS payment rate and copayment amount that is attributable to labor and labor-related costs.

We used the proposed Federal fiscal year (FY) 2004 hospital inpatient PPS wage index to make wage adjustments in determining the proposed payment rates set forth in this proposed rule. The proposed FY 2004 hospital inpatient wage index published in the May 19, 2003 Federal Register (68 FR 27154) is reprinted in this proposed rule as Addendum H—Wage Index for Urban Areas; Addendum I—Wage Index for Rural Areas; and Addendum J—Wage Index for Hospitals That Are Reclassified. We propose to use the final FY 2004 hospital inpatient wage index to calculate the payment rates and coinsurance amounts that we will publish in the final rule implementing the OPPS for CY 2004.

VIII. Copayment for CY 2004

In the November 30, 2001 final rule (66 FR 59887), we adopted a methodology that applied five rules for calculating APC copayment amounts when payments for APC groups change because the APCs' relative weights are recalibrated or when individual services are reclassified from one APC group to another. In calculating the unadjusted copayment amounts for 2004, we encountered circumstances that the methodology in the November 30, 2001 final rule either did not address or whose applicability was ambiguous. For example, rules 2 and 3 refer to payment rate changes resulting from the recalibration of relative payment weights but do not clearly apply to payment rate changes resulting from the reclassification of HCPCS codes from one APC group to another APC group. Therefore, we propose to revise and clarify the methodology we would follow to calculate unadjusted copayment amounts, including situations in which recalibration of the relative payment weight of an existing APC results in a change in the APC payment; to situations in which reclassification of HCPCS codes from an existing APC to another APC results in a change in the APC payment; and to payment rates for newly created APCs that are comprised of HCPCS codes from existing APCs.

As a general rule, we would seek to lower the coinsurance rate for the services in an APC from the prior year. This principle is consistent with section 1833(t)(8)(C)(ii) of the Act, which accelerates the reduction in the national unadjusted coinsurance rate so that beneficiary liability will eventually equal 20 percent of the OPPS payment rate for all OPPS services and with section 1833(t)(3)(B), which indicates the congressional goal of achieving 20 percent coinsurance when fully phased in and gives the Secretary the authority to set rules for determining copayment amounts to new services. However, in no event is the proposed 2004 coinsurance rate for an APC group lower than 20 percent or greater than 50 percent of the payment rate.

We propose to determine copayment amounts in 2004 and subsequent years in accordance with the following rules.

1. When an APC group consists solely of HCPCS codes that were not paid under the OPPS the prior year because they were packaged or excluded or are new codes, the unadjusted copayment amount would be 20 percent of the APC payment rate.

2. If a new APC that did not exist during the prior year is created and consists of HCPCS codes previously assigned to other APCs, the copayment amount is calculated as the product of the APC payment rate and the lowest coinsurance percentage of the codes comprising the new APC.

3. If no codes are added to or removed from an APC and, after recalibration of its relative payment weight, the new payment rate is equal to or greater than the prior year's rate, the copayment amount remains constant (unless the resulting coinsurance rate is less than 20 percent).

4. If no codes are added to or removed from an APC and, after recalibration of its relative payment weight, the new payment rate is less than the prior year's rate, the copayment amount is calculated as the product of the new payment rate and the prior year's coinsurance percentage.

5. If HCPCS codes are added to or deleted from an APC, and, after recalibrating its relative payment weight, holding its unadjusted copayment amount constant results in a decrease in the coinsurance percentage for the reconfigured APC, the copayment amount would not change (unless retaining the copayment amount would result in a coinsurance rate less than 20 percent).

6. If HCPCS codes are added to an APC, and, after recalibrating its relative payment weight, holding its unadjusted copayment amount constant results in an increase in the coinsurance percentage for the reconfigured APC, the copayment amount would be calculated as the product of the payment rate of the reconfigured APC and the lowest coinsurance rate of the codes being added to the reconfigured APC.

This methodology would, in general, reduce the beneficiary coinsurance rate and copayment amount for APCs for which the payment rate changes as the result of the reconfiguration of APCs and/or the recalibration of relative payment weights.

IX. Conversion Factor Update for CY 2004

Section 1833(t)(3)(C)(ii) of the Act requires us to update the conversion factor used to determine payment rates under the OPPS on an annual basis. Section 1833(t)(3)(C)(iv) of the Act provides that for 2004, the update is equal to the hospital inpatient market basket percentage increase applicable to hospital discharges under section 1886(b)(3)(B)(iii) of the Act.

The forecast of the hospital market basket increase for FY 2004 published in the inpatient PPS proposed rule on May 19, 2003 is 3.5 percent. To set the proposed OPPS conversion factor for 2004, we increased the 2003 conversion factor of $52.151 (the figure from the November 1, 2002 final rule (67 FR 66788) by 3.5 percent.

In accordance with section 1833(t)(9)(B) of the Act, we further adjusted the proposed conversion factor for 2004 to ensure that the revisions we are proposing to update by means of the wage index are made on a budget-neutral basis. We calculated a budget neutrality factor of 1.003 for wage index changes by comparing total payments from our simulation model using the proposed FY 2004 hospital inpatient PPS wage index values to those payments using the current (FY 2003) wage index values. In addition, for CY 2004, allowed pass-through payments have decreased to 2 percent of total OPPS payments, down from 2.3 percent in CY 2003. The 0.3 percent was also used to adjust the conversion factor.

The increase factor of 3.5 percent for 2004, the required wage index budget neutrality adjustment of approximately 1.003, and the 0.3 percent adjustment to the pass-through estimate, result in a proposed conversion factor for 2004 of 54.289.

X. Proposed Outlier Policy and Elimination of Transitional Corridor Payments for CY 2004

A. Proposed Outlier Policy for CY 2004

For OPPS services furnished between August 1, 2000 and April 1, 2002, we calculated outlier payments in the aggregate for all OPPS services that appear on a bill in accordance with section 1833(t)(5)(D) of the Act. In the November 30, 2001 final rule (66 FR 59856, 59888), we specified that beginning with 2002, we will calculate outlier payments based on each individual OPPS service. We revised the aggregate method that we had used to calculate outlier payments and began to determine outliers on a service-by-service basis.

As explained in the April 7, 2000 final rule (65 FR 18498), we set a target for outlier payments at 2.0 percent of total payments. For purposes of simulating payments to calculate outlier thresholds, we propose to continue to set the target for outlier payments at 2.0 percent, as we did for CYs 2001, 2002, and 2003. For 2003, the outlier threshold is met when costs of furnishing a service or procedure exceed 2.75 times the APC payment amount, and the current outlier payment percentage is 45 percent of the amount of costs in excess of the threshold. For the reasons discussed in detail in section XI.E of this preamble, we are proposing to establish two separate outlier thresholds, one for community mental health centers (CMHCs) and one for hospitals. For CY 2004, we propose to continue to set the target for outlier payments at 2.0 percent of total OPPS payments (a portion of that 2.0 percent, 0.36 percent, would be allocated to CMHCs for PHP services). Based on our simulations for 2004, we propose to set the hospital threshold for 2004 at 2.75 times the APC payment amount, and the proposed 2004 payment percentage applicable to costs over the threshold at 50 percent. We propose to set the threshold for CMHCs for 2004 at 11.75 times the APC payment amount and the 2004 outlier payment percentage applicable to costs over the threshold at 50 percent.

B. Elimination of Transitional Corridor Payments for CY 2004

Since the inception of the OPPS, providers have been eligible to receive additional transitional payments if the payments they received under the OPPS were less than the payments they would have received for the same services under the payment system in effect before the OPPS. Under 1833(t)(7) of the Act, most hospitals that realize lower payments under the OPPS received transitional corridor payments based on a percent of the decrease in payments. However, rural hospitals having 100 or fewer beds, as well as cancer hospitals and children's hospitals described in section 1886(d)(1)(B)(iii) and (v) of the Act, were held harmless under this provision and paid the full amount of the decrease in payments under the OPPS. Transitional corridor payments were intended to be temporary payments to ease providers' transition from the prior cost-based payment system to the prospective payment system. Beginning January 1, 2004, in accordance with section 1833(t)(7) of the Act, transitional corridor payments will no longer be paid to providers other than cancer hospitals and children's hospitals. Cancer hospitals and children's hospitals are held harmless permanently under the transitional corridor provisions of the statute.

We are concerned that small rural hospitals are not able to achieve the same level of operating efficiencies as larger rural hospitals and urban hospitals, and we are concerned that the decrease in payments these hospitals may experience once they stop receiving transitional corridor payments will result in these hospitals having to decrease or altogether cease to provide certain outpatient services. A reduction of services could have consequences for Medicare beneficiaries and their continued access to care in rural areas. In light of these concerns, one thing we could do is to provide increased APC payments for clinic and emergency room visits furnished by rural hospitals having 100 or fewer beds. Any adjustment to payments for these hospitals would be made under the authority granted to the Secretary under section 1833(t)(2)(E) of the Act, to establish in a budget neutral manner adjustments as determined to be necessary to ensure equitable payments, such as adjustments for certain classes of hospitals. We invite comments on whether we should provide an adjustment, such as the one described above, for small rural hospitals.

XI. Other Policy Decisions and Proposed Changes

A. Hospital Coding for Evaluation and Management (E/M) Services

Facilities code clinic and emergency department visits using the same [Physicians'] Current Procedural Terminology (CPT) codes as physicians. For both clinic and emergency department visits, there are currently five levels of care. Because these codes were defined to reflect only the activities of physicians, they are inadequate to describe the range and mix of services provided to patients in the clinic and emergency department settings (for example, ongoing nursing care, preparation for diagnostic tests, and patient education). An example to illustrate the services that are billed using E/M codes in the hospital outpatient department follows:

An adult male patient presents to a clinic after a fall while working in his yard. As a result, he has scraped off the top layer of skin covering his entire back. The physician examines the patient, finds a dirty and possibly infected wound, which is the only injury. The physician orders the nurse to clean the wound, apply antiseptic medication, and dress the wound. In addition, the physician orders an intramuscular antibiotic and a tetanus injection.

The nurse will spend a considerable amount of time cleaning and dressing the wound with large amounts of sterile supplies (because of the large body surface area) as well as administering medications. The nurse also will give the patient discharge instructions regarding the care of the wound.

Although the physician services are captured using existing E/M codes, the additional staff and supplies integral to the outpatient department services are not. The low level E/M code that describes the physician services in the example is not reflective of the services provided by the nurse (and any other staff that may have become involved) or of the quantity of supplies used in the treatment.

In the April 7, 2000 final rule (65 FR 18434), we stated that in order to ensure proper payment to hospitals, it was important that emergency and clinic visits be coded properly. To facilitate proper coding, we required each hospital to create an internal set of guidelines to determine what level of visit to report for each patient. In the August 24, 2001 proposed rule (66 FR 44672), we asked for public comments regarding national guidelines for hospital coding of emergency and clinic visits. Commenters recommended that we should keep the current E/M coding system until facility specific E/M codes for emergency department and clinic visits, along with national coding guidelines, were established. Commenters also recommended that we convene a panel of experts to develop codes and guidelines that are simple to understand, implement, and that are compliant with the Health Insurance Portability and Accountability Act (HIPAA) requirements.

APC Panel Recommendations

During its January 2002 meeting, the APC Panel made the following recommendations regarding coding for evaluation and management services:

1. Propose, and make final, facility coding guidelines for E/M services for CY 2004.

2. Create a series of G codes with appropriate descriptors for facility E/M services.

3. Maintain a single set of codes, with five levels of service, for emergency department visits.

4. Develop a single set of codes, with five levels of service, for clinic visits. The Panel specifically recommended that we not differentiate among visit types (for example, new, established, and consultation visits) for the purposes of facility coding of clinic visits.

5. Adopt the American College of Emergency Physicians (ACEP) facility coding guidelines as the national guidelines for facility coding of emergency department visits.

6. Develop guidelines for clinic visits that are modeled on the ACEP guidelines but are appropriate for clinic visits.

7. Implement these guidelines as interim and continue to work with appropriate organizations and stakeholders to develop final guidelines.

After careful review and consideration of written comments, oral testimony, and the APC Panel's recommendations, we proposed the following in the August 9, 2002 proposed rule (for implementation no earlier than January 2004):

1. To develop five G codes to describe emergency department services:

GXXX1—Level 1 Facility Emergency Services;

GXXX2—Level 2 Facility Emergency Services;

GXXX3—Level 3 Facility Emergency Services;

GXXX4—Level 4 Facility Emergency Services; and

GXXX5—Level 5 Facility Emergency Services.

2. To develop five G codes to describe clinic services:

GXXX6—Level 1 Facility Clinic Services;

GXXX7—Level 2 Facility Clinic Services;

GXXX8—Level 3 Facility Clinic Services;

GXXX9—Level 4 Facility Clinic Services; and

GXXX10—Level 5 Facility Clinic Services.

3. To replace CPT Visit Codes with the 10 new G codes for OPPS payment purposes.

4. To establish separate documentation guidelines for emergency visits and clinic visits.

In our November 1, 2002 final rule (67 FR 66792), we stated that the most appropriate forum for development of new code definitions and guidelines would be an independent expert panel that would make recommendations to us. We wanted to ensure that definitions and guidelines were developed using an open process involving a variety of experts in the field. We stated that it is critically important to the development, acceptance, and implementation of facility visit code definitions and guidelines that the organizations that develop the guidelines also maintain and update the guidelines and provide ongoing education to providers on use of the codes. In light of the expertise of organizations such as the American Hospital Association (AHA) and the American Health Information Management Association (AHIMA), we felt that these organizations were particularly well equipped to make recommendations to us and to provide ongoing education to providers. Furthermore, we stated that the process should provide adequate time for the education of clinicians and coders and for hospitals to make the necessary changes in their systems to accommodate the new codes and guidelines.

On their own initiative, the AHA and the AHIMA convened an independent expert panel of individuals from various organizations to develop code descriptions and guidelines for hospital emergency department and clinic visits and make recommendations to us.

The panel recommended the following to us.

1. We should make payment for emergency and clinic visits based on four levels of care.

2. We should create HCPCS codes to describe these levels of care as follows:

GXXX1—Level 1 Emergency Visit.

GXXX2—Level 2 Emergency Visit.

GXXX3—Level 3 Emergency Visit.

GXXX4—Critical Care provided in the emergency department.

GXXX5—Level 1 Clinic Visit.

GXXX6—Level 2 Clinic Visit.

GXXX7—Level 3 Clinic Visit.

GXXX8—Critical Care provided in the clinic.

3. We should replace all the HCPCS currently in APCs 600, 601, 602, 610, 611, 612, and 620 with GXXX1 through GXXX8.

4. Based on the above recommendations, we would crosswalk payments as follows: GXXX1 to APC 610, GXXX2 to APC 611, GXXX3 to APC 612, GXXX4 to APC 620, GXXX5 to APC 600, GXXX6 to APC 601, GXXX7 to APC 602, and GXXX8 to APC 620. These crosswalks and code descriptions are listed in Table 22 below.

Table 22.—Crosswalks of 2003 HCPCS Codes to the Proposed G Codes
2003 HCPCS description | 2004 G code description | 2003 HCPCS | 2004 Proposed G codes | APC | Payment amount
Emergency department visit | Level 1 Emergency Visit | 99281 99282 | GXXX1 | 0610 | $76.80
Emergency department visit | Level 2 Emergency Visit | 99283 | GXXX2 | 0611 | $135.08
Emergency department visit | Level 3 Emergency Visit | 99284 99285 | GXXX3 | 0612 | $234.72
Critical care | Level 4 Critical Care provided in the emergency department | 99291 99292 | GXXX4 | 0620 | $503.03
Office/outpatient visit, new | Level 1 Clinic Visit | 99201 99202 | GXXX5 | 0600 | $50.90
Office/outpatient visit, new | Level 2 Clinic Visit | 99203 | GXXX6 | 0601 | $54.46
Office/outpatient visit, new | Level 3 Clinic Visit | 99204 99205 | GXXX7 | 0602 | $84.71
Office/outpatient visit, established | Level 1 Clinic Visit | 99211 99212 | GXXX5 | 0600 | $50.90
Office/outpatient visit, established | Level 2 Clinic Visit | 99213 | GXXX6 | 0601 | $54.46
Office/outpatient visit, established | Level 3 Clinic Visit | 99214 99215 | GXXX7 | 0602 | $84.71
Office consultation | Level 1 Clinic Visit | 99241 99242 | GXXX5 | 0600 | $50.90
Office consultation | Level 2 Clinic Visit | 99243 | GXXX6 | 0601 | $54.46
Office consultation | Level 3 Clinic Visit | 99244 99245 | GXXX7 | 0602 | $84.71
Critical care | Level 4 Critical Care provided in the clinic | 99291 99292 | GXXX8 | 0620 | $503.03

The independent panel convened by the AHA and AHIMA recommended these levels in anticipation of the development of national coding guidelines for emergency and clinic visits that meet the following criteria we announced in the August 9, 2002 proposed rule (67 FR 52131):

1. Coding guidelines for emergency and clinic visits should be based on emergency department or clinic facility resource use, rather than physician resource use.

2. Coding guidelines should be clear, facilitate accurate payment, be usable for compliance purposes and audits, and comply with HIPAA.

3. Coding guidelines should only require documentation that is clinically necessary for patient care. Preferably, coding guidelines should be based on current hospital documentation requirements.

4. Coding guidelines should not create incentives for inappropriate coding (for example, up-coding).

We have received recommendations for a set of coding guidelines from the independent E/M panel comprised of members of the AHA and AHIMA. We propose to implement new evaluation and management codes only when we are also ready to implement guidelines for their use, after allowing ample opportunity for public comment, systems change, and provider education. We also propose to use cost data from the current HCPCS codes in these APCs to determine the relative weights of these APCs until cost data from GXXX1 through GXXX8 are available to set relative weights. We note that this proposal requires discontinuing the use of all HCPCS codes in these APCs and would not allow us to collect cost data for the five levels of emergency and clinic visits that are currently described by CPT codes. We further note that we would no longer be able to distinguish among the costs for visits by new patients, established patients, consultation patients, or patients being seen for more specialized care (for example, pelvic screening exams and glaucoma screening exams).

We would be using claims data from current HCPCS codes and crosswalking those data to the new codes in the same APCs; therefore, there would be no change in payment for any of these services as a result of these coding changes. Once cost data become available from the new HCPCS codes, we would use those data to set the relative weights, and, therefore, there should be no budgetary impact.

We are currently considering the set of proposed national coding guidelines for emergency and clinic visits recommended by the independent panel. We plan to make any proposed guidelines available to the public for comment on the OPPS Web site as soon as they are complete. We will notify the public through our listserve when these proposed guidelines become available. To subscribe to this listserve, please go to the following Web site: http://www.cms.hhs.gov/medlearn/listserv.asp and follow the directions to the OPPS listserve. With regard to the development of these guidelines, our primary concerns are—

1. To make appropriate payment for medically necessary care;

2. To minimize the information collection and reporting burden on facilities;

3. To minimize any incentives to provide unnecessary or low quality care;

4. To minimize the extent to which separately billable services are counted as E/M services;

5. To develop coding guidelines that are consistent with facility resource use; and

6. To develop coding guidelines that are clear, facilitate accurate payment, are useful for compliance purposes and audits, and comply with HIPAA. Before implementation of the codes and coding guidelines, adequate time will be provided for the education of clinicians and coders and for hospitals to make the necessary changes in their systems to accommodate the codes and guidelines. We are requesting comments on the amount of time hospitals believe would be adequate to implement these new codes and guidelines. We remain committed to working with appropriate organizations and stakeholders in our continuing development of a standard set of codes and national guidelines for facility coding of emergency and clinic visits.

B. Status Indicators and Issues Related to OCE Editing

The status indicators we assign to HCPCS codes and APCs under the OPPS have an important role in payment for services under the OPPS because they indicate whether a service represented by a HCPCS code is payable under the OPPS or another payment system and also whether particular OPPS policies apply to the code. We are providing our proposed status indicator (SI) assignments for APCs in Addendum A, HCPCS codes in Addendum B, and definitions of the status indicators in Addendum D.

The OPPS is based on HCPCS codes for medical and other health services. These codes are used for a wide variety of payment systems under Medicare, including, but not limited to, the Medicare fee schedule for physician services, the Medicare fee schedule for durable medical equipment and prosthetic devices, and the Medicare clinical laboratory fee schedule. For purposes of making payment under the OPPS, we must be able to signal the claims processing system which HCPCS codes are paid under the OPPS and those codes to which particular OPPS payment policies apply. We accomplish this identification in the OPPS through the establishment of a system of status indicators with specific meanings. Addendum D defines the meaning of each status indicator for purposes of the OPPS.

We assign one and only one status indicator to each APC and to each HCPCS code. Each HCPCS code that is assigned to an APC has the same status indicator as the APC to which it is assigned.

Specifically, in 2004 we propose to use the status indicators in the following manner:

• We use “A” to indicate services that are paid under some payment method other than OPPS, such as the durable medical equipment, prosthetics, orthotics, and supplies (DMEPOS) fee schedule or the physician fee schedule. Some but not all of these other payment systems are identified in Addendum D.

• We use “C” to indicate inpatient services that are not payable under the OPPS.

• We use “D” to indicate a code that was deleted effective with the beginning of the calendar year.

• We use “E” to indicate services for which payment is not allowed under the OPPS or that are not covered by Medicare.

• We use “F” to indicate acquisition of corneal tissue, which is paid at reasonable cost. (In 2003, we also use “F” to indicate those orphan drugs that are paid at reasonable cost.) In 2004, we propose to revise the definition of “F” solely to indicate acquisition of corneal tissue paid at reasonable cost.

• We use “G” to indicate drugs and biologicals that are paid under OPPS transitional pass-through rules.

• We use “H” to indicate devices that are paid under OPPS transitional pass-through rules.

• We use “K” to indicate drugs, biologicals (including blood and blood products), radiopharmaceutical agents, and certain brachytherapy seeds that are paid in separate APCs under the OPPS but that are not paid under OPPS transitional pass-through rules.

• We use “L” to indicate flu and pneumococcal immunizations which are paid at reasonable cost but to which no coinsurance or copayment apply.

• We use “N” to indicate services that are paid under the OPPS but for which payment is packaged into another service or APC group.

• We use “P” to indicate services that are paid under the OPPS but only in partial hospitalization programs.

• We use “S” to indicate significant procedures that are paid under OPPS but to which the multiple procedure reduction does not apply.

• We use “T” to indicate significant services that are paid under the OPPS and to which the multiple procedure payment discount under OPPS applies.

• We use “V” to indicate medical visits (including clinic or emergency department visits) that are paid under the OPPS.

• We use “X” to indicate ancillary services that are paid under the OPPS.

The software that controls Medicare payment looks to the status indicators attached to the HCPCS codes and APCs for direction in the processing of the claim. Therefore, the assignment of the status indicators has significance for the payment of services.

We are proposing the status indicators identified for each HCPCS code and each APC in Addenda A and B and are requesting comments on the appropriateness of the indicators we have assigned.

C. Observation Services

In the November 1, 2002 update to the OPPS (67 FR 66794), we summarized and clarified previously published guidance (Transmittal A-02-026) regarding payment requirements for HCPCS code G0244, Observation care provided by a facility to a patient with congestive heart failure, chest pain or asthma, minimum of 8 hours, maximum 48 hours. We also implemented HCPCS codes G0263 and G0264 to identify patients directly admitted to observation. In January 2003, we published Transmittal A-02-129, which provides further instructions regarding billing for observation services. In this proposed rule, we are neither proposing anything new with regard to observation services, nor are we seeking public comment on observation issues at this time. As we have in the past, we will update by Program Memorandum any changes in the list of ICD-9-CM codes required for payment of HCPCS code G0244 resulting from October 1 annual update of ICD-9-CM. Any such changes will be included in the 2004 final OPPS rule with comment period and the public will have an opportunity to comment at that time.

D. Procedures That Will Be Paid Only as Inpatient Procedures

Before implementation of the OPPS, Medicare paid reasonable costs for services provided in the outpatient department. The claims submitted were subject to medical review by the fiscal intermediaries to determine the appropriateness of providing certain services in the outpatient setting. We did not specify in regulations those services that were appropriate to provide only in the inpatient setting and that, therefore, should be payable only when provided in that setting.

Section 1833(t)(1)(B)(i) of the Act gives the Secretary broad authority to determine the services to be covered and paid for under the OPPS. In the April 7, 2000 final rule, we identified procedures that are typically provided only in an inpatient setting and, therefore, would not be paid by Medicare under the OPPS (65 FR 18455). These procedures comprise what is referred to as the “inpatient list.” The inpatient list specifies those services that are only paid when provided in an inpatient setting. These are services that require inpatient care because of the nature of the procedure, the need for at least 24 hours of postoperative recovery time or monitoring before the patient can be safely discharged, or the underlying physical condition of the patient. As we discussed in the April 7, 2000 and the November 30, 2001 final rules, we use the following criteria when reviewing procedures to determine whether or not they should be moved from the inpatient list and assigned to an APC group for payment under the OPPS:

• Most outpatient departments are equipped to provide the services to the Medicare population.

• The simplest procedure described by the code may be performed in most outpatient departments.

• The procedure is related to codes that we have already removed from the inpatient list.

In the November 1, 2002 final rule, we added the following criteria for use in reviewing procedures to determine whether they should be removed from the inpatient list and assigned to an APC group for payment under the OPPS:

• We have determined that the procedure is being performed in multiple hospitals on an outpatient basis; or

• We have determined that the procedure can be appropriately and safely performed in an ASC and is on the list of approved ambulatory surgical center (ASC) procedures or proposed by us for addition to the ASC list.

At its January 2003 meeting, the APC Panel did not make recommendations regarding procedures on the inpatient list, and we are not proposing to make any of the procedures that are currently on the inpatient list in Addendum E payable under the OPPS in 2004. We solicit comments on whether any procedures in Addendum E should be paid under the OPPS. We ask commenters recommending reclassification of a procedure to an APC to include evidence (preferably from peer-reviewed medical literature) that the procedure is being performed on an outpatient basis in a safe and effective manner. We also solicit comments on the appropriate APC assignment for the procedure in the event that we determine in the final rule, based on comments, that the procedure would be payable under the OPPS in 2004.

Following our review of any comments that we receive about the procedures in Addendum E, we propose either to assign a CPT code to an APC for payment under the OPPS or, if the comments do not provide sufficient information and data to enable us to make a decision, to present the comments to the APC Panel at its 2004 meeting.

Proposed New APC To Pay for Services Furnished on Same Date as Service with Modifier -CA:

In the 2003 update of the OPPS, we implemented a new modifier -CA, Procedure payable only in the inpatient setting when performed emergently on an outpatient who dies before admission. In section VI of Transmittal A-02-129, issued on January 3, 2003, we instructed hospitals on the use of modifier -CA when submitting a claim on bill type 13x for a procedure that is on the inpatient list and that is assigned payment status indicator “C.” (Transmittal A-02-129 can be found on our Web site at cms.hhs.gov.) We also implemented in the November 1, 2002 final rule (67 FR 66799) a new payment policy to allow payment, under certain conditions, for outpatient services on a claim that have the same date of service as the HCPCS code billed with modifier -CA. A single payment for outpatient services on the claim, other than those coded with status indicator “C” and modifier -CA, is currently made under APC 977.

We reviewed this policy and determined that assigning payment for these services to APC 977, which is a New Technology APC, is problematic because payment under New Technology APCs is a fixed amount that does not have a relative payment weight and is, therefore, not subject to recalibration based on hospital costs. We propose to establish a new APC for which payment would be made under certain conditions for otherwise payable outpatient services furnished on the same date of service that a procedure with status indicator “C” is performed emergently on an outpatient who dies before admission to the hospital as an inpatient. Beginning in 2004, hospitals would be paid under APC 375 instead of APC 977 for services furnished on the same date of service that a procedure with status indicator “C” and modifier -CA is billed. We propose at the outset to set the payment rate for APC 375 in the amount of $1,150, which is the payment amount for the newly structured New Technology APC that would replace APC 977. When the APC weights are recalibrated in 2005, we would use charge data from CY 2003 claims for line items that have the same date of service as the line with modifier -CA and that show a HCPCS code with status indicator “V,” “S,” “T,” “X,” “N,” or “K” to calculate a median cost and relative payment weight for APC 375. Once we have claims data, we would be able to determine whether it is appropriate to calculate a relative payment weight based on median costs from our claims data or to continue a fixed payment rate for these special cases. We invite comments on these proposed changes.

E. Partial Hospitalization Payment Methodology

1. Background

As we discussed in the April 7, 2000 OPPS final rule (65 FR 18452), partial hospitalization is an intensive outpatient program of psychiatric services provided to patients in place of inpatient psychiatric care. A partial hospitalization program (PHP) may be provided by a hospital to its outpatients or by a Medicare-certified community mental health center (CMHC). Payment to providers under the OPPS for PHPs represents the provider's overhead costs associated with the program. Because a day of care is the unit that defines the structure and scheduling of partial hospitalization services, we established a per diem payment methodology for the PHP APC, effective for services furnished on or after August 1, 2000.

The PHP per diem amount was based solely on hospital data. Section 1833(t)(2)(C) of the Act required that we initially establish relative payment weights based on median (or mean, at the discretion of the Secretary) hospital costs determined by 1996 claims and cost report data. We analyzed the service components billed by hospitals over the course of a billing period and determined the median hospital cost of furnishing a day of partial hospitalization. The analysis of hospital partial hospitalization claims resulted in a per diem payment of $202.19, effective August 1, 2000. This amount was updated effective January 1, 2001 and April 1, 2002 to $206.82 and $212.27, respectively.

Although we did not use CMHC data in establishing the initial APC amount for partial hospitalization, in the April 7, 2000 final rule, we committed to analyzing future data from hospitals and CMHCs to determine whether refinements to the per diem were warranted. As a result, for payment rates presented in the proposed and final rules in 2002, we used data from both hospitals and CMHCs to compute the CY 2003 per diem rate. A description of the methodology we followed in developing the CY 2003 PHP payment rate is presented below.

We based the CY 2003 per diem amount on hospital and CMHC claims data for services furnished from April 1, 2001 through March 31, 2002. We used data from all the hospital bills reporting condition code 41, which identifies the claim as partial hospitalization, and all bills from CMHCs, since CMHCs are Medicare providers only for the purpose of providing partial hospitalization services. We used cost-to-charge ratios from the most recently available hospital and CMHC cost reports to convert each provider's line item charges as reported on bills, to estimate the provider's cost for a day of PHP. Unlike hospitals, CMHCs do not file cost reports electronically and the cost report information is not included in the Hospital Cost Report Information System (HCRIS). The CMHC cost reports are held by the Medicare fiscal intermediaries (FIs). As a result, we requested that the FIs forward to us the most recently available CMHC cost-to-charge ratios so that we could apply the ratio to the CMHC's billed charges and approximate the CMHC's per diem cost for PHP.

Per diem costs are computed by summing the line item costs on each bill and dividing by the number of days on the bill. Using this method of computing costs, preliminary per diem cost estimates for CMHCs were much higher than expected, in many cases more than twice the average per diem for inpatient psychiatric care. Closer examination of the CMHC cost report data summaries showed that costs from CMHC settled cost reports were considerably lower than costs from “as submitted” CMHC cost reports. To account for the difference between settled and as submitted cost report data, we computed the ratio of total settled costs to total as submitted costs over a 3-year period (CMHC FYs 1998 through 2000) and calculated an average adjustment factor (0.583), which we applied to the costs on each claim. As stated in the 2002 proposed and final OPPS rules, we thought that an adjustment factor of 0.583 was adequate to account for the difference between settled and “as submitted” CMHC cost reports and was more reflective of CMHC costs for PHP. However, we did not have an opportunity to examine the data in depth before publishing the OPPS final rule on November 1, 2002.

The adjusted CMHC per diem costs on each claim were summed, then divided by the number of days on the claim. We then combined the CMHC and hospital PHP data files and determined the median per diem cost for PHP. Effective January 1, 2003, the PHP APC amount was $240.03, of which $48.17 is the beneficiary's coinsurance.

2. PHP APC Update for CY 2004

For CY 2004, we analyzed hospital and CMHC PHP claims for services furnished between April 1, 2002 and December 31, 2002. We intended to propose to use the same methodology for computing median costs per day for CY 2004, including the adjustment factor, as we used to compute the CY 2003 PHP median cost per day. However, when we applied the adjustment factor to the CMHC claims to compute the CY 2004 per diem, the CMHC median cost per day was determined to be $605. Without the adjustment, the median cost per day for CMHCs to provide partial hospitalization services is $1,038. The median cost per day for hospital outpatient departments to provide the same benefit is $225. We do not believe it is reasonable for CMHCs to incur costs that are more than double those incurred by hospital outpatient departments providing PHP services. In addition, the median CMHC cost for a day of outpatient PHP services exceeds the average per diem cost for inpatient psychiatric facilities, which provide a full 24 hours of care, medications, and other ancillary services. We do not believe it is appropriate for Medicare to pay more for a day of outpatient treatment than for a day of inpatient psychiatric care.

In addition to the vast difference in median costs between CMHCs and hospital outpatient departments, we are concerned that this difference has grown significantly larger since last year. The median per diem cost for hospitals is about the same for 2003 and 2004 ($224 for CY 2003 compared to $225 for the proposed CY 2004 update), while the median per diem cost for CMHCs (after adjustment) has increased by 58 percent ($384 for CY 2003 compared to $605 for the proposed CY 2004 update). We believe that the increase in the median CMHC per diem cost is primarily due to large increases in CMHC charges, coupled with the application of outdated cost-to-charge ratios to determine the per diem cost. In a Program Memorandum issued on January 17, 2003 (Transmittal A-03-004), we directed FIs to recalculate hospital and CMHC cost-to-charge ratios using the most recently settled or tentatively settled cost reports by April 30, 2003. However, we did not receive the updated CMHC cost-to-charge ratios in time to use in our data analysis for this proposed rule.

Therefore, we are proposing a per diem rate for PHP services furnished during CY 2004 based solely on hospital PHP data. The resulting PHP APC 0033 amount, after scaling, is $208.95, of which $41.69 is the beneficiary's coinsurance. We are not inclined to use the CMHC data in computing the per diem amount until the data discrepancies can be more fully resolved. We anticipate receipt of the revised CMHC cost-to-charge ratios this summer and will analyze the updated CMHC cost data. To the extent we believe the updated cost-to-charge ratios result in a more reasonable median per diem rate, we propose to use the CMHC data in developing the final rate for CY 2004.

3. Outlier Payments to CMHCs

In a related matter, the use of outdated cost-to-charge ratios applied to current charges has resulted in an excessive amount of outlier payments being made to CMHCs. As a result of more in-depth analysis of the 2001 data files that were used to compute the CY 2003 PHP per diem amount, we discovered a significant difference in the amount of outlier payments made to hospitals and CMHCs for PHP. Of the approximately 660 hospital programs with claims for PHP in CY 2001, 25 hospitals received approximately $9,000 in outlier payments. By contrast, almost half of the 155 CMHCs in our CY 2001 data file were paid outlier payments, totaling approximately $48 million.

Based on preliminary analysis of the 125 CMHCs with claims in the CY 2002 data files, that is, April 1, 2002 through December 31, 2002, we have determined that CMHCs received approximately $37 million in outlier payments, compared to approximately $13,000 for all hospitals in the PHP data file. The $37 million in outlier payments to CMHCs almost equals the total amount paid to CMHCs in regular APC payments.

CMHCs have indicated that they are unable to reduce their costs to the per diem payment amount and that outlier payments are needed to cover operating expenses. This use of outlier payments is contrary to the intent of an outlier policy. Establishing an outlier policy allows us to ensure beneficiary access to services by sharing in the loss associated with services for specific patients that are extraordinarily expensive. Through a comparison of the median per diem costs, we have determined that CMHCs dramatically increased their charges between CY 2001 and CY 2002. During this period, the median per diem cost for CMHCs increased by 58 percent. We believe that in most cases, these increases in charges were not related to a corresponding increase in costs. Since the CMHC cost-to-charge ratios used to calculate outlier payments remained constant during this period, we believe that the 58 percent increase in computed cost is attributable to artificial increases in charges designed to enhance outlier payments. Approximately two-thirds of outlier payments made to PHP providers were paid to 20 of the 125 CMHCs. The charges reported by these providers, on average, were over 10 times more than hospital per diem charges.

Given the difference in PHP charges between hospitals and CMHCs, we no longer believe it is appropriate to make outlier payments to CMHCs using the outlier percentage target amount and threshold established for hospitals. Therefore, we are proposing to designate a portion of the estimated 2.0 percent outlier target amount specifically for CMHCs, consistent with the percentage of projected payments to CMHCs under the OPPS in CY 2004, excluding outlier payments. CMHCs are projected to receive 0.36 percent of total OPPS payments in CY 2004, excluding outlier payments. Therefore, we are proposing to designate 0.36 percent of the estimated 2.0 percent outlier target amount for CMHCs and establish a threshold to achieve that level of outlier payments. Based on our simulations of CMHC payments in 2004, we are proposing to set the threshold for CY 2004 at 11.75 times the PHP APC payment amount. We believe that this approach would neutralize the impact of inflated CMHC charges on outlier payments. We are proposing to apply the same outlier payment percentage that applies to hospitals. Therefore, for CY 2004, we are proposing to pay 50 percent of CMHC per diem costs over the threshold. To the extent charges remain relatively constant, CMHCs would qualify for outlier payments in CY 2004 only for truly high cost patients.

As noted previously, we expect to receive updated cost-to-charge ratios from the FIs this summer. Many of the cost-to-charge ratios are expected to be considerably lower than those currently used to determine a provider's cost for the purpose of outlier and transitional pass-through or corridor payments. For example, we are aware of a number of situations where the updated cost-to-charge ratios have declined by more than 50 percent.

We specifically request public comments on this proposed outlier policy. We intend to monitor the extent to which the current pattern of escalating charges continues. CMS and the Office of the Inspector General will be further examining the excessive outlier payments to CMHCs.

XII. Summary of and Responses to MedPAC Recommendations

The Medicare Payment Advisory Commission (MedPAC) in its March 2002 Report to the Congress: “Medicare Payment Policy,” makes a number of recommendations relating to the OPPS. This section provides responses to those recommendations.

Recommendation: The Congress should increase payment rates for the OPPS by the rate of increase in the hospital market basket, less 0.9 percent, for CY 2004.

Response: Section 1833(t)(3)(C)(ii) of the Act requires the Secretary to update the conversion factor annually. Under section 1833(t)(3)(C)(iv) of the Act, the update must be equal to the hospital market basket percentage increase applicable under the hospital inpatient PPS. For years 2000 and 2002 only, the statute required the update to be determined by reducing the increase by one percentage point, but current law specifies such a reduction only for those 2 years. For 2004, we propose to increase the conversion factor by the rate of increase in the hospital market basket.

Recommendation: The Secretary should introduce clinical criteria for eligibility of drugs and biologicals to receive pass-through payments under the outpatient PPS.

Response: In accordance with section 402 of the Medicare, Medicaid, and SCHIP Benefits Improvement and Protection Act (BIPA), pass-through payments for medical devices is made on the basis of categories of devices. On November 2, 2001, we published in the Federal Register (66 FR 55850) a rule that specified the criteria for establishment of a new category of devices for purposes of pass-through payments. Among these is the requirement that the devices to be included in a possible category must demonstrate a substantial improvement in medical benefits for Medicare beneficiaries compared to benefits obtained by devices in previously established categories or other available treatments. We elaborated further about this criterion in the final rule updating the OPPS for CY 2003, published in the Federal Register on November 1, 2002. As we stated at that time, “We established this criterion because it is important for hospitals to receive pass-through payments for devices that offer substantial clinical improvement in the treatment of Medicare beneficiaries to facilitate access by beneficiaries to the advantages of the new technology. Conversely, the need for additional payments for devices that offer little or no clinical improvement over a previously existing device is less apparent.” (67 FR 66782)

At present, pass-through payment for drugs and biologicals is not made on the basis of categories, and no comparable criterion applies to them. Whether we should apply such a requirement to drugs and biologicals is an important question. On the one hand, as noted above, limiting extra payment to those items that have the potential to make a significant difference in treatment of Medicare beneficiaries appears useful. On the other hand, developing an appropriate mechanism for identifying which drugs or biologicals might qualify is difficult. Because the clinical characteristics of particular cases that are relevant for drug use may vary substantially, we believe that this challenge is more difficult than in the case of devices. Consequently, we have not developed a proposal in this area, and we are not prepared to advance one at this time.

XIII. Summary of Proposed Changes for 2004

A. Changes Required By Statute

We are proposing the following changes to implement statutory requirements:

• Add APCs, delete APCs, and modify the composition of some existing APCs.

• Recalibrate the relative payment weights of the APCs.

• Update the conversion factor and the wage index.

• Revise the APC payment amounts to reflect the APC reclassifications, the recalibration of payment weights, and the other required updates and adjustments.

• Cease transitional pass-through payments for drugs and biologicals and devices that will have been paid under the transitional pass-through methodology for at least 2 years by January 1, 2004.

• Cease transitional outpatient payments (TOPS payments) for all hospitals paid under OPPS except for cancer hospitals and children's hospitals.

B. Additional Changes

We are proposing the following additional changes to the OPPS:

• Adjust payment to moderate the effects of decreased median costs for non-pass-through drugs, biologicals, and radiopharmaceuticals.

• Implement a new method for paying for drug administration.

• Create new evaluation and management service codes for outpatient clinic and emergency department encounters.

• Change status indicators for HCPCS codes.

• List midyear and proposed HCPCS codes that are paid under OPPS.

• Allocate a portion of the outlier percentage target amount to CMHCs and create a separate threshold for outlier payments for partial hospitalization services.

• Create methodology and payment rates for separately payable drugs and radiopharmaceuticals for 2004.

• Make several changes in our current payment policy with regard to payment for Q0081, Q0083, Q0084, and Q0085 to facilitate accurate payments for drugs and drug administration.

• Change the status indicator and payment amount for P9010 by assigning it to APC 0957 (Platelet concentrate) with a payment rate of $37.30.

XIV. Collection of Information Requirements

Under the Paperwork Reduction Act of 1995, we are required to provide 60-day notice in the Federal Register and solicit public comment before a collection of information requirement is submitted to the Office of Management and Budget (OMB) for review and approval. In order to fairly evaluate whether an information collection should be approved by OMB, section 3506(c)(2)(A) of the Paperwork Reduction Act of 1995 requires that we solicit comment on the following issues:

• The need for the information collection and its usefulness in carrying out the proper functions of our agency.

• The accuracy of our estimate of the information collection burden.

• The quality, utility, and clarity of the information to be collected.

• Recommendations to minimize the information collection burden on the affected public, including automated collection techniques.

The OPPS provisions set forth in this proposed rule do not impose information collection and recordkeeping requirements. Consequently, it need not be reviewed by the Office of Management and Budget under the authority of the Paperwork Reduction Act of 1995.

XV. Response to Public Comments

Because of the large number of items of correspondence we normally receive on a proposed rule, we are not able to acknowledge or respond to them individually. However, in preparing the final rule, we will consider all comments concerning the provisions of this proposed rule that we receive by the date and time specified in the DATES section of this preamble and respond to those comments in the preamble to that rule.

XVI. Regulatory Impact Analysis

A. General

We have examined the impacts of this rule as required by Executive Order 12866 (September 1993, Regulatory Planning and Review), the Regulatory Flexibility Act (RFA) (September 16, 1980, Pub. L. 96-354), section 1102(b) of the Social Security Act, the Unfunded Mandates Reform Act of 1995 (Pub. L. 104-4), and Executive Order 13132.

Executive Order 12866 (as amended by Executive Order 13258, which merely reassigns responsibility of duties) directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year).

We estimate the effects of the provisions that would be implemented by this proposed rule would result in expenditures exceeding $100 million in any 1 year. We estimate the total increase (from changes in the proposed rule as well as enrollment, utilization, and case mix changes) in expenditures under the OPPS for CY 2004 compared to CY 2003 to be approximately $0.457 billion. Therefore, this proposed rule is an economically significant rule under Executive Order 12866, and a major rule under 5 U.S.C. 804(2).

The RFA requires agencies to determine whether a rule would have a significant economic impact on a substantial number of small entities. For purposes of the RFA, small entities include small businesses, nonprofit organizations, and government agencies. Most hospitals and most other providers and suppliers are small entities, either by nonprofit status or by having revenues of $6 million to $29 million in any 1 year (see 65 FR 69432).

For purposes of the RFA, we have determined that approximately 37 percent of hospitals would be considered small entities according to the Small Business Administration (SBA) size standards. We do not have data available to calculate the percentages of entities in the pharmaceutical preparation manufacturing, biological products, or medical instrument industries that would be considered to be small entities according to the SBA size standards. For the pharmaceutical preparation manufacturing industry (NAICS 325412), the size standard is 750 or fewer employees and $67.6 billion in annual sales (1997 business census). For biological products (except diagnostic) (NAICS 325414), with $5.7 billion in annual sales, and medical instruments (NAICS 339112), with $18.5 billion in annual sales, the standard is 50 or fewer employees (see the standards Web site at http://www.sba.gov/regulations/siccodes/). Individuals and States are not included in the definition of a small entity.

In addition, section 1102(b) of the Act requires us to prepare a regulatory impact analysis if a rule may have a significant impact on the operations of a substantial number of small rural hospitals. This analysis must conform to the provisions of section 603 of the RFA. With the exception of hospitals located in certain New England counties, for purposes of section 1102(b) of the Act, we define a small rural hospital as a hospital that is located outside of a Metropolitan Statistical Area (MSA) and has fewer than 100 beds (or New England County Metropolitan Area (NECMA)). Section 601(g) of the Social Security Amendments of 1983 (Pub. L. 98-21) designated hospitals in certain New England counties as belonging to the adjacent NECMA. Thus, for purposes of the OPPS, we classify these hospitals as urban hospitals. We believe that the changes in this proposed rule would affect both a substantial number of rural hospitals as well as other classes of hospitals and that the effects on some may be significant. Therefore, we conclude that this proposed rule would have a significant impact on a substantial number of small entities.

Unfunded Mandates

Section 202 of the Unfunded Mandates Reform Act of 1995 (Pub. L. 104-4) also requires that agencies assess anticipated costs and benefits before issuing any rule that may result in an expenditure in any 1 year by State, local, or tribal governments, in the aggregate, or by the private sector, of $110 million. This proposed rule would not mandate any requirements for State, local, or tribal governments. This proposed rule would not impose unfunded mandates on the private sector of more than $110 million dollars.

Federalism

Executive Order 13132 establishes certain requirements that an agency must meet when it publishes a proposed rule (and subsequent final rule) that imposes substantial direct costs on State and local governments, preempts State law, or otherwise has Federalism implications.

We have examined this proposed rule in accordance with Executive Order 13132, Federalism, and have determined that it would not have an impact on the rights, roles, and responsibilities of State, local or tribal governments. The impact analysis (see Table 23) shows that payments to governmental hospitals (including State, local, and tribal governmental hospitals) would increase by 3.9 percent under the proposed rule.

B. Changes in This Proposed Rule

We are proposing several changes to the OPPS that are required by the statute. We are required under section 1833(t)(3)(C)(ii) of the Act to update annually the conversion factor used to determine the APC payment rates. We are also required under section 1833(t)(9)(A) of the Act to revise, not less often than annually, the wage index and other adjustments. In addition, we must review the clinical integrity of payment groups and weights at least annually. Accordingly, in this proposed rule, we are proposing to update the conversion factor and the wage index adjustment for hospital outpatient services furnished beginning January 1, 2004 as we discuss in sections IX and VII, respectively, of this proposed rule. We are also proposing to revise the relative APC payment weights based on claims data from April 1, 2002 through December 31, 2002. Finally, we are proposing to remove two devices and eight drugs and biologicals from pass-through payment status. Alternatives to the changes we are proposing and why we did not accept them are discussed throughout this proposed rule. In particular, see section V.B with regard to the expiration of pass-through payment for devices; see section VI.B with regard to the expiration of pass-through payment for drugs and biological agents.

Under this proposed rule, the change to the conversion factor as provided by statute would increase total OPPS payments by 3.8 percent in 2004. The changes to the wage index and to the APC weights (which incorporate the cessation of pass-through payments for many drugs and devices) would not increase OPPS payments because the OPPS is budget neutral. However, the wage index and APC weight changes would change the distribution of payments within the budget neutral system as shown in Table 23 and described in more detail in this section.

Alternatives Considered

Alternatives to the changes we are proposing and the reasons that we are proposing not to make them are discussed throughout this final rule. Below we discuss options we considered when analyzing methodologies to appropriately recognize the costs of former pass-through items. For a more detailed discussion, see section V.B of this proposed rule regarding the expiration of pass-through payment for devices and section VI.B of this proposed rule regarding the expiration of pass-through payment for drugs and biological agents.

Payment for the Administration of Drugs

As discussed in detail in section VI.B of this proposed rule, we considered the following alternatives with regard to payment for administration of packaged and separately paid drugs:

• Continue to pay under the current drug administration codes (Q0081, Q0083, Q0084, and Q0085). This alternative would pay the same amount for administration of packaged or separately paid drugs, although the data show that the costs are considerably more when packaged drugs are administered and considerably less if separately paid drugs are administered.

• Create eight new HCPCS codes (based on the existing Q codes listed above), with one set of codes for packaged drugs and one set for separately paid drugs. Establish an APC for each. This alternative permits more accurate payment for packaged and separately paid drugs than use of the current codes but imposes a significant burden on hospitals to bill correctly.

• Create six new HCPCS codes (based on the existing Q codes with deletion of Q0085). Establish an APC for each. This alternative permits more accurate payment for packaged and separately paid drugs than use of the current codes and imposes slightly less burden on hospital billing than the eight-code alternative.

• Delete Q0085 and revise the definitions of the other Q codes to once per day. Crosswalk each code billed to one of two APCs that would be paid dependent on the drugs billed on the same date of service. This alternative permits more accurate payment for packaged and separately paid drugs. It also simplifies hospital billing for drug administration. Under this option, however, hospitals would be required to bill for all drugs they administer, whether packaged or separately paid so that the outpatient code editor (OCE) could properly assign the APC that applies in the case. The systems changes required for this alternative are much more substantial than under any of the other alternatives, and we are considering whether we can implement this change before January 2005.

We modeled the second alternative for purposes of budget neutrality and impact analysis. We await comments before determining what alternative we will undertake for the 2004 OPPS.

Payment for Drugs That Are Not Packaged

As a result of marked and erratic fluctuations in median costs for drugs, biologicals, and radiopharmaceutical agents that are paid separately under the OPPS, we explored several options to determine how best to provide accurate payment for CY 2004. One option was to pay based on our 2002 claims data without any adjustment. We were certain that this would not result in accurate payments because of the magnitude of some of the fluctuations in median costs seen in the data.

Another option considered, to create cost bands similar to those used for New Technology APCs, was rejected because unless very narrow bands were created, this option also would result in inaccurate payments.

Finally, we looked at using the same methodology for moderating payment decreases that we used last year, to limit median cost decreases of 15 percent or more to 50 percent of the difference between the median cost and the amount of decrease greater than 15 percent. This option would enable us to moderate the decreased payment amount on an individual drug, biological, or radiopharmaceutical agent level, which is important in light of the great variations in the data; but the 50 percent adjustment level was not adequate for the level of moderation we believed was required for CY 2004.

The adjustment we put forth in this proposed rule is a 75 percent moderation of decreases of 15 percent or more. Thus, for separately payable drugs, biologicals, and radiopharmaceutical agents for which median costs decreased by 15 percent or more, we are proposing to limit the reduction in median costs to 15 percent plus 25 percent of the difference between the value derived from claims data and any decrease of 15 percent or more.

Our analyses indicate that application of this method of adjustment would result in payment levels that will be fair and accurate. However, based on more complete claims data we expect to have for the final rule and on the comments from the public, we will re-evaluate the appropriateness of adjusting median costs for drugs for which median costs would decline in 2004.

Conclusion

It is clear that the changes in this proposed rule would affect both a substantial number of rural hospitals as well as other classes of hospitals, and the effects on some may be significant. Therefore, the discussion below, in combination with the rest of this proposed rule, constitutes a regulatory impact analysis.

The OPPS rates for CY 2004 would have, overall, a positive effect for every category of hospital with the exception of cancer hospitals and children's hospitals, which are held harmless under the OPPS. These changes in the OPPS for 2004 would result in an overall 3.8 percent increase in Medicare payments to hospitals, exclusive of outlier and transitional pass-through payments and transitional corridor payments. As described in the preamble, budget neutrality adjustments are made to the conversion factor and the relative weights to ensure that the revisions in the wage index, APC groups, and relative weights do not affect aggregate payments. The impact of the wage and recalibration changes does vary somewhat by hospital group. Estimates of these impacts are displayed on Table 23.

The overall projected increase in payments for urban hospitals is slightly lower (3.7 percent) than the average increase for all hospitals (3.8 percent) while the increase for rural hospitals is slightly greater (4.0 percent) than the average increase. The introduction of a new wage index combined with changes to the APC structure would result in small distributional changes for all categories of hospitals. Rural hospitals would gain 0.1 percent from the wage index change but show no gains from APC changes. Large urban hospitals would lose 0.1 percent from the wage index change, whereas “other” urban hospitals show a decrease of −0.2 percent from the APC changes. A discussion of the distribution of outlier payments that we project under this proposed rule can be found under section XV.E below. Table 24 presents the outlier distribution that we expect to see under this proposed rule.

C. Limitations of Our Analysis

The distributional impacts represent the projected effects of the policy changes, as well as statutory changes effective for 2004, on various hospital groups. We estimate the effects of individual policy changes by estimating payments per service while holding all other payment policies constant. We use the best data available but do not attempt to predict behavioral responses to our policy changes. In addition, we are not proposing to make adjustments for future changes in variables such as service volume, service mix, or number of encounters.

D. Estimated Impacts of This Proposed Rule on Hospitals

The OPPS is a budget neutral payment system under which the increase to the total payments made under OPPS is limited by the increase to the conversion factor set under the methodology in the statute. The impact tables show the redistribution of hospital payments among providers as a result of a new wage index and APC structure. In some cases, under this proposed rule, hospitals would receive more total payment than in 2003 while in other cases they would receive less total payment than they received in 2003. The impact of this proposed rule would depend on a number of factors, most significant of which are the mix of services furnished by a hospital (for example, how the APCs for the hospital's most frequently furnished services would change) and the impact of the wage index changes on the hospital.

Column 4 in Table 23 represents the full impact on each hospital group of all the changes for 2004. Columns 2 and 3 in the table reflect the independent effects of the proposed change in the wage index and the APC reclassification and recalibration changes, respectively. We excluded critical access hospitals (CAHs) from the analysis of the impact of the proposed 2004 OPPS rates that is summarized in Table 23. For that reason, the total number of hospitals included in Table 23 (4,352) is lower than in previous years. CAHs are excluded from the OPPS.

To a very limited extent, wage index changes favor all hospital categories with the exception of large urban hospitals with 500 or more beds that show a −0.3 percentage change. Rural hospitals show modest increases of 0.1 percent for most bed sizes but show the largest gains for categories with 200 or more beds, a 0.3 percent increase. Rural hospitals located in Puerto Rico show the largest negative impact (−2.2 percent) due to changes in the wage index. Hospitals located in the Middle Atlantic, South Atlantic, and in the East North Central part of the country experience a negative impact due to wage index changes regardless of urban or rural designation. However, this effect is somewhat lessened by the distribution of outlier payments as discussed in more detail below.

The APC reclassification and recalibration changes also favor rural hospitals with the exception of rural hospitals with 200 or more beds that show a negative effect (−1.2 percent). Conversely, urban hospitals with 200 to 299 beds (−0.1 percent decrease), and urban hospitals with 300 to 499 beds (−0.5 percent) show a decrease attributed to APC recalibration. Urban hospitals in excess of 500 beds show a 0.1 percent increase as a result of APC recalibration. In general, APC changes are small and result in very few distributional changes among hospital categories.

In both urban and rural areas, hospitals that provide a lower volume of outpatient services are projected to receive a larger increase in payments than higher volume hospitals. In rural areas, hospitals with volumes of fewer than 5,000 services are projected to experience an increase in payments (4.4 percent). Urban hospitals that provide low-volume services experience an even larger increase (5.0 percent) in payments attributable to both wage index and APC changes. Conversely, urban and rural hospitals providing more than 21,000 services are projected to lose as a result of APC recalibration but gain from the introduction of the new wage index for a combined effect in the range of 3.4 to 3.9 percent.

Major teaching hospitals are projected to experience a smaller increase in payments (3.4 percent) than the aggregate for all hospitals (3.8 percent) due to negative impacts of the wage index (−0.4 percent). Hospitals with less intensive teaching programs are projected to experience an overall increase (3.7 percent) that is smaller than the average for all hospitals. There is little difference in impact among hospitals that serve low-income patients where increases in payments range from 3.4 to 4.2 percent higher than in 2003.

Table 23.—Impact of Changes for CY2004 Hospital Outpatient Prospective Payment System
(Percent change in total payments to hospitals (program and beneficiary); does not include hold harmless, corridor, outlier, or transitional pass-through payments)
| Number of hospitals (1) | New wage index (2) | APC changes (3) | All CY2003 changes (4)
ALL HOSPITALS | 4,352 | 0.0 | 0.0 | 3.8
NON-TEFRA HOSPITALS | 3,849 | 0.0 | 0.0 | 3.8
URBAN HOSPS | 2,390 | 0.0 | 0.0 | 3.7
LARGE URBAN (GT 1 MILL.) | 1,377 | −0.1 | 0.0 | 3.8
OTHER URBAN (LE 1 MILL.) | 1,013 | 0.0 | −0.2 | 3.7
RURAL HOSPS | 1,459 | 0.1 | 0.0 | 4.0
BEDS (URBAN):
0-99 BEDS | 546 | 0.2 | 0.4 | 4.4
100-199 BEDS | 875 | 0.0 | 0.2 | 4.1
200-299 BEDS | 456 | 0.0 | −0.1 | 3.7
300-499 BEDS | 364 | 0.1 | −0.5 | 3.4
500 + BEDS | 149 | −0.3 | 0.1 | 3.6
BEDS (RURAL):
0-49 BEDS | 694 | 0.1 | 1.0 | 4.9
50-99 BEDS | 449 | 0.1 | 0.2 | 4.1
100-149 BEDS | 190 | 0.1 | 0.0 | 3.9
150-199 BEDS | 65 | 0.1 | 0.1 | 4.0
200 + BEDS | 61 | 0.3 | −1.2 | 2.9
VOLUME (URBAN):
LT 5,000 | 225 | 0.0 | 1.1 | 5.0
5,000-10,999 | 396 | 0.0 | 1.0 | 4.9
11,000-20,999 | 529 | −0.2 | 0.8 | 4.5
21,000-42,999 | 736 | 0.1 | −0.1 | 3.9
GT 42,999 | 504 | −0.1 | −0.3 | 3.4
VOLUME (RURAL):
LT 5,000 | 419 | 0.1 | 0.4 | 4.4
5,000-10,999 | 483 | 0.1 | 0.9 | 4.9
11,000-20,999 | 318 | 0.0 | 0.4 | 4.3
21,000-42,999 | 191 | 0.2 | −0.6 | 3.5
GT 42,999 | 48 | 0.3 | −0.7 | 3.4
REGION (URBAN):
NEW ENGLAND | 128 | 0.0 | −0.7 | 3.1
MIDDLE ATLANTIC | 367 | −0.6 | −0.5 | 2.7
SOUTH ATLANTIC | 355 | −0.1 | −0.1 | 3.7
EAST NORTH CENT. | 401 | −0.1 | 0.4 | 4.1
EAST SOUTH CENT. | 152 | 0.6 | −0.2 | 4.3
WEST NORTH CENT. | 166 | 0.3 | 0.1 | 4.2
WEST SOUTH CENT. | 293 | −0.1 | 0.1 | 3.9
MOUNTAIN | 122 | 0.6 | 0.0 | 4.5
PACIFIC | 366 | 0.1 | 0.0 | 3.9
PUERTO RICO | 40 | 0.3 | 2.1 | 6.3
REGION (RURAL):
NEW ENGLAND | 36 | 0.8 | −0.1 | 4.6
MIDDLE ATLANTIC | 66 | −0.2 | 0.2 | 3.8
SOUTH ATLANTIC | 213 | −0.2 | −0.1 | 3.5
EAST NORTH CENT. | 192 | −0.1 | −0.5 | 3.3
EAST SOUTH CENT. | 225 | 0.4 | 0.2 | 4.4
WEST NORTH CENT. | 244 | 0.6 | 0.0 | 4.4
WEST SOUTH CENT. | 267 | 0.2 | 0.5 | 4.6
MOUNTAIN | 123 | 0.1 | 0.0 | 3.9
PACIFIC | 88 | 0.3 | 0.7 | 4.8
PUERTO RICO | 5 | −2.2 | 1.4 | 3.0
TEACHING STATUS:
NON-TEACHING | 2,803 | 0.1 | 0.1 | 4.0
MINOR | 758 | 0.1 | −0.2 | 3.7
MAJOR | 288 | −0.4 | 0.0 | 3.4
DSH PATIENT PERCENT:
0 | 11 | 2.7 | 3.0 | 9.8
GT 0-0.10 | 862 | −0.1 | −0.3 | 3.4
0.10-0.16 | 845 | 0.0 | −0.2 | 3.6
0.16-0.23 | 778 | 0.1 | 0.4 | 4.2
0.23-0.35 | 757 | 0.0 | 0.0 | 3.8
GE 0.35 | 596 | 0.0 | 0.2 | 4.0
URBAN IME/DSH:
IME & DSH | 963 | −0.1 | −0.1 | 3.6
IME/NO DSH | 1 | 0.0 | −1.3 | 2.4
NO IME/DSH | 1,417 | 0.0 | 0.1 | 3.9
NO IME/NO DSH | 9 | 2.8 | 3.0 | 10.0
RURAL HOSP. TYPES:
NO SPECIAL STATUS | 481 | −0.2 | 0.3 | 4.0
RRC | 159 | 0.3 | −0.6 | 3.5
SCH/EACH | 483 | 0.2 | 0.6 | 4.7
MDH | 249 | 0.1 | 0.7 | 4.7
SCH AND RRC | 78 | 0.3 | −0.5 | 3.6
TYPE OF OWNERSHIP:
VOLUNTARY | 2,362 | 0.0 | −0.1 | 3.6
PROPRIETARY | 696 | 0.1 | 0.6 | 4.6
GOVERNMENT | 791 | 0.1 | 0.0 | 3.9
SPECIALTY HOSPITALS:
EYE AND EAR | 13 | −0.4 | 1.7 | 5.2
CANCER | 11 | −0.3 | −4.7 | −1.3
TEFRA HOSPITALS (NOT INCLUDED ON OTHER LINES):
REHAB | 159 | 0.5 | 0.3 | 4.6
PSYCH | 167 | 0.8 | 7.2 | 12.2
LTC | 135 | 1.8 | 4.3 | 10.3
CHILDREN | 42 | 0.0 | −1.1 | 2.7
1. Some data necessary to classify hospitals by category were missing; thus, the total number of hospitals in each category may not equal the national total.
2. This column shows the impact of updating the wage index used to calculate payment by applying the FY2004 hospital inpatient wage index after geographic reclassification by the Medicare Geographic Classification Review Board. The hospital inpatient proposed rule for FY2004 was published in the Federal Register on May 19, 2003.
3. This column shows the impact of changes resulting from the reclassification of HCPCS codes among APC groups and the recalibration of APC weights based on 2002 hospital claims data.
4. This column shows changes in total payment from CY2003 to CY2004, excluding outlier and pass-through payments. It incorporates all of the changes reflected in columns 2 and 3. In addition, it shows the impact of the FY 2004 payment update. The sum of the columns may be different from the percentage changes shown here due to rounding.

E. Projected Distribution of Outlier Payments

As stated elsewhere in this preamble, we have allocated 2 percent of the estimated 2004 expenditures to outlier payments. In Table 24 below, we provide a table that illustrates the percentage of outlier payments relative to the total projected payments for the categories of hospitals that we show in the impact table.

We project, based on the mix of services for the hospitals that would be paid under the OPPS in 2004, that most hospitals would receive outlier payments—approximately 94 percent would receive outlier payments. The anticipated outlier payments for urban hospitals can be expected to ameliorate the impact of the wage index and APC changes on payments to urban hospitals.

Table 24.—Distribution of Outlier Payments for CY 2004 Hospital Outpatient Prospective Payment
| Number of hospitals | Percent of total hospitals | Number of hospitals with outliers | Outlier payments as a percent of total payments (percent)
ALL HOSPITALS | 4,352 | 96.4 | 4,097 | 2.0
NON-TEFRA HOSPITALS | 3,849 | 85.2 | 3,831 | 2.0
URBAN HOSPS | 2,390 | 52.8 | 2,376 | 2.1
LARGE URBAN (GT 1 MILL.) | 1,377 | 30.4 | 1,368 | 2.3
OTHER URBAN (LE 1 MILL.) | 1,013 | 22.4 | 1,008 | 1.9
RURAL HOSPS | 1,459 | 32.2 | 1,455 | 1.7
BEDS (URBAN):
0-99 BEDS | 546 | 12.0 | 534 | 2.6
100-199 BEDS | 875 | 19.4 | 874 | 1.8
200-299 BEDS | 456 | 10.0 | 455 | 2.0
300-499 BEDS | 364 | 8.0 | 364 | 2.0
500 + BEDS | 149 | 3.2 | 149 | 2.6
BEDS (RURAL):
0-49 BEDS | 694 | 15.4 | 691 | 2.2
50-99 BEDS | 449 | 10.0 | 448 | 1.8
100-149 BEDS | 190 | 4.2 | 190 | 1.4
150-199 BEDS | 65 | 1.4 | 65 | 1.7
200 + BEDS | 61 | 1.4 | 61 | 1.4
VOLUME (URBAN):
LT 5,000 | 225 | 5.0 | 212 | 3.0
5,000-10,999 | 396 | 8.8 | 395 | 3.4
11,000-20,999 | 529 | 11.8 | 529 | 2.1
21,000-42,999 | 736 | 16.2 | 736 | 1.9
GT 42,999 | 504 | 11.2 | 504 | 2.1
VOLUME (RURAL):
LT 5,000 | 419 | 9.2 | 416 | 2.7
5,000-10,999 | 483 | 10.6 | 482 | 2.1
11,000-20,999 | 318 | 7.0 | 318 | 1.7
21,000-42,999 | 191 | 4.2 | 191 | 1.4
GT 42,999 | 48 | 1.0 | 48 | 1.5
REGION (URBAN):
NEW ENGLAND | 128 | 2.8 | 127 | 1.9
MIDDLE ATLANTIC | 367 | 8.2 | 367 | 3.2
SOUTH ATLANTIC | 355 | 7.8 | 355 | 1.9
EAST NORTH CENT | 401 | 8.8 | 398 | 1.7
EAST SOUTH CENT | 152 | 3.4 | 150 | 1.4
WEST NORTH CENT | 166 | 3.6 | 166 | 1.8
WEST SOUTH CENT | 293 | 6.4 | 292 | 2.6
MOUNTAIN | 122 | 2.6 | 120 | 1.8
PACIFIC | 366 | 8.0 | 363 | 2.0
PUERTO RICO | 40 | 0.8 | 38 | 0.6
REGION (RURAL):
NEW ENGLAND | 36 | 0.8 | 36 | 2.4
MIDDLE ATLANTIC | 66 | 1.4 | 66 | 1.4
SOUTH ATLANTIC | 213 | 4.8 | 212 | 1.6
EAST NORTH CENT | 192 | 4.2 | 192 | 1.5
EAST SOUTH CENT | 225 | 5.0 | 225 | 1.2
WEST NORTH CENT | 244 | 5.4 | 243 | 1.8
WEST SOUTH CENT | 267 | 6.0 | 266 | 1.7
MOUNTAIN | 123 | 2.8 | 123 | 2.8
PACIFIC | 88 | 2.0 | 87 | 2.2
PUERTO RICO | 5 | 0.2 | 5 | 0.9
TEACHING STATUS:
NON-TEACHING | 2,803 | 62.0 | 2,786 | 1.8
MINOR | 758 | 16.8 | 757 | 1.7
MAJOR | 288 | 6.4 | 288 | 3.1
DSH PATIENT PERCENT:
0 | 11 | 0.2 | 10 | 6.7
GT 0-0.10 | 862 | 19.0 | 853 | 1.9
0.10-0.16 | 845 | 18.6 | 845 | 1.7
0.16-0.23 | 778 | 17.2 | 777 | 1.8
0.23-0.35 | 757 | 16.8 | 752 | 2.2
GE 0.35 | 596 | 13.2 | 594 | 3.1
URBAN IME/DSH:
IME & DSH | 963 | 21.4 | 963 | 2.3
IME/NO DSH | 1 | 0.0 | 0 | 0.0
NO IME/DSH | 1,417 | 31.4 | 1,404 | 1.9
NO IME/NO DSH | 9 | 0.2 | 9 | 6.8
RURAL HOSP. TYPES:
NO SPECIAL STATUS | 481 | 10.6 | 478 | 1.8
RRC | 159 | 3.6 | 159 | 1.4
SCH/EACH | 483 | 10.6 | 483 | 2.1
MDH | 249 | 5.6 | 249 | 1.8
SCH AND RRC | 78 | 1.8 | 78 | 1.4
TYPE OF OWNERSHIP:
VOLUNTARY | 2,362 | 52.2 | 2,359 | 1.9
PROPRIETARY | 696 | 15.4 | 685 | 2.4
GOVERNMENT | 791 | 17.6 | 787 | 2.5
SPECIALTY HOSPITALS:
EYE AND EAR | 13 | 0.2 | 13 | 2.5
TRAUMA | 151 | 3.4 | 151 | 2.6
CANCER | 11 | 0.2 | 11 | 5.2
TEFRA HOSPITALS (NOT INCLUDED ON OTHER LINES):
REHAB | 159 | 3.6 | 94 | 5.8
PSYCH | 167 | 3.6 | 46 | 0.6
LTC | 135 | 3.0 | 88 | 2.7
CHILDREN | 42 | 1.0 | 38 | 11.8

F. Estimated Impacts of This Proposed Rule on Beneficiaries

For services for which the beneficiary pays a coinsurance of 20 percent of the payment rate, the beneficiary share of payment would increase for services for which OPPS payments would rise and would decrease for services for which OPPS payments would fall. For example, for a mid level office visit (APC 0601), the minimum unadjusted copayment in 2003 was $10.11; under this proposed rule, the minimum unadjusted copayment for APC 601 would be $10.89 because the OPPS payment for the service would increase under this proposed rule. For some services (those services for which a national unadjusted copayment amount is shown in Addendum B), however, the beneficiary copayment is frozen based on historic data and would not change, therefore not presenting any potential impact on beneficiaries.

However, in all cases, the statute limits beneficiary liability for copayment for a service to the inpatient hospital deductible for the applicable year. This amount was $840 for 2003, but is not yet determined for 2004. In general, the impact of this proposed rule on beneficiaries would vary based on the service the beneficiary receives and whether the copayment for the service is one that is frozen under the OPPS.

In accordance with the provisions of Executive Order 12866, this regulation was reviewed by the Office of Management and Budget.

Dated: July 16, 2003.
(Catalog of Federal Domestic Assistance Program No. 93.773, Medicare—Hospital Insurance; and Program No. 93.774, Medicare—Supplementary Medical Insurance Program)
Thomas A. Scully,
Administrator, Centers for Medicare & Medicaid Services.
Approved: July 22, 2003.
Tommy G. Thompson,
Secretary.

Addendum A.—List of Ambulatory Payment Classifications (APCs) With Status Indicators, Relative Weights, Payment Rates, and Copayment Amounts Calendar Year 2004
APC | Group title | Status indicator | Relative weight | Payment rate | National unadjusted copayment | Minimum unadjusted copayment
0001 | Level I Photochemotherapy | S | 0.3940 | $21.39 | $7.09 | $4.28
0002 | Fine needle Biopsy/Aspiration | T | 1.0937 | $59.38 |  | $11.88
0003 | Bone Marrow Biopsy/Aspiration | T | 2.2627 | $122.84 |  | $24.57
0004 | Level I Needle Biopsy/Aspiration Except Bone Marrow | T | 1.5774 | $85.64 | $22.10 | $17.13
0005 | Level II Needle Biopsy /Aspiration Except Bone Marrow | T | 3.3675 | $182.82 | $71.59 | $36.56
0006 | Level I Incision & Drainage | T | 1.7487 | $94.94 | $24.12 | $18.99
0007 | Level II Incision & Drainage | T | 11.4943 | $624.01 |  | $124.80
0008 | Level III Incision and Drainage | T | 16.8303 | $913.70 |  | $182.74
0009 | Nail Procedures | T | 0.6597 | $35.81 | $8.34 | $7.16
0010 | Level I Destruction of Lesion | T | 0.6806 | $36.95 | $10.08 | $7.39
0011 | Level II Destruction of Lesion | T | 2.1800 | $118.35 | $27.88 | $23.67
0012 | Level I Debridement & Destruction | T | 0.8203 | $44.53 | $11.18 | $8.91
0013 | Level II Debridement & Destruction | T | 1.1420 | $62.00 | $14.20 | $12.40
0015 | Level III Debridement & Destruction | T | 1.5832 | $85.95 | $20.35 | $17.19
0016 | Level IV Debridement & Destruction | T | 2.7343 | $148.44 | $57.31 | $29.69
0017 | Level VI Debridement & Destruction | T | 16.7332 | $908.43 | $227.84 | $181.69
0018 | Biopsy of Skin/Puncture of Lesion | T | 0.9567 | $51.94 | $16.04 | $10.39
0019 | Level I Excision/ Biopsy | T | 3.9807 | $216.11 | $71.87 | $43.22
0020 | Level II Excision/ Biopsy | T | 7.3105 | $396.88 | $113.25 | $79.38
0021 | Level III Excision/ Biopsy | T | 14.5749 | $791.26 | $219.48 | $158.25
0022 | Level IV Excision/ Biopsy | T | 18.6725 | $1,013.71 | $354.45 | $202.74
0023 | Exploration Penetrating Wound | T | 3.1587 | $171.48 | $40.37 | $34.30
0024 | Level I Skin Repair | T | 1.7847 | $96.89 | $34.75 | $19.38
0025 | Level II Skin Repair | T | 6.2703 | $340.41 | $115.49 | $68.08
0027 | Level IV Skin Repair | T | 15.8319 | $859.50 | $329.72 | $171.90
0028 | Level I Breast Surgery | T | 17.7459 | $963.41 | $303.74 | $192.68
0029 | Level II Breast Surgery | T | 29.2783 | $1,589.49 | $632.64 | $317.90
0030 | Level III Breast Surgery | T | 37.2809 | $2,023.94 | $763.55 | $404.79
0032 | Insertion of Central Venous/Arterial Catheter | T | 11.5584 | $627.49 |  | $125.50
0033 | Partial Hospitalization | P | 3.8397 | $208.45 | $41.83 | $41.69
0035 | Placement of Arterial or Central Venous Catheter | T | 0.2236 | $12.14 | $3.51 | $2.43
0041 | Level I Arthroscopy | T | 27.2538 | $1,479.58 |  | $295.92
0042 | Level II Arthroscopy | T | 42.8551 | $2,326.56 | $804.74 | $465.31
0043 | Closed Treatment Fracture Finger/Toe/Trunk | T | 1.9233 | $104.41 |  | $20.88
0045 | Bone/Joint Manipulation Under Anesthesia | T | 13.5546 | $735.87 | $268.47 | $147.17
0046 | Open/Percutaneous Treatment Fracture or Dislocation | T | 31.9719 | $1,735.72 | $535.76 | $347.14
0047 | Arthroplasty without Prosthesis | T | 30.3786 | $1,649.22 | $537.03 | $329.84
0048 | Arthroplasty with Prosthesis | T | 47.4707 | $2,577.14 | $695.60 | $515.43
0049 | Level I Musculoskeletal Procedures Except Hand and Foot | T | 19.9376 | $1,082.39 |  | $216.48
0050 | Level II Musculoskeletal Procedures Except Hand and Foot | T | 25.1166 | $1,363.56 |  | $272.71
0051 | Level III Musculoskeletal Procedures Except Hand and Foot | T | 34.9381 | $1,896.75 |  | $379.35
0052 | Level IV Musculoskeletal Procedures Except Hand and Foot | T | 42.6430 | $2,315.05 |  | $463.01
0053 | Level I Hand Musculoskeletal Procedures | T | 14.8188 | $804.50 | $253.49 | $160.90
0054 | Level II Hand Musculoskeletal Procedures | T | 24.2685 | $1,317.51 |  | $263.50
0055 | Level I Foot Musculoskeletal Procedures | T | 18.8851 | $1,025.25 | $355.34 | $205.05
0056 | Level II Foot Musculoskeletal Procedures | T | 25.1591 | $1,365.86 | $405.81 | $273.17
0057 | Bunion Procedures | T | 25.4248 | $1,380.29 | $475.91 | $276.06
0058 | Level I Strapping and Cast Application | S | 1.0785 | $58.55 |  | $11.71
0060 | Manipulation Therapy | S | 0.3151 | $17.11 | $3.43 | $3.42
0068 | CPAP Initiation | S | 1.1234 | $60.99 | $30.49 | $12.20
0069 | Thoracoscopy | T | 28.6334 | $1,554.48 | $591.64 | $310.90
0070 | Thoracentesis/Lavage Procedures | T | 3.1393 | $170.43 |  | $34.09
0071 | Level I Endoscopy Upper Airway | T | 0.9012 | $48.93 | $12.89 | $9.79
0072 | Level II Endoscopy Upper Airway | T | 1.6987 | $92.22 | $26.68 | $18.44
0073 | Level III Endoscopy Upper Airway | T | 3.4396 | $186.73 | $73.38 | $37.35
0074 | Level IV Endoscopy Upper Airway | T | 14.4952 | $786.93 | $295.70 | $157.39
0075 | Level V Endoscopy Upper Airway | T | 20.4113 | $1,108.11 | $445.92 | $221.62
0076 | Level I Endoscopy Lower Airway | T | 9.3560 | $507.93 | $189.82 | $101.59
0077 | Level I Pulmonary Treatment | S | 0.2772 | $15.05 | $7.52 | $3.01
0078 | Level II Pulmonary Treatment | S | 0.7731 | $41.97 | $14.55 | $8.39
0079 | Ventilation Initiation and Management | S | 2.2837 | $123.98 |  | $24.80
0080 | Diagnostic Cardiac Catheterization | T | 36.0982 | $1,959.74 | $838.92 | $391.95
0081 | Non-Coronary Angioplasty or Atherectomy | T | 34.8355 | $1,891.18 |  | $378.24
0082 | Coronary Atherectomy | T | 100.3996 | $5,450.59 | $1,293.59 | $1,090.12
0083 | Coronary Angioplasty and Percutaneous Valvuloplasty | T | 59.3417 | $3,221.60 |  | $644.32
0084 | Level I Electrophysiologic Evaluation | S | 10.3392 | $561.30 |  | $112.26
0085 | Level II Electrophysiologic Evaluation | T | 36.3284 | $1,972.23 | $435.09 | $394.45
0086 | Ablate Heart Dysrhythm Focus | T | 44.5652 | $2,419.40 | $822.28 | $483.88
0087 | Cardiac Electrophysiologic Recording/Mapping | T | 40.4579 | $2,196.42 |  | $439.28
0088 | Thrombectomy | T | 34.6065 | $1,878.75 | $655.22 | $375.75
0089 | Insertion/Replacement of Permanent Pacemaker and Electrodes | T | 116.1611 | $6,306.27 | $1,722.59 | $1,261.25
0090 | Insertion/Replacement of Pacemaker Pulse Generator | T | 87.2850 | $4,738.62 | $1,705.90 | $947.72
0091 | Level II Vascular Ligation | T | 28.5187 | $1,548.25 | $348.23 | $309.65
0092 | Level I Vascular Ligation | T | 25.1347 | $1,364.54 | $505.37 | $272.91
0093 | Vascular Reconstruction/Fistula Repair without Device | T | 20.6662 | $1,121.95 | $277.34 | $224.39
0094 | Level I Resuscitation and Cardioversion | S | 2.6412 | $143.39 | $48.46 | $28.68
0095 | Cardiac Rehabilitation | S | 0.5984 | $32.49 | $16.24 | $6.50
0096 | Non-Invasive Vascular Studies | S | 1.7332 | $94.09 | $47.05 | $18.82
0097 | Cardiac and Ambulatory Blood Pressure Monitoring | X | 1.0565 | $57.36 | $23.80 | $11.47
0098 | Injection of Sclerosing Solution | T | 1.1630 | $63.14 | $15.17 | $12.63
0099 | Electrocardiograms | S | 0.3708 | $20.13 |  | $4.03
0100 | Cardiac Stress Tests | X | 1.6726 | $90.80 | $41.44 | $18.16
0101 | Tilt Table Evaluation | S | 4.3675 | $237.11 | $105.27 | $47.42
0103 | Miscellaneous Vascular Procedures | T | 12.1256 | $658.29 | $223.63 | $131.66
0104 | Transcatheter Placement of Intracoronary Stents | T | 80.8877 | $4,391.31 |  | $878.26
0105 | Revision/Removal of Pacemakers, AICD, or Vascular | T | 18.9084 | $1,026.52 | $370.40 | $205.30
0106 | Insertion/Replacement/Repair of Pacemaker and/or Electrodes | T | 49.9534 | $2,711.92 | $542.39 | $542.38
0107 | Insertion of Cardioverter-Defibrillator | T | 290.5429 | $15,773.28 | $3,429.62 | $3,154.66
0108 | Insertion/Replacement/Repair of Cardioverter-Defibrillator Leads | T | 489.5275 | $26,575.96 |  | $5,315.19
0109 | Removal of Implanted Devices | T | 7.7075 | $418.43 | $131.49 | $83.69
0110 | Transfusion | S | 3.7128 | $201.56 |  | $40.31
0111 | Blood Product Exchange | S | 14.0169 | $760.96 | $211.96 | $152.19
0112 | Apheresis, Photopheresis, and Plasmapheresis | S | 34.8318 | $1,890.98 | $609.71 | $378.20
0113 | Excision Lymphatic System | T | 19.9529 | $1,083.22 |  | $216.64
0114 | Thyroid/Lymphadenectomy Procedures | T | 37.3583 | $2,028.14 | $485.91 | $405.63
0115 | Cannula/Access Device Procedures | T | 25.6233 | $1,391.06 | $459.35 | $278.21
0119 | Implantation of Infusion Pump | T | 129.8988 | $7,052.08 |  | $1,410.42
0121 | Level I Tube changes and Repositioning | T | 2.2058 | $119.75 | $43.80 | $23.95
0122 | Level II Tube changes and Repositioning | T | 8.4398 | $458.19 | $93.97 | $91.64
0123 | Bone Marrow Harvesting and Bone Marrow/Stem Cell Transplant | S | 4.0076 | $217.57 |  | $43.51
0124 | Revision of Implanted Infusion Pump | T | 27.4545 | $1,490.48 | $298.10 | $298.10
0125 | Refilling of Infusion Pump | T | 2.5105 | $136.29 |  | $27.26
0130 | Level I Laparoscopy | T | 32.5959 | $1,769.60 | $659.53 | $353.92
0131 | Level II Laparoscopy | T | 40.8955 | $2,220.18 | $1,001.89 | $444.04
0132 | Level III Laparoscopy | T | 56.6318 | $3,074.48 | $1,239.22 | $614.90
0140 | Esophageal Dilation without Endoscopy | T | 6.3480 | $344.63 | $107.24 | $68.93
0141 | Upper GI Procedures | T | 7.8542 | $426.40 | $143.38 | $85.28
0142 | Small Intestine Endoscopy | T | 9.0138 | $489.35 | $152.78 | $97.87
0143 | Lower GI Endoscopy | T | 8.3227 | $451.83 | $186.06 | $90.37
0146 | Level I Sigmoidoscopy | T | 3.9986 | $217.08 | $64.40 | $43.42
0147 | Level II Sigmoidoscopy | T | 7.5876 | $411.92 |  | $82.38
0148 | Level I Anal/Rectal Procedure | T | 4.1171 | $223.51 | $63.38 | $44.70
0149 | Level III Anal/Rectal Procedure | T | 16.8557 | $915.08 | $293.06 | $183.02
0150 | Level IV Anal/Rectal Procedure | T | 22.2565 | $1,208.28 | $437.12 | $241.66
0151 | Endoscopic Retrograde Cholangio-Pancreatography (ERCP) | T | 18.8763 | $1,024.78 | $245.46 | $204.96
0152 | Percutaneous Abdominal and Biliary Procedures | T | 8.2940 | $450.27 | $113.02 | $90.05
0153 | Peritoneal and Abdominal Procedures | T | 21.2745 | $1,154.97 | $410.87 | $230.99
0154 | Hernia/Hydrocele Procedures | T | 26.8861 | $1,459.62 | $464.85 | $291.92
0155 | Level II Anal/Rectal Procedure | T | 9.9148 | $538.26 | $188.89 | $107.65
0156 | Level II Urinary and Anal Procedures | T | 3.1438 | $170.67 | $46.55 | $34.13
0157 | Colorectal Cancer Screening: Barium Enema | S | 2.4771 | $134.48 |  | $26.90
0158 | Colorectal Cancer Screening: Colonoscopy | T | 7.4187 | $402.75 | $100.69 | $80.55
0159 | Colorectal Cancer Screening: Flexible Sigmoidoscopy | S | 2.7168 | $147.49 | $36.87 | $29.50
0160 | Level I Cystourethroscopy and other Genitourinary Procedures | T | 6.8152 | $369.99 | $105.06 | $74.00
0161 | Level II Cystourethroscopy and other Genitourinary Procedures | T | 16.5822 | $900.23 | $249.36 | $180.05
0162 | Level III Cystourethroscopy and other Genitourinary Procedures | T | 21.8578 | $1,186.64 |  | $237.33
0163 | Level IV Cystourethroscopy and other Genitourinary Procedures | T | 33.6435 | $1,826.47 |  | $365.29
0164 | Level I Urinary and Anal Procedures | T | 1.2115 | $65.77 | $17.59 | $13.15
0165 | Level III Urinary and Anal Procedures | T | 14.0780 | $764.28 |  | $152.86
0166 | Level I Urethral Procedures | T | 16.8401 | $914.23 | $218.73 | $182.85
0167 | Level III Urethral Procedures | T | 30.1066 | $1,634.46 | $555.84 | $326.89
0168 | Level II Urethral Procedures | T | 30.3485 | $1,647.59 | $405.60 | $329.52
0169 | Lithotripsy | T | 44.5329 | $2,417.65 | $1,115.69 | $483.53
0170 | Dialysis | S | 5.9427 | $322.62 |  | $64.52
0180 | Circumcision | T | 18.4967 | $1,004.17 | $304.87 | $200.83
0181 | Penile Procedures | T | 29.0094 | $1,574.89 | $621.82 | $314.98
0183 | Testes/Epididymis Procedures | T | 21.7612 | $1,181.39 |  | $236.28
0184 | Prostate Biopsy | T | 3.8073 | $206.69 | $96.27 | $41.34
0187 | Miscellaneous Placement/Repositioning | X | 4.4274 | $240.36 | $90.71 | $48.07
0188 | Level II Female Reproductive Proc | T | 1.1079 | $60.15 |  | $12.03
0189 | Level III Female Reproductive Proc | T | 1.3207 | $71.70 | $16.70 | $14.34
0190 | Level I Hysteroscopy | T | 19.8088 | $1,075.40 | $424.28 | $215.08
0191 | Level I Female Reproductive Proc | T | 0.1679 | $9.12 | $2.65 | $1.82
0192 | Level IV Female Reproductive Proc | T | 2.6966 | $146.40 | $39.11 | $29.28
0193 | Level V Female Reproductive Proc | T | 15.7365 | $854.32 | $171.13 | $170.86
0194 | Level VI Female Reproductive Proc | T | 18.8194 | $1,021.69 | $397.84 | $204.34
0195 | Level VII Female Reproductive Proc | T | 25.3207 | $1,374.64 | $483.80 | $274.93
0196 | Dilation and Curettage | T | 16.1823 | $878.52 | $338.23 | $175.70
0197 | Infertility Procedures | T | 5.1958 | $282.07 |  | $56.41
0198 | Pregnancy and Neonatal Care Procedures | T | 1.3718 | $74.47 | $32.19 | $14.89
0199 | Obstetrical Care Service | T | 16.8630 | $915.48 |  | $183.10
0200 | Therapeutic Abortion | T | 18.3633 | $996.93 | $307.83 | $199.39
0201 | Spontaneous Abortion | T | 17.2803 | $938.13 | $329.65 | $187.63
0202 | Level VIII Female Reproductive Proc | T | 38.8053 | $2,106.70 | $1,032.28 | $421.34
0203 | Level IV Nerve Injections | T | 11.8511 | $643.38 | $276.76 | $128.68
0204 | Level I Nerve Injections | T | 2.2209 | $120.57 | $40.13 | $24.11
0206 | Level II Nerve Injections | T | 5.2584 | $285.47 | $75.55 | $57.09
0207 | Level III Nerve Injections | T | 6.5998 | $358.30 | $123.69 | $71.66
0208 | Laminotomies and Laminectomies | T | 40.6521 | $2,206.96 |  | $441.39
0209 | Extended EEG Studies and Sleep Studies, Level II | S | 11.5352 | $626.23 | $280.58 | $125.25
0212 | Nervous System Injections | T | 2.9989 | $162.81 | $74.92 | $32.56
0213 | Extended EEG Studies and Sleep Studies, Level I | S | 3.2422 | $176.02 | $70.41 | $35.20
0214 | Electroencephalogram | S | 2.2459 | $121.93 | $58.12 | $24.39
0215 | Level I Nerve and Muscle Tests | S | 0.6390 | $34.69 | $15.76 | $6.94
0216 | Level III Nerve and Muscle Tests | S | 2.8332 | $153.81 | $67.98 | $30.76
0218 | Level II Nerve and Muscle Tests | S | 1.1296 | $61.32 |  | $12.26
0220 | Level I Nerve Procedures | T | 16.5293 | $897.36 |  | $179.47
0221 | Level II Nerve Procedures | T | 25.8194 | $1,401.71 | $463.62 | $280.34
0222 | Implantation of Neurological Device | T | 188.7735 | $10,248.32 |  | $2,049.66
0223 | Implantation or Revision of Pain Management Catheter | T | 26.0352 | $1,413.42 |  | $282.68
0224 | Implantation of Reservoir/Pump/Shunt | T | 34.0161 | $1,846.70 | $453.41 | $369.34
0225 | Implantation of Neurostimulator Electrodes | S | 56.0375 | $3,042.22 |  | $608.44
0226 | Implantation of Drug Infusion Reservoir | T | 159.6795 | $8,668.84 |  | $1,733.77
0227 | Implantation of Drug Infusion Device | T | 163.6124 | $8,882.35 |  | $1,776.47
0228 | Creation of Lumbar Subarachnoid Shunt | T | 51.1329 | $2,775.95 | $621.80 | $555.19
0229 | Transcatherter Placement of Intravascular Shunts | T | 59.4977 | $3,230.07 | $771.23 | $646.01
0230 | Level I Eye Tests & Treatments | S | 0.7379 | $40.06 | $14.97 | $8.01
0231 | Level III Eye Tests & Treatments | S | 2.0880 | $113.36 | $50.94 | $22.67
0232 | Level I Anterior Segment Eye Procedures | T | 4.9739 | $270.03 | $103.17 | $54.01
0233 | Level II Anterior Segment Eye Procedures | T | 14.5435 | $789.55 | $266.33 | $157.91
0234 | Level III Anterior Segment Eye Procedures | T | 21.5482 | $1,169.83 | $511.31 | $233.97
0235 | Level I Posterior Segment Eye Procedures | T | 4.9900 | $270.90 | $72.04 | $54.18
0236 | Level II Posterior Segment Eye Procedures | T | 19.6866 | $1,068.77 |  | $213.75
0237 | Level III Posterior Segment Eye Procedures | T | 34.0324 | $1,847.58 | $818.54 | $369.52
0238 | Level I Repair and Plastic Eye Procedures | T | 3.2016 | $173.81 | $58.96 | $34.76
0239 | Level II Repair and Plastic Eye Procedures | T | 6.2432 | $338.94 | $110.62 | $67.79
0240 | Level III Repair and Plastic Eye Procedures | T | 17.3397 | $941.35 | $315.31 | $188.27
0241 | Level IV Repair and Plastic Eye Procedures | T | 21.9830 | $1,193.44 | $384.47 | $238.69
0242 | Level V Repair and Plastic Eye Procedures | T | 29.2193 | $1,586.29 | $597.36 | $317.26
0243 | Strabismus/Muscle Procedures | T | 21.1035 | $1,145.69 | $431.39 | $229.14
0244 | Corneal Transplant | T | 37.4885 | $2,035.21 | $803.26 | $407.04
0245 | Level I Cataract Procedures without IOL Insert | T | 12.5751 | $682.69 | $226.11 | $136.54
0246 | Cataract Procedures with IOL Insert | T | 22.8428 | $1,240.11 | $495.96 | $248.02
0247 | Laser Eye Procedures Except Retinal | T | 5.0192 | $272.49 | $104.31 | $54.50
0248 | Laser Retinal Procedures | T | 4.7544 | $258.11 | $95.08 | $51.62
0249 | Level II Cataract Procedures without IOL Insert | T | 28.3307 | $1,538.05 | $524.67 | $307.61
0250 | Nasal Cauterization/Packing | T | 1.5381 | $83.50 | $29.23 | $16.70
0251 | Level I ENT Procedures | T | 1.8643 | $101.21 |  | $20.24
0252 | Level II ENT Procedures | T | 6.5416 | $355.14 | $113.41 | $71.03
0253 | Level III ENT Procedures | T | 15.1698 | $823.55 | $282.29 | $164.71
0254 | Level IV ENT Procedures | T | 21.4368 | $1,163.78 | $321.35 | $232.76
0256 | Level V ENT Procedures | T | 35.0866 | $1,904.82 |  | $380.96
0258 | Tonsil and Adenoid Procedures | T | 21.0273 | $1,141.55 | $437.25 | $228.31
0259 | Level VI ENT Procedures | T | 389.1764 | $21,128.00 | $9,394.83 | $4,225.60
0260 | Level I Plain Film Except Teeth | X | 0.7845 | $42.59 | $21.29 | $8.52
0261 | Level II Plain Film Except Teeth Including Bone Density Measurement | X | 1.3238 | $71.87 |  | $14.37
0262 | Plain Film of Teeth | X | 0.7851 | $42.62 | $9.82 | $8.52
0263 | Level I Miscellaneous Radiology Procedures | X | 2.1875 | $118.76 | $43.58 | $23.75
0264 | Level II Miscellaneous Radiology Procedures | X | 3.0022 | $162.99 | $79.41 | $32.60
0265 | Level I Diagnostic Ultrasound Except Vascular | S | 1.0245 | $55.62 | $27.81 | $11.12
0266 | Level II Diagnostic Ultrasound Except Vascular | S | 1.6234 | $88.13 | $44.07 | $17.63
0267 | Level III Diagnostic Ultrasound Except Vascular | S | 2.4805 | $134.66 | $65.52 | $26.93
0268 | Ultrasound Guidance Procedures | S | 1.2640 | $68.62 |  | $13.72
0269 | Level III Echocardiogram Except Transesophageal | S | 3.2517 | $176.53 | $87.24 | $35.31
0270 | Transesophageal Echocardiogram | S | 5.9057 | $320.61 | $146.79 | $64.12
0271 | Mammography | S | 0.6548 | $35.55 | $16.80 | $7.11
0272 | Level I Fluoroscopy | X | 1.4086 | $76.47 | $38.24 | $15.29
0274 | Myelography | S | 3.5837 | $194.56 | $92.92 | $38.91
0275 | Arthrography | S | 3.2967 | $178.97 | $69.09 | $35.79
0276 | Level I Digestive Radiology | S | 1.6025 | $87.00 | $41.72 | $17.40
0277 | Level II Digestive Radiology | S | 2.4462 | $132.80 | $60.47 | $26.56
0278 | Diagnostic Urography | S | 2.7365 | $148.56 | $66.07 | $29.71
0279 | Level II Angiography and Venography except Extremity | S | 11.0678 | $600.86 | $174.57 | $120.17
0280 | Level III Angiography and Venography except Extremity | S | 19.0237 | $1,032.78 | $353.85 | $206.56
0281 | Venography of Extremity | S | 6.6888 | $363.13 | $115.16 | $72.63
0282 | Miscellaneous Computerized Axial Tomography | S | 1.6813 | $91.28 | $44.51 | $18.26
0283 | Computerized Axial Tomography with Contrast Material | S | 4.6121 | $250.39 | $125.19 | $50.08
0284 | Magnetic Resonance Imaging and Magnetic Resonance Angiography with Contras | S | 7.0207 | $381.15 | $190.57 | $76.23
0285 | Myocardial Positron Emission Tomography (PET) | S | 19.5044 | $1,058.87 | $409.56 | $211.77
0287 | Complex Venography | S | 6.2829 | $341.09 | $107.20 | $68.22
0288 | Bone Density:Axial Skeleton | S | 1.2854 | $69.78 |  | $13.96
0289 | Needle Localization for Breast Biopsy | X | 3.6386 | $197.54 | $44.80 | $39.51
0296 | Level I Therapeutic Radiologic Procedures | S | 3.1381 | $170.36 | $69.20 | $34.07
0297 | Level II Therapeutic Radiologic Procedures | S | 8.1532 | $442.63 | $172.51 | $88.53
0299 | Miscellaneous Radiation Treatment | S | 5.7427 | $311.77 | $62.36 | $62.35
0300 | Level I Radiation Therapy | S | 1.5112 | $82.04 |  | $16.41
0301 | Level II Radiation Therapy | S | 2.1337 | $115.84 | $23.17 | $23.17
0302 | Level III Radiation Therapy | S | 6.1992 | $336.55 | $127.49 | $67.31
0303 | Treatment Device Construction | X | 2.8636 | $155.46 | $66.95 | $31.09
0304 | Level I Therapeutic Radiation Treatment Preparation | X | 1.6599 | $90.11 | $41.52 | $18.02
0305 | Level II Therapeutic Radiation Treatment Preparation | X | 3.6649 | $198.96 | $91.38 | $39.79
0310 | Level III Therapeutic Radiation Treatment Preparation | X | 13.7085 | $744.22 | $325.27 | $148.84
0312 | Radioelement Applications | S | 3.6892 | $200.28 | $40.06 | $40.06
0313 | Brachytherapy | S | 13.1258 | $712.59 |  | $142.52
0314 | Hyperthermic Therapies | S | 5.0930 | $276.49 | $101.77 | $55.30
0320 | Electroconvulsive Therapy | S | 5.4480 | $295.77 | $80.06 | $59.15
0321 | Biofeedback and Other Training | S | 1.2462 | $67.65 | $21.78 | $13.53
0322 | Brief Individual Psychotherapy | S | 1.3091 | $71.07 |  | $14.21
0323 | Extended Individual Psychotherapy | S | 1.7955 | $97.48 | $21.26 | $19.50
0324 | Family Psychotherapy | S | 2.8219 | $153.20 |  | $30.64
0325 | Group Psychotherapy | S | 1.5820 | $85.89 | $18.27 | $17.18
0330 | Dental Procedures | S | 0.5609 | $30.45 | $6.09 | $6.09
0332 | Computerized Axial Tomography and Computerized Angiography without Contras | S | 3.3916 | $184.13 | $91.27 | $36.83
0333 | Computerized Axial Tomography and Computerized Angio w/o Contrast Material | S | 5.4299 | $294.78 | $146.98 | $58.96
0335 | Magnetic Resonance Imaging, Miscellaneous | S | 6.4453 | $349.91 | $151.46 | $69.98
0336 | Magnetic Resonance Imaging and Magnetic Resonance Angiography without Cont | S | 6.4817 | $351.89 | $175.94 | $70.38
0337 | MRI and Magnetic Resonance Angiography without Contrast Material followed | S | 9.3215 | $506.05 | $240.77 | $101.21
0339 | Observation | S | 7.2016 | $390.97 |  | $78.19
0340 | Minor Ancillary Procedures | X | 0.6232 | $33.83 |  | $6.77
0341 | Skin Tests | X | 0.1468 | $7.97 | $3.08 | $1.59
0342 | Level I Pathology | X | 0.2169 | $11.78 | $5.88 | $2.36
0343 | Level II Pathology | X | 0.4662 | $25.31 | $12.55 | $5.06
0344 | Level III Pathology | X | 0.6278 | $34.08 | $17.04 | $6.82
0345 | Level I Transfusion Laboratory Procedures | X | 0.2589 | $14.06 | $3.10 | $2.81
0346 | Level II Transfusion Laboratory Procedures | X | 0.3877 | $21.05 | $5.31 | $4.21
0347 | Level III Transfusion Laboratory Procedures | X | 0.9646 | $52.37 | $13.19 | $10.47
0348 | Fertility Laboratory Procedures | X | 1.2207 | $66.27 |  | $13.25
0352 | Level I Injections | X | 0.1076 | $5.84 |  | $1.17
0353 | Level II Allergy Injections | X | 0.4106 | $22.29 |  | $4.46
0355 | Level III Immunizations | K | 0.2667 | $14.48 |  | $2.90
0356 | Level IV Immunizations | K | 0.4353 | $23.63 |  | $4.73
0359 | Level II Injections | X | 0.8794 | $47.74 |  | $9.55
0360 | Level I Alimentary Tests | X | 1.7088 | $92.77 | $42.45 | $18.55
0361 | Level II Alimentary Tests | X | 3.5574 | $193.13 | $83.23 | $38.63
0362 | Level III Otorhinolaryngologic Function Tests | X | 2.5384 | $137.81 |  | $27.56
0363 | Level I Otorhinolaryngologic Function Tests | X | 0.8536 | $46.34 | $17.15 | $9.27
0364 | Level I Audiometry | X | 0.4415 | $23.97 | $9.06 | $4.79
0365 | Level II Audiometry | X | 1.1915 | $64.69 | $18.95 | $12.94
0367 | Level I Pulmonary Test | X | 0.5828 | $31.64 | $15.16 | $6.33
0368 | Level II Pulmonary Tests | X | 0.9321 | $50.60 | $25.30 | $10.12
0369 | Level III Pulmonary Tests | X | 2.5282 | $137.25 | $44.18 | $27.45
0370 | Allergy Tests | X | 0.8858 | $48.09 | $11.58 | $9.62
0371 | Level I Allergy Injections | X | 0.4084 | $22.17 | $4.44 | $4.43
0372 | Therapeutic Phlebotomy | X | 0.5529 | $30.02 | $10.09 | $6.00
0373 | Neuropsychological Testing | X | 2.1165 | $114.90 | $22.98 | $22.98
0374 | Monitoring Psychiatric Drugs | X | 1.1062 | $60.05 |  | $12.01
0375 | Ancillary Outpatient Services when Patient Expires | T |  | $1,150.00 |  | $230.00
0376 | Pkgd cancer chemo, other | S | 2.1479 | $116.61 |  | $23.32
0377 | Sep cancer chemo, other | S | 0.6673 | $36.23 |  | $7.25
0378 | Infusion of pkgd cancer | S | 4.3955 | $238.63 |  | $47.73
0379 | Infusion, separate cancer | S | 2.4298 | $131.91 |  | $26.38
0380 | Pkgd cancer chemo, both | S | 5.1857 | $281.53 |  | $56.31
0381 | Sep cancer chemo, both | S | 2.1596 | $117.24 |  | $23.45
0382 | Infusion, pkgd noncancer | S | 4.6839 | $254.28 |  | $50.86
0383 | Infusion, separate noncancer | S | 1.8419 | $99.99 |  | $20.00
0384 | GI Procedures with Stents | T | 36.0040 | $1,954.62 | $424.53 | $390.92
0385 | Level I Prosthetic Urological Procedures | T | 66.4829 | $3,609.29 |  | $721.86
0386 | Level II Prosthetic Urological Procedures | T | 118.8122 | $6,450.20 |  | $1,290.04
0387 | Level II Hysteroscopy | T | 28.5174 | $1,548.18 | $660.84 | $309.64
0388 | Discography | S | 11.7450 | $637.62 | $304.54 | $127.52
0389 | Non-imaging Nuclear Medicine | S | 1.6475 | $89.44 | $44.72 | $17.89
0390 | Level I Thyroid Imaging | S | 2.8434 | $154.37 | $77.18 | $30.87
0391 | Level II Thyroid Imaging | S | 3.7174 | $201.81 | $100.91 | $40.36
0392 | Adrenal Imaging | S | 6.7081 | $364.18 | $182.09 | $72.84
0393 | Red Cell/Plasma Studies | S | 4.0720 | $221.06 | $110.53 | $44.21
0394 | Hepatobiliary Imaging | S | 4.4370 | $240.88 | $120.44 | $48.18
0395 | GI Tract and B12 Studies | S | 3.9372 | $213.75 | $106.87 | $42.75
0396 | Bone Imaging | S | 4.2445 | $230.43 | $115.21 | $46.09
0397 | Vascular Imaging | S | 2.4737 | $134.29 | $67.15 | $26.86
0398 | Cardiac Imaging | S | 6.6521 | $361.14 | $180.57 | $72.23
0399 | Cardiac Add-on Imaging | S | 1.6033 | $87.04 | $43.52 | $17.41
0400 | Hematopoietic Imaging | S | 3.8691 | $210.05 | $105.02 | $42.01
0401 | Pulmonary Imaging | S | 4.9130 | $266.72 | $133.36 | $53.34
0402 | Brain Imaging | S | 5.4818 | $297.60 | $148.80 | $59.52
0403 | CSF Imaging | S | 3.9265 | $213.17 | $106.58 | $42.63
0404 | Renal Imaging | S | 5.1538 | $279.79 | $139.90 | $55.96
0405 | Non-renal GU Studies | S | 0.7739 | $42.01 | $21.01 | $8.40
0406 | Tumor/Infection Imaging | S | 4.7542 | $258.10 |  | $51.62
0407 | Thyroid Radionucliide treatment | S | 4.2797 | $232.34 | $116.17 | $46.47
0408 | Non-thyroid Radionucliide treatment | S | 4.0000 | $217.16 |  | $43.43
0409 | Red Blood Cell Tests | X | 0.1385 | $7.52 | $2.31 | $1.50
0410 | Mammogram Add On | S | 0.1473 | $8.00 |  | $1.60
0411 | Respiratory Procedures | S | 0.4207 | $22.84 |  | $4.57
0412 | IMRT Treatment Delivery | S | 5.2832 | $286.82 |  | $57.36
0413 | IMRT Treatment Plan | S | 6.0369 | $327.74 |  | $65.55
0414 | Reconstruction CT Angiography of Aorta | S | 4.8012 | $260.65 |  | $52.13
0415 | Level II Endoscopy Lower Airway | T | 20.9920 | $1,139.63 | $463.30 | $227.93
0600 | Low Level Clinic Visits | V | 0.9376 | $50.90 |  | $10.18
0601 | Mid Level Clinic Visits | V | 1.0031 | $54.46 |  | $10.89
0602 | High Level Clinic Visits | V | 1.5603 | $84.71 |  | $16.94
0610 | Low Level Emergency Visits | V | 1.4146 | $76.80 | $19.57 | $15.36
0611 | Mid Level Emergency Visits | V | 2.4881 | $135.08 | $36.47 | $27.02
0612 | High Level Emergency Visits | V | 4.3235 | $234.72 | $54.14 | $46.94
0620 | Critical Care | S | 9.2657 | $503.03 | $145.78 | $100.61
0648 | Breast Reconstruction with Prosthesis | T | 55.5345 | $3,014.91 |  | $602.98
0649 | Prostate Brachytherapy Palladium Seeds | T | 119.0281 | $6,461.92 |  | $1,292.38
0651 | Complex Interstitial Radiation Source Application | S | 10.0459 | $545.38 | $109.08 | $109.08
0652 | Insertion of Intraperitoneal Catheters | T | 28.0692 | $1,523.85 |  | $304.77
0653 | Vascular Reconstruction/Fistula Repair with Device | T | 32.4880 | $1,763.74 |  | $352.75
0654 | Insertion/Replacement of a permanent dual chamber pacemaker | T | 103.8544 | $5,638.15 |  | $1,127.63
0655 | Insertion/Replacement/Conversion of a permanent dual chamber pacemaker | T | 142.2244 | $7,721.22 |  | $1,544.24
0656 | Transcatheter Placement of Intracoronary Drug-Eluting Stents | T | 101.3662 | $5,503.07 |  | $1,100.61
0657 | Placement of Tissue Clips | S | 1.5630 | $84.85 |  | $16.97
0658 | Percutaneous Breast Biopsies | T | 5.6035 | $304.21 |  | $60.84
0659 | Hyperbaric Oxygen | S | 3.2220 | $174.92 |  | $34.98
0660 | Level II Otorhinolaryngologic Function Tests | X | 1.7330 | $94.08 | $30.66 | $18.82
0661 | Level IV Pathology | X | 3.3215 | $180.32 | $90.16 | $36.06
0662 | CT Angiography | S | 5.8751 | $318.95 | $156.47 | $63.79
0664 | Proton Beam Radiation Therapy | S | 9.6828 | $525.67 |  | $105.13
0665 | Bone Density:AppendicularSkeleton | S | 0.7225 | $39.22 |  | $7.84
0668 | Level I Angiography and Venography except Extremity | S | 10.4896 | $569.47 | $237.76 | $113.89
0669 | Digital Mammography | S | 0.9111 | $49.46 |  | $9.89
0670 | Intravenous and Intracardiac Ultrasound | S | 26.5472 | $1,441.22 | $521.95 | $288.24
0671 | Level II Echocardiogram Except Transesophageal | S | 1.6392 | $88.99 | $44.50 | $17.80
0672 | Level IV Posterior Segment Procedures | T | 39.1363 | $2,124.67 | $988.43 | $424.93
0673 | Level IV Anterior Segment Eye Procedures | T | 26.7626 | $1,452.91 | $649.56 | $290.58
0674 | Prostate Cryoablation | T | 101.1198 | $5,489.69 |  | $1,097.94
0675 | Prostatic Thermotherapy | T | 49.3613 | $2,679.78 |  | $535.96
0676 | Level II Transcatheter Thrombolysis | T | 3.7505 | $203.61 | $55.06 | $40.72
0677 | Level I Transcatheter Thrombolysis | T | 3.0769 | $167.04 |  | $33.41
0678 | External Counterpulsation | T | 2.0622 | $111.95 |  | $22.39
0679 | Level II Resuscitation and Cardioversion | S | 5.4862 | $297.84 | $95.30 | $59.57
0680 | Insertion of Patient Activated Event Recorders | S | 61.4222 | $3,334.55 |  | $666.91
0681 | Knee Arthroplasty | T | 96.7483 | $5,252.37 | $2,090.21 | $1,050.47
0682 | Level V Debridement & Destruction | T | 7.6815 | $417.02 | $174.57 | $83.40
0683 | Level II Photochemotherapy | S | 1.7915 | $97.26 | $35.01 | $19.45
0684 | Prostate Brachytherapy Iodine Seeds | T | 104.7194 | $5,685.11 |  | $1,137.02
0685 | Level III Needle Biopsy/Aspiration Except Bone Marrow | T | 4.8912 | $265.54 | $116.83 | $53.11
0686 | Level III Skin Repair | T | 17.0868 | $927.63 | $341.70 | $185.53
0687 | Revision/Removal of Neurostimulator Electrodes | T | 19.9913 | $1,085.31 | $499.24 | $217.06
0688 | Revision/Removal of Neurostimulator Pulse Generator Receiver | T | 42.5880 | $2,312.06 | $1,132.91 | $462.41
0689 | Electronic Analysis of Cardioverter-defibrillators | S | 0.5427 | $29.46 |  | $5.89
0690 | Electronic Analysis of Pacemakers and other Cardiac Devices | S | 0.3986 | $21.64 | $10.35 | $4.33
0691 | Electronic Analysis of Programmable Shunts/Pumps | S | 2.9894 | $162.29 | $81.15 | $32.46
0692 | Electronic Analysis of Neurostimulator Pulse Generators | S | 0.9625 | $52.25 | $26.13 | $10.45
0693 | Level II Breast Reconstruction | T | 38.6469 | $2,098.10 | $798.17 | $419.62
0694 | Mohs Surgery | T | 3.3272 | $180.63 | $72.25 | $36.13
0695 | Level VII Debridement & Destruction | T | 19.1377 | $1,038.97 | $266.59 | $207.79
0697 | Level I Echocardiogram Except Transesophageal | S | 1.4621 | $79.38 | $39.69 | $15.88
0698 | Level II Eye Tests & Treatments | S | 0.9355 | $50.79 | $18.72 | $10.16
0699 | Level IV Eye Tests & Treatments | T | 2.2211 | $120.58 | $54.26 | $24.12
0700 | Antepartum Manipulation | T | 2.4359 | $132.24 | $37.03 | $26.45
0701 | SR 89 chloride, per mCi | K | 7.4586 | $404.92 |  | $80.98
0702 | SM 153 lexidronam, 50 mCi | K | 16.1415 | $876.31 |  | $175.26
0704 | IN 111 Satumomab pendetide per dose | K | 2.9212 | $158.59 |  | $31.72
0726 | Dexrazoxane hcl injection, 250 mg | K | 1.9860 | $107.82 |  | $21.56
0728 | Filgrastim 300 mcg injection | K | 2.2544 | $122.39 |  | $24.48
0730 | Pamidronate disodium , 30 mg | K | 1.5359 | $83.38 |  | $16.68
0732 | Mesna injection 200 mg | K | 0.4908 | $26.65 |  | $5.33
0733 | Non esrd epoetin alpha inj, 1000 u | K | 0.1782 | $9.67 |  | $1.93
0734 | Injection, darbepoetin alfa (for non-ESRD use), pre 1 mcg | K | 0.0463 | $2.51 |  | $.50
0800 | Leuprolide acetate, 3.75 mg | K | 3.3020 | $179.26 |  | $35.85
0802 | Etoposide oral 50 mg | K | 0.4830 | $26.22 |  | $5.24
0807 | Aldesleukin/single use vial | K | 7.0936 | $385.10 |  | $77.02
0810 | Goserelin acetate implant 3.6 mg | K | 4.9549 | $269.00 |  | $53.80
0811 | Carboplatin injection 50 mg | K | 1.5475 | $84.01 |  | $16.80
0812 | Carmustine, 100 mg | K | 0.9972 | $54.14 |  | $10.83
0813 | Cisplatin 10 mg injection | K | 0.3594 | $19.51 |  | $3.90
0820 | Daunorubicin 10 mg | K | 0.60 | $32.86 |  | $6.57
0821 | Daunorubicin citrate liposom 10 mg | K | 2.9697 | $161.22 |  | $32.24
0822 | Diethylstilbestrol injection 250 mg | K | 1.3274 | $72.06 |  | $14.41
0823 | Docetaxel, 20 mg | K | 4.0041 | $217.38 |  | $43.48
0827 | Floxuridine injection 500 mg | K | 2.1836 | $118.55 |  | $23.71
0828 | Gemcitabine HCL 200 mg | K | 1.4523 | $78.84 |  | $15.77
0830 | Irinotecan injection 20 mg | K | 1.8626 | $101.12 |  | $20.22
0831 | Ifosfomide injection 1 gm | K | 1.1616 | $63.06 |  | $12.61
0832 | Idarubicin hcl injection 5 mg | K | 3.2438 | $176.10 |  | $35.22
0836 | Interferon alfa-2b inj recombinant, 1 million | K | 0.2000 | $10.86 |  | $2.17
0838 | Interferon gamma 1-b inj, 3 million u | K | 2.4742 | $134.32 |  | $26.86
0840 | Melphalan hydrochl 50 mg | K | 4.4072 | $239.26 |  | $47.85
0842 | Fludarabine phosphate inj 50 mg | K | 3.6854 | $200.08 |  | $40.02
0843 | Pegaspargase, singl dose vial | K | 5.7621 | $312.82 |  | $62.56
0844 | Pentostatin injection, 10 mg | K | 17.4201 | $945.72 |  | $189.14
0849 | Rituximab, 100 mg | K | 5.5636 | $302.04 |  | $60.41
0850 | Streptozocin injection, 1 gm | K | 1.3942 | $75.69 |  | $15.14
0852 | Topotecan, 4 mg | K | 7.9075 | $429.29 |  | $85.86
0855 | Vinorelbine tartrate, 10 mg | K | 1.1683 | $63.43 |  | $12.69
0856 | Porfimer sodium, 75 mg | K | 25.3788 | $1,377.79 |  | $275.56
0857 | Bleomycin sulfate injection 15 u | K | 2.2352 | $121.35 |  | $24.27
0858 | Cladribine, 1mg | K | 0.7031 | $38.17 |  | $7.63
0861 | Leuprolide acetate injection 1 mg | K | 0.8223 | $44.64 |  | $8.93
0862 | Mitomycin 5 mg inj | K | 0.9557 | $51.88 |  | $10.38
0863 | Paclitaxel injection, 30 mg | K | 1.2674 | $68.81 |  | $13.76
0864 | Mitoxantrone hcl, 5 mg | K | 3.1513 | $171.08 |  | $34.22
0865 | Interferon alfa-n3 inj, human leukocyte derived, 2 | K | 1.5823 | $85.90 |  | $17.18
0884 | Rho d immune globulin inj, 1 dose pkg | K | 0.2312 | $12.55 |  | $2.51
0888 | Cyclosporine oral 100 mg | K | 0.0482 | $2.62 |  | $.52
0890 | Lymphocyte immune globulin 250 mg | K | 2.1958 | $119.21 |  | $23.84
0891 | Tacrolimus oral per 1 mg | K | 0.0236 | $1.28 |  | $.26
0900 | Alglucerase injection, per 10 u | K | 0.5473 | $29.71 |  | $5.94
0901 | Alpha 1 proteinase inhibitor, 10 mg | K | 0.0214 | $1.16 |  | $.23
0902 | Botulinum toxin a, per unit | K | 0.0460 | $2.50 |  | $.50
0903 | Cytomegalovirus imm IV/vial | K | 5.0754 | $275.54 |  | $55.11
0905 | Immune globulin, 1g | K | 0.8103 | $43.99 |  | $8.80
0906 | RSV-ivig, 50 mg | K | 6.0142 | $326.50 |  | $65.30
0909 | Interferon beta-1a, 33 mcg | K | 2.8010 | $152.06 |  | $30.41
0910 | Interferon beta-1b /0.25 mg | K | 1.9843 | $107.73 |  | $21.55
0911 | Streptokinase per 250,000 iu | K | 1.6055 | $87.16 |  | $17.43
0916 | Imiglucerase injection/unit | K | 0.0531 | $2.88 |  | $.58
0917 | Inj, Adenosine, 90 mg | K | 2.3474 | $127.44 |  | $25.49
0925 | Factor viii per iu | K | 0.0085 | $.46 |  | $.09
0926 | Factor VIII (porcine) per iu | K | 0.0253 | $1.37 |  | $.27
0927 | Factor viii recombinant per iu | K | 0.0168 | $.91 |  | $.18
0928 | Factor ix complex per iu | K | 0.0085 | $.46 |  | $.09
0929 | Anti-inhibitor per iu | K | 0.0168 | $.91 |  | $.18
0930 | Antithrombin iii injection per iu | K | 0.0117 | $.64 |  | $.13
0931 | Factor IX non-recombinant, per iu | K | 0.0104 | $.56 |  | $.11
0932 | Factor IX recombinant, per iu | K | 0.0168 | $.91 |  | $.18
0949 | Plasma, Pooled Multiple Donor, Solvent/Detergent T | K | 2.0608 | $111.88 |  | $22.38
0950 | Blood (Whole) For Transfusion | K | 1.4575 | $79.13 |  | $15.83
0952 | Cryoprecipitate | K | 0.4860 | $26.38 |  | $5.28
0954 | RBC leukocytes reduced | K | 1.9770 | $107.33 |  | $21.47
0955 | Plasma, Fresh Frozen | K | 1.5750 | $85.51 |  | $17.10
0956 | Plasma Protein Fraction | K | 1.5414 | $83.68 |  | $16.74
0957 | Platelet Concentrate | K | 0.6870 | $37.30 |  | $7.46
0958 | Platelet Rich Plasma | K | 1.1296 | $61.32 |  | $12.26
0959 | Red Blood Cells | K | 1.4326 | $77.77 |  | $15.55
0960 | Washed Red Blood Cells | K | 2.6638 | $144.62 |  | $28.92
0961 | Infusion, Albumin (Human) 5%, 50 ml | K | 0.7319 | $39.73 |  | $7.95
0963 | Albumin (human), 5%, 250 ml | K | 3.4713 | $188.45 |  | $37.69
0964 | Albumin (human), 25%, 20 ml | K | 0.7911 | $42.95 |  | $8.59
0965 | Albumin (human), 25%, 50ml | K | 1.9432 | $105.49 |  | $21.10
0966 | Plasmaprotein fract,5%,250ml | K | 7.7071 | $418.41 |  | $83.68
1009 | Cryoprecip reduced plasma | K | 0.9447 | $51.29 |  | $10.26
1010 | Blood, L/R, CMV-neg | K | 2.1361 | $115.97 |  | $23.19
1011 | Platelets, HLA-m, L/R, unit | K | 8.2851 | $449.79 |  | $89.96
1013 | Platelet concentrate, L/R, unit | K | 0.9101 | $49.41 |  | $9.88
1016 | Blood, L/R, froz/deglycerol/washed | K | 5.0012 | $271.51 |  | $54.30
1017 | Platelets, aph/pher, L/R, CMV-neg, unit | K | 6.5175 | $353.83 |  | $70.77
1018 | Blood, L/R, irradiated | K | 2.1950 | $119.16 |  | $23.83
1019 | Platelets, aph/pher, L/R, irradiated, unit | K | 6.7353 | $365.65 |  | $73.13
1020 | Pit, pher,L/R,CMV,irrad | K | 9.6266 | $522.62 |  | $104.52
1021 | RBC, frz/deg/wsh, L/R, irrad | K | 6.5287 | $354.44 |  | $70.89
1022 | RBC, L/R, CMV neg, irrad | K | 3.9139 | $212.48 |  | $42.50
1045 | Iobenguane sulfate I-131per 0.5 mCi | K | 2.9293 | $159.03 |  | $31.81
1064 | I-131 sodium iodide capsule | K | 0.1007 | $5.47 |  | $1.09
1065 | I-131 sodium iodide solution | K | 0.0002 | $.01 |  | $.00
1084 | Denileukin diftitox, 300 MCG | K | 15.0913 | $819.29 |  | $163.86
1086 | Temozolomide,oral 5 mg | K | 0.0643 | $3.49 |  | $.70
1091 | IN 111 Oxyquinoline, per .5 mCi | K | 4.0535 | $220.06 |  | $44.01
1092 | IN 111 Pentetate, per 0.5 mCi | K | 4.0824 | $221.63 |  | $44.33
1095 | Technetium TC 99M Depreotide | K | 3.7042 | $201.10 |  | $40.22
1096 | TC 99M Exametazime, per dose | K | 3.8103 | $206.86 |  | $41.37
1122 | TC 99M arcitumomab, per vial | K | 9.6556 | $524.19 |  | $104.84
1167 | Epirubicin hcl, 2 mg | K | 0.3597 | $19.53 |  | $3.91
1178 | Busulfan IV, 6 mg | K | 6.0245 | $327.06 |  | $65.41
1203 | Verteporfin for injection | K | 16.1946 | $879.19 |  | $175.84
1207 | Octreotide injection, depot | K | 1.1849 | $64.33 |  | $12.87
1305 | Apligraf | K | 11.2075 | $608.44 |  | $121.69
1409 | Factor viia recombinant, per 1.2 mg | K | 17.9693 | $975.54 |  | $195.11
1501 | New Technology - Level I ($0 - $50) | S |  | $25.00 |  | $5.00
1502 | New Technology - Level II ($50 - $100) | S |  | $75.00 |  | $15.00
1503 | New Technology - Level III ($100 - $200) | S |  | $150.00 |  | $30.00
1504 | New Technology - Level IV ($200 - $300) | S |  | $250.00 |  | $50.00
1505 | New Technology - Level V ($300 - $400) | S |  | $350.00 |  | $70.00
1506 | New Technology - Level VI ($400 - $500) | S |  | $450.00 |  | $90.00
1507 | New Technology - Level VII ($500 - $600) | S |  | $550.00 |  | $110.00
1508 | New Technology - Level VIII ($600 - $700) | S |  | $650.00 |  | $130.00
1509 | New Technology - Level IX ($700 - $800) | S |  | $750.00 |  | $150.00
1510 | New Technology - Level X ($800 - $900) | S |  | $850.00 |  | $170.00
1511 | New Technology - Level XI ($900 - $1000) | S |  | $950.00 |  | $190.00
1512 | New Technology - Level XII ($1000 - $1100) | S |  | $1,050.00 |  | $210.00
1513 | New Technology - Level XIII ($1100 - $1200) | S |  | $1,150.00 |  | $230.00
1514 | New Technology - Level XIV ($1200 - $1300) | S |  | $1,250.00 |  | $250.00
1515 | New Technology - Level XV ($1300 - $1400) | S |  | $1,350.00 |  | $270.00
1516 | New Technology - Level XVI ($1400 - $1500) | S |  | $1,450.00 |  | $290.00
1517 | New Technology - Level XX ($1500-$1600) | S |  | $1,550.00 |  | $310.00
1518 | New Technology - Level XX ($1600-$1700) | S |  | $1,650.00 |  | $330.00
1519 | New Technology - Level XX ($1700-$1800) | S |  | $1,750.00 |  | $350.00
1520 | New Technology - Level XX ($1800-$1900) | S |  | $1,850.00 |  | $370.00
1521 | New Technology - Level XX ($1900-$2000) | S |  | $1,950.00 |  | $390.00
1522 | New Technology - Level XX ($2000-$2500) | S |  | $2,250.00 |  | $450.00
1523 | New Technology - Level XX ($2500-$3000) | S |  | $2,750.00 |  | $550.00
1524 | New Technology - Level XX ($3000-$3500) | S |  | $3,250.00 |  | $650.00
1525 | New Technology - Level XX ($3500-$4000) | S |  | $3,750.00 |  | $750.00
1526 | New Technology - Level XX ($4000-$4500) | S |  | $4,250.00 |  | $850.00
1527 | New Technology - Level XX ($4500-$5000) | S |  | $4,750.00 |  | $950.00
1528 | New Technology - Level XX ($5000-$5500) | S |  | $5,250.00 |  | $1,050.00
1529 | New Technology - Level XX ($5500-$6000) | S |  | $5,750.00 |  | $1,150.00
1530 | New Technology - Level XX ($6000-$6500) | S |  | $6,250.00 |  | $1,250.00
1531 | New Technology - Level XX ($6500-$7000) | S |  | $6,750.00 |  | $1,350.00
1532 | New Technology - Level XX ($7000-$7500) | S |  | $7,250.00 |  | $1,450.00
1533 | New Technology - Level XX ($7500-$8000) | S |  | $7,750.00 |  | $1,550.00
1534 | New Technology - Level XX ($8000-$8500) | S |  | $8,250.00 |  | $1,650.00
1535 | New Technology - Level XX ($8500-$9000) | S |  | $8,750.00 |  | $1,750.00
1536 | New Technology - Level XX ($9000-$9500) | S |  | $9,250.00 |  | $1,850.00
1537 | New Technology - Level XX ($9500-$10000) | S |  | $9,750.00 |  | $1,950.00
1538 | New Technology - Level I ($0 - $50) | T |  | $25.00 |  | $5.00
1539 | New Technology - Level II ($50 - $100) | T |  | $75.00 |  | $15.00
1540 | New Technology - Level III ($100 - $200) | T |  | $150.00 |  | $30.00
1541 | New Technology - Level IV ($200 - $300) | T |  | $250.00 |  | $50.00
1542 | New Technology - Level V ($300 - $400) | T |  | $350.00 |  | $70.00
1543 | New Technology - Level VI ($400 - $500) | T |  | $450.00 |  | $90.00
1544 | New Technology - Level VII ($500 - $600) | T |  | $550.00 |  | $110.00
1545 | New Technology - Level VIII ($600 - $700) | T |  | $650.00 |  | $130.00
1546 | New Technology - Level IX ($700 - $800) | T |  | $750.00 |  | $150.00
1547 | New Technology - Level X ($800 - $900) | T |  | $850.00 |  | $170.00
1548 | New Technology - Level XI ($900 - $1000) | T |  | $950.00 |  | $190.00
1549 | New Technology - Level XII ($1000 - $1100) | T |  | $1,050.00 |  | $210.00
1550 | New Technology - Level XIII ($1100 - $1200) | T |  | $1,150.00 |  | $230.00
1551 | New Technology - Level XIV ($1200 - $1300) | T |  | $1,250.00 |  | $250.00
1552 | New Technology - Level XV ($1300 - $1400) | T |  | $1,350.00 |  | $270.00
1553 | New Technology - Level XVI ($1400 - $1500) | T |  | $1,450.00 |  | $290.00
1554 | New Technology - Level XX ($1500-$1600) | T |  | $1,550.00 |  | $310.00
1555 | New Technology - Level XX ($1600-$1700) | T |  | $1,650.00 |  | $330.00
1556 | New Technology - Level XX ($1700-$1800) | T |  | $1,750.00 |  | $350.00
1557 | New Technology - Level XX ($1800-$1900) | T |  | $1,850.00 |  | $370.00
1558 | New Technology - Level XX ($1900-$2000) | T |  | $1,950.00 |  | $390.00
1559 | New Technology - Level XX ($2000-$2500) | T |  | $2,250.00 |  | $450.00
1560 | New Technology - Level XX ($2500-$3000) | T |  | $2,750.00 |  | $550.00
1561 | New Technology - Level XX ($3000-$3500) | T |  | $3,250.00 |  | $650.00
1562 | New Technology - Level XX ($3500-$4000) | T |  | $3,750.00 |  | $750.00
1563 | New Technology - Level XX ($4000-$4500) | T |  | $4,250.00 |  | $850.00
1564 | New Technology - Level XX ($4500-$5000) | T |  | $4,750.00 |  | $950.00
1565 | New Technology - Level XX ($5000-$5500) | T |  | $5,250.00 |  | $1,050.00
1566 | New Technology - Level XX ($5500-$6000) | T |  | $5,750.00 |  | $1,150.00
1567 | New Technology - Level XX ($6000-$6500) | T |  | $6,250.00 |  | $1,250.00
1568 | New Technology - Level XX ($6500-$7000) | T |  | $6,750.00 |  | $1,350.00
1569 | New Technology - Level XX ($7000-$7500) | T |  | $7,250.00 |  | $1,450.00
1570 | New Technology - Level XX ($7500-$8000) | T |  | $7,750.00 |  | $1,550.00
1571 | New Technology - Level XX ($8000-$8500) | T |  | $8,250.00 |  | $1,650.00
1572 | New Technology - Level XX ($8500-$9000) | T |  | $8,750.00 |  | $1,750.00
1573 | New Technology - Level XX ($9000-$9500) | T |  | $9,250.00 |  | $1,850.00
1574 | New Technology - Level XX ($9500-$10000) | T |  | $9,750.00 |  | $1,950.00
1604 | IN 111 capromab pendetide, per dose | K | 12.4029 | $673.34 |  | $134.67
1605 | Abciximab injection, 10 mg | K | 5.2806 | $286.68 |  | $57.34
1606 | Anistreplase, 30 u | K | 25.3116 | $1,374.14 |  | $274.83
1607 | Eptifibatide injection, 5mg | K | 0.1426 | $7.74 |  | $1.55
1609 | Rho(D) immune globulin h, sd, 100 iu | K | 0.1863 | $10.11 |  | $2.02
1611 | Hylan G-F 20 injection, 16 mg | K | 2.1566 | $117.08 |  | $23.42
1612 | Daclizumab, parenteral, 25 mg | K | 3.7304 | $202.52 |  | $40.50
1613 | Trastuzumab, 10 mg | K | 0.7384 | $40.09 |  | $8.02
1614 | Valrubicin, 200 mg | K | 9.6183 | $522.17 |  | $104.43
1615 | Basiliximab, 20 mg | K | 11.2007 | $608.07 |  | $121.61
1618 | Vonwillebrandfactrcmplx, per iu | K | 0.0168 | $.91 |  | $.18
1620 | Technetium tc99m bicisate | K | 3.3106 | $179.73 |  | $35.95
1625 | Indium 111-in pentetreotide | K | 6.8170 | $370.09 |  | $74.02
1628 | Chromic phosphate p32 | K | 2.0103 | $109.14 |  | $21.83
1716 | Brachytx source, Gold 198 | K | 1.3399 | $72.74 |  | $14.55
1718 | Brachytx source, Iodine 125 | K | 0.6695 | $36.35 |  | $7.27
1719 | Brachytx source, Non-HDR Ir-192 | K | 0.3053 | $16.57 |  | $3.31
1720 | Brachytx source, Palladium 103 | K | 0.8104 | $44.00 |  | $8.80
1775 | FDG, per dose (4-40 mCi/ml) | K | 5.8606 | $318.17 |  | $63.63
1783 | Ocular implant, aqueous drain device | H |  |  |  |
1814 | Retinal Tamp, silicone oil | H |  |  |  |
1818 | Integrated keratoprosthesis | H |  |  |  |
1900 | Lead coronary venous | H |  |  |  |
2614 | Probe, percutaneous lumbar disc | H |  |  |  |
2616 | Brachytx source, Yttrium-90 | K | 163.4011 | $8,870.88 |  | $1,774.18
2632 | Brachytx sol, I-125, per mCi | H |  |  |  |
7000 | Amifostine, 500 mg | K | 3.9932 | $216.79 |  | $43.36
7011 | Oprelvekin injection, 5 mg | K | 2.7246 | $147.92 |  | $29.58
7015 | Busulfan, oral, 2 mg | K | 0.0263 | $1.43 |  | $.29
7024 | Corticorelin ovine triflutat | K | 3.4880 | $189.36 |  | $37.87
7025 | Digoxin immune FAB (ovine) | K | 4.4789 | $243.16 |  | $48.63
7027 | Fomepizole, 15mg | K | 0.2215 | $12.03 |  | $2.41
7030 | Hemin, per 1 mg | K | 0.0119 | $.65 |  | $.13
7031 | Octreotide acetate injection | K | 1.0339 | $56.13 |  | $11.23
7034 | Somatropin injection | K | 0.9206 | $49.98 |  | $10.00
7035 | Teniposide, 50 mg | K | 1.5530 | $84.31 |  | $16.86
7036 | Urokinase 250,000 iu inj | K | 5.1032 | $277.05 |  | $55.41
7037 | Urofollitropin, 75 iu | K | 1.1321 | $61.46 |  | $12.29
7038 | Muromonab-CD3, 5 mg | K | 5.8452 | $317.33 |  | $63.47
7041 | Tirofiban hydrochloride 12.5 mg | K | 4.2976 | $233.31 |  | $46.66
7042 | Capecitabine, oral, 150 mg | K | 0.0290 | $1.57 |  | $.31
7043 | Infliximab injection 10 mg | K | 0.6841 | $37.14 |  | $7.43
7045 | Trimetrexate glucoronate | K | 1.2099 | $65.68 |  | $13.14
7046 | Doxorubicin hcl liposome inj 10 mg | K | 4.6362 | $251.69 |  | $50.34
7049 | Filgrastim 480 mcg injection | K | 3.1998 | $173.71 |  | $34.74
7051 | Leuprolide acetate implant, 65 mg | K | 68.9392 | $3,742.64 |  | $748.53
9000 | Na chromate Cr51, per 0.25mCi | K | 1.2631 | $68.57 |  | $13.71
9002 | Tenecteplase, 50mg/vial | K | 23.2303 | $1,261.15 |  | $252.23
9003 | Palivizumab, per 50mg | K | 6.3850 | $346.64 |  | $69.33
9004 | Gemtuzumab ozogamicin inj,5mg | K | 17.5020 | $950.17 |  | $190.03
9005 | Reteplase injection | K | 10.1332 | $550.12 |  | $110.02
9009 | Baclofen refill kit - per 2000 mcg | K | 0.7478 | $40.60 |  | $8.12
9010 | Baclofen refill kit - per 4000 mcg | K | 0.7340 | $39.85 |  | $7.97
9012 | Arsenic Trioxide | K | 0.4837 | $26.26 |  | $5.25
9015 | Mycophenolate mofetil oral 250 mg | K | 0.0373 | $2.02 |  | $.40
9018 | Botulinum toxin B, per 100 u | K | 0.1272 | $6.91 |  | $1.38
9019 | Caspofungin acetate, 5 mg | K | 0.5334 | $28.96 |  | $5.79
9020 | Sirolimus tablet, oral 1 mg | K | 0.0520 | $2.82 |  | $.56
9021 | Immune globulin 10 mg | K | 0.0080 | $.43 |  | $.09
9022 | IM inj interferon beta 1-a | K | 0.9417 | $51.12 |  | $10.22
9023 | Rho d immune globulin 50 mcg | K | 0.0523 | $2.84 |  | $.57
9024 | Amphotericin b lipid complex | K | 0.4174 | $22.66 |  | $4.53
9025 | Rubidium-Rb-82 | K | 2.5939 | $140.82 |  | $28.16
9100 | Iodinated I-131albumin, per 5 uci | K | 0.0071 | $.39 |  | $.08
9104 | Anti-thymocycte globulin rabbit | K | 2.9801 | $161.79 |  | $32.36
9105 | Hep B imm glob, per 1 ml | K | 1.5621 | $84.80 |  | $16.96
9108 | Thyrotropin alfa, per 1.1 mg | K | 6.6059 | $358.63 |  | $71.73
9109 | Tirofiban hcl, per 6.25 mg | K | 2.2328 | $121.22 |  | $24.24
9110 | Alemtuzumab, per 10 mg | K | 7.6422 | $414.89 |  | $82.98
9111 | Inj, bivalirudin, per 250 mg vial | G |  | $397.81 |  | $59.46
9112 | Perflutren lipid micro, per 2ml | G |  | $148.20 |  | $22.15
9113 | Inj, pantoprazole sodium, vial | G |  | $22.80 |  | $3.41
9114 | Nesiritide, per 0.5 mg vial | G |  | $144.40 |  | $21.58
9115 | Inj, zoledronic acid, per 1 mg | G |  | $203.40 |  | $30.40
9116 | Inj, Ertapenem sodium, per 1 gm vial | G |  | $45.31 |  | $6.77
9117 | Y-90 ibritumomab tiuxetan | K | 332.7763 | $18,066.09 |  | $3,613.22
9118 | IN-111 ibritumomab tiuxetan | K | 38.3972 | $2,084.55 |  | $416.91
9119 | Pegfilgrastim, per 1 mg | G |  | $467.09 |  | $69.82
9120 | Inj, Fulvestrant, per 50 mg | G |  | $175.16 |  | $26.18
9121 | Inj, Argatroban, per 5 mg | G |  | $14.25 |  | $2.13
9122 | Inj, Triptorelin pamoate, per 3.75 mg | G |  | $415.24 |  | $62.07
9200 | Orcel, per 36 cm2 | G |  | $1,135.25 |  | $169.69
9201 | Dermagraft, per 37.5 sq cm | K | 7.9288 | $430.45 |  | $86.09
9202 | Octafluoropropane | K | 2.1253 | $115.38 |  | $23.08
9203 | Perflexane lipid micro | G |  | $142.50 |  | $21.30
9204 | Ziprasidone mesylate | G |  | $41.56 |  | $6.21
9205 | Oxaliplatin | G |  | $94.46 |  | $14.12
9217 | Leuprolide acetate suspnsion, 7.5 mg | K | 5.5128 | $299.28 |  | $59.86
9500 | Platelets, irradiated | K | 1.2398 | $67.31 |  | $13.46
9501 | Platelets, pheresis | K | 6.7772 | $367.93 |  | $73.59
9502 | Platelet pheresis irradiated | K | 7.3552 | $399.31 |  | $79.86
9503 | Fresh frozen plasma, ea unit | K | 1.1560 | $62.76 |  | $12.55
9504 | RBC deglycerolized | K | 3.9764 | $215.87 |  | $43.17
9505 | RBC irradiated | K | 1.8011 | $97.78 |  | $19.56
9506 | Granulocytes, pheresis | K | 20.7004 | $1,123.80 |  | $224.76

——————————

CPT codes and descriptions only are copyright American Medical Association. All Rights Reserved. Applicable FARS/DFARS Apply.

Copyright American Dental Association. All rights reserved.

Addendum B.—Payment Status by HCPCS Code and Related Information Calendar Year 2004
CPT/HCPCS | Status indicator | Condition | Description | APC | Relative weight | Payment rate | National unadjusted copayment | Minimum unadjusted copayment
0001T | C |  | Endovas repr abdo ao aneurys |  |  |  |  |
0002T | C |  | Endovas repr abdo ao aneurys |  |  |  |  |
0003T | S |  | Cervicography | 1501 |  | $25.00 |  | $5.00
0005T | C |  | Perc cath stent/brain cv art |  |  |  |  |
0006T | C |  | Perc cath stent/brain cv art |  |  |  |  |
0007T | C |  | Perc cath stent/brain cv art |  |  |  |  |
0008T | E |  | Upper gi endoscopy w/suture |  |  |  |  |
0009T | T |  | Endometrial cryoablation | 1557 |  | $1,850.00 |  | $370.00
00100 | N |  | Anesth, salivary gland |  |  |  |  |
00102 | N |  | Anesth, repair of cleft lip |  |  |  |  |
00103 | N |  | Anesth, blepharoplasty |  |  |  |  |
00104 | N |  | Anesth, electroshock |  |  |  |  |
0010T | A |  | Tb test, gamma interferon |  |  |  |  |
00120 | N |  | Anesth, ear surgery |  |  |  |  |
00124 | N |  | Anesth, ear exam |  |  |  |  |
00126 | N |  | Anesth, tympanotomy |  |  |  |  |
0012T | T |  | Osteochondral knee autograft | 0041 | 27.2538 | $1,479.58 |  | $295.92
0013T | T |  | Osteochondral knee allograft | 0041 | 27.2538 | $1,479.58 |  | $295.92
00140 | N |  | Anesth, procedures on eye |  |  |  |  |
00142 | N |  | Anesth, lens surgery |  |  |  |  |
00144 | N |  | Anesth, corneal transplant |  |  |  |  |
00145 | N |  | Anesth, vitreoretinal surg |  |  |  |  |
00147 | N |  | Anesth, iridectomy |  |  |  |  |
00148 | N |  | Anesth, eye exam |  |  |  |  |
0014T | T |  | Meniscal transplant, knee | 0041 | 27.2538 | $1,479.58 |  | $295.92
00160 | N |  | Anesth, nose/sinus surgery |  |  |  |  |
00162 | N |  | Anesth, nose/sinus surgery |  |  |  |  |
00164 | N |  | Anesth, biopsy of nose |  |  |  |  |
0016T | T |  | Thermotx choroid vasc lesion | 0235 | 4.9900 | $270.90 | $72.04 | $54.18
00170 | N |  | Anesth, procedure on mouth |  |  |  |  |
00172 | N |  | Anesth, cleft palate repair |  |  |  |  |
00174 | C |  | Anesth, pharyngeal surgery |  |  |  |  |
00176 | C |  | Anesth, pharyngeal surgery |  |  |  |  |
0017T | E |  | Photocoagulat macular drusen |  |  |  |  |
0018T | S |  | Transcranial magnetic stimul | 0215 | 0.6390 | $34.69 | $15.76 | $6.94
00190 | N |  | Anesth, face/skull bone surg |  |  |  |  |
00192 | C |  | Anesth, facial bone surgery |  |  |  |  |
0019T | E |  | Extracorp shock wave tx, ms |  |  |  |  |
0020T | A |  | Extracorp shock wave tx, ft |  |  |  |  |
00210 | N |  | Anesth, open head surgery |  |  |  |  |
00212 | N |  | Anesth, skull drainage |  |  |  |  |
00214 | C |  | Anesth, skull drainage |  |  |  |  |
00215 | C |  | Anesth, skull repair/fract |  |  |  |  |
00216 | N |  | Anesth, head vessel surgery |  |  |  |  |
00218 | N |  | Anesth, special head surgery |  |  |  |  |
0021T | C |  | Fetal oximetry, trnsvag/cerv |  |  |  |  |
00220 | N |  | Anesth, intrcrn nerve |  |  |  |  |
00222 | N |  | Anesth, head nerve surgery |  |  |  |  |
0023T | A |  | Phenotype drug test, hiv 1 |  |  |  |  |
0024T | C |  | Transcath cardiac reduction |  |  |  |  |
0025T | S |  | Ultrasonic pachymetry | 0230 | 0.7379 | $40.06 | $14.97 | $8.01
0026T | A |  | Measure remnant lipoproteins |  |  |  |  |
0027T | T |  | Endoscopic epidural lysis | 1547 |  | $850.00 |  | $170.00
0028T | N |  | Dexa body composition study |  |  |  |  |
0029T | N |  | Magnetic tx for incontinence |  |  |  |  |
00300 | N |  | Anesth, head/neck/ptrunk |  |  |  |  |
0030T | A |  | Antiprothrombin antibody |  |  |  |  |
0031T | N |  | Speculoscopy |  |  |  |  |
00320 | N |  | Anesth, neck organ surgery |  |  |  |  |
00322 | N |  | Anesth, biopsy of thyroid |  |  |  |  |
00326 | N |  | Anesth, larynx/trach, < 1 yr |  |  |  |  |
0032T | N |  | Speculoscopy w/direct sample |  |  |  |  |
0033T | C |  | Endovasc taa repr incl subcl |  |  |  |  |
0034T | C |  | Endovasc taa repr w/o subcl |  |  |  |  |
00350 | N |  | Anesth, neck vessel surgery |  |  |  |  |
00352 | N |  | Anesth, neck vessel surgery |  |  |  |  |
0035T | C |  | Insert endovasc prosth, taa |  |  |  |  |
0036T | C |  | Endovasc prosth, taa, add-on |  |  |  |  |
0037T | C |  | Artery transpose/endovas taa |  |  |  |  |
0038T | C |  | Rad endovasc taa rpr w/cover |  |  |  |  |
0039T | C |  | Rad s/i, endovasc taa repair |  |  |  |  |
00400 | N |  | Anesth, skin, ext/per/atrunk |  |  |  |  |
00402 | N |  | Anesth, surgery of breast |  |  |  |  |
00404 | C |  | Anesth, surgery of breast |  |  |  |  |
00406 | C |  | Anesth, surgery of breast |  |  |  |  |
0040T | C |  | Rad s/i, endovasc taa prosth |  |  |  |  |
00410 | N |  | Anesth, correct heart rhythm |  |  |  |  |
0041T | A |  | Detect ur infect agnt w/cpas |  |  |  |  |
0042T | N |  | Ct perfusion w/contrast, cbf |  |  |  |  |
0043T | A |  | Co expired gas analysis |  |  |  |  |
0044T | N |  | Whole body photography |  |  |  |  |
00450 | N |  | Anesth, surgery of shoulder |  |  |  |  |
00452 | C |  | Anesth, surgery of shoulder |  |  |  |  |
00454 | N |  | Anesth, collar bone biopsy |  |  |  |  |
00470 | N |  | Anesth, removal of rib |  |  |  |  |
00472 | N |  | Anesth, chest wall repair |  |  |  |  |
00474 | C |  | Anesth, surgery of rib(s) |  |  |  |  |
00500 | N |  | Anesth, esophageal surgery |  |  |  |  |
00520 | N |  | Anesth, chest procedure |  |  |  |  |
00522 | N |  | Anesth, chest lining biopsy |  |  |  |  |
00524 | C |  | Anesth, chest drainage |  |  |  |  |
00528 | N |  | Anesth, chest partition view |  |  |  |  |
00530 | N |  | Anesth, pacemaker insertion |  |  |  |  |
00532 | N |  | Anesth, vascular access |  |  |  |  |
00534 | N |  | Anesth, cardioverter/defib |  |  |  |  |
00537 | N |  | Anesth, cardiac electrophys |  |  |  |  |
00539 | N |  | Anesth, trach-bronch reconst |  |  |  |  |
00540 | C |  | Anesth, chest surgery |  |  |  |  |
00541 | N |  | Anesth, one lung ventilation |  |  |  |  |
00542 | C |  | Anesth, release of lung |  |  |  |  |
00544 | C |  | Anesth, chest lining removal |  |  |  |  |
00546 | C |  | Anesth, lung,chest wall surg |  |  |  |  |
00548 | N |  | Anesth, trachea,bronchi surg |  |  |  |  |
00550 | N |  | Anesth, sternal debridement |  |  |  |  |
00560 | C |  | Anesth, open heart surgery |  |  |  |  |
00562 | C |  | Anesth, open heart surgery |  |  |  |  |
00563 | N |  | Anesth, heart proc w/pump |  |  |  |  |
00566 | N |  | Anesth, cabg w/o pump |  |  |  |  |
00580 | C |  | Anesth, heart/lung transplnt |  |  |  |  |
00600 | N |  | Anesth, spine, cord surgery |  |  |  |  |
00604 | C |  | Anesth, sitting procedure |  |  |  |  |
00620 | N |  | Anesth, spine, cord surgery |  |  |  |  |
00622 | C |  | Anesth, removal of nerves |  |  |  |  |
00630 | N |  | Anesth, spine, cord surgery |  |  |  |  |
00632 | C |  | Anesth, removal of nerves |  |  |  |  |
00634 | C |  | Anesth for chemonucleolysis |  |  |  |  |
00635 | N |  | Anesth, lumbar puncture |  |  |  |  |
00640 | N |  | Anesth, spine manipulation |  |  |  |  |
00670 | C |  | Anesth, spine, cord surgery |  |  |  |  |
00700 | N |  | Anesth, abdominal wall surg |  |  |  |  |
00702 | N |  | Anesth, for liver biopsy |  |  |  |  |
00730 | N |  | Anesth, abdominal wall surg |  |  |  |  |
00740 | N |  | Anesth, upper gi visualize |  |  |  |  |
00750 | N |  | Anesth, repair of hernia |  |  |  |  |
00752 | N |  | Anesth, repair of hernia |  |  |  |  |
00754 | N |  | Anesth, repair of hernia |  |  |  |  |
00756 | N |  | Anesth, repair of hernia |  |  |  |  |
00770 | N |  | Anesth, blood vessel repair |  |  |  |  |
00790 | N |  | Anesth, surg upper abdomen |  |  |  |  |
00792 | C |  | Anesth, hemorr/excise liver |  |  |  |  |
00794 | C |  | Anesth, pancreas removal |  |  |  |  |
00796 | C |  | Anesth, for liver transplant |  |  |  |  |
00797 | N |  | Anesth, surgery for obesity |  |  |  |  |
00800 | N |  | Anesth, abdominal wall surg |  |  |  |  |
00802 | C |  | Anesth, fat layer removal |  |  |  |  |
00810 | N |  | Anesth, low intestine scope |  |  |  |  |
00820 | N |  | Anesth, abdominal wall surg |  |  |  |  |
00830 | N |  | Anesth, repair of hernia |  |  |  |  |
00832 | N |  | Anesth, repair of hernia |  |  |  |  |
00834 | N |  | Anesth, hernia repair< 1 yr |  |  |  |  |
00836 | N |  | Anesth hernia repair preemie |  |  |  |  |
00840 | N |  | Anesth, surg lower abdomen |  |  |  |  |
00842 | N |  | Anesth, amniocentesis |  |  |  |  |
00844 | C |  | Anesth, pelvis surgery |  |  |  |  |
00846 | C |  | Anesth, hysterectomy |  |  |  |  |
00848 | C |  | Anesth, pelvic organ surg |  |  |  |  |
00851 | N |  | Anesth, tubal ligation |  |  |  |  |
00860 | N |  | Anesth, surgery of abdomen |  |  |  |  |
00862 | N |  | Anesth, kidney/ureter surg |  |  |  |  |
00864 | C |  | Anesth, removal of bladder |  |  |  |  |
00865 | C |  | Anesth, removal of prostate |  |  |  |  |
00866 | C |  | Anesth, removal of adrenal |  |  |  |  |
00868 | C |  | Anesth, kidney transplant |  |  |  |  |
00870 | N |  | Anesth, bladder stone surg |  |  |  |  |
00872 | N |  | Anesth kidney stone destruct |  |  |  |  |
00873 | N |  | Anesth kidney stone destruct |  |  |  |  |
00880 | N |  | Anesth, abdomen vessel surg |  |  |  |  |
00882 | C |  | Anesth, major vein ligation |  |  |  |  |
00902 | N |  | Anesth, anorectal surgery |  |  |  |  |
00904 | C |  | Anesth, perineal surgery |  |  |  |  |
00906 | N |  | Anesth, removal of vulva |  |  |  |  |
00908 | C |  | Anesth, removal of prostate |  |  |  |  |
00910 | N |  | Anesth, bladder surgery |  |  |  |  |
00912 | N |  | Anesth, bladder tumor surg |  |  |  |  |
00914 | N |  | Anesth, removal of prostate |  |  |  |  |
00916 | N |  | Anesth, bleeding control |  |  |  |  |
00918 | N |  | Anesth, stone removal |  |  |  |  |
00920 | N |  | Anesth, genitalia surgery |  |  |  |  |
00921 | N |  | Anesth, vasectomy |  |  |  |  |
00922 | N |  | Anesth, sperm duct surgery |  |  |  |  |
00924 | N |  | Anesth, testis exploration |  |  |  |  |
00926 | N |  | Anesth, removal of testis |  |  |  |  |
00928 | C |  | Anesth, removal of testis |  |  |  |  |
00930 | N |  | Anesth, testis suspension |  |  |  |  |
00932 | C |  | Anesth, amputation of penis |  |  |  |  |
00934 | C |  | Anesth, penis, nodes removal |  |  |  |  |
00936 | C |  | Anesth, penis, nodes removal |  |  |  |  |
00938 | N |  | Anesth, insert penis device |  |  |  |  |
00940 | N |  | Anesth, vaginal procedures |  |  |  |  |
00942 | N |  | Anesth, surg on vag/urethral |  |  |  |  |
00944 | C |  | Anesth, vaginal hysterectomy |  |  |  |  |
00948 | N |  | Anesth, repair of cervix |  |  |  |  |
00950 | N |  | Anesth, vaginal endoscopy |  |  |  |  |
00952 | N |  | Anesth, hysteroscope/graph |  |  |  |  |
01112 | N |  | Anesth, bone aspirate/bx |  |  |  |  |
01120 | N |  | Anesth, pelvis surgery |  |  |  |  |
01130 | N |  | Anesth, body cast procedure |  |  |  |  |
01140 | C |  | Anesth, amputation at pelvis |  |  |  |  |
01150 | C |  | Anesth, pelvic tumor surgery |  |  |  |  |
01160 | N |  | Anesth, pelvis procedure |  |  |  |  |
01170 | N |  | Anesth, pelvis surgery |  |  |  |  |
01180 | N |  | Anesth, pelvis nerve removal |  |  |  |  |
01190 | C |  | Anesth, pelvis nerve removal |  |  |  |  |
01200 | N |  | Anesth, hip joint procedure |  |  |  |  |
01202 | N |  | Anesth, arthroscopy of hip |  |  |  |  |
01210 | N |  | Anesth, hip joint surgery |  |  |  |  |
01212 | C |  | Anesth, hip disarticulation |  |  |  |  |
01214 | C |  | Anesth, hip arthroplasty |  |  |  |  |
01215 | N |  | Anesth, revise hip repair |  |  |  |  |
01220 | N |  | Anesth, procedure on femur |  |  |  |  |
01230 | N |  | Anesth, surgery of femur |  |  |  |  |
01232 | C |  | Anesth, amputation of femur |  |  |  |  |
01234 | C |  | Anesth, radical femur surg |  |  |  |  |
01250 | N |  | Anesth, upper leg surgery |  |  |  |  |
01260 | N |  | Anesth, upper leg veins surg |  |  |  |  |
01270 | N |  | Anesth, thigh arteries surg |  |  |  |  |
01272 | C |  | Anesth, femoral artery surg |  |  |  |  |
01274 | C |  | Anesth, femoral embolectomy |  |  |  |  |
01320 | N |  | Anesth, knee area surgery |  |  |  |  |
01340 | N |  | Anesth, knee area procedure |  |  |  |  |
01360 | N |  | Anesth, knee area surgery |  |  |  |  |
01380 | N |  | Anesth, knee joint procedure |  |  |  |  |
01382 | N |  | Anesth, knee arthroscopy |  |  |  |  |
01390 | N |  | Anesth, knee area procedure |  |  |  |  |
01392 | N |  | Anesth, knee area surgery |  |  |  |  |
01400 | N |  | Anesth, knee joint surgery |  |  |  |  |
01402 | C |  | Anesth, knee arthroplasty |  |  |  |  |
01404 | C |  | Anesth, amputation at knee |  |  |  |  |
01420 | N |  | Anesth, knee joint casting |  |  |  |  |
01430 | N |  | Anesth, knee veins surgery |  |  |  |  |
01432 | N |  | Anesth, knee vessel surg |  |  |  |  |
01440 | N |  | Anesth, knee arteries surg |  |  |  |  |
01442 | C |  | Anesth, knee artery surg |  |  |  |  |
01444 | C |  | Anesth, knee artery repair |  |  |  |  |
01462 | N |  | Anesth, lower leg procedure |  |  |  |  |
01464 | N |  | Anesth, ankle arthroscopy |  |  |  |  |
01470 | N |  | Anesth, lower leg surgery |  |  |  |  |
01472 | N |  | Anesth, achilles tendon surg |  |  |  |  |
01474 | N |  | Anesth, lower leg surgery |  |  |  |  |
01480 | N |  | Anesth, lower leg bone surg |  |  |  |  |
01482 | N |  | Anesth, radical leg surgery |  |  |  |  |
01484 | N |  | Anesth, lower leg revision |  |  |  |  |
01486 | C |  | Anesth, ankle replacement |  |  |  |  |
01490 | N |  | Anesth, lower leg casting |  |  |  |  |
01500 | N |  | Anesth, leg arteries surg |  |  |  |  |
01502 | C |  | Anesth, lwr leg embolectomy |  |  |  |  |
01520 | N |  | Anesth, lower leg vein surg |  |  |  |  |
01522 | N |  | Anesth, lower leg vein surg |  |  |  |  |
01610 | N |  | Anesth, surgery of shoulder |  |  |  |  |
01620 | N |  | Anesth, shoulder procedure |  |  |  |  |
01622 | N |  | Anesth, shoulder arthroscopy |  |  |  |  |
01630 | N |  | Anesth, surgery of shoulder |  |  |  |  |
01632 | C |  | Anesth, surgery of shoulder |  |  |  |  |
01634 | C |  | Anesth, shoulder joint amput |  |  |  |  |
01636 | C |  | Anesth, forequarter amput |  |  |  |  |
01638 | C |  | Anesth, shoulder replacement |  |  |  |  |
01650 | N |  | Anesth, shoulder artery surg |  |  |  |  |
01652 | C |  | Anesth, shoulder vessel surg |  |  |  |  |
01654 | C |  | Anesth, shoulder vessel surg |  |  |  |  |
01656 | C |  | Anesth, arm-leg vessel surg |  |  |  |  |
01670 | N |  | Anesth, shoulder vein surg |  |  |  |  |
01680 | N |  | Anesth, shoulder casting |  |  |  |  |
01682 | N |  | Anesth, airplane cast |  |  |  |  |
01710 | N |  | Anesth, elbow area surgery |  |  |  |  |
01712 | N |  | Anesth, uppr arm tendon surg |  |  |  |  |
01714 | N |  | Anesth, uppr arm tendon surg |  |  |  |  |
01716 | N |  | Anesth, biceps tendon repair |  |  |  |  |
01730 | N |  | Anesth, uppr arm procedure |  |  |  |  |
01732 | N |  | Anesth, elbow arthroscopy |  |  |  |  |
01740 | N |  | Anesth, upper arm surgery |  |  |  |  |
01742 | N |  | Anesth, humerus surgery |  |  |  |  |
01744 | N |  | Anesth, humerus repair |  |  |  |  |
01756 | C |  | Anesth, radical humerus surg |  |  |  |  |
01758 | N |  | Anesth, humeral lesion surg |  |  |  |  |
01760 | N |  | Anesth, elbow replacement |  |  |  |  |
01770 | N |  | Anesth, uppr arm artery surg |  |  |  |  |
01772 | N |  | Anesth, uppr arm embolectomy |  |  |  |  |
01780 | N |  | Anesth, upper arm vein surg |  |  |  |  |
01782 | N |  | Anesth, uppr arm vein repair |  |  |  |  |
01810 | N |  | Anesth, lower arm surgery |  |  |  |  |
01820 | N |  | Anesth, lower arm procedure |  |  |  |  |
01829 | N |  | Anesth, dx wrist arthroscopy |  |  |  |  |
01830 | N |  | Anesth, lower arm surgery |  |  |  |  |
01832 | N |  | Anesth, wrist replacement |  |  |  |  |
01840 | N |  | Anesth, lwr arm artery surg |  |  |  |  |
01842 | N |  | Anesth, lwr arm embolectomy |  |  |  |  |
01844 | N |  | Anesth, vascular shunt surg |  |  |  |  |
01850 | N |  | Anesth, lower arm vein surg |  |  |  |  |
01852 | N |  | Anesth, lwr arm vein repair |  |  |  |  |
01860 | N |  | Anesth, lower arm casting |  |  |  |  |
01905 | N |  | Anes, spine inject, x-ray/re |  |  |  |  |
01916 | N |  | Anesth, dx arteriography |  |  |  |  |
01920 | N |  | Anesth, catheterize heart |  |  |  |  |
01922 | N |  | Anesth, cat or MRI scan |  |  |  |  |
01924 | N |  | Anes, ther interven rad, art |  |  |  |  |
01925 | N |  | Anes, ther interven rad, car |  |  |  |  |
01926 | N |  | Anes, tx interv rad hrt/cran |  |  |  |  |
01930 | N |  | Anes, ther interven rad, vei |  |  |  |  |
01931 | N |  | Anes, ther interven rad, tip |  |  |  |  |
01932 | N |  | Anes, tx interv rad, th vein |  |  |  |  |
01933 | N |  | Anes, tx interv rad, cran v |  |  |  |  |
01951 | N |  | Anesth, burn, less 4 percent |  |  |  |  |
01952 | N |  | Anesth, burn, 4-9 percent |  |  |  |  |
01953 | N |  | Anesth, burn, each 9 percent |  |  |  |  |
01960 | N |  | Anesth, vaginal delivery |  |  |  |  |
01961 | N |  | Anesth, cs delivery |  |  |  |  |
01962 | N |  | Anesth, emer hysterectomy |  |  |  |  |
01963 | N |  | Anesth, cs hysterectomy |  |  |  |  |
01964 | N |  | Anesth, abortion procedures |  |  |  |  |
01967 | N |  | Anesth/analg, vag delivery |  |  |  |  |
01968 | N |  | Anes/analg cs deliver add-on |  |  |  |  |
01969 | N |  | Anesth/analg cs hyst add-on |  |  |  |  |
01990 | C |  | Support for organ donor |  |  |  |  |
01991 | N |  | Anesth, nerve block/inj |  |  |  |  |
01992 | N |  | Anesth, n block/inj, prone |  |  |  |  |
01995 | N |  | Regional anesthesia limb |  |  |  |  |
01996 | N |  | Manage daily drug therapy |  |  |  |  |
01999 | N |  | Unlisted anesth procedure |  |  |  |  |
10021 | T |  | Fna w/o image | 0002 | 1.0937 | $59.38 |  | $11.88
10022 | T |  | Fna w/image | 0002 | 1.0937 | $59.38 |  | $11.88
10040 | T |  | Acne surgery | 0010 | 0.6806 | $36.95 | $10.08 | $7.39
10060 | T |  | Drainage of skin abscess | 0006 | 1.7487 | $94.94 | $24.12 | $18.99
10061 | T |  | Drainage of skin abscess | 0006 | 1.7487 | $94.94 | $24.12 | $18.99
10080 | T |  | Drainage of pilonidal cyst | 0006 | 1.7487 | $94.94 | $24.12 | $18.99
10081 | T |  | Drainage of pilonidal cyst | 0007 | 11.4943 | $624.01 |  | $124.80
10120 | T |  | Remove foreign body | 0006 | 1.7487 | $94.94 | $24.12 | $18.99
10121 | T |  | Remove foreign body | 0021 | 14.5749 | $791.26 | $219.48 | $158.25
10140 | T |  | Drainage of hematoma/fluid | 0007 | 11.4943 | $624.01 |  | $124.80
10160 | T |  | Puncture drainage of lesion | 0018 | 0.9567 | $51.94 | $16.04 | $10.39
10180 | T |  | Complex drainage, wound | 0007 | 11.4943 | $624.01 |  | $124.80
11000 | T |  | Debride infected skin | 0015 | 1.5832 | $85.95 | $20.35 | $17.19
11001 | T |  | Debride infected skin add-on | 0012 | 0.8203 | $44.53 | $11.18 | $8.91
11010 | T |  | Debride skin, fx | 0022 | 18.6725 | $1,013.71 | $354.45 | $202.74
11011 | T |  | Debride skin/muscle, fx | 0022 | 18.6725 | $1,013.71 | $354.45 | $202.74
11012 | T |  | Debride skin/muscle/bone, fx | 0022 | 18.6725 | $1,013.71 | $354.45 | $202.74
11040 | T |  | Debride skin, partial | 0015 | 1.5832 | $85.95 | $20.35 | $17.19
11041 | T |  | Debride skin, full | 0015 | 1.5832 | $85.95 | $20.35 | $17.19
11042 | T |  | Debride skin/tissue | 0016 | 2.7343 | $148.44 | $57.31 | $29.69
11043 | T |  | Debride tissue/muscle | 0016 | 2.7343 | $148.44 | $57.31 | $29.69
11044 | T |  | Debride tissue/muscle/bone | 0682 | 7.6815 | $417.02 | $174.57 | $83.40
11055 | T |  | Trim skin lesion | 0012 | 0.8203 | $44.53 | $11.18 | $8.91
11056 | T |  | Trim skin lesions, 2 to 4 | 0012 | 0.8203 | $44.53 | $11.18 | $8.91
11057 | T |  | Trim skin lesions, over 4 | 0012 | 0.8203 | $44.53 | $11.18 | $8.91
11100 | T |  | Biopsy of skin lesion | 0018 | 0.9567 | $51.94 | $16.04 | $10.39
11101 | T |  | Biopsy, skin add-on | 0018 | 0.9567 | $51.94 | $16.04 | $10.39
11200 | T |  | Removal of skin tags | 0013 | 1.1420 | $62.00 | $14.20 | $12.40
11201 | T |  | Remove skin tags add-on | 0015 | 1.5832 | $85.95 | $20.35 | $17.19
11300 | T |  | Shave skin lesion | 0012 | 0.8203 | $44.53 | $11.18 | $8.91
11301 | T |  | Shave skin lesion | 0012 | 0.8203 | $44.53 | $11.18 | $8.91
11302 | T |  | Shave skin lesion | 0012 | 0.8203 | $44.53 | $11.18 | $8.91
11303 | T |  | Shave skin lesion | 0015 | 1.5832 | $85.95 | $20.35 | $17.19
11305 | T |  | Shave skin lesion | 0013 | 1.1420 | $62.00 | $14.20 | $12.40
11306 | T |  | Shave skin lesion | 0013 | 1.1420 | $62.00 | $14.20 | $12.40
11307 | T |  | Shave skin lesion | 0013 | 1.1420 | $62.00 | $14.20 | $12.40
11308 | T |  | Shave skin lesion | 0013 | 1.1420 | $62.00 | $14.20 | $12.40
11310 | T |  | Shave skin lesion | 0013 | 1.1420 | $62.00 | $14.20 | $12.40
11311 | T |  | Shave skin lesion | 0013 | 1.1420 | $62.00 | $14.20 | $12.40
11312 | T |  | Shave skin lesion | 0013 | 1.1420 | $62.00 | $14.20 | $12.40
11313 | T |  | Shave skin lesion | 0016 | 2.7343 | $148.44 | $57.31 | $29.69
11400 | T |  | Removal of skin lesion | 0019 | 3.9807 | $216.11 | $71.87 | $43.22
11401 | T |  | Removal of skin lesion | 0019 | 3.9807 | $216.11 | $71.87 | $43.22
11402 | T |  | Removal of skin lesion | 0019 | 3.9807 | $216.11 | $71.87 | $43.22
11403 | T |  | Removal of skin lesion | 0020 | 7.3105 | $396.88 | $113.25 | $79.38
11404 | T |  | Removal of skin lesion | 0020 | 7.3105 | $396.88 | $113.25 | $79.38
11406 | T |  | Removal of skin lesion | 0021 | 14.5749 | $791.26 | $219.48 | $158.25
11420 | T |  | Removal of skin lesion | 0020 | 7.3105 | $396.88 | $113.25 | $79.38
11421 | T |  | Removal of skin lesion | 0020 | 7.3105 | $396.88 | $113.25 | $79.38
11422 | T |  | Removal of skin lesion | 0020 | 7.3105 | $396.88 | $113.25 | $79.38
11423 | T |  | Removal of skin lesion | 0020 | 7.3105 | $396.88 | $113.25 | $79.38
11424 | T |  | Removal of skin lesion | 0021 | 14.5749 | $791.26 | $219.48 | $158.25
11426 | T |  | Removal of skin lesion | 0022 | 18.6725 | $1,013.71 | $354.45 | $202.74
11440 | T |  | Removal of skin lesion | 0019 | 3.9807 | $216.11 | $71.87 | $43.22
11441 | T |  | Removal of skin lesion | 0019 | 3.9807 | $216.11 | $71.87 | $43.22
11442 | T |  | Removal of skin lesion | 0020 | 7.3105 | $396.88 | $113.25 | $79.38
11443 | T |  | Removal of skin lesion | 0020 | 7.3105 | $396.88 | $113.25 | $79.38
11444 | T |  | Removal of skin lesion | 0020 | 7.3105 | $396.88 | $113.25 | $79.38
11446 | T |  | Removal of skin lesion | 0022 | 18.6725 | $1,013.71 | $354.45 | $202.74
11450 | T |  | Removal, sweat gland lesion | 0022 | 18.6725 | $1,013.71 | $354.45 | $202.74
11451 | T |  | Removal, sweat gland lesion | 0022 | 18.6725 | $1,013.71 | $354.45 | $202.74
11462 | T |  | Removal, sweat gland lesion | 0022 | 18.6725 | $1,013.71 | $354.45 | $202.74
11463 | T |  | Removal, sweat gland lesion | 0022 | 18.6725 | $1,013.71 | $354.45 | $202.74
11470 | T |  | Removal, sweat gland lesion | 0022 | 18.6725 | $1,013.71 | $354.45 | $202.74
11471 | T |  | Removal, sweat gland lesion | 0022 | 18.6725 | $1,013.71 | $354.45 | $202.74
11600 | T |  | Removal of skin lesion | 0019 | 3.9807 | $216.11 | $71.87 | $43.22
11601 | T |  | Removal of skin lesion | 0019 | 3.9807 | $216.11 | $71.87 | $43.22
11602 | T |  | Removal of skin lesion | 0019 | 3.9807 | $216.11 | $71.87 | $43.22
11603 | T |  | Removal of skin lesion | 0020 | 7.3105 | $396.88 | $113.25 | $79.38
11604 | T |  | Removal of skin lesion | 0020 | 7.3105 | $396.88 | $113.25 | $79.38
11606 | T |  | Removal of skin lesion | 0021 | 14.5749 | $791.26 | $219.48 | $158.25
11620 | T |  | Removal of skin lesion | 0020 | 7.3105 | $396.88 | $113.25 | $79.38
11621 | T |  | Removal of skin lesion | 0019 | 3.9807 | $216.11 | $71.87 | $43.22
11622 | T |  | Removal of skin lesion | 0020 | 7.3105 | $396.88 | $113.25 | $79.38
11623 | T |  | Removal of skin lesion | 0020 | 7.3105 | $396.88 | $113.25 | $79.38
11624 | T |  | Removal of skin lesion | 0021 | 14.5749 | $791.26 | $219.48 | $158.25
11626 | T |  | Removal of skin lesion | 0022 | 18.6725 | $1,013.71 | $354.45 | $202.74
11640 | T |  | Removal of skin lesion | 0020 | 7.3105 | $396.88 | $113.25 | $79.38
11641 | T |  | Removal of skin lesion | 0020 | 7.3105 | $396.88 | $113.25 | $79.38
11642 | T |  | Removal of skin lesion | 0020 | 7.3105 | $396.88 | $113.25 | $79.38
11643 | T |  | Removal of skin lesion | 0020 | 7.3105 | $396.88 | $113.25 | $79.38
11644 | T |  | Removal of skin lesion | 0021 | 14.5749 | $791.26 | $219.48 | $158.25
11646 | T |  | Removal of skin lesion | 0022 | 18.6725 | $1,013.71 | $354.45 | $202.74
11719 | T |  | Trim nail(s) | 0009 | 0.6597 | $35.81 | $8.34 | $7.16
11720 | T |  | Debride nail, 1-5 | 0009 | 0.6597 | $35.81 | $8.34 | $7.16
11721 | T |  | Debride nail, 6 or more | 0009 | 0.6597 | $35.81 | $8.34 | $7.16
11730 | T |  | Removal of nail plate | 0013 | 1.1420 | $62.00 | $14.20 | $12.40
11732 | T |  | Remove nail plate, add-on | 0012 | 0.8203 | $44.53 | $11.18 | $8.91
11740 | T |  | Drain blood from under nail | 0009 | 0.6597 | $35.81 | $8.34 | $7.16
11750 | T |  | Removal of nail bed | 0019 | 3.9807 | $216.11 | $71.87 | $43.22
11752 | T |  | Remove nail bed/finger tip | 0022 | 18.6725 | $1,013.71 | $354.45 | $202.74
11755 | T |  | Biopsy, nail unit | 0019 | 3.9807 | $216.11 | $71.87 | $43.22
11760 | T |  | Repair of nail bed | 0024 | 1.7847 | $96.89 | $34.75 | $19.38
11762 | T |  | Reconstruction of nail bed | 0024 | 1.7847 | $96.89 | $34.75 | $19.38
11765 | T |  | Excision of nail fold, toe | 0015 | 1.5832 | $85.95 | $20.35 | $17.19
11770 | T |  | Removal of pilonidal lesion | 0022 | 18.6725 | $1,013.71 | $354.45 | $202.74
11771 | T |  | Removal of pilonidal lesion | 0022 | 18.6725 | $1,013.71 | $354.45 | $202.74
11772 | T |  | Removal of pilonidal lesion | 0022 | 18.6725 | $1,013.71 | $354.45 | $202.74
11900 | T |  | Injection into skin lesions | 0012 | 0.8203 | $44.53 | $11.18 | $8.91
11901 | T |  | Added skin lesions injection | 0012 | 0.8203 | $44.53 | $11.18 | $8.91
11920 | T |  | Correct skin color defects | 0024 | 1.7847 | $96.89 | $34.75 | $19.38
11921 | T |  | Correct skin color defects | 0024 | 1.7847 | $96.89 | $34.75 | $19.38
11922 | T |  | Correct skin color defects | 0024 | 1.7847 | $96.89 | $34.75 | $19.38
11950 | T |  | Therapy for contour defects | 0024 | 1.7847 | $96.89 | $34.75 | $19.38
11951 | T |  | Therapy for contour defects | 0024 | 1.7847 | $96.89 | $34.75 | $19.38
11952 | T |  | Therapy for contour defects | 0024 | 1.7847 | $96.89 | $34.75 | $19.38
11954 | T |  | Therapy for contour defects | 0024 | 1.7847 | $96.89 | $34.75 | $19.38
11960 | T |  | Insert tissue expander(s) | 0027 | 15.8319 | $859.50 | $329.72 | $171.90
11970 | T |  | Replace tissue expander | 0027 | 15.8319 | $859.50 | $329.72 | $171.90
11971 | T |  | Remove tissue expander(s) | 0022 | 18.6725 | $1,013.71 | $354.45 | $202.74
11975 | E |  | Insert contraceptive cap |  |  |  |  |
11976 | T |  | Removal of contraceptive cap | 0019 | 3.9807 | $216.11 | $71.87 | $43.22
11977 | E |  | Removal/reinsert contra cap |  |  |  |  |
11980 | X |  | Implant hormone pellet(s) | 0340 | 0.6232 | $33.83 |  | $6.77
11981 | X |  | Insert drug implant device | 0340 | 0.6232 | $33.83 |  | $6.77
11982 | X |  | Remove drug implant device | 0340 | 0.6232 | $33.83 |  | $6.77
11983 | X |  | Remove/insert drug implant | 0340 | 0.6232 | $33.83 |  | $6.77
12001 | T |  | Repair superficial wound(s) | 0024 | 1.7847 | $96.89 | $34.75 | $19.38
12002 | T |  | Repair superficial wound(s) | 0024 | 1.7847 | $96.89 | $34.75 | $19.38
12004 | T |  | Repair superficial wound(s) | 0024 | 1.7847 | $96.89 | $34.75 | $19.38
12005 | T |  | Repair superficial wound(s) | 0024 | 1.7847 | $96.89 | $34.75 | $19.38
12006 | T |  | Repair superficial wound(s) | 0024 | 1.7847 | $96.89 | $34.75 | $19.38
12007 | T |  | Repair superficial wound(s) | 0024 | 1.7847 | $96.89 | $34.75 | $19.38
12011 | T |  | Repair superficial wound(s) | 0024 | 1.7847 | $96.89 | $34.75 | $19.38
12013 | T |  | Repair superficial wound(s) | 0024 | 1.7847 | $96.89 | $34.75 | $19.38
12014 | T |  | Repair superficial wound(s) | 0024 | 1.7847 | $96.89 | $34.75 | $19.38
12015 | T |  | Repair superficial wound(s) | 0024 | 1.7847 | $96.89 | $34.75 | $19.38
12016 | T |  | Repair superficial wound(s) | 0024 | 1.7847 | $96.89 | $34.75 | $19.38
12017 | T |  | Repair superficial wound(s) | 0024 | 1.7847 | $96.89 | $34.75 | $19.38
12018 | T |  | Repair superficial wound(s) | 0024 | 1.7847 | $96.89 | $34.75 | $19.38
12020 | T |  | Closure of split wound | 0024 | 1.7847 | $96.89 | $34.75 | $19.38
12021 | T |  | Closure of split wound | 0024 | 1.7847 | $96.89 | $34.75 | $19.38
12031 | T |  | Layer closure of wound(s) | 0024 | 1.7847 | $96.89 | $34.75 | $19.38
12032 | T |  | Layer closure of wound(s) | 0024 | 1.7847 | $96.89 | $34.75 | $19.38
12034 | T |  | Layer closure of wound(s) | 0024 | 1.7847 | $96.89 | $34.75 | $19.38
12035 | T |  | Layer closure of wound(s) | 0024 | 1.7847 | $96.89 | $34.75 | $19.38
12036 | T |  | Layer closure of wound(s) | 0024 | 1.7847 | $96.89 | $34.75 | $19.38
12037 | T |  | Layer closure of wound(s) | 0025 | 6.2703 | $340.41 | $115.49 | $68.08
12041 | T |  | Layer closure of wound(s) | 0024 | 1.7847 | $96.89 | $34.75 | $19.38
12042 | T |  | Layer closure of wound(s) | 0024 | 1.7847 | $96.89 | $34.75 | $19.38
12044 | T |  | Layer closure of wound(s) | 0024 | 1.7847 | $96.89 | $34.75 | $19.38
12045 | T |  | Layer closure of wound(s) | 0024 | 1.7847 | $96.89 | $34.75 | $19.38
12046 | T |  | Layer closure of wound(s) | 0024 | 1.7847 | $96.89 | $34.75 | $19.38
12047 | T |  | Layer closure of wound(s) | 0025 | 6.2703 | $340.41 | $115.49 | $68.08
12051 | T |  | Layer closure of wound(s) | 0024 | 1.7847 | $96.89 | $34.75 | $19.38
12052 | T |  | Layer closure of wound(s) | 0024 | 1.7847 | $96.89 | $34.75 | $19.38
12053 | T |  | Layer closure of wound(s) | 0024 | 1.7847 | $96.89 | $34.75 | $19.38
12054 | T |  | Layer closure of wound(s) | 0024 | 1.7847 | $96.89 | $34.75 | $19.38
12055 | T |  | Layer closure of wound(s) | 0024 | 1.7847 | $96.89 | $34.75 | $19.38
12056 | T |  | Layer closure of wound(s) | 0024 | 1.7847 | $96.89 | $34.75 | $19.38
12057 | T |  | Layer closure of wound(s) | 0025 | 6.2703 | $340.41 | $115.49 | $68.08
13100 | T |  | Repair of wound or lesion | 0025 | 6.2703 | $340.41 | $115.49 | $68.08
13101 | T |  | Repair of wound or lesion | 0025 | 6.2703 | $340.41 | $115.49 | $68.08
13102 | T |  | Repair wound/lesion add-on | 0024 | 1.7847 | $96.89 | $34.75 | $19.38
13120 | T |  | Repair of wound or lesion | 0024 | 1.7847 | $96.89 | $34.75 | $19.38
13121 | T |  | Repair of wound or lesion | 0024 | 1.7847 | $96.89 | $34.75 | $19.38
13122 | T |  | Repair wound/lesion add-on | 0024 | 1.7847 | $96.89 | $34.75 | $19.38
13131 | T |  | Repair of wound or lesion | 0024 | 1.7847 | $96.89 | $34.75 | $19.38
13132 | T |  | Repair of wound or lesion | 0024 | 1.7847 | $96.89 | $34.75 | $19.38
13133 | T |  | Repair wound/lesion add-on | 0024 | 1.7847 | $96.89 | $34.75 | $19.38
13150 | T |  | Repair of wound or lesion | 0025 | 6.2703 | $340.41 | $115.49 | $68.08
13151 | T |  | Repair of wound or lesion | 0024 | 1.7847 | $96.89 | $34.75 | $19.38
13152 | T |  | Repair of wound or lesion | 0025 | 6.2703 | $340.41 | $115.49 | $68.08
13153 | T |  | Repair wound/lesion add-on | 0024 | 1.7847 | $96.89 | $34.75 | $19.38
13160 | T |  | Late closure of wound | 0027 | 15.8319 | $859.50 | $329.72 | $171.90
14000 | T |  | Skin tissue rearrangement | 0027 | 15.8319 | $859.50 | $329.72 | $171.90
14001 | T |  | Skin tissue rearrangement | 0027 | 15.8319 | $859.50 | $329.72 | $171.90
14020 | T |  | Skin tissue rearrangement | 0027 | 15.8319 | $859.50 | $329.72 | $171.90
14021 | T |  | Skin tissue rearrangement | 0027 | 15.8319 | $859.50 | $329.72 | $171.90
14040 | T |  | Skin tissue rearrangement | 0027 | 15.8319 | $859.50 | $329.72 | $171.90
14041 | T |  | Skin tissue rearrangement | 0027 | 15.8319 | $859.50 | $329.72 | $171.90
14060 | T |  | Skin tissue rearrangement | 0027 | 15.8319 | $859.50 | $329.72 | $171.90
14061 | T |  | Skin tissue rearrangement | 0027 | 15.8319 | $859.50 | $329.72 | $171.90
14300 | T |  | Skin tissue rearrangement | 0027 | 15.8319 | $859.50 | $329.72 | $171.90
14350 | T |  | Skin tissue rearrangement | 0027 | 15.8319 | $859.50 | $329.72 | $171.90
15000 | T |  | Skin graft | 0025 | 6.2703 | $340.41 | $115.49 | $68.08
15001 | T |  | Skin graft add-on | 0025 | 6.2703 | $340.41 | $115.49 | $68.08
15050 | T |  | Skin pinch graft | 0025 | 6.2703 | $340.41 | $115.49 | $68.08
15100 | T |  | Skin split graft | 0027 | 15.8319 | $859.50 | $329.72 | $171.90
15101 | T |  | Skin split graft add-on | 0027 | 15.8319 | $859.50 | $329.72 | $171.90
15120 | T |  | Skin split graft | 0027 | 15.8319 | $859.50 | $329.72 | $171.90
15121 | T |  | Skin split graft add-on | 0027 | 15.8319 | $859.50 | $329.72 | $171.90
15200 | T |  | Skin full graft | 0027 | 15.8319 | $859.50 | $329.72 | $171.90
15201 | T |  | Skin full graft add-on | 0025 | 6.2703 | $340.41 | $115.49 | $68.08
15220 | T |  | Skin full graft | 0027 | 15.8319 | $859.50 | $329.72 | $171.90
15221 | T |  | Skin full graft add-on | 0025 | 6.2703 | $340.41 | $115.49 | $68.08
15240 | T |  | Skin full graft | 0027 | 15.8319 | $859.50 | $329.72 | $171.90
15241 | T |  | Skin full graft add-on | 0025 | 6.2703 | $340.41 | $115.49 | $68.08
15260 | T |  | Skin full graft | 0027 | 15.8319 | $859.50 | $329.72 | $171.90
15261 | T |  | Skin full graft add-on | 0025 | 6.2703 | $340.41 | $115.49 | $68.08
15342 | T |  | Cultured skin graft, 25 cm | 0024 | 1.7847 | $96.89 | $34.75 | $19.38
15343 | T |  | Culture skn graft addl 25 cm | 0024 | 1.7847 | $96.89 | $34.75 | $19.38
15350 | T |  | Skin homograft | 0686 | 17.0868 | $927.63 | $341.70 | $185.53
15351 | T |  | Skin homograft add-on | 0027 | 15.8319 | $859.50 | $329.72 | $171.90
15400 | T |  | Skin heterograft | 0025 | 6.2703 | $340.41 | $115.49 | $68.08
15401 | T |  | Skin heterograft add-on | 0025 | 6.2703 | $340.41 | $115.49 | $68.08
15570 | T |  | Form skin pedicle flap | 0027 | 15.8319 | $859.50 | $329.72 | $171.90
15572 | T |  | Form skin pedicle flap | 0027 | 15.8319 | $859.50 | $329.72 | $171.90
15574 | T |  | Form skin pedicle flap | 0027 | 15.8319 | $859.50 | $329.72 | $171.90
15576 | T |  | Form skin pedicle flap | 0027 | 15.8319 | $859.50 | $329.72 | $171.90
15600 | T |  | Skin graft | 0027 | 15.8319 | $859.50 | $329.72 | $171.90
15610 | T |  | Skin graft | 0027 | 15.8319 | $859.50 | $329.72 | $171.90
15620 | T |  | Skin graft | 0027 | 15.8319 | $859.50 | $329.72 | $171.90
15630 | T |  | Skin graft | 0027 | 15.8319 | $859.50 | $329.72 | $171.90
15650 | T |  | Transfer skin pedicle flap | 0027 | 15.8319 | $859.50 | $329.72 | $171.90
15732 | T |  | Muscle-skin graft, head/neck | 0027 | 15.8319 | $859.50 | $329.72 | $171.90
15734 | T |  | Muscle-skin graft, trunk | 0027 | 15.8319 | $859.50 | $329.72 | $171.90
15736 | T |  | Muscle-skin graft, arm | 0027 | 15.8319 | $859.50 | $329.72 | $171.90
15738 | T |  | Muscle-skin graft, leg | 0027 | 15.8319 | $859.50 | $329.72 | $171.90
15740 | T |  | Island pedicle flap graft | 0027 | 15.8319 | $859.50 | $329.72 | $171.90
15750 | T |  | Neurovascular pedicle graft | 0027 | 15.8319 | $859.50 | $329.72 | $171.90
15756 | C |  | Free muscle flap, microvasc |  |  |  |  |
15757 | C |  | Free skin flap, microvasc |  |  |  |  |
15758 | C |  | Free fascial flap, microvasc |  |  |  |  |
15760 | T |  | Composite skin graft | 0027 | 15.8319 | $859.50 | $329.72 | $171.90
15770 | T |  | Derma-fat-fascia graft | 0027 | 15.8319 | $859.50 | $329.72 | $171.90
15775 | T |  | Hair transplant punch grafts | 0025 | 6.2703 | $340.41 | $115.49 | $68.08
15776 | T |  | Hair transplant punch grafts | 0025 | 6.2703 | $340.41 | $115.49 | $68.08
15780 | T |  | Abrasion treatment of skin | 0022 | 18.6725 | $1,013.71 | $354.45 | $202.74
15781 | T |  | Abrasion treatment of skin | 0022 | 18.6725 | $1,013.71 | $354.45 | $202.74
15782 | T |  | Abrasion treatment of skin | 0022 | 18.6725 | $1,013.71 | $354.45 | $202.74
15783 | T |  | Abrasion treatment of skin | 0016 | 2.7343 | $148.44 | $57.31 | $29.69
15786 | T |  | Abrasion, lesion, single | 0012 | 0.8203 | $44.53 | $11.18 | $8.91
15787 | T |  | Abrasion, lesions, add-on | 0013 | 1.1420 | $62.00 | $14.20 | $12.40
15788 | T |  | Chemical peel, face, epiderm | 0012 | 0.8203 | $44.53 | $11.18 | $8.91
15789 | T |  | Chemical peel, face, dermal | 0015 | 1.5832 | $85.95 | $20.35 | $17.19
15792 | T |  | Chemical peel, nonfacial | 0012 | 0.8203 | $44.53 | $11.18 | $8.91
15793 | T |  | Chemical peel, nonfacial | 0012 | 0.8203 | $44.53 | $11.18 | $8.91
15810 | T |  | Salabrasion | 0016 | 2.7343 | $148.44 | $57.31 | $29.69
15811 | T |  | Salabrasion | 0016 | 2.7343 | $148.44 | $57.31 | $29.69
15819 | T |  | Plastic surgery, neck | 0025 | 6.2703 | $340.41 | $115.49 | $68.08
15820 | T |  | Revision of lower eyelid | 0027 | 15.8319 | $859.50 | $329.72 | $171.90
15821 | T |  | Revision of lower eyelid | 0027 | 15.8319 | $859.50 | $329.72 | $171.90
15822 | T |  | Revision of upper eyelid | 0027 | 15.8319 | $859.50 | $329.72 | $171.90
15823 | T |  | Revision of upper eyelid | 0027 | 15.8319 | $859.50 | $329.72 | $171.90
15824 | T |  | Removal of forehead wrinkles | 0027 | 15.8319 | $859.50 | $329.72 | $171.90
15825 | T |  | Removal of neck wrinkles | 0027 | 15.8319 | $859.50 | $329.72 | $171.90
15826 | T |  | Removal of brow wrinkles | 0027 | 15.8319 | $859.50 | $329.72 | $171.90
15828 | T |  | Removal of face wrinkles | 0027 | 15.8319 | $859.50 | $329.72 | $171.90
15829 | T |  | Removal of skin wrinkles | 0027 | 15.8319 | $859.50 | $329.72 | $171.90
15831 | T |  | Excise excessive skin tissue | 0022 | 18.6725 | $1,013.71 | $354.45 | $202.74
15832 | T |  | Excise excessive skin tissue | 0022 | 18.6725 | $1,013.71 | $354.45 | $202.74
15833 | T |  | Excise excessive skin tissue | 0022 | 18.6725 | $1,013.71 | $354.45 | $202.74
15834 | T |  | Excise excessive skin tissue | 0022 | 18.6725 | $1,013.71 | $354.45 | $202.74
15835 | T |  | Excise excessive skin tissue | 0025 | 6.2703 | $340.41 | $115.49 | $68.08
15836 | T |  | Excise excessive skin tissue | 0020 | 7.3105 | $396.88 | $113.25 | $79.38
15837 | T |  | Excise excessive skin tissue | 0020 | 7.3105 | $396.88 | $113.25 | $79.38
15838 | T |  | Excise excessive skin tissue | 0020 | 7.3105 | $396.88 | $113.25 | $79.38
15839 | T |  | Excise excessive skin tissue | 0020 | 7.3105 | $396.88 | $113.25 | $79.38
15840 | T |  | Graft for face nerve palsy | 0027 | 15.8319 | $859.50 | $329.72 | $171.90
15841 | T |  | Graft for face nerve palsy | 0027 | 15.8319 | $859.50 | $329.72 | $171.90
15842 | T |  | Flap for face nerve palsy | 0027 | 15.8319 | $859.50 | $329.72 | $171.90
15845 | T |  | Skin and muscle repair, face | 0027 | 15.8319 | $859.50 | $329.72 | $171.90
15850 | T |  | Removal of sutures | 0016 | 2.7343 | $148.44 | $57.31 | $29.69
15851 | T |  | Removal of sutures | 0012 | 0.8203 | $44.53 | $11.18 | $8.91
15852 | X |  | Dressing change,not for burn | 0340 | 0.6232 | $33.83 |  | $6.77
15860 | S |  | Test for blood flow in graft | 1501 |  | $25.00 |  | $5.00
15876 | T |  | Suction assisted lipectomy | 0027 | 15.8319 | $859.50 | $329.72 | $171.90
15877 | T |  | Suction assisted lipectomy | 0027 | 15.8319 | $859.50 | $329.72 | $171.90
15878 | T |  | Suction assisted lipectomy | 0027 | 15.8319 | $859.50 | $329.72 | $171.90
15879 | T |  | Suction assisted lipectomy | 0027 | 15.8319 | $859.50 | $329.72 | $171.90
15920 | T |  | Removal of tail bone ulcer | 0022 | 18.6725 | $1,013.71 | $354.45 | $202.74
15922 | T |  | Removal of tail bone ulcer | 0027 | 15.8319 | $859.50 | $329.72 | $171.90
15931 | T |  | Remove sacrum pressure sore | 0022 | 18.6725 | $1,013.71 | $354.45 | $202.74
15933 | T |  | Remove sacrum pressure sore | 0022 | 18.6725 | $1,013.71 | $354.45 | $202.74
15934 | T |  | Remove sacrum pressure sore | 0027 | 15.8319 | $859.50 | $329.72 | $171.90
15935 | T |  | Remove sacrum pressure sore | 0027 | 15.8319 | $859.50 | $329.72 | $171.90
15936 | T |  | Remove sacrum pressure sore | 0027 | 15.8319 | $859.50 | $329.72 | $171.90
15937 | T |  | Remove sacrum pressure sore | 0027 | 15.8319 | $859.50 | $329.72 | $171.90
15940 | T |  | Remove hip pressure sore | 0022 | 18.6725 | $1,013.71 | $354.45 | $202.74
15941 | T |  | Remove hip pressure sore | 0022 | 18.6725 | $1,013.71 | $354.45 | $202.74
15944 | T |  | Remove hip pressure sore | 0027 | 15.8319 | $859.50 | $329.72 | $171.90
15945 | T |  | Remove hip pressure sore | 0027 | 15.8319 | $859.50 | $329.72 | $171.90
15946 | T |  | Remove hip pressure sore | 0027 | 15.8319 | $859.50 | $329.72 | $171.90
15950 | T |  | Remove thigh pressure sore | 0022 | 18.6725 | $1,013.71 | $354.45 | $202.74
15951 | T |  | Remove thigh pressure sore | 0022 | 18.6725 | $1,013.71 | $354.45 | $202.74
15952 | T |  | Remove thigh pressure sore | 0027 | 15.8319 | $859.50 | $329.72 | $171.90
15953 | T |  | Remove thigh pressure sore | 0027 | 15.8319 | $859.50 | $329.72 | $171.90
15956 | T |  | Remove thigh pressure sore | 0027 | 15.8319 | $859.50 | $329.72 | $171.90
15958 | T |  | Remove thigh pressure sore | 0027 | 15.8319 | $859.50 | $329.72 | $171.90
15999 | T |  | Removal of pressure sore | 0022 | 18.6725 | $1,013.71 | $354.45 | $202.74
16000 | T |  | Initial treatment of burn(s) | 0012 | 0.8203 | $44.53 | $11.18 | $8.91
16010 | T |  | Treatment of burn(s) | 0016 | 2.7343 | $148.44 | $57.31 | $29.69
16015 | T |  | Treatment of burn(s) | 0017 | 16.7332 | $908.43 | $227.84 | $181.69
16020 | T |  | Treatment of burn(s) | 0013 | 1.1420 | $62.00 | $14.20 | $12.40
16025 | T |  | Treatment of burn(s) | 0012 | 0.8203 | $44.53 | $11.18 | $8.91
16030 | T |  | Treatment of burn(s) | 0015 | 1.5832 | $85.95 | $20.35 | $17.19
16035 | C |  | Incision of burn scab, initi |  |  |  |  |
16036 | C |  | Incise burn scab, addl incis |  |  |  |  |
17000 | T |  | Destroy benign/premlg lesion | 0010 | 0.6806 | $36.95 | $10.08 | $7.39
17003 | T |  | Destroy lesions, 2-14 | 0010 | 0.6806 | $36.95 | $10.08 | $7.39
17004 | T |  | Destroy lesions, 15 or more | 0011 | 2.1800 | $118.35 | $27.88 | $23.67
17106 | T |  | Destruction of skin lesions | 0011 | 2.1800 | $118.35 | $27.88 | $23.67
17107 | T |  | Destruction of skin lesions | 0011 | 2.1800 | $118.35 | $27.88 | $23.67
17108 | T |  | Destruction of skin lesions | 0011 | 2.1800 | $118.35 | $27.88 | $23.67
17110 | T |  | Destruct lesion, 1-14 | 0010 | 0.6806 | $36.95 | $10.08 | $7.39
17111 | T |  | Destruct lesion, 15 or more | 0011 | 2.1800 | $118.35 | $27.88 | $23.67
17250 | T |  | Chemical cautery, tissue | 0013 | 1.1420 | $62.00 | $14.20 | $12.40
17260 | T |  | Destruction of skin lesions | 0015 | 1.5832 | $85.95 | $20.35 | $17.19
17261 | T |  | Destruction of skin lesions | 0015 | 1.5832 | $85.95 | $20.35 | $17.19
17262 | T |  | Destruction of skin lesions | 0015 | 1.5832 | $85.95 | $20.35 | $17.19
17263 | T |  | Destruction of skin lesions | 0015 | 1.5832 | $85.95 | $20.35 | $17.19
17264 | T |  | Destruction of skin lesions | 0015 | 1.5832 | $85.95 | $20.35 | $17.19
17266 | T |  | Destruction of skin lesions | 0016 | 2.7343 | $148.44 | $57.31 | $29.69
17270 | T |  | Destruction of skin lesions | 0015 | 1.5832 | $85.95 | $20.35 | $17.19
17271 | T |  | Destruction of skin lesions | 0013 | 1.1420 | $62.00 | $14.20 | $12.40
17272 | T |  | Destruction of skin lesions | 0015 | 1.5832 | $85.95 | $20.35 | $17.19
17273 | T |  | Destruction of skin lesions | 0015 | 1.5832 | $85.95 | $20.35 | $17.19
17274 | T |  | Destruction of skin lesions | 0016 | 2.7343 | $148.44 | $57.31 | $29.69
17276 | T |  | Destruction of skin lesions | 0016 | 2.7343 | $148.44 | $57.31 | $29.69
17280 | T |  | Destruction of skin lesions | 0015 | 1.5832 | $85.95 | $20.35 | $17.19
17281 | T |  | Destruction of skin lesions | 0015 | 1.5832 | $85.95 | $20.35 | $17.19
17282 | T |  | Destruction of skin lesions | 0015 | 1.5832 | $85.95 | $20.35 | $17.19
17283 | T |  | Destruction of skin lesions | 0015 | 1.5832 | $85.95 | $20.35 | $17.19
17284 | T |  | Destruction of skin lesions | 0016 | 2.7343 | $148.44 | $57.31 | $29.69
17286 | T |  | Destruction of skin lesions | 0015 | 1.5832 | $85.95 | $20.35 | $17.19
17304 | T |  | Chemosurgery of skin lesion | 0694 | 3.3272 | $180.63 | $72.25 | $36.13
17305 | T |  | 2 stage mohs, up to 5 spec | 0694 | 3.3272 | $180.63 | $72.25 | $36.13
17306 | T |  | 3 stage mohs, up to 5 spec | 0694 | 3.3272 | $180.63 | $72.25 | $36.13
17307 | T |  | Mohs addl stage up to 5 spec | 0694 | 3.3272 | $180.63 | $72.25 | $36.13
17310 | T |  | Extensive skin chemosurgery | 0694 | 3.3272 | $180.63 | $72.25 | $36.13
17340 | T |  | Cryotherapy of skin | 0012 | 0.8203 | $44.53 | $11.18 | $8.91
17360 | T |  | Skin peel therapy | 0012 | 0.8203 | $44.53 | $11.18 | $8.91
17380 | T |  | Hair removal by electrolysis | 0012 | 0.8203 | $44.53 | $11.18 | $8.91
17999 | T |  | Skin tissue procedure | 0006 | 1.7487 | $94.94 | $24.12 | $18.99
19000 | T |  | Drainage of breast lesion | 0004 | 1.5774 | $85.64 | $22.10 | $17.13
19001 | T |  | Drain breast lesion add-on | 0004 | 1.5774 | $85.64 | $22.10 | $17.13
19020 | T |  | Incision of breast lesion | 0008 | 16.8303 | $913.70 |  | $182.74
19030 | N |  | Injection for breast x-ray |  |  |  |  |
19100 | T |  | Bx breast percut w/o image | 0005 | 3.3675 | $182.82 | $71.59 | $36.56
19101 | T |  | Biopsy of breast, open | 0028 | 17.7459 | $963.41 | $303.74 | $192.68
19102 | T |  | Bx breast percut w/image | 0005 | 3.3675 | $182.82 | $71.59 | $36.56
19103 | T |  | Bx breast percut w/device | 0658 | 5.6035 | $304.21 |  | $60.84
19110 | T |  | Nipple exploration | 0028 | 17.7459 | $963.41 | $303.74 | $192.68
19112 | T |  | Excise breast duct fistula | 0028 | 17.7459 | $963.41 | $303.74 | $192.68
19120 | T |  | Removal of breast lesion | 0028 | 17.7459 | $963.41 | $303.74 | $192.68
19125 | T |  | Excision, breast lesion | 0028 | 17.7459 | $963.41 | $303.74 | $192.68
19126 | T |  | Excision, addl breast lesion | 0028 | 17.7459 | $963.41 | $303.74 | $192.68
19140 | T |  | Removal of breast tissue | 0028 | 17.7459 | $963.41 | $303.74 | $192.68
19160 | T |  | Removal of breast tissue | 0028 | 17.7459 | $963.41 | $303.74 | $192.68
19162 | T |  | Remove breast tissue, nodes | 0693 | 38.6469 | $2,098.10 | $798.17 | $419.62
19180 | T |  | Removal of breast | 0029 | 29.2783 | $1,589.49 | $632.64 | $317.90
19182 | T |  | Removal of breast | 0029 | 29.2783 | $1,589.49 | $632.64 | $317.90
19200 | C |  | Removal of breast |  |  |  |  |
19220 | C |  | Removal of breast |  |  |  |  |
19240 | T |  | Removal of breast | 0030 | 37.2809 | $2,023.94 | $763.55 | $404.79
19260 | T |  | Removal of chest wall lesion | 0021 | 14.5749 | $791.26 | $219.48 | $158.25
19271 | C |  | Revision of chest wall |  |  |  |  |
19272 | C |  | Extensive chest wall surgery |  |  |  |  |
19290 | N |  | Place needle wire, breast |  |  |  |  |
19291 | N |  | Place needle wire, breast |  |  |  |  |
19295 | S |  | Place breast clip, percut | 0657 | 1.5630 | $84.85 |  | $16.97
19316 | T |  | Suspension of breast | 0029 | 29.2783 | $1,589.49 | $632.64 | $317.90
19318 | T |  | Reduction of large breast | 0693 | 38.6469 | $2,098.10 | $798.17 | $419.62
19324 | T |  | Enlarge breast | 0693 | 38.6469 | $2,098.10 | $798.17 | $419.62
19325 | T |  | Enlarge breast with implant | 0648 | 55.5345 | $3,014.91 |  | $602.98
19328 | T |  | Removal of breast implant | 0029 | 29.2783 | $1,589.49 | $632.64 | $317.90
19330 | T |  | Removal of implant material | 0029 | 29.2783 | $1,589.49 | $632.64 | $317.90
19340 | T |  | Immediate breast prosthesis | 0030 | 37.2809 | $2,023.94 | $763.55 | $404.79
19342 | T |  | Delayed breast prosthesis | 0648 | 55.5345 | $3,014.91 |  | $602.98
19350 | T |  | Breast reconstruction | 0029 | 29.2783 | $1,589.49 | $632.64 | $317.90
19355 | T |  | Correct inverted nipple(s) | 0029 | 29.2783 | $1,589.49 | $632.64 | $317.90
19357 | T |  | Breast reconstruction | 0648 | 55.5345 | $3,014.91 |  | $602.98
19361 | C |  | Breast reconstruction |  |  |  |  |
19364 | C |  | Breast reconstruction |  |  |  |  |
19366 | T |  | Breast reconstruction | 0029 | 29.2783 | $1,589.49 | $632.64 | $317.90
19367 | C |  | Breast reconstruction |  |  |  |  |
19368 | C |  | Breast reconstruction |  |  |  |  |
19369 | C |  | Breast reconstruction |  |  |  |  |
19370 | T |  | Surgery of breast capsule | 0029 | 29.2783 | $1,589.49 | $632.64 | $317.90
19371 | T |  | Removal of breast capsule | 0029 | 29.2783 | $1,589.49 | $632.64 | $317.90
19380 | T |  | Revise breast reconstruction | 0030 | 37.2809 | $2,023.94 | $763.55 | $404.79
19396 | T |  | Design custom breast implant | 0029 | 29.2783 | $1,589.49 | $632.64 | $317.90
19499 | T |  | Breast surgery procedure | 0028 | 17.7459 | $963.41 | $303.74 | $192.68
20000 | T |  | Incision of abscess | 0006 | 1.7487 | $94.94 | $24.12 | $18.99
20005 | T |  | Incision of deep abscess | 0049 | 19.9376 | $1,082.39 |  | $216.48
20100 | T |  | Explore wound, neck | 0023 | 3.1587 | $171.48 | $40.37 | $34.30
20101 | T |  | Explore wound, chest | 0027 | 15.8319 | $859.50 | $329.72 | $171.90
20102 | T |  | Explore wound, abdomen | 0027 | 15.8319 | $859.50 | $329.72 | $171.90
20103 | T |  | Explore wound, extremity | 0023 | 3.1587 | $171.48 | $40.37 | $34.30
20150 | T |  | Excise epiphyseal bar | 0051 | 34.9381 | $1,896.75 |  | $379.35
20200 | T |  | Muscle biopsy | 0021 | 14.5749 | $791.26 | $219.48 | $158.25
20205 | T |  | Deep muscle biopsy | 0021 | 14.5749 | $791.26 | $219.48 | $158.25
20206 | T |  | Needle biopsy, muscle | 0005 | 3.3675 | $182.82 | $71.59 | $36.56
20220 | T |  | Bone biopsy, trocar/needle | 0019 | 3.9807 | $216.11 | $71.87 | $43.22
20225 | T |  | Bone biopsy, trocar/needle | 0020 | 7.3105 | $396.88 | $113.25 | $79.38
20240 | T |  | Bone biopsy, excisional | 0022 | 18.6725 | $1,013.71 | $354.45 | $202.74
20245 | T |  | Bone biopsy, excisional | 0022 | 18.6725 | $1,013.71 | $354.45 | $202.74
20250 | T |  | Open bone biopsy | 0049 | 19.9376 | $1,082.39 |  | $216.48
20251 | T |  | Open bone biopsy | 0049 | 19.9376 | $1,082.39 |  | $216.48
20500 | T |  | Injection of sinus tract | 0251 | 1.8643 | $101.21 |  | $20.24
20501 | N |  | Inject sinus tract for x-ray |  |  |  |  |
20520 | T |  | Removal of foreign body | 0019 | 3.9807 | $216.11 | $71.87 | $43.22
20525 | T |  | Removal of foreign body | 0022 | 18.6725 | $1,013.71 | $354.45 | $202.74
20526 | T |  | Ther injection, carp tunnel | 0204 | 2.2209 | $120.57 | $40.13 | $24.11
20550 | T |  | Inject tendon/ligament/cyst | 0204 | 2.2209 | $120.57 | $40.13 | $24.11
20551 | T |  | Inject tendon origin/insert | 0204 | 2.2209 | $120.57 | $40.13 | $24.11
20552 | T |  | Inject trigger point, 1 or 2 | 0204 | 2.2209 | $120.57 | $40.13 | $24.11
20553 | T |  | Inject trigger points, > 3 | 0204 | 2.2209 | $120.57 | $40.13 | $24.11
20600 | T |  | Drain/inject, joint/bursa | 0204 | 2.2209 | $120.57 | $40.13 | $24.11
20605 | T |  | Drain/inject, joint/bursa | 0204 | 2.2209 | $120.57 | $40.13 | $24.11
20610 | T |  | Drain/inject, joint/bursa | 0204 | 2.2209 | $120.57 | $40.13 | $24.11
20612 | T |  | Aspirate/inj ganglion cyst | 0204 | 2.2209 | $120.57 | $40.13 | $24.11
20615 | T |  | Treatment of bone cyst | 0004 | 1.5774 | $85.64 | $22.10 | $17.13
20650 | T |  | Insert and remove bone pin | 0049 | 19.9376 | $1,082.39 |  | $216.48
20660 | C |  | Apply, rem fixation device |  |  |  |  |
20661 | C |  | Application of head brace |  |  |  |  |
20662 | C |  | Application of pelvis brace |  |  |  |  |
20663 | C |  | Application of thigh brace |  |  |  |  |
20664 | C |  | Halo brace application |  |  |  |  |
20665 | X |  | Removal of fixation device | 0340 | 0.6232 | $33.83 |  | $6.77
20670 | T |  | Removal of support implant | 0021 | 14.5749 | $791.26 | $219.48 | $158.25
20680 | T |  | Removal of support implant | 0022 | 18.6725 | $1,013.71 | $354.45 | $202.74
20690 | T |  | Apply bone fixation device | 0050 | 25.1166 | $1,363.56 |  | $272.71
20692 | T |  | Apply bone fixation device | 0050 | 25.1166 | $1,363.56 |  | $272.71
20693 | T |  | Adjust bone fixation device | 0049 | 19.9376 | $1,082.39 |  | $216.48
20694 | T |  | Remove bone fixation device | 0049 | 19.9376 | $1,082.39 |  | $216.48
20802 | C |  | Replantation, arm, complete |  |  |  |  |
20805 | C |  | Replant forearm, complete |  |  |  |  |
20808 | C |  | Replantation hand, complete |  |  |  |  |
20816 | C |  | Replantation digit, complete |  |  |  |  |
20822 | C |  | Replantation digit, complete |  |  |  |  |
20824 | C |  | Replantation thumb, complete |  |  |  |  |
20827 | C |  | Replantation thumb, complete |  |  |  |  |
20838 | C |  | Replantation foot, complete |  |  |  |  |
20900 | T |  | Removal of bone for graft | 0050 | 25.1166 | $1,363.56 |  | $272.71
20902 | T |  | Removal of bone for graft | 0050 | 25.1166 | $1,363.56 |  | $272.71
20910 | T |  | Remove cartilage for graft | 0027 | 15.8319 | $859.50 | $329.72 | $171.90
20912 | T |  | Remove cartilage for graft | 0027 | 15.8319 | $859.50 | $329.72 | $171.90
20920 | T |  | Removal of fascia for graft | 0027 | 15.8319 | $859.50 | $329.72 | $171.90
20922 | T |  | Removal of fascia for graft | 0027 | 15.8319 | $859.50 | $329.72 | $171.90
20924 | T |  | Removal of tendon for graft | 0050 | 25.1166 | $1,363.56 |  | $272.71
20926 | T |  | Removal of tissue for graft | 0027 | 15.8319 | $859.50 | $329.72 | $171.90
20930 | C |  | Spinal bone allograft |  |  |  |  |
20931 | C |  | Spinal bone allograft |  |  |  |  |
20936 | C |  | Spinal bone autograft |  |  |  |  |
20937 | C |  | Spinal bone autograft |  |  |  |  |
20938 | C |  | Spinal bone autograft |  |  |  |  |
20950 | T |  | Fluid pressure, muscle | 0006 | 1.7487 | $94.94 | $24.12 | $18.99
20955 | C |  | Fibula bone graft, microvasc |  |  |  |  |
20956 | C |  | Iliac bone graft, microvasc |  |  |  |  |
20957 | C |  | Mt bone graft, microvasc |  |  |  |  |
20962 | C |  | Other bone graft, microvasc |  |  |  |  |
20969 | C |  | Bone/skin graft, microvasc |  |  |  |  |
20970 | C |  | Bone/skin graft, iliac crest |  |  |  |  |
20972 | C |  | Bone/skin graft, metatarsal |  |  |  |  |
20973 | C |  | Bone/skin graft, great toe |  |  |  |  |
20974 | A |  | Electrical bone stimulation |  |  |  |  |
20975 | T |  | Electrical bone stimulation | 0049 | 19.9376 | $1,082.39 |  | $216.48
20979 | A |  | Us bone stimulation |  |  |  |  |
20999 | T |  | Musculoskeletal surgery | 0049 | 19.9376 | $1,082.39 |  | $216.48
21010 | T |  | Incision of jaw joint | 0254 | 21.4368 | $1,163.78 | $321.35 | $232.76
21015 | T |  | Resection of facial tumor | 0253 | 15.1698 | $823.55 | $282.29 | $164.71
21025 | T |  | Excision of bone, lower jaw | 0256 | 35.0866 | $1,904.82 |  | $380.96
21026 | T |  | Excision of facial bone(s) | 0256 | 35.0866 | $1,904.82 |  | $380.96
21029 | T |  | Contour of face bone lesion | 0256 | 35.0866 | $1,904.82 |  | $380.96
21030 | T |  | Removal of face bone lesion | 0254 | 21.4368 | $1,163.78 | $321.35 | $232.76
21031 | T |  | Remove exostosis, mandible | 0254 | 21.4368 | $1,163.78 | $321.35 | $232.76
21032 | T |  | Remove exostosis, maxilla | 0254 | 21.4368 | $1,163.78 | $321.35 | $232.76
21034 | T |  | Removal of face bone lesion | 0256 | 35.0866 | $1,904.82 |  | $380.96
21040 | T |  | Removal of jaw bone lesion | 0254 | 21.4368 | $1,163.78 | $321.35 | $232.76
21044 | T |  | Removal of jaw bone lesion | 0256 | 35.0866 | $1,904.82 |  | $380.96
21045 | C |  | Extensive jaw surgery |  |  |  |  |
21046 | T |  | Remove mandible cyst complex | 0256 | 35.0866 | $1,904.82 |  | $380.96
21047 | T |  | Excise lwr jaw cyst w/repair | 0256 | 35.0866 | $1,904.82 |  | $380.96
21048 | T |  | Remove maxilla cyst complex | 0256 | 35.0866 | $1,904.82 |  | $380.96
21049 | T |  | Excis uppr jaw cyst w/repair | 0256 | 35.0866 | $1,904.82 |  | $380.96
21050 | T |  | Removal of jaw joint | 0256 | 35.0866 | $1,904.82 |  | $380.96
21060 | T |  | Remove jaw joint cartilage | 0256 | 35.0866 | $1,904.82 |  | $380.96
21070 | T |  | Remove coronoid process | 0256 | 35.0866 | $1,904.82 |  | $380.96
21076 | T |  | Prepare face/oral prosthesis | 0254 | 21.4368 | $1,163.78 | $321.35 | $232.76
21077 | T |  | Prepare face/oral prosthesis | 0256 | 35.0866 | $1,904.82 |  | $380.96
21079 | T |  | Prepare face/oral prosthesis | 0256 | 35.0866 | $1,904.82 |  | $380.96
21080 | T |  | Prepare face/oral prosthesis | 0256 | 35.0866 | $1,904.82 |  | $380.96
21081 | T |  | Prepare face/oral prosthesis | 0256 | 35.0866 | $1,904.82 |  | $380.96
21082 | T |  | Prepare face/oral prosthesis | 0256 | 35.0866 | $1,904.82 |  | $380.96
21083 | T |  | Prepare face/oral prosthesis | 0256 | 35.0866 | $1,904.82 |  | $380.96
21084 | T |  | Prepare face/oral prosthesis | 0256 | 35.0866 | $1,904.82 |  | $380.96
21085 | T |  | Prepare face/oral prosthesis | 0253 | 15.1698 | $823.55 | $282.29 | $164.71
21086 | T |  | Prepare face/oral prosthesis | 0256 | 35.0866 | $1,904.82 |  | $380.96
21087 | T |  | Prepare face/oral prosthesis | 0256 | 35.0866 | $1,904.82 |  | $380.96
21088 | T |  | Prepare face/oral prosthesis | 0256 | 35.0866 | $1,904.82 |  | $380.96
21089 | T |  | Prepare face/oral prosthesis | 0253 | 15.1698 | $823.55 | $282.29 | $164.71
21100 | T |  | Maxillofacial fixation | 0256 | 35.0866 | $1,904.82 |  | $380.96
21110 | T |  | Interdental fixation | 0252 | 6.5416 | $355.14 | $113.41 | $71.03
21116 | N |  | Injection, jaw joint x-ray |  |  |  |  |
21120 | T |  | Reconstruction of chin | 0254 | 21.4368 | $1,163.78 | $321.35 | $232.76
21121 | T |  | Reconstruction of chin | 0254 | 21.4368 | $1,163.78 | $321.35 | $232.76
21122 | T |  | Reconstruction of chin | 0254 | 21.4368 | $1,163.78 | $321.35 | $232.76
21123 | T |  | Reconstruction of chin | 0254 | 21.4368 | $1,163.78 | $321.35 | $232.76
21125 | T |  | Augmentation, lower jaw bone | 0254 | 21.4368 | $1,163.78 | $321.35 | $232.76
21127 | T |  | Augmentation, lower jaw bone | 0256 | 35.0866 | $1,904.82 |  | $380.96
21137 | T |  | Reduction of forehead | 0254 | 21.4368 | $1,163.78 | $321.35 | $232.76
21138 | T |  | Reduction of forehead | 0256 | 35.0866 | $1,904.82 |  | $380.96
21139 | T |  | Reduction of forehead | 0256 | 35.0866 | $1,904.82 |  | $380.96
21141 | C |  | Reconstruct midface, lefort |  |  |  |  |
21142 | C |  | Reconstruct midface, lefort |  |  |  |  |
21143 | C |  | Reconstruct midface, lefort |  |  |  |  |
21145 | C |  | Reconstruct midface, lefort |  |  |  |  |
21146 | C |  | Reconstruct midface, lefort |  |  |  |  |
21147 | C |  | Reconstruct midface, lefort |  |  |  |  |
21150 | C |  | Reconstruct midface, lefort |  |  |  |  |
21151 | C |  | Reconstruct midface, lefort |  |  |  |  |
21154 | C |  | Reconstruct midface, lefort |  |  |  |  |
21155 | C |  | Reconstruct midface, lefort |  |  |  |  |
21159 | C |  | Reconstruct midface, lefort |  |  |  |  |
21160 | C |  | Reconstruct midface, lefort |  |  |  |  |
21172 | C |  | Reconstruct orbit/forehead |  |  |  |  |
21175 | C |  | Reconstruct orbit/forehead |  |  |  |  |
21179 | C |  | Reconstruct entire forehead |  |  |  |  |
21180 | C |  | Reconstruct entire forehead |  |  |  |  |
21181 | T |  | Contour cranial bone lesion | 0254 | 21.4368 | $1,163.78 | $321.35 | $232.76
21182 | C |  | Reconstruct cranial bone |  |  |  |  |
21183 | C |  | Reconstruct cranial bone |  |  |  |  |
21184 | C |  | Reconstruct cranial bone |  |  |  |  |
21188 | C |  | Reconstruction of midface |  |  |  |  |
21193 | C |  | Reconst lwr jaw w/o graft |  |  |  |  |
21194 | C |  | Reconst lwr jaw w/graft |  |  |  |  |
21195 | C |  | Reconst lwr jaw w/o fixation |  |  |  |  |
21196 | C |  | Reconst lwr jaw w/fixation |  |  |  |  |
21198 | T |  | Reconstr lwr jaw segment | 0256 | 35.0866 | $1,904.82 |  | $380.96
21199 | T |  | Reconstr lwr jaw w/advance | 0256 | 35.0866 | $1,904.82 |  | $380.96
21206 | T |  | Reconstruct upper jaw bone | 0256 | 35.0866 | $1,904.82 |  | $380.96
21208 | T |  | Augmentation of facial bones | 0256 | 35.0866 | $1,904.82 |  | $380.96
21209 | T |  | Reduction of facial bones | 0256 | 35.0866 | $1,904.82 |  | $380.96
21210 | T |  | Face bone graft | 0256 | 35.0866 | $1,904.82 |  | $380.96
21215 | T |  | Lower jaw bone graft | 0256 | 35.0866 | $1,904.82 |  | $380.96
21230 | T |  | Rib cartilage graft | 0256 | 35.0866 | $1,904.82 |  | $380.96
21235 | T |  | Ear cartilage graft | 0254 | 21.4368 | $1,163.78 | $321.35 | $232.76
21240 | T |  | Reconstruction of jaw joint | 0256 | 35.0866 | $1,904.82 |  | $380.96
21242 | T |  | Reconstruction of jaw joint | 0256 | 35.0866 | $1,904.82 |  | $380.96
21243 | T |  | Reconstruction of jaw joint | 0256 | 35.0866 | $1,904.82 |  | $380.96
21244 | T |  | Reconstruction of lower jaw | 0256 | 35.0866 | $1,904.82 |  | $380.96
21245 | T |  | Reconstruction of jaw | 0256 | 35.0866 | $1,904.82 |  | $380.96
21246 | T |  | Reconstruction of jaw | 0256 | 35.0866 | $1,904.82 |  | $380.96
21247 | C |  | Reconstruct lower jaw bone |  |  |  |  |
21248 | T |  | Reconstruction of jaw | 0256 | 35.0866 | $1,904.82 |  | $380.96
21249 | T |  | Reconstruction of jaw | 0256 | 35.0866 | $1,904.82 |  | $380.96
21255 | C |  | Reconstruct lower jaw bone |  |  |  |  |
21256 | C |  | Reconstruction of orbit |  |  |  |  |
21260 | T |  | Revise eye sockets | 0256 | 35.0866 | $1,904.82 |  | $380.96
21261 | T |  | Revise eye sockets | 0256 | 35.0866 | $1,904.82 |  | $380.96
21263 | T |  | Revise eye sockets | 0256 | 35.0866 | $1,904.82 |  | $380.96
21267 | T |  | Revise eye sockets | 0256 | 35.0866 | $1,904.82 |  | $380.96
21268 | C |  | Revise eye sockets |  |  |  |  |
21270 | T |  | Augmentation, cheek bone | 0256 | 35.0866 | $1,904.82 |  | $380.96
21275 | T |  | Revision, orbitofacial bones | 0256 | 35.0866 | $1,904.82 |  | $380.96
21280 | T |  | Revision of eyelid | 0256 | 35.0866 | $1,904.82 |  | $380.96
21282 | T |  | Revision of eyelid | 0253 | 15.1698 | $823.55 | $282.29 | $164.71
21295 | T |  | Revision of jaw muscle/bone | 0252 | 6.5416 | $355.14 | $113.41 | $71.03
21296 | T |  | Revision of jaw muscle/bone | 0254 | 21.4368 | $1,163.78 | $321.35 | $232.76
21299 | T |  | Cranio/maxillofacial surgery | 0253 | 15.1698 | $823.55 | $282.29 | $164.71
21300 | T |  | Treatment of skull fracture | 0253 | 15.1698 | $823.55 | $282.29 | $164.71
21310 | X |  | Treatment of nose fracture | 0340 | 0.6232 | $33.83 |  | $6.77
21315 | X |  | Treatment of nose fracture | 0340 | 0.6232 | $33.83 |  | $6.77
21320 | X |  | Treatment of nose fracture | 0340 | 0.6232 | $33.83 |  | $6.77
21325 | T |  | Treatment of nose fracture | 0254 | 21.4368 | $1,163.78 | $321.35 | $232.76
21330 | T |  | Treatment of nose fracture | 0254 | 21.4368 | $1,163.78 | $321.35 | $232.76
21335 | T |  | Treatment of nose fracture | 0254 | 21.4368 | $1,163.78 | $321.35 | $232.76
21336 | T |  | Treat nasal septal fracture | 0046 | 31.9719 | $1,735.72 | $535.76 | $347.14
21337 | T |  | Treat nasal septal fracture | 0253 | 15.1698 | $823.55 | $282.29 | $164.71
21338 | T |  | Treat nasoethmoid fracture | 0254 | 21.4368 | $1,163.78 | $321.35 | $232.76
21339 | T |  | Treat nasoethmoid fracture | 0254 | 21.4368 | $1,163.78 | $321.35 | $232.76
21340 | T |  | Treatment of nose fracture | 0256 | 35.0866 | $1,904.82 |  | $380.96
21343 | C |  | Treatment of sinus fracture |  |  |  |  |
21344 | C |  | Treatment of sinus fracture |  |  |  |  |
21345 | T |  | Treat nose/jaw fracture | 0254 | 21.4368 | $1,163.78 | $321.35 | $232.76
21346 | C |  | Treat nose/jaw fracture |  |  |  |  |
21347 | C |  | Treat nose/jaw fracture |  |  |  |  |
21348 | C |  | Treat nose/jaw fracture |  |  |  |  |
21355 | T |  | Treat cheek bone fracture | 0256 | 35.0866 | $1,904.82 |  | $380.96
21356 | C |  | Treat cheek bone fracture |  |  |  |  |
21360 | C |  | Treat cheek bone fracture |  |  |  |  |
21365 | C |  | Treat cheek bone fracture |  |  |  |  |
21366 | C |  | Treat cheek bone fracture |  |  |  |  |
21385 | C |  | Treat eye socket fracture |  |  |  |  |
21386 | C |  | Treat eye socket fracture |  |  |  |  |
21387 | C |  | Treat eye socket fracture |  |  |  |  |
21390 | T |  | Treat eye socket fracture | 0256 | 35.0866 | $1,904.82 |  | $380.96
21395 | C |  | Treat eye socket fracture |  |  |  |  |
21400 | T |  | Treat eye socket fracture | 0252 | 6.5416 | $355.14 | $113.41 | $71.03
21401 | T |  | Treat eye socket fracture | 0253 | 15.1698 | $823.55 | $282.29 | $164.71
21406 | T |  | Treat eye socket fracture | 0256 | 35.0866 | $1,904.82 |  | $380.96
21407 | T |  | Treat eye socket fracture | 0256 | 35.0866 | $1,904.82 |  | $380.96
21408 | C |  | Treat eye socket fracture |  |  |  |  |
21421 | T |  | Treat mouth roof fracture | 0254 | 21.4368 | $1,163.78 | $321.35 | $232.76
21422 | C |  | Treat mouth roof fracture |  |  |  |  |
21423 | C |  | Treat mouth roof fracture |  |  |  |  |
21431 | C |  | Treat craniofacial fracture |  |  |  |  |
21432 | C |  | Treat craniofacial fracture |  |  |  |  |
21433 | C |  | Treat craniofacial fracture |  |  |  |  |
21435 | C |  | Treat craniofacial fracture |  |  |  |  |
21436 | C |  | Treat craniofacial fracture |  |  |  |  |
21440 | T |  | Treat dental ridge fracture | 0254 | 21.4368 | $1,163.78 | $321.35 | $232.76
21445 | T |  | Treat dental ridge fracture | 0254 | 21.4368 | $1,163.78 | $321.35 | $232.76
21450 | T |  | Treat lower jaw fracture | 0251 | 1.8643 | $101.21 |  | $20.24
21451 | T |  | Treat lower jaw fracture | 0252 | 6.5416 | $355.14 | $113.41 | $71.03
21452 | T |  | Treat lower jaw fracture | 0253 | 15.1698 | $823.55 | $282.29 | $164.71
21453 | T |  | Treat lower jaw fracture | 0256 | 35.0866 | $1,904.82 |  | $380.96
21454 | T |  | Treat lower jaw fracture | 0254 | 21.4368 | $1,163.78 | $321.35 | $232.76
21461 | T |  | Treat lower jaw fracture | 0256 | 35.0866 | $1,904.82 |  | $380.96
21462 | T |  | Treat lower jaw fracture | 0256 | 35.0866 | $1,904.82 |  | $380.96
21465 | T |  | Treat lower jaw fracture | 0256 | 35.0866 | $1,904.82 |  | $380.96
21470 | T |  | Treat lower jaw fracture | 0256 | 35.0866 | $1,904.82 |  | $380.96
21480 | T |  | Reset dislocated jaw | 0251 | 1.8643 | $101.21 |  | $20.24
21485 | T |  | Reset dislocated jaw | 0253 | 15.1698 | $823.55 | $282.29 | $164.71
21490 | T |  | Repair dislocated jaw | 0256 | 35.0866 | $1,904.82 |  | $380.96
21493 | T |  | Treat hyoid bone fracture | 0252 | 6.5416 | $355.14 | $113.41 | $71.03
21494 | T |  | Treat hyoid bone fracture | 0252 | 6.5416 | $355.14 | $113.41 | $71.03
21495 | C |  | Treat hyoid bone fracture |  |  |  |  |
21497 | T |  | Interdental wiring | 0253 | 15.1698 | $823.55 | $282.29 | $164.71
21499 | T |  | Head surgery procedure | 0253 | 15.1698 | $823.55 | $282.29 | $164.71
21501 | T |  | Drain neck/chest lesion | 0008 | 16.8303 | $913.70 |  | $182.74
21502 | T |  | Drain chest lesion | 0049 | 19.9376 | $1,082.39 |  | $216.48
21510 | C |  | Drainage of bone lesion |  |  |  |  |
21550 | T |  | Biopsy of neck/chest | 0021 | 14.5749 | $791.26 | $219.48 | $158.25
21555 | T |  | Remove lesion, neck/chest | 0022 | 18.6725 | $1,013.71 | $354.45 | $202.74
21556 | T |  | Remove lesion, neck/chest | 0022 | 18.6725 | $1,013.71 | $354.45 | $202.74
21557 | C |  | Remove tumor, neck/chest |  |  |  |  |
21600 | T |  | Partial removal of rib | 0050 | 25.1166 | $1,363.56 |  | $272.71
21610 | T |  | Partial removal of rib | 0050 | 25.1166 | $1,363.56 |  | $272.71
21615 | C |  | Removal of rib |  |  |  |  |
21616 | C |  | Removal of rib and nerves |  |  |  |  |
21620 | C |  | Partial removal of sternum |  |  |  |  |
21627 | C |  | Sternal debridement |  |  |  |  |
21630 | C |  | Extensive sternum surgery |  |  |  |  |
21632 | C |  | Extensive sternum surgery |  |  |  |  |
21700 | T |  | Revision of neck muscle | 0049 | 19.9376 | $1,082.39 |  | $216.48
21705 | C |  | Revision of neck muscle/rib |  |  |  |  |
21720 | T |  | Revision of neck muscle | 0049 | 19.9376 | $1,082.39 |  | $216.48
21725 | T |  | Revision of neck muscle | 0006 | 1.7487 | $94.94 | $24.12 | $18.99
21740 | C |  | Reconstruction of sternum |  |  |  |  |
21742 | T |  | Repair stern/nuss w/o scope | 0051 | 34.9381 | $1,896.75 |  | $379.35
21743 | T |  | Repair sternum/nuss w/scope | 0051 | 34.9381 | $1,896.75 |  | $379.35
21750 | C |  | Repair of sternum separation |  |  |  |  |
21800 | T |  | Treatment of rib fracture | 0043 | 1.9233 | $104.41 |  | $20.88
21805 | T |  | Treatment of rib fracture | 0046 | 31.9719 | $1,735.72 | $535.76 | $347.14
21810 | C |  | Treatment of rib fracture(s) |  |  |  |  |
21820 | T |  | Treat sternum fracture | 0043 | 1.9233 | $104.41 |  | $20.88
21825 | C |  | Treat sternum fracture |  |  |  |  |
21899 | T |  | Neck/chest surgery procedure | 0252 | 6.5416 | $355.14 | $113.41 | $71.03
21920 | T |  | Biopsy soft tissue of back | 0020 | 7.3105 | $396.88 | $113.25 | $79.38
21925 | T |  | Biopsy soft tissue of back | 0022 | 18.6725 | $1,013.71 | $354.45 | $202.74
21930 | T |  | Remove lesion, back or flank | 0022 | 18.6725 | $1,013.71 | $354.45 | $202.74
21935 | T |  | Remove tumor, back | 0022 | 18.6725 | $1,013.71 | $354.45 | $202.74
22100 | T |  | Remove part of neck vertebra | 0208 | 40.6521 | $2,206.96 |  | $441.39
22101 | T |  | Remove part, thorax vertebra | 0208 | 40.6521 | $2,206.96 |  | $441.39
22102 | T |  | Remove part, lumbar vertebra | 0208 | 40.6521 | $2,206.96 |  | $441.39
22103 | T |  | Remove extra spine segment | 0208 | 40.6521 | $2,206.96 |  | $441.39
22110 | C |  | Remove part of neck vertebra |  |  |  |  |
22112 | C |  | Remove part, thorax vertebra |  |  |  |  |
22114 | C |  | Remove part, lumbar vertebra |  |  |  |  |
22116 | C |  | Remove extra spine segment |  |  |  |  |
22210 | C |  | Revision of neck spine |  |  |  |  |
22212 | C |  | Revision of thorax spine |  |  |  |  |
22214 | C |  | Revision of lumbar spine |  |  |  |  |
22216 | C |  | Revise, extra spine segment |  |  |  |  |
22220 | C |  | Revision of neck spine |  |  |  |  |
22222 | C |  | Revision of thorax spine |  |  |  |  |
22224 | C |  | Revision of lumbar spine |  |  |  |  |
22226 | C |  | Revise, extra spine segment |  |  |  |  |
22305 | T |  | Treat spine process fracture | 0043 | 1.9233 | $104.41 |  | $20.88
22310 | T |  | Treat spine fracture | 0043 | 1.9233 | $104.41 |  | $20.88
22315 | T |  | Treat spine fracture | 0043 | 1.9233 | $104.41 |  | $20.88
22318 | C |  | Treat odontoid fx w/o graft |  |  |  |  |
22319 | C |  | Treat odontoid fx w/graft |  |  |  |  |
22325 | C |  | Treat spine fracture |  |  |  |  |
22326 | C |  | Treat neck spine fracture |  |  |  |  |
22327 | C |  | Treat thorax spine fracture |  |  |  |  |
22328 | C |  | Treat each add spine fx |  |  |  |  |
22505 | T |  | Manipulation of spine | 0045 | 13.5546 | $735.87 | $268.47 | $147.17
22520 | T |  | Percut vertebroplasty thor | 0050 | 25.1166 | $1,363.56 |  | $272.71
22521 | T |  | Percut vertebroplasty lumb | 0050 | 25.1166 | $1,363.56 |  | $272.71
22522 | T |  | Percut vertebroplasty addl | 0050 | 25.1166 | $1,363.56 |  | $272.71
22548 | C |  | Neck spine fusion |  |  |  |  |
22554 | C |  | Neck spine fusion |  |  |  |  |
22556 | C |  | Thorax spine fusion |  |  |  |  |
22558 | C |  | Lumbar spine fusion |  |  |  |  |
22585 | C |  | Additional spinal fusion |  |  |  |  |
22590 | C |  | Spine & skull spinal fusion |  |  |  |  |
22595 | C |  | Neck spinal fusion |  |  |  |  |
22600 | C |  | Neck spine fusion |  |  |  |  |
22610 | C |  | Thorax spine fusion |  |  |  |  |
22612 | T |  | Lumbar spine fusion | 0208 | 40.6521 | $2,206.96 |  | $441.39
22614 | T |  | Spine fusion, extra segment | 0208 | 40.6521 | $2,206.96 |  | $441.39
22630 | C |  | Lumbar spine fusion |  |  |  |  |
22632 | C |  | Spine fusion, extra segment |  |  |  |  |
22800 | C |  | Fusion of spine |  |  |  |  |
22802 | C |  | Fusion of spine |  |  |  |  |
22804 | C |  | Fusion of spine |  |  |  |  |
22808 | C |  | Fusion of spine |  |  |  |  |
22810 | C |  | Fusion of spine |  |  |  |  |
22812 | C |  | Fusion of spine |  |  |  |  |
22818 | C |  | Kyphectomy, 1-2 segments |  |  |  |  |
22819 | C |  | Kyphectomy, 3 or more |  |  |  |  |
22830 | C |  | Exploration of spinal fusion |  |  |  |  |
22840 | C |  | Insert spine fixation device |  |  |  |  |
22841 | C |  | Insert spine fixation device |  |  |  |  |
22842 | C |  | Insert spine fixation device |  |  |  |  |
22843 | C |  | Insert spine fixation device |  |  |  |  |
22844 | C |  | Insert spine fixation device |  |  |  |  |
22845 | C |  | Insert spine fixation device |  |  |  |  |
22846 | C |  | Insert spine fixation device |  |  |  |  |
22847 | C |  | Insert spine fixation device |  |  |  |  |
22848 | C |  | Insert pelv fixation device |  |  |  |  |
22849 | C |  | Reinsert spinal fixation |  |  |  |  |
22850 | C |  | Remove spine fixation device |  |  |  |  |
22851 | C |  | Apply spine prosth device |  |  |  |  |
22852 | C |  | Remove spine fixation device |  |  |  |  |
22855 | C |  | Remove spine fixation device |  |  |  |  |
22899 | T |  | Spine surgery procedure | 0043 | 1.9233 | $104.41 |  | $20.88
22900 | T |  | Remove abdominal wall lesion | 0022 | 18.6725 | $1,013.71 | $354.45 | $202.74
22999 | T |  | Abdomen surgery procedure | 0022 | 18.6725 | $1,013.71 | $354.45 | $202.74
23000 | T |  | Removal of calcium deposits | 0021 | 14.5749 | $791.26 | $219.48 | $158.25
23020 | T |  | Release shoulder joint | 0051 | 34.9381 | $1,896.75 |  | $379.35
23030 | T |  | Drain shoulder lesion | 0008 | 16.8303 | $913.70 |  | $182.74
23031 | T |  | Drain shoulder bursa | 0008 | 16.8303 | $913.70 |  | $182.74
23035 | T |  | Drain shoulder bone lesion | 0049 | 19.9376 | $1,082.39 |  | $216.48
23040 | T |  | Exploratory shoulder surgery | 0050 | 25.1166 | $1,363.56 |  | $272.71
23044 | T |  | Exploratory shoulder surgery | 0050 | 25.1166 | $1,363.56 |  | $272.71
23065 | T |  | Biopsy shoulder tissues | 0021 | 14.5749 | $791.26 | $219.48 | $158.25
23066 | T |  | Biopsy shoulder tissues | 0022 | 18.6725 | $1,013.71 | $354.45 | $202.74
23075 | T |  | Removal of shoulder lesion | 0021 | 14.5749 | $791.26 | $219.48 | $158.25
23076 | T |  | Removal of shoulder lesion | 0022 | 18.6725 | $1,013.71 | $354.45 | $202.74
23077 | T |  | Remove tumor of shoulder | 0022 | 18.6725 | $1,013.71 | $354.45 | $202.74
23100 | T |  | Biopsy of shoulder joint | 0049 | 19.9376 | $1,082.39 |  | $216.48
23101 | T |  | Shoulder joint surgery | 0050 | 25.1166 | $1,363.56 |  | $272.71
23105 | T |  | Remove shoulder joint lining | 0050 | 25.1166 | $1,363.56 |  | $272.71
23106 | T |  | Incision of collarbone joint | 0050 | 25.1166 | $1,363.56 |  | $272.71
23107 | T |  | Explore treat shoulder joint | 0050 | 25.1166 | $1,363.56 |  | $272.71
23120 | T |  | Partial removal, collar bone | 0051 | 34.9381 | $1,896.75 |  | $379.35
23125 | T |  | Removal of collar bone | 0051 | 34.9381 | $1,896.75 |  | $379.35
23130 | T |  | Remove shoulder bone, part | 0051 | 34.9381 | $1,896.75 |  | $379.35
23140 | T |  | Removal of bone lesion | 0049 | 19.9376 | $1,082.39 |  | $216.48
23145 | T |  | Removal of bone lesion | 0050 | 25.1166 | $1,363.56 |  | $272.71
23146 | T |  | Removal of bone lesion | 0050 | 25.1166 | $1,363.56 |  | $272.71
23150 | T |  | Removal of humerus lesion | 0050 | 25.1166 | $1,363.56 |  | $272.71
23155 | T |  | Removal of humerus lesion | 0050 | 25.1166 | $1,363.56 |  | $272.71
23156 | T |  | Removal of humerus lesion | 0050 | 25.1166 | $1,363.56 |  | $272.71
23170 | T |  | Remove collar bone lesion | 0050 | 25.1166 | $1,363.56 |  | $272.71
23172 | T |  | Remove shoulder blade lesion | 0050 | 25.1166 | $1,363.56 |  | $272.71
23174 | T |  | Remove humerus lesion | 0050 | 25.1166 | $1,363.56 |  | $272.71
23180 | T |  | Remove collar bone lesion | 0050 | 25.1166 | $1,363.56 |  | $272.71
23182 | T |  | Remove shoulder blade lesion | 0050 | 25.1166 | $1,363.56 |  | $272.71
23184 | T |  | Remove humerus lesion | 0050 | 25.1166 | $1,363.56 |  | $272.71
23190 | T |  | Partial removal of scapula | 0050 | 25.1166 | $1,363.56 |  | $272.71
23195 | T |  | Removal of head of humerus | 0050 | 25.1166 | $1,363.56 |  | $272.71
23200 | C |  | Removal of collar bone |  |  |  |  |
23210 | C |  | Removal of shoulder blade |  |  |  |  |
23220 | C |  | Partial removal of humerus |  |  |  |  |
23221 | C |  | Partial removal of humerus |  |  |  |  |
23222 | C |  | Partial removal of humerus |  |  |  |  |
23330 | T |  | Remove shoulder foreign body | 0020 | 7.3105 | $396.88 | $113.25 | $79.38
23331 | T |  | Remove shoulder foreign body | 0022 | 18.6725 | $1,013.71 | $354.45 | $202.74
23332 | C |  | Remove shoulder foreign body |  |  |  |  |
23350 | N |  | Injection for shoulder x-ray |  |  |  |  |
23395 | T |  | Muscle transfer,shoulder/arm | 0051 | 34.9381 | $1,896.75 |  | $379.35
23397 | T |  | Muscle transfers | 0052 | 42.6430 | $2,315.05 |  | $463.01
23400 | T |  | Fixation of shoulder blade | 0050 | 25.1166 | $1,363.56 |  | $272.71
23405 | T |  | Incision of tendon & muscle | 0050 | 25.1166 | $1,363.56 |  | $272.71
23406 | T |  | Incise tendon(s) & muscle(s) | 0050 | 25.1166 | $1,363.56 |  | $272.71
23410 | T |  | Repair of tendon(s) | 0052 | 42.6430 | $2,315.05 |  | $463.01
23412 | T |  | Repair rotator cuff, chronic | 0052 | 42.6430 | $2,315.05 |  | $463.01
23415 | T |  | Release of shoulder ligament | 0051 | 34.9381 | $1,896.75 |  | $379.35
23420 | T |  | Repair of shoulder | 0052 | 42.6430 | $2,315.05 |  | $463.01
23430 | T |  | Repair biceps tendon | 0052 | 42.6430 | $2,315.05 |  | $463.01
23440 | T |  | Remove/transplant tendon | 0052 | 42.6430 | $2,315.05 |  | $463.01
23450 | T |  | Repair shoulder capsule | 0052 | 42.6430 | $2,315.05 |  | $463.01
23455 | T |  | Repair shoulder capsule | 0052 | 42.6430 | $2,315.05 |  | $463.01
23460 | T |  | Repair shoulder capsule | 0052 | 42.6430 | $2,315.05 |  | $463.01
23462 | T |  | Repair shoulder capsule | 0052 | 42.6430 | $2,315.05 |  | $463.01
23465 | T |  | Repair shoulder capsule | 0052 | 42.6430 | $2,315.05 |  | $463.01
23466 | T |  | Repair shoulder capsule | 0052 | 42.6430 | $2,315.05 |  | $463.01
23470 | T |  | Reconstruct shoulder joint | 0048 | 47.4707 | $2,577.14 | $695.60 | $515.43
23472 | C |  | Reconstruct shoulder joint |  |  |  |  |
23480 | T |  | Revision of collar bone | 0051 | 34.9381 | $1,896.75 |  | $379.35
23485 | T |  | Revision of collar bone | 0051 | 34.9381 | $1,896.75 |  | $379.35
23490 | T |  | Reinforce clavicle | 0051 | 34.9381 | $1,896.75 |  | $379.35
23491 | T |  | Reinforce shoulder bones | 0051 | 34.9381 | $1,896.75 |  | $379.35
23500 | T |  | Treat clavicle fracture | 0043 | 1.9233 | $104.41 |  | $20.88
23505 | T |  | Treat clavicle fracture | 0043 | 1.9233 | $104.41 |  | $20.88
23515 | T |  | Treat clavicle fracture | 0046 | 31.9719 | $1,735.72 | $535.76 | $347.14
23520 | T |  | Treat clavicle dislocation | 0043 | 1.9233 | $104.41 |  | $20.88
23525 | T |  | Treat clavicle dislocation | 0043 | 1.9233 | $104.41 |  | $20.88
23530 | T |  | Treat clavicle dislocation | 0046 | 31.9719 | $1,735.72 | $535.76 | $347.14
23532 | T |  | Treat clavicle dislocation | 0046 | 31.9719 | $1,735.72 | $535.76 | $347.14
23540 | T |  | Treat clavicle dislocation | 0043 | 1.9233 | $104.41 |  | $20.88
23545 | T |  | Treat clavicle dislocation | 0043 | 1.9233 | $104.41 |  | $20.88
23550 | T |  | Treat clavicle dislocation | 0046 | 31.9719 | $1,735.72 | $535.76 | $347.14
23552 | T |  | Treat clavicle dislocation | 0046 | 31.9719 | $1,735.72 | $535.76 | $347.14
23570 | T |  | Treat shoulder blade fx | 0043 | 1.9233 | $104.41 |  | $20.88
23575 | T |  | Treat shoulder blade fx | 0043 | 1.9233 | $104.41 |  | $20.88
23585 | T |  | Treat scapula fracture | 0046 | 31.9719 | $1,735.72 | $535.76 | $347.14
23600 | T |  | Treat humerus fracture | 0043 | 1.9233 | $104.41 |  | $20.88
23605 | T |  | Treat humerus fracture | 0043 | 1.9233 | $104.41 |  | $20.88
23615 | T |  | Treat humerus fracture | 0046 | 31.9719 | $1,735.72 | $535.76 | $347.14
23616 | T |  | Treat humerus fracture | 0046 | 31.9719 | $1,735.72 | $535.76 | $347.14
23620 | T |  | Treat humerus fracture | 0043 | 1.9233 | $104.41 |  | $20.88
23625 | T |  | Treat humerus fracture | 0043 | 1.9233 | $104.41 |  | $20.88
23630 | T |  | Treat humerus fracture | 0046 | 31.9719 | $1,735.72 | $535.76 | $347.14
23650 | T |  | Treat shoulder dislocation | 0043 | 1.9233 | $104.41 |  | $20.88
23655 | T |  | Treat shoulder dislocation | 0045 | 13.5546 | $735.87 | $268.47 | $147.17
23660 | T |  | Treat shoulder dislocation | 0046 | 31.9719 | $1,735.72 | $535.76 | $347.14
23665 | T |  | Treat dislocation/fracture | 0043 | 1.9233 | $104.41 |  | $20.88
23670 | T |  | Treat dislocation/fracture | 0046 | 31.9719 | $1,735.72 | $535.76 | $347.14
23675 | T |  | Treat dislocation/fracture | 0043 | 1.9233 | $104.41 |  | $20.88
23680 | T |  | Treat dislocation/fracture | 0046 | 31.9719 | $1,735.72 | $535.76 | $347.14
23700 | T |  | Fixation of shoulder | 0045 | 13.5546 | $735.87 | $268.47 | $147.17
23800 | T |  | Fusion of shoulder joint | 0051 | 34.9381 | $1,896.75 |  | $379.35
23802 | T |  | Fusion of shoulder joint | 0051 | 34.9381 | $1,896.75 |  | $379.35
23900 | C |  | Amputation of arm & girdle |  |  |  |  |
23920 | C |  | Amputation at shoulder joint |  |  |  |  |
23921 | T |  | Amputation follow-up surgery | 0025 | 6.2703 | $340.41 | $115.49 | $68.08
23929 | T |  | Shoulder surgery procedure | 0043 | 1.9233 | $104.41 |  | $20.88
23930 | T |  | Drainage of arm lesion | 0008 | 16.8303 | $913.70 |  | $182.74
23931 | T |  | Drainage of arm bursa | 0006 | 1.7487 | $94.94 | $24.12 | $18.99
23935 | T |  | Drain arm/elbow bone lesion | 0049 | 19.9376 | $1,082.39 |  | $216.48
24000 | T |  | Exploratory elbow surgery | 0050 | 25.1166 | $1,363.56 |  | $272.71
24006 | T |  | Release elbow joint | 0050 | 25.1166 | $1,363.56 |  | $272.71
24065 | T |  | Biopsy arm/elbow soft tissue | 0021 | 14.5749 | $791.26 | $219.48 | $158.25
24066 | T |  | Biopsy arm/elbow soft tissue | 0021 | 14.5749 | $791.26 | $219.48 | $158.25
24075 | T |  | Remove arm/elbow lesion | 0021 | 14.5749 | $791.26 | $219.48 | $158.25
24076 | T |  | Remove arm/elbow lesion | 0022 | 18.6725 | $1,013.71 | $354.45 | $202.74
24077 | T |  | Remove tumor of arm/elbow | 0022 | 18.6725 | $1,013.71 | $354.45 | $202.74
24100 | T |  | Biopsy elbow joint lining | 0049 | 19.9376 | $1,082.39 |  | $216.48
24101 | T |  | Explore/treat elbow joint | 0050 | 25.1166 | $1,363.56 |  | $272.71
24102 | T |  | Remove elbow joint lining | 0050 | 25.1166 | $1,363.56 |  | $272.71
24105 | T |  | Removal of elbow bursa | 0049 | 19.9376 | $1,082.39 |  | $216.48
24110 | T |  | Remove humerus lesion | 0049 | 19.9376 | $1,082.39 |  | $216.48
24115 | T |  | Remove/graft bone lesion | 0050 | 25.1166 | $1,363.56 |  | $272.71
24116 | T |  | Remove/graft bone lesion | 0050 | 25.1166 | $1,363.56 |  | $272.71
24120 | T |  | Remove elbow lesion | 0049 | 19.9376 | $1,082.39 |  | $216.48
24125 | T |  | Remove/graft bone lesion | 0050 | 25.1166 | $1,363.56 |  | $272.71
24126 | T |  | Remove/graft bone lesion | 0050 | 25.1166 | $1,363.56 |  | $272.71
24130 | T |  | Removal of head of radius | 0050 | 25.1166 | $1,363.56 |  | $272.71
24134 | T |  | Removal of arm bone lesion | 0050 | 25.1166 | $1,363.56 |  | $272.71
24136 | T |  | Remove radius bone lesion | 0050 | 25.1166 | $1,363.56 |  | $272.71
24138 | T |  | Remove elbow bone lesion | 0050 | 25.1166 | $1,363.56 |  | $272.71
24140 | T |  | Partial removal of arm bone | 0050 | 25.1166 | $1,363.56 |  | $272.71
24145 | T |  | Partial removal of radius | 0050 | 25.1166 | $1,363.56 |  | $272.71
24147 | T |  | Partial removal of elbow | 0050 | 25.1166 | $1,363.56 |  | $272.71
24149 | C |  | Radical resection of elbow |  |  |  |  |
24150 | T |  | Extensive humerus surgery | 0052 | 42.6430 | $2,315.05 |  | $463.01
24151 | T |  | Extensive humerus surgery | 0052 | 42.6430 | $2,315.05 |  | $463.01
24152 | T |  | Extensive radius surgery | 0052 | 42.6430 | $2,315.05 |  | $463.01
24153 | T |  | Extensive radius surgery | 0052 | 42.6430 | $2,315.05 |  | $463.01
24155 | T |  | Removal of elbow joint | 0051 | 34.9381 | $1,896.75 |  | $379.35
24160 | T |  | Remove elbow joint implant | 0050 | 25.1166 | $1,363.56 |  | $272.71
24164 | T |  | Remove radius head implant | 0050 | 25.1166 | $1,363.56 |  | $272.71
24200 | T |  | Removal of arm foreign body | 0019 | 3.9807 | $216.11 | $71.87 | $43.22
24201 | T |  | Removal of arm foreign body | 0021 | 14.5749 | $791.26 | $219.48 | $158.25
24220 | N |  | Injection for elbow x-ray |  |  |  |  |
24300 | T |  | Manipulate elbow w/anesth | 0045 | 13.5546 | $735.87 | $268.47 | $147.17
24301 | T |  | Muscle/tendon transfer | 0050 | 25.1166 | $1,363.56 |  | $272.71
24305 | T |  | Arm tendon lengthening | 0050 | 25.1166 | $1,363.56 |  | $272.71
24310 | T |  | Revision of arm tendon | 0049 | 19.9376 | $1,082.39 |  | $216.48
24320 | T |  | Repair of arm tendon | 0051 | 34.9381 | $1,896.75 |  | $379.35
24330 | T |  | Revision of arm muscles | 0051 | 34.9381 | $1,896.75 |  | $379.35
24331 | T |  | Revision of arm muscles | 0051 | 34.9381 | $1,896.75 |  | $379.35
24332 | T |  | Tenolysis, triceps | 0049 | 19.9376 | $1,082.39 |  | $216.48
24340 | T |  | Repair of biceps tendon | 0051 | 34.9381 | $1,896.75 |  | $379.35
24341 | T |  | Repair arm tendon/muscle | 0051 | 34.9381 | $1,896.75 |  | $379.35
24342 | T |  | Repair of ruptured tendon | 0051 | 34.9381 | $1,896.75 |  | $379.35
24343 | T |  | Repr elbow lat ligmnt w/tiss | 0050 | 25.1166 | $1,363.56 |  | $272.71
24344 | T |  | Reconstruct elbow lat ligmnt | 0051 | 34.9381 | $1,896.75 |  | $379.35
24345 | T |  | Repr elbw med ligmnt w/tissu | 0050 | 25.1166 | $1,363.56 |  | $272.71
24346 | T |  | Reconstruct elbow med ligmnt | 0051 | 34.9381 | $1,896.75 |  | $379.35
24350 | T |  | Repair of tennis elbow | 0050 | 25.1166 | $1,363.56 |  | $272.71
24351 | T |  | Repair of tennis elbow | 0050 | 25.1166 | $1,363.56 |  | $272.71
24352 | T |  | Repair of tennis elbow | 0050 | 25.1166 | $1,363.56 |  | $272.71
24354 | T |  | Repair of tennis elbow | 0050 | 25.1166 | $1,363.56 |  | $272.71
24356 | T |  | Revision of tennis elbow | 0050 | 25.1166 | $1,363.56 |  | $272.71
24360 | T |  | Reconstruct elbow joint | 0047 | 30.3786 | $1,649.22 | $537.03 | $329.84
24361 | T |  | Reconstruct elbow joint | 0048 | 47.4707 | $2,577.14 | $695.60 | $515.43
24362 | T |  | Reconstruct elbow joint | 0048 | 47.4707 | $2,577.14 | $695.60 | $515.43
24363 | T |  | Replace elbow joint | 0048 | 47.4707 | $2,577.14 | $695.60 | $515.43
24365 | T |  | Reconstruct head of radius | 0047 | 30.3786 | $1,649.22 | $537.03 | $329.84
24366 | T |  | Reconstruct head of radius | 0048 | 47.4707 | $2,577.14 | $695.60 | $515.43
24400 | T |  | Revision of humerus | 0050 | 25.1166 | $1,363.56 |  | $272.71
24410 | T |  | Revision of humerus | 0050 | 25.1166 | $1,363.56 |  | $272.71
24420 | T |  | Revision of humerus | 0051 | 34.9381 | $1,896.75 |  | $379.35
24430 | T |  | Repair of humerus | 0051 | 34.9381 | $1,896.75 |  | $379.35
24435 | T |  | Repair humerus with graft | 0051 | 34.9381 | $1,896.75 |  | $379.35
24470 | T |  | Revision of elbow joint | 0051 | 34.9381 | $1,896.75 |  | $379.35
24495 | T |  | Decompression of forearm | 0050 | 25.1166 | $1,363.56 |  | $272.71
24498 | T |  | Reinforce humerus | 0051 | 34.9381 | $1,896.75 |  | $379.35
24500 | T |  | Treat humerus fracture | 0043 | 1.9233 | $104.41 |  | $20.88
24505 | T |  | Treat humerus fracture | 0043 | 1.9233 | $104.41 |  | $20.88
24515 | T |  | Treat humerus fracture | 0046 | 31.9719 | $1,735.72 | $535.76 | $347.14
24516 | T |  | Treat humerus fracture | 0046 | 31.9719 | $1,735.72 | $535.76 | $347.14
24530 | T |  | Treat humerus fracture | 0043 | 1.9233 | $104.41 |  | $20.88
24535 | T |  | Treat humerus fracture | 0043 | 1.9233 | $104.41 |  | $20.88
24538 | T |  | Treat humerus fracture | 0046 | 31.9719 | $1,735.72 | $535.76 | $347.14
24545 | T |  | Treat humerus fracture | 0046 | 31.9719 | $1,735.72 | $535.76 | $347.14
24546 | T |  | Treat humerus fracture | 0046 | 31.9719 | $1,735.72 | $535.76 | $347.14
24560 | T |  | Treat humerus fracture | 0043 | 1.9233 | $104.41 |  | $20.88
24565 | T |  | Treat humerus fracture | 0043 | 1.9233 | $104.41 |  | $20.88
24566 | T |  | Treat humerus fracture | 0046 | 31.9719 | $1,735.72 | $535.76 | $347.14
24575 | T |  | Treat humerus fracture | 0046 | 31.9719 | $1,735.72 | $535.76 | $347.14
24576 | T |  | Treat humerus fracture | 0043 | 1.9233 | $104.41 |  | $20.88
24577 | T |  | Treat humerus fracture | 0043 | 1.9233 | $104.41 |  | $20.88
24579 | T |  | Treat humerus fracture | 0046 | 31.9719 | $1,735.72 | $535.76 | $347.14
24582 | T |  | Treat humerus fracture | 0046 | 31.9719 | $1,735.72 | $535.76 | $347.14
24586 | T |  | Treat elbow fracture | 0046 | 31.9719 | $1,735.72 | $535.76 | $347.14
24587 | T |  | Treat elbow fracture | 0046 | 31.9719 | $1,735.72 | $535.76 | $347.14
24600 | T |  | Treat elbow dislocation | 0043 | 1.9233 | $104.41 |  | $20.88
24605 | T |  | Treat elbow dislocation | 0045 | 13.5546 | $735.87 | $268.47 | $147.17
24615 | T |  | Treat elbow dislocation | 0046 | 31.9719 | $1,735.72 | $535.76 | $347.14
24620 | T |  | Treat elbow fracture | 0043 | 1.9233 | $104.41 |  | $20.88
24635 | T |  | Treat elbow fracture | 0046 | 31.9719 | $1,735.72 | $535.76 | $347.14
24640 | T |  | Treat elbow dislocation | 0043 | 1.9233 | $104.41 |  | $20.88
24650 | T |  | Treat radius fracture | 0043 | 1.9233 | $104.41 |  | $20.88
24655 | T |  | Treat radius fracture | 0043 | 1.9233 | $104.41 |  | $20.88
24665 | T |  | Treat radius fracture | 0046 | 31.9719 | $1,735.72 | $535.76 | $347.14
24666 | T |  | Treat radius fracture | 0046 | 31.9719 | $1,735.72 | $535.76 | $347.14
24670 | T |  | Treat ulnar fracture | 0043 | 1.9233 | $104.41 |  | $20.88
24675 | T |  | Treat ulnar fracture | 0043 | 1.9233 | $104.41 |  | $20.88
24685 | T |  | Treat ulnar fracture | 0046 | 31.9719 | $1,735.72 | $535.76 | $347.14
24800 | T |  | Fusion of elbow joint | 0051 | 34.9381 | $1,896.75 |  | $379.35
24802 | T |  | Fusion/graft of elbow joint | 0051 | 34.9381 | $1,896.75 |  | $379.35
24900 | C |  | Amputation of upper arm |  |  |  |  |
24920 | C |  | Amputation of upper arm |  |  |  |  |
24925 | T |  | Amputation follow-up surgery | 0049 | 19.9376 | $1,082.39 |  | $216.48
24930 | C |  | Amputation follow-up surgery |  |  |  |  |
24931 | C |  | Amputate upper arm & implant |  |  |  |  |
24935 | T |  | Revision of amputation | 0052 | 42.6430 | $2,315.05 |  | $463.01
24940 | C |  | Revision of upper arm |  |  |  |  |
24999 | T |  | Upper arm/elbow surgery | 0043 | 1.9233 | $104.41 |  | $20.88
25000 | T |  | Incision of tendon sheath | 0049 | 19.9376 | $1,082.39 |  | $216.48
25001 | T |  | Incise flexor carpi radialis | 0049 | 19.9376 | $1,082.39 |  | $216.48
25020 | T |  | Decompress forearm 1 space | 0049 | 19.9376 | $1,082.39 |  | $216.48
25023 | T |  | Decompress forearm 1 space | 0050 | 25.1166 | $1,363.56 |  | $272.71
25024 | T |  | Decompress forearm 2 spaces | 0050 | 25.1166 | $1,363.56 |  | $272.71
25025 | T |  | Decompress forarm 2 spaces | 0050 | 25.1166 | $1,363.56 |  | $272.71
25028 | T |  | Drainage of forearm lesion | 0049 | 19.9376 | $1,082.39 |  | $216.48
25031 | T |  | Drainage of forearm bursa | 0049 | 19.9376 | $1,082.39 |  | $216.48
25035 | T |  | Treat forearm bone lesion | 0049 | 19.9376 | $1,082.39 |  | $216.48
25040 | T |  | Explore/treat wrist joint | 0050 | 25.1166 | $1,363.56 |  | $272.71
25065 | T |  | Biopsy forearm soft tissues | 0021 | 14.5749 | $791.26 | $219.48 | $158.25
25066 | T |  | Biopsy forearm soft tissues | 0022 | 18.6725 | $1,013.71 | $354.45 | $202.74
25075 | T |  | Removel forearm lesion subcu | 0021 | 14.5749 | $791.26 | $219.48 | $158.25
25076 | T |  | Removel forearm lesion deep | 0022 | 18.6725 | $1,013.71 | $354.45 | $202.74
25077 | T |  | Remove tumor, forearm/wrist | 0022 | 18.6725 | $1,013.71 | $354.45 | $202.74
25085 | T |  | Incision of wrist capsule | 0049 | 19.9376 | $1,082.39 |  | $216.48
25100 | T |  | Biopsy of wrist joint | 0049 | 19.9376 | $1,082.39 |  | $216.48
25101 | T |  | Explore/treat wrist joint | 0050 | 25.1166 | $1,363.56 |  | $272.71
25105 | T |  | Remove wrist joint lining | 0050 | 25.1166 | $1,363.56 |  | $272.71
25107 | T |  | Remove wrist joint cartilage | 0050 | 25.1166 | $1,363.56 |  | $272.71
25110 | T |  | Remove wrist tendon lesion | 0049 | 19.9376 | $1,082.39 |  | $216.48
25111 | T |  | Remove wrist tendon lesion | 0053 | 14.8188 | $804.50 | $253.49 | $160.90
25112 | T |  | Reremove wrist tendon lesion | 0053 | 14.8188 | $804.50 | $253.49 | $160.90
25115 | T |  | Remove wrist/forearm lesion | 0049 | 19.9376 | $1,082.39 |  | $216.48
25116 | T |  | Remove wrist/forearm lesion | 0049 | 19.9376 | $1,082.39 |  | $216.48
25118 | T |  | Excise wrist tendon sheath | 0050 | 25.1166 | $1,363.56 |  | $272.71
25119 | T |  | Partial removal of ulna | 0050 | 25.1166 | $1,363.56 |  | $272.71
25120 | T |  | Removal of forearm lesion | 0050 | 25.1166 | $1,363.56 |  | $272.71
25125 | T |  | Remove/graft forearm lesion | 0050 | 25.1166 | $1,363.56 |  | $272.71
25126 | T |  | Remove/graft forearm lesion | 0050 | 25.1166 | $1,363.56 |  | $272.71
25130 | T |  | Removal of wrist lesion | 0050 | 25.1166 | $1,363.56 |  | $272.71
25135 | T |  | Remove & graft wrist lesion | 0050 | 25.1166 | $1,363.56 |  | $272.71
25136 | T |  | Remove & graft wrist lesion | 0050 | 25.1166 | $1,363.56 |  | $272.71
25145 | T |  | Remove forearm bone lesion | 0050 | 25.1166 | $1,363.56 |  | $272.71
25150 | T |  | Partial removal of ulna | 0050 | 25.1166 | $1,363.56 |  | $272.71
25151 | T |  | Partial removal of radius | 0050 | 25.1166 | $1,363.56 |  | $272.71
25170 | T |  | Extensive forearm surgery | 0052 | 42.6430 | $2,315.05 |  | $463.01
25210 | T |  | Removal of wrist bone | 0054 | 24.2685 | $1,317.51 |  | $263.50
25215 | T |  | Removal of wrist bones | 0054 | 24.2685 | $1,317.51 |  | $263.50
25230 | T |  | Partial removal of radius | 0050 | 25.1166 | $1,363.56 |  | $272.71
25240 | T |  | Partial removal of ulna | 0050 | 25.1166 | $1,363.56 |  | $272.71
25246 | N |  | Injection for wrist x-ray |  |  |  |  |
25248 | T |  | Remove forearm foreign body | 0049 | 19.9376 | $1,082.39 |  | $216.48
25250 | T |  | Removal of wrist prosthesis | 0050 | 25.1166 | $1,363.56 |  | $272.71
25251 | T |  | Removal of wrist prosthesis | 0050 | 25.1166 | $1,363.56 |  | $272.71
25259 | T |  | Manipulate wrist w/anesthes | 0043 | 1.9233 | $104.41 |  | $20.88
25260 | T |  | Repair forearm tendon/muscle | 0050 | 25.1166 | $1,363.56 |  | $272.71
25263 | T |  | Repair forearm tendon/muscle | 0050 | 25.1166 | $1,363.56 |  | $272.71
25265 | T |  | Repair forearm tendon/muscle | 0050 | 25.1166 | $1,363.56 |  | $272.71
25270 | T |  | Repair forearm tendon/muscle | 0050 | 25.1166 | $1,363.56 |  | $272.71
25272 | T |  | Repair forearm tendon/muscle | 0050 | 25.1166 | $1,363.56 |  | $272.71
25274 | T |  | Repair forearm tendon/muscle | 0050 | 25.1166 | $1,363.56 |  | $272.71
25275 | T |  | Repair forearm tendon sheath | 0050 | 25.1166 | $1,363.56 |  | $272.71
25280 | T |  | Revise wrist/forearm tendon | 0050 | 25.1166 | $1,363.56 |  | $272.71
25290 | T |  | Incise wrist/forearm tendon | 0050 | 25.1166 | $1,363.56 |  | $272.71
25295 | T |  | Release wrist/forearm tendon | 0049 | 19.9376 | $1,082.39 |  | $216.48
25300 | T |  | Fusion of tendons at wrist | 0050 | 25.1166 | $1,363.56 |  | $272.71
25301 | T |  | Fusion of tendons at wrist | 0050 | 25.1166 | $1,363.56 |  | $272.71
25310 | T |  | Transplant forearm tendon | 0051 | 34.9381 | $1,896.75 |  | $379.35
25312 | T |  | Transplant forearm tendon | 0051 | 34.9381 | $1,896.75 |  | $379.35
25315 | T |  | Revise palsy hand tendon(s) | 0051 | 34.9381 | $1,896.75 |  | $379.35
25316 | T |  | Revise palsy hand tendon(s) | 0051 | 34.9381 | $1,896.75 |  | $379.35
25320 | T |  | Repair/revise wrist joint | 0051 | 34.9381 | $1,896.75 |  | $379.35
25332 | T |  | Revise wrist joint | 0047 | 30.3786 | $1,649.22 | $537.03 | $329.84
25335 | T |  | Realignment of hand | 0051 | 34.9381 | $1,896.75 |  | $379.35
25337 | T |  | Reconstruct ulna/radioulnar | 0051 | 34.9381 | $1,896.75 |  | $379.35
25350 | T |  | Revision of radius | 0051 | 34.9381 | $1,896.75 |  | $379.35
25355 | T |  | Revision of radius | 0051 | 34.9381 | $1,896.75 |  | $379.35
25360 | T |  | Revision of ulna | 0050 | 25.1166 | $1,363.56 |  | $272.71
25365 | T |  | Revise radius & ulna | 0050 | 25.1166 | $1,363.56 |  | $272.71
25370 | T |  | Revise radius or ulna | 0051 | 34.9381 | $1,896.75 |  | $379.35
25375 | T |  | Revise radius & ulna | 0051 | 34.9381 | $1,896.75 |  | $379.35
25390 | T |  | Shorten radius or ulna | 0050 | 25.1166 | $1,363.56 |  | $272.71
25391 | T |  | Lengthen radius or ulna | 0051 | 34.9381 | $1,896.75 |  | $379.35
25392 | T |  | Shorten radius & ulna | 0050 | 25.1166 | $1,363.56 |  | $272.71
25393 | T |  | Lengthen radius & ulna | 0051 | 34.9381 | $1,896.75 |  | $379.35
25394 | T |  | Repair carpal bone, shorten | 0053 | 14.8188 | $804.50 | $253.49 | $160.90
25400 | T |  | Repair radius or ulna | 0050 | 25.1166 | $1,363.56 |  | $272.71
25405 | T |  | Repair/graft radius or ulna | 0050 | 25.1166 | $1,363.56 |  | $272.71
25415 | T |  | Repair radius & ulna | 0050 | 25.1166 | $1,363.56 |  | $272.71
25420 | T |  | Repair/graft radius & ulna | 0051 | 34.9381 | $1,896.75 |  | $379.35
25425 | T |  | Repair/graft radius or ulna | 0051 | 34.9381 | $1,896.75 |  | $379.35
25426 | T |  | Repair/graft radius & ulna | 0051 | 34.9381 | $1,896.75 |  | $379.35
25430 | T |  | Vasc graft into carpal bone | 0054 | 24.2685 | $1,317.51 |  | $263.50
25431 | T |  | Repair nonunion carpal bone | 0054 | 24.2685 | $1,317.51 |  | $263.50
25440 | T |  | Repair/graft wrist bone | 0051 | 34.9381 | $1,896.75 |  | $379.35
25441 | T |  | Reconstruct wrist joint | 0048 | 47.4707 | $2,577.14 | $695.60 | $515.43
25442 | T |  | Reconstruct wrist joint | 0048 | 47.4707 | $2,577.14 | $695.60 | $515.43
25443 | T |  | Reconstruct wrist joint | 0048 | 47.4707 | $2,577.14 | $695.60 | $515.43
25444 | T |  | Reconstruct wrist joint | 0048 | 47.4707 | $2,577.14 | $695.60 | $515.43
25445 | T |  | Reconstruct wrist joint | 0048 | 47.4707 | $2,577.14 | $695.60 | $515.43
25446 | T |  | Wrist replacement | 0048 | 47.4707 | $2,577.14 | $695.60 | $515.43
25447 | T |  | Repair wrist joint(s) | 0047 | 30.3786 | $1,649.22 | $537.03 | $329.84
25449 | T |  | Remove wrist joint implant | 0047 | 30.3786 | $1,649.22 | $537.03 | $329.84
25450 | T |  | Revision of wrist joint | 0051 | 34.9381 | $1,896.75 |  | $379.35
25455 | T |  | Revision of wrist joint | 0051 | 34.9381 | $1,896.75 |  | $379.35
25490 | T |  | Reinforce radius | 0051 | 34.9381 | $1,896.75 |  | $379.35
25491 | T |  | Reinforce ulna | 0051 | 34.9381 | $1,896.75 |  | $379.35
25492 | T |  | Reinforce radius and ulna | 0051 | 34.9381 | $1,896.75 |  | $379.35
25500 | T |  | Treat fracture of radius | 0043 | 1.9233 | $104.41 |  | $20.88
25505 | T |  | Treat fracture of radius | 0043 | 1.9233 | $104.41 |  | $20.88
25515 | T |  | Treat fracture of radius | 0046 | 31.9719 | $1,735.72 | $535.76 | $347.14
25520 | T |  | Treat fracture of radius | 0043 | 1.9233 | $104.41 |  | $20.88
25525 | T |  | Treat fracture of radius | 0046 | 31.9719 | $1,735.72 | $535.76 | $347.14
25526 | T |  | Treat fracture of radius | 0046 | 31.9719 | $1,735.72 | $535.76 | $347.14
25530 | T |  | Treat fracture of ulna | 0043 | 1.9233 | $104.41 |  | $20.88
25535 | T |  | Treat fracture of ulna | 0043 | 1.9233 | $104.41 |  | $20.88
25545 | T |  | Treat fracture of ulna | 0046 | 31.9719 | $1,735.72 | $535.76 | $347.14
25560 | T |  | Treat fracture radius & ulna | 0043 | 1.9233 | $104.41 |  | $20.88
25565 | T |  | Treat fracture radius & ulna | 0043 | 1.9233 | $104.41 |  | $20.88
25574 | T |  | Treat fracture radius & ulna | 0046 | 31.9719 | $1,735.72 | $535.76 | $347.14
25575 | T |  | Treat fracture radius/ulna | 0046 | 31.9719 | $1,735.72 | $535.76 | $347.14
25600 | T |  | Treat fracture radius/ulna | 0043 | 1.9233 | $104.41 |  | $20.88
25605 | T |  | Treat fracture radius/ulna | 0043 | 1.9233 | $104.41 |  | $20.88
25611 | T |  | Treat fracture radius/ulna | 0046 | 31.9719 | $1,735.72 | $535.76 | $347.14
25620 | T |  | Treat fracture radius/ulna | 0046 | 31.9719 | $1,735.72 | $535.76 | $347.14
25622 | T |  | Treat wrist bone fracture | 0043 | 1.9233 | $104.41 |  | $20.88
25624 | T |  | Treat wrist bone fracture | 0043 | 1.9233 | $104.41 |  | $20.88
25628 | T |  | Treat wrist bone fracture | 0046 | 31.9719 | $1,735.72 | $535.76 | $347.14
25630 | T |  | Treat wrist bone fracture | 0043 | 1.9233 | $104.41 |  | $20.88
25635 | T |  | Treat wrist bone fracture | 0043 | 1.9233 | $104.41 |  | $20.88
25645 | T |  | Treat wrist bone fracture | 0046 | 31.9719 | $1,735.72 | $535.76 | $347.14
25650 | T |  | Treat wrist bone fracture | 0043 | 1.9233 | $104.41 |  | $20.88
25651 | T |  | Pin ulnar styloid fracture | 0046 | 31.9719 | $1,735.72 | $535.76 | $347.14
25652 | T |  | Treat fracture ulnar styloid | 0046 | 31.9719 | $1,735.72 | $535.76 | $347.14
25660 | T |  | Treat wrist dislocation | 0043 | 1.9233 | $104.41 |  | $20.88
25670 | T |  | Treat wrist dislocation | 0046 | 31.9719 | $1,735.72 | $535.76 | $347.14
25671 | T |  | Pin radioulnar dislocation | 0046 | 31.9719 | $1,735.72 | $535.76 | $347.14
25675 | T |  | Treat wrist dislocation | 0043 | 1.9233 | $104.41 |  | $20.88
25676 | T |  | Treat wrist dislocation | 0046 | 31.9719 | $1,735.72 | $535.76 | $347.14
25680 | T |  | Treat wrist fracture | 0043 | 1.9233 | $104.41 |  | $20.88
25685 | T |  | Treat wrist fracture | 0046 | 31.9719 | $1,735.72 | $535.76 | $347.14
25690 | T |  | Treat wrist dislocation | 0043 | 1.9233 | $104.41 |  | $20.88
25695 | T |  | Treat wrist dislocation | 0046 | 31.9719 | $1,735.72 | $535.76 | $347.14
25800 | T |  | Fusion of wrist joint | 0051 | 34.9381 | $1,896.75 |  | $379.35
25805 | T |  | Fusion/graft of wrist joint | 0051 | 34.9381 | $1,896.75 |  | $379.35
25810 | T |  | Fusion/graft of wrist joint | 0051 | 34.9381 | $1,896.75 |  | $379.35
25820 | T |  | Fusion of hand bones | 0053 | 14.8188 | $804.50 | $253.49 | $160.90
25825 | T |  | Fuse hand bones with graft | 0054 | 24.2685 | $1,317.51 |  | $263.50
25830 | T |  | Fusion, radioulnar jnt/ulna | 0051 | 34.9381 | $1,896.75 |  | $379.35
25900 | C |  | Amputation of forearm |  |  |  |  |
25905 | C |  | Amputation of forearm |  |  |  |  |
25907 | T |  | Amputation follow-up surgery | 0049 | 19.9376 | $1,082.39 |  | $216.48
25909 | C |  | Amputation follow-up surgery |  |  |  |  |
25915 | C |  | Amputation of forearm |  |  |  |  |
25920 | C |  | Amputate hand at wrist |  |  |  |  |
25922 | T |  | Amputate hand at wrist | 0049 | 19.9376 | $1,082.39 |  | $216.48
25924 | C |  | Amputation follow-up surgery |  |  |  |  |
25927 | C |  | Amputation of hand |  |  |  |  |
25929 | T |  | Amputation follow-up surgery | 0027 | 15.8319 | $859.50 | $329.72 | $171.90
25931 | C |  | Amputation follow-up surgery |  |  |  |  |
25999 | T |  | Forearm or wrist surgery | 0043 | 1.9233 | $104.41 |  | $20.88
26010 | T |  | Drainage of finger abscess | 0006 | 1.7487 | $94.94 | $24.12 | $18.99
26011 | T |  | Drainage of finger abscess | 0007 | 11.4943 | $624.01 |  | $124.80
26020 | T |  | Drain hand tendon sheath | 0053 | 14.8188 | $804.50 | $253.49 | $160.90
26025 | T |  | Drainage of palm bursa | 0053 | 14.8188 | $804.50 | $253.49 | $160.90
26030 | T |  | Drainage of palm bursa(s) | 0053 | 14.8188 | $804.50 | $253.49 | $160.90
26034 | T |  | Treat hand bone lesion | 0053 | 14.8188 | $804.50 | $253.49 | $160.90
26035 | T |  | Decompress fingers/hand | 0053 | 14.8188 | $804.50 | $253.49 | $160.90
26037 | T |  | Decompress fingers/hand | 0053 | 14.8188 | $804.50 | $253.49 | $160.90
26040 | T |  | Release palm contracture | 0054 | 24.2685 | $1,317.51 |  | $263.50
26045 | T |  | Release palm contracture | 0054 | 24.2685 | $1,317.51 |  | $263.50
26055 | T |  | Incise finger tendon sheath | 0053 | 14.8188 | $804.50 | $253.49 | $160.90
26060 | T |  | Incision of finger tendon | 0053 | 14.8188 | $804.50 | $253.49 | $160.90
26070 | T |  | Explore/treat hand joint | 0053 | 14.8188 | $804.50 | $253.49 | $160.90
26075 | T |  | Explore/treat finger joint | 0053 | 14.8188 | $804.50 | $253.49 | $160.90
26080 | T |  | Explore/treat finger joint | 0053 | 14.8188 | $804.50 | $253.49 | $160.90
26100 | T |  | Biopsy hand joint lining | 0053 | 14.8188 | $804.50 | $253.49 | $160.90
26105 | T |  | Biopsy finger joint lining | 0053 | 14.8188 | $804.50 | $253.49 | $160.90
26110 | T |  | Biopsy finger joint lining | 0053 | 14.8188 | $804.50 | $253.49 | $160.90
26115 | T |  | Removel hand lesion subcut | 0022 | 18.6725 | $1,013.71 | $354.45 | $202.74
26116 | T |  | Removel hand lesion, deep | 0022 | 18.6725 | $1,013.71 | $354.45 | $202.74
26117 | T |  | Remove tumor, hand/finger | 0022 | 18.6725 | $1,013.71 | $354.45 | $202.74
26121 | T |  | Release palm contracture | 0054 | 24.2685 | $1,317.51 |  | $263.50
26123 | T |  | Release palm contracture | 0054 | 24.2685 | $1,317.51 |  | $263.50
26125 | T |  | Release palm contracture | 0054 | 24.2685 | $1,317.51 |  | $263.50
26130 | T |  | Remove wrist joint lining | 0053 | 14.8188 | $804.50 | $253.49 | $160.90
26135 | T |  | Revise finger joint, each | 0054 | 24.2685 | $1,317.51 |  | $263.50
26140 | T |  | Revise finger joint, each | 0053 | 14.8188 | $804.50 | $253.49 | $160.90
26145 | T |  | Tendon excision, palm/finger | 0053 | 14.8188 | $804.50 | $253.49 | $160.90
26160 | T |  | Remove tendon sheath lesion | 0053 | 14.8188 | $804.50 | $253.49 | $160.90
26170 | T |  | Removal of palm tendon, each | 0053 | 14.8188 | $804.50 | $253.49 | $160.90
26180 | T |  | Removal of finger tendon | 0053 | 14.8188 | $804.50 | $253.49 | $160.90
26185 | T |  | Remove finger bone | 0053 | 14.8188 | $804.50 | $253.49 | $160.90
26200 | T |  | Remove hand bone lesion | 0053 | 14.8188 | $804.50 | $253.49 | $160.90
26205 | T |  | Remove/graft bone lesion | 0054 | 24.2685 | $1,317.51 |  | $263.50
26210 | T |  | Removal of finger lesion | 0053 | 14.8188 | $804.50 | $253.49 | $160.90
26215 | T |  | Remove/graft finger lesion | 0053 | 14.8188 | $804.50 | $253.49 | $160.90
26230 | T |  | Partial removal of hand bone | 0053 | 14.8188 | $804.50 | $253.49 | $160.90
26235 | T |  | Partial removal, finger bone | 0053 | 14.8188 | $804.50 | $253.49 | $160.90
26236 | T |  | Partial removal, finger bone | 0053 | 14.8188 | $804.50 | $253.49 | $160.90
26250 | T |  | Extensive hand surgery | 0053 | 14.8188 | $804.50 | $253.49 | $160.90
26255 | T |  | Extensive hand surgery | 0054 | 24.2685 | $1,317.51 |  | $263.50
26260 | T |  | Extensive finger surgery | 0053 | 14.8188 | $804.50 | $253.49 | $160.90
26261 | T |  | Extensive finger surgery | 0053 | 14.8188 | $804.50 | $253.49 | $160.90
26262 | T |  | Partial removal of finger | 0053 | 14.8188 | $804.50 | $253.49 | $160.90
26320 | T |  | Removal of implant from hand | 0021 | 14.5749 | $791.26 | $219.48 | $158.25
26340 | T |  | Manipulate finger w/anesth | 0043 | 1.9233 | $104.41 |  | $20.88
26350 | T |  | Repair finger/hand tendon | 0054 | 24.2685 | $1,317.51 |  | $263.50
26352 | T |  | Repair/graft hand tendon | 0054 | 24.2685 | $1,317.51 |  | $263.50
26356 | T |  | Repair finger/hand tendon | 0054 | 24.2685 | $1,317.51 |  | $263.50
26357 | T |  | Repair finger/hand tendon | 0054 | 24.2685 | $1,317.51 |  | $263.50
26358 | T |  | Repair/graft hand tendon | 0054 | 24.2685 | $1,317.51 |  | $263.50
26370 | T |  | Repair finger/hand tendon | 0054 | 24.2685 | $1,317.51 |  | $263.50
26372 | T |  | Repair/graft hand tendon | 0054 | 24.2685 | $1,317.51 |  | $263.50
26373 | T |  | Repair finger/hand tendon | 0054 | 24.2685 | $1,317.51 |  | $263.50
26390 | T |  | Revise hand/finger tendon | 0054 | 24.2685 | $1,317.51 |  | $263.50
26392 | T |  | Repair/graft hand tendon | 0054 | 24.2685 | $1,317.51 |  | $263.50
26410 | T |  | Repair hand tendon | 0053 | 14.8188 | $804.50 | $253.49 | $160.90
26412 | T |  | Repair/graft hand tendon | 0054 | 24.2685 | $1,317.51 |  | $263.50
26415 | T |  | Excision, hand/finger tendon | 0054 | 24.2685 | $1,317.51 |  | $263.50
26416 | T |  | Graft hand or finger tendon | 0054 | 24.2685 | $1,317.51 |  | $263.50
26418 | T |  | Repair finger tendon | 0053 | 14.8188 | $804.50 | $253.49 | $160.90
26420 | T |  | Repair/graft finger tendon | 0054 | 24.2685 | $1,317.51 |  | $263.50
26426 | T |  | Repair finger/hand tendon | 0054 | 24.2685 | $1,317.51 |  | $263.50
26428 | T |  | Repair/graft finger tendon | 0054 | 24.2685 | $1,317.51 |  | $263.50
26432 | T |  | Repair finger tendon | 0053 | 14.8188 | $804.50 | $253.49 | $160.90
26433 | T |  | Repair finger tendon | 0053 | 14.8188 | $804.50 | $253.49 | $160.90
26434 | T |  | Repair/graft finger tendon | 0054 | 24.2685 | $1,317.51 |  | $263.50
26437 | T |  | Realignment of tendons | 0053 | 14.8188 | $804.50 | $253.49 | $160.90
26440 | T |  | Release palm/finger tendon | 0053 | 14.8188 | $804.50 | $253.49 | $160.90
26442 | T |  | Release palm & finger tendon | 0054 | 24.2685 | $1,317.51 |  | $263.50
26445 | T |  | Release hand/finger tendon | 0053 | 14.8188 | $804.50 | $253.49 | $160.90
26449 | T |  | Release forearm/hand tendon | 0054 | 24.2685 | $1,317.51 |  | $263.50
26450 | T |  | Incision of palm tendon | 0053 | 14.8188 | $804.50 | $253.49 | $160.90
26455 | T |  | Incision of finger tendon | 0053 | 14.8188 | $804.50 | $253.49 | $160.90
26460 | T |  | Incise hand/finger tendon | 0053 | 14.8188 | $804.50 | $253.49 | $160.90
26471 | T |  | Fusion of finger tendons | 0053 | 14.8188 | $804.50 | $253.49 | $160.90
26474 | T |  | Fusion of finger tendons | 0053 | 14.8188 | $804.50 | $253.49 | $160.90
26476 | T |  | Tendon lengthening | 0053 | 14.8188 | $804.50 | $253.49 | $160.90
26477 | T |  | Tendon shortening | 0053 | 14.8188 | $804.50 | $253.49 | $160.90
26478 | T |  | Lengthening of hand tendon | 0053 | 14.8188 | $804.50 | $253.49 | $160.90
26479 | T |  | Shortening of hand tendon | 0053 | 14.8188 | $804.50 | $253.49 | $160.90
26480 | T |  | Transplant hand tendon | 0054 | 24.2685 | $1,317.51 |  | $263.50
26483 | T |  | Transplant/graft hand tendon | 0054 | 24.2685 | $1,317.51 |  | $263.50
26485 | T |  | Transplant palm tendon | 0054 | 24.2685 | $1,317.51 |  | $263.50
26489 | T |  | Transplant/graft palm tendon | 0054 | 24.2685 | $1,317.51 |  | $263.50
26490 | T |  | Revise thumb tendon | 0054 | 24.2685 | $1,317.51 |  | $263.50
26492 | T |  | Tendon transfer with graft | 0054 | 24.2685 | $1,317.51 |  | $263.50
26494 | T |  | Hand tendon/muscle transfer | 0054 | 24.2685 | $1,317.51 |  | $263.50
26496 | T |  | Revise thumb tendon | 0054 | 24.2685 | $1,317.51 |  | $263.50
26497 | T |  | Finger tendon transfer | 0054 | 24.2685 | $1,317.51 |  | $263.50
26498 | T |  | Finger tendon transfer | 0054 | 24.2685 | $1,317.51 |  | $263.50
26499 | T |  | Revision of finger | 0054 | 24.2685 | $1,317.51 |  | $263.50
26500 | T |  | Hand tendon reconstruction | 0053 | 14.8188 | $804.50 | $253.49 | $160.90
26502 | T |  | Hand tendon reconstruction | 0054 | 24.2685 | $1,317.51 |  | $263.50
26504 | T |  | Hand tendon reconstruction | 0054 | 24.2685 | $1,317.51 |  | $263.50
26508 | T |  | Release thumb contracture | 0053 | 14.8188 | $804.50 | $253.49 | $160.90
26510 | T |  | Thumb tendon transfer | 0054 | 24.2685 | $1,317.51 |  | $263.50
26516 | T |  | Fusion of knuckle joint | 0054 | 24.2685 | $1,317.51 |  | $263.50
26517 | T |  | Fusion of knuckle joints | 0054 | 24.2685 | $1,317.51 |  | $263.50
26518 | T |  | Fusion of knuckle joints | 0054 | 24.2685 | $1,317.51 |  | $263.50
26520 | T |  | Release knuckle contracture | 0053 | 14.8188 | $804.50 | $253.49 | $160.90
26525 | T |  | Release finger contracture | 0053 | 14.8188 | $804.50 | $253.49 | $160.90
26530 | T |  | Revise knuckle joint | 0047 | 30.3786 | $1,649.22 | $537.03 | $329.84
26531 | T |  | Revise knuckle with implant | 0048 | 47.4707 | $2,577.14 | $695.60 | $515.43
26535 | T |  | Revise finger joint | 0047 | 30.3786 | $1,649.22 | $537.03 | $329.84
26536 | T |  | Revise/implant finger joint | 0048 | 47.4707 | $2,577.14 | $695.60 | $515.43
26540 | T |  | Repair hand joint | 0053 | 14.8188 | $804.50 | $253.49 | $160.90
26541 | T |  | Repair hand joint with graft | 0054 | 24.2685 | $1,317.51 |  | $263.50
26542 | T |  | Repair hand joint with graft | 0053 | 14.8188 | $804.50 | $253.49 | $160.90
26545 | T |  | Reconstruct finger joint | 0054 | 24.2685 | $1,317.51 |  | $263.50
26546 | T |  | Repair nonunion hand | 0054 | 24.2685 | $1,317.51 |  | $263.50
26548 | T |  | Reconstruct finger joint | 0054 | 24.2685 | $1,317.51 |  | $263.50
26550 | T |  | Construct thumb replacement | 0054 | 24.2685 | $1,317.51 |  | $263.50
26551 | C |  | Great toe-hand transfer |  |  |  |  |
26553 | C |  | Single transfer, toe-hand |  |  |  |  |
26554 | C |  | Double transfer, toe-hand |  |  |  |  |
26555 | T |  | Positional change of finger | 0054 | 24.2685 | $1,317.51 |  | $263.50
26556 | C |  | Toe joint transfer |  |  |  |  |
26560 | T |  | Repair of web finger | 0053 | 14.8188 | $804.50 | $253.49 | $160.90
26561 | T |  | Repair of web finger | 0054 | 24.2685 | $1,317.51 |  | $263.50
26562 | T |  | Repair of web finger | 0054 | 24.2685 | $1,317.51 |  | $263.50
26565 | T |  | Correct metacarpal flaw | 0054 | 24.2685 | $1,317.51 |  | $263.50
26567 | T |  | Correct finger deformity | 0054 | 24.2685 | $1,317.51 |  | $263.50
26568 | T |  | Lengthen metacarpal/finger | 0054 | 24.2685 | $1,317.51 |  | $263.50
26580 | T |  | Repair hand deformity | 0054 | 24.2685 | $1,317.51 |  | $263.50
26587 | T |  | Reconstruct extra finger | 0053 | 14.8188 | $804.50 | $253.49 | $160.90
26590 | T |  | Repair finger deformity | 0054 | 24.2685 | $1,317.51 |  | $263.50
26591 | T |  | Repair muscles of hand | 0054 | 24.2685 | $1,317.51 |  | $263.50
26593 | T |  | Release muscles of hand | 0053 | 14.8188 | $804.50 | $253.49 | $160.90
26596 | T |  | Excision constricting tissue | 0054 | 24.2685 | $1,317.51 |  | $263.50
26600 | T |  | Treat metacarpal fracture | 0043 | 1.9233 | $104.41 |  | $20.88
26605 | T |  | Treat metacarpal fracture | 0043 | 1.9233 | $104.41 |  | $20.88
26607 | T |  | Treat metacarpal fracture | 0043 | 1.9233 | $104.41 |  | $20.88
26608 | T |  | Treat metacarpal fracture | 0046 | 31.9719 | $1,735.72 | $535.76 | $347.14
26615 | T |  | Treat metacarpal fracture | 0046 | 31.9719 | $1,735.72 | $535.76 | $347.14
26641 | T |  | Treat thumb dislocation | 0043 | 1.9233 | $104.41 |  | $20.88
26645 | T |  | Treat thumb fracture | 0043 | 1.9233 | $104.41 |  | $20.88
26650 | T |  | Treat thumb fracture | 0046 | 31.9719 | $1,735.72 | $535.76 | $347.14
26665 | T |  | Treat thumb fracture | 0046 | 31.9719 | $1,735.72 | $535.76 | $347.14
26670 | T |  | Treat hand dislocation | 0043 | 1.9233 | $104.41 |  | $20.88
26675 | T |  | Treat hand dislocation | 0043 | 1.9233 | $104.41 |  | $20.88
26676 | T |  | Pin hand dislocation | 0046 | 31.9719 | $1,735.72 | $535.76 | $347.14
26685 | T |  | Treat hand dislocation | 0046 | 31.9719 | $1,735.72 | $535.76 | $347.14
26686 | T |  | Treat hand dislocation | 0046 | 31.9719 | $1,735.72 | $535.76 | $347.14
26700 | T |  | Treat knuckle dislocation | 0043 | 1.9233 | $104.41 |  | $20.88
26705 | T |  | Treat knuckle dislocation | 0043 | 1.9233 | $104.41 |  | $20.88
26706 | T |  | Pin knuckle dislocation | 0043 | 1.9233 | $104.41 |  | $20.88
26715 | T |  | Treat knuckle dislocation | 0046 | 31.9719 | $1,735.72 | $535.76 | $347.14
26720 | T |  | Treat finger fracture, each | 0043 | 1.9233 | $104.41 |  | $20.88
26725 | T |  | Treat finger fracture, each | 0043 | 1.9233 | $104.41 |  | $20.88
26727 | T |  | Treat finger fracture, each | 0046 | 31.9719 | $1,735.72 | $535.76 | $347.14
26735 | T |  | Treat finger fracture, each | 0046 | 31.9719 | $1,735.72 | $535.76 | $347.14
26740 | T |  | Treat finger fracture, each | 0043 | 1.9233 | $104.41 |  | $20.88
26742 | T |  | Treat finger fracture, each | 0043 | 1.9233 | $104.41 |  | $20.88
26746 | T |  | Treat finger fracture, each | 0046 | 31.9719 | $1,735.72 | $535.76 | $347.14
26750 | T |  | Treat finger fracture, each | 0043 | 1.9233 | $104.41 |  | $20.88
26755 | T |  | Treat finger fracture, each | 0043 | 1.9233 | $104.41 |  | $20.88
26756 | T |  | Pin finger fracture, each | 0046 | 31.9719 | $1,735.72 | $535.76 | $347.14
26765 | T |  | Treat finger fracture, each | 0046 | 31.9719 | $1,735.72 | $535.76 | $347.14
26770 | T |  | Treat finger dislocation | 0043 | 1.9233 | $104.41 |  | $20.88
26775 | T |  | Treat finger dislocation | 0045 | 13.5546 | $735.87 | $268.47 | $147.17
26776 | T |  | Pin finger dislocation | 0046 | 31.9719 | $1,735.72 | $535.76 | $347.14
26785 | T |  | Treat finger dislocation | 0046 | 31.9719 | $1,735.72 | $535.76 | $347.14
26820 | T |  | Thumb fusion with graft | 0054 | 24.2685 | $1,317.51 |  | $263.50
26841 | T |  | Fusion of thumb | 0054 | 24.2685 | $1,317.51 |  | $263.50
26842 | T |  | Thumb fusion with graft | 0054 | 24.2685 | $1,317.51 |  | $263.50
26843 | T |  | Fusion of hand joint | 0054 | 24.2685 | $1,317.51 |  | $263.50
26844 | T |  | Fusion/graft of hand joint | 0054 | 24.2685 | $1,317.51 |  | $263.50
26850 | T |  | Fusion of knuckle | 0054 | 24.2685 | $1,317.51 |  | $263.50
26852 | T |  | Fusion of knuckle with graft | 0054 | 24.2685 | $1,317.51 |  | $263.50
26860 | T |  | Fusion of finger joint | 0054 | 24.2685 | $1,317.51 |  | $263.50
26861 | T |  | Fusion of finger jnt, add-on | 0054 | 24.2685 | $1,317.51 |  | $263.50
26862 | T |  | Fusion/graft of finger joint | 0054 | 24.2685 | $1,317.51 |  | $263.50
26863 | T |  | Fuse/graft added joint | 0054 | 24.2685 | $1,317.51 |  | $263.50
26910 | T |  | Amputate metacarpal bone | 0054 | 24.2685 | $1,317.51 |  | $263.50
26951 | T |  | Amputation of finger/thumb | 0053 | 14.8188 | $804.50 | $253.49 | $160.90
26952 | T |  | Amputation of finger/thumb | 0053 | 14.8188 | $804.50 | $253.49 | $160.90
26989 | T |  | Hand/finger surgery | 0043 | 1.9233 | $104.41 |  | $20.88
26990 | T |  | Drainage of pelvis lesion | 0049 | 19.9376 | $1,082.39 |  | $216.48
26991 | T |  | Drainage of pelvis bursa | 0049 | 19.9376 | $1,082.39 |  | $216.48
26992 | C |  | Drainage of bone lesion |  |  |  |  |
27000 | T |  | Incision of hip tendon | 0049 | 19.9376 | $1,082.39 |  | $216.48
27001 | T |  | Incision of hip tendon | 0050 | 25.1166 | $1,363.56 |  | $272.71
27003 | T |  | Incision of hip tendon | 0050 | 25.1166 | $1,363.56 |  | $272.71
27005 | C |  | Incision of hip tendon |  |  |  |  |
27006 | C |  | Incision of hip tendons |  |  |  |  |
27025 | C |  | Incision of hip/thigh fascia |  |  |  |  |
27030 | C |  | Drainage of hip joint |  |  |  |  |
27033 | T |  | Exploration of hip joint | 0051 | 34.9381 | $1,896.75 |  | $379.35
27035 | T |  | Denervation of hip joint | 0052 | 42.6430 | $2,315.05 |  | $463.01
27036 | C |  | Excision of hip joint/muscle |  |  |  |  |
27040 | T |  | Biopsy of soft tissues | 0021 | 14.5749 | $791.26 | $219.48 | $158.25
27041 | T |  | Biopsy of soft tissues | 0022 | 18.6725 | $1,013.71 | $354.45 | $202.74
27047 | T |  | Remove hip/pelvis lesion | 0022 | 18.6725 | $1,013.71 | $354.45 | $202.74
27048 | T |  | Remove hip/pelvis lesion | 0022 | 18.6725 | $1,013.71 | $354.45 | $202.74
27049 | T |  | Remove tumor, hip/pelvis | 0022 | 18.6725 | $1,013.71 | $354.45 | $202.74
27050 | T |  | Biopsy of sacroiliac joint | 0049 | 19.9376 | $1,082.39 |  | $216.48
27052 | T |  | Biopsy of hip joint | 0049 | 19.9376 | $1,082.39 |  | $216.48
27054 | C |  | Removal of hip joint lining |  |  |  |  |
27060 | T |  | Removal of ischial bursa | 0049 | 19.9376 | $1,082.39 |  | $216.48
27062 | T |  | Remove femur lesion/bursa | 0049 | 19.9376 | $1,082.39 |  | $216.48
27065 | T |  | Removal of hip bone lesion | 0049 | 19.9376 | $1,082.39 |  | $216.48
27066 | T |  | Removal of hip bone lesion | 0050 | 25.1166 | $1,363.56 |  | $272.71
27067 | T |  | Remove/graft hip bone lesion | 0050 | 25.1166 | $1,363.56 |  | $272.71
27070 | C |  | Partial removal of hip bone |  |  |  |  |
27071 | C |  | Partial removal of hip bone |  |  |  |  |
27075 | C |  | Extensive hip surgery |  |  |  |  |
27076 | C |  | Extensive hip surgery |  |  |  |  |
27077 | C |  | Extensive hip surgery |  |  |  |  |
27078 | C |  | Extensive hip surgery |  |  |  |  |
27079 | C |  | Extensive hip surgery |  |  |  |  |
27080 | T |  | Removal of tail bone | 0050 | 25.1166 | $1,363.56 |  | $272.71
27086 | T |  | Remove hip foreign body | 0020 | 7.3105 | $396.88 | $113.25 | $79.38
27087 | T |  | Remove hip foreign body | 0049 | 19.9376 | $1,082.39 |  | $216.48
27090 | C |  | Removal of hip prosthesis |  |  |  |  |
27091 | C |  | Removal of hip prosthesis |  |  |  |  |
27093 | N |  | Injection for hip x-ray |  |  |  |  |
27095 | N |  | Injection for hip x-ray |  |  |  |  |
27096 | E |  | Inject sacroiliac joint |  |  |  |  |
27097 | T |  | Revision of hip tendon | 0050 | 25.1166 | $1,363.56 |  | $272.71
27098 | T |  | Transfer tendon to pelvis | 0050 | 25.1166 | $1,363.56 |  | $272.71
27100 | T |  | Transfer of abdominal muscle | 0051 | 34.9381 | $1,896.75 |  | $379.35
27105 | T |  | Transfer of spinal muscle | 0051 | 34.9381 | $1,896.75 |  | $379.35
27110 | T |  | Transfer of iliopsoas muscle | 0051 | 34.9381 | $1,896.75 |  | $379.35
27111 | T |  | Transfer of iliopsoas muscle | 0051 | 34.9381 | $1,896.75 |  | $379.35
27120 | C |  | Reconstruction of hip socket |  |  |  |  |
27122 | C |  | Reconstruction of hip socket |  |  |  |  |
27125 | C |  | Partial hip replacement |  |  |  |  |
27130 | C |  | Total hip arthroplasty |  |  |  |  |
27132 | C |  | Total hip arthroplasty |  |  |  |  |
27134 | C |  | Revise hip joint replacement |  |  |  |  |
27137 | C |  | Revise hip joint replacement |  |  |  |  |
27138 | C |  | Revise hip joint replacement |  |  |  |  |
27140 | C |  | Transplant femur ridge |  |  |  |  |
27146 | C |  | Incision of hip bone |  |  |  |  |
27147 | C |  | Revision of hip bone |  |  |  |  |
27151 | C |  | Incision of hip bones |  |  |  |  |
27156 | C |  | Revision of hip bones |  |  |  |  |
27158 | C |  | Revision of pelvis |  |  |  |  |
27161 | C |  | Incision of neck of femur |  |  |  |  |
27165 | C |  | Incision/fixation of femur |  |  |  |  |
27170 | C |  | Repair/graft femur head/neck |  |  |  |  |
27175 | C |  | Treat slipped epiphysis |  |  |  |  |
27176 | C |  | Treat slipped epiphysis |  |  |  |  |
27177 | C |  | Treat slipped epiphysis |  |  |  |  |
27178 | C |  | Treat slipped epiphysis |  |  |  |  |
27179 | C |  | Revise head/neck of femur |  |  |  |  |
27181 | C |  | Treat slipped epiphysis |  |  |  |  |
27185 | C |  | Revision of femur epiphysis |  |  |  |  |
27187 | C |  | Reinforce hip bones |  |  |  |  |
27193 | T |  | Treat pelvic ring fracture | 0043 | 1.9233 | $104.41 |  | $20.88
27194 | T |  | Treat pelvic ring fracture | 0045 | 13.5546 | $735.87 | $268.47 | $147.17
27200 | T |  | Treat tail bone fracture | 0043 | 1.9233 | $104.41 |  | $20.88
27202 | T |  | Treat tail bone fracture | 0046 | 31.9719 | $1,735.72 | $535.76 | $347.14
27215 | C |  | Treat pelvic fracture(s) |  |  |  |  |
27216 | T |  | Treat pelvic ring fracture | 0050 | 25.1166 | $1,363.56 |  | $272.71
27217 | C |  | Treat pelvic ring fracture |  |  |  |  |
27218 | C |  | Treat pelvic ring fracture |  |  |  |  |
27220 | T |  | Treat hip socket fracture | 0043 | 1.9233 | $104.41 |  | $20.88
27222 | C |  | Treat hip socket fracture |  |  |  |  |
27226 | C |  | Treat hip wall fracture |  |  |  |  |
27227 | C |  | Treat hip fracture(s) |  |  |  |  |
27228 | C |  | Treat hip fracture(s) |  |  |  |  |
27230 | T |  | Treat thigh fracture | 0043 | 1.9233 | $104.41 |  | $20.88
27232 | C |  | Treat thigh fracture |  |  |  |  |
27235 | T |  | Treat thigh fracture | 0050 | 25.1166 | $1,363.56 |  | $272.71
27236 | C |  | Treat thigh fracture |  |  |  |  |
27238 | T |  | Treat thigh fracture | 0043 | 1.9233 | $104.41 |  | $20.88
27240 | C |  | Treat thigh fracture |  |  |  |  |
27244 | C |  | Treat thigh fracture |  |  |  |  |
27245 | C |  | Treat thigh fracture |  |  |  |  |
27246 | T |  | Treat thigh fracture | 0043 | 1.9233 | $104.41 |  | $20.88
27248 | C |  | Treat thigh fracture |  |  |  |  |
27250 | T |  | Treat hip dislocation | 0043 | 1.9233 | $104.41 |  | $20.88
27252 | T |  | Treat hip dislocation | 0045 | 13.5546 | $735.87 | $268.47 | $147.17
27253 | C |  | Treat hip dislocation |  |  |  |  |
27254 | C |  | Treat hip dislocation |  |  |  |  |
27256 | T |  | Treat hip dislocation | 0043 | 1.9233 | $104.41 |  | $20.88
27257 | T |  | Treat hip dislocation | 0045 | 13.5546 | $735.87 | $268.47 | $147.17
27258 | C |  | Treat hip dislocation |  |  |  |  |
27259 | C |  | Treat hip dislocation |  |  |  |  |
27265 | T |  | Treat hip dislocation | 0043 | 1.9233 | $104.41 |  | $20.88
27266 | T |  | Treat hip dislocation | 0045 | 13.5546 | $735.87 | $268.47 | $147.17
27275 | T |  | Manipulation of hip joint | 0045 | 13.5546 | $735.87 | $268.47 | $147.17
27280 | C |  | Fusion of sacroiliac joint |  |  |  |  |
27282 | C |  | Fusion of pubic bones |  |  |  |  |
27284 | C |  | Fusion of hip joint |  |  |  |  |
27286 | C |  | Fusion of hip joint |  |  |  |  |
27290 | C |  | Amputation of leg at hip |  |  |  |  |
27295 | C |  | Amputation of leg at hip |  |  |  |  |
27299 | T |  | Pelvis/hip joint surgery | 0043 | 1.9233 | $104.41 |  | $20.88
27301 | T |  | Drain thigh/knee lesion | 0008 | 16.8303 | $913.70 |  | $182.74
27303 | C |  | Drainage of bone lesion |  |  |  |  |
27305 | T |  | Incise thigh tendon & fascia | 0049 | 19.9376 | $1,082.39 |  | $216.48
27306 | T |  | Incision of thigh tendon | 0049 | 19.9376 | $1,082.39 |  | $216.48
27307 | T |  | Incision of thigh tendons | 0049 | 19.9376 | $1,082.39 |  | $216.48
27310 | T |  | Exploration of knee joint | 0050 | 25.1166 | $1,363.56 |  | $272.71
27315 | T |  | Partial removal, thigh nerve | 0220 | 16.5293 | $897.36 |  | $179.47
27320 | T |  | Partial removal, thigh nerve | 0220 | 16.5293 | $897.36 |  | $179.47
27323 | T |  | Biopsy, thigh soft tissues | 0021 | 14.5749 | $791.26 | $219.48 | $158.25
27324 | T |  | Biopsy, thigh soft tissues | 0022 | 18.6725 | $1,013.71 | $354.45 | $202.74
27327 | T |  | Removal of thigh lesion | 0022 | 18.6725 | $1,013.71 | $354.45 | $202.74
27328 | T |  | Removal of thigh lesion | 0022 | 18.6725 | $1,013.71 | $354.45 | $202.74
27329 | T |  | Remove tumor, thigh/knee | 0022 | 18.6725 | $1,013.71 | $354.45 | $202.74
27330 | T |  | Biopsy, knee joint lining | 0050 | 25.1166 | $1,363.56 |  | $272.71
27331 | T |  | Explore/treat knee joint | 0050 | 25.1166 | $1,363.56 |  | $272.71
27332 | T |  | Removal of knee cartilage | 0050 | 25.1166 | $1,363.56 |  | $272.71
27333 | T |  | Removal of knee cartilage | 0050 | 25.1166 | $1,363.56 |  | $272.71
27334 | T |  | Remove knee joint lining | 0050 | 25.1166 | $1,363.56 |  | $272.71
27335 | T |  | Remove knee joint lining | 0050 | 25.1166 | $1,363.56 |  | $272.71
27340 | T |  | Removal of kneecap bursa | 0049 | 19.9376 | $1,082.39 |  | $216.48
27345 | T |  | Removal of knee cyst | 0049 | 19.9376 | $1,082.39 |  | $216.48
27347 | T |  | Remove knee cyst | 0049 | 19.9376 | $1,082.39 |  | $216.48
27350 | T |  | Removal of kneecap | 0050 | 25.1166 | $1,363.56 |  | $272.71
27355 | T |  | Remove femur lesion | 0050 | 25.1166 | $1,363.56 |  | $272.71
27356 | T |  | Remove femur lesion/graft | 0050 | 25.1166 | $1,363.56 |  | $272.71
27357 | T |  | Remove femur lesion/graft | 0050 | 25.1166 | $1,363.56 |  | $272.71
27358 | T |  | Remove femur lesion/fixation | 0050 | 25.1166 | $1,363.56 |  | $272.71
27360 | T |  | Partial removal, leg bone(s) | 0050 | 25.1166 | $1,363.56 |  | $272.71
27365 | C |  | Extensive leg surgery |  |  |  |  |
27370 | N |  | Injection for knee x-ray |  |  |  |  |
27372 | T |  | Removal of foreign body | 0022 | 18.6725 | $1,013.71 | $354.45 | $202.74
27380 | T |  | Repair of kneecap tendon | 0049 | 19.9376 | $1,082.39 |  | $216.48
27381 | T |  | Repair/graft kneecap tendon | 0049 | 19.9376 | $1,082.39 |  | $216.48
27385 | T |  | Repair of thigh muscle | 0049 | 19.9376 | $1,082.39 |  | $216.48
27386 | T |  | Repair/graft of thigh muscle | 0049 | 19.9376 | $1,082.39 |  | $216.48
27390 | T |  | Incision of thigh tendon | 0049 | 19.9376 | $1,082.39 |  | $216.48
27391 | T |  | Incision of thigh tendons | 0049 | 19.9376 | $1,082.39 |  | $216.48
27392 | T |  | Incision of thigh tendons | 0049 | 19.9376 | $1,082.39 |  | $216.48
27393 | T |  | Lengthening of thigh tendon | 0050 | 25.1166 | $1,363.56 |  | $272.71
27394 | T |  | Lengthening of thigh tendons | 0050 | 25.1166 | $1,363.56 |  | $272.71
27395 | T |  | Lengthening of thigh tendons | 0051 | 34.9381 | $1,896.75 |  | $379.35
27396 | T |  | Transplant of thigh tendon | 0050 | 25.1166 | $1,363.56 |  | $272.71
27397 | T |  | Transplants of thigh tendons | 0051 | 34.9381 | $1,896.75 |  | $379.35
27400 | T |  | Revise thigh muscles/tendons | 0051 | 34.9381 | $1,896.75 |  | $379.35
27403 | T |  | Repair of knee cartilage | 0050 | 25.1166 | $1,363.56 |  | $272.71
27405 | T |  | Repair of knee ligament | 0051 | 34.9381 | $1,896.75 |  | $379.35
27407 | T |  | Repair of knee ligament | 0051 | 34.9381 | $1,896.75 |  | $379.35
27409 | T |  | Repair of knee ligaments | 0051 | 34.9381 | $1,896.75 |  | $379.35
27418 | T |  | Repair degenerated kneecap | 0051 | 34.9381 | $1,896.75 |  | $379.35
27420 | T |  | Revision of unstable kneecap | 0051 | 34.9381 | $1,896.75 |  | $379.35
27422 | T |  | Revision of unstable kneecap | 0051 | 34.9381 | $1,896.75 |  | $379.35
27424 | T |  | Revision/removal of kneecap | 0051 | 34.9381 | $1,896.75 |  | $379.35
27425 | T |  | Lateral retinacular release | 0050 | 25.1166 | $1,363.56 |  | $272.71
27427 | T |  | Reconstruction, knee | 0052 | 42.6430 | $2,315.05 |  | $463.01
27428 | T |  | Reconstruction, knee | 0052 | 42.6430 | $2,315.05 |  | $463.01
27429 | T |  | Reconstruction, knee | 0052 | 42.6430 | $2,315.05 |  | $463.01
27430 | T |  | Revision of thigh muscles | 0051 | 34.9381 | $1,896.75 |  | $379.35
27435 | T |  | Incision of knee joint | 0051 | 34.9381 | $1,896.75 |  | $379.35
27437 | T |  | Revise kneecap | 0047 | 30.3786 | $1,649.22 | $537.03 | $329.84
27438 | T |  | Revise kneecap with implant | 0048 | 47.4707 | $2,577.14 | $695.60 | $515.43
27440 | T |  | Revision of knee joint | 0047 | 30.3786 | $1,649.22 | $537.03 | $329.84
27441 | T |  | Revision of knee joint | 0047 | 30.3786 | $1,649.22 | $537.03 | $329.84
27442 | T |  | Revision of knee joint | 0047 | 30.3786 | $1,649.22 | $537.03 | $329.84
27443 | T |  | Revision of knee joint | 0047 | 30.3786 | $1,649.22 | $537.03 | $329.84
27445 | C |  | Revision of knee joint |  |  |  |  |
27446 | T |  | Revision of knee joint | 0681 | 96.7483 | $5,252.37 | $2,090.21 | $1,050.47
27447 | C |  | Total knee arthroplasty |  |  |  |  |
27448 | C |  | Incision of thigh |  |  |  |  |
27450 | C |  | Incision of thigh |  |  |  |  |
27454 | C |  | Realignment of thigh bone |  |  |  |  |
27455 | C |  | Realignment of knee |  |  |  |  |
27457 | C |  | Realignment of knee |  |  |  |  |
27465 | C |  | Shortening of thigh bone |  |  |  |  |
27466 | C |  | Lengthening of thigh bone |  |  |  |  |
27468 | C |  | Shorten/lengthen thighs |  |  |  |  |
27470 | C |  | Repair of thigh |  |  |  |  |
27472 | C |  | Repair/graft of thigh |  |  |  |  |
27475 | C |  | Surgery to stop leg growth |  |  |  |  |
27477 | C |  | Surgery to stop leg growth |  |  |  |  |
27479 | C |  | Surgery to stop leg growth |  |  |  |  |
27485 | C |  | Surgery to stop leg growth |  |  |  |  |
27486 | C |  | Revise/replace knee joint |  |  |  |  |
27487 | C |  | Revise/replace knee joint |  |  |  |  |
27488 | C |  | Removal of knee prosthesis |  |  |  |  |
27495 | C |  | Reinforce thigh |  |  |  |  |
27496 | T |  | Decompression of thigh/knee | 0049 | 19.9376 | $1,082.39 |  | $216.48
27497 | T |  | Decompression of thigh/knee | 0049 | 19.9376 | $1,082.39 |  | $216.48
27498 | T |  | Decompression of thigh/knee | 0049 | 19.9376 | $1,082.39 |  | $216.48
27499 | T |  | Decompression of thigh/knee | 0049 | 19.9376 | $1,082.39 |  | $216.48
27500 | T |  | Treatment of thigh fracture | 0043 | 1.9233 | $104.41 |  | $20.88
27501 | T |  | Treatment of thigh fracture | 0043 | 1.9233 | $104.41 |  | $20.88
27502 | T |  | Treatment of thigh fracture | 0043 | 1.9233 | $104.41 |  | $20.88
27503 | T |  | Treatment of thigh fracture | 0043 | 1.9233 | $104.41 |  | $20.88
27506 | C |  | Treatment of thigh fracture |  |  |  |  |
27507 | C |  | Treatment of thigh fracture |  |  |  |  |
27508 | T |  | Treatment of thigh fracture | 0043 | 1.9233 | $104.41 |  | $20.88
27509 | T |  | Treatment of thigh fracture | 0046 | 31.9719 | $1,735.72 | $535.76 | $347.14
27510 | T |  | Treatment of thigh fracture | 0043 | 1.9233 | $104.41 |  | $20.88
27511 | C |  | Treatment of thigh fracture |  |  |  |  |
27513 | C |  | Treatment of thigh fracture |  |  |  |  |
27514 | C |  | Treatment of thigh fracture |  |  |  |  |
27516 | T |  | Treat thigh fx growth plate | 0043 | 1.9233 | $104.41 |  | $20.88
27517 | T |  | Treat thigh fx growth plate | 0043 | 1.9233 | $104.41 |  | $20.88
27519 | C |  | Treat thigh fx growth plate |  |  |  |  |
27520 | T |  | Treat kneecap fracture | 0043 | 1.9233 | $104.41 |  | $20.88
27524 | T |  | Treat kneecap fracture | 0046 | 31.9719 | $1,735.72 | $535.76 | $347.14
27530 | T |  | Treat knee fracture | 0043 | 1.9233 | $104.41 |  | $20.88
27532 | T |  | Treat knee fracture | 0043 | 1.9233 | $104.41 |  | $20.88
27535 | C |  | Treat knee fracture |  |  |  |  |
27536 | C |  | Treat knee fracture |  |  |  |  |
27538 | T |  | Treat knee fracture(s) | 0043 | 1.9233 | $104.41 |  | $20.88
27540 | C |  | Treat knee fracture |  |  |  |  |
27550 | T |  | Treat knee dislocation | 0043 | 1.9233 | $104.41 |  | $20.88
27552 | T |  | Treat knee dislocation | 0045 | 13.5546 | $735.87 | $268.47 | $147.17
27556 | C |  | Treat knee dislocation |  |  |  |  |
27557 | C |  | Treat knee dislocation |  |  |  |  |
27558 | C |  | Treat knee dislocation |  |  |  |  |
27560 | T |  | Treat kneecap dislocation | 0043 | 1.9233 | $104.41 |  | $20.88
27562 | T |  | Treat kneecap dislocation | 0045 | 13.5546 | $735.87 | $268.47 | $147.17
27566 | T |  | Treat kneecap dislocation | 0046 | 31.9719 | $1,735.72 | $535.76 | $347.14
27570 | T |  | Fixation of knee joint | 0045 | 13.5546 | $735.87 | $268.47 | $147.17
27580 | C |  | Fusion of knee |  |  |  |  |
27590 | C |  | Amputate leg at thigh |  |  |  |  |
27591 | C |  | Amputate leg at thigh |  |  |  |  |
27592 | C |  | Amputate leg at thigh |  |  |  |  |
27594 | T |  | Amputation follow-up surgery | 0049 | 19.9376 | $1,082.39 |  | $216.48
27596 | C |  | Amputation follow-up surgery |  |  |  |  |
27598 | C |  | Amputate lower leg at knee |  |  |  |  |
27599 | T |  | Leg surgery procedure | 0043 | 1.9233 | $104.41 |  | $20.88
27600 | T |  | Decompression of lower leg | 0049 | 19.9376 | $1,082.39 |  | $216.48
27601 | T |  | Decompression of lower leg | 0049 | 19.9376 | $1,082.39 |  | $216.48
27602 | T |  | Decompression of lower leg | 0049 | 19.9376 | $1,082.39 |  | $216.48
27603 | T |  | Drain lower leg lesion | 0008 | 16.8303 | $913.70 |  | $182.74
27604 | T |  | Drain lower leg bursa | 0049 | 19.9376 | $1,082.39 |  | $216.48
27605 | T |  | Incision of achilles tendon | 0055 | 18.8851 | $1,025.25 | $355.34 | $205.05
27606 | T |  | Incision of achilles tendon | 0049 | 19.9376 | $1,082.39 |  | $216.48
27607 | T |  | Treat lower leg bone lesion | 0049 | 19.9376 | $1,082.39 |  | $216.48
27610 | T |  | Explore/treat ankle joint | 0050 | 25.1166 | $1,363.56 |  | $272.71
27612 | T |  | Exploration of ankle joint | 0050 | 25.1166 | $1,363.56 |  | $272.71
27613 | T |  | Biopsy lower leg soft tissue | 0020 | 7.3105 | $396.88 | $113.25 | $79.38
27614 | T |  | Biopsy lower leg soft tissue | 0022 | 18.6725 | $1,013.71 | $354.45 | $202.74
27615 | T |  | Remove tumor, lower leg | 0046 | 31.9719 | $1,735.72 | $535.76 | $347.14
27618 | T |  | Remove lower leg lesion | 0021 | 14.5749 | $791.26 | $219.48 | $158.25
27619 | T |  | Remove lower leg lesion | 0022 | 18.6725 | $1,013.71 | $354.45 | $202.74
27620 | T |  | Explore/treat ankle joint | 0050 | 25.1166 | $1,363.56 |  | $272.71
27625 | T |  | Remove ankle joint lining | 0050 | 25.1166 | $1,363.56 |  | $272.71
27626 | T |  | Remove ankle joint lining | 0050 | 25.1166 | $1,363.56 |  | $272.71
27630 | T |  | Removal of tendon lesion | 0049 | 19.9376 | $1,082.39 |  | $216.48
27635 | T |  | Remove lower leg bone lesion | 0050 | 25.1166 | $1,363.56 |  | $272.71
27637 | T |  | Remove/graft leg bone lesion | 0050 | 25.1166 | $1,363.56 |  | $272.71
27638 | T |  | Remove/graft leg bone lesion | 0050 | 25.1166 | $1,363.56 |  | $272.71
27640 | T |  | Partial removal of tibia | 0051 | 34.9381 | $1,896.75 |  | $379.35
27641 | T |  | Partial removal of fibula | 0050 | 25.1166 | $1,363.56 |  | $272.71
27645 | C |  | Extensive lower leg surgery |  |  |  |  |
27646 | C |  | Extensive lower leg surgery |  |  |  |  |
27647 | T |  | Extensive ankle/heel surgery | 0051 | 34.9381 | $1,896.75 |  | $379.35
27648 | N |  | Injection for ankle x-ray |  |  |  |  |
27650 | T |  | Repair achilles tendon | 0051 | 34.9381 | $1,896.75 |  | $379.35
27652 | T |  | Repair/graft achilles tendon | 0051 | 34.9381 | $1,896.75 |  | $379.35
27654 | T |  | Repair of achilles tendon | 0051 | 34.9381 | $1,896.75 |  | $379.35
27656 | T |  | Repair leg fascia defect | 0049 | 19.9376 | $1,082.39 |  | $216.48
27658 | T |  | Repair of leg tendon, each | 0049 | 19.9376 | $1,082.39 |  | $216.48
27659 | T |  | Repair of leg tendon, each | 0049 | 19.9376 | $1,082.39 |  | $216.48
27664 | T |  | Repair of leg tendon, each | 0049 | 19.9376 | $1,082.39 |  | $216.48
27665 | T |  | Repair of leg tendon, each | 0050 | 25.1166 | $1,363.56 |  | $272.71
27675 | T |  | Repair lower leg tendons | 0049 | 19.9376 | $1,082.39 |  | $216.48
27676 | T |  | Repair lower leg tendons | 0050 | 25.1166 | $1,363.56 |  | $272.71
27680 | T |  | Release of lower leg tendon | 0050 | 25.1166 | $1,363.56 |  | $272.71
27681 | T |  | Release of lower leg tendons | 0050 | 25.1166 | $1,363.56 |  | $272.71
27685 | T |  | Revision of lower leg tendon | 0050 | 25.1166 | $1,363.56 |  | $272.71
27686 | T |  | Revise lower leg tendons | 0050 | 25.1166 | $1,363.56 |  | $272.71
27687 | T |  | Revision of calf tendon | 0050 | 25.1166 | $1,363.56 |  | $272.71
27690 | T |  | Revise lower leg tendon | 0051 | 34.9381 | $1,896.75 |  | $379.35
27691 | T |  | Revise lower leg tendon | 0051 | 34.9381 | $1,896.75 |  | $379.35
27692 | T |  | Revise additional leg tendon | 0051 | 34.9381 | $1,896.75 |  | $379.35
27695 | T |  | Repair of ankle ligament | 0050 | 25.1166 | $1,363.56 |  | $272.71
27696 | T |  | Repair of ankle ligaments | 0050 | 25.1166 | $1,363.56 |  | $272.71
27698 | T |  | Repair of ankle ligament | 0050 | 25.1166 | $1,363.56 |  | $272.71
27700 | T |  | Revision of ankle joint | 0047 | 30.3786 | $1,649.22 | $537.03 | $329.84
27702 | C |  | Reconstruct ankle joint |  |  |  |  |
27703 | C |  | Reconstruction, ankle joint |  |  |  |  |
27704 | T |  | Removal of ankle implant | 0049 | 19.9376 | $1,082.39 |  | $216.48
27705 | T |  | Incision of tibia | 0051 | 34.9381 | $1,896.75 |  | $379.35
27707 | T |  | Incision of fibula | 0049 | 19.9376 | $1,082.39 |  | $216.48
27709 | T |  | Incision of tibia & fibula | 0050 | 25.1166 | $1,363.56 |  | $272.71
27712 | C |  | Realignment of lower leg |  |  |  |  |
27715 | C |  | Revision of lower leg |  |  |  |  |
27720 | C |  | Repair of tibia |  |  |  |  |
27722 | C |  | Repair/graft of tibia |  |  |  |  |
27724 | C |  | Repair/graft of tibia |  |  |  |  |
27725 | C |  | Repair of lower leg |  |  |  |  |
27727 | C |  | Repair of lower leg |  |  |  |  |
27730 | T |  | Repair of tibia epiphysis | 0050 | 25.1166 | $1,363.56 |  | $272.71
27732 | T |  | Repair of fibula epiphysis | 0050 | 25.1166 | $1,363.56 |  | $272.71
27734 | T |  | Repair lower leg epiphyses | 0050 | 25.1166 | $1,363.56 |  | $272.71
27740 | T |  | Repair of leg epiphyses | 0050 | 25.1166 | $1,363.56 |  | $272.71
27742 | T |  | Repair of leg epiphyses | 0051 | 34.9381 | $1,896.75 |  | $379.35
27745 | T |  | Reinforce tibia | 0051 | 34.9381 | $1,896.75 |  | $379.35
27750 | T |  | Treatment of tibia fracture | 0043 | 1.9233 | $104.41 |  | $20.88
27752 | T |  | Treatment of tibia fracture | 0043 | 1.9233 | $104.41 |  | $20.88
27756 | T |  | Treatment of tibia fracture | 0046 | 31.9719 | $1,735.72 | $535.76 | $347.14
27758 | T |  | Treatment of tibia fracture | 0046 | 31.9719 | $1,735.72 | $535.76 | $347.14
27759 | T |  | Treatment of tibia fracture | 0046 | 31.9719 | $1,735.72 | $535.76 | $347.14
27760 | T |  | Treatment of ankle fracture | 0043 | 1.9233 | $104.41 |  | $20.88
27762 | T |  | Treatment of ankle fracture | 0043 | 1.9233 | $104.41 |  | $20.88
27766 | T |  | Treatment of ankle fracture | 0046 | 31.9719 | $1,735.72 | $535.76 | $347.14
27780 | T |  | Treatment of fibula fracture | 0043 | 1.9233 | $104.41 |  | $20.88
27781 | T |  | Treatment of fibula fracture | 0043 | 1.9233 | $104.41 |  | $20.88
27784 | T |  | Treatment of fibula fracture | 0046 | 31.9719 | $1,735.72 | $535.76 | $347.14
27786 | T |  | Treatment of ankle fracture | 0043 | 1.9233 | $104.41 |  | $20.88
27788 | T |  | Treatment of ankle fracture | 0043 | 1.9233 | $104.41 |  | $20.88
27792 | T |  | Treatment of ankle fracture | 0046 | 31.9719 | $1,735.72 | $535.76 | $347.14
27808 | T |  | Treatment of ankle fracture | 0043 | 1.9233 | $104.41 |  | $20.88
27810 | T |  | Treatment of ankle fracture | 0043 | 1.9233 | $104.41 |  | $20.88
27814 | T |  | Treatment of ankle fracture | 0046 | 31.9719 | $1,735.72 | $535.76 | $347.14
27816 | T |  | Treatment of ankle fracture | 0043 | 1.9233 | $104.41 |  | $20.88
27818 | T |  | Treatment of ankle fracture | 0043 | 1.9233 | $104.41 |  | $20.88
27822 | T |  | Treatment of ankle fracture | 0046 | 31.9719 | $1,735.72 | $535.76 | $347.14
27823 | T |  | Treatment of ankle fracture | 0046 | 31.9719 | $1,735.72 | $535.76 | $347.14
27824 | T |  | Treat lower leg fracture | 0043 | 1.9233 | $104.41 |  | $20.88
27825 | T |  | Treat lower leg fracture | 0043 | 1.9233 | $104.41 |  | $20.88
27826 | T |  | Treat lower leg fracture | 0046 | 31.9719 | $1,735.72 | $535.76 | $347.14
27827 | T |  | Treat lower leg fracture | 0046 | 31.9719 | $1,735.72 | $535.76 | $347.14
27828 | T |  | Treat lower leg fracture | 0046 | 31.9719 | $1,735.72 | $535.76 | $347.14
27829 | T |  | Treat lower leg joint | 0046 | 31.9719 | $1,735.72 | $535.76 | $347.14
27830 | T |  | Treat lower leg dislocation | 0043 | 1.9233 | $104.41 |  | $20.88
27831 | T |  | Treat lower leg dislocation | 0043 | 1.9233 | $104.41 |  | $20.88
27832 | T |  | Treat lower leg dislocation | 0046 | 31.9719 | $1,735.72 | $535.76 | $347.14
27840 | T |  | Treat ankle dislocation | 0043 | 1.9233 | $104.41 |  | $20.88
27842 | T |  | Treat ankle dislocation | 0045 | 13.5546 | $735.87 | $268.47 | $147.17
27846 | T |  | Treat ankle dislocation | 0046 | 31.9719 | $1,735.72 | $535.76 | $347.14
27848 | T |  | Treat ankle dislocation | 0046 | 31.9719 | $1,735.72 | $535.76 | $347.14
27860 | T |  | Fixation of ankle joint | 0045 | 13.5546 | $735.87 | $268.47 | $147.17
27870 | T |  | Fusion of ankle joint | 0051 | 34.9381 | $1,896.75 |  | $379.35
27871 | T |  | Fusion of tibiofibular joint | 0051 | 34.9381 | $1,896.75 |  | $379.35
27880 | C |  | Amputation of lower leg |  |  |  |  |
27881 | C |  | Amputation of lower leg |  |  |  |  |
27882 | C |  | Amputation of lower leg |  |  |  |  |
27884 | T |  | Amputation follow-up surgery | 0049 | 19.9376 | $1,082.39 |  | $216.48
27886 | C |  | Amputation follow-up surgery |  |  |  |  |
27888 | C |  | Amputation of foot at ankle |  |  |  |  |
27889 | T |  | Amputation of foot at ankle | 0050 | 25.1166 | $1,363.56 |  | $272.71
27892 | T |  | Decompression of leg | 0049 | 19.9376 | $1,082.39 |  | $216.48
27893 | T |  | Decompression of leg | 0049 | 19.9376 | $1,082.39 |  | $216.48
27894 | T |  | Decompression of leg | 0049 | 19.9376 | $1,082.39 |  | $216.48
27899 | T |  | Leg/ankle surgery procedure | 0043 | 1.9233 | $104.41 |  | $20.88
28001 | T |  | Drainage of bursa of foot | 0008 | 16.8303 | $913.70 |  | $182.74
28002 | T |  | Treatment of foot infection | 0049 | 19.9376 | $1,082.39 |  | $216.48
28003 | T |  | Treatment of foot infection | 0049 | 19.9376 | $1,082.39 |  | $216.48
28005 | T |  | Treat foot bone lesion | 0055 | 18.8851 | $1,025.25 | $355.34 | $205.05
28008 | T |  | Incision of foot fascia | 0055 | 18.8851 | $1,025.25 | $355.34 | $205.05
28010 | T |  | Incision of toe tendon | 0055 | 18.8851 | $1,025.25 | $355.34 | $205.05
28011 | T |  | Incision of toe tendons | 0055 | 18.8851 | $1,025.25 | $355.34 | $205.05
28020 | T |  | Exploration of foot joint | 0055 | 18.8851 | $1,025.25 | $355.34 | $205.05
28022 | T |  | Exploration of foot joint | 0055 | 18.8851 | $1,025.25 | $355.34 | $205.05
28024 | T |  | Exploration of toe joint | 0055 | 18.8851 | $1,025.25 | $355.34 | $205.05
28030 | T |  | Removal of foot nerve | 0220 | 16.5293 | $897.36 |  | $179.47
28035 | T |  | Decompression of tibia nerve | 0220 | 16.5293 | $897.36 |  | $179.47
28043 | T |  | Excision of foot lesion | 0021 | 14.5749 | $791.26 | $219.48 | $158.25
28045 | T |  | Excision of foot lesion | 0055 | 18.8851 | $1,025.25 | $355.34 | $205.05
28046 | T |  | Resection of tumor, foot | 0055 | 18.8851 | $1,025.25 | $355.34 | $205.05
28050 | T |  | Biopsy of foot joint lining | 0055 | 18.8851 | $1,025.25 | $355.34 | $205.05
28052 | T |  | Biopsy of foot joint lining | 0055 | 18.8851 | $1,025.25 | $355.34 | $205.05
28054 | T |  | Biopsy of toe joint lining | 0055 | 18.8851 | $1,025.25 | $355.34 | $205.05
28060 | T |  | Partial removal, foot fascia | 0056 | 25.1591 | $1,365.86 | $405.81 | $273.17
28062 | T |  | Removal of foot fascia | 0056 | 25.1591 | $1,365.86 | $405.81 | $273.17
28070 | T |  | Removal of foot joint lining | 0056 | 25.1591 | $1,365.86 | $405.81 | $273.17
28072 | T |  | Removal of foot joint lining | 0056 | 25.1591 | $1,365.86 | $405.81 | $273.17
28080 | T |  | Removal of foot lesion | 0055 | 18.8851 | $1,025.25 | $355.34 | $205.05
28086 | T |  | Excise foot tendon sheath | 0055 | 18.8851 | $1,025.25 | $355.34 | $205.05
28088 | T |  | Excise foot tendon sheath | 0055 | 18.8851 | $1,025.25 | $355.34 | $205.05
28090 | T |  | Removal of foot lesion | 0055 | 18.8851 | $1,025.25 | $355.34 | $205.05
28092 | T |  | Removal of toe lesions | 0055 | 18.8851 | $1,025.25 | $355.34 | $205.05
28100 | T |  | Removal of ankle/heel lesion | 0055 | 18.8851 | $1,025.25 | $355.34 | $205.05
28102 | T |  | Remove/graft foot lesion | 0056 | 25.1591 | $1,365.86 | $405.81 | $273.17
28103 | T |  | Remove/graft foot lesion | 0056 | 25.1591 | $1,365.86 | $405.81 | $273.17
28104 | T |  | Removal of foot lesion | 0055 | 18.8851 | $1,025.25 | $355.34 | $205.05
28106 | T |  | Remove/graft foot lesion | 0056 | 25.1591 | $1,365.86 | $405.81 | $273.17
28107 | T |  | Remove/graft foot lesion | 0056 | 25.1591 | $1,365.86 | $405.81 | $273.17
28108 | T |  | Removal of toe lesions | 0055 | 18.8851 | $1,025.25 | $355.34 | $205.05
28110 | T |  | Part removal of metatarsal | 0056 | 25.1591 | $1,365.86 | $405.81 | $273.17
28111 | T |  | Part removal of metatarsal | 0055 | 18.8851 | $1,025.25 | $355.34 | $205.05
28112 | T |  | Part removal of metatarsal | 0055 | 18.8851 | $1,025.25 | $355.34 | $205.05
28113 | T |  | Part removal of metatarsal | 0055 | 18.8851 | $1,025.25 | $355.34 | $205.05
28114 | T |  | Removal of metatarsal heads | 0055 | 18.8851 | $1,025.25 | $355.34 | $205.05
28116 | T |  | Revision of foot | 0055 | 18.8851 | $1,025.25 | $355.34 | $205.05
28118 | T |  | Removal of heel bone | 0055 | 18.8851 | $1,025.25 | $355.34 | $205.05
28119 | T |  | Removal of heel spur | 0055 | 18.8851 | $1,025.25 | $355.34 | $205.05
28120 | T |  | Part removal of ankle/heel | 0055 | 18.8851 | $1,025.25 | $355.34 | $205.05
28122 | T |  | Partial removal of foot bone | 0055 | 18.8851 | $1,025.25 | $355.34 | $205.05
28124 | T |  | Partial removal of toe | 0055 | 18.8851 | $1,025.25 | $355.34 | $205.05
28126 | T |  | Partial removal of toe | 0055 | 18.8851 | $1,025.25 | $355.34 | $205.05
28130 | T |  | Removal of ankle bone | 0055 | 18.8851 | $1,025.25 | $355.34 | $205.05
28140 | T |  | Removal of metatarsal | 0055 | 18.8851 | $1,025.25 | $355.34 | $205.05
28150 | T |  | Removal of toe | 0055 | 18.8851 | $1,025.25 | $355.34 | $205.05
28153 | T |  | Partial removal of toe | 0055 | 18.8851 | $1,025.25 | $355.34 | $205.05
28160 | T |  | Partial removal of toe | 0055 | 18.8851 | $1,025.25 | $355.34 | $205.05
28171 | T |  | Extensive foot surgery | 0055 | 18.8851 | $1,025.25 | $355.34 | $205.05
28173 | T |  | Extensive foot surgery | 0055 | 18.8851 | $1,025.25 | $355.34 | $205.05
28175 | T |  | Extensive foot surgery | 0055 | 18.8851 | $1,025.25 | $355.34 | $205.05
28190 | T |  | Removal of foot foreign body | 0019 | 3.9807 | $216.11 | $71.87 | $43.22
28192 | T |  | Removal of foot foreign body | 0021 | 14.5749 | $791.26 | $219.48 | $158.25
28193 | T |  | Removal of foot foreign body | 0021 | 14.5749 | $791.26 | $219.48 | $158.25
28200 | T |  | Repair of foot tendon | 0055 | 18.8851 | $1,025.25 | $355.34 | $205.05
28202 | T |  | Repair/graft of foot tendon | 0056 | 25.1591 | $1,365.86 | $405.81 | $273.17
28208 | T |  | Repair of foot tendon | 0055 | 18.8851 | $1,025.25 | $355.34 | $205.05
28210 | T |  | Repair/graft of foot tendon | 0055 | 18.8851 | $1,025.25 | $355.34 | $205.05
28220 | T |  | Release of foot tendon | 0055 | 18.8851 | $1,025.25 | $355.34 | $205.05
28222 | T |  | Release of foot tendons | 0055 | 18.8851 | $1,025.25 | $355.34 | $205.05
28225 | T |  | Release of foot tendon | 0055 | 18.8851 | $1,025.25 | $355.34 | $205.05
28226 | T |  | Release of foot tendons | 0055 | 18.8851 | $1,025.25 | $355.34 | $205.05
28230 | T |  | Incision of foot tendon(s) | 0055 | 18.8851 | $1,025.25 | $355.34 | $205.05
28232 | T |  | Incision of toe tendon | 0055 | 18.8851 | $1,025.25 | $355.34 | $205.05
28234 | T |  | Incision of foot tendon | 0055 | 18.8851 | $1,025.25 | $355.34 | $205.05
28238 | T |  | Revision of foot tendon | 0056 | 25.1591 | $1,365.86 | $405.81 | $273.17
28240 | T |  | Release of big toe | 0055 | 18.8851 | $1,025.25 | $355.34 | $205.05
28250 | T |  | Revision of foot fascia | 0056 | 25.1591 | $1,365.86 | $405.81 | $273.17
28260 | T |  | Release of midfoot joint | 0056 | 25.1591 | $1,365.86 | $405.81 | $273.17
28261 | T |  | Revision of foot tendon | 0056 | 25.1591 | $1,365.86 | $405.81 | $273.17
28262 | T |  | Revision of foot and ankle | 0056 | 25.1591 | $1,365.86 | $405.81 | $273.17
28264 | T |  | Release of midfoot joint | 0056 | 25.1591 | $1,365.86 | $405.81 | $273.17
28270 | T |  | Release of foot contracture | 0055 | 18.8851 | $1,025.25 | $355.34 | $205.05
28272 | T |  | Release of toe joint, each | 0055 | 18.8851 | $1,025.25 | $355.34 | $205.05
28280 | T |  | Fusion of toes | 0055 | 18.8851 | $1,025.25 | $355.34 | $205.05
28285 | T |  | Repair of hammertoe | 0055 | 18.8851 | $1,025.25 | $355.34 | $205.05
28286 | T |  | Repair of hammertoe | 0055 | 18.8851 | $1,025.25 | $355.34 | $205.05
28288 | T |  | Partial removal of foot bone | 0056 | 25.1591 | $1,365.86 | $405.81 | $273.17
28289 | T |  | Repair hallux rigidus | 0056 | 25.1591 | $1,365.86 | $405.81 | $273.17
28290 | T |  | Correction of bunion | 0056 | 25.1591 | $1,365.86 | $405.81 | $273.17
28292 | T |  | Correction of bunion | 0057 | 25.4248 | $1,380.29 | $475.91 | $276.06
28293 | T |  | Correction of bunion | 0057 | 25.4248 | $1,380.29 | $475.91 | $276.06
28294 | T |  | Correction of bunion | 0056 | 25.1591 | $1,365.86 | $405.81 | $273.17
28296 | T |  | Correction of bunion | 0056 | 25.1591 | $1,365.86 | $405.81 | $273.17
28297 | T |  | Correction of bunion | 0057 | 25.4248 | $1,380.29 | $475.91 | $276.06
28298 | T |  | Correction of bunion | 0056 | 25.1591 | $1,365.86 | $405.81 | $273.17
28299 | T |  | Correction of bunion | 0057 | 25.4248 | $1,380.29 | $475.91 | $276.06
28300 | T |  | Incision of heel bone | 0056 | 25.1591 | $1,365.86 | $405.81 | $273.17
28302 | T |  | Incision of ankle bone | 0056 | 25.1591 | $1,365.86 | $405.81 | $273.17
28304 | T |  | Incision of midfoot bones | 0056 | 25.1591 | $1,365.86 | $405.81 | $273.17
28305 | T |  | Incise/graft midfoot bones | 0056 | 25.1591 | $1,365.86 | $405.81 | $273.17
28306 | T |  | Incision of metatarsal | 0056 | 25.1591 | $1,365.86 | $405.81 | $273.17
28307 | T |  | Incision of metatarsal | 0056 | 25.1591 | $1,365.86 | $405.81 | $273.17
28308 | T |  | Incision of metatarsal | 0056 | 25.1591 | $1,365.86 | $405.81 | $273.17
28309 | T |  | Incision of metatarsals | 0056 | 25.1591 | $1,365.86 | $405.81 | $273.17
28310 | T |  | Revision of big toe | 0055 | 18.8851 | $1,025.25 | $355.34 | $205.05
28312 | T |  | Revision of toe | 0055 | 18.8851 | $1,025.25 | $355.34 | $205.05
28313 | T |  | Repair deformity of toe | 0055 | 18.8851 | $1,025.25 | $355.34 | $205.05
28315 | T |  | Removal of sesamoid bone | 0055 | 18.8851 | $1,025.25 | $355.34 | $205.05
28320 | T |  | Repair of foot bones | 0056 | 25.1591 | $1,365.86 | $405.81 | $273.17
28322 | T |  | Repair of metatarsals | 0056 | 25.1591 | $1,365.86 | $405.81 | $273.17
28340 | T |  | Resect enlarged toe tissue | 0055 | 18.8851 | $1,025.25 | $355.34 | $205.05
28341 | T |  | Resect enlarged toe | 0055 | 18.8851 | $1,025.25 | $355.34 | $205.05
28344 | T |  | Repair extra toe(s) | 0056 | 25.1591 | $1,365.86 | $405.81 | $273.17
28345 | T |  | Repair webbed toe(s) | 0056 | 25.1591 | $1,365.86 | $405.81 | $273.17
28360 | T |  | Reconstruct cleft foot | 0056 | 25.1591 | $1,365.86 | $405.81 | $273.17
28400 | T |  | Treatment of heel fracture | 0043 | 1.9233 | $104.41 |  | $20.88
28405 | T |  | Treatment of heel fracture | 0043 | 1.9233 | $104.41 |  | $20.88
28406 | T |  | Treatment of heel fracture | 0046 | 31.9719 | $1,735.72 | $535.76 | $347.14
28415 | T |  | Treat heel fracture | 0046 | 31.9719 | $1,735.72 | $535.76 | $347.14
28420 | T |  | Treat/graft heel fracture | 0046 | 31.9719 | $1,735.72 | $535.76 | $347.14
28430 | T |  | Treatment of ankle fracture | 0043 | 1.9233 | $104.41 |  | $20.88
28435 | T |  | Treatment of ankle fracture | 0043 | 1.9233 | $104.41 |  | $20.88
28436 | T |  | Treatment of ankle fracture | 0046 | 31.9719 | $1,735.72 | $535.76 | $347.14
28445 | T |  | Treat ankle fracture | 0046 | 31.9719 | $1,735.72 | $535.76 | $347.14
28450 | T |  | Treat midfoot fracture, each | 0043 | 1.9233 | $104.41 |  | $20.88
28455 | T |  | Treat midfoot fracture, each | 0043 | 1.9233 | $104.41 |  | $20.88
28456 | T |  | Treat midfoot fracture | 0046 | 31.9719 | $1,735.72 | $535.76 | $347.14
28465 | T |  | Treat midfoot fracture, each | 0046 | 31.9719 | $1,735.72 | $535.76 | $347.14
28470 | T |  | Treat metatarsal fracture | 0043 | 1.9233 | $104.41 |  | $20.88
28475 | T |  | Treat metatarsal fracture | 0043 | 1.9233 | $104.41 |  | $20.88
28476 | T |  | Treat metatarsal fracture | 0046 | 31.9719 | $1,735.72 | $535.76 | $347.14
28485 | T |  | Treat metatarsal fracture | 0046 | 31.9719 | $1,735.72 | $535.76 | $347.14
28490 | T |  | Treat big toe fracture | 0043 | 1.9233 | $104.41 |  | $20.88
28495 | T |  | Treat big toe fracture | 0043 | 1.9233 | $104.41 |  | $20.88
28496 | T |  | Treat big toe fracture | 0046 | 31.9719 | $1,735.72 | $535.76 | $347.14
28505 | T |  | Treat big toe fracture | 0046 | 31.9719 | $1,735.72 | $535.76 | $347.14
28510 | T |  | Treatment of toe fracture | 0043 | 1.9233 | $104.41 |  | $20.88
28515 | T |  | Treatment of toe fracture | 0043 | 1.9233 | $104.41 |  | $20.88
28525 | T |  | Treat toe fracture | 0046 | 31.9719 | $1,735.72 | $535.76 | $347.14
28530 | T |  | Treat sesamoid bone fracture | 0043 | 1.9233 | $104.41 |  | $20.88
28531 | T |  | Treat sesamoid bone fracture | 0046 | 31.9719 | $1,735.72 | $535.76 | $347.14
28540 | T |  | Treat foot dislocation | 0043 | 1.9233 | $104.41 |  | $20.88
28545 | T |  | Treat foot dislocation | 0045 | 13.5546 | $735.87 | $268.47 | $147.17
28546 | T |  | Treat foot dislocation | 0046 | 31.9719 | $1,735.72 | $535.76 | $347.14
28555 | T |  | Repair foot dislocation | 0046 | 31.9719 | $1,735.72 | $535.76 | $347.14
28570 | T |  | Treat foot dislocation | 0043 | 1.9233 | $104.41 |  | $20.88
28575 | T |  | Treat foot dislocation | 0043 | 1.9233 | $104.41 |  | $20.88
28576 | T |  | Treat foot dislocation | 0046 | 31.9719 | $1,735.72 | $535.76 | $347.14
28585 | T |  | Repair foot dislocation | 0046 | 31.9719 | $1,735.72 | $535.76 | $347.14
28600 | T |  | Treat foot dislocation | 0043 | 1.9233 | $104.41 |  | $20.88
28605 | T |  | Treat foot dislocation | 0043 | 1.9233 | $104.41 |  | $20.88
28606 | T |  | Treat foot dislocation | 0046 | 31.9719 | $1,735.72 | $535.76 | $347.14
28615 | T |  | Repair foot dislocation | 0046 | 31.9719 | $1,735.72 | $535.76 | $347.14
28630 | T |  | Treat toe dislocation | 0043 | 1.9233 | $104.41 |  | $20.88
28635 | T |  | Treat toe dislocation | 0045 | 13.5546 | $735.87 | $268.47 | $147.17
28636 | T |  | Treat toe dislocation | 0046 | 31.9719 | $1,735.72 | $535.76 | $347.14
28645 | T |  | Repair toe dislocation | 0046 | 31.9719 | $1,735.72 | $535.76 | $347.14
28660 | T |  | Treat toe dislocation | 0043 | 1.9233 | $104.41 |  | $20.88
28665 | T |  | Treat toe dislocation | 0045 | 13.5546 | $735.87 | $268.47 | $147.17
28666 | T |  | Treat toe dislocation | 0046 | 31.9719 | $1,735.72 | $535.76 | $347.14
28675 | T |  | Repair of toe dislocation | 0046 | 31.9719 | $1,735.72 | $535.76 | $347.14
28705 | T |  | Fusion of foot bones | 0056 | 25.1591 | $1,365.86 | $405.81 | $273.17
28715 | T |  | Fusion of foot bones | 0056 | 25.1591 | $1,365.86 | $405.81 | $273.17
28725 | T |  | Fusion of foot bones | 0056 | 25.1591 | $1,365.86 | $405.81 | $273.17
28730 | T |  | Fusion of foot bones | 0056 | 25.1591 | $1,365.86 | $405.81 | $273.17
28735 | T |  | Fusion of foot bones | 0056 | 25.1591 | $1,365.86 | $405.81 | $273.17
28737 | T |  | Revision of foot bones | 0055 | 18.8851 | $1,025.25 | $355.34 | $205.05
28740 | T |  | Fusion of foot bones | 0056 | 25.1591 | $1,365.86 | $405.81 | $273.17
28750 | T |  | Fusion of big toe joint | 0055 | 18.8851 | $1,025.25 | $355.34 | $205.05
28755 | T |  | Fusion of big toe joint | 0055 | 18.8851 | $1,025.25 | $355.34 | $205.05
28760 | T |  | Fusion of big toe joint | 0056 | 25.1591 | $1,365.86 | $405.81 | $273.17
28800 | C |  | Amputation of midfoot |  |  |  |  |
28805 | C |  | Amputation thru metatarsal |  |  |  |  |
28810 | T |  | Amputation toe & metatarsal | 0055 | 18.8851 | $1,025.25 | $355.34 | $205.05
28820 | T |  | Amputation of toe | 0055 | 18.8851 | $1,025.25 | $355.34 | $205.05
28825 | T |  | Partial amputation of toe | 0055 | 18.8851 | $1,025.25 | $355.34 | $205.05
28899 | T |  | Foot/toes surgery procedure | 0043 | 1.9233 | $104.41 |  | $20.88
29000 | S |  | Application of body cast | 0058 | 1.0785 | $58.55 |  | $11.71
29010 | S |  | Application of body cast | 0058 | 1.0785 | $58.55 |  | $11.71
29015 | S |  | Application of body cast | 0058 | 1.0785 | $58.55 |  | $11.71
29020 | S |  | Application of body cast | 0058 | 1.0785 | $58.55 |  | $11.71
29025 | S |  | Application of body cast | 0058 | 1.0785 | $58.55 |  | $11.71
29035 | S |  | Application of body cast | 0058 | 1.0785 | $58.55 |  | $11.71
29040 | S |  | Application of body cast | 0058 | 1.0785 | $58.55 |  | $11.71
29044 | S |  | Application of body cast | 0058 | 1.0785 | $58.55 |  | $11.71
29046 | S |  | Application of body cast | 0058 | 1.0785 | $58.55 |  | $11.71
29049 | S |  | Application of figure eight | 0058 | 1.0785 | $58.55 |  | $11.71
29055 | S |  | Application of shoulder cast | 0058 | 1.0785 | $58.55 |  | $11.71
29058 | S |  | Application of shoulder cast | 0058 | 1.0785 | $58.55 |  | $11.71
29065 | S |  | Application of long arm cast | 0058 | 1.0785 | $58.55 |  | $11.71
29075 | S |  | Application of forearm cast | 0058 | 1.0785 | $58.55 |  | $11.71
29085 | S |  | Apply hand/wrist cast | 0058 | 1.0785 | $58.55 |  | $11.71
29086 | S |  | Apply finger cast | 0058 | 1.0785 | $58.55 |  | $11.71
29105 | S |  | Apply long arm splint | 0058 | 1.0785 | $58.55 |  | $11.71
29125 | S |  | Apply forearm splint | 0058 | 1.0785 | $58.55 |  | $11.71
29126 | S |  | Apply forearm splint | 0058 | 1.0785 | $58.55 |  | $11.71
29130 | S |  | Application of finger splint | 0058 | 1.0785 | $58.55 |  | $11.71
29131 | S |  | Application of finger splint | 0058 | 1.0785 | $58.55 |  | $11.71
29200 | S |  | Strapping of chest | 0058 | 1.0785 | $58.55 |  | $11.71
29220 | S |  | Strapping of low back | 0058 | 1.0785 | $58.55 |  | $11.71
29240 | S |  | Strapping of shoulder | 0058 | 1.0785 | $58.55 |  | $11.71
29260 | S |  | Strapping of elbow or wrist | 0058 | 1.0785 | $58.55 |  | $11.71
29280 | S |  | Strapping of hand or finger | 0058 | 1.0785 | $58.55 |  | $11.71
29305 | S |  | Application of hip cast | 0058 | 1.0785 | $58.55 |  | $11.71
29325 | S |  | Application of hip casts | 0058 | 1.0785 | $58.55 |  | $11.71
29345 | S |  | Application of long leg cast | 0058 | 1.0785 | $58.55 |  | $11.71
29355 | S |  | Application of long leg cast | 0058 | 1.0785 | $58.55 |  | $11.71
29358 | S |  | Apply long leg cast brace | 0058 | 1.0785 | $58.55 |  | $11.71
29365 | S |  | Application of long leg cast | 0058 | 1.0785 | $58.55 |  | $11.71
29405 | S |  | Apply short leg cast | 0058 | 1.0785 | $58.55 |  | $11.71
29425 | S |  | Apply short leg cast | 0058 | 1.0785 | $58.55 |  | $11.71
29435 | S |  | Apply short leg cast | 0058 | 1.0785 | $58.55 |  | $11.71
29440 | S |  | Addition of walker to cast | 0058 | 1.0785 | $58.55 |  | $11.71
29445 | S |  | Apply rigid leg cast | 0058 | 1.0785 | $58.55 |  | $11.71
29450 | S |  | Application of leg cast | 0058 | 1.0785 | $58.55 |  | $11.71
29505 | S |  | Application, long leg splint | 0058 | 1.0785 | $58.55 |  | $11.71
29515 | S |  | Application lower leg splint | 0058 | 1.0785 | $58.55 |  | $11.71
29520 | S |  | Strapping of hip | 0058 | 1.0785 | $58.55 |  | $11.71
29530 | S |  | Strapping of knee | 0058 | 1.0785 | $58.55 |  | $11.71
29540 | S |  | Strapping of ankle | 0058 | 1.0785 | $58.55 |  | $11.71
29550 | S |  | Strapping of toes | 0058 | 1.0785 | $58.55 |  | $11.71
29580 | S |  | Application of paste boot | 0058 | 1.0785 | $58.55 |  | $11.71
29590 | S |  | Application of foot splint | 0058 | 1.0785 | $58.55 |  | $11.71
29700 | S |  | Removal/revision of cast | 0058 | 1.0785 | $58.55 |  | $11.71
29705 | S |  | Removal/revision of cast | 0058 | 1.0785 | $58.55 |  | $11.71
29710 | S |  | Removal/revision of cast | 0058 | 1.0785 | $58.55 |  | $11.71
29715 | S |  | Removal/revision of cast | 0058 | 1.0785 | $58.55 |  | $11.71
29720 | S |  | Repair of body cast | 0058 | 1.0785 | $58.55 |  | $11.71
29730 | S |  | Windowing of cast | 0058 | 1.0785 | $58.55 |  | $11.71
29740 | S |  | Wedging of cast | 0058 | 1.0785 | $58.55 |  | $11.71
29750 | S |  | Wedging of clubfoot cast | 0058 | 1.0785 | $58.55 |  | $11.71
29799 | S |  | Casting/strapping procedure | 0058 | 1.0785 | $58.55 |  | $11.71
29800 | T |  | Jaw arthroscopy/surgery | 0041 | 27.2538 | $1,479.58 |  | $295.92
29804 | T |  | Jaw arthroscopy/surgery | 0041 | 27.2538 | $1,479.58 |  | $295.92
29805 | T |  | Shoulder arthroscopy, dx | 0041 | 27.2538 | $1,479.58 |  | $295.92
29806 | T |  | Shoulder arthroscopy/surgery | 0041 | 27.2538 | $1,479.58 |  | $295.92
29807 | T |  | Shoulder arthroscopy/surgery | 0041 | 27.2538 | $1,479.58 |  | $295.92
29819 | T |  | Shoulder arthroscopy/surgery | 0041 | 27.2538 | $1,479.58 |  | $295.92
29820 | T |  | Shoulder arthroscopy/surgery | 0041 | 27.2538 | $1,479.58 |  | $295.92
29821 | T |  | Shoulder arthroscopy/surgery | 0041 | 27.2538 | $1,479.58 |  | $295.92
29822 | T |  | Shoulder arthroscopy/surgery | 0041 | 27.2538 | $1,479.58 |  | $295.92
29823 | T |  | Shoulder arthroscopy/surgery | 0041 | 27.2538 | $1,479.58 |  | $295.92
29824 | T |  | Shoulder arthroscopy/surgery | 0041 | 27.2538 | $1,479.58 |  | $295.92
29825 | T |  | Shoulder arthroscopy/surgery | 0041 | 27.2538 | $1,479.58 |  | $295.92
29826 | T |  | Shoulder arthroscopy/surgery | 0042 | 42.8551 | $2,326.56 | $804.74 | $465.31
29827 | T |  | Arthroscop rotator cuff repr | 0041 | 27.2538 | $1,479.58 |  | $295.92
29830 | T |  | Elbow arthroscopy | 0041 | 27.2538 | $1,479.58 |  | $295.92
29834 | T |  | Elbow arthroscopy/surgery | 0041 | 27.2538 | $1,479.58 |  | $295.92
29835 | T |  | Elbow arthroscopy/surgery | 0042 | 42.8551 | $2,326.56 | $804.74 | $465.31
29836 | T |  | Elbow arthroscopy/surgery | 0042 | 42.8551 | $2,326.56 | $804.74 | $465.31
29837 | T |  | Elbow arthroscopy/surgery | 0041 | 27.2538 | $1,479.58 |  | $295.92
29838 | T |  | Elbow arthroscopy/surgery | 0041 | 27.2538 | $1,479.58 |  | $295.92
29840 | T |  | Wrist arthroscopy | 0041 | 27.2538 | $1,479.58 |  | $295.92
29843 | T |  | Wrist arthroscopy/surgery | 0041 | 27.2538 | $1,479.58 |  | $295.92
29844 | T |  | Wrist arthroscopy/surgery | 0041 | 27.2538 | $1,479.58 |  | $295.92
29845 | T |  | Wrist arthroscopy/surgery | 0041 | 27.2538 | $1,479.58 |  | $295.92
29846 | T |  | Wrist arthroscopy/surgery | 0041 | 27.2538 | $1,479.58 |  | $295.92
29847 | T |  | Wrist arthroscopy/surgery | 0041 | 27.2538 | $1,479.58 |  | $295.92
29848 | T |  | Wrist endoscopy/surgery | 0041 | 27.2538 | $1,479.58 |  | $295.92
29850 | T |  | Knee arthroscopy/surgery | 0041 | 27.2538 | $1,479.58 |  | $295.92
29851 | T |  | Knee arthroscopy/surgery | 0041 | 27.2538 | $1,479.58 |  | $295.92
29855 | T |  | Tibial arthroscopy/surgery | 0042 | 42.8551 | $2,326.56 | $804.74 | $465.31
29856 | T |  | Tibial arthroscopy/surgery | 0041 | 27.2538 | $1,479.58 |  | $295.92
29860 | T |  | Hip arthroscopy, dx | 0041 | 27.2538 | $1,479.58 |  | $295.92
29861 | T |  | Hip arthroscopy/surgery | 0041 | 27.2538 | $1,479.58 |  | $295.92
29862 | T |  | Hip arthroscopy/surgery | 0042 | 42.8551 | $2,326.56 | $804.74 | $465.31
29863 | T |  | Hip arthroscopy/surgery | 0042 | 42.8551 | $2,326.56 | $804.74 | $465.31
29870 | T |  | Knee arthroscopy, dx | 0041 | 27.2538 | $1,479.58 |  | $295.92
29871 | T |  | Knee arthroscopy/drainage | 0041 | 27.2538 | $1,479.58 |  | $295.92
29873 | T |  | Knee arthroscopy/surgery | 0041 | 27.2538 | $1,479.58 |  | $295.92
29874 | T |  | Knee arthroscopy/surgery | 0041 | 27.2538 | $1,479.58 |  | $295.92
29875 | T |  | Knee arthroscopy/surgery | 0041 | 27.2538 | $1,479.58 |  | $295.92
29876 | T |  | Knee arthroscopy/surgery | 0041 | 27.2538 | $1,479.58 |  | $295.92
29877 | T |  | Knee arthroscopy/surgery | 0041 | 27.2538 | $1,479.58 |  | $295.92
29879 | T |  | Knee arthroscopy/surgery | 0041 | 27.2538 | $1,479.58 |  | $295.92
29880 | T |  | Knee arthroscopy/surgery | 0041 | 27.2538 | $1,479.58 |  | $295.92
29881 | T |  | Knee arthroscopy/surgery | 0041 | 27.2538 | $1,479.58 |  | $295.92
29882 | T |  | Knee arthroscopy/surgery | 0041 | 27.2538 | $1,479.58 |  | $295.92
29883 | T |  | Knee arthroscopy/surgery | 0041 | 27.2538 | $1,479.58 |  | $295.92
29884 | T |  | Knee arthroscopy/surgery | 0041 | 27.2538 | $1,479.58 |  | $295.92
29885 | T |  | Knee arthroscopy/surgery | 0041 | 27.2538 | $1,479.58 |  | $295.92
29886 | T |  | Knee arthroscopy/surgery | 0041 | 27.2538 | $1,479.58 |  | $295.92
29887 | T |  | Knee arthroscopy/surgery | 0041 | 27.2538 | $1,479.58 |  | $295.92
29888 | T |  | Knee arthroscopy/surgery | 0042 | 42.8551 | $2,326.56 | $804.74 | $465.31
29889 | T |  | Knee arthroscopy/surgery | 0042 | 42.8551 | $2,326.56 | $804.74 | $465.31
29891 | T |  | Ankle arthroscopy/surgery | 0041 | 27.2538 | $1,479.58 |  | $295.92
29892 | T |  | Ankle arthroscopy/surgery | 0041 | 27.2538 | $1,479.58 |  | $295.92
29893 | T |  | Scope, plantar fasciotomy | 0055 | 18.8851 | $1,025.25 | $355.34 | $205.05
29894 | T |  | Ankle arthroscopy/surgery | 0041 | 27.2538 | $1,479.58 |  | $295.92
29895 | T |  | Ankle arthroscopy/surgery | 0041 | 27.2538 | $1,479.58 |  | $295.92
29897 | T |  | Ankle arthroscopy/surgery | 0041 | 27.2538 | $1,479.58 |  | $295.92
29898 | T |  | Ankle arthroscopy/surgery | 0041 | 27.2538 | $1,479.58 |  | $295.92
29899 | T |  | Ankle arthroscopy/surgery | 0041 | 27.2538 | $1,479.58 |  | $295.92
29900 | T |  | Mcp joint arthroscopy, dx | 0053 | 14.8188 | $804.50 | $253.49 | $160.90
29901 | T |  | Mcp joint arthroscopy, surg | 0053 | 14.8188 | $804.50 | $253.49 | $160.90
29902 | T |  | Mcp joint arthroscopy, surg | 0053 | 14.8188 | $804.50 | $253.49 | $160.90
29999 | T |  | Arthroscopy of joint | 0041 | 27.2538 | $1,479.58 |  | $295.92
30000 | T |  | Drainage of nose lesion | 0251 | 1.8643 | $101.21 |  | $20.24
30020 | T |  | Drainage of nose lesion | 0251 | 1.8643 | $101.21 |  | $20.24
30100 | T |  | Intranasal biopsy | 0252 | 6.5416 | $355.14 | $113.41 | $71.03
30110 | T |  | Removal of nose polyp(s) | 0253 | 15.1698 | $823.55 | $282.29 | $164.71
30115 | T |  | Removal of nose polyp(s) | 0253 | 15.1698 | $823.55 | $282.29 | $164.71
30117 | T |  | Removal of intranasal lesion | 0253 | 15.1698 | $823.55 | $282.29 | $164.71
30118 | T |  | Removal of intranasal lesion | 0254 | 21.4368 | $1,163.78 | $321.35 | $232.76
30120 | T |  | Revision of nose | 0253 | 15.1698 | $823.55 | $282.29 | $164.71
30124 | T |  | Removal of nose lesion | 0252 | 6.5416 | $355.14 | $113.41 | $71.03
30125 | T |  | Removal of nose lesion | 0256 | 35.0866 | $1,904.82 |  | $380.96
30130 | T |  | Removal of turbinate bones | 0253 | 15.1698 | $823.55 | $282.29 | $164.71
30140 | T |  | Removal of turbinate bones | 0254 | 21.4368 | $1,163.78 | $321.35 | $232.76
30150 | T |  | Partial removal of nose | 0256 | 35.0866 | $1,904.82 |  | $380.96
30160 | T |  | Removal of nose | 0256 | 35.0866 | $1,904.82 |  | $380.96
30200 | T |  | Injection treatment of nose | 0253 | 15.1698 | $823.55 | $282.29 | $164.71
30210 | T |  | Nasal sinus therapy | 0252 | 6.5416 | $355.14 | $113.41 | $71.03
30220 | T |  | Insert nasal septal button | 0252 | 6.5416 | $355.14 | $113.41 | $71.03
30300 | X |  | Remove nasal foreign body | 0340 | 0.6232 | $33.83 |  | $6.77
30310 | T |  | Remove nasal foreign body | 0253 | 15.1698 | $823.55 | $282.29 | $164.71
30320 | T |  | Remove nasal foreign body | 0253 | 15.1698 | $823.55 | $282.29 | $164.71
30400 | T |  | Reconstruction of nose | 0256 | 35.0866 | $1,904.82 |  | $380.96
30410 | T |  | Reconstruction of nose | 0256 | 35.0866 | $1,904.82 |  | $380.96
30420 | T |  | Reconstruction of nose | 0256 | 35.0866 | $1,904.82 |  | $380.96
30430 | T |  | Revision of nose | 0254 | 21.4368 | $1,163.78 | $321.35 | $232.76
30435 | T |  | Revision of nose | 0256 | 35.0866 | $1,904.82 |  | $380.96
30450 | T |  | Revision of nose | 0256 | 35.0866 | $1,904.82 |  | $380.96
30460 | T |  | Revision of nose | 0256 | 35.0866 | $1,904.82 |  | $380.96
30462 | T |  | Revision of nose | 0256 | 35.0866 | $1,904.82 |  | $380.96
30465 | T |  | Repair nasal stenosis | 0256 | 35.0866 | $1,904.82 |  | $380.96
30520 | T |  | Repair of nasal septum | 0254 | 21.4368 | $1,163.78 | $321.35 | $232.76
30540 | T |  | Repair nasal defect | 0256 | 35.0866 | $1,904.82 |  | $380.96
30545 | T |  | Repair nasal defect | 0256 | 35.0866 | $1,904.82 |  | $380.96
30560 | T |  | Release of nasal adhesions | 0251 | 1.8643 | $101.21 |  | $20.24
30580 | T |  | Repair upper jaw fistula | 0256 | 35.0866 | $1,904.82 |  | $380.96
30600 | T |  | Repair mouth/nose fistula | 0256 | 35.0866 | $1,904.82 |  | $380.96
30620 | T |  | Intranasal reconstruction | 0256 | 35.0866 | $1,904.82 |  | $380.96
30630 | T |  | Repair nasal septum defect | 0254 | 21.4368 | $1,163.78 | $321.35 | $232.76
30801 | T |  | Cauterization, inner nose | 0252 | 6.5416 | $355.14 | $113.41 | $71.03
30802 | T |  | Cauterization, inner nose | 0253 | 15.1698 | $823.55 | $282.29 | $164.71
30901 | T |  | Control of nosebleed | 0250 | 1.5381 | $83.50 | $29.23 | $16.70
30903 | T |  | Control of nosebleed | 0250 | 1.5381 | $83.50 | $29.23 | $16.70
30905 | T |  | Control of nosebleed | 0250 | 1.5381 | $83.50 | $29.23 | $16.70
30906 | T |  | Repeat control of nosebleed | 0250 | 1.5381 | $83.50 | $29.23 | $16.70
30915 | T |  | Ligation, nasal sinus artery | 0091 | 28.5187 | $1,548.25 | $348.23 | $309.65
30920 | T |  | Ligation, upper jaw artery | 0092 | 25.1347 | $1,364.54 | $505.37 | $272.91
30930 | T |  | Therapy, fracture of nose | 0253 | 15.1698 | $823.55 | $282.29 | $164.71
30999 | T |  | Nasal surgery procedure | 0251 | 1.8643 | $101.21 |  | $20.24
31000 | T |  | Irrigation, maxillary sinus | 0251 | 1.8643 | $101.21 |  | $20.24
31002 | T |  | Irrigation, sphenoid sinus | 0252 | 6.5416 | $355.14 | $113.41 | $71.03
31020 | T |  | Exploration, maxillary sinus | 0254 | 21.4368 | $1,163.78 | $321.35 | $232.76
31030 | T |  | Exploration, maxillary sinus | 0256 | 35.0866 | $1,904.82 |  | $380.96
31032 | T |  | Explore sinus, remove polyps | 0256 | 35.0866 | $1,904.82 |  | $380.96
31040 | T |  | Exploration behind upper jaw | 0254 | 21.4368 | $1,163.78 | $321.35 | $232.76
31050 | T |  | Exploration, sphenoid sinus | 0256 | 35.0866 | $1,904.82 |  | $380.96
31051 | T |  | Sphenoid sinus surgery | 0256 | 35.0866 | $1,904.82 |  | $380.96
31070 | T |  | Exploration of frontal sinus | 0254 | 21.4368 | $1,163.78 | $321.35 | $232.76
31075 | T |  | Exploration of frontal sinus | 0256 | 35.0866 | $1,904.82 |  | $380.96
31080 | T |  | Removal of frontal sinus | 0256 | 35.0866 | $1,904.82 |  | $380.96
31081 | T |  | Removal of frontal sinus | 0256 | 35.0866 | $1,904.82 |  | $380.96
31084 | T |  | Removal of frontal sinus | 0256 | 35.0866 | $1,904.82 |  | $380.96
31085 | T |  | Removal of frontal sinus | 0256 | 35.0866 | $1,904.82 |  | $380.96
31086 | T |  | Removal of frontal sinus | 0256 | 35.0866 | $1,904.82 |  | $380.96
31087 | T |  | Removal of frontal sinus | 0256 | 35.0866 | $1,904.82 |  | $380.96
31090 | T |  | Exploration of sinuses | 0256 | 35.0866 | $1,904.82 |  | $380.96
31200 | T |  | Removal of ethmoid sinus | 0256 | 35.0866 | $1,904.82 |  | $380.96
31201 | T |  | Removal of ethmoid sinus | 0256 | 35.0866 | $1,904.82 |  | $380.96
31205 | T |  | Removal of ethmoid sinus | 0256 | 35.0866 | $1,904.82 |  | $380.96
31225 | C |  | Removal of upper jaw |  |  |  |  |
31230 | C |  | Removal of upper jaw |  |  |  |  |
31231 | T |  | Nasal endoscopy, dx | 0071 | 0.9012 | $48.93 | $12.89 | $9.79
31233 | T |  | Nasal/sinus endoscopy, dx | 0073 | 3.4396 | $186.73 | $73.38 | $37.35
31235 | T |  | Nasal/sinus endoscopy, dx | 0074 | 14.4952 | $786.93 | $295.70 | $157.39
31237 | T |  | Nasal/sinus endoscopy, surg | 0075 | 20.4113 | $1,108.11 | $445.92 | $221.62
31238 | T |  | Nasal/sinus endoscopy, surg | 0074 | 14.4952 | $786.93 | $295.70 | $157.39
31239 | T |  | Nasal/sinus endoscopy, surg | 0075 | 20.4113 | $1,108.11 | $445.92 | $221.62
31240 | T |  | Nasal/sinus endoscopy, surg | 0074 | 14.4952 | $786.93 | $295.70 | $157.39
31254 | T |  | Revision of ethmoid sinus | 0075 | 20.4113 | $1,108.11 | $445.92 | $221.62
31255 | T |  | Removal of ethmoid sinus | 0075 | 20.4113 | $1,108.11 | $445.92 | $221.62
31256 | T |  | Exploration maxillary sinus | 0075 | 20.4113 | $1,108.11 | $445.92 | $221.62
31267 | T |  | Endoscopy, maxillary sinus | 0075 | 20.4113 | $1,108.11 | $445.92 | $221.62
31276 | T |  | Sinus endoscopy, surgical | 0075 | 20.4113 | $1,108.11 | $445.92 | $221.62
31287 | T |  | Nasal/sinus endoscopy, surg | 0075 | 20.4113 | $1,108.11 | $445.92 | $221.62
31288 | T |  | Nasal/sinus endoscopy, surg | 0075 | 20.4113 | $1,108.11 | $445.92 | $221.62
31290 | C |  | Nasal/sinus endoscopy, surg |  |  |  |  |
31291 | C |  | Nasal/sinus endoscopy, surg |  |  |  |  |
31292 | C |  | Nasal/sinus endoscopy, surg |  |  |  |  |
31293 | C |  | Nasal/sinus endoscopy, surg |  |  |  |  |
31294 | C |  | Nasal/sinus endoscopy, surg |  |  |  |  |
31299 | T |  | Sinus surgery procedure | 0252 | 6.5416 | $355.14 | $113.41 | $71.03
31300 | T |  | Removal of larynx lesion | 0254 | 21.4368 | $1,163.78 | $321.35 | $232.76
31320 | T |  | Diagnostic incision, larynx | 0256 | 35.0866 | $1,904.82 |  | $380.96
31360 | C |  | Removal of larynx |  |  |  |  |
31365 | C |  | Removal of larynx |  |  |  |  |
31367 | C |  | Partial removal of larynx |  |  |  |  |
31368 | C |  | Partial removal of larynx |  |  |  |  |
31370 | C |  | Partial removal of larynx |  |  |  |  |
31375 | C |  | Partial removal of larynx |  |  |  |  |
31380 | C |  | Partial removal of larynx |  |  |  |  |
31382 | C |  | Partial removal of larynx |  |  |  |  |
31390 | C |  | Removal of larynx & pharynx |  |  |  |  |
31395 | C |  | Reconstruct larynx & pharynx |  |  |  |  |
31400 | T |  | Revision of larynx | 0256 | 35.0866 | $1,904.82 |  | $380.96
31420 | T |  | Removal of epiglottis | 0256 | 35.0866 | $1,904.82 |  | $380.96
31500 | S |  | Insert emergency airway | 0094 | 2.6412 | $143.39 | $48.46 | $28.68
31502 | T |  | Change of windpipe airway | 0121 | 2.2058 | $119.75 | $43.80 | $23.95
31505 | T |  | Diagnostic laryngoscopy | 0071 | 0.9012 | $48.93 | $12.89 | $9.79
31510 | T |  | Laryngoscopy with biopsy | 0074 | 14.4952 | $786.93 | $295.70 | $157.39
31511 | T |  | Remove foreign body, larynx | 0072 | 1.6987 | $92.22 | $26.68 | $18.44
31512 | T |  | Removal of larynx lesion | 0074 | 14.4952 | $786.93 | $295.70 | $157.39
31513 | T |  | Injection into vocal cord | 0072 | 1.6987 | $92.22 | $26.68 | $18.44
31515 | T |  | Laryngoscopy for aspiration | 0074 | 14.4952 | $786.93 | $295.70 | $157.39
31520 | T |  | Diagnostic laryngoscopy | 0072 | 1.6987 | $92.22 | $26.68 | $18.44
31525 | T |  | Diagnostic laryngoscopy | 0074 | 14.4952 | $786.93 | $295.70 | $157.39
31526 | T |  | Diagnostic laryngoscopy | 0075 | 20.4113 | $1,108.11 | $445.92 | $221.62
31527 | T |  | Laryngoscopy for treatment | 0075 | 20.4113 | $1,108.11 | $445.92 | $221.62
31528 | T |  | Laryngoscopy and dilation | 0074 | 14.4952 | $786.93 | $295.70 | $157.39
31529 | T |  | Laryngoscopy and dilation | 0074 | 14.4952 | $786.93 | $295.70 | $157.39
31530 | T |  | Operative laryngoscopy | 0075 | 20.4113 | $1,108.11 | $445.92 | $221.62
31531 | T |  | Operative laryngoscopy | 0075 | 20.4113 | $1,108.11 | $445.92 | $221.62
31535 | T |  | Operative laryngoscopy | 0075 | 20.4113 | $1,108.11 | $445.92 | $221.62
31536 | T |  | Operative laryngoscopy | 0075 | 20.4113 | $1,108.11 | $445.92 | $221.62
31540 | T |  | Operative laryngoscopy | 0075 | 20.4113 | $1,108.11 | $445.92 | $221.62
31541 | T |  | Operative laryngoscopy | 0075 | 20.4113 | $1,108.11 | $445.92 | $221.62
31560 | T |  | Operative laryngoscopy | 0075 | 20.4113 | $1,108.11 | $445.92 | $221.62
31561 | T |  | Operative laryngoscopy | 0075 | 20.4113 | $1,108.11 | $445.92 | $221.62
31570 | T |  | Laryngoscopy with injection | 0074 | 14.4952 | $786.93 | $295.70 | $157.39
31571 | T |  | Laryngoscopy with injection | 0075 | 20.4113 | $1,108.11 | $445.92 | $221.62
31575 | T |  | Diagnostic laryngoscopy | 0072 | 1.6987 | $92.22 | $26.68 | $18.44
31576 | T |  | Laryngoscopy with biopsy | 0075 | 20.4113 | $1,108.11 | $445.92 | $221.62
31577 | T |  | Remove foreign body, larynx | 0073 | 3.4396 | $186.73 | $73.38 | $37.35
31578 | T |  | Removal of larynx lesion | 0075 | 20.4113 | $1,108.11 | $445.92 | $221.62
31579 | T |  | Diagnostic laryngoscopy | 0073 | 3.4396 | $186.73 | $73.38 | $37.35
31580 | T |  | Revision of larynx | 0256 | 35.0866 | $1,904.82 |  | $380.96
31582 | T |  | Revision of larynx | 0256 | 35.0866 | $1,904.82 |  | $380.96
31584 | C |  | Treat larynx fracture |  |  |  |  |
31585 | T |  | Treat larynx fracture | 0253 | 15.1698 | $823.55 | $282.29 | $164.71
31586 | T |  | Treat larynx fracture | 0256 | 35.0866 | $1,904.82 |  | $380.96
31587 | C |  | Revision of larynx |  |  |  |  |
31588 | T |  | Revision of larynx | 0256 | 35.0866 | $1,904.82 |  | $380.96
31590 | T |  | Reinnervate larynx | 0256 | 35.0866 | $1,904.82 |  | $380.96
31595 | T |  | Larynx nerve surgery | 0256 | 35.0866 | $1,904.82 |  | $380.96
31599 | T |  | Larynx surgery procedure | 0254 | 21.4368 | $1,163.78 | $321.35 | $232.76
31600 | T |  | Incision of windpipe | 0254 | 21.4368 | $1,163.78 | $321.35 | $232.76
31601 | T |  | Incision of windpipe | 0254 | 21.4368 | $1,163.78 | $321.35 | $232.76
31603 | T |  | Incision of windpipe | 0252 | 6.5416 | $355.14 | $113.41 | $71.03
31605 | T |  | Incision of windpipe | 0253 | 15.1698 | $823.55 | $282.29 | $164.71
31610 | T |  | Incision of windpipe | 0254 | 21.4368 | $1,163.78 | $321.35 | $232.76
31611 | T |  | Surgery/speech prosthesis | 0254 | 21.4368 | $1,163.78 | $321.35 | $232.76
31612 | T |  | Puncture/clear windpipe | 0254 | 21.4368 | $1,163.78 | $321.35 | $232.76
31613 | T |  | Repair windpipe opening | 0254 | 21.4368 | $1,163.78 | $321.35 | $232.76
31614 | T |  | Repair windpipe opening | 0256 | 35.0866 | $1,904.82 |  | $380.96
31615 | T |  | Visualization of windpipe | 0076 | 9.3560 | $507.93 | $189.82 | $101.59
31622 | T |  | Dx bronchoscope/wash | 0076 | 9.3560 | $507.93 | $189.82 | $101.59
31623 | T |  | Dx bronchoscope/brush | 0076 | 9.3560 | $507.93 | $189.82 | $101.59
31624 | T |  | Dx bronchoscope/lavage | 0076 | 9.3560 | $507.93 | $189.82 | $101.59
31625 | T |  | Bronchoscopy w/biopsy(s) | 0076 | 9.3560 | $507.93 | $189.82 | $101.59
31628 | T |  | Bronchoscopy/lung bx, each | 0076 | 9.3560 | $507.93 | $189.82 | $101.59
31629 | T |  | Bronchoscopy/needle bx, each | 0076 | 9.3560 | $507.93 | $189.82 | $101.59
31630 | T |  | Bronchoscopy dilate/fx repr | 0415 | 20.9920 | $1,139.63 | $463.30 | $227.93
31631 | T |  | Bronchoscopy, dilate w/stent | 0415 | 20.9920 | $1,139.63 | $463.30 | $227.93
31635 | T |  | Bronchoscopy w/fb removal | 0076 | 9.3560 | $507.93 | $189.82 | $101.59
31640 | T |  | Bronchoscopy w/tumor excise | 0415 | 20.9920 | $1,139.63 | $463.30 | $227.93
31641 | T |  | Bronchoscopy, treat blockage | 0415 | 20.9920 | $1,139.63 | $463.30 | $227.93
31643 | T |  | Diag bronchoscope/catheter | 0076 | 9.3560 | $507.93 | $189.82 | $101.59
31645 | T |  | Bronchoscopy, clear airways | 0076 | 9.3560 | $507.93 | $189.82 | $101.59
31646 | T |  | Bronchoscopy, reclear airway | 0076 | 9.3560 | $507.93 | $189.82 | $101.59
31656 | T |  | Bronchoscopy, inj for x-ray | 0076 | 9.3560 | $507.93 | $189.82 | $101.59
31700 | T |  | Insertion of airway catheter | 0072 | 1.6987 | $92.22 | $26.68 | $18.44
31708 | N |  | Instill airway contrast dye |  |  |  |  |
31710 | N |  | Insertion of airway catheter |  |  |  |  |
31715 | N |  | Injection for bronchus x-ray |  |  |  |  |
31717 | T |  | Bronchial brush biopsy | 0073 | 3.4396 | $186.73 | $73.38 | $37.35
31720 | T |  | Clearance of airways | 0072 | 1.6987 | $92.22 | $26.68 | $18.44
31725 | C |  | Clearance of airways |  |  |  |  |
31730 | T |  | Intro, windpipe wire/tube | 0073 | 3.4396 | $186.73 | $73.38 | $37.35
31750 | T |  | Repair of windpipe | 0256 | 35.0866 | $1,904.82 |  | $380.96
31755 | T |  | Repair of windpipe | 0256 | 35.0866 | $1,904.82 |  | $380.96
31760 | C |  | Repair of windpipe |  |  |  |  |
31766 | C |  | Reconstruction of windpipe |  |  |  |  |
31770 | C |  | Repair/graft of bronchus |  |  |  |  |
31775 | C |  | Reconstruct bronchus |  |  |  |  |
31780 | C |  | Reconstruct windpipe |  |  |  |  |
31781 | C |  | Reconstruct windpipe |  |  |  |  |
31785 | T |  | Remove windpipe lesion | 0254 | 21.4368 | $1,163.78 | $321.35 | $232.76
31786 | C |  | Remove windpipe lesion |  |  |  |  |
31800 | C |  | Repair of windpipe injury |  |  |  |  |
31805 | C |  | Repair of windpipe injury |  |  |  |  |
31820 | T |  | Closure of windpipe lesion | 0253 | 15.1698 | $823.55 | $282.29 | $164.71
31825 | T |  | Repair of windpipe defect | 0254 | 21.4368 | $1,163.78 | $321.35 | $232.76
31830 | T |  | Revise windpipe scar | 0254 | 21.4368 | $1,163.78 | $321.35 | $232.76
31899 | T |  | Airways surgical procedure | 0076 | 9.3560 | $507.93 | $189.82 | $101.59
32000 | T |  | Drainage of chest | 0070 | 3.1393 | $170.43 |  | $34.09
32002 | T |  | Treatment of collapsed lung | 0070 | 3.1393 | $170.43 |  | $34.09
32005 | T |  | Treat lung lining chemically | 0070 | 3.1393 | $170.43 |  | $34.09
32020 | T |  | Insertion of chest tube | 0070 | 3.1393 | $170.43 |  | $34.09
32035 | C |  | Exploration of chest |  |  |  |  |
32036 | C |  | Exploration of chest |  |  |  |  |
32095 | C |  | Biopsy through chest wall |  |  |  |  |
32100 | C |  | Exploration/biopsy of chest |  |  |  |  |
32110 | C |  | Explore/repair chest |  |  |  |  |
32120 | C |  | Re-exploration of chest |  |  |  |  |
32124 | C |  | Explore chest free adhesions |  |  |  |  |
32140 | C |  | Removal of lung lesion(s) |  |  |  |  |
32141 | C |  | Remove/treat lung lesions |  |  |  |  |
32150 | C |  | Removal of lung lesion(s) |  |  |  |  |
32151 | C |  | Remove lung foreign body |  |  |  |  |
32160 | C |  | Open chest heart massage |  |  |  |  |
32200 | C |  | Drain, open, lung lesion |  |  |  |  |
32201 | T |  | Drain, percut, lung lesion | 0070 | 3.1393 | $170.43 |  | $34.09
32215 | C |  | Treat chest lining |  |  |  |  |
32220 | C |  | Release of lung |  |  |  |  |
32225 | C |  | Partial release of lung |  |  |  |  |
32310 | C |  | Removal of chest lining |  |  |  |  |
32320 | C |  | Free/remove chest lining |  |  |  |  |
32400 | T |  | Needle biopsy chest lining | 0005 | 3.3675 | $182.82 | $71.59 | $36.56
32402 | C |  | Open biopsy chest lining |  |  |  |  |
32405 | T |  | Biopsy, lung or mediastinum | 0685 | 4.8912 | $265.54 | $116.83 | $53.11
32420 | T |  | Puncture/clear lung | 0070 | 3.1393 | $170.43 |  | $34.09
32440 | C |  | Removal of lung |  |  |  |  |
32442 | C |  | Sleeve pneumonectomy |  |  |  |  |
32445 | C |  | Removal of lung |  |  |  |  |
32480 | C |  | Partial removal of lung |  |  |  |  |
32482 | C |  | Bilobectomy |  |  |  |  |
32484 | C |  | Segmentectomy |  |  |  |  |
32486 | C |  | Sleeve lobectomy |  |  |  |  |
32488 | C |  | Completion pneumonectomy |  |  |  |  |
32491 | C |  | Lung volume reduction |  |  |  |  |
32500 | C |  | Partial removal of lung |  |  |  |  |
32501 | C |  | Repair bronchus add-on |  |  |  |  |
32520 | C |  | Remove lung & revise chest |  |  |  |  |
32522 | C |  | Remove lung & revise chest |  |  |  |  |
32525 | C |  | Remove lung & revise chest |  |  |  |  |
32540 | C |  | Removal of lung lesion |  |  |  |  |
32601 | T |  | Thoracoscopy, diagnostic | 0069 | 28.6334 | $1,554.48 | $591.64 | $310.90
32602 | T |  | Thoracoscopy, diagnostic | 0069 | 28.6334 | $1,554.48 | $591.64 | $310.90
32603 | T |  | Thoracoscopy, diagnostic | 0069 | 28.6334 | $1,554.48 | $591.64 | $310.90
32604 | T |  | Thoracoscopy, diagnostic | 0069 | 28.6334 | $1,554.48 | $591.64 | $310.90
32605 | T |  | Thoracoscopy, diagnostic | 0069 | 28.6334 | $1,554.48 | $591.64 | $310.90
32606 | T |  | Thoracoscopy, diagnostic | 0069 | 28.6334 | $1,554.48 | $591.64 | $310.90
32650 | C |  | Thoracoscopy, surgical |  |  |  |  |
32651 | C |  | Thoracoscopy, surgical |  |  |  |  |
32652 | C |  | Thoracoscopy, surgical |  |  |  |  |
32653 | C |  | Thoracoscopy, surgical |  |  |  |  |
32654 | C |  | Thoracoscopy, surgical |  |  |  |  |
32655 | C |  | Thoracoscopy, surgical |  |  |  |  |
32656 | C |  | Thoracoscopy, surgical |  |  |  |  |
32657 | C |  | Thoracoscopy, surgical |  |  |  |  |
32658 | C |  | Thoracoscopy, surgical |  |  |  |  |
32659 | C |  | Thoracoscopy, surgical |  |  |  |  |
32660 | C |  | Thoracoscopy, surgical |  |  |  |  |
32661 | C |  | Thoracoscopy, surgical |  |  |  |  |
32662 | C |  | Thoracoscopy, surgical |  |  |  |  |
32663 | C |  | Thoracoscopy, surgical |  |  |  |  |
32664 | C |  | Thoracoscopy, surgical |  |  |  |  |
32665 | C |  | Thoracoscopy, surgical |  |  |  |  |
32800 | C |  | Repair lung hernia |  |  |  |  |
32810 | C |  | Close chest after drainage |  |  |  |  |
32815 | C |  | Close bronchial fistula |  |  |  |  |
32820 | C |  | Reconstruct injured chest |  |  |  |  |
32850 | C |  | Donor pneumonectomy |  |  |  |  |
32851 | C |  | Lung transplant, single |  |  |  |  |
32852 | C |  | Lung transplant with bypass |  |  |  |  |
32853 | C |  | Lung transplant, double |  |  |  |  |
32854 | C |  | Lung transplant with bypass |  |  |  |  |
32900 | C |  | Removal of rib(s) |  |  |  |  |
32905 | C |  | Revise & repair chest wall |  |  |  |  |
32906 | C |  | Revise & repair chest wall |  |  |  |  |
32940 | C |  | Revision of lung |  |  |  |  |
32960 | T |  | Therapeutic pneumothorax | 0070 | 3.1393 | $170.43 |  | $34.09
32997 | C |  | Total lung lavage |  |  |  |  |
32999 | T |  | Chest surgery procedure | 0070 | 3.1393 | $170.43 |  | $34.09
33010 | T |  | Drainage of heart sac | 0070 | 3.1393 | $170.43 |  | $34.09
33011 | T |  | Repeat drainage of heart sac | 0070 | 3.1393 | $170.43 |  | $34.09
33015 | C |  | Incision of heart sac |  |  |  |  |
33020 | C |  | Incision of heart sac |  |  |  |  |
33025 | C |  | Incision of heart sac |  |  |  |  |
33030 | C |  | Partial removal of heart sac |  |  |  |  |
33031 | C |  | Partial removal of heart sac |  |  |  |  |
33050 | C |  | Removal of heart sac lesion |  |  |  |  |
33120 | C |  | Removal of heart lesion |  |  |  |  |
33130 | C |  | Removal of heart lesion |  |  |  |  |
33140 | C |  | Heart revascularize (tmr) |  |  |  |  |
33141 | C |  | Heart tmr w/other procedure |  |  |  |  |
33200 | C |  | Insertion of heart pacemaker |  |  |  |  |
33201 | C |  | Insertion of heart pacemaker |  |  |  |  |
33206 | T |  | Insertion of heart pacemaker | 0089 | 116.1611 | $6,306.27 | $1,722.59 | $1,261.25
33207 | T |  | Insertion of heart pacemaker | 0089 | 116.1611 | $6,306.27 | $1,722.59 | $1,261.25
33208 | T |  | Insertion of heart pacemaker | 0655 | 142.2244 | $7,721.22 |  | $1,544.24
33210 | T |  | Insertion of heart electrode | 0106 | 49.9534 | $2,711.92 | $542.39 | $542.38
33211 | T |  | Insertion of heart electrode | 0106 | 49.9534 | $2,711.92 | $542.39 | $542.38
33212 | T |  | Insertion of pulse generator | 0090 | 87.2850 | $4,738.62 | $1,705.90 | $947.72
33213 | T |  | Insertion of pulse generator | 0654 | 103.8544 | $5,638.15 |  | $1,127.63
33214 | T |  | Upgrade of pacemaker system | 0655 | 142.2244 | $7,721.22 |  | $1,544.24
33215 | T |  | Reposition pacing-defib lead | 0105 | 18.9084 | $1,026.52 | $370.40 | $205.30
33216 | T |  | Revise eltrd pacing-defib | 0106 | 49.9534 | $2,711.92 | $542.39 | $542.38
33217 | T |  | Insert lead pace-defib, dual | 0106 | 49.9534 | $2,711.92 | $542.39 | $542.38
33218 | T |  | Repair lead pace-defib, one | 0106 | 49.9534 | $2,711.92 | $542.39 | $542.38
33220 | T |  | Repair lead pace-defib, dual | 0106 | 49.9534 | $2,711.92 | $542.39 | $542.38
33222 | T |  | Revise pocket, pacemaker | 0027 | 15.8319 | $859.50 | $329.72 | $171.90
33223 | T |  | Revise pocket, pacing-defib | 0027 | 15.8319 | $859.50 | $329.72 | $171.90
33224 | T |  | Insert pacing lead & connect | 1547 |  | $850.00 |  | $170.00
33225 | T |  | L ventric pacing lead add-on | 1550 |  | $1,150.00 |  | $230.00
33226 | T |  | Reposition l ventric lead | 0105 | 18.9084 | $1,026.52 | $370.40 | $205.30
33233 | T |  | Removal of pacemaker system | 0105 | 18.9084 | $1,026.52 | $370.40 | $205.30
33234 | T |  | Removal of pacemaker system | 0105 | 18.9084 | $1,026.52 | $370.40 | $205.30
33235 | T |  | Removal pacemaker electrode | 0105 | 18.9084 | $1,026.52 | $370.40 | $205.30
33236 | C |  | Remove electrode/thoracotomy |  |  |  |  |
33237 | C |  | Remove electrode/thoracotomy |  |  |  |  |
33238 | C |  | Remove electrode/thoracotomy |  |  |  |  |
33240 | T |  | Insert pulse generator | 0107 | 290.5429 | $15,773.28 | $3,429.62 | $3,154.66
33241 | T |  | Remove pulse generator | 0105 | 18.9084 | $1,026.52 | $370.40 | $205.30
33243 | C |  | Remove eltrd/thoracotomy |  |  |  |  |
33244 | T |  | Remove eltrd, transven | 0105 | 18.9084 | $1,026.52 | $370.40 | $205.30
33245 | C |  | Insert epic eltrd pace-defib |  |  |  |  |
33246 | C |  | Insert epic eltrd/generator |  |  |  |  |
33249 | T |  | Eltrd/insert pace-defib | 0108 | 489.5275 | $26,575.96 |  | $5,315.19
33250 | C |  | Ablate heart dysrhythm focus |  |  |  |  |
33251 | C |  | Ablate heart dysrhythm focus |  |  |  |  |
33253 | C |  | Reconstruct atria |  |  |  |  |
33261 | C |  | Ablate heart dysrhythm focus |  |  |  |  |
33282 | S |  | Implant pat-active ht record | 0680 | 61.4222 | $3,334.55 |  | $666.91
33284 | T |  | Remove pat-active ht record | 0109 | 7.7075 | $418.43 | $131.49 | $83.69
33300 | C |  | Repair of heart wound |  |  |  |  |
33305 | C |  | Repair of heart wound |  |  |  |  |
33310 | C |  | Exploratory heart surgery |  |  |  |  |
33315 | C |  | Exploratory heart surgery |  |  |  |  |
33320 | C |  | Repair major blood vessel(s) |  |  |  |  |
33321 | C |  | Repair major vessel |  |  |  |  |
33322 | C |  | Repair major blood vessel(s) |  |  |  |  |
33330 | C |  | Insert major vessel graft |  |  |  |  |
33332 | C |  | Insert major vessel graft |  |  |  |  |
33335 | C |  | Insert major vessel graft |  |  |  |  |
33400 | C |  | Repair of aortic valve |  |  |  |  |
33401 | C |  | Valvuloplasty, open |  |  |  |  |
33403 | C |  | Valvuloplasty, w/cp bypass |  |  |  |  |
33404 | C |  | Prepare heart-aorta conduit |  |  |  |  |
33405 | C |  | Replacement of aortic valve |  |  |  |  |
33406 | C |  | Replacement of aortic valve |  |  |  |  |
33410 | C |  | Replacement of aortic valve |  |  |  |  |
33411 | C |  | Replacement of aortic valve |  |  |  |  |
33412 | C |  | Replacement of aortic valve |  |  |  |  |
33413 | C |  | Replacement of aortic valve |  |  |  |  |
33414 | C |  | Repair of aortic valve |  |  |  |  |
33415 | C |  | Revision, subvalvular tissue |  |  |  |  |
33416 | C |  | Revise ventricle muscle |  |  |  |  |
33417 | C |  | Repair of aortic valve |  |  |  |  |
33420 | C |  | Revision of mitral valve |  |  |  |  |
33422 | C |  | Revision of mitral valve |  |  |  |  |
33425 | C |  | Repair of mitral valve |  |  |  |  |
33426 | C |  | Repair of mitral valve |  |  |  |  |
33427 | C |  | Repair of mitral valve |  |  |  |  |
33430 | C |  | Replacement of mitral valve |  |  |  |  |
33460 | C |  | Revision of tricuspid valve |  |  |  |  |
33463 | C |  | Valvuloplasty, tricuspid |  |  |  |  |
33464 | C |  | Valvuloplasty, tricuspid |  |  |  |  |
33465 | C |  | Replace tricuspid valve |  |  |  |  |
33468 | C |  | Revision of tricuspid valve |  |  |  |  |
33470 | C |  | Revision of pulmonary valve |  |  |  |  |
33471 | C |  | Valvotomy, pulmonary valve |  |  |  |  |
33472 | C |  | Revision of pulmonary valve |  |  |  |  |
33474 | C |  | Revision of pulmonary valve |  |  |  |  |
33475 | C |  | Replacement, pulmonary valve |  |  |  |  |
33476 | C |  | Revision of heart chamber |  |  |  |  |
33478 | C |  | Revision of heart chamber |  |  |  |  |
33496 | C |  | Repair, prosth valve clot |  |  |  |  |
33500 | C |  | Repair heart vessel fistula |  |  |  |  |
33501 | C |  | Repair heart vessel fistula |  |  |  |  |
33502 | C |  | Coronary artery correction |  |  |  |  |
33503 | C |  | Coronary artery graft |  |  |  |  |
33504 | C |  | Coronary artery graft |  |  |  |  |
33505 | C |  | Repair artery w/tunnel |  |  |  |  |
33506 | C |  | Repair artery, translocation |  |  |  |  |
33508 | N |  | Endoscopic vein harvest |  |  |  |  |
33510 | C |  | CABG, vein, single |  |  |  |  |
33511 | C |  | CABG, vein, two |  |  |  |  |
33512 | C |  | CABG, vein, three |  |  |  |  |
33513 | C |  | CABG, vein, four |  |  |  |  |
33514 | C |  | CABG, vein, five |  |  |  |  |
33516 | C |  | Cabg, vein, six or more |  |  |  |  |
33517 | C |  | CABG, artery-vein, single |  |  |  |  |
33518 | C |  | CABG, artery-vein, two |  |  |  |  |
33519 | C |  | CABG, artery-vein, three |  |  |  |  |
33521 | C |  | CABG, artery-vein, four |  |  |  |  |
33522 | C |  | CABG, artery-vein, five |  |  |  |  |
33523 | C |  | Cabg, art-vein, six or more |  |  |  |  |
33530 | C |  | Coronary artery, bypass/reop |  |  |  |  |
33533 | C |  | CABG, arterial, single |  |  |  |  |
33534 | C |  | CABG, arterial, two |  |  |  |  |
33535 | C |  | CABG, arterial, three |  |  |  |  |
33536 | C |  | Cabg, arterial, four or more |  |  |  |  |
33542 | C |  | Removal of heart lesion |  |  |  |  |
33545 | C |  | Repair of heart damage |  |  |  |  |
33572 | C |  | Open coronary endarterectomy |  |  |  |  |
33600 | C |  | Closure of valve |  |  |  |  |
33602 | C |  | Closure of valve |  |  |  |  |
33606 | C |  | Anastomosis/artery-aorta |  |  |  |  |
33608 | C |  | Repair anomaly w/conduit |  |  |  |  |
33610 | C |  | Repair by enlargement |  |  |  |  |
33611 | C |  | Repair double ventricle |  |  |  |  |
33612 | C |  | Repair double ventricle |  |  |  |  |
33615 | C |  | Repair, modified fontan |  |  |  |  |
33617 | C |  | Repair single ventricle |  |  |  |  |
33619 | C |  | Repair single ventricle |  |  |  |  |
33641 | C |  | Repair heart septum defect |  |  |  |  |
33645 | C |  | Revision of heart veins |  |  |  |  |
33647 | C |  | Repair heart septum defects |  |  |  |  |
33660 | C |  | Repair of heart defects |  |  |  |  |
33665 | C |  | Repair of heart defects |  |  |  |  |
33670 | C |  | Repair of heart chambers |  |  |  |  |
33681 | C |  | Repair heart septum defect |  |  |  |  |
33684 | C |  | Repair heart septum defect |  |  |  |  |
33688 | C |  | Repair heart septum defect |  |  |  |  |
33690 | C |  | Reinforce pulmonary artery |  |  |  |  |
33692 | C |  | Repair of heart defects |  |  |  |  |
33694 | C |  | Repair of heart defects |  |  |  |  |
33697 | C |  | Repair of heart defects |  |  |  |  |
33702 | C |  | Repair of heart defects |  |  |  |  |
33710 | C |  | Repair of heart defects |  |  |  |  |
33720 | C |  | Repair of heart defect |  |  |  |  |
33722 | C |  | Repair of heart defect |  |  |  |  |
33730 | C |  | Repair heart-vein defect(s) |  |  |  |  |
33732 | C |  | Repair heart-vein defect |  |  |  |  |
33735 | C |  | Revision of heart chamber |  |  |  |  |
33736 | C |  | Revision of heart chamber |  |  |  |  |
33737 | C |  | Revision of heart chamber |  |  |  |  |
33750 | C |  | Major vessel shunt |  |  |  |  |
33755 | C |  | Major vessel shunt |  |  |  |  |
33762 | C |  | Major vessel shunt |  |  |  |  |
33764 | C |  | Major vessel shunt & graft |  |  |  |  |
33766 | C |  | Major vessel shunt |  |  |  |  |
33767 | C |  | Major vessel shunt |  |  |  |  |
33770 | C |  | Repair great vessels defect |  |  |  |  |
33771 | C |  | Repair great vessels defect |  |  |  |  |
33774 | C |  | Repair great vessels defect |  |  |  |  |
33775 | C |  | Repair great vessels defect |  |  |  |  |
33776 | C |  | Repair great vessels defect |  |  |  |  |
33777 | C |  | Repair great vessels defect |  |  |  |  |
33778 | C |  | Repair great vessels defect |  |  |  |  |
33779 | C |  | Repair great vessels defect |  |  |  |  |
33780 | C |  | Repair great vessels defect |  |  |  |  |
33781 | C |  | Repair great vessels defect |  |  |  |  |
33786 | C |  | Repair arterial trunk |  |  |  |  |
33788 | C |  | Revision of pulmonary artery |  |  |  |  |
33800 | C |  | Aortic suspension |  |  |  |  |
33802 | C |  | Repair vessel defect |  |  |  |  |
33803 | C |  | Repair vessel defect |  |  |  |  |
33813 | C |  | Repair septal defect |  |  |  |  |
33814 | C |  | Repair septal defect |  |  |  |  |
33820 | C |  | Revise major vessel |  |  |  |  |
33822 | C |  | Revise major vessel |  |  |  |  |
33824 | C |  | Revise major vessel |  |  |  |  |
33840 | C |  | Remove aorta constriction |  |  |  |  |
33845 | C |  | Remove aorta constriction |  |  |  |  |
33851 | C |  | Remove aorta constriction |  |  |  |  |
33852 | C |  | Repair septal defect |  |  |  |  |
33853 | C |  | Repair septal defect |  |  |  |  |
33860 | C |  | Ascending aortic graft |  |  |  |  |
33861 | C |  | Ascending aortic graft |  |  |  |  |
33863 | C |  | Ascending aortic graft |  |  |  |  |
33870 | C |  | Transverse aortic arch graft |  |  |  |  |
33875 | C |  | Thoracic aortic graft |  |  |  |  |
33877 | C |  | Thoracoabdominal graft |  |  |  |  |
33910 | C |  | Remove lung artery emboli |  |  |  |  |
33915 | C |  | Remove lung artery emboli |  |  |  |  |
33916 | C |  | Surgery of great vessel |  |  |  |  |
33917 | C |  | Repair pulmonary artery |  |  |  |  |
33918 | C |  | Repair pulmonary atresia |  |  |  |  |
33919 | C |  | Repair pulmonary atresia |  |  |  |  |
33920 | C |  | Repair pulmonary atresia |  |  |  |  |
33922 | C |  | Transect pulmonary artery |  |  |  |  |
33924 | C |  | Remove pulmonary shunt |  |  |  |  |
33930 | C |  | Removal of donor heart/lung |  |  |  |  |
33935 | C |  | Transplantation, heart/lung |  |  |  |  |
33940 | C |  | Removal of donor heart |  |  |  |  |
33945 | C |  | Transplantation of heart |  |  |  |  |
33960 | C |  | External circulation assist |  |  |  |  |
33961 | C |  | External circulation assist |  |  |  |  |
33967 | C |  | Insert ia percut device |  |  |  |  |
33968 | C |  | Remove aortic assist device |  |  |  |  |
33970 | C |  | Aortic circulation assist |  |  |  |  |
33971 | C |  | Aortic circulation assist |  |  |  |  |
33973 | C |  | Insert balloon device |  |  |  |  |
33974 | C |  | Remove intra-aortic balloon |  |  |  |  |
33975 | C |  | Implant ventricular device |  |  |  |  |
33976 | C |  | Implant ventricular device |  |  |  |  |
33977 | C |  | Remove ventricular device |  |  |  |  |
33978 | C |  | Remove ventricular device |  |  |  |  |
33979 | C |  | Insert intracorporeal device |  |  |  |  |
33980 | C |  | Remove intracorporeal device |  |  |  |  |
33999 | T |  | Cardiac surgery procedure | 0070 | 3.1393 | $170.43 |  | $34.09
34001 | C |  | Removal of artery clot |  |  |  |  |
34051 | C |  | Removal of artery clot |  |  |  |  |
34101 | T |  | Removal of artery clot | 0088 | 34.6065 | $1,878.75 | $655.22 | $375.75
34111 | T |  | Removal of arm artery clot | 0088 | 34.6065 | $1,878.75 | $655.22 | $375.75
34151 | C |  | Removal of artery clot |  |  |  |  |
34201 | T |  | Removal of artery clot | 0088 | 34.6065 | $1,878.75 | $655.22 | $375.75
34203 | T |  | Removal of leg artery clot | 0088 | 34.6065 | $1,878.75 | $655.22 | $375.75
34401 | C |  | Removal of vein clot |  |  |  |  |
34421 | T |  | Removal of vein clot | 0088 | 34.6065 | $1,878.75 | $655.22 | $375.75
34451 | C |  | Removal of vein clot |  |  |  |  |
34471 | T |  | Removal of vein clot | 0088 | 34.6065 | $1,878.75 | $655.22 | $375.75
34490 | T |  | Removal of vein clot | 0088 | 34.6065 | $1,878.75 | $655.22 | $375.75
34501 | T |  | Repair valve, femoral vein | 0088 | 34.6065 | $1,878.75 | $655.22 | $375.75
34502 | C |  | Reconstruct vena cava |  |  |  |  |
34510 | T |  | Transposition of vein valve | 0088 | 34.6065 | $1,878.75 | $655.22 | $375.75
34520 | T |  | Cross-over vein graft | 0088 | 34.6065 | $1,878.75 | $655.22 | $375.75
34530 | T |  | Leg vein fusion | 0088 | 34.6065 | $1,878.75 | $655.22 | $375.75
34800 | C |  | Endovasc abdo repair w/tube |  |  |  |  |
34802 | C |  | Endovasc abdo repr w/device |  |  |  |  |
34804 | C |  | Endovasc abdo repr w/device |  |  |  |  |
34808 | C |  | Endovasc abdo occlud device |  |  |  |  |
34812 | C |  | Xpose for endoprosth, aortic |  |  |  |  |
34813 | C |  | Femoral endovas graft add-on |  |  |  |  |
34820 | C |  | Xpose for endoprosth, iliac |  |  |  |  |
34825 | C |  | Endovasc extend prosth, init |  |  |  |  |
34826 | C |  | Endovasc exten prosth, addl |  |  |  |  |
34830 | C |  | Open aortic tube prosth repr |  |  |  |  |
34831 | C |  | Open aortoiliac prosth repr |  |  |  |  |
34832 | C |  | Open aortofemor prosth repr |  |  |  |  |
34833 | C |  | Xpose for endoprosth, iliac |  |  |  |  |
34834 | C |  | Xpose, endoprosth, brachial |  |  |  |  |
34900 | C |  | Endovasc iliac repr w/graft |  |  |  |  |
35001 | C |  | Repair defect of artery |  |  |  |  |
35002 | C |  | Repair artery rupture, neck |  |  |  |  |
35005 | C |  | Repair defect of artery |  |  |  |  |
35011 | T |  | Repair defect of artery | 0653 | 32.4880 | $1,763.74 |  | $352.75
35013 | C |  | Repair artery rupture, arm |  |  |  |  |
35021 | C |  | Repair defect of artery |  |  |  |  |
35022 | C |  | Repair artery rupture, chest |  |  |  |  |
35045 | C |  | Repair defect of arm artery |  |  |  |  |
35081 | C |  | Repair defect of artery |  |  |  |  |
35082 | C |  | Repair artery rupture, aorta |  |  |  |  |
35091 | C |  | Repair defect of artery |  |  |  |  |
35092 | C |  | Repair artery rupture, aorta |  |  |  |  |
35102 | C |  | Repair defect of artery |  |  |  |  |
35103 | C |  | Repair artery rupture, groin |  |  |  |  |
35111 | C |  | Repair defect of artery |  |  |  |  |
35112 | C |  | Repair artery rupture,spleen |  |  |  |  |
35121 | C |  | Repair defect of artery |  |  |  |  |
35122 | C |  | Repair artery rupture, belly |  |  |  |  |
35131 | C |  | Repair defect of artery |  |  |  |  |
35132 | C |  | Repair artery rupture, groin |  |  |  |  |
35141 | C |  | Repair defect of artery |  |  |  |  |
35142 | C |  | Repair artery rupture, thigh |  |  |  |  |
35151 | C |  | Repair defect of artery |  |  |  |  |
35152 | C |  | Repair artery rupture, knee |  |  |  |  |
35161 | C |  | Repair defect of artery |  |  |  |  |
35162 | C |  | Repair artery rupture |  |  |  |  |
35180 | T |  | Repair blood vessel lesion | 0093 | 20.6662 | $1,121.95 | $277.34 | $224.39
35182 | C |  | Repair blood vessel lesion |  |  |  |  |
35184 | T |  | Repair blood vessel lesion | 0093 | 20.6662 | $1,121.95 | $277.34 | $224.39
35188 | T |  | Repair blood vessel lesion | 0088 | 34.6065 | $1,878.75 | $655.22 | $375.75
35189 | C |  | Repair blood vessel lesion |  |  |  |  |
35190 | T |  | Repair blood vessel lesion | 0093 | 20.6662 | $1,121.95 | $277.34 | $224.39
35201 | T |  | Repair blood vessel lesion | 0093 | 20.6662 | $1,121.95 | $277.34 | $224.39
35206 | T |  | Repair blood vessel lesion | 0093 | 20.6662 | $1,121.95 | $277.34 | $224.39
35207 | T |  | Repair blood vessel lesion | 0088 | 34.6065 | $1,878.75 | $655.22 | $375.75
35211 | C |  | Repair blood vessel lesion |  |  |  |  |
35216 | C |  | Repair blood vessel lesion |  |  |  |  |
35221 | C |  | Repair blood vessel lesion |  |  |  |  |
35226 | T |  | Repair blood vessel lesion | 0093 | 20.6662 | $1,121.95 | $277.34 | $224.39
35231 | T |  | Repair blood vessel lesion | 0093 | 20.6662 | $1,121.95 | $277.34 | $224.39
35236 | T |  | Repair blood vessel lesion | 0093 | 20.6662 | $1,121.95 | $277.34 | $224.39
35241 | C |  | Repair blood vessel lesion |  |  |  |  |
35246 | C |  | Repair blood vessel lesion |  |  |  |  |
35251 | C |  | Repair blood vessel lesion |  |  |  |  |
35256 | T |  | Repair blood vessel lesion | 0093 | 20.6662 | $1,121.95 | $277.34 | $224.39
35261 | T |  | Repair blood vessel lesion | 0653 | 32.4880 | $1,763.74 |  | $352.75
35266 | T |  | Repair blood vessel lesion | 0653 | 32.4880 | $1,763.74 |  | $352.75
35271 | C |  | Repair blood vessel lesion |  |  |  |  |
35276 | C |  | Repair blood vessel lesion |  |  |  |  |
35281 | C |  | Repair blood vessel lesion |  |  |  |  |
35286 | T |  | Repair blood vessel lesion | 0653 | 32.4880 | $1,763.74 |  | $352.75
35301 | C |  | Rechanneling of artery |  |  |  |  |
35311 | C |  | Rechanneling of artery |  |  |  |  |
35321 | T |  | Rechanneling of artery | 0093 | 20.6662 | $1,121.95 | $277.34 | $224.39
35331 | C |  | Rechanneling of artery |  |  |  |  |
35341 | C |  | Rechanneling of artery |  |  |  |  |
35351 | C |  | Rechanneling of artery |  |  |  |  |
35355 | C |  | Rechanneling of artery |  |  |  |  |
35361 | C |  | Rechanneling of artery |  |  |  |  |
35363 | C |  | Rechanneling of artery |  |  |  |  |
35371 | C |  | Rechanneling of artery |  |  |  |  |
35372 | C |  | Rechanneling of artery |  |  |  |  |
35381 | C |  | Rechanneling of artery |  |  |  |  |
35390 | C |  | Reoperation, carotid add-on |  |  |  |  |
35400 | C |  | Angioscopy |  |  |  |  |
35450 | C |  | Repair arterial blockage |  |  |  |  |
35452 | C |  | Repair arterial blockage |  |  |  |  |
35454 | C |  | Repair arterial blockage |  |  |  |  |
35456 | C |  | Repair arterial blockage |  |  |  |  |
35458 | T |  | Repair arterial blockage | 0081 | 34.8355 | $1,891.18 |  | $378.24
35459 | T |  | Repair arterial blockage | 0081 | 34.8355 | $1,891.18 |  | $378.24
35460 | T |  | Repair venous blockage | 0081 | 34.8355 | $1,891.18 |  | $378.24
35470 | T |  | Repair arterial blockage | 0081 | 34.8355 | $1,891.18 |  | $378.24
35471 | T |  | Repair arterial blockage | 0081 | 34.8355 | $1,891.18 |  | $378.24
35472 | T |  | Repair arterial blockage | 0081 | 34.8355 | $1,891.18 |  | $378.24
35473 | T |  | Repair arterial blockage | 0081 | 34.8355 | $1,891.18 |  | $378.24
35474 | T |  | Repair arterial blockage | 0081 | 34.8355 | $1,891.18 |  | $378.24
35475 | T |  | Repair arterial blockage | 0081 | 34.8355 | $1,891.18 |  | $378.24
35476 | T |  | Repair venous blockage | 0081 | 34.8355 | $1,891.18 |  | $378.24
35480 | C |  | Atherectomy, open |  |  |  |  |
35481 | C |  | Atherectomy, open |  |  |  |  |
35482 | C |  | Atherectomy, open |  |  |  |  |
35483 | C |  | Atherectomy, open |  |  |  |  |
35484 | T |  | Atherectomy, open | 0081 | 34.8355 | $1,891.18 |  | $378.24
35485 | T |  | Atherectomy, open | 0081 | 34.8355 | $1,891.18 |  | $378.24
35490 | T |  | Atherectomy, percutaneous | 0081 | 34.8355 | $1,891.18 |  | $378.24
35491 | T |  | Atherectomy, percutaneous | 0081 | 34.8355 | $1,891.18 |  | $378.24
35492 | T |  | Atherectomy, percutaneous | 0081 | 34.8355 | $1,891.18 |  | $378.24
35493 | T |  | Atherectomy, percutaneous | 0081 | 34.8355 | $1,891.18 |  | $378.24
35494 | T |  | Atherectomy, percutaneous | 0081 | 34.8355 | $1,891.18 |  | $378.24
35495 | T |  | Atherectomy, percutaneous | 0081 | 34.8355 | $1,891.18 |  | $378.24
35500 | T |  | Harvest vein for bypass | 0081 | 34.8355 | $1,891.18 |  | $378.24
35501 | C |  | Artery bypass graft |  |  |  |  |
35506 | C |  | Artery bypass graft |  |  |  |  |
35507 | C |  | Artery bypass graft |  |  |  |  |
35508 | C |  | Artery bypass graft |  |  |  |  |
35509 | C |  | Artery bypass graft |  |  |  |  |
35511 | C |  | Artery bypass graft |  |  |  |  |
35515 | C |  | Artery bypass graft |  |  |  |  |
35516 | C |  | Artery bypass graft |  |  |  |  |
35518 | C |  | Artery bypass graft |  |  |  |  |
35521 | C |  | Artery bypass graft |  |  |  |  |
35526 | C |  | Artery bypass graft |  |  |  |  |
35531 | C |  | Artery bypass graft |  |  |  |  |
35533 | C |  | Artery bypass graft |  |  |  |  |
35536 | C |  | Artery bypass graft |  |  |  |  |
35541 | C |  | Artery bypass graft |  |  |  |  |
35546 | C |  | Artery bypass graft |  |  |  |  |
35548 | C |  | Artery bypass graft |  |  |  |  |
35549 | C |  | Artery bypass graft |  |  |  |  |
35551 | C |  | Artery bypass graft |  |  |  |  |
35556 | C |  | Artery bypass graft |  |  |  |  |
35558 | C |  | Artery bypass graft |  |  |  |  |
35560 | C |  | Artery bypass graft |  |  |  |  |
35563 | C |  | Artery bypass graft |  |  |  |  |
35565 | C |  | Artery bypass graft |  |  |  |  |
35566 | C |  | Artery bypass graft |  |  |  |  |
35571 | C |  | Artery bypass graft |  |  |  |  |
35572 | N |  | Harvest femoropopliteal vein |  |  |  |  |
35582 | C |  | Vein bypass graft |  |  |  |  |
35583 | C |  | Vein bypass graft |  |  |  |  |
35585 | C |  | Vein bypass graft |  |  |  |  |
35587 | C |  | Vein bypass graft |  |  |  |  |
35600 | C |  | Harvest artery for cabg |  |  |  |  |
35601 | C |  | Artery bypass graft |  |  |  |  |
35606 | C |  | Artery bypass graft |  |  |  |  |
35612 | C |  | Artery bypass graft |  |  |  |  |
35616 | C |  | Artery bypass graft |  |  |  |  |
35621 | C |  | Artery bypass graft |  |  |  |  |
35623 | C |  | Bypass graft, not vein |  |  |  |  |
35626 | C |  | Artery bypass graft |  |  |  |  |
35631 | C |  | Artery bypass graft |  |  |  |  |
35636 | C |  | Artery bypass graft |  |  |  |  |
35641 | C |  | Artery bypass graft |  |  |  |  |
35642 | C |  | Artery bypass graft |  |  |  |  |
35645 | C |  | Artery bypass graft |  |  |  |  |
35646 | C |  | Artery bypass graft |  |  |  |  |
35647 | C |  | Artery bypass graft |  |  |  |  |
35650 | C |  | Artery bypass graft |  |  |  |  |
35651 | C |  | Artery bypass graft |  |  |  |  |
35654 | C |  | Artery bypass graft |  |  |  |  |
35656 | C |  | Artery bypass graft |  |  |  |  |
35661 | C |  | Artery bypass graft |  |  |  |  |
35663 | C |  | Artery bypass graft |  |  |  |  |
35665 | C |  | Artery bypass graft |  |  |  |  |
35666 | C |  | Artery bypass graft |  |  |  |  |
35671 | C |  | Artery bypass graft |  |  |  |  |
35681 | C |  | Composite bypass graft |  |  |  |  |
35682 | C |  | Composite bypass graft |  |  |  |  |
35683 | C |  | Composite bypass graft |  |  |  |  |
35685 | T |  | Bypass graft patency/patch | 0093 | 20.6662 | $1,121.95 | $277.34 | $224.39
35686 | T |  | Bypass graft/av fist patency | 0093 | 20.6662 | $1,121.95 | $277.34 | $224.39
35691 | C |  | Arterial transposition |  |  |  |  |
35693 | C |  | Arterial transposition |  |  |  |  |
35694 | C |  | Arterial transposition |  |  |  |  |
35695 | C |  | Arterial transposition |  |  |  |  |
35700 | C |  | Reoperation, bypass graft |  |  |  |  |
35701 | C |  | Exploration, carotid artery |  |  |  |  |
35721 | C |  | Exploration, femoral artery |  |  |  |  |
35741 | C |  | Exploration popliteal artery |  |  |  |  |
35761 | T |  | Exploration of artery/vein | 0115 | 25.6233 | $1,391.06 | $459.35 | $278.21
35800 | C |  | Explore neck vessels |  |  |  |  |
35820 | C |  | Explore chest vessels |  |  |  |  |
35840 | C |  | Explore abdominal vessels |  |  |  |  |
35860 | T |  | Explore limb vessels | 0093 | 20.6662 | $1,121.95 | $277.34 | $224.39
35870 | C |  | Repair vessel graft defect |  |  |  |  |
35875 | T |  | Removal of clot in graft | 0088 | 34.6065 | $1,878.75 | $655.22 | $375.75
35876 | T |  | Removal of clot in graft | 0088 | 34.6065 | $1,878.75 | $655.22 | $375.75
35879 | T |  | Revise graft w/vein | 0088 | 34.6065 | $1,878.75 | $655.22 | $375.75
35881 | T |  | Revise graft w/vein | 0088 | 34.6065 | $1,878.75 | $655.22 | $375.75
35901 | C |  | Excision, graft, neck |  |  |  |  |
35903 | T |  | Excision, graft, extremity | 0115 | 25.6233 | $1,391.06 | $459.35 | $278.21
35905 | C |  | Excision, graft, thorax |  |  |  |  |
35907 | C |  | Excision, graft, abdomen |  |  |  |  |
36000 | N |  | Place needle in vein |  |  |  |  |
36002 | S |  | Pseudoaneurysm injection trt | 0267 | 2.4805 | $134.66 | $65.52 | $26.93
36005 | N |  | Injection ext venography |  |  |  |  |
36010 | N |  | Place catheter in vein |  |  |  |  |
36011 | N |  | Place catheter in vein |  |  |  |  |
36012 | N |  | Place catheter in vein |  |  |  |  |
36013 | N |  | Place catheter in artery |  |  |  |  |
36014 | N |  | Place catheter in artery |  |  |  |  |
36015 | N |  | Place catheter in artery |  |  |  |  |
36100 | N |  | Establish access to artery |  |  |  |  |
36120 | N |  | Establish access to artery |  |  |  |  |
36140 | N |  | Establish access to artery |  |  |  |  |
36145 | N |  | Artery to vein shunt |  |  |  |  |
36160 | N |  | Establish access to aorta |  |  |  |  |
36200 | N |  | Place catheter in aorta |  |  |  |  |
36215 | N |  | Place catheter in artery |  |  |  |  |
36216 | N |  | Place catheter in artery |  |  |  |  |
36217 | N |  | Place catheter in artery |  |  |  |  |
36218 | N |  | Place catheter in artery |  |  |  |  |
36245 | N |  | Place catheter in artery |  |  |  |  |
36246 | N |  | Place catheter in artery |  |  |  |  |
36247 | N |  | Place catheter in artery |  |  |  |  |
36248 | N |  | Place catheter in artery |  |  |  |  |
36260 | T |  | Insertion of infusion pump | 0119 | 129.8988 | $7,052.08 |  | $1,410.42
36261 | T |  | Revision of infusion pump | 0124 | 27.4545 | $1,490.48 | $298.10 | $298.10
36262 | T |  | Removal of infusion pump | 0109 | 7.7075 | $418.43 | $131.49 | $83.69
36299 | N |  | Vessel injection procedure |  |  |  |  |
36400 | N |  | Bl draw < 3 yrs fem/jugular |  |  |  |  |
36405 | N |  | Bl draw < 3 yrs scalp vein |  |  |  |  |
36406 | N |  | Bl draw < 3 yrs other vein |  |  |  |  |
36410 | N |  | Non-routine bl draw > 3 yrs |  |  |  |  |
36415 | E |  | Drawing blood |  |  |  |  |
36416 | E |  | Capillary blood draw |  |  |  |  |
36420 | T |  | Vein access cutdown < 1 yr | 0035 | 0.2236 | $12.14 | $3.51 | $2.43
36425 | T |  | Vein access cutdown > 1 yr | 0035 | 0.2236 | $12.14 | $3.51 | $2.43
36430 | S |  | Blood transfusion service | 0110 | 3.7128 | $201.56 |  | $40.31
36440 | S |  | Bl push transfuse, 2 yr or < | 0110 | 3.7128 | $201.56 |  | $40.31
36450 | S |  | Bl exchange/transfuse, nb | 0110 | 3.7128 | $201.56 |  | $40.31
36455 | S |  | Bl exchange/transfuse non-nb | 0110 | 3.7128 | $201.56 |  | $40.31
36460 | S |  | Transfusion service, fetal | 0110 | 3.7128 | $201.56 |  | $40.31
36468 | T |  | Injection(s), spider veins | 0098 | 1.1630 | $63.14 | $15.17 | $12.63
36469 | T |  | Injection(s), spider veins | 0098 | 1.1630 | $63.14 | $15.17 | $12.63
36470 | T |  | Injection therapy of vein | 0098 | 1.1630 | $63.14 | $15.17 | $12.63
36471 | T |  | Injection therapy of veins | 0098 | 1.1630 | $63.14 | $15.17 | $12.63
36481 | N |  | Insertion of catheter, vein |  |  |  |  |
36488 | T |  | Insertion of catheter, vein | 0032 | 11.5584 | $627.49 |  | $125.50
36489 | T |  | Insertion of catheter, vein | 0032 | 11.5584 | $627.49 |  | $125.50
36490 | T |  | Insertion of catheter, vein | 0032 | 11.5584 | $627.49 |  | $125.50
36491 | T |  | Insertion of catheter, vein | 0032 | 11.5584 | $627.49 |  | $125.50
36493 | X |  | Repositioning of cvc | 0187 | 4.4274 | $240.36 | $90.71 | $48.07
36500 | N |  | Insertion of catheter, vein |  |  |  |  |
36510 | C |  | Insertion of catheter, vein |  |  |  |  |
36511 | S |  | Apheresis wbc | 0111 | 14.0169 | $760.96 | $211.96 | $152.19
36512 | S |  | Apheresis rbc | 0111 | 14.0169 | $760.96 | $211.96 | $152.19
36513 | S |  | Apheresis platelets | 0111 | 14.0169 | $760.96 | $211.96 | $152.19
36514 | S |  | Apheresis plasma | 0111 | 14.0169 | $760.96 | $211.96 | $152.19
36515 | S |  | Apheresis, adsorp/reinfuse | 0112 | 34.8318 | $1,890.98 | $609.71 | $378.20
36516 | S |  | Apheresis, selective | 0112 | 34.8318 | $1,890.98 | $609.71 | $378.20
36522 | S |  | Photopheresis | 0112 | 34.8318 | $1,890.98 | $609.71 | $378.20
36530 | T |  | Insertion of infusion pump | 0119 | 129.8988 | $7,052.08 |  | $1,410.42
36531 | T |  | Revision of infusion pump | 0124 | 27.4545 | $1,490.48 | $298.10 | $298.10
36532 | T |  | Removal of infusion pump | 0109 | 7.7075 | $418.43 | $131.49 | $83.69
36533 | T |  | Insertion of access device | 0115 | 25.6233 | $1,391.06 | $459.35 | $278.21
36534 | T |  | Revision of access device | 0109 | 7.7075 | $418.43 | $131.49 | $83.69
36535 | T |  | Removal of access device | 0109 | 7.7075 | $418.43 | $131.49 | $83.69
36536 | T |  | Remove cva device obstruct | 1541 |  | $250.00 |  | $50.00
36537 | T |  | Remove cva lumen obstruct | 1541 |  | $250.00 |  | $50.00
36540 | N |  | Collect blood venous device |  |  |  |  |
36550 | T |  | Declot vascular device | 0677 | 3.0769 | $167.04 |  | $33.41
36600 | N |  | Withdrawal of arterial blood |  |  |  |  |
36620 | N |  | Insertion catheter, artery |  |  |  |  |
36625 | N |  | Insertion catheter, artery |  |  |  |  |
36640 | T |  | Insertion catheter, artery | 0032 | 11.5584 | $627.49 |  | $125.50
36660 | C |  | Insertion catheter, artery |  |  |  |  |
36680 | X |  | Insert needle, bone cavity | 0340 | 0.6232 | $33.83 |  | $6.77
36800 | T |  | Insertion of cannula | 0115 | 25.6233 | $1,391.06 | $459.35 | $278.21
36810 | T |  | Insertion of cannula | 0115 | 25.6233 | $1,391.06 | $459.35 | $278.21
36815 | T |  | Insertion of cannula | 0115 | 25.6233 | $1,391.06 | $459.35 | $278.21
36819 | T |  | Av fusion/uppr arm vein | 0088 | 34.6065 | $1,878.75 | $655.22 | $375.75
36820 | T |  | Av fusion/forearm vein | 0088 | 34.6065 | $1,878.75 | $655.22 | $375.75
36821 | T |  | Av fusion direct any site | 0088 | 34.6065 | $1,878.75 | $655.22 | $375.75
36822 | C |  | Insertion of cannula(s) |  |  |  |  |
36823 | C |  | Insertion of cannula(s) |  |  |  |  |
36825 | T |  | Artery-vein autograft | 0088 | 34.6065 | $1,878.75 | $655.22 | $375.75
36830 | T |  | Artery-vein graft | 0088 | 34.6065 | $1,878.75 | $655.22 | $375.75
36831 | T |  | Open thrombect av fistula | 0088 | 34.6065 | $1,878.75 | $655.22 | $375.75
36832 | T |  | Av fistula revision, open | 0088 | 34.6065 | $1,878.75 | $655.22 | $375.75
36833 | T |  | Av fistula revision | 0088 | 34.6065 | $1,878.75 | $655.22 | $375.75
36834 | T |  | Repair A-V aneurysm | 0088 | 34.6065 | $1,878.75 | $655.22 | $375.75
36835 | T |  | Artery to vein shunt | 0115 | 25.6233 | $1,391.06 | $459.35 | $278.21
36860 | T |  | External cannula declotting | 0103 | 12.1256 | $658.29 | $223.63 | $131.66
36861 | T |  | Cannula declotting | 0115 | 25.6233 | $1,391.06 | $459.35 | $278.21
36870 | T |  | Percut thrombect av fistula | 0653 | 32.4880 | $1,763.74 |  | $352.75
37140 | C |  | Revision of circulation |  |  |  |  |
37145 | C |  | Revision of circulation |  |  |  |  |
37160 | C |  | Revision of circulation |  |  |  |  |
37180 | C |  | Revision of circulation |  |  |  |  |
37181 | C |  | Splice spleen/kidney veins |  |  |  |  |
37182 | C |  | Insert hepatic shunt (tips) |  |  |  |  |
37183 | C |  | Remove hepatic shunt (tips) |  |  |  |  |
37195 | C |  | Thrombolytic therapy, stroke |  |  |  |  |
37200 | T |  | Transcatheter biopsy | 0685 | 4.8912 | $265.54 | $116.83 | $53.11
37201 | T |  | Transcatheter therapy infuse | 0676 | 3.7505 | $203.61 | $55.06 | $40.72
37202 | T |  | Transcatheter therapy infuse | 0677 | 3.0769 | $167.04 |  | $33.41
37203 | T |  | Transcatheter retrieval | 0103 | 12.1256 | $658.29 | $223.63 | $131.66
37204 | T |  | Transcatheter occlusion | 0115 | 25.6233 | $1,391.06 | $459.35 | $278.21
37205 | T |  | Transcatheter stent | 0229 | 59.4977 | $3,230.07 | $771.23 | $646.01
37206 | T |  | Transcatheter stent add-on | 0229 | 59.4977 | $3,230.07 | $771.23 | $646.01
37207 | T |  | Transcatheter stent | 0229 | 59.4977 | $3,230.07 | $771.23 | $646.01
37208 | T |  | Transcatheter stent add-on | 0229 | 59.4977 | $3,230.07 | $771.23 | $646.01
37209 | T |  | Exchange arterial catheter | 0103 | 12.1256 | $658.29 | $223.63 | $131.66
37250 | S |  | Iv us first vessel add-on | 0670 | 26.5472 | $1,441.22 | $521.95 | $288.24
37251 | S |  | Iv us each add vessel add-on | 0670 | 26.5472 | $1,441.22 | $521.95 | $288.24
37500 | T |  | Endoscopy ligate perf veins | 0092 | 25.1347 | $1,364.54 | $505.37 | $272.91
37501 | T |  | Vascular endoscopy procedure | 0092 | 25.1347 | $1,364.54 | $505.37 | $272.91
37565 | T |  | Ligation of neck vein | 0093 | 20.6662 | $1,121.95 | $277.34 | $224.39
37600 | T |  | Ligation of neck artery | 0093 | 20.6662 | $1,121.95 | $277.34 | $224.39
37605 | T |  | Ligation of neck artery | 0091 | 28.5187 | $1,548.25 | $348.23 | $309.65
37606 | T |  | Ligation of neck artery | 0091 | 28.5187 | $1,548.25 | $348.23 | $309.65
37607 | T |  | Ligation of a-v fistula | 0092 | 25.1347 | $1,364.54 | $505.37 | $272.91
37609 | T |  | Temporal artery procedure | 0021 | 14.5749 | $791.26 | $219.48 | $158.25
37615 | T |  | Ligation of neck artery | 0091 | 28.5187 | $1,548.25 | $348.23 | $309.65
37616 | C |  | Ligation of chest artery |  |  |  |  |
37617 | C |  | Ligation of abdomen artery |  |  |  |  |
37618 | C |  | Ligation of extremity artery |  |  |  |  |
37620 | T |  | Revision of major vein | 0091 | 28.5187 | $1,548.25 | $348.23 | $309.65
37650 | T |  | Revision of major vein | 0091 | 28.5187 | $1,548.25 | $348.23 | $309.65
37660 | C |  | Revision of major vein |  |  |  |  |
37700 | T |  | Revise leg vein | 0091 | 28.5187 | $1,548.25 | $348.23 | $309.65
37720 | T |  | Removal of leg vein | 0092 | 25.1347 | $1,364.54 | $505.37 | $272.91
37730 | T |  | Removal of leg veins | 0092 | 25.1347 | $1,364.54 | $505.37 | $272.91
37735 | T |  | Removal of leg veins/lesion | 0092 | 25.1347 | $1,364.54 | $505.37 | $272.91
37760 | T |  | Revision of leg veins | 0091 | 28.5187 | $1,548.25 | $348.23 | $309.65
37780 | T |  | Revision of leg vein | 0091 | 28.5187 | $1,548.25 | $348.23 | $309.65
37785 | T |  | Revise secondary varicosity | 0091 | 28.5187 | $1,548.25 | $348.23 | $309.65
37788 | C |  | Revascularization, penis |  |  |  |  |
37790 | T |  | Penile venous occlusion | 0181 | 29.0094 | $1,574.89 | $621.82 | $314.98
37799 | T |  | Vascular surgery procedure | 0035 | 0.2236 | $12.14 | $3.51 | $2.43
38100 | C |  | Removal of spleen, total |  |  |  |  |
38101 | C |  | Removal of spleen, partial |  |  |  |  |
38102 | C |  | Removal of spleen, total |  |  |  |  |
38115 | C |  | Repair of ruptured spleen |  |  |  |  |
38120 | T |  | Laparoscopy, splenectomy | 0131 | 40.8955 | $2,220.18 | $1,001.89 | $444.04
38129 | T |  | Laparoscope proc, spleen | 0130 | 32.5959 | $1,769.60 | $659.53 | $353.92
38200 | N |  | Injection for spleen x-ray |  |  |  |  |
38204 | E |  | Bl donor search management |  |  |  |  |
38205 | S |  | Harvest allogenic stem cells | 0111 | 14.0169 | $760.96 | $211.96 | $152.19
38206 | S |  | Harvest auto stem cells | 0111 | 14.0169 | $760.96 | $211.96 | $152.19
38207 | E |  | Cryopreserve stem cells |  |  |  |  |
38208 | E |  | Thaw preserved stem cells |  |  |  |  |
38209 | E |  | Wash harvest stem cells |  |  |  |  |
38210 | E |  | T-cell depletion of harvest |  |  |  |  |
38211 | E |  | Tumor cell deplete of harvst |  |  |  |  |
38212 | E |  | Rbc depletion of harvest |  |  |  |  |
38213 | E |  | Platelet deplete of harvest |  |  |  |  |
38214 | E |  | Volume deplete of harvest |  |  |  |  |
38215 | E |  | Harvest stem cell concentrte |  |  |  |  |
38220 | T |  | Bone marrow aspiration | 0003 | 2.2627 | $122.84 |  | $24.57
38221 | T |  | Bone marrow biopsy | 0003 | 2.2627 | $122.84 |  | $24.57
38230 | S |  | Bone marrow collection | 0123 | 4.0076 | $217.57 |  | $43.51
38240 | S |  | Bone marrow/stem transplant | 0123 | 4.0076 | $217.57 |  | $43.51
38241 | S |  | Bone marrow/stem transplant | 0123 | 4.0076 | $217.57 |  | $43.51
38242 | S |  | Lymphocyte infuse transplant | 0111 | 14.0169 | $760.96 | $211.96 | $152.19
38300 | T |  | Drainage, lymph node lesion | 0008 | 16.8303 | $913.70 |  | $182.74
38305 | T |  | Drainage, lymph node lesion | 0008 | 16.8303 | $913.70 |  | $182.74
38308 | T |  | Incision of lymph channels | 0113 | 19.9529 | $1,083.22 |  | $216.64
38380 | C |  | Thoracic duct procedure |  |  |  |  |
38381 | C |  | Thoracic duct procedure |  |  |  |  |
38382 | C |  | Thoracic duct procedure |  |  |  |  |
38500 | T |  | Biopsy/removal, lymph nodes | 0113 | 19.9529 | $1,083.22 |  | $216.64
38505 | T |  | Needle biopsy, lymph nodes | 0005 | 3.3675 | $182.82 | $71.59 | $36.56
38510 | T |  | Biopsy/removal, lymph nodes | 0113 | 19.9529 | $1,083.22 |  | $216.64
38520 | T |  | Biopsy/removal, lymph nodes | 0113 | 19.9529 | $1,083.22 |  | $216.64
38525 | T |  | Biopsy/removal, lymph nodes | 0113 | 19.9529 | $1,083.22 |  | $216.64
38530 | T |  | Biopsy/removal, lymph nodes | 0113 | 19.9529 | $1,083.22 |  | $216.64
38542 | T |  | Explore deep node(s), neck | 0114 | 37.3583 | $2,028.14 | $485.91 | $405.63
38550 | T |  | Removal, neck/armpit lesion | 0113 | 19.9529 | $1,083.22 |  | $216.64
38555 | T |  | Removal, neck/armpit lesion | 0113 | 19.9529 | $1,083.22 |  | $216.64
38562 | C |  | Removal, pelvic lymph nodes |  |  |  |  |
38564 | C |  | Removal, abdomen lymph nodes |  |  |  |  |
38570 | T |  | Laparoscopy, lymph node biop | 0131 | 40.8955 | $2,220.18 | $1,001.89 | $444.04
38571 | T |  | Laparoscopy, lymphadenectomy | 0132 | 56.6318 | $3,074.48 | $1,239.22 | $614.90
38572 | T |  | Laparoscopy, lymphadenectomy | 0131 | 40.8955 | $2,220.18 | $1,001.89 | $444.04
38589 | T |  | Laparoscope proc, lymphatic | 0130 | 32.5959 | $1,769.60 | $659.53 | $353.92
38700 | T |  | Removal of lymph nodes, neck | 0113 | 19.9529 | $1,083.22 |  | $216.64
38720 | T |  | Removal of lymph nodes, neck | 0113 | 19.9529 | $1,083.22 |  | $216.64
38724 | C |  | Removal of lymph nodes, neck |  |  |  |  |
38740 | T |  | Remove armpit lymph nodes | 0114 | 37.3583 | $2,028.14 | $485.91 | $405.63
38745 | T |  | Remove armpit lymph nodes | 0114 | 37.3583 | $2,028.14 | $485.91 | $405.63
38746 | C |  | Remove thoracic lymph nodes |  |  |  |  |
38747 | C |  | Remove abdominal lymph nodes |  |  |  |  |
38760 | T |  | Remove groin lymph nodes | 0113 | 19.9529 | $1,083.22 |  | $216.64
38765 | C |  | Remove groin lymph nodes |  |  |  |  |
38770 | C |  | Remove pelvis lymph nodes |  |  |  |  |
38780 | C |  | Remove abdomen lymph nodes |  |  |  |  |
38790 | N |  | Inject for lymphatic x-ray |  |  |  |  |
38792 | N |  | Identify sentinel node |  |  |  |  |
38794 | N |  | Access thoracic lymph duct |  |  |  |  |
38999 | S |  | Blood/lymph system procedure | 0110 | 3.7128 | $201.56 |  | $40.31
39000 | C |  | Exploration of chest |  |  |  |  |
39010 | C |  | Exploration of chest |  |  |  |  |
39200 | C |  | Removal chest lesion |  |  |  |  |
39220 | C |  | Removal chest lesion |  |  |  |  |
39400 | T |  | Visualization of chest | 0069 | 28.6334 | $1,554.48 | $591.64 | $310.90
39499 | C |  | Chest procedure |  |  |  |  |
39501 | C |  | Repair diaphragm laceration |  |  |  |  |
39502 | C |  | Repair paraesophageal hernia |  |  |  |  |
39503 | C |  | Repair of diaphragm hernia |  |  |  |  |
39520 | C |  | Repair of diaphragm hernia |  |  |  |  |
39530 | C |  | Repair of diaphragm hernia |  |  |  |  |
39531 | C |  | Repair of diaphragm hernia |  |  |  |  |
39540 | C |  | Repair of diaphragm hernia |  |  |  |  |
39541 | C |  | Repair of diaphragm hernia |  |  |  |  |
39545 | C |  | Revision of diaphragm |  |  |  |  |
39560 | C |  | Resect diaphragm, simple |  |  |  |  |
39561 | C |  | Resect diaphragm, complex |  |  |  |  |
39599 | C |  | Diaphragm surgery procedure |  |  |  |  |
40490 | T |  | Biopsy of lip | 0251 | 1.8643 | $101.21 |  | $20.24
40500 | T |  | Partial excision of lip | 0253 | 15.1698 | $823.55 | $282.29 | $164.71
40510 | T |  | Partial excision of lip | 0254 | 21.4368 | $1,163.78 | $321.35 | $232.76
40520 | T |  | Partial excision of lip | 0253 | 15.1698 | $823.55 | $282.29 | $164.71
40525 | T |  | Reconstruct lip with flap | 0254 | 21.4368 | $1,163.78 | $321.35 | $232.76
40527 | T |  | Reconstruct lip with flap | 0254 | 21.4368 | $1,163.78 | $321.35 | $232.76
40530 | T |  | Partial removal of lip | 0254 | 21.4368 | $1,163.78 | $321.35 | $232.76
40650 | T |  | Repair lip | 0252 | 6.5416 | $355.14 | $113.41 | $71.03
40652 | T |  | Repair lip | 0252 | 6.5416 | $355.14 | $113.41 | $71.03
40654 | T |  | Repair lip | 0252 | 6.5416 | $355.14 | $113.41 | $71.03
40700 | T |  | Repair cleft lip/nasal | 0256 | 35.0866 | $1,904.82 |  | $380.96
40701 | T |  | Repair cleft lip/nasal | 0256 | 35.0866 | $1,904.82 |  | $380.96
40702 | T |  | Repair cleft lip/nasal | 0256 | 35.0866 | $1,904.82 |  | $380.96
40720 | T |  | Repair cleft lip/nasal | 0256 | 35.0866 | $1,904.82 |  | $380.96
40761 | T |  | Repair cleft lip/nasal | 0256 | 35.0866 | $1,904.82 |  | $380.96
40799 | T |  | Lip surgery procedure | 0253 | 15.1698 | $823.55 | $282.29 | $164.71
40800 | T |  | Drainage of mouth lesion | 0251 | 1.8643 | $101.21 |  | $20.24
40801 | T |  | Drainage of mouth lesion | 0252 | 6.5416 | $355.14 | $113.41 | $71.03
40804 | X |  | Removal, foreign body, mouth | 0340 | 0.6232 | $33.83 |  | $6.77
40805 | T |  | Removal, foreign body, mouth | 0252 | 6.5416 | $355.14 | $113.41 | $71.03
40806 | T |  | Incision of lip fold | 0251 | 1.8643 | $101.21 |  | $20.24
40808 | T |  | Biopsy of mouth lesion | 0251 | 1.8643 | $101.21 |  | $20.24
40810 | T |  | Excision of mouth lesion | 0253 | 15.1698 | $823.55 | $282.29 | $164.71
40812 | T |  | Excise/repair mouth lesion | 0253 | 15.1698 | $823.55 | $282.29 | $164.71
40814 | T |  | Excise/repair mouth lesion | 0253 | 15.1698 | $823.55 | $282.29 | $164.71
40816 | T |  | Excision of mouth lesion | 0254 | 21.4368 | $1,163.78 | $321.35 | $232.76
40818 | T |  | Excise oral mucosa for graft | 0251 | 1.8643 | $101.21 |  | $20.24
40819 | T |  | Excise lip or cheek fold | 0252 | 6.5416 | $355.14 | $113.41 | $71.03
40820 | T |  | Treatment of mouth lesion | 0253 | 15.1698 | $823.55 | $282.29 | $164.71
40830 | T |  | Repair mouth laceration | 0251 | 1.8643 | $101.21 |  | $20.24
40831 | T |  | Repair mouth laceration | 0252 | 6.5416 | $355.14 | $113.41 | $71.03
40840 | T |  | Reconstruction of mouth | 0254 | 21.4368 | $1,163.78 | $321.35 | $232.76
40842 | T |  | Reconstruction of mouth | 0254 | 21.4368 | $1,163.78 | $321.35 | $232.76
40843 | T |  | Reconstruction of mouth | 0254 | 21.4368 | $1,163.78 | $321.35 | $232.76
40844 | T |  | Reconstruction of mouth | 0256 | 35.0866 | $1,904.82 |  | $380.96
40845 | T |  | Reconstruction of mouth | 0256 | 35.0866 | $1,904.82 |  | $380.96
40899 | T |  | Mouth surgery procedure | 0252 | 6.5416 | $355.14 | $113.41 | $71.03
41000 | T |  | Drainage of mouth lesion | 0253 | 15.1698 | $823.55 | $282.29 | $164.71
41005 | T |  | Drainage of mouth lesion | 0251 | 1.8643 | $101.21 |  | $20.24
41006 | T |  | Drainage of mouth lesion | 0254 | 21.4368 | $1,163.78 | $321.35 | $232.76
41007 | T |  | Drainage of mouth lesion | 0253 | 15.1698 | $823.55 | $282.29 | $164.71
41008 | T |  | Drainage of mouth lesion | 0253 | 15.1698 | $823.55 | $282.29 | $164.71
41009 | T |  | Drainage of mouth lesion | 0251 | 1.8643 | $101.21 |  | $20.24
41010 | T |  | Incision of tongue fold | 0253 | 15.1698 | $823.55 | $282.29 | $164.71
41015 | T |  | Drainage of mouth lesion | 0251 | 1.8643 | $101.21 |  | $20.24
41016 | T |  | Drainage of mouth lesion | 0252 | 6.5416 | $355.14 | $113.41 | $71.03
41017 | T |  | Drainage of mouth lesion | 0252 | 6.5416 | $355.14 | $113.41 | $71.03
41018 | T |  | Drainage of mouth lesion | 0252 | 6.5416 | $355.14 | $113.41 | $71.03
41100 | T |  | Biopsy of tongue | 0252 | 6.5416 | $355.14 | $113.41 | $71.03
41105 | T |  | Biopsy of tongue | 0253 | 15.1698 | $823.55 | $282.29 | $164.71
41108 | T |  | Biopsy of floor of mouth | 0252 | 6.5416 | $355.14 | $113.41 | $71.03
41110 | T |  | Excision of tongue lesion | 0253 | 15.1698 | $823.55 | $282.29 | $164.71
41112 | T |  | Excision of tongue lesion | 0253 | 15.1698 | $823.55 | $282.29 | $164.71
41113 | T |  | Excision of tongue lesion | 0253 | 15.1698 | $823.55 | $282.29 | $164.71
41114 | T |  | Excision of tongue lesion | 0254 | 21.4368 | $1,163.78 | $321.35 | $232.76
41115 | T |  | Excision of tongue fold | 0252 | 6.5416 | $355.14 | $113.41 | $71.03
41116 | T |  | Excision of mouth lesion | 0253 | 15.1698 | $823.55 | $282.29 | $164.71
41120 | T |  | Partial removal of tongue | 0254 | 21.4368 | $1,163.78 | $321.35 | $232.76
41130 | C |  | Partial removal of tongue |  |  |  |  |
41135 | C |  | Tongue and neck surgery |  |  |  |  |
41140 | C |  | Removal of tongue |  |  |  |  |
41145 | C |  | Tongue removal, neck surgery |  |  |  |  |
41150 | C |  | Tongue, mouth, jaw surgery |  |  |  |  |
41153 | C |  | Tongue, mouth, neck surgery |  |  |  |  |
41155 | C |  | Tongue, jaw, & neck surgery |  |  |  |  |
41250 | T |  | Repair tongue laceration | 0251 | 1.8643 | $101.21 |  | $20.24
41251 | T |  | Repair tongue laceration | 0252 | 6.5416 | $355.14 | $113.41 | $71.03
41252 | T |  | Repair tongue laceration | 0252 | 6.5416 | $355.14 | $113.41 | $71.03
41500 | T |  | Fixation of tongue | 0254 | 21.4368 | $1,163.78 | $321.35 | $232.76
41510 | T |  | Tongue to lip surgery | 0253 | 15.1698 | $823.55 | $282.29 | $164.71
41520 | T |  | Reconstruction, tongue fold | 0252 | 6.5416 | $355.14 | $113.41 | $71.03
41599 | T |  | Tongue and mouth surgery | 0251 | 1.8643 | $101.21 |  | $20.24
41800 | T |  | Drainage of gum lesion | 0251 | 1.8643 | $101.21 |  | $20.24
41805 | T |  | Removal foreign body, gum | 0254 | 21.4368 | $1,163.78 | $321.35 | $232.76
41806 | T |  | Removal foreign body,jawbone | 0253 | 15.1698 | $823.55 | $282.29 | $164.71
41820 | T |  | Excision, gum, each quadrant | 0252 | 6.5416 | $355.14 | $113.41 | $71.03
41821 | T |  | Excision of gum flap | 0252 | 6.5416 | $355.14 | $113.41 | $71.03
41822 | T |  | Excision of gum lesion | 0253 | 15.1698 | $823.55 | $282.29 | $164.71
41823 | T |  | Excision of gum lesion | 0254 | 21.4368 | $1,163.78 | $321.35 | $232.76
41825 | T |  | Excision of gum lesion | 0253 | 15.1698 | $823.55 | $282.29 | $164.71
41826 | T |  | Excision of gum lesion | 0253 | 15.1698 | $823.55 | $282.29 | $164.71
41827 | T |  | Excision of gum lesion | 0254 | 21.4368 | $1,163.78 | $321.35 | $232.76
41828 | T |  | Excision of gum lesion | 0253 | 15.1698 | $823.55 | $282.29 | $164.71
41830 | T |  | Removal of gum tissue | 0253 | 15.1698 | $823.55 | $282.29 | $164.71
41850 | T |  | Treatment of gum lesion | 0253 | 15.1698 | $823.55 | $282.29 | $164.71
41870 | T |  | Gum graft | 0254 | 21.4368 | $1,163.78 | $321.35 | $232.76
41872 | T |  | Repair gum | 0253 | 15.1698 | $823.55 | $282.29 | $164.71
41874 | T |  | Repair tooth socket | 0254 | 21.4368 | $1,163.78 | $321.35 | $232.76
41899 | T |  | Dental surgery procedure | 0253 | 15.1698 | $823.55 | $282.29 | $164.71
42000 | T |  | Drainage mouth roof lesion | 0251 | 1.8643 | $101.21 |  | $20.24
42100 | T |  | Biopsy roof of mouth | 0252 | 6.5416 | $355.14 | $113.41 | $71.03
42104 | T |  | Excision lesion, mouth roof | 0253 | 15.1698 | $823.55 | $282.29 | $164.71
42106 | T |  | Excision lesion, mouth roof | 0253 | 15.1698 | $823.55 | $282.29 | $164.71
42107 | T |  | Excision lesion, mouth roof | 0254 | 21.4368 | $1,163.78 | $321.35 | $232.76
42120 | T |  | Remove palate/lesion | 0256 | 35.0866 | $1,904.82 |  | $380.96
42140 | T |  | Excision of uvula | 0252 | 6.5416 | $355.14 | $113.41 | $71.03
42145 | T |  | Repair palate, pharynx/uvula | 0254 | 21.4368 | $1,163.78 | $321.35 | $232.76
42160 | T |  | Treatment mouth roof lesion | 0253 | 15.1698 | $823.55 | $282.29 | $164.71
42180 | T |  | Repair palate | 0251 | 1.8643 | $101.21 |  | $20.24
42182 | T |  | Repair palate | 0256 | 35.0866 | $1,904.82 |  | $380.96
42200 | T |  | Reconstruct cleft palate | 0256 | 35.0866 | $1,904.82 |  | $380.96
42205 | T |  | Reconstruct cleft palate | 0256 | 35.0866 | $1,904.82 |  | $380.96
42210 | T |  | Reconstruct cleft palate | 0256 | 35.0866 | $1,904.82 |  | $380.96
42215 | T |  | Reconstruct cleft palate | 0256 | 35.0866 | $1,904.82 |  | $380.96
42220 | T |  | Reconstruct cleft palate | 0256 | 35.0866 | $1,904.82 |  | $380.96
42225 | T |  | Reconstruct cleft palate | 0256 | 35.0866 | $1,904.82 |  | $380.96
42226 | T |  | Lengthening of palate | 0256 | 35.0866 | $1,904.82 |  | $380.96
42227 | T |  | Lengthening of palate | 0256 | 35.0866 | $1,904.82 |  | $380.96
42235 | T |  | Repair palate | 0253 | 15.1698 | $823.55 | $282.29 | $164.71
42260 | T |  | Repair nose to lip fistula | 0254 | 21.4368 | $1,163.78 | $321.35 | $232.76
42280 | T |  | Preparation, palate mold | 0251 | 1.8643 | $101.21 |  | $20.24
42281 | T |  | Insertion, palate prosthesis | 0253 | 15.1698 | $823.55 | $282.29 | $164.71
42299 | T |  | Palate/uvula surgery | 0251 | 1.8643 | $101.21 |  | $20.24
42300 | T |  | Drainage of salivary gland | 0253 | 15.1698 | $823.55 | $282.29 | $164.71
42305 | T |  | Drainage of salivary gland | 0253 | 15.1698 | $823.55 | $282.29 | $164.71
42310 | T |  | Drainage of salivary gland | 0251 | 1.8643 | $101.21 |  | $20.24
42320 | T |  | Drainage of salivary gland | 0251 | 1.8643 | $101.21 |  | $20.24
42325 | T |  | Create salivary cyst drain | 0251 | 1.8643 | $101.21 |  | $20.24
42326 | T |  | Create salivary cyst drain | 0252 | 6.5416 | $355.14 | $113.41 | $71.03
42330 | T |  | Removal of salivary stone | 0253 | 15.1698 | $823.55 | $282.29 | $164.71
42335 | T |  | Removal of salivary stone | 0253 | 15.1698 | $823.55 | $282.29 | $164.71
42340 | T |  | Removal of salivary stone | 0253 | 15.1698 | $823.55 | $282.29 | $164.71
42400 | T |  | Biopsy of salivary gland | 0005 | 3.3675 | $182.82 | $71.59 | $36.56
42405 | T |  | Biopsy of salivary gland | 0253 | 15.1698 | $823.55 | $282.29 | $164.71
42408 | T |  | Excision of salivary cyst | 0253 | 15.1698 | $823.55 | $282.29 | $164.71
42409 | T |  | Drainage of salivary cyst | 0253 | 15.1698 | $823.55 | $282.29 | $164.71
42410 | T |  | Excise parotid gland/lesion | 0256 | 35.0866 | $1,904.82 |  | $380.96
42415 | T |  | Excise parotid gland/lesion | 0256 | 35.0866 | $1,904.82 |  | $380.96
42420 | T |  | Excise parotid gland/lesion | 0256 | 35.0866 | $1,904.82 |  | $380.96
42425 | T |  | Excise parotid gland/lesion | 0256 | 35.0866 | $1,904.82 |  | $380.96
42426 | C |  | Excise parotid gland/lesion |  |  |  |  |
42440 | T |  | Excise submaxillary gland | 0256 | 35.0866 | $1,904.82 |  | $380.96
42450 | T |  | Excise sublingual gland | 0254 | 21.4368 | $1,163.78 | $321.35 | $232.76
42500 | T |  | Repair salivary duct | 0254 | 21.4368 | $1,163.78 | $321.35 | $232.76
42505 | T |  | Repair salivary duct | 0256 | 35.0866 | $1,904.82 |  | $380.96
42507 | T |  | Parotid duct diversion | 0256 | 35.0866 | $1,904.82 |  | $380.96
42508 | T |  | Parotid duct diversion | 0256 | 35.0866 | $1,904.82 |  | $380.96
42509 | T |  | Parotid duct diversion | 0256 | 35.0866 | $1,904.82 |  | $380.96
42510 | T |  | Parotid duct diversion | 0256 | 35.0866 | $1,904.82 |  | $380.96
42550 | N |  | Injection for salivary x-ray |  |  |  |  |
42600 | T |  | Closure of salivary fistula | 0253 | 15.1698 | $823.55 | $282.29 | $164.71
42650 | T |  | Dilation of salivary duct | 0252 | 6.5416 | $355.14 | $113.41 | $71.03
42660 | T |  | Dilation of salivary duct | 0252 | 6.5416 | $355.14 | $113.41 | $71.03
42665 | T |  | Ligation of salivary duct | 0254 | 21.4368 | $1,163.78 | $321.35 | $232.76
42699 | T |  | Salivary surgery procedure | 0253 | 15.1698 | $823.55 | $282.29 | $164.71
42700 | T |  | Drainage of tonsil abscess | 0251 | 1.8643 | $101.21 |  | $20.24
42720 | T |  | Drainage of throat abscess | 0253 | 15.1698 | $823.55 | $282.29 | $164.71
42725 | T |  | Drainage of throat abscess | 0256 | 35.0866 | $1,904.82 |  | $380.96
42800 | T |  | Biopsy of throat | 0253 | 15.1698 | $823.55 | $282.29 | $164.71
42802 | T |  | Biopsy of throat | 0253 | 15.1698 | $823.55 | $282.29 | $164.71
42804 | T |  | Biopsy of upper nose/throat | 0253 | 15.1698 | $823.55 | $282.29 | $164.71
42806 | T |  | Biopsy of upper nose/throat | 0254 | 21.4368 | $1,163.78 | $321.35 | $232.76
42808 | T |  | Excise pharynx lesion | 0253 | 15.1698 | $823.55 | $282.29 | $164.71
42809 | X |  | Remove pharynx foreign body | 0340 | 0.6232 | $33.83 |  | $6.77
42810 | T |  | Excision of neck cyst | 0254 | 21.4368 | $1,163.78 | $321.35 | $232.76
42815 | T |  | Excision of neck cyst | 0256 | 35.0866 | $1,904.82 |  | $380.96
42820 | T |  | Remove tonsils and adenoids | 0258 | 21.0273 | $1,141.55 | $437.25 | $228.31
42821 | T |  | Remove tonsils and adenoids | 0258 | 21.0273 | $1,141.55 | $437.25 | $228.31
42825 | T |  | Removal of tonsils | 0258 | 21.0273 | $1,141.55 | $437.25 | $228.31
42826 | T |  | Removal of tonsils | 0258 | 21.0273 | $1,141.55 | $437.25 | $228.31
42830 | T |  | Removal of adenoids | 0258 | 21.0273 | $1,141.55 | $437.25 | $228.31
42831 | T |  | Removal of adenoids | 0258 | 21.0273 | $1,141.55 | $437.25 | $228.31
42835 | T |  | Removal of adenoids | 0258 | 21.0273 | $1,141.55 | $437.25 | $228.31
42836 | T |  | Removal of adenoids | 0258 | 21.0273 | $1,141.55 | $437.25 | $228.31
42842 | T |  | Extensive surgery of throat | 0254 | 21.4368 | $1,163.78 | $321.35 | $232.76
42844 | T |  | Extensive surgery of throat | 0256 | 35.0866 | $1,904.82 |  | $380.96
42845 | C |  | Extensive surgery of throat |  |  |  |  |
42860 | T |  | Excision of tonsil tags | 0258 | 21.0273 | $1,141.55 | $437.25 | $228.31
42870 | T |  | Excision of lingual tonsil | 0258 | 21.0273 | $1,141.55 | $437.25 | $228.31
42890 | T |  | Partial removal of pharynx | 0256 | 35.0866 | $1,904.82 |  | $380.96
42892 | T |  | Revision of pharyngeal walls | 0256 | 35.0866 | $1,904.82 |  | $380.96
42894 | C |  | Revision of pharyngeal walls |  |  |  |  |
42900 | T |  | Repair throat wound | 0252 | 6.5416 | $355.14 | $113.41 | $71.03
42950 | T |  | Reconstruction of throat | 0254 | 21.4368 | $1,163.78 | $321.35 | $232.76
42953 | C |  | Repair throat, esophagus |  |  |  |  |
42955 | T |  | Surgical opening of throat | 0254 | 21.4368 | $1,163.78 | $321.35 | $232.76
42960 | T |  | Control throat bleeding | 0250 | 1.5381 | $83.50 | $29.23 | $16.70
42961 | C |  | Control throat bleeding |  |  |  |  |
42962 | T |  | Control throat bleeding | 0256 | 35.0866 | $1,904.82 |  | $380.96
42970 | T |  | Control nose/throat bleeding | 0250 | 1.5381 | $83.50 | $29.23 | $16.70
42971 | C |  | Control nose/throat bleeding |  |  |  |  |
42972 | T |  | Control nose/throat bleeding | 0253 | 15.1698 | $823.55 | $282.29 | $164.71
42999 | T |  | Throat surgery procedure | 0252 | 6.5416 | $355.14 | $113.41 | $71.03
43020 | T |  | Incision of esophagus | 0252 | 6.5416 | $355.14 | $113.41 | $71.03
43030 | T |  | Throat muscle surgery | 0253 | 15.1698 | $823.55 | $282.29 | $164.71
43045 | C |  | Incision of esophagus |  |  |  |  |
43100 | C |  | Excision of esophagus lesion |  |  |  |  |
43101 | C |  | Excision of esophagus lesion |  |  |  |  |
43107 | C |  | Removal of esophagus |  |  |  |  |
43108 | C |  | Removal of esophagus |  |  |  |  |
43112 | C |  | Removal of esophagus |  |  |  |  |
43113 | C |  | Removal of esophagus |  |  |  |  |
43116 | C |  | Partial removal of esophagus |  |  |  |  |
43117 | C |  | Partial removal of esophagus |  |  |  |  |
43118 | C |  | Partial removal of esophagus |  |  |  |  |
43121 | C |  | Partial removal of esophagus |  |  |  |  |
43122 | C |  | Partial removal of esophagus |  |  |  |  |
43123 | C |  | Partial removal of esophagus |  |  |  |  |
43124 | C |  | Removal of esophagus |  |  |  |  |
43130 | T |  | Removal of esophagus pouch | 0254 | 21.4368 | $1,163.78 | $321.35 | $232.76
43135 | C |  | Removal of esophagus pouch |  |  |  |  |
43200 | T |  | Esophagus endoscopy | 0141 | 7.8542 | $426.40 | $143.38 | $85.28
43201 | T |  | Esoph scope w/submucous inj | 0141 | 7.8542 | $426.40 | $143.38 | $85.28
43202 | T |  | Esophagus endoscopy, biopsy | 0141 | 7.8542 | $426.40 | $143.38 | $85.28
43204 | T |  | Esoph scope w/sclerosis inj | 0141 | 7.8542 | $426.40 | $143.38 | $85.28
43205 | T |  | Esophagus endoscopy/ligation | 0141 | 7.8542 | $426.40 | $143.38 | $85.28
43215 | T |  | Esophagus endoscopy | 0141 | 7.8542 | $426.40 | $143.38 | $85.28
43216 | T |  | Esophagus endoscopy/lesion | 0141 | 7.8542 | $426.40 | $143.38 | $85.28
43217 | T |  | Esophagus endoscopy | 0141 | 7.8542 | $426.40 | $143.38 | $85.28
43219 | T |  | Esophagus endoscopy | 0384 | 36.0040 | $1,954.62 | $424.53 | $390.92
43220 | T |  | Esoph endoscopy, dilation | 0141 | 7.8542 | $426.40 | $143.38 | $85.28
43226 | T |  | Esoph endoscopy, dilation | 0141 | 7.8542 | $426.40 | $143.38 | $85.28
43227 | T |  | Esoph endoscopy, repair | 0141 | 7.8542 | $426.40 | $143.38 | $85.28
43228 | T |  | Esoph endoscopy, ablation | 0141 | 7.8542 | $426.40 | $143.38 | $85.28
43231 | T |  | Esoph endoscopy w/us exam | 0141 | 7.8542 | $426.40 | $143.38 | $85.28
43232 | T |  | Esoph endoscopy w/us fn bx | 0141 | 7.8542 | $426.40 | $143.38 | $85.28
43234 | T |  | Upper GI endoscopy, exam | 0141 | 7.8542 | $426.40 | $143.38 | $85.28
43235 | T |  | Uppr gi endoscopy, diagnosis | 0141 | 7.8542 | $426.40 | $143.38 | $85.28
43236 | T |  | Uppr gi scope w/submuc inj | 0141 | 7.8542 | $426.40 | $143.38 | $85.28
43239 | T |  | Upper GI endoscopy, biopsy | 0141 | 7.8542 | $426.40 | $143.38 | $85.28
43240 | T |  | Esoph endoscope w/drain cyst | 0141 | 7.8542 | $426.40 | $143.38 | $85.28
43241 | T |  | Upper GI endoscopy with tube | 0141 | 7.8542 | $426.40 | $143.38 | $85.28
43242 | T |  | Uppr gi endoscopy w/us fn bx | 0141 | 7.8542 | $426.40 | $143.38 | $85.28
43243 | T |  | Upper gi endoscopy & inject | 0141 | 7.8542 | $426.40 | $143.38 | $85.28
43244 | T |  | Upper GI endoscopy/ligation | 0141 | 7.8542 | $426.40 | $143.38 | $85.28
43245 | T |  | Uppr gi scope dilate strictr | 0141 | 7.8542 | $426.40 | $143.38 | $85.28
43246 | T |  | Place gastrostomy tube | 0141 | 7.8542 | $426.40 | $143.38 | $85.28
43247 | T |  | Operative upper GI endoscopy | 0141 | 7.8542 | $426.40 | $143.38 | $85.28
43248 | T |  | Uppr gi endoscopy/guide wire | 0141 | 7.8542 | $426.40 | $143.38 | $85.28
43249 | T |  | Esoph endoscopy, dilation | 0141 | 7.8542 | $426.40 | $143.38 | $85.28
43250 | T |  | Upper GI endoscopy/tumor | 0141 | 7.8542 | $426.40 | $143.38 | $85.28
43251 | T |  | Operative upper GI endoscopy | 0141 | 7.8542 | $426.40 | $143.38 | $85.28
43255 | T |  | Operative upper GI endoscopy | 0141 | 7.8542 | $426.40 | $143.38 | $85.28
43256 | T |  | Uppr gi endoscopy w stent | 0384 | 36.0040 | $1,954.62 | $424.53 | $390.92
43258 | T |  | Operative upper GI endoscopy | 0141 | 7.8542 | $426.40 | $143.38 | $85.28
43259 | T |  | Endoscopic ultrasound exam | 0141 | 7.8542 | $426.40 | $143.38 | $85.28
43260 | T |  | Endo cholangiopancreatograph | 0151 | 18.8763 | $1,024.78 | $245.46 | $204.96
43261 | T |  | Endo cholangiopancreatograph | 0151 | 18.8763 | $1,024.78 | $245.46 | $204.96
43262 | T |  | Endo cholangiopancreatograph | 0151 | 18.8763 | $1,024.78 | $245.46 | $204.96
43263 | T |  | Endo cholangiopancreatograph | 0151 | 18.8763 | $1,024.78 | $245.46 | $204.96
43264 | T |  | Endo cholangiopancreatograph | 0151 | 18.8763 | $1,024.78 | $245.46 | $204.96
43265 | T |  | Endo cholangiopancreatograph | 0151 | 18.8763 | $1,024.78 | $245.46 | $204.96
43267 | T |  | Endo cholangiopancreatograph | 0151 | 18.8763 | $1,024.78 | $245.46 | $204.96
43268 | T |  | Endo cholangiopancreatograph | 0151 | 18.8763 | $1,024.78 | $245.46 | $204.96
43269 | T |  | Endo cholangiopancreatograph | 0151 | 18.8763 | $1,024.78 | $245.46 | $204.96
43271 | T |  | Endo cholangiopancreatograph | 0151 | 18.8763 | $1,024.78 | $245.46 | $204.96
43272 | T |  | Endo cholangiopancreatograph | 0151 | 18.8763 | $1,024.78 | $245.46 | $204.96
43280 | T |  | Laparoscopy, fundoplasty | 0132 | 56.6318 | $3,074.48 | $1,239.22 | $614.90
43289 | T |  | Laparoscope proc, esoph | 0130 | 32.5959 | $1,769.60 | $659.53 | $353.92
43300 | C |  | Repair of esophagus |  |  |  |  |
43305 | C |  | Repair esophagus and fistula |  |  |  |  |
43310 | C |  | Repair of esophagus |  |  |  |  |
43312 | C |  | Repair esophagus and fistula |  |  |  |  |
43313 | C |  | Esophagoplasty congenital |  |  |  |  |
43314 | C |  | Tracheo-esophagoplasty cong |  |  |  |  |
43320 | C |  | Fuse esophagus & stomach |  |  |  |  |
43324 | C |  | Revise esophagus & stomach |  |  |  |  |
43325 | C |  | Revise esophagus & stomach |  |  |  |  |
43326 | C |  | Revise esophagus & stomach |  |  |  |  |
43330 | C |  | Repair of esophagus |  |  |  |  |
43331 | C |  | Repair of esophagus |  |  |  |  |
43340 | C |  | Fuse esophagus & intestine |  |  |  |  |
43341 | C |  | Fuse esophagus & intestine |  |  |  |  |
43350 | C |  | Surgical opening, esophagus |  |  |  |  |
43351 | C |  | Surgical opening, esophagus |  |  |  |  |
43352 | C |  | Surgical opening, esophagus |  |  |  |  |
43360 | C |  | Gastrointestinal repair |  |  |  |  |
43361 | C |  | Gastrointestinal repair |  |  |  |  |
43400 | C |  | Ligate esophagus veins |  |  |  |  |
43401 | C |  | Esophagus surgery for veins |  |  |  |  |
43405 | C |  | Ligate/staple esophagus |  |  |  |  |
43410 | C |  | Repair esophagus wound |  |  |  |  |
43415 | C |  | Repair esophagus wound |  |  |  |  |
43420 | C |  | Repair esophagus opening |  |  |  |  |
43425 | C |  | Repair esophagus opening |  |  |  |  |
43450 | T |  | Dilate esophagus | 0140 | 6.3480 | $344.63 | $107.24 | $68.93
43453 | T |  | Dilate esophagus | 0140 | 6.3480 | $344.63 | $107.24 | $68.93
43456 | T |  | Dilate esophagus | 0140 | 6.3480 | $344.63 | $107.24 | $68.93
43458 | T |  | Dilate esophagus | 0140 | 6.3480 | $344.63 | $107.24 | $68.93
43460 | C |  | Pressure treatment esophagus |  |  |  |  |
43496 | C |  | Free jejunum flap, microvasc |  |  |  |  |
43499 | T |  | Esophagus surgery procedure | 0141 | 7.8542 | $426.40 | $143.38 | $85.28
43500 | C |  | Surgical opening of stomach |  |  |  |  |
43501 | C |  | Surgical repair of stomach |  |  |  |  |
43502 | C |  | Surgical repair of stomach |  |  |  |  |
43510 | C |  | Surgical opening of stomach |  |  |  |  |
43520 | C |  | Incision of pyloric muscle |  |  |  |  |
43600 | T |  | Biopsy of stomach | 0141 | 7.8542 | $426.40 | $143.38 | $85.28
43605 | C |  | Biopsy of stomach |  |  |  |  |
43610 | C |  | Excision of stomach lesion |  |  |  |  |
43611 | C |  | Excision of stomach lesion |  |  |  |  |
43620 | C |  | Removal of stomach |  |  |  |  |
43621 | C |  | Removal of stomach |  |  |  |  |
43622 | C |  | Removal of stomach |  |  |  |  |
43631 | C |  | Removal of stomach, partial |  |  |  |  |
43632 | C |  | Removal of stomach, partial |  |  |  |  |
43633 | C |  | Removal of stomach, partial |  |  |  |  |
43634 | C |  | Removal of stomach, partial |  |  |  |  |
43635 | C |  | Removal of stomach, partial |  |  |  |  |
43638 | C |  | Removal of stomach, partial |  |  |  |  |
43639 | C |  | Removal of stomach, partial |  |  |  |  |
43640 | C |  | Vagotomy & pylorus repair |  |  |  |  |
43641 | C |  | Vagotomy & pylorus repair |  |  |  |  |
43651 | T |  | Laparoscopy, vagus nerve | 0132 | 56.6318 | $3,074.48 | $1,239.22 | $614.90
43652 | T |  | Laparoscopy, vagus nerve | 0132 | 56.6318 | $3,074.48 | $1,239.22 | $614.90
43653 | T |  | Laparoscopy, gastrostomy | 0131 | 40.8955 | $2,220.18 | $1,001.89 | $444.04
43659 | T |  | Laparoscope proc, stom | 0130 | 32.5959 | $1,769.60 | $659.53 | $353.92
43750 | T |  | Place gastrostomy tube | 0141 | 7.8542 | $426.40 | $143.38 | $85.28
43752 | E |  | Nasal/orogastric w/stent |  |  |  |  |
43760 | T |  | Change gastrostomy tube | 0121 | 2.2058 | $119.75 | $43.80 | $23.95
43761 | T |  | Reposition gastrostomy tube | 0121 | 2.2058 | $119.75 | $43.80 | $23.95
43800 | C |  | Reconstruction of pylorus |  |  |  |  |
43810 | C |  | Fusion of stomach and bowel |  |  |  |  |
43820 | C |  | Fusion of stomach and bowel |  |  |  |  |
43825 | C |  | Fusion of stomach and bowel |  |  |  |  |
43830 | T |  | Place gastrostomy tube | 0141 | 7.8542 | $426.40 | $143.38 | $85.28
43831 | T |  | Place gastrostomy tube | 0141 | 7.8542 | $426.40 | $143.38 | $85.28
43832 | C |  | Place gastrostomy tube |  |  |  |  |
43840 | C |  | Repair of stomach lesion |  |  |  |  |
43842 | C |  | Gastroplasty for obesity |  |  |  |  |
43843 | C |  | Gastroplasty for obesity |  |  |  |  |
43846 | C |  | Gastric bypass for obesity |  |  |  |  |
43847 | C |  | Gastric bypass for obesity |  |  |  |  |
43848 | C |  | Revision gastroplasty |  |  |  |  |
43850 | C |  | Revise stomach-bowel fusion |  |  |  |  |
43855 | C |  | Revise stomach-bowel fusion |  |  |  |  |
43860 | C |  | Revise stomach-bowel fusion |  |  |  |  |
43865 | C |  | Revise stomach-bowel fusion |  |  |  |  |
43870 | T |  | Repair stomach opening | 0141 | 7.8542 | $426.40 | $143.38 | $85.28
43880 | C |  | Repair stomach-bowel fistula |  |  |  |  |
43999 | T |  | Stomach surgery procedure | 0141 | 7.8542 | $426.40 | $143.38 | $85.28
44005 | C |  | Freeing of bowel adhesion |  |  |  |  |
44010 | C |  | Incision of small bowel |  |  |  |  |
44015 | C |  | Insert needle cath bowel |  |  |  |  |
44020 | C |  | Explore small intestine |  |  |  |  |
44021 | C |  | Decompress small bowel |  |  |  |  |
44025 | C |  | Incision of large bowel |  |  |  |  |
44050 | C |  | Reduce bowel obstruction |  |  |  |  |
44055 | C |  | Correct malrotation of bowel |  |  |  |  |
44100 | T |  | Biopsy of bowel | 0141 | 7.8542 | $426.40 | $143.38 | $85.28
44110 | C |  | Excise intestine lesion(s) |  |  |  |  |
44111 | C |  | Excision of bowel lesion(s) |  |  |  |  |
44120 | C |  | Removal of small intestine |  |  |  |  |
44121 | C |  | Removal of small intestine |  |  |  |  |
44125 | C |  | Removal of small intestine |  |  |  |  |
44126 | C |  | Enterectomy w/o taper, cong |  |  |  |  |
44127 | C |  | Enterectomy w/taper, cong |  |  |  |  |
44128 | C |  | Enterectomy cong, add-on |  |  |  |  |
44130 | C |  | Bowel to bowel fusion |  |  |  |  |
44132 | C |  | Enterectomy, cadaver donor |  |  |  |  |
44133 | C |  | Enterectomy, live donor |  |  |  |  |
44135 | C |  | Intestine transplnt, cadaver |  |  |  |  |
44136 | C |  | Intestine transplant, live |  |  |  |  |
44139 | C |  | Mobilization of colon |  |  |  |  |
44140 | C |  | Partial removal of colon |  |  |  |  |
44141 | C |  | Partial removal of colon |  |  |  |  |
44143 | C |  | Partial removal of colon |  |  |  |  |
44144 | C |  | Partial removal of colon |  |  |  |  |
44145 | C |  | Partial removal of colon |  |  |  |  |
44146 | C |  | Partial removal of colon |  |  |  |  |
44147 | C |  | Partial removal of colon |  |  |  |  |
44150 | C |  | Removal of colon |  |  |  |  |
44151 | C |  | Removal of colon/ileostomy |  |  |  |  |
44152 | C |  | Removal of colon/ileostomy |  |  |  |  |
44153 | C |  | Removal of colon/ileostomy |  |  |  |  |
44155 | C |  | Removal of colon/ileostomy |  |  |  |  |
44156 | C |  | Removal of colon/ileostomy |  |  |  |  |
44160 | C |  | Removal of colon |  |  |  |  |
44200 | T |  | Laparoscopy, enterolysis | 0131 | 40.8955 | $2,220.18 | $1,001.89 | $444.04
44201 | T |  | Laparoscopy, jejunostomy | 0131 | 40.8955 | $2,220.18 | $1,001.89 | $444.04
44202 | C |  | Lap resect s/intestine singl |  |  |  |  |
44203 | C |  | Lap resect s/intestine, addl |  |  |  |  |
44204 | C |  | Laparo partial colectomy |  |  |  |  |
44205 | C |  | Lap colectomy part w/ileum |  |  |  |  |
44206 | T |  | Lap part colectomy w/stoma | 0132 | 56.6318 | $3,074.48 | $1,239.22 | $614.90
44207 | T |  | L colectomy/coloproctostomy | 0132 | 56.6318 | $3,074.48 | $1,239.22 | $614.90
44208 | T |  | L colectomy/coloproctostomy | 0132 | 56.6318 | $3,074.48 | $1,239.22 | $614.90
44210 | C |  | Laparo total proctocolectomy |  |  |  |  |
44211 | C |  | Laparo total proctocolectomy |  |  |  |  |
44212 | C |  | Laparo total proctocolectomy |  |  |  |  |
44238 | T |  | Laparoscope proc, intestine | 0130 | 32.5959 | $1,769.60 | $659.53 | $353.92
44239 | T |  | Laparoscope proc, rectum | 0130 | 32.5959 | $1,769.60 | $659.53 | $353.92
44300 | C |  | Open bowel to skin |  |  |  |  |
44310 | C |  | Ileostomy/jejunostomy |  |  |  |  |
44312 | T |  | Revision of ileostomy | 0027 | 15.8319 | $859.50 | $329.72 | $171.90
44314 | C |  | Revision of ileostomy |  |  |  |  |
44316 | C |  | Devise bowel pouch |  |  |  |  |
44320 | C |  | Colostomy |  |  |  |  |
44322 | C |  | Colostomy with biopsies |  |  |  |  |
44340 | T |  | Revision of colostomy | 0027 | 15.8319 | $859.50 | $329.72 | $171.90
44345 | C |  | Revision of colostomy |  |  |  |  |
44346 | C |  | Revision of colostomy |  |  |  |  |
44360 | T |  | Small bowel endoscopy | 0142 | 9.0138 | $489.35 | $152.78 | $97.87
44361 | T |  | Small bowel endoscopy/biopsy | 0142 | 9.0138 | $489.35 | $152.78 | $97.87
44363 | T |  | Small bowel endoscopy | 0142 | 9.0138 | $489.35 | $152.78 | $97.87
44364 | T |  | Small bowel endoscopy | 0142 | 9.0138 | $489.35 | $152.78 | $97.87
44365 | T |  | Small bowel endoscopy | 0142 | 9.0138 | $489.35 | $152.78 | $97.87
44366 | T |  | Small bowel endoscopy | 0142 | 9.0138 | $489.35 | $152.78 | $97.87
44369 | T |  | Small bowel endoscopy | 0142 | 9.0138 | $489.35 | $152.78 | $97.87
44370 | T |  | Small bowel endoscopy/stent | 0384 | 36.0040 | $1,954.62 | $424.53 | $390.92
44372 | T |  | Small bowel endoscopy | 0142 | 9.0138 | $489.35 | $152.78 | $97.87
44373 | T |  | Small bowel endoscopy | 0142 | 9.0138 | $489.35 | $152.78 | $97.87
44376 | T |  | Small bowel endoscopy | 0142 | 9.0138 | $489.35 | $152.78 | $97.87
44377 | T |  | Small bowel endoscopy/biopsy | 0142 | 9.0138 | $489.35 | $152.78 | $97.87
44378 | T |  | Small bowel endoscopy | 0142 | 9.0138 | $489.35 | $152.78 | $97.87
44379 | T |  | S bowel endoscope w/stent | 0384 | 36.0040 | $1,954.62 | $424.53 | $390.92
44380 | T |  | Small bowel endoscopy | 0142 | 9.0138 | $489.35 | $152.78 | $97.87
44382 | T |  | Small bowel endoscopy | 0142 | 9.0138 | $489.35 | $152.78 | $97.87
44383 | T |  | Ileoscopy w/stent | 0384 | 36.0040 | $1,954.62 | $424.53 | $390.92
44385 | T |  | Endoscopy of bowel pouch | 0143 | 8.3227 | $451.83 | $186.06 | $90.37
44386 | T |  | Endoscopy, bowel pouch/biop | 0143 | 8.3227 | $451.83 | $186.06 | $90.37
44388 | T |  | Colon endoscopy | 0143 | 8.3227 | $451.83 | $186.06 | $90.37
44389 | T |  | Colonoscopy with biopsy | 0143 | 8.3227 | $451.83 | $186.06 | $90.37
44390 | T |  | Colonoscopy for foreign body | 0143 | 8.3227 | $451.83 | $186.06 | $90.37
44391 | T |  | Colonoscopy for bleeding | 0143 | 8.3227 | $451.83 | $186.06 | $90.37
44392 | T |  | Colonoscopy & polypectomy | 0143 | 8.3227 | $451.83 | $186.06 | $90.37
44393 | T |  | Colonoscopy, lesion removal | 0143 | 8.3227 | $451.83 | $186.06 | $90.37
44394 | T |  | Colonoscopy w/snare | 0143 | 8.3227 | $451.83 | $186.06 | $90.37
44397 | T |  | Colonoscopy w/stent | 0384 | 36.0040 | $1,954.62 | $424.53 | $390.92
44500 | T |  | Intro, gastrointestinal tube | 0121 | 2.2058 | $119.75 | $43.80 | $23.95
44602 | C |  | Suture, small intestine |  |  |  |  |
44603 | C |  | Suture, small intestine |  |  |  |  |
44604 | C |  | Suture, large intestine |  |  |  |  |
44605 | C |  | Repair of bowel lesion |  |  |  |  |
44615 | C |  | Intestinal stricturoplasty |  |  |  |  |
44620 | C |  | Repair bowel opening |  |  |  |  |
44625 | C |  | Repair bowel opening |  |  |  |  |
44626 | C |  | Repair bowel opening |  |  |  |  |
44640 | C |  | Repair bowel-skin fistula |  |  |  |  |
44650 | C |  | Repair bowel fistula |  |  |  |  |
44660 | C |  | Repair bowel-bladder fistula |  |  |  |  |
44661 | C |  | Repair bowel-bladder fistula |  |  |  |  |
44680 | C |  | Surgical revision, intestine |  |  |  |  |
44700 | C |  | Suspend bowel w/prosthesis |  |  |  |  |
44701 | N |  | Intraop colon lavage add-on |  |  |  |  |
44799 | T |  | Intestine surgery procedure | 0142 | 9.0138 | $489.35 | $152.78 | $97.87
44800 | C |  | Excision of bowel pouch |  |  |  |  |
44820 | C |  | Excision of mesentery lesion |  |  |  |  |
44850 | C |  | Repair of mesentery |  |  |  |  |
44899 | C |  | Bowel surgery procedure |  |  |  |  |
44900 | C |  | Drain app abscess, open |  |  |  |  |
44901 | C |  | Drain app abscess, percut |  |  |  |  |
44950 | C |  | Appendectomy |  |  |  |  |
44955 | C |  | Appendectomy add-on |  |  |  |  |
44960 | C |  | Appendectomy |  |  |  |  |
44970 | T |  | Laparoscopy, appendectomy | 0130 | 32.5959 | $1,769.60 | $659.53 | $353.92
44979 | T |  | Laparoscope proc, app | 0130 | 32.5959 | $1,769.60 | $659.53 | $353.92
45000 | T |  | Drainage of pelvic abscess | 0149 | 16.8557 | $915.08 | $293.06 | $183.02
45005 | T |  | Drainage of rectal abscess | 0148 | 4.1171 | $223.51 | $63.38 | $44.70
45020 | T |  | Drainage of rectal abscess | 0149 | 16.8557 | $915.08 | $293.06 | $183.02
45100 | T |  | Biopsy of rectum | 0149 | 16.8557 | $915.08 | $293.06 | $183.02
45108 | T |  | Removal of anorectal lesion | 0150 | 22.2565 | $1,208.28 | $437.12 | $241.66
45110 | C |  | Removal of rectum |  |  |  |  |
45111 | C |  | Partial removal of rectum |  |  |  |  |
45112 | C |  | Removal of rectum |  |  |  |  |
45113 | C |  | Partial proctectomy |  |  |  |  |
45114 | C |  | Partial removal of rectum |  |  |  |  |
45116 | C |  | Partial removal of rectum |  |  |  |  |
45119 | C |  | Remove rectum w/reservoir |  |  |  |  |
45120 | C |  | Removal of rectum |  |  |  |  |
45121 | C |  | Removal of rectum and colon |  |  |  |  |
45123 | C |  | Partial proctectomy |  |  |  |  |
45126 | C |  | Pelvic exenteration |  |  |  |  |
45130 | C |  | Excision of rectal prolapse |  |  |  |  |
45135 | C |  | Excision of rectal prolapse |  |  |  |  |
45136 | C |  | Excise ileoanal reservior |  |  |  |  |
45150 | T |  | Excision of rectal stricture | 0150 | 22.2565 | $1,208.28 | $437.12 | $241.66
45160 | T |  | Excision of rectal lesion | 0150 | 22.2565 | $1,208.28 | $437.12 | $241.66
45170 | T |  | Excision of rectal lesion | 0150 | 22.2565 | $1,208.28 | $437.12 | $241.66
45190 | T |  | Destruction, rectal tumor | 0150 | 22.2565 | $1,208.28 | $437.12 | $241.66
45300 | T |  | Proctosigmoidoscopy dx | 0146 | 3.9986 | $217.08 | $64.40 | $43.42
45303 | T |  | Proctosigmoidoscopy dilate | 0146 | 3.9986 | $217.08 | $64.40 | $43.42
45305 | T |  | Proctosigmoidoscopy w/bx | 0146 | 3.9986 | $217.08 | $64.40 | $43.42
45307 | T |  | Proctosigmoidoscopy fb | 0146 | 3.9986 | $217.08 | $64.40 | $43.42
45308 | T |  | Proctosigmoidoscopy removal | 0147 | 7.5876 | $411.92 |  | $82.38
45309 | T |  | Proctosigmoidoscopy removal | 0147 | 7.5876 | $411.92 |  | $82.38
45315 | T |  | Proctosigmoidoscopy removal | 0147 | 7.5876 | $411.92 |  | $82.38
45317 | T |  | Proctosigmoidoscopy bleed | 0146 | 3.9986 | $217.08 | $64.40 | $43.42
45320 | T |  | Proctosigmoidoscopy ablate | 0147 | 7.5876 | $411.92 |  | $82.38
45321 | T |  | Proctosigmoidoscopy volvul | 0147 | 7.5876 | $411.92 |  | $82.38
45327 | T |  | Proctosigmoidoscopy w/stent | 0384 | 36.0040 | $1,954.62 | $424.53 | $390.92
45330 | T |  | Diagnostic sigmoidoscopy | 0146 | 3.9986 | $217.08 | $64.40 | $43.42
45331 | T |  | Sigmoidoscopy and biopsy | 0146 | 3.9986 | $217.08 | $64.40 | $43.42
45332 | T |  | Sigmoidoscopy w/fb removal | 0146 | 3.9986 | $217.08 | $64.40 | $43.42
45333 | T |  | Sigmoidoscopy & polypectomy | 0147 | 7.5876 | $411.92 |  | $82.38
45334 | T |  | Sigmoidoscopy for bleeding | 0147 | 7.5876 | $411.92 |  | $82.38
45335 | T |  | Sigmoidoscope w/submuc inj | 0147 | 7.5876 | $411.92 |  | $82.38
45337 | T |  | Sigmoidoscopy & decompress | 0147 | 7.5876 | $411.92 |  | $82.38
45338 | T |  | Sigmoidoscpy w/tumr remove | 0147 | 7.5876 | $411.92 |  | $82.38
45339 | T |  | Sigmoidoscopy w/ablate tumr | 0147 | 7.5876 | $411.92 |  | $82.38
45340 | T |  | Sig w/balloon dilation | 0147 | 7.5876 | $411.92 |  | $82.38
45341 | T |  | Sigmoidoscopy w/ultrasound | 0147 | 7.5876 | $411.92 |  | $82.38
45342 | T |  | Sigmoidoscopy w/us guide bx | 0147 | 7.5876 | $411.92 |  | $82.38
45345 | T |  | Sigmoidoscopy w/stent | 0384 | 36.0040 | $1,954.62 | $424.53 | $390.92
45355 | T |  | Surgical colonoscopy | 0143 | 8.3227 | $451.83 | $186.06 | $90.37
45378 | T |  | Diagnostic colonoscopy | 0143 | 8.3227 | $451.83 | $186.06 | $90.37
45379 | T |  | Colonoscopy w/fb removal | 0143 | 8.3227 | $451.83 | $186.06 | $90.37
45380 | T |  | Colonoscopy and biopsy | 0143 | 8.3227 | $451.83 | $186.06 | $90.37
45381 | T |  | Colonoscope, submucous inj | 0143 | 8.3227 | $451.83 | $186.06 | $90.37
45382 | T |  | Colonoscopy/control bleeding | 0143 | 8.3227 | $451.83 | $186.06 | $90.37
45383 | T |  | Lesion removal colonoscopy | 0143 | 8.3227 | $451.83 | $186.06 | $90.37
45384 | T |  | Lesion remove colonoscopy | 0143 | 8.3227 | $451.83 | $186.06 | $90.37
45385 | T |  | Lesion removal colonoscopy | 0143 | 8.3227 | $451.83 | $186.06 | $90.37
45386 | T |  | Colonoscope dilate stricture | 0143 | 8.3227 | $451.83 | $186.06 | $90.37
45387 | T |  | Colonoscopy w/stent | 0384 | 36.0040 | $1,954.62 | $424.53 | $390.92
45500 | T |  | Repair of rectum | 0150 | 22.2565 | $1,208.28 | $437.12 | $241.66
45505 | T |  | Repair of rectum | 0150 | 22.2565 | $1,208.28 | $437.12 | $241.66
45520 | T |  | Treatment of rectal prolapse | 0098 | 1.1630 | $63.14 | $15.17 | $12.63
45540 | C |  | Correct rectal prolapse |  |  |  |  |
45541 | C |  | Correct rectal prolapse |  |  |  |  |
45550 | C |  | Repair rectum/remove sigmoid |  |  |  |  |
45560 | T |  | Repair of rectocele | 0150 | 22.2565 | $1,208.28 | $437.12 | $241.66
45562 | C |  | Exploration/repair of rectum |  |  |  |  |
45563 | C |  | Exploration/repair of rectum |  |  |  |  |
45800 | C |  | Repair rect/bladder fistula |  |  |  |  |
45805 | C |  | Repair fistula w/colostomy |  |  |  |  |
45820 | C |  | Repair rectourethral fistula |  |  |  |  |
45825 | C |  | Repair fistula w/colostomy |  |  |  |  |
45900 | T |  | Reduction of rectal prolapse | 0148 | 4.1171 | $223.51 | $63.38 | $44.70
45905 | T |  | Dilation of anal sphincter | 0149 | 16.8557 | $915.08 | $293.06 | $183.02
45910 | T |  | Dilation of rectal narrowing | 0149 | 16.8557 | $915.08 | $293.06 | $183.02
45915 | T |  | Remove rectal obstruction | 0148 | 4.1171 | $223.51 | $63.38 | $44.70
45999 | T |  | Rectum surgery procedure | 0148 | 4.1171 | $223.51 | $63.38 | $44.70
46020 | T |  | Placement of seton | 0148 | 4.1171 | $223.51 | $63.38 | $44.70
46030 | T |  | Removal of rectal marker | 0148 | 4.1171 | $223.51 | $63.38 | $44.70
46040 | T |  | Incision of rectal abscess | 0149 | 16.8557 | $915.08 | $293.06 | $183.02
46045 | T |  | Incision of rectal abscess | 0150 | 22.2565 | $1,208.28 | $437.12 | $241.66
46050 | T |  | Incision of anal abscess | 0148 | 4.1171 | $223.51 | $63.38 | $44.70
46060 | T |  | Incision of rectal abscess | 0150 | 22.2565 | $1,208.28 | $437.12 | $241.66
46070 | T |  | Incision of anal septum | 0155 | 9.9148 | $538.26 | $188.89 | $107.65
46080 | T |  | Incision of anal sphincter | 0149 | 16.8557 | $915.08 | $293.06 | $183.02
46083 | T |  | Incise external hemorrhoid | 0148 | 4.1171 | $223.51 | $63.38 | $44.70
46200 | T |  | Removal of anal fissure | 0150 | 22.2565 | $1,208.28 | $437.12 | $241.66
46210 | T |  | Removal of anal crypt | 0149 | 16.8557 | $915.08 | $293.06 | $183.02
46211 | T |  | Removal of anal crypts | 0150 | 22.2565 | $1,208.28 | $437.12 | $241.66
46220 | T |  | Removal of anal tag | 0149 | 16.8557 | $915.08 | $293.06 | $183.02
46221 | T |  | Ligation of hemorrhoid(s) | 0148 | 4.1171 | $223.51 | $63.38 | $44.70
46230 | T |  | Removal of anal tags | 0149 | 16.8557 | $915.08 | $293.06 | $183.02
46250 | T |  | Hemorrhoidectomy | 0150 | 22.2565 | $1,208.28 | $437.12 | $241.66
46255 | T |  | Hemorrhoidectomy | 0150 | 22.2565 | $1,208.28 | $437.12 | $241.66
46257 | T |  | Remove hemorrhoids & fissure | 0150 | 22.2565 | $1,208.28 | $437.12 | $241.66
46258 | T |  | Remove hemorrhoids & fistula | 0150 | 22.2565 | $1,208.28 | $437.12 | $241.66
46260 | T |  | Hemorrhoidectomy | 0150 | 22.2565 | $1,208.28 | $437.12 | $241.66
46261 | T |  | Remove hemorrhoids & fissure | 0150 | 22.2565 | $1,208.28 | $437.12 | $241.66
46262 | T |  | Remove hemorrhoids & fistula | 0150 | 22.2565 | $1,208.28 | $437.12 | $241.66
46270 | T |  | Removal of anal fistula | 0150 | 22.2565 | $1,208.28 | $437.12 | $241.66
46275 | T |  | Removal of anal fistula | 0150 | 22.2565 | $1,208.28 | $437.12 | $241.66
46280 | T |  | Removal of anal fistula | 0150 | 22.2565 | $1,208.28 | $437.12 | $241.66
46285 | T |  | Removal of anal fistula | 0150 | 22.2565 | $1,208.28 | $437.12 | $241.66
46288 | T |  | Repair anal fistula | 0150 | 22.2565 | $1,208.28 | $437.12 | $241.66
46320 | T |  | Removal of hemorrhoid clot | 0148 | 4.1171 | $223.51 | $63.38 | $44.70
46500 | T |  | Injection into hemorrhoid(s) | 0155 | 9.9148 | $538.26 | $188.89 | $107.65
46600 | X |  | Diagnostic anoscopy | 0340 | 0.6232 | $33.83 |  | $6.77
46604 | T |  | Anoscopy and dilation | 0147 | 7.5876 | $411.92 |  | $82.38
46606 | T |  | Anoscopy and biopsy | 0147 | 7.5876 | $411.92 |  | $82.38
46608 | T |  | Anoscopy, remove for body | 0147 | 7.5876 | $411.92 |  | $82.38
46610 | T |  | Anoscopy, remove lesion | 0147 | 7.5876 | $411.92 |  | $82.38
46611 | T |  | Anoscopy | 0147 | 7.5876 | $411.92 |  | $82.38
46612 | T |  | Anoscopy, remove lesions | 0147 | 7.5876 | $411.92 |  | $82.38
46614 | T |  | Anoscopy, control bleeding | 0147 | 7.5876 | $411.92 |  | $82.38
46615 | T |  | Anoscopy | 0147 | 7.5876 | $411.92 |  | $82.38
46700 | T |  | Repair of anal stricture | 0150 | 22.2565 | $1,208.28 | $437.12 | $241.66
46705 | C |  | Repair of anal stricture |  |  |  |  |
46706 | T |  | Repr of anal fistula w/glue | 0148 | 4.1171 | $223.51 | $63.38 | $44.70
46715 | C |  | Repair of anovaginal fistula |  |  |  |  |
46716 | C |  | Repair of anovaginal fistula |  |  |  |  |
46730 | C |  | Construction of absent anus |  |  |  |  |
46735 | C |  | Construction of absent anus |  |  |  |  |
46740 | C |  | Construction of absent anus |  |  |  |  |
46742 | C |  | Repair of imperforated anus |  |  |  |  |
46744 | C |  | Repair of cloacal anomaly |  |  |  |  |
46746 | C |  | Repair of cloacal anomaly |  |  |  |  |
46748 | C |  | Repair of cloacal anomaly |  |  |  |  |
46750 | T |  | Repair of anal sphincter | 0150 | 22.2565 | $1,208.28 | $437.12 | $241.66
46751 | C |  | Repair of anal sphincter |  |  |  |  |
46753 | T |  | Reconstruction of anus | 0150 | 22.2565 | $1,208.28 | $437.12 | $241.66
46754 | T |  | Removal of suture from anus | 0149 | 16.8557 | $915.08 | $293.06 | $183.02
46760 | T |  | Repair of anal sphincter | 0150 | 22.2565 | $1,208.28 | $437.12 | $241.66
46761 | T |  | Repair of anal sphincter | 0150 | 22.2565 | $1,208.28 | $437.12 | $241.66
46762 | T |  | Implant artificial sphincter | 0150 | 22.2565 | $1,208.28 | $437.12 | $241.66
46900 | T |  | Destruction, anal lesion(s) | 0016 | 2.7343 | $148.44 | $57.31 | $29.69
46910 | T |  | Destruction, anal lesion(s) | 0017 | 16.7332 | $908.43 | $227.84 | $181.69
46916 | T |  | Cryosurgery, anal lesion(s) | 0013 | 1.1420 | $62.00 | $14.20 | $12.40
46917 | T |  | Laser surgery, anal lesions | 0695 | 19.1377 | $1,038.97 | $266.59 | $207.79
46922 | T |  | Excision of anal lesion(s) | 0695 | 19.1377 | $1,038.97 | $266.59 | $207.79
46924 | T |  | Destruction, anal lesion(s) | 0695 | 19.1377 | $1,038.97 | $266.59 | $207.79
46934 | T |  | Destruction of hemorrhoids | 0155 | 9.9148 | $538.26 | $188.89 | $107.65
46935 | T |  | Destruction of hemorrhoids | 0155 | 9.9148 | $538.26 | $188.89 | $107.65
46936 | T |  | Destruction of hemorrhoids | 0149 | 16.8557 | $915.08 | $293.06 | $183.02
46937 | T |  | Cryotherapy of rectal lesion | 0149 | 16.8557 | $915.08 | $293.06 | $183.02
46938 | T |  | Cryotherapy of rectal lesion | 0150 | 22.2565 | $1,208.28 | $437.12 | $241.66
46940 | T |  | Treatment of anal fissure | 0149 | 16.8557 | $915.08 | $293.06 | $183.02
46942 | T |  | Treatment of anal fissure | 0148 | 4.1171 | $223.51 | $63.38 | $44.70
46945 | T |  | Ligation of hemorrhoids | 0155 | 9.9148 | $538.26 | $188.89 | $107.65
46946 | T |  | Ligation of hemorrhoids | 0155 | 9.9148 | $538.26 | $188.89 | $107.65
46999 | T |  | Anus surgery procedure | 0148 | 4.1171 | $223.51 | $63.38 | $44.70
47000 | T |  | Needle biopsy of liver | 0685 | 4.8912 | $265.54 | $116.83 | $53.11
47001 | N |  | Needle biopsy, liver add-on |  |  |  |  |
47010 | C |  | Open drainage, liver lesion |  |  |  |  |
47011 | T |  | Percut drain, liver lesion | 0005 | 3.3675 | $182.82 | $71.59 | $36.56
47015 | C |  | Inject/aspirate liver cyst |  |  |  |  |
47100 | C |  | Wedge biopsy of liver |  |  |  |  |
47120 | C |  | Partial removal of liver |  |  |  |  |
47122 | C |  | Extensive removal of liver |  |  |  |  |
47125 | C |  | Partial removal of liver |  |  |  |  |
47130 | C |  | Partial removal of liver |  |  |  |  |
47133 | C |  | Removal of donor liver |  |  |  |  |
47134 | C |  | Partial removal, donor liver |  |  |  |  |
47135 | C |  | Transplantation of liver |  |  |  |  |
47136 | C |  | Transplantation of liver |  |  |  |  |
47300 | C |  | Surgery for liver lesion |  |  |  |  |
47350 | C |  | Repair liver wound |  |  |  |  |
47360 | C |  | Repair liver wound |  |  |  |  |
47361 | C |  | Repair liver wound |  |  |  |  |
47362 | C |  | Repair liver wound |  |  |  |  |
47370 | T |  | Laparo ablate liver tumor rf | 0130 | 32.5959 | $1,769.60 | $659.53 | $353.92
47371 | T |  | Laparo ablate liver cryosurg | 0130 | 32.5959 | $1,769.60 | $659.53 | $353.92
47379 | T |  | Laparoscope procedure, liver | 0130 | 32.5959 | $1,769.60 | $659.53 | $353.92
47380 | C |  | Open ablate liver tumor rf |  |  |  |  |
47381 | C |  | Open ablate liver tumor cryo |  |  |  |  |
47382 | T |  | Percut ablate liver rf | 1557 |  | $1,850.00 |  | $370.00
47399 | T |  | Liver surgery procedure | 0005 | 3.3675 | $182.82 | $71.59 | $36.56
47400 | C |  | Incision of liver duct |  |  |  |  |
47420 | C |  | Incision of bile duct |  |  |  |  |
47425 | C |  | Incision of bile duct |  |  |  |  |
47460 | C |  | Incise bile duct sphincter |  |  |  |  |
47480 | C |  | Incision of gallbladder |  |  |  |  |
47490 | T |  | Incision of gallbladder | 0152 | 8.2940 | $450.27 | $113.02 | $90.05
47500 | N |  | Injection for liver x-rays |  |  |  |  |
47505 | N |  | Injection for liver x-rays |  |  |  |  |
47510 | T |  | Insert catheter, bile duct | 0152 | 8.2940 | $450.27 | $113.02 | $90.05
47511 | T |  | Insert bile duct drain | 0152 | 8.2940 | $450.27 | $113.02 | $90.05
47525 | T |  | Change bile duct catheter | 0122 | 8.4398 | $458.19 | $93.97 | $91.64
47530 | T |  | Revise/reinsert bile tube | 0122 | 8.4398 | $458.19 | $93.97 | $91.64
47550 | C |  | Bile duct endoscopy add-on |  |  |  |  |
47552 | T |  | Biliary endoscopy thru skin | 0152 | 8.2940 | $450.27 | $113.02 | $90.05
47553 | T |  | Biliary endoscopy thru skin | 0152 | 8.2940 | $450.27 | $113.02 | $90.05
47554 | T |  | Biliary endoscopy thru skin | 0152 | 8.2940 | $450.27 | $113.02 | $90.05
47555 | T |  | Biliary endoscopy thru skin | 0152 | 8.2940 | $450.27 | $113.02 | $90.05
47556 | T |  | Biliary endoscopy thru skin | 0152 | 8.2940 | $450.27 | $113.02 | $90.05
47560 | T |  | Laparoscopy w/cholangio | 0130 | 32.5959 | $1,769.60 | $659.53 | $353.92
47561 | T |  | Laparo w/cholangio/biopsy | 0130 | 32.5959 | $1,769.60 | $659.53 | $353.92
47562 | T |  | Laparoscopic cholecystectomy | 0131 | 40.8955 | $2,220.18 | $1,001.89 | $444.04
47563 | T |  | Laparo cholecystectomy/graph | 0131 | 40.8955 | $2,220.18 | $1,001.89 | $444.04
47564 | T |  | Laparo cholecystectomy/explr | 0131 | 40.8955 | $2,220.18 | $1,001.89 | $444.04
47570 | C |  | Laparo cholecystoenterostomy |  |  |  |  |
47579 | T |  | Laparoscope proc, biliary | 0130 | 32.5959 | $1,769.60 | $659.53 | $353.92
47600 | C |  | Removal of gallbladder |  |  |  |  |
47605 | C |  | Removal of gallbladder |  |  |  |  |
47610 | C |  | Removal of gallbladder |  |  |  |  |
47612 | C |  | Removal of gallbladder |  |  |  |  |
47620 | C |  | Removal of gallbladder |  |  |  |  |
47630 | T |  | Remove bile duct stone | 0152 | 8.2940 | $450.27 | $113.02 | $90.05
47700 | C |  | Exploration of bile ducts |  |  |  |  |
47701 | C |  | Bile duct revision |  |  |  |  |
47711 | C |  | Excision of bile duct tumor |  |  |  |  |
47712 | C |  | Excision of bile duct tumor |  |  |  |  |
47715 | C |  | Excision of bile duct cyst |  |  |  |  |
47716 | C |  | Fusion of bile duct cyst |  |  |  |  |
47720 | C |  | Fuse gallbladder & bowel |  |  |  |  |
47721 | C |  | Fuse upper gi structures |  |  |  |  |
47740 | C |  | Fuse gallbladder & bowel |  |  |  |  |
47741 | C |  | Fuse gallbladder & bowel |  |  |  |  |
47760 | C |  | Fuse bile ducts and bowel |  |  |  |  |
47765 | C |  | Fuse liver ducts & bowel |  |  |  |  |
47780 | C |  | Fuse bile ducts and bowel |  |  |  |  |
47785 | C |  | Fuse bile ducts and bowel |  |  |  |  |
47800 | C |  | Reconstruction of bile ducts |  |  |  |  |
47801 | C |  | Placement, bile duct support |  |  |  |  |
47802 | C |  | Fuse liver duct & intestine |  |  |  |  |
47900 | C |  | Suture bile duct injury |  |  |  |  |
47999 | T |  | Bile tract surgery procedure | 0152 | 8.2940 | $450.27 | $113.02 | $90.05
48000 | C |  | Drainage of abdomen |  |  |  |  |
48001 | C |  | Placement of drain, pancreas |  |  |  |  |
48005 | C |  | Resect/debride pancreas |  |  |  |  |
48020 | C |  | Removal of pancreatic stone |  |  |  |  |
48100 | C |  | Biopsy of pancreas, open |  |  |  |  |
48102 | T |  | Needle biopsy, pancreas | 0685 | 4.8912 | $265.54 | $116.83 | $53.11
48120 | C |  | Removal of pancreas lesion |  |  |  |  |
48140 | C |  | Partial removal of pancreas |  |  |  |  |
48145 | C |  | Partial removal of pancreas |  |  |  |  |
48146 | C |  | Pancreatectomy |  |  |  |  |
48148 | C |  | Removal of pancreatic duct |  |  |  |  |
48150 | C |  | Partial removal of pancreas |  |  |  |  |
48152 | C |  | Pancreatectomy |  |  |  |  |
48153 | C |  | Pancreatectomy |  |  |  |  |
48154 | C |  | Pancreatectomy |  |  |  |  |
48155 | C |  | Removal of pancreas |  |  |  |  |
48160 | E |  | Pancreas removal/transplant |  |  |  |  |
48180 | C |  | Fuse pancreas and bowel |  |  |  |  |
48400 | C |  | Injection, intraop add-on |  |  |  |  |
48500 | C |  | Surgery of pancreatic cyst |  |  |  |  |
48510 | C |  | Drain pancreatic pseudocyst |  |  |  |  |
48511 | T |  | Drain pancreatic pseudocyst | 0005 | 3.3675 | $182.82 | $71.59 | $36.56
48520 | C |  | Fuse pancreas cyst and bowel |  |  |  |  |
48540 | C |  | Fuse pancreas cyst and bowel |  |  |  |  |
48545 | C |  | Pancreatorrhaphy |  |  |  |  |
48547 | C |  | Duodenal exclusion |  |  |  |  |
48550 | E |  | Donor pancreatectomy |  |  |  |  |
48554 | E |  | Transpl allograft pancreas |  |  |  |  |
48556 | C |  | Removal, allograft pancreas |  |  |  |  |
48999 | T |  | Pancreas surgery procedure | 0005 | 3.3675 | $182.82 | $71.59 | $36.56
49000 | C |  | Exploration of abdomen |  |  |  |  |
49002 | C |  | Reopening of abdomen |  |  |  |  |
49010 | C |  | Exploration behind abdomen |  |  |  |  |
49020 | C |  | Drain abdominal abscess |  |  |  |  |
49021 | C |  | Drain abdominal abscess |  |  |  |  |
49040 | C |  | Drain, open, abdom abscess |  |  |  |  |
49041 | C |  | Drain, percut, abdom abscess |  |  |  |  |
49060 | C |  | Drain, open, retrop abscess |  |  |  |  |
49061 | C |  | Drain, percut, retroper absc |  |  |  |  |
49062 | C |  | Drain to peritoneal cavity |  |  |  |  |
49080 | T |  | Puncture, peritoneal cavity | 0070 | 3.1393 | $170.43 |  | $34.09
49081 | T |  | Removal of abdominal fluid | 0070 | 3.1393 | $170.43 |  | $34.09
49085 | T |  | Remove abdomen foreign body | 0153 | 21.2745 | $1,154.97 | $410.87 | $230.99
49180 | T |  | Biopsy, abdominal mass | 0685 | 4.8912 | $265.54 | $116.83 | $53.11
49200 | T |  | Removal of abdominal lesion | 0130 | 32.5959 | $1,769.60 | $659.53 | $353.92
49201 | C |  | Remove abdom lesion, complex |  |  |  |  |
49215 | C |  | Excise sacral spine tumor |  |  |  |  |
49220 | C |  | Multiple surgery, abdomen |  |  |  |  |
49250 | T |  | Excision of umbilicus | 0153 | 21.2745 | $1,154.97 | $410.87 | $230.99
49255 | C |  | Removal of omentum |  |  |  |  |
49320 | T |  | Diag laparo separate proc | 0130 | 32.5959 | $1,769.60 | $659.53 | $353.92
49321 | T |  | Laparoscopy, biopsy | 0130 | 32.5959 | $1,769.60 | $659.53 | $353.92
49322 | T |  | Laparoscopy, aspiration | 0130 | 32.5959 | $1,769.60 | $659.53 | $353.92
49323 | T |  | Laparo drain lymphocele | 0130 | 32.5959 | $1,769.60 | $659.53 | $353.92
49329 | T |  | Laparo proc, abdm/per/oment | 0130 | 32.5959 | $1,769.60 | $659.53 | $353.92
49400 | N |  | Air injection into abdomen |  |  |  |  |
49419 | T |  | Insrt abdom cath for chemotx | 0119 | 129.8988 | $7,052.08 |  | $1,410.42
49420 | T |  | Insert abdom drain, temp | 0652 | 28.0692 | $1,523.85 |  | $304.77
49421 | T |  | Insert abdom drain, perm | 0652 | 28.0692 | $1,523.85 |  | $304.77
49422 | T |  | Remove perm cannula/catheter | 0105 | 18.9084 | $1,026.52 | $370.40 | $205.30
49423 | T |  | Exchange drainage catheter | 0152 | 8.2940 | $450.27 | $113.02 | $90.05
49424 | N |  | Assess cyst, contrast inject |  |  |  |  |
49425 | C |  | Insert abdomen-venous drain |  |  |  |  |
49426 | T |  | Revise abdomen-venous shunt | 0153 | 21.2745 | $1,154.97 | $410.87 | $230.99
49427 | N |  | Injection, abdominal shunt |  |  |  |  |
49428 | C |  | Ligation of shunt |  |  |  |  |
49429 | T |  | Removal of shunt | 0105 | 18.9084 | $1,026.52 | $370.40 | $205.30
49491 | T |  | Rpr hern preemie reduc | 0154 | 26.8861 | $1,459.62 | $464.85 | $291.92
49492 | T |  | Rpr ing hern premie, blocked | 0154 | 26.8861 | $1,459.62 | $464.85 | $291.92
49495 | T |  | Rpr ing hernia baby, reduc | 0154 | 26.8861 | $1,459.62 | $464.85 | $291.92
49496 | T |  | Rpr ing hernia baby, blocked | 0154 | 26.8861 | $1,459.62 | $464.85 | $291.92
49500 | T |  | Rpr ing hernia, init, reduce | 0154 | 26.8861 | $1,459.62 | $464.85 | $291.92
49501 | T |  | Rpr ing hernia, init blocked | 0154 | 26.8861 | $1,459.62 | $464.85 | $291.92
49505 | T |  | Prp i/hern init reduc>5 yr | 0154 | 26.8861 | $1,459.62 | $464.85 | $291.92
49507 | T |  | Prp i/hern init block>5 yr | 0154 | 26.8861 | $1,459.62 | $464.85 | $291.92
49520 | T |  | Rerepair ing hernia, reduce | 0154 | 26.8861 | $1,459.62 | $464.85 | $291.92
49521 | T |  | Rerepair ing hernia, blocked | 0154 | 26.8861 | $1,459.62 | $464.85 | $291.92
49525 | T |  | Repair ing hernia, sliding | 0154 | 26.8861 | $1,459.62 | $464.85 | $291.92
49540 | T |  | Repair lumbar hernia | 0154 | 26.8861 | $1,459.62 | $464.85 | $291.92
49550 | T |  | Rpr rem hernia, init, reduce | 0154 | 26.8861 | $1,459.62 | $464.85 | $291.92
49553 | T |  | Rpr fem hernia, init blocked | 0154 | 26.8861 | $1,459.62 | $464.85 | $291.92
49555 | T |  | Rerepair fem hernia, reduce | 0154 | 26.8861 | $1,459.62 | $464.85 | $291.92
49557 | T |  | Rerepair fem hernia, blocked | 0154 | 26.8861 | $1,459.62 | $464.85 | $291.92
49560 | T |  | Rpr ventral hern init, reduc | 0154 | 26.8861 | $1,459.62 | $464.85 | $291.92
49561 | T |  | Rpr ventral hern init, block | 0154 | 26.8861 | $1,459.62 | $464.85 | $291.92
49565 | T |  | Rerepair ventrl hern, reduce | 0154 | 26.8861 | $1,459.62 | $464.85 | $291.92
49566 | T |  | Rerepair ventrl hern, block | 0154 | 26.8861 | $1,459.62 | $464.85 | $291.92
49568 | T |  | Hernia repair w/mesh | 0154 | 26.8861 | $1,459.62 | $464.85 | $291.92
49570 | T |  | Rpr epigastric hern, reduce | 0154 | 26.8861 | $1,459.62 | $464.85 | $291.92
49572 | T |  | Rpr epigastric hern, blocked | 0154 | 26.8861 | $1,459.62 | $464.85 | $291.92
49580 | T |  | Rpr umbil hern, reduc < 5 yr | 0154 | 26.8861 | $1,459.62 | $464.85 | $291.92
49582 | T |  | Rpr umbil hern, block < 5 yr | 0154 | 26.8861 | $1,459.62 | $464.85 | $291.92
49585 | T |  | Rpr umbil hern, reduc > 5 yr | 0154 | 26.8861 | $1,459.62 | $464.85 | $291.92
49587 | T |  | Rpr umbil hern, block > 5 yr | 0154 | 26.8861 | $1,459.62 | $464.85 | $291.92
49590 | T |  | Repair spigilian hernia | 0154 | 26.8861 | $1,459.62 | $464.85 | $291.92
49600 | T |  | Repair umbilical lesion | 0154 | 26.8861 | $1,459.62 | $464.85 | $291.92
49605 | C |  | Repair umbilical lesion |  |  |  |  |
49606 | C |  | Repair umbilical lesion |  |  |  |  |
49610 | C |  | Repair umbilical lesion |  |  |  |  |
49611 | C |  | Repair umbilical lesion |  |  |  |  |
49650 | T |  | Laparo hernia repair initial | 0131 | 40.8955 | $2,220.18 | $1,001.89 | $444.04
49651 | T |  | Laparo hernia repair recur | 0131 | 40.8955 | $2,220.18 | $1,001.89 | $444.04
49659 | T |  | Laparo proc, hernia repair | 0131 | 40.8955 | $2,220.18 | $1,001.89 | $444.04
49900 | C |  | Repair of abdominal wall |  |  |  |  |
49904 | C |  | Omental flap, extra-abdom |  |  |  |  |
49905 | C |  | Omental flap |  |  |  |  |
49906 | C |  | Free omental flap, microvasc |  |  |  |  |
49999 | T |  | Abdomen surgery procedure | 0153 | 21.2745 | $1,154.97 | $410.87 | $230.99
50010 | C |  | Exploration of kidney |  |  |  |  |
50020 | C |  | Renal abscess, open drain |  |  |  |  |
50021 | T |  | Renal abscess, percut drain | 0005 | 3.3675 | $182.82 | $71.59 | $36.56
50040 | C |  | Drainage of kidney |  |  |  |  |
50045 | C |  | Exploration of kidney |  |  |  |  |
50060 | C |  | Removal of kidney stone |  |  |  |  |
50065 | C |  | Incision of kidney |  |  |  |  |
50070 | C |  | Incision of kidney |  |  |  |  |
50075 | C |  | Removal of kidney stone |  |  |  |  |
50080 | T |  | Removal of kidney stone | 0163 | 33.6435 | $1,826.47 |  | $365.29
50081 | T |  | Removal of kidney stone | 0163 | 33.6435 | $1,826.47 |  | $365.29
50100 | C |  | Revise kidney blood vessels |  |  |  |  |
50120 | C |  | Exploration of kidney |  |  |  |  |
50125 | C |  | Explore and drain kidney |  |  |  |  |
50130 | C |  | Removal of kidney stone |  |  |  |  |
50135 | C |  | Exploration of kidney |  |  |  |  |
50200 | T |  | Biopsy of kidney | 0685 | 4.8912 | $265.54 | $116.83 | $53.11
50205 | C |  | Biopsy of kidney |  |  |  |  |
50220 | C |  | Remove kidney, open |  |  |  |  |
50225 | C |  | Removal kidney open, complex |  |  |  |  |
50230 | C |  | Removal kidney open, radical |  |  |  |  |
50234 | C |  | Removal of kidney & ureter |  |  |  |  |
50236 | C |  | Removal of kidney & ureter |  |  |  |  |
50240 | C |  | Partial removal of kidney |  |  |  |  |
50280 | C |  | Removal of kidney lesion |  |  |  |  |
50290 | C |  | Removal of kidney lesion |  |  |  |  |
50300 | C |  | Removal of donor kidney |  |  |  |  |
50320 | C |  | Removal of donor kidney |  |  |  |  |
50340 | C |  | Removal of kidney |  |  |  |  |
50360 | C |  | Transplantation of kidney |  |  |  |  |
50365 | C |  | Transplantation of kidney |  |  |  |  |
50370 | C |  | Remove transplanted kidney |  |  |  |  |
50380 | C |  | Reimplantation of kidney |  |  |  |  |
50390 | T |  | Drainage of kidney lesion | 0685 | 4.8912 | $265.54 | $116.83 | $53.11
50392 | T |  | Insert kidney drain | 0161 | 16.5822 | $900.23 | $249.36 | $180.05
50393 | T |  | Insert ureteral tube | 0161 | 16.5822 | $900.23 | $249.36 | $180.05
50394 | N |  | Injection for kidney x-ray |  |  |  |  |
50395 | T |  | Create passage to kidney | 0161 | 16.5822 | $900.23 | $249.36 | $180.05
50396 | T |  | Measure kidney pressure | 0164 | 1.2115 | $65.77 | $17.59 | $13.15
50398 | T |  | Change kidney tube | 0122 | 8.4398 | $458.19 | $93.97 | $91.64
50400 | C |  | Revision of kidney/ureter |  |  |  |  |
50405 | C |  | Revision of kidney/ureter |  |  |  |  |
50500 | C |  | Repair of kidney wound |  |  |  |  |
50520 | C |  | Close kidney-skin fistula |  |  |  |  |
50525 | C |  | Repair renal-abdomen fistula |  |  |  |  |
50526 | C |  | Repair renal-abdomen fistula |  |  |  |  |
50540 | C |  | Revision of horseshoe kidney |  |  |  |  |
50541 | T |  | Laparo ablate renal cyst | 0130 | 32.5959 | $1,769.60 | $659.53 | $353.92
50542 | T |  | Laparo ablate renal mass | 0131 | 40.8955 | $2,220.18 | $1,001.89 | $444.04
50543 | T |  | Laparo partial nephrectomy | 0131 | 40.8955 | $2,220.18 | $1,001.89 | $444.04
50544 | T |  | Laparoscopy, pyeloplasty | 0130 | 32.5959 | $1,769.60 | $659.53 | $353.92
50545 | C |  | Laparo radical nephrectomy |  |  |  |  |
50546 | C |  | Laparoscopic nephrectomy |  |  |  |  |
50547 | C |  | Laparo removal donor kidney |  |  |  |  |
50548 | C |  | Laparo remove k/ureter |  |  |  |  |
50549 | T |  | Laparoscope proc, renal | 0130 | 32.5959 | $1,769.60 | $659.53 | $353.92
50551 | T |  | Kidney endoscopy | 0160 | 6.8152 | $369.99 | $105.06 | $74.00
50553 | T |  | Kidney endoscopy | 0161 | 16.5822 | $900.23 | $249.36 | $180.05
50555 | T |  | Kidney endoscopy & biopsy | 0160 | 6.8152 | $369.99 | $105.06 | $74.00
50557 | T |  | Kidney endoscopy & treatment | 0162 | 21.8578 | $1,186.64 |  | $237.33
50559 | T |  | Renal endoscopy/radiotracer | 0160 | 6.8152 | $369.99 | $105.06 | $74.00
50561 | T |  | Kidney endoscopy & treatment | 0161 | 16.5822 | $900.23 | $249.36 | $180.05
50562 | T |  | Renal scope w/tumor resect | 0160 | 6.8152 | $369.99 | $105.06 | $74.00
50570 | C |  | Kidney endoscopy |  |  |  |  |
50572 | C |  | Kidney endoscopy |  |  |  |  |
50574 | C |  | Kidney endoscopy & biopsy |  |  |  |  |
50575 | C |  | Kidney endoscopy |  |  |  |  |
50576 | C |  | Kidney endoscopy & treatment |  |  |  |  |
50578 | C |  | Renal endoscopy/radiotracer |  |  |  |  |
50580 | C |  | Kidney endoscopy & treatment |  |  |  |  |
50590 | T |  | Fragmenting of kidney stone | 0169 | 44.5329 | $2,417.65 | $1,115.69 | $483.53
50600 | C |  | Exploration of ureter |  |  |  |  |
50605 | C |  | Insert ureteral support |  |  |  |  |
50610 | C |  | Removal of ureter stone |  |  |  |  |
50620 | C |  | Removal of ureter stone |  |  |  |  |
50630 | C |  | Removal of ureter stone |  |  |  |  |
50650 | C |  | Removal of ureter |  |  |  |  |
50660 | C |  | Removal of ureter |  |  |  |  |
50684 | N |  | Injection for ureter x-ray |  |  |  |  |
50686 | T |  | Measure ureter pressure | 0164 | 1.2115 | $65.77 | $17.59 | $13.15
50688 | T |  | Change of ureter tube | 0122 | 8.4398 | $458.19 | $93.97 | $91.64
50690 | N |  | Injection for ureter x-ray |  |  |  |  |
50700 | C |  | Revision of ureter |  |  |  |  |
50715 | C |  | Release of ureter |  |  |  |  |
50722 | C |  | Release of ureter |  |  |  |  |
50725 | C |  | Release/revise ureter |  |  |  |  |
50727 | C |  | Revise ureter |  |  |  |  |
50728 | C |  | Revise ureter |  |  |  |  |
50740 | C |  | Fusion of ureter & kidney |  |  |  |  |
50750 | C |  | Fusion of ureter & kidney |  |  |  |  |
50760 | C |  | Fusion of ureters |  |  |  |  |
50770 | C |  | Splicing of ureters |  |  |  |  |
50780 | C |  | Reimplant ureter in bladder |  |  |  |  |
50782 | C |  | Reimplant ureter in bladder |  |  |  |  |
50783 | C |  | Reimplant ureter in bladder |  |  |  |  |
50785 | C |  | Reimplant ureter in bladder |  |  |  |  |
50800 | C |  | Implant ureter in bowel |  |  |  |  |
50810 | C |  | Fusion of ureter & bowel |  |  |  |  |
50815 | C |  | Urine shunt to intestine |  |  |  |  |
50820 | C |  | Construct bowel bladder |  |  |  |  |
50825 | C |  | Construct bowel bladder |  |  |  |  |
50830 | C |  | Revise urine flow |  |  |  |  |
50840 | C |  | Replace ureter by bowel |  |  |  |  |
50845 | C |  | Appendico-vesicostomy |  |  |  |  |
50860 | C |  | Transplant ureter to skin |  |  |  |  |
50900 | C |  | Repair of ureter |  |  |  |  |
50920 | C |  | Closure ureter/skin fistula |  |  |  |  |
50930 | C |  | Closure ureter/bowel fistula |  |  |  |  |
50940 | C |  | Release of ureter |  |  |  |  |
50945 | T |  | Laparoscopy ureterolithotomy | 0131 | 40.8955 | $2,220.18 | $1,001.89 | $444.04
50947 | T |  | Laparo new ureter/bladder | 0131 | 40.8955 | $2,220.18 | $1,001.89 | $444.04
50948 | T |  | Laparo new ureter/bladder | 0131 | 40.8955 | $2,220.18 | $1,001.89 | $444.04
50949 | T |  | Laparoscope proc, ureter | 0130 | 32.5959 | $1,769.60 | $659.53 | $353.92
50951 | T |  | Endoscopy of ureter | 0160 | 6.8152 | $369.99 | $105.06 | $74.00
50953 | T |  | Endoscopy of ureter | 0160 | 6.8152 | $369.99 | $105.06 | $74.00
50955 | T |  | Ureter endoscopy & biopsy | 0161 | 16.5822 | $900.23 | $249.36 | $180.05
50957 | T |  | Ureter endoscopy & treatment | 0161 | 16.5822 | $900.23 | $249.36 | $180.05
50959 | T |  | Ureter endoscopy & tracer | 0161 | 16.5822 | $900.23 | $249.36 | $180.05
50961 | T |  | Ureter endoscopy & treatment | 0161 | 16.5822 | $900.23 | $249.36 | $180.05
50970 | T |  | Ureter endoscopy | 0160 | 6.8152 | $369.99 | $105.06 | $74.00
50972 | T |  | Ureter endoscopy & catheter | 0160 | 6.8152 | $369.99 | $105.06 | $74.00
50974 | T |  | Ureter endoscopy & biopsy | 0161 | 16.5822 | $900.23 | $249.36 | $180.05
50976 | T |  | Ureter endoscopy & treatment | 0161 | 16.5822 | $900.23 | $249.36 | $180.05
50978 | T |  | Ureter endoscopy & tracer | 0161 | 16.5822 | $900.23 | $249.36 | $180.05
50980 | T |  | Ureter endoscopy & treatment | 0161 | 16.5822 | $900.23 | $249.36 | $180.05
51000 | T |  | Drainage of bladder | 0165 | 14.0780 | $764.28 |  | $152.86
51005 | T |  | Drainage of bladder | 0164 | 1.2115 | $65.77 | $17.59 | $13.15
51010 | T |  | Drainage of bladder | 0165 | 14.0780 | $764.28 |  | $152.86
51020 | T |  | Incise & treat bladder | 0162 | 21.8578 | $1,186.64 |  | $237.33
51030 | T |  | Incise & treat bladder | 0162 | 21.8578 | $1,186.64 |  | $237.33
51040 | T |  | Incise & drain bladder | 0162 | 21.8578 | $1,186.64 |  | $237.33
51045 | T |  | Incise bladder/drain ureter | 0160 | 6.8152 | $369.99 | $105.06 | $74.00
51050 | T |  | Removal of bladder stone | 0162 | 21.8578 | $1,186.64 |  | $237.33
51060 | C |  | Removal of ureter stone |  |  |  |  |
51065 | T |  | Remove ureter calculus | 0162 | 21.8578 | $1,186.64 |  | $237.33
51080 | T |  | Drainage of bladder abscess | 0007 | 11.4943 | $624.01 |  | $124.80
51500 | T |  | Removal of bladder cyst | 0154 | 26.8861 | $1,459.62 | $464.85 | $291.92
51520 | T |  | Removal of bladder lesion | 0162 | 21.8578 | $1,186.64 |  | $237.33
51525 | C |  | Removal of bladder lesion |  |  |  |  |
51530 | C |  | Removal of bladder lesion |  |  |  |  |
51535 | C |  | Repair of ureter lesion |  |  |  |  |
51550 | C |  | Partial removal of bladder |  |  |  |  |
51555 | C |  | Partial removal of bladder |  |  |  |  |
51565 | C |  | Revise bladder & ureter(s) |  |  |  |  |
51570 | C |  | Removal of bladder |  |  |  |  |
51575 | C |  | Removal of bladder & nodes |  |  |  |  |
51580 | C |  | Remove bladder/revise tract |  |  |  |  |
51585 | C |  | Removal of bladder & nodes |  |  |  |  |
51590 | C |  | Remove bladder/revise tract |  |  |  |  |
51595 | C |  | Remove bladder/revise tract |  |  |  |  |
51596 | C |  | Remove bladder/create pouch |  |  |  |  |
51597 | C |  | Removal of pelvic structures |  |  |  |  |
51600 | N |  | Injection for bladder x-ray |  |  |  |  |
51605 | N |  | Preparation for bladder xray |  |  |  |  |
51610 | N |  | Injection for bladder x-ray |  |  |  |  |
51700 | T |  | Irrigation of bladder | 0164 | 1.2115 | $65.77 | $17.59 | $13.15
51701 | N |  | Insert bladder catheter |  |  |  |  |
51702 | N |  | Insert temp bladder cath |  |  |  |  |
51703 | N |  | Insert bladder cath, complex |  |  |  |  |
51705 | T |  | Change of bladder tube | 0121 | 2.2058 | $119.75 | $43.80 | $23.95
51710 | T |  | Change of bladder tube | 0122 | 8.4398 | $458.19 | $93.97 | $91.64
51715 | T |  | Endoscopic injection/implant | 0167 | 30.1066 | $1,634.46 | $555.84 | $326.89
51720 | T |  | Treatment of bladder lesion | 0156 | 3.1438 | $170.67 | $46.55 | $34.13
51725 | T |  | Simple cystometrogram | 0156 | 3.1438 | $170.67 | $46.55 | $34.13
51726 | T |  | Complex cystometrogram | 0156 | 3.1438 | $170.67 | $46.55 | $34.13
51736 | T |  | Urine flow measurement | 0164 | 1.2115 | $65.77 | $17.59 | $13.15
51741 | T |  | Electro-uroflowmetry, first | 0164 | 1.2115 | $65.77 | $17.59 | $13.15
51772 | T |  | Urethra pressure profile | 0164 | 1.2115 | $65.77 | $17.59 | $13.15
51784 | T |  | Anal/urinary muscle study | 0164 | 1.2115 | $65.77 | $17.59 | $13.15
51785 | T |  | Anal/urinary muscle study | 0164 | 1.2115 | $65.77 | $17.59 | $13.15
51792 | T |  | Urinary reflex study | 0164 | 1.2115 | $65.77 | $17.59 | $13.15
51795 | T |  | Urine voiding pressure study | 0164 | 1.2115 | $65.77 | $17.59 | $13.15
51797 | T |  | Intraabdominal pressure test | 0164 | 1.2115 | $65.77 | $17.59 | $13.15
51798 | X |  | Us urine capacity measure | 0340 | 0.6232 | $33.83 |  | $6.77
51800 | C |  | Revision of bladder/urethra |  |  |  |  |
51820 | C |  | Revision of urinary tract |  |  |  |  |
51840 | C |  | Attach bladder/urethra |  |  |  |  |
51841 | C |  | Attach bladder/urethra |  |  |  |  |
51845 | C |  | Repair bladder neck |  |  |  |  |
51860 | C |  | Repair of bladder wound |  |  |  |  |
51865 | C |  | Repair of bladder wound |  |  |  |  |
51880 | T |  | Repair of bladder opening | 0162 | 21.8578 | $1,186.64 |  | $237.33
51900 | C |  | Repair bladder/vagina lesion |  |  |  |  |
51920 | C |  | Close bladder-uterus fistula |  |  |  |  |
51925 | C |  | Hysterectomy/bladder repair |  |  |  |  |
51940 | C |  | Correction of bladder defect |  |  |  |  |
51960 | C |  | Revision of bladder & bowel |  |  |  |  |
51980 | C |  | Construct bladder opening |  |  |  |  |
51990 | T |  | Laparo urethral suspension | 0131 | 40.8955 | $2,220.18 | $1,001.89 | $444.04
51992 | T |  | Laparo sling operation | 0132 | 56.6318 | $3,074.48 | $1,239.22 | $614.90
52000 | T |  | Cystoscopy | 0160 | 6.8152 | $369.99 | $105.06 | $74.00
52001 | T |  | Cystoscopy, removal of clots | 0160 | 6.8152 | $369.99 | $105.06 | $74.00
52005 | T |  | Cystoscopy & ureter catheter | 0161 | 16.5822 | $900.23 | $249.36 | $180.05
52007 | T |  | Cystoscopy and biopsy | 0161 | 16.5822 | $900.23 | $249.36 | $180.05
52010 | T |  | Cystoscopy & duct catheter | 0160 | 6.8152 | $369.99 | $105.06 | $74.00
52204 | T |  | Cystoscopy | 0161 | 16.5822 | $900.23 | $249.36 | $180.05
52214 | T |  | Cystoscopy and treatment | 0162 | 21.8578 | $1,186.64 |  | $237.33
52224 | T |  | Cystoscopy and treatment | 0162 | 21.8578 | $1,186.64 |  | $237.33
52234 | T |  | Cystoscopy and treatment | 0162 | 21.8578 | $1,186.64 |  | $237.33
52235 | T |  | Cystoscopy and treatment | 0162 | 21.8578 | $1,186.64 |  | $237.33
52240 | T |  | Cystoscopy and treatment | 0162 | 21.8578 | $1,186.64 |  | $237.33
52250 | T |  | Cystoscopy and radiotracer | 0162 | 21.8578 | $1,186.64 |  | $237.33
52260 | T |  | Cystoscopy and treatment | 0161 | 16.5822 | $900.23 | $249.36 | $180.05
52265 | T |  | Cystoscopy and treatment | 0160 | 6.8152 | $369.99 | $105.06 | $74.00
52270 | T |  | Cystoscopy & revise urethra | 0161 | 16.5822 | $900.23 | $249.36 | $180.05
52275 | T |  | Cystoscopy & revise urethra | 0161 | 16.5822 | $900.23 | $249.36 | $180.05
52276 | T |  | Cystoscopy and treatment | 0161 | 16.5822 | $900.23 | $249.36 | $180.05
52277 | T |  | Cystoscopy and treatment | 0162 | 21.8578 | $1,186.64 |  | $237.33
52281 | T |  | Cystoscopy and treatment | 0161 | 16.5822 | $900.23 | $249.36 | $180.05
52282 | T |  | Cystoscopy, implant stent | 0385 | 66.4829 | $3,609.29 |  | $721.86
52283 | T |  | Cystoscopy and treatment | 0161 | 16.5822 | $900.23 | $249.36 | $180.05
52285 | T |  | Cystoscopy and treatment | 0161 | 16.5822 | $900.23 | $249.36 | $180.05
52290 | T |  | Cystoscopy and treatment | 0161 | 16.5822 | $900.23 | $249.36 | $180.05
52300 | T |  | Cystoscopy and treatment | 0161 | 16.5822 | $900.23 | $249.36 | $180.05
52301 | T |  | Cystoscopy and treatment | 0161 | 16.5822 | $900.23 | $249.36 | $180.05
52305 | T |  | Cystoscopy and treatment | 0161 | 16.5822 | $900.23 | $249.36 | $180.05
52310 | T |  | Cystoscopy and treatment | 0160 | 6.8152 | $369.99 | $105.06 | $74.00
52315 | T |  | Cystoscopy and treatment | 0161 | 16.5822 | $900.23 | $249.36 | $180.05
52317 | T |  | Remove bladder stone | 0162 | 21.8578 | $1,186.64 |  | $237.33
52318 | T |  | Remove bladder stone | 0162 | 21.8578 | $1,186.64 |  | $237.33
52320 | T |  | Cystoscopy and treatment | 0162 | 21.8578 | $1,186.64 |  | $237.33
52325 | T |  | Cystoscopy, stone removal | 0162 | 21.8578 | $1,186.64 |  | $237.33
52327 | T |  | Cystoscopy, inject material | 0162 | 21.8578 | $1,186.64 |  | $237.33
52330 | T |  | Cystoscopy and treatment | 0162 | 21.8578 | $1,186.64 |  | $237.33
52332 | T |  | Cystoscopy and treatment | 0162 | 21.8578 | $1,186.64 |  | $237.33
52334 | T |  | Create passage to kidney | 0162 | 21.8578 | $1,186.64 |  | $237.33
52341 | T |  | Cysto w/ureter stricture tx | 0162 | 21.8578 | $1,186.64 |  | $237.33
52342 | T |  | Cysto w/up stricture tx | 0162 | 21.8578 | $1,186.64 |  | $237.33
52343 | T |  | Cysto w/renal stricture tx | 0162 | 21.8578 | $1,186.64 |  | $237.33
52344 | T |  | Cysto/uretero, stone remove | 0162 | 21.8578 | $1,186.64 |  | $237.33
52345 | T |  | Cysto/uretero w/up stricture | 0162 | 21.8578 | $1,186.64 |  | $237.33
52346 | T |  | Cystouretero w/renal strict | 0162 | 21.8578 | $1,186.64 |  | $237.33
52347 | T |  | Cystoscopy, resect ducts | 0160 | 6.8152 | $369.99 | $105.06 | $74.00
52351 | T |  | Cystouretero & or pyeloscope | 0160 | 6.8152 | $369.99 | $105.06 | $74.00
52352 | T |  | Cystouretero w/stone remove | 0162 | 21.8578 | $1,186.64 |  | $237.33
52353 | T |  | Cystouretero w/lithotripsy | 0163 | 33.6435 | $1,826.47 |  | $365.29
52354 | T |  | Cystouretero w/biopsy | 0162 | 21.8578 | $1,186.64 |  | $237.33
52355 | T |  | Cystouretero w/excise tumor | 0162 | 21.8578 | $1,186.64 |  | $237.33
52400 | T |  | Cystouretero w/congen repr | 0162 | 21.8578 | $1,186.64 |  | $237.33
52450 | T |  | Incision of prostate | 0162 | 21.8578 | $1,186.64 |  | $237.33
52500 | T |  | Revision of bladder neck | 0162 | 21.8578 | $1,186.64 |  | $237.33
52510 | T |  | Dilation prostatic urethra | 0161 | 16.5822 | $900.23 | $249.36 | $180.05
52601 | T |  | Prostatectomy (TURP) | 0163 | 33.6435 | $1,826.47 |  | $365.29
52606 | T |  | Control postop bleeding | 0162 | 21.8578 | $1,186.64 |  | $237.33
52612 | T |  | Prostatectomy, first stage | 0163 | 33.6435 | $1,826.47 |  | $365.29
52614 | T |  | Prostatectomy, second stage | 0163 | 33.6435 | $1,826.47 |  | $365.29
52620 | T |  | Remove residual prostate | 0163 | 33.6435 | $1,826.47 |  | $365.29
52630 | T |  | Remove prostate regrowth | 0163 | 33.6435 | $1,826.47 |  | $365.29
52640 | T |  | Relieve bladder contracture | 0162 | 21.8578 | $1,186.64 |  | $237.33
52647 | T |  | Laser surgery of prostate | 0163 | 33.6435 | $1,826.47 |  | $365.29
52648 | T |  | Laser surgery of prostate | 0163 | 33.6435 | $1,826.47 |  | $365.29
52700 | T |  | Drainage of prostate abscess | 0162 | 21.8578 | $1,186.64 |  | $237.33
53000 | T |  | Incision of urethra | 0166 | 16.8401 | $914.23 | $218.73 | $182.85
53010 | T |  | Incision of urethra | 0166 | 16.8401 | $914.23 | $218.73 | $182.85
53020 | T |  | Incision of urethra | 0166 | 16.8401 | $914.23 | $218.73 | $182.85
53025 | T |  | Incision of urethra | 0166 | 16.8401 | $914.23 | $218.73 | $182.85
53040 | T |  | Drainage of urethra abscess | 0166 | 16.8401 | $914.23 | $218.73 | $182.85
53060 | T |  | Drainage of urethra abscess | 0166 | 16.8401 | $914.23 | $218.73 | $182.85
53080 | T |  | Drainage of urinary leakage | 0166 | 16.8401 | $914.23 | $218.73 | $182.85
53085 | C |  | Drainage of urinary leakage |  |  |  |  |
53200 | T |  | Biopsy of urethra | 0166 | 16.8401 | $914.23 | $218.73 | $182.85
53210 | T |  | Removal of urethra | 0168 | 30.3485 | $1,647.59 | $405.60 | $329.52
53215 | T |  | Removal of urethra | 0168 | 30.3485 | $1,647.59 | $405.60 | $329.52
53220 | T |  | Treatment of urethra lesion | 0168 | 30.3485 | $1,647.59 | $405.60 | $329.52
53230 | T |  | Removal of urethra lesion | 0168 | 30.3485 | $1,647.59 | $405.60 | $329.52
53235 | T |  | Removal of urethra lesion | 0168 | 30.3485 | $1,647.59 | $405.60 | $329.52
53240 | T |  | Surgery for urethra pouch | 0168 | 30.3485 | $1,647.59 | $405.60 | $329.52
53250 | T |  | Removal of urethra gland | 0166 | 16.8401 | $914.23 | $218.73 | $182.85
53260 | T |  | Treatment of urethra lesion | 0166 | 16.8401 | $914.23 | $218.73 | $182.85
53265 | T |  | Treatment of urethra lesion | 0166 | 16.8401 | $914.23 | $218.73 | $182.85
53270 | T |  | Removal of urethra gland | 0167 | 30.1066 | $1,634.46 | $555.84 | $326.89
53275 | T |  | Repair of urethra defect | 0166 | 16.8401 | $914.23 | $218.73 | $182.85
53400 | T |  | Revise urethra, stage 1 | 0168 | 30.3485 | $1,647.59 | $405.60 | $329.52
53405 | T |  | Revise urethra, stage 2 | 0168 | 30.3485 | $1,647.59 | $405.60 | $329.52
53410 | T |  | Reconstruction of urethra | 0168 | 30.3485 | $1,647.59 | $405.60 | $329.52
53415 | C |  | Reconstruction of urethra |  |  |  |  |
53420 | T |  | Reconstruct urethra, stage 1 | 0168 | 30.3485 | $1,647.59 | $405.60 | $329.52
53425 | T |  | Reconstruct urethra, stage 2 | 0168 | 30.3485 | $1,647.59 | $405.60 | $329.52
53430 | T |  | Reconstruction of urethra | 0168 | 30.3485 | $1,647.59 | $405.60 | $329.52
53431 | T |  | Reconstruct urethra/bladder | 0168 | 30.3485 | $1,647.59 | $405.60 | $329.52
53440 | T |  | Correct bladder function | 0385 | 66.4829 | $3,609.29 |  | $721.86
53442 | T |  | Remove perineal prosthesis | 0166 | 16.8401 | $914.23 | $218.73 | $182.85
53444 | T |  | Insert tandem cuff | 0385 | 66.4829 | $3,609.29 |  | $721.86
53445 | T |  | Insert uro/ves nck sphincter | 0386 | 118.8122 | $6,450.20 |  | $1,290.04
53446 | T |  | Remove uro sphincter | 0168 | 30.3485 | $1,647.59 | $405.60 | $329.52
53447 | T |  | Remove/replace ur sphincter | 0386 | 118.8122 | $6,450.20 |  | $1,290.014
53448 | C |  | Remov/replc ur sphinctr comp |  |  |  |  |
53449 | T |  | Repair uro sphincter | 0168 | 30.3485 | $1,647.59 | $405.60 | $329.52
53450 | T |  | Revision of urethra | 0168 | 30.3485 | $1,647.59 | $405.60 | $329.52
53460 | T |  | Revision of urethra | 0168 | 30.3485 | $1,647.59 | $405.60 | $329.52
53502 | T |  | Repair of urethra injury | 0166 | 16.8401 | $914.23 | $218.73 | $182.85
53505 | T |  | Repair of urethra injury | 0167 | 30.1066 | $1,634.46 | $555.84 | $326.89
53510 | T |  | Repair of urethra injury | 0166 | 16.8401 | $914.23 | $218.73 | $182.85
53515 | T |  | Repair of urethra injury | 0168 | 30.3485 | $1,647.59 | $405.60 | $329.52
53520 | T |  | Repair of urethra defect | 0168 | 30.3485 | $1,647.59 | $405.60 | $329.52
53600 | T |  | Dilate urethra stricture | 0156 | 3.1438 | $170.67 | $46.55 | $34.13
53601 | T |  | Dilate urethra stricture | 0164 | 1.2115 | $65.77 | $17.59 | $13.15
53605 | T |  | Dilate urethra stricture | 0161 | 16.5822 | $900.23 | $249.36 | $180.05
53620 | T |  | Dilate urethra stricture | 0165 | 14.0780 | $764.28 |  | $152.86
53621 | T |  | Dilate urethra stricture | 0164 | 1.2115 | $65.77 | $17.59 | $13.15
53660 | T |  | Dilation of urethra | 0164 | 1.2115 | $65.77 | $17.59 | $13.15
53661 | T |  | Dilation of urethra | 0164 | 1.2115 | $65.77 | $17.59 | $13.15
53665 | T |  | Dilation of urethra | 0166 | 16.8401 | $914.23 | $218.73 | $182.85
53850 | T |  | Prostatic microwave thermotx | 0675 | 49.3613 | $2,679.78 |  | $535.96
53852 | T |  | Prostatic rf thermotx | 0675 | 49.3613 | $2,679.78 |  | $535.96
53853 | T |  | Prostatic water thermother | 1550 |  | $1,150.00 |  | $230.00
53899 | T |  | Urology surgery procedure | 0164 | 1.2115 | $65.77 | $17.59 | $13.15
54000 | T |  | Slitting of prepuce | 0166 | 16.8401 | $914.23 | $218.73 | $182.85
54001 | T |  | Slitting of prepuce | 0166 | 16.8401 | $914.23 | $218.73 | $182.85
54015 | T |  | Drain penis lesion | 0007 | 11.4943 | $624.01 |  | $124.80
54050 | T |  | Destruction, penis lesion(s) | 0013 | 1.1420 | $62.00 | $14.20 | $12.40
54055 | T |  | Destruction, penis lesion(s) | 0017 | 16.7332 | $908.43 | $227.84 | $181.69
54056 | T |  | Cryosurgery, penis lesion(s) | 0012 | 0.8203 | $44.53 | $11.18 | $8.91
54057 | T |  | Laser surg, penis lesion(s) | 0017 | 16.7332 | $908.43 | $227.84 | $181.69
54060 | T |  | Excision of penis lesion(s) | 0017 | 16.7332 | $908.43 | $227.84 | $181.69
54065 | T |  | Destruction, penis lesion(s) | 0695 | 19.1377 | $1,038.97 | $266.59 | $207.79
54100 | T |  | Biopsy of penis | 0021 | 14.5749 | $791.26 | $219.48 | $158.25
54105 | T |  | Biopsy of penis | 0022 | 18.6725 | $1,013.71 | $354.45 | $202.74
54110 | T |  | Treatment of penis lesion | 0181 | 29.0094 | $1,574.89 | $621.82 | $314.98
54111 | T |  | Treat penis lesion, graft | 0181 | 29.0094 | $1,574.89 | $621.82 | $314.98
54112 | T |  | Treat penis lesion, graft | 0181 | 29.0094 | $1,574.89 | $621.82 | $314.98
54115 | T |  | Treatment of penis lesion | 0008 | 16.8303 | $913.70 |  | $182.74
54120 | T |  | Partial removal of penis | 0181 | 29.0094 | $1,574.89 | $621.82 | $314.98
54125 | C |  | Removal of penis |  |  |  |  |
54130 | C |  | Remove penis & nodes |  |  |  |  |
54135 | C |  | Remove penis & nodes |  |  |  |  |
54150 | T |  | Circumcision | 0180 | 18.4967 | $1,004.17 | $304.87 | $200.83
54152 | T |  | Circumcision | 0180 | 18.4967 | $1,004.17 | $304.87 | $200.83
54160 | T |  | Circumcision | 0180 | 18.4967 | $1,004.17 | $304.87 | $200.83
54161 | T |  | Circumcision | 0180 | 18.4967 | $1,004.17 | $304.87 | $200.83
54162 | T |  | Lysis penil circumic lesion | 0180 | 18.4967 | $1,004.17 | $304.87 | $200.83
54163 | T |  | Repair of circumcision | 0180 | 18.4967 | $1,004.17 | $304.87 | $200.83
54164 | T |  | Frenulotomy of penis | 0180 | 18.4967 | $1,004.17 | $304.87 | $200.83
54200 | T |  | Treatment of penis lesion | 0156 | 3.1438 | $170.67 | $46.55 | $34.13
54205 | T |  | Treatment of penis lesion | 0181 | 29.0094 | $1,574.89 | $621.82 | $314.98
54220 | T |  | Treatment of penis lesion | 0156 | 3.1438 | $170.67 | $46.55 | $34.13
54230 | N |  | Prepare penis study |  |  |  |  |
54231 | T |  | Dynamic cavernosometry | 0165 | 14.0780 | $764.28 |  | $152.86
54235 | T |  | Penile injection | 0164 | 1.2115 | $65.77 | $17.59 | $13.15
54240 | T |  | Penis study | 0164 | 1.2115 | $65.77 | $17.59 | $13.15
54250 | T |  | Penis study | 0165 | 14.0780 | $764.28 |  | $152.86
54300 | T |  | Revision of penis | 0181 | 29.0094 | $1,574.89 | $621.82 | $314.98
54304 | T |  | Revision of penis | 0181 | 29.0094 | $1,574.89 | $621.82 | $314.98
54308 | T |  | Reconstruction of urethra | 0181 | 29.0094 | $1,574.89 | $621.82 | $314.98
54312 | T |  | Reconstruction of urethra | 0181 | 29.0094 | $1,574.89 | $621.82 | $314.98
54316 | T |  | Reconstruction of urethra | 0181 | 29.0094 | $1,574.89 | $621.82 | $314.98
54318 | T |  | Reconstruction of urethra | 0181 | 29.0094 | $1,574.89 | $621.82 | $314.98
54322 | T |  | Reconstruction of urethra | 0181 | 29.0094 | $1,574.89 | $621.82 | $314.98
54324 | T |  | Reconstruction of urethra | 0181 | 29.0094 | $1,574.89 | $621.82 | $314.98
54326 | T |  | Reconstruction of urethra | 0181 | 29.0094 | $1,574.89 | $621.82 | $314.98
54328 | T |  | Revise penis/urethra | 0181 | 29.0094 | $1,574.89 | $621.82 | $314.98
54332 | C |  | Revise penis/urethra |  |  |  |  |
54336 | C |  | Revise penis/urethra |  |  |  |  |
54340 | T |  | Secondary urethral surgery | 0181 | 29.0094 | $1,574.89 | $621.82 | $314.98
54344 | T |  | Secondary urethral surgery | 0181 | 29.0094 | $1,574.89 | $621.82 | $314.98
54348 | T |  | Secondary urethral surgery | 0181 | 29.0094 | $1,574.89 | $621.82 | $314.98
54352 | T |  | Reconstruct urethra/penis | 0181 | 29.0094 | $1,574.89 | $621.82 | $314.98
54360 | T |  | Penis plastic surgery | 0181 | 29.0094 | $1,574.89 | $621.82 | $314.98
54380 | T |  | Repair penis | 0181 | 29.0094 | $1,574.89 | $621.82 | $314.98
54385 | T |  | Repair penis | 0181 | 29.0094 | $1,574.89 | $621.82 | $314.98
54390 | C |  | Repair penis and bladder |  |  |  |  |
54400 | T |  | Insert semi-rigid prosthesis | 0385 | 66.4829 | $3,609.29 |  | $721.86
54401 | T |  | Insert self-contd prosthesis | 0386 | 118.8122 | $6,450.20 |  | $1,240.04
54405 | T |  | Insert multi-comp penis pros | 0386 | 118.8122 | $6,450.20 |  | $1,240.04
54406 | T |  | Remove muti-comp penis pros | 0181 | 29.0094 | $1,574.89 | $621.82 | $314.98
54408 | T |  | Repair multi-comp penis pros | 0181 | 29.0094 | $1,574.89 | $621.82 | $314.98
54410 | T |  | Remove/replace penis prosth | 0386 | 118.8122 | $6,450.20 |  | $1,290.04
54411 | C |  | Remov/replc penis pros, comp |  |  |  |  |
54415 | T |  | Remove self-contd penis pros | 0181 | 29.0094 | $1,574.89 | $621.82 | $314.98
54416 | T |  | Remv/repl penis contain pros | 0385 | 66.4829 | $3,609.29 |  | $721.86
54417 | C |  | Remv/replc penis pros, compl |  |  |  |  |
54420 | T |  | Revision of penis | 0181 | 29.0094 | $1,574.89 | $621.82 | $314.98
54430 | C |  | Revision of penis |  |  |  |  |
54435 | T |  | Revision of penis | 0181 | 29.0094 | $1,574.89 | $621.82 | $314.98
54440 | T |  | Repair of penis | 0181 | 29.0094 | $1,574.89 | $621.82 | $314.98
54450 | T |  | Preputial stretching | 0156 | 3.1438 | $170.67 | $46.55 | $34.13
54500 | T |  | Biopsy of testis | 0005 | 3.3675 | $182.82 | $71.59 | $36.56
54505 | T |  | Biopsy of testis | 0183 | 21.7612 | $1,181.39 |  | $236.28
54512 | T |  | Excise lesion testis | 0183 | 21.7612 | $1,181.39 |  | $236.28
54520 | T |  | Removal of testis | 0183 | 21.7612 | $1,181.39 |  | $236.28
54522 | T |  | Orchiectomy, partial | 0183 | 21.7612 | $1,181.39 |  | $236.28
54530 | T |  | Removal of testis | 0154 | 26.8861 | $1,459.62 | $464.85 | $291.92
54535 | C |  | Extensive testis surgery |  |  |  |  |
54550 | T |  | Exploration for testis | 0154 | 26.8861 | $1,459.62 | $464.85 | $291.92
54560 | C |  | Exploration for testis |  |  |  |  |
54600 | T |  | Reduce testis torsion | 0183 | 21.7612 | $1,181.39 |  | $236.28
54620 | T |  | Suspension of testis | 0183 | 21.7612 | $1,181.39 |  | $236.28
54640 | T |  | Suspension of testis | 0154 | 26.8861 | $1,459.62 | $464.85 | $291.92
54650 | C |  | Orchiopexy (Fowler-Stephens) |  |  |  |  |
54660 | T |  | Revision of testis | 0183 | 21.7612 | $1,181.39 |  | $236.28
54670 | T |  | Repair testis injury | 0183 | 21.7612 | $1,181.39 |  | $236.28
54680 | T |  | Relocation of testis(es) | 0183 | 21.7612 | $1,181.39 |  | $236.28
54690 | T |  | Laparoscopy, orchiectomy | 0131 | 40.8955 | $2,220.18 | $1,001.89 | $444.04
54692 | T |  | Laparoscopy, orchiopexy | 0132 | 56.6318 | $3,074.48 | $1,239.22 | $614.90
54699 | T |  | Laparoscope proc, testis | 0130 | 32.5959 | $1,769.60 | $659.53 | $353.92
54700 | T |  | Drainage of scrotum | 0183 | 21.7612 | $1,181.39 |  | $236.28
54800 | T |  | Biopsy of epididymis | 0004 | 1.5774 | $85.64 | $22.10 | $17.13
54820 | T |  | Exploration of epididymis | 0183 | 21.7612 | $1,181.39 |  | $236.28
54830 | T |  | Remove epididymis lesion | 0183 | 21.7612 | $1,181.39 |  | $236.28
54840 | T |  | Remove epididymis lesion | 0183 | 21.7612 | $1,181.39 |  | $236.28
54860 | T |  | Removal of epididymis | 0183 | 21.7612 | $1,181.39 |  | $236.28
54861 | T |  | Removal of epididymis | 0183 | 21.7612 | $1,181.39 |  | $236.28
54900 | T |  | Fusion of spermatic ducts | 0183 | 21.7612 | $1,181.39 |  | $236.28
54901 | T |  | Fusion of spermatic ducts | 0183 | 21.7612 | $1,181.39 |  | $236.28
55000 | T |  | Drainage of hydrocele | 0004 | 1.5774 | $85.64 | $22.10 | $17.13
55040 | T |  | Removal of hydrocele | 0154 | 26.8861 | $1,459.62 | $464.85 | $291.92
55041 | T |  | Removal of hydroceles | 0154 | 26.8861 | $1,459.62 | $464.85 | $291.92
55060 | T |  | Repair of hydrocele | 0183 | 21.7612 | $1,181.39 |  | $236.28
55100 | T |  | Drainage of scrotum abscess | 0007 | 11.4943 | $624.01 |  | $124.80
55110 | T |  | Explore scrotum | 0183 | 21.7612 | $1,181.39 |  | $236.28
55120 | T |  | Removal of scrotum lesion | 0183 | 21.7612 | $1,181.39 |  | $236.28
55150 | T |  | Removal of scrotum | 0183 | 21.7612 | $1,181.39 |  | $236.28
55175 | T |  | Revision of scrotum | 0183 | 21.7612 | $1,181.39 |  | $236.28
55180 | T |  | Revision of scrotum | 0183 | 21.7612 | $1,181.39 |  | $236.28
55200 | T |  | Incision of sperm duct | 0183 | 21.7612 | $1,181.39 |  | $236.28
55250 | T |  | Removal of sperm duct(s) | 0183 | 21.7612 | $1,181.39 |  | $236.28
55300 | N |  | Prepare, sperm duct x-ray |  |  |  |  |
55400 | T |  | Repair of sperm duct | 0183 | 21.7612 | $1,181.39 |  | $236.28
55450 | T |  | Ligation of sperm duct | 0183 | 21.7612 | $1,181.39 |  | $236.28
55500 | T |  | Removal of hydrocele | 0183 | 21.7612 | $1,181.39 |  | $236.28
55520 | T |  | Removal of sperm cord lesion | 0183 | 21.7612 | $1,181.39 |  | $236.28
55530 | T |  | Revise spermatic cord veins | 0183 | 21.7612 | $1,181.39 |  | $236.28
55535 | T |  | Revise spermatic cord veins | 0154 | 26.8861 | $1,459.62 | $464.85 | $291.92
55540 | T |  | Revise hernia & sperm veins | 0154 | 26.8861 | $1,459.62 | $464.85 | $291.92
55550 | T |  | Laparo ligate spermatic vein | 0131 | 40.8955 | $2,220.18 | $1,001.89 | $444.04
55559 | T |  | Laparo proc, spermatic cord | 0130 | 32.5959 | $1,769.60 | $659.53 | $353.92
55600 | C |  | Incise sperm duct pouch |  |  |  |  |
55605 | C |  | Incise sperm duct pouch |  |  |  |  |
55650 | C |  | Remove sperm duct pouch |  |  |  |  |
55680 | T |  | Remove sperm pouch lesion | 0183 | 21.7612 | $1,181.39 |  | $236.28
55700 | T |  | Biopsy of prostate | 0184 | 3.8073 | $206.69 | $96.27 | $41.34
55705 | T |  | Biopsy of prostate | 0184 | 3.8073 | $206.69 | $96.27 | $41.34
55720 | T |  | Drainage of prostate abscess | 0162 | 21.8578 | $1,186.64 |  | $237.33
55725 | T |  | Drainage of prostate abscess | 0162 | 21.8578 | $1,186.64 |  | $237.33
55801 | C |  | Removal of prostate |  |  |  |  |
55810 | C |  | Extensive prostate surgery |  |  |  |  |
55812 | C |  | Extensive prostate surgery |  |  |  |  |
55815 | C |  | Extensive prostate surgery |  |  |  |  |
55821 | C |  | Removal of prostate |  |  |  |  |
55831 | C |  | Removal of prostate |  |  |  |  |
55840 | C |  | Extensive prostate surgery |  |  |  |  |
55842 | C |  | Extensive prostate surgery |  |  |  |  |
55845 | C |  | Extensive prostate surgery |  |  |  |  |
55859 | T |  | Percut/needle insert, pros | 0163 | 33.6435 | $1,826.47 |  | $365.29
55860 | T |  | Surgical exposure, prostate | 0165 | 14.0780 | $764.28 |  | $152.86
55862 | C |  | Extensive prostate surgery |  |  |  |  |
55865 | C |  | Extensive prostate surgery |  |  |  |  |
55866 | C |  | Laparo radical prostatectomy |  |  |  |  |
55870 | T |  | Vag hyst w/enterocele repair | 0197 | 5.1958 | $282.07 |  | $56.41
55873 | T |  | Cryoablate prostate | 0674 | 101.1198 | $5,489.69 |  | $1,097.94
55899 | T |  | Genital surgery procedure | 0164 | 1.2115 | $65.77 | $17.59 | $13.15
55970 | E |  | Sex transformation, M to F |  |  |  |  |
55980 | E |  | Sex transformation, F to M |  |  |  |  |
56405 | T |  | I & D of vulva/perineum | 0192 | 2.6966 | $146.40 | $39.11 | $29.28
56420 | T |  | Drainage of gland abscess | 0192 | 2.6966 | $146.40 | $39.11 | $29.28
56440 | T |  | Surgery for vulva lesion | 0194 | 18.8194 | $1,021.69 | $397.84 | $204.34
56441 | T |  | Lysis of labial lesion(s) | 0193 | 15.7365 | $854.32 | $171.13 | $170.86
56501 | T |  | Destroy, vulva lesions, sim | 0017 | 16.7332 | $908.43 | $227.84 | $181.69
56515 | T |  | Destroy vulva lesion/s compl | 0695 | 19.1377 | $1,038.97 | $266.59 | $207.79
56605 | T |  | Biopsy of vulva/perineum | 0019 | 3.9807 | $216.11 | $71.87 | $43.22
56606 | T |  | Biopsy of vulva/perineum | 0019 | 3.9807 | $216.11 | $71.87 | $43.22
56620 | T |  | Partial removal of vulva | 0195 | 25.3207 | $1,374.64 | $483.80 | $274.93
56625 | T |  | Complete removal of vulva | 0195 | 25.3207 | $1,374.64 | $483.80 | $274.93
56630 | C |  | Extensive vulva surgery |  |  |  |  |
56631 | C |  | Extensive vulva surgery |  |  |  |  |
56632 | C |  | Extensive vulva surgery |  |  |  |  |
56633 | C |  | Extensive vulva surgery |  |  |  |  |
56634 | C |  | Extensive vulva surgery |  |  |  |  |
56637 | C |  | Extensive vulva surgery |  |  |  |  |
56640 | C |  | Extensive vulva surgery |  |  |  |  |
56700 | T |  | Partial removal of hymen | 0194 | 18.8194 | $1,021.69 | $397.84 | $204.34
56720 | T |  | Incision of hymen | 0193 | 15.7365 | $854.32 | $171.13 | $170.86
56740 | T |  | Remove vagina gland lesion | 0194 | 18.8194 | $1,021.69 | $397.84 | $204.34
56800 | T |  | Repair of vagina | 0194 | 18.8194 | $1,021.69 | $397.84 | $204.34
56805 | T |  | Repair clitoris | 0194 | 18.8194 | $1,021.69 | $397.84 | $204.34
56810 | T |  | Repair of perineum | 0194 | 18.8194 | $1,021.69 | $397.84 | $204.34
56820 | T |  | Exam of vulva w/scope | 0188 | 1.1079 | $60.15 |  | $12.03
56821 | T |  | Exam/biopsy of vulva w/scope | 0189 | 1.3207 | $71.70 | $16.70 | $14.34
57000 | T |  | Exploration of vagina | 0194 | 18.8194 | $1,021.69 | $397.84 | $204.34
57010 | T |  | Drainage of pelvic abscess | 0194 | 18.8194 | $1,021.69 | $397.84 | $204.34
57020 | T |  | Drainage of pelvic fluid | 0192 | 2.6966 | $146.40 | $39.11 | $29.28
57022 | T |  | I & d vaginal hematoma, pp | 0007 | 11.4943 | $624.01 |  | $124.80
57023 | T |  | I & d vag hematoma, non-ob | 0007 | 11.4943 | $624.01 |  | $124.80
57061 | T |  | Destroy vag lesions, simple | 0194 | 18.8194 | $1,021.69 | $397.84 | $204.34
57065 | T |  | Destroy vag lesions, complex | 0194 | 18.8194 | $1,021.69 | $397.84 | $204.34
57100 | T |  | Biopsy of vagina | 0192 | 2.6966 | $146.40 | $39.11 | $29.28
57105 | T |  | Biopsy of vagina | 0194 | 18.8194 | $1,021.69 | $397.84 | $204.34
57106 | T |  | Remove vagina wall, partial | 0194 | 18.8194 | $1,021.69 | $397.84 | $204.34
57107 | T |  | Remove vagina tissue, part | 0195 | 25.3207 | $1,374.64 | $483.80 | $274.93
57109 | T |  | Vaginectomy partial w/nodes | 0195 | 25.3207 | $1,374.64 | $483.80 | $274.93
57110 | C |  | Remove vagina wall, complete |  |  |  |  |
57111 | C |  | Remove vagina tissue, compl |  |  |  |  |
57112 | C |  | Vaginectomy w/nodes, compl |  |  |  |  |
57120 | T |  | Closure of vagina | 0194 | 18.8194 | $1,021.69 | $397.84 | $204.34
57130 | T |  | Remove vagina lesion | 0194 | 18.8194 | $1,021.69 | $397.84 | $204.34
57135 | T |  | Remove vagina lesion | 0194 | 18.8194 | $1,021.69 | $397.84 | $204.34
57150 | T |  | Treat vagina infection | 0191 | 0.1679 | $9.12 | $2.65 | $1.82
57155 | T |  | Insert uteri tandems/ovoids | 0193 | 15.7365 | $854.32 | $171.13 | $170.86
57160 | T |  | Insert pessary/other device | 0188 | 1.1079 | $60.15 |  | $12.03
57170 | T |  | Fitting of diaphragm/cap | 0191 | 0.1679 | $9.12 | $2.65 | $1.82
57180 | T |  | Treat vaginal bleeding | 0192 | 2.6966 | $146.40 | $39.11 | $29.28
57200 | T |  | Repair of vagina | 0194 | 18.8194 | $1,021.69 | $397.84 | $204.34
57210 | T |  | Repair vagina/perineum | 0194 | 18.8194 | $1,021.69 | $397.84 | $204.34
57220 | T |  | Revision of urethra | 0195 | 25.3207 | $1,374.64 | $483.80 | $274.93
57230 | T |  | Repair of urethral lesion | 0194 | 18.8194 | $1,021.69 | $397.84 | $204.34
57240 | T |  | Repair bladder & vagina | 0195 | 25.3207 | $1,374.64 | $483.80 | $274.93
57250 | T |  | Repair rectum & vagina | 0195 | 25.3207 | $1,374.64 | $483.80 | $274.93
57260 | T |  | Repair of vagina | 0195 | 25.3207 | $1,374.64 | $483.80 | $274.93
57265 | T |  | Extensive repair of vagina | 0195 | 25.3207 | $1,374.64 | $483.80 | $274.93
57268 | T |  | Repair of bowel bulge | 0195 | 25.3207 | $1,374.64 | $483.80 | $274.93
57270 | C |  | Repair of bowel pouch |  |  |  |  |
57280 | C |  | Suspension of vagina |  |  |  |  |
57282 | C |  | Repair of vaginal prolapse |  |  |  |  |
57284 | T |  | Repair paravaginal defect | 0195 | 25.3207 | $1,374.64 | $483.80 | $274.93
57287 | T |  | Revise/remove sling repair | 0202 | 38.8053 | $2,106.70 | $1,032.28 | $421.34
57288 | T |  | Repair bladder defect | 0202 | 38.8053 | $2,106.70 | $1,032.28 | $421.34
57289 | T |  | Repair bladder & vagina | 0195 | 25.3207 | $1,374.64 | $483.80 | $274.93
57291 | T |  | Construction of vagina | 0195 | 25.3207 | $1,374.64 | $483.80 | $274.93
57292 | C |  | Construct vagina with graft |  |  |  |  |
57300 | T |  | Repair rectum-vagina fistula | 0195 | 25.3207 | $1,374.64 | $483.80 | $274.93
57305 | C |  | Repair rectum-vagina fistula |  |  |  |  |
57307 | C |  | Fistula repair & colostomy |  |  |  |  |
57308 | C |  | Fistula repair, transperine |  |  |  |  |
57310 | T |  | Repair urethrovaginal lesion | 0195 | 25.3207 | $1,374.64 | $483.80 | $274.93
57311 | C |  | Repair urethrovaginal lesion |  |  |  |  |
57320 | T |  | Repair bladder-vagina lesion | 0195 | 25.3207 | $1,374.64 | $483.80 | $274.93
57330 | T |  | Repair bladder-vagina lesion | 0195 | 25.3207 | $1,374.64 | $483.80 | $274.93
57335 | C |  | Repair vagina |  |  |  |  |
57400 | T |  | Dilation of vagina | 0194 | 18.8194 | $1,021.69 | $397.84 | $204.34
57410 | T |  | Pelvic examination | 0194 | 18.8194 | $1,021.69 | $397.84 | $204.34
57415 | T |  | Remove vaginal foreign body | 0194 | 18.8194 | $1,021.69 | $397.84 | $204.34
57420 | T |  | Exam of vagina w/scope | 0192 | 2.6966 | $146.40 | $39.11 | $29.28
57421 | T |  | Exam/biopsy of vag w/scope | 0192 | 2.6966 | $146.40 | $39.11 | $29.28
57452 | T |  | Examination of vagina | 0189 | 1.3207 | $71.70 | $16.70 | $14.34
57454 | T |  | Vagina examination & biopsy | 0192 | 2.6966 | $146.40 | $39.11 | $29.28
57455 | T |  | Biopsy of cervix w/scope | 0192 | 2.6966 | $146.40 | $39.11 | $29.28
57456 | T |  | Endocerv curettage w/scope | 0192 | 2.6966 | $146.40 | $39.11 | $29.28
57460 | T |  | Cervix excision | 0193 | 15.7365 | $854.32 | $171.13 | $170.86
57461 | T |  | Conz of cervix w/scope, leep | 0194 | 18.8194 | $1,021.69 | $397.84 | $204.34
57500 | T |  | Biopsy of cervix | 0192 | 2.6966 | $146.40 | $39.11 | $29.28
57505 | T |  | Endocervical curettage | 0192 | 2.6966 | $146.40 | $39.11 | $29.28
57510 | T |  | Cauterization of cervix | 0193 | 15.7365 | $854.32 | $171.13 | $170.86
57511 | T |  | Cryocautery of cervix | 0189 | 1.3207 | $71.70 | $16.70 | $14.34
57513 | T |  | Laser surgery of cervix | 0193 | 15.7365 | $854.32 | $171.13 | $170.86
57520 | T |  | Conization of cervix | 0194 | 18.8194 | $1,021.69 | $397.84 | $204.34
57522 | T |  | Conization of cervix | 0195 | 25.3207 | $1,374.64 | $483.80 | $274.93
57530 | T |  | Removal of cervix | 0195 | 25.3207 | $1,374.64 | $483.80 | $274.93
57531 | C |  | Removal of cervix, radical |  |  |  |  |
57540 | C |  | Removal of residual cervix |  |  |  |  |
57545 | C |  | Remove cervix/repair pelvis |  |  |  |  |
57550 | T |  | Removal of residual cervix | 0195 | 25.3207 | $1,374.64 | $483.80 | $274.93
57555 | T |  | Remove cervix/repair vagina | 0195 | 25.3207 | $1,374.64 | $483.80 | $274.93
57556 | T |  | Remove cervix, repair bowel | 0195 | 25.3207 | $1,374.64 | $483.80 | $274.93
57700 | T |  | Revision of cervix | 0194 | 18.8194 | $1,021.69 | $397.84 | $204.34
57720 | T |  | Revision of cervix | 0194 | 18.8194 | $1,021.69 | $397.84 | $204.34
57800 | T |  | Dilation of cervical canal | 0193 | 15.7365 | $854.32 | $171.13 | $170.86
57820 | T |  | D & c of residual cervix | 0196 | 16.1823 | $878.52 | $338.23 | $175.70
58100 | T |  | Biopsy of uterus lining | 0188 | 1.1079 | $60.15 |  | $12.03
58120 | T |  | Dilation and curettage | 0196 | 16.1823 | $878.52 | $338.23 | $175.70
58140 | C |  | Removal of uterus lesion |  |  |  |  |
58145 | T |  | Myomectomy vag method | 0195 | 25.3207 | $1,374.64 | $483.80 | $274.93
58146 | C |  | Myomectomy abdom complex |  |  |  |  |
58150 | C |  | Total hysterectomy |  |  |  |  |
58152 | C |  | Total hysterectomy |  |  |  |  |
58180 | C |  | Partial hysterectomy |  |  |  |  |
58200 | C |  | Extensive hysterectomy |  |  |  |  |
58210 | C |  | Extensive hysterectomy |  |  |  |  |
58240 | C |  | Removal of pelvis contents |  |  |  |  |
58260 | C |  | Vaginal hysterectomy |  |  |  |  |
58262 | C |  | Vag hyst including t/o |  |  |  |  |
58263 | C |  | Vag hyst w/t/o & vag repair |  |  |  |  |
58267 | C |  | Vag hyst w/urinary repair |  |  |  |  |
58270 | C |  | Vag hyst w/enterocele repair |  |  |  |  |
58275 | C |  | Hysterectomy/revise vagina |  |  |  |  |
58280 | C |  | Hysterectomy/revise vagina |  |  |  |  |
58285 | C |  | Extensive hysterectomy |  |  |  |  |
58290 | C |  | Vag hyst complex |  |  |  |  |
58291 | C |  | Vag hyst incl t/o, complex |  |  |  |  |
58292 | C |  | Vag hyst t/o & repair, compl |  |  |  |  |
58293 | C |  | Vag hyst w/uro repair, compl |  |  |  |  |
58294 | C |  | Vag hyst w/enterocele, compl |  |  |  |  |
58300 | E |  | Insert intrauterine device |  |  |  |  |
58301 | T |  | Remove intrauterine device | 0189 | 1.3207 | $71.70 | $16.70 | $14.34
58321 | T |  | Artificial insemination | 0197 | 5.1958 | $282.07 |  | $56.41
58322 | T |  | Artificial insemination | 0197 | 5.1958 | $282.07 |  | $56.41
58323 | T |  | Sperm washing | 0197 | 5.1958 | $282.07 |  | $56.41
58340 | N |  | Catheter for hysterography |  |  |  |  |
58345 | T |  | Reopen fallopian tube | 0194 | 18.8194 | $1,021.69 | $397.84 | $204.34
58346 | T |  | Insert heyman uteri capsule | 0193 | 15.7365 | $854.32 | $171.13 | $170.86
58350 | T |  | Reopen fallopian tube | 0194 | 18.8194 | $1,021.69 | $397.84 | $204.34
58353 | T |  | Endometr ablate, thermal | 0195 | 25.3207 | $1,374.64 | $483.80 | $274.93
58400 | C |  | Suspension of uterus |  |  |  |  |
58410 | C |  | Suspension of uterus |  |  |  |  |
58520 | C |  | Repair of ruptured uterus |  |  |  |  |
58540 | C |  | Revision of uterus |  |  |  |  |
58545 | T |  | Laparoscopic myomectomy | 0130 | 32.5959 | $1,769.60 | $659.53 | $353.92
58546 | T |  | Laparo-myomectomy, complex | 0131 | 40.8955 | $2,220.18 | $1,001.89 | $444.04
58550 | T |  | Laparo-asst vag hysterectomy | 0132 | 56.6318 | $3,074.48 | $1,239.22 | $614.90
58552 | T |  | Laparo-vag hyst incl t/o | 0131 | 40.8955 | $2,220.18 | $1,001.89 | $444.04
58553 | T |  | Laparo-vag hyst, complex | 0131 | 40.8955 | $2,220.18 | $1,001.89 | $444.04
58554 | T |  | Laparo-vag hyst w/t/o, compl | 0131 | 40.8955 | $2,220.18 | $1,001.89 | $444.04
58555 | T |  | Hysteroscopy, dx, sep proc | 0190 | 19.8088 | $1,075.40 | $424.28 | $215.08
58558 | T |  | Hysteroscopy, biopsy | 0190 | 19.8088 | $1,075.40 | $424.28 | $215.08
58559 | T |  | Hysteroscopy, lysis | 0190 | 19.8088 | $1,075.40 | $424.28 | $215.08
58560 | T |  | Hysteroscopy, resect septum | 0387 | 28.5174 | $1,548.18 | $660.84 | $309.64
58561 | T |  | Hysteroscopy, remove myoma | 0387 | 28.5174 | $1,548.18 | $660.84 | $309.64
58562 | T |  | Hysteroscopy, remove fb | 0190 | 19.8088 | $1,075.40 | $424.28 | $215.08
58563 | T |  | Hysteroscopy, ablation | 0387 | 28.5174 | $1,548.18 | $660.84 | $309.64
58578 | T |  | Laparo proc, uterus | 0130 | 32.5959 | $1,769.60 | $659.53 | $353.92
58579 | T |  | Hysteroscope procedure | 0190 | 19.8088 | $1,075.40 | $424.28 | $215.08
58600 | T |  | Division of fallopian tube | 0194 | 18.8194 | $1,021.69 | $397.84 | $204.34
58605 | C |  | Division of fallopian tube |  |  |  |  |
58611 | C |  | Ligate oviduct(s) add-on |  |  |  |  |
58615 | T |  | Occlude fallopian tube(s) | 0194 | 18.8194 | $1,021.69 | $397.84 | $204.34
58660 | T |  | Laparoscopy, lysis | 0131 | 40.8955 | $2,220.18 | $1,001.89 | $444.04
58661 | T |  | Laparoscopy, remove adnexa | 0131 | 40.8955 | $2,220.18 | $1,001.89 | $444.04
58662 | T |  | Laparoscopy, excise lesions | 0131 | 40.8955 | $2,220.18 | $1,001.89 | $444.04
58670 | T |  | Laparoscopy, tubal cautery | 0131 | 40.8955 | $2,220.18 | $1,001.89 | $444.04
58671 | T |  | Laparoscopy, tubal block | 0131 | 40.8955 | $2,220.18 | $1,001.89 | $444.04
58672 | T |  | Laparoscopy, fimbrioplasty | 0131 | 40.8955 | $2,220.18 | $1,001.89 | $444.04
58673 | T |  | Laparoscopy, salpingostomy | 0131 | 40.8955 | $2,220.18 | $1,001.89 | $444.04
58679 | T |  | Laparo proc, oviduct-ovary | 0130 | 32.5959 | $1,769.60 | $659.53 | $353.92
58700 | C |  | Removal of fallopian tube |  |  |  |  |
58720 | C |  | Removal of ovary/tube(s) |  |  |  |  |
58740 | C |  | Revise fallopian tube(s) |  |  |  |  |
58750 | C |  | Repair oviduct |  |  |  |  |
58752 | C |  | Revise ovarian tube(s) |  |  |  |  |
58760 | C |  | Remove tubal obstruction |  |  |  |  |
58770 | C |  | Create new tubal opening |  |  |  |  |
58800 | T |  | Drainage of ovarian cyst(s) | 0195 | 25.3207 | $1,374.64 | $483.80 | $274.93
58805 | C |  | Drainage of ovarian cyst(s) |  |  |  |  |
58820 | T |  | Drain ovary abscess, open | 0195 | 25.3207 | $1,374.64 | $483.80 | $274.93
58822 | C |  | Drain ovary abscess, percut |  |  |  |  |
58823 | T |  | Drain pelvic abscess, percut | 0193 | 15.7365 | $854.32 | $171.13 | $170.86
58825 | C |  | Transposition, ovary(s) |  |  |  |  |
58900 | T |  | Biopsy of ovary(s) | 0195 | 25.3207 | $1,374.64 | $483.80 | $274.93
58920 | T |  | Partial removal of ovary(s) | 0195 | 25.3207 | $1,374.64 | $483.80 | $274.93
58925 | T |  | Removal of ovarian cyst(s) | 0195 | 25.3207 | $1,374.64 | $483.80 | $274.93
58940 | C |  | Removal of ovary(s) |  |  |  |  |
58943 | C |  | Removal of ovary(s) |  |  |  |  |
58950 | C |  | Resect ovarian malignancy |  |  |  |  |
58951 | C |  | Resect ovarian malignancy |  |  |  |  |
58952 | C |  | Resect ovarian malignancy |  |  |  |  |
58953 | C |  | Tah, rad dissect for debulk |  |  |  |  |
58954 | C |  | Tah rad debulk/lymph remove |  |  |  |  |
58960 | C |  | Exploration of abdomen |  |  |  |  |
58970 | T |  | Retrieval of oocyte | 0194 | 18.8194 | $1,021.69 | $397.84 | $204.34
58974 | T |  | Transfer of embryo | 0197 | 5.1958 | $282.07 |  | $56.41
58976 | T |  | Transfer of embryo | 0197 | 5.1958 | $282.07 |  | $56.41
58999 | T |  | Genital surgery procedure | 0191 | 0.1679 | $9.12 | $2.65 | $1.82
59000 | T |  | Amniocentesis, diagnostic | 0198 | 1.3718 | $74.47 | $32.19 | $14.89
59001 | T |  | Amniocentesis, therapeutic | 0198 | 1.3718 | $74.47 | $32.19 | $14.89
59012 | T |  | Fetal cord puncture,prenatal | 0198 | 1.3718 | $74.47 | $32.19 | $14.89
59015 | T |  | Chorion biopsy | 0198 | 1.3718 | $74.47 | $32.19 | $14.89
59020 | T |  | Fetal contract stress test | 0198 | 1.3718 | $74.47 | $32.19 | $14.89
59025 | T |  | Fetal non-stress test | 0198 | 1.3718 | $74.47 | $32.19 | $14.89
59030 | T |  | Fetal scalp blood sample | 0198 | 1.3718 | $74.47 | $32.19 | $14.89
59050 | E |  | Fetal monitor w/report |  |  |  |  |
59051 | E |  | Fetal monitor/interpret only |  |  |  |  |
59100 | C |  | Remove uterus lesion |  |  |  |  |
59120 | C |  | Treat ectopic pregnancy |  |  |  |  |
59121 | C |  | Treat ectopic pregnancy |  |  |  |  |
59130 | C |  | Treat ectopic pregnancy |  |  |  |  |
59135 | C |  | Treat ectopic pregnancy |  |  |  |  |
59136 | C |  | Treat ectopic pregnancy |  |  |  |  |
59140 | C |  | Treat ectopic pregnancy |  |  |  |  |
59150 | T |  | Treat ectopic pregnancy | 0131 | 40.8955 | $2,220.18 | $1,001.89 | $444.04
59151 | T |  | Treat ectopic pregnancy | 0131 | 40.8955 | $2,220.18 | $1,001.89 | $444.04
59160 | T |  | D & c after delivery | 0196 | 16.1823 | $878.52 | $338.23 | $175.70
59200 | T |  | Insert cervical dilator | 0189 | 1.3207 | $71.70 | $16.70 | $14.34
59300 | T |  | Episiotomy or vaginal repair | 0193 | 15.7365 | $854.32 | $171.13 | $170.86
59320 | T |  | Revision of cervix | 0194 | 18.8194 | $1,021.69 | $397.84 | $204.34
59325 | C |  | Revision of cervix |  |  |  |  |
59350 | C |  | Repair of uterus |  |  |  |  |
59400 | E |  | Obstetrical care |  |  |  |  |
59409 | T |  | Obstetrical care | 0199 | 16.8630 | $915.48 |  | $183.10
59410 | E |  | Obstetrical care |  |  |  |  |
59412 | T |  | Antepartum manipulation | 0700 | 2.4359 | $132.24 | $37.03 | $26.45
59414 | T |  | Deliver placenta | 0199 | 16.8630 | $915.48 |  | $183.10
59425 | E |  | Antepartum care only |  |  |  |  |
59426 | E |  | Antepartum care only |  |  |  |  |
59430 | E |  | Care after delivery |  |  |  |  |
59510 | E |  | Cesarean delivery |  |  |  |  |
59514 | C |  | Cesarean delivery only |  |  |  |  |
59515 | E |  | Cesarean delivery |  |  |  |  |
59525 | C |  | Remove uterus after cesarean |  |  |  |  |
59610 | E |  | Vbac delivery |  |  |  |  |
59612 | T |  | Vbac delivery only | 0199 | 16.8630 | $915.48 |  | $183.10
59614 | E |  | Vbac care after delivery |  |  |  |  |
59618 | E |  | Attempted vbac delivery |  |  |  |  |
59620 | C |  | Attempted vbac delivery only |  |  |  |  |
59622 | E |  | Attempted vbac after care |  |  |  |  |
59812 | T |  | Treatment of miscarriage | 0201 | 17.2803 | $938.13 | $329.65 | $187.63
59820 | T |  | Care of miscarriage | 0201 | 17.2803 | $938.13 | $329.65 | $187.63
59821 | T |  | Treatment of miscarriage | 0201 | 17.2803 | $938.13 | $329.65 | $187.63
59830 | C |  | Treat uterus infection |  |  |  |  |
59840 | T |  | Abortion | 0200 | 18.3633 | $996.93 | $307.83 | $199.39
59841 | T |  | Abortion | 0200 | 18.3633 | $996.93 | $307.83 | $199.39
59850 | C |  | Abortion |  |  |  |  |
59851 | C |  | Abortion |  |  |  |  |
59852 | C |  | Abortion |  |  |  |  |
59855 | C |  | Abortion |  |  |  |  |
59856 | C |  | Abortion |  |  |  |  |
59857 | C |  | Abortion |  |  |  |  |
59866 | T |  | Abortion (mpr) | 0198 | 1.3718 | $74.47 | $32.19 | $14.89
59870 | T |  | Evacuate mole of uterus | 0201 | 17.2803 | $938.13 | $329.65 | $187.63
59871 | T |  | Remove cerclage suture | 0194 | 18.8194 | $1,021.69 | $397.84 | $204.34
59898 | T |  | Laparo proc, ob care/deliver | 0130 | 32.5959 | $1,769.60 | $659.53 | $353.92
59899 | T |  | Maternity care procedure | 0198 | 1.3718 | $74.47 | $32.19 | $14.89
60000 | T |  | Drain thyroid/tongue cyst | 0252 | 6.5416 | $355.14 | $113.41 | $71.03
60001 | T |  | Aspirate/inject thyriod cyst | 0004 | 1.5774 | $85.64 | $22.10 | $17.13
60100 | T |  | Biopsy of thyroid | 0004 | 1.5774 | $85.64 | $22.10 | $17.13
60200 | T |  | Remove thyroid lesion | 0114 | 37.3583 | $2,028.14 | $485.91 | $405.63
60210 | T |  | Partial thyroid excision | 0114 | 37.3583 | $2,028.14 | $485.91 | $405.63
60212 | T |  | Partial thyroid excision | 0114 | 37.3583 | $2,028.14 | $485.91 | $405.63
60220 | T |  | Partial removal of thyroid | 0114 | 37.3583 | $2,028.14 | $485.91 | $405.63
60225 | T |  | Partial removal of thyroid | 0114 | 37.3583 | $2,028.14 | $485.91 | $405.63
60240 | T |  | Removal of thyroid | 0114 | 37.3583 | $2,028.14 | $485.91 | $405.63
60252 | T |  | Removal of thyroid | 0256 | 35.0866 | $1,904.82 |  | $380.96
60254 | C |  | Extensive thyroid surgery |  |  |  |  |
60260 | T |  | Repeat thyroid surgery | 0256 | 35.0866 | $1,904.82 |  | $380.96
60270 | C |  | Removal of thyroid |  |  |  |  |
60271 | C |  | Removal of thyroid |  |  |  |  |
60280 | T |  | Remove thyroid duct lesion | 0114 | 37.3583 | $2,028.14 | $485.91 | $405.63
60281 | T |  | Remove thyroid duct lesion | 0114 | 37.3583 | $2,028.14 | $485.91 | $405.63
60500 | T |  | Explore parathyroid glands | 0256 | 35.0866 | $1,904.82 |  | $380.96
60502 | C |  | Re-explore parathyroids |  |  |  |  |
60505 | C |  | Explore parathyroid glands |  |  |  |  |
60512 | T |  | Autotransplant parathyroid | 0022 | 18.6725 | $1,013.71 | $354.45 | $202.74
60520 | C |  | Removal of thymus gland |  |  |  |  |
60521 | C |  | Removal of thymus gland |  |  |  |  |
60522 | C |  | Removal of thymus gland |  |  |  |  |
60540 | C |  | Explore adrenal gland |  |  |  |  |
60545 | C |  | Explore adrenal gland |  |  |  |  |
60600 | C |  | Remove carotid body lesion |  |  |  |  |
60605 | C |  | Remove carotid body lesion |  |  |  |  |
60650 | C |  | Laparoscopy adrenalectomy |  |  |  |  |
60659 | T |  | Laparo proc, endocrine | 0130 | 32.5959 | $1,769.60 | $659.53 | $353.92
60699 | T |  | Endocrine surgery procedure | 0114 | 37.3583 | $2,028.14 | $485.91 | $405.63
61000 | T |  | Remove cranial cavity fluid | 0212 | 2.9989 | $162.81 | $74.92 | $32.56
61001 | T |  | Remove cranial cavity fluid | 0212 | 2.9989 | $162.81 | $74.92 | $32.56
61020 | T |  | Remove brain cavity fluid | 0212 | 2.9989 | $162.81 | $74.92 | $32.56
61026 | T |  | Injection into brain canal | 0212 | 2.9989 | $162.81 | $74.92 | $32.56
61050 | T |  | Remove brain canal fluid | 0212 | 2.9989 | $162.81 | $74.92 | $32.56
61055 | T |  | Injection into brain canal | 0212 | 2.9989 | $162.81 | $74.92 | $32.56
61070 | T |  | Brain canal shunt procedure | 0212 | 2.9989 | $162.81 | $74.92 | $32.56
61105 | C |  | Twist drill hole |  |  |  |  |
61107 | C |  | Drill skull for implantation |  |  |  |  |
61108 | C |  | Drill skull for drainage |  |  |  |  |
61120 | C |  | Burr hole for puncture |  |  |  |  |
61140 | C |  | Pierce skull for biopsy |  |  |  |  |
61150 | C |  | Pierce skull for drainage |  |  |  |  |
61151 | C |  | Pierce skull for drainage |  |  |  |  |
61154 | C |  | Pierce skull & remove clot |  |  |  |  |
61156 | C |  | Pierce skull for drainage |  |  |  |  |
61210 | C |  | Pierce skull, implant device |  |  |  |  |
61215 | T |  | Insert brain-fluid device | 0224 | 34.0161 | $1,846.70 | $453.41 | $369.34
61250 | C |  | Pierce skull & explore |  |  |  |  |
61253 | C |  | Pierce skull & explore |  |  |  |  |
61304 | C |  | Open skull for exploration |  |  |  |  |
61305 | C |  | Open skull for exploration |  |  |  |  |
61312 | C |  | Open skull for drainage |  |  |  |  |
61313 | C |  | Open skull for drainage |  |  |  |  |
61314 | C |  | Open skull for drainage |  |  |  |  |
61315 | C |  | Open skull for drainage |  |  |  |  |
61316 | N |  | Implt cran bone flap to abdo |  |  |  |  |
61320 | C |  | Open skull for drainage |  |  |  |  |
61321 | C |  | Open skull for drainage |  |  |  |  |
61322 | C |  | Decompressive craniotomy |  |  |  |  |
61323 | C |  | Decompressive lobectomy |  |  |  |  |
61330 | T |  | Decompress eye socket | 0256 | 35.0866 | $1,904.82 |  | $380.96
61332 | C |  | Explore/biopsy eye socket |  |  |  |  |
61333 | C |  | Explore orbit/remove lesion |  |  |  |  |
61334 | C |  | Explore orbit/remove object |  |  |  |  |
61340 | C |  | Relieve cranial pressure |  |  |  |  |
61343 | C |  | Incise skull (press relief) |  |  |  |  |
61345 | C |  | Relieve cranial pressure |  |  |  |  |
61440 | C |  | Incise skull for surgery |  |  |  |  |
61450 | C |  | Incise skull for surgery |  |  |  |  |
61458 | C |  | Incise skull for brain wound |  |  |  |  |
61460 | C |  | Incise skull for surgery |  |  |  |  |
61470 | C |  | Incise skull for surgery |  |  |  |  |
61480 | C |  | Incise skull for surgery |  |  |  |  |
61490 | C |  | Incise skull for surgery |  |  |  |  |
61500 | C |  | Removal of skull lesion |  |  |  |  |
61501 | C |  | Remove infected skull bone |  |  |  |  |
61510 | C |  | Removal of brain lesion |  |  |  |  |
61512 | C |  | Remove brain lining lesion |  |  |  |  |
61514 | C |  | Removal of brain abscess |  |  |  |  |
61516 | C |  | Removal of brain lesion |  |  |  |  |
61517 | N |  | Implt brain chemotx add-on |  |  |  |  |
61518 | C |  | Removal of brain lesion |  |  |  |  |
61519 | C |  | Remove brain lining lesion |  |  |  |  |
61520 | C |  | Removal of brain lesion |  |  |  |  |
61521 | C |  | Removal of brain lesion |  |  |  |  |
61522 | C |  | Removal of brain abscess |  |  |  |  |
61524 | C |  | Removal of brain lesion |  |  |  |  |
61526 | C |  | Removal of brain lesion |  |  |  |  |
61530 | C |  | Removal of brain lesion |  |  |  |  |
61531 | C |  | Implant brain electrodes |  |  |  |  |
61533 | C |  | Implant brain electrodes |  |  |  |  |
61534 | C |  | Removal of brain lesion |  |  |  |  |
61535 | C |  | Remove brain electrodes |  |  |  |  |
61536 | C |  | Removal of brain lesion |  |  |  |  |
61538 | C |  | Removal of brain tissue |  |  |  |  |
61539 | C |  | Removal of brain tissue |  |  |  |  |
61541 | C |  | Incision of brain tissue |  |  |  |  |
61542 | C |  | Removal of brain tissue |  |  |  |  |
61543 | C |  | Removal of brain tissue |  |  |  |  |
61544 | C |  | Remove & treat brain lesion |  |  |  |  |
61545 | C |  | Excision of brain tumor |  |  |  |  |
61546 | C |  | Removal of pituitary gland |  |  |  |  |
61548 | C |  | Removal of pituitary gland |  |  |  |  |
61550 | C |  | Release of skull seams |  |  |  |  |
61552 | C |  | Release of skull seams |  |  |  |  |
61556 | C |  | Incise skull/sutures |  |  |  |  |
61557 | C |  | Incise skull/sutures |  |  |  |  |
61558 | C |  | Excision of skull/sutures |  |  |  |  |
61559 | C |  | Excision of skull/sutures |  |  |  |  |
61563 | C |  | Excision of skull tumor |  |  |  |  |
61564 | C |  | Excision of skull tumor |  |  |  |  |
61570 | C |  | Remove foreign body, brain |  |  |  |  |
61571 | C |  | Incise skull for brain wound |  |  |  |  |
61575 | C |  | Skull base/brainstem surgery |  |  |  |  |
61576 | C |  | Skull base/brainstem surgery |  |  |  |  |
61580 | C |  | Craniofacial approach, skull |  |  |  |  |
61581 | C |  | Craniofacial approach, skull |  |  |  |  |
61582 | C |  | Craniofacial approach, skull |  |  |  |  |
61583 | C |  | Craniofacial approach, skull |  |  |  |  |
61584 | C |  | Orbitocranial approach/skull |  |  |  |  |
61585 | C |  | Orbitocranial approach/skull |  |  |  |  |
61586 | C |  | Resect nasopharynx, skull |  |  |  |  |
61590 | C |  | Infratemporal approach/skull |  |  |  |  |
61591 | C |  | Infratemporal approach/skull |  |  |  |  |
61592 | C |  | Orbitocranial approach/skull |  |  |  |  |
61595 | C |  | Transtemporal approach/skull |  |  |  |  |
61596 | C |  | Transcochlear approach/skull |  |  |  |  |
61597 | C |  | Transcondylar approach/skull |  |  |  |  |
61598 | C |  | Transpetrosal approach/skull |  |  |  |  |
61600 | C |  | Resect/excise cranial lesion |  |  |  |  |
61601 | C |  | Resect/excise cranial lesion |  |  |  |  |
61605 | C |  | Resect/excise cranial lesion |  |  |  |  |
61606 | C |  | Resect/excise cranial lesion |  |  |  |  |
61607 | C |  | Resect/excise cranial lesion |  |  |  |  |
61608 | C |  | Resect/excise cranial lesion |  |  |  |  |
61609 | C |  | Transect artery, sinus |  |  |  |  |
61610 | C |  | Transect artery, sinus |  |  |  |  |
61611 | C |  | Transect artery, sinus |  |  |  |  |
61612 | C |  | Transect artery, sinus |  |  |  |  |
61613 | C |  | Remove aneurysm, sinus |  |  |  |  |
61615 | C |  | Resect/excise lesion, skull |  |  |  |  |
61616 | C |  | Resect/excise lesion, skull |  |  |  |  |
61618 | C |  | Repair dura |  |  |  |  |
61619 | C |  | Repair dura |  |  |  |  |
61623 | T |  | Endovasc tempory vessel occl | 1555 |  | $1,650.00 |  | $330.00
61624 | C |  | Occlusion/embolization cath |  |  |  |  |
61626 | T |  | Transcath occlusion, non-cns | 0081 | 34.8355 | $1,891.18 |  | $378.24
61680 | C |  | Intracranial vessel surgery |  |  |  |  |
61682 | C |  | Intracranial vessel surgery |  |  |  |  |
61684 | C |  | Intracranial vessel surgery |  |  |  |  |
61686 | C |  | Intracranial vessel surgery |  |  |  |  |
61690 | C |  | Intracranial vessel surgery |  |  |  |  |
61692 | C |  | Intracranial vessel surgery |  |  |  |  |
61697 | C |  | Brain aneurysm repr, complx |  |  |  |  |
61698 | C |  | Brain aneurysm repr, complx |  |  |  |  |
61700 | C |  | Brain aneurysm repr, simple |  |  |  |  |
61702 | C |  | Inner skull vessel surgery |  |  |  |  |
61703 | C |  | Clamp neck artery |  |  |  |  |
61705 | C |  | Revise circulation to head |  |  |  |  |
61708 | C |  | Revise circulation to head |  |  |  |  |
61710 | C |  | Revise circulation to head |  |  |  |  |
61711 | C |  | Fusion of skull arteries |  |  |  |  |
61720 | C |  | Incise skull/brain surgery |  |  |  |  |
61735 | C |  | Incise skull/brain surgery |  |  |  |  |
61750 | C |  | Incise skull/brain biopsy |  |  |  |  |
61751 | C |  | Brain biopsy w/ ct/mr guide |  |  |  |  |
61760 | C |  | Implant brain electrodes |  |  |  |  |
61770 | C |  | Incise skull for treatment |  |  |  |  |
61790 | T |  | Treat trigeminal nerve | 0220 | 16.5293 | $897.36 |  | $179.47
61791 | T |  | Treat trigeminal tract | 0204 | 2.2209 | $120.57 | $40.13 | $24.11
61793 | E |  | Focus radiation beam |  |  |  |  |
61795 | S |  | Brain surgery using computer | 0302 | 6.1992 | $336.55 | $127.49 | $67.31
61850 | C |  | Implant neuroelectrodes |  |  |  |  |
61860 | C |  | Implant neuroelectrodes |  |  |  |  |
61862 | C |  | Implant neurostimul, subcort |  |  |  |  |
61870 | C |  | Implant neuroelectrodes |  |  |  |  |
61875 | C |  | Implant neuroelectrodes |  |  |  |  |
61880 | T |  | Revise/remove neuroelectrode | 0687 | 19.9913 | $1,085.31 | $499.24 | $217.06
61885 | T |  | Implant neurostim one array | 0222 | 188.7735 | $10,248.32 |  | $2,049.66
61886 | T |  | Implant neurostim arrays | 0222 | 188.7735 | $10,248.32 |  | $2,049.66
61888 | T |  | Revise/remove neuroreceiver | 0688 | 42.5880 | $2,312.06 | $1,132.91 | $462.41
62000 | C |  | Treat skull fracture |  |  |  |  |
62005 | C |  | Treat skull fracture |  |  |  |  |
62010 | C |  | Treatment of head injury |  |  |  |  |
62100 | C |  | Repair brain fluid leakage |  |  |  |  |
62115 | C |  | Reduction of skull defect |  |  |  |  |
62116 | C |  | Reduction of skull defect |  |  |  |  |
62117 | C |  | Reduction of skull defect |  |  |  |  |
62120 | C |  | Repair skull cavity lesion |  |  |  |  |
62121 | C |  | Incise skull repair |  |  |  |  |
62140 | C |  | Repair of skull defect |  |  |  |  |
62141 | C |  | Repair of skull defect |  |  |  |  |
62142 | C |  | Remove skull plate/flap |  |  |  |  |
62143 | C |  | Replace skull plate/flap |  |  |  |  |
62145 | C |  | Repair of skull & brain |  |  |  |  |
62146 | C |  | Repair of skull with graft |  |  |  |  |
62147 | C |  | Repair of skull with graft |  |  |  |  |
62148 | N |  | Retr bone flap to fix skull |  |  |  |  |
62160 | N |  | Neuroendoscopy add-on |  |  |  |  |
62161 | C |  | Dissect brain w/scope |  |  |  |  |
62162 | C |  | Remove colloid cyst w/scope |  |  |  |  |
62163 | C |  | Neuroendoscopy w/fb removal |  |  |  |  |
62164 | C |  | Remove brain tumor w/scope |  |  |  |  |
62165 | C |  | Remove pituit tumor w/scope |  |  |  |  |
62180 | C |  | Establish brain cavity shunt |  |  |  |  |
62190 | C |  | Establish brain cavity shunt |  |  |  |  |
62192 | C |  | Establish brain cavity shunt |  |  |  |  |
62194 | T |  | Replace/irrigate catheter | 0121 | 2.2058 | $119.75 | $43.80 | $23.95
62200 | C |  | Establish brain cavity shunt |  |  |  |  |
62201 | C |  | Establish brain cavity shunt |  |  |  |  |
62220 | C |  | Establish brain cavity shunt |  |  |  |  |
62223 | C |  | Establish brain cavity shunt |  |  |  |  |
62225 | T |  | Replace/irrigate catheter | 0122 | 8.4398 | $458.19 | $93.97 | $91.64
62230 | T |  | Replace/revise brain shunt | 0224 | 34.0161 | $1,846.70 | $453.41 | $369.34
62252 | S |  | Csf shunt reprogram | 0691 | 2.9894 | $162.29 | $81.14 | $32.46
62256 | C |  | Remove brain cavity shunt |  |  |  |  |
62258 | C |  | Replace brain cavity shunt |  |  |  |  |
62263 | T |  | Lysis epidural adhesions | 0203 | 11.8511 | $643.38 | $276.76 | $128.68
62264 | T |  | Epidural lysis on single day | 0203 | 11.8511 | $643.38 | $276.76 | $128.68
62268 | T |  | Drain spinal cord cyst | 0212 | 2.9989 | $162.81 | $74.92 | $32.56
62269 | T |  | Needle biopsy, spinal cord | 0005 | 3.3675 | $182.82 | $71.59 | $36.56
62270 | T |  | Spinal fluid tap, diagnostic | 0206 | 5.2584 | $285.47 | $75.55 | $57.09
62272 | T |  | Drain cerebro spinal fluid | 0206 | 5.2584 | $285.47 | $75.55 | $57.09
62273 | T |  | Treat epidural spine lesion | 0206 | 5.2584 | $285.47 | $75.55 | $57.09
62280 | T |  | Treat spinal cord lesion | 0207 | 6.5998 | $358.30 | $123.69 | $71.66
62281 | T |  | Treat spinal cord lesion | 0207 | 6.5998 | $358.30 | $123.69 | $71.66
62282 | T |  | Treat spinal canal lesion | 0207 | 6.5998 | $358.30 | $123.69 | $71.66
62284 | N |  | Injection for myelogram |  |  |  |  |
62287 | T |  | Percutaneous diskectomy | 0220 | 16.5293 | $897.36 |  | $179.47
62290 | N |  | Inject for spine disk x-ray |  |  |  |  |
62291 | N |  | Inject for spine disk x-ray |  |  |  |  |
62292 | T |  | Injection into disk lesion | 0212 | 2.9989 | $162.81 | $74.92 | $32.56
62294 | T |  | Injection into spinal artery | 0212 | 2.9989 | $162.81 | $74.92 | $32.56
62310 | T |  | Inject spine c/t | 0206 | 5.2584 | $285.47 | $75.55 | $57.09
62311 | T |  | Inject spine l/s (cd) | 0206 | 5.2584 | $285.47 | $75.55 | $57.09
62318 | T |  | Inject spine w/cath, c/t | 0206 | 5.2584 | $285.47 | $75.55 | $57.09
62319 | T |  | Inject spine w/cath l/s (cd) | 0206 | 5.2584 | $285.47 | $75.55 | $57.09
62350 | T |  | Implant spinal canal cath | 0223 | 26.0352 | $1,413.42 |  | $282.68
62351 | T |  | Implant spinal canal cath | 0208 | 40.6521 | $2,206.96 |  | $441.39
62355 | T |  | Remove spinal canal catheter | 0203 | 11.8511 | $643.38 | $276.76 | $128.68
62360 | T |  | Insert spine infusion device | 0226 | 159.6795 | $8,668.84 |  | $1,733.77
62361 | T |  | Implant spine infusion pump | 0227 | 163.6124 | $8,882.35 |  | $1,776.47
62362 | T |  | Implant spine infusion pump | 0227 | 163.6124 | $8,882.35 |  | $1,776.47
62365 | T |  | Remove spine infusion device | 0203 | 11.8511 | $643.38 | $276.76 | $128.68
62367 | S |  | Analyze spine infusion pump | 0691 | 2.9894 | $162.29 | $81.14 | $32.46
62368 | S |  | Analyze spine infusion pump | 0691 | 2.9894 | $162.29 | $81.14 | $32.46
63001 | T |  | Removal of spinal lamina | 0208 | 40.6521 | $2,206.96 |  | $441.39
63003 | T |  | Removal of spinal lamina | 0208 | 40.6521 | $2,206.96 |  | $441.39
63005 | T |  | Removal of spinal lamina | 0208 | 40.6521 | $2,206.96 |  | $441.39
63011 | T |  | Removal of spinal lamina | 0208 | 40.6521 | $2,206.96 |  | $441.39
63012 | T |  | Removal of spinal lamina | 0208 | 40.6521 | $2,206.96 |  | $441.39
63015 | T |  | Removal of spinal lamina | 0208 | 40.6521 | $2,206.96 |  | $441.39
63016 | T |  | Removal of spinal lamina | 0208 | 40.6521 | $2,206.96 |  | $441.39
63017 | T |  | Removal of spinal lamina | 0208 | 40.6521 | $2,206.96 |  | $441.39
63020 | T |  | Neck spine disk surgery | 0208 | 40.6521 | $2,206.96 |  | $441.39
63030 | T |  | Low back disk surgery | 0208 | 40.6521 | $2,206.96 |  | $441.39
63035 | T |  | Spinal disk surgery add-on | 0208 | 40.6521 | $2,206.96 |  | $441.39
63040 | T |  | Laminotomy, single cervical | 0208 | 40.6521 | $2,206.96 |  | $441.39
63042 | T |  | Laminotomy, single lumbar | 0208 | 40.6521 | $2,206.96 |  | $441.39
63043 | C |  | Laminotomy, addl cervical |  |  |  |  |
63044 | C |  | Laminotomy, addl lumbar |  |  |  |  |
63045 | T |  | Removal of spinal lamina | 0208 | 40.6521 | $2,206.96 |  | $441.39
63046 | T |  | Removal of spinal lamina | 0208 | 40.6521 | $2,206.96 |  | $441.39
63047 | T |  | Removal of spinal lamina | 0208 | 40.6521 | $2,206.96 |  | $441.39
63048 | T |  | Remove spinal lamina add-on | 0208 | 40.6521 | $2,206.96 |  | $441.39
63055 | T |  | Decompress spinal cord | 0208 | 40.6521 | $2,206.96 |  | $441.39
63056 | T |  | Decompress spinal cord | 0208 | 40.6521 | $2,206.96 |  | $441.39
63057 | T |  | Decompress spine cord add-on | 0208 | 40.6521 | $2,206.96 |  | $441.39
63064 | T |  | Decompress spinal cord | 0208 | 40.6521 | $2,206.96 |  | $441.39
63066 | T |  | Decompress spine cord add-on | 0208 | 40.6521 | $2,206.96 |  | $441.39
63075 | C |  | Neck spine disk surgery |  |  |  |  |
63076 | C |  | Neck spine disk surgery |  |  |  |  |
63077 | C |  | Spine disk surgery, thorax |  |  |  |  |
63078 | C |  | Spine disk surgery, thorax |  |  |  |  |
63081 | C |  | Removal of vertebral body |  |  |  |  |
63082 | C |  | Remove vertebral body add-on |  |  |  |  |
63085 | C |  | Removal of vertebral body |  |  |  |  |
63086 | C |  | Remove vertebral body add-on |  |  |  |  |
63087 | C |  | Removal of vertebral body |  |  |  |  |
63088 | C |  | Remove vertebral body add-on |  |  |  |  |
63090 | C |  | Removal of vertebral body |  |  |  |  |
63091 | C |  | Remove vertebral body add-on |  |  |  |  |
63170 | C |  | Incise spinal cord tract(s) |  |  |  |  |
63172 | C |  | Drainage of spinal cyst |  |  |  |  |
63173 | C |  | Drainage of spinal cyst |  |  |  |  |
63180 | C |  | Revise spinal cord ligaments |  |  |  |  |
63182 | C |  | Revise spinal cord ligaments |  |  |  |  |
63185 | C |  | Incise spinal column/nerves |  |  |  |  |
63190 | C |  | Incise spinal column/nerves |  |  |  |  |
63191 | C |  | Incise spinal column/nerves |  |  |  |  |
63194 | C |  | Incise spinal column & cord |  |  |  |  |
63195 | C |  | Incise spinal column & cord |  |  |  |  |
63196 | C |  | Incise spinal column & cord |  |  |  |  |
63197 | C |  | Incise spinal column & cord |  |  |  |  |
63198 | C |  | Incise spinal column & cord |  |  |  |  |
63199 | C |  | Incise spinal column & cord |  |  |  |  |
63200 | C |  | Release of spinal cord |  |  |  |  |
63250 | C |  | Revise spinal cord vessels |  |  |  |  |
63251 | C |  | Revise spinal cord vessels |  |  |  |  |
63252 | C |  | Revise spinal cord vessels |  |  |  |  |
63265 | C |  | Excise intraspinal lesion |  |  |  |  |
63266 | C |  | Excise intraspinal lesion |  |  |  |  |
63267 | C |  | Excise intraspinal lesion |  |  |  |  |
63268 | C |  | Excise intraspinal lesion |  |  |  |  |
63270 | C |  | Excise intraspinal lesion |  |  |  |  |
63271 | C |  | Excise intraspinal lesion |  |  |  |  |
63272 | C |  | Excise intraspinal lesion |  |  |  |  |
63273 | C |  | Excise intraspinal lesion |  |  |  |  |
63275 | C |  | Biopsy/excise spinal tumor |  |  |  |  |
63276 | C |  | Biopsy/excise spinal tumor |  |  |  |  |
63277 | C |  | Biopsy/excise spinal tumor |  |  |  |  |
63278 | C |  | Biopsy/excise spinal tumor |  |  |  |  |
63280 | C |  | Biopsy/excise spinal tumor |  |  |  |  |
63281 | C |  | Biopsy/excise spinal tumor |  |  |  |  |
63282 | C |  | Biopsy/excise spinal tumor |  |  |  |  |
63283 | C |  | Biopsy/excise spinal tumor |  |  |  |  |
63285 | C |  | Biopsy/excise spinal tumor |  |  |  |  |
63286 | C |  | Biopsy/excise spinal tumor |  |  |  |  |
63287 | C |  | Biopsy/excise spinal tumor |  |  |  |  |
63290 | C |  | Biopsy/excise spinal tumor |  |  |  |  |
63300 | C |  | Removal of vertebral body |  |  |  |  |
63301 | C |  | Removal of vertebral body |  |  |  |  |
63302 | C |  | Removal of vertebral body |  |  |  |  |
63303 | C |  | Removal of vertebral body |  |  |  |  |
63304 | C |  | Removal of vertebral body |  |  |  |  |
63305 | C |  | Removal of vertebral body |  |  |  |  |
63306 | C |  | Removal of vertebral body |  |  |  |  |
63307 | C |  | Removal of vertebral body |  |  |  |  |
63308 | C |  | Remove vertebral body add-on |  |  |  |  |
63600 | T |  | Remove spinal cord lesion | 0220 | 16.5293 | $897.36 |  | $179.47
63610 | T |  | Stimulation of spinal cord | 0220 | 16.5293 | $897.36 |  | $179.47
63615 | T |  | Remove lesion of spinal cord | 0220 | 16.5293 | $897.36 |  | $179.47
63650 | S |  | Implant neuroelectrodes | 0225 | 56.0375 | $3,042.22 |  | $608.44
63655 | S |  | Implant neuroelectrodes | 0225 | 56.0375 | $3,042.22 |  | $608.44
63660 | T |  | Revise/remove neuroelectrode | 0687 | 19.9913 | $1,085.31 | $499.24 | $217.06
63685 | T |  | Implant neuroreceiver | 0222 | 188.7735 | $10,248.32 |  | $2,049.66
63688 | T |  | Revise/remove neuroreceiver | 0688 | 42.5880 | $2,312.06 | $1,132.91 | $462.41
63700 | C |  | Repair of spinal herniation |  |  |  |  |
63702 | C |  | Repair of spinal herniation |  |  |  |  |
63704 | C |  | Repair of spinal herniation |  |  |  |  |
63706 | C |  | Repair of spinal herniation |  |  |  |  |
63707 | C |  | Repair spinal fluid leakage |  |  |  |  |
63709 | C |  | Repair spinal fluid leakage |  |  |  |  |
63710 | C |  | Graft repair of spine defect |  |  |  |  |
63740 | C |  | Install spinal shunt |  |  |  |  |
63741 | T |  | Install spinal shunt | 0228 | 51.1329 | $2,775.95 | $621.80 | $555.19
63744 | T |  | Revision of spinal shunt | 0228 | 51.1329 | $2,775.95 | $621.80 | $555.19
63746 | T |  | Removal of spinal shunt | 0109 | 7.7075 | $418.43 | $131.49 | $83.69
64400 | T |  | N block inj, trigeminal | 0204 | 2.2209 | $120.57 | $40.13 | $24.11
64402 | T |  | N block inj, facial | 0204 | 2.2209 | $120.57 | $40.13 | $24.11
64405 | T |  | N block inj, occipital | 0204 | 2.2209 | $120.57 | $40.13 | $24.11
64408 | T |  | N block inj, vagus | 0204 | 2.2209 | $120.57 | $40.13 | $24.11
64410 | T |  | N block inj, phrenic | 0204 | 2.2209 | $120.57 | $40.13 | $24.11
64412 | T |  | N block inj, spinal accessor | 0204 | 2.2209 | $120.57 | $40.13 | $24.11
64413 | T |  | N block inj, cervical plexus | 0204 | 2.2209 | $120.57 | $40.13 | $24.11
64415 | T |  | Injection for nerve block | 0204 | 2.2209 | $120.57 | $40.13 | $24.11
64416 | T |  | N block cont infuse, b plex | 0204 | 2.2209 | $120.57 | $40.13 | $24.11
64417 | T |  | N block inj, axillary | 0204 | 2.2209 | $120.57 | $40.13 | $24.11
64418 | T |  | N block inj, suprascapular | 0204 | 2.2209 | $120.57 | $40.13 | $24.11
64420 | T |  | N block inj, intercost, sng | 0207 | 6.5998 | $358.30 | $123.69 | $71.66
64421 | T |  | N block inj, intercost, mlt | 0207 | 6.5998 | $358.30 | $123.69 | $71.66
64425 | T |  | N block inj ilio-ing/hypogi | 0204 | 2.2209 | $120.57 | $40.13 | $24.11
64430 | T |  | N block inj, pudendal | 0204 | 2.2209 | $120.57 | $40.13 | $24.11
64435 | T |  | N block inj, paracervical | 0204 | 2.2209 | $120.57 | $40.13 | $24.11
64445 | T |  | Injection for nerve block | 0204 | 2.2209 | $120.57 | $40.13 | $24.11
64446 | T |  | N blk inj, sciatic, cont inf | 0204 | 2.2209 | $120.57 | $40.13 | $24.11
64447 | T |  | N block inj fem, single | 0204 | 2.2209 | $120.57 | $40.13 | $24.11
64448 | T |  | N block inj fem, cont inf | 0204 | 2.2209 | $120.57 | $40.13 | $24.11
64450 | T |  | N block, other peripheral | 0204 | 2.2209 | $120.57 | $40.13 | $24.11
64470 | T |  | Inj paravertebral c/t | 0207 | 6.5998 | $358.30 | $123.69 | $71.66
64472 | T |  | Inj paravertebral c/t add-on | 0207 | 6.5998 | $358.30 | $123.69 | $71.66
64475 | T |  | Inj paravertebral l/s | 0207 | 6.5998 | $358.30 | $123.69 | $71.66
64476 | T |  | Inj paravertebral l/s add-on | 0207 | 6.5998 | $358.30 | $123.69 | $71.66
64479 | T |  | Inj foramen epidural c/t | 0207 | 6.5998 | $358.30 | $123.69 | $71.66
64480 | T |  | Inj foramen epidural add-on | 0207 | 6.5998 | $358.30 | $123.69 | $71.66
64483 | T |  | Inj foramen epidural l/s | 0207 | 6.5998 | $358.30 | $123.69 | $71.66
64484 | T |  | Inj foramen epidural add-on | 0207 | 6.5998 | $358.30 | $123.69 | $71.66
64505 | T |  | N block, spenopalatine gangl | 0204 | 2.2209 | $120.57 | $40.13 | $24.11
64508 | T |  | N block, carotid sinus s/p | 0204 | 2.2209 | $120.57 | $40.13 | $24.11
64510 | T |  | N block, stellate ganglion | 0207 | 6.5998 | $358.30 | $123.69 | $71.66
64520 | T |  | N block, lumbar/thoracic | 0207 | 6.5998 | $358.30 | $123.69 | $71.66
64530 | T |  | N block inj, celiac pelus | 0207 | 6.5998 | $358.30 | $123.69 | $71.66
64550 | A |  | Apply neurostimulator |  |  |  |  |
64553 | S |  | Implant neuroelectrodes | 0225 | 56.0375 | $3,042.22 |  | $608.44
64555 | S |  | Implant neuroelectrodes | 0225 | 56.0375 | $3,042.22 |  | $608.44
64560 | S |  | Implant neuroelectrodes | 0225 | 56.0375 | $3,042.22 |  | $608.44
64561 | S |  | Implant neuroelectrodes | 0225 | 56.0375 | $3,042.22 |  | $608.44
64565 | S |  | Implant neuroelectrodes | 0225 | 56.0375 | $3,042.22 |  | $608.44
64573 | S |  | Implant neuroelectrodes | 0225 | 56.0375 | $3,042.22 |  | $608.44
64575 | S |  | Implant neuroelectrodes | 0225 | 56.0375 | $3,042.22 |  | $608.44
64577 | S |  | Implant neuroelectrodes | 0225 | 56.0375 | $3,042.22 |  | $608.44
64580 | S |  | Implant neuroelectrodes | 0225 | 56.0375 | $3,042.22 |  | $608.44
64581 | S |  | Implant neuroelectrodes | 0225 | 56.0375 | $3,042.22 |  | $608.44
64585 | T |  | Revise/remove neuroelectrode | 0687 | 19.9913 | $1,085.31 | $499.24 | $217.06
64590 | T |  | Implant neuroreceiver | 0222 | 188.7735 | $10,248.32 |  | $2,049.66
64595 | T |  | Revise/remove neuroreceiver | 0688 | 42.5880 | $2,312.06 | $1,132.91 | $462.41
64600 | T |  | Injection treatment of nerve | 0203 | 11.8511 | $643.38 | $276.76 | $128.68
64605 | T |  | Injection treatment of nerve | 0203 | 11.8511 | $643.38 | $276.76 | $128.68
64610 | T |  | Injection treatment of nerve | 0203 | 11.8511 | $643.38 | $276.76 | $128.68
64612 | T |  | Destroy nerve, face muscle | 0204 | 2.2209 | $120.57 | $40.13 | $24.11
64613 | T |  | Destroy nerve, spine muscle | 0204 | 2.2209 | $120.57 | $40.13 | $24.11
64614 | T |  | Destroy nerve, extrem musc | 0204 | 2.2209 | $120.57 | $40.13 | $24.11
64620 | T |  | Injection treatment of nerve | 0203 | 11.8511 | $643.38 | $276.76 | $128.68
64622 | T |  | Destr paravertebrl nerve l/s | 0203 | 11.8511 | $643.38 | $276.76 | $128.68
64623 | T |  | Destr paravertebral n add-on | 0203 | 11.8511 | $643.38 | $276.76 | $128.68
64626 | T |  | Destr paravertebrl nerve c/t | 0203 | 11.8511 | $643.38 | $276.76 | $128.68
64627 | T |  | Destr paravertebral n add-on | 0203 | 11.8511 | $643.38 | $276.76 | $128.68
64630 | T |  | Injection treatment of nerve | 0207 | 6.5998 | $358.30 | $123.69 | $71.66
64640 | T |  | Injection treatment of nerve | 0207 | 6.5998 | $358.30 | $123.69 | $71.66
64680 | T |  | Injection treatment of nerve | 0203 | 11.8511 | $643.38 | $276.76 | $128.68
64702 | T |  | Revise finger/toe nerve | 0220 | 16.5293 | $897.36 |  | $179.47
64704 | T |  | Revise hand/foot nerve | 0220 | 16.5293 | $897.36 |  | $179.47
64708 | T |  | Revise arm/leg nerve | 0220 | 16.5293 | $897.36 |  | $179.47
64712 | T |  | Revision of sciatic nerve | 0220 | 16.5293 | $897.36 |  | $179.47
64713 | T |  | Revision of arm nerve(s) | 0220 | 16.5293 | $897.36 |  | $179.47
64714 | T |  | Revise low back nerve(s) | 0220 | 16.5293 | $897.36 |  | $179.47
64716 | T |  | Revision of cranial nerve | 0220 | 16.5293 | $897.36 |  | $179.47
64718 | T |  | Revise ulnar nerve at elbow | 0220 | 16.5293 | $897.36 |  | $179.47
64719 | T |  | Revise ulnar nerve at wrist | 0220 | 16.5293 | $897.36 |  | $179.47
64721 | T |  | Carpal tunnel surgery | 0220 | 16.5293 | $897.36 |  | $179.47
64722 | T |  | Relieve pressure on nerve(s) | 0220 | 16.5293 | $897.36 |  | $179.47
64726 | T |  | Release foot/toe nerve | 0220 | 16.5293 | $897.36 |  | $179.47
64727 | T |  | Internal nerve revision | 0220 | 16.5293 | $897.36 |  | $179.47
64732 | T |  | Incision of brow nerve | 0220 | 16.5293 | $897.36 |  | $179.47
64734 | T |  | Incision of cheek nerve | 0220 | 16.5293 | $897.36 |  | $179.47
64736 | T |  | Incision of chin nerve | 0220 | 16.5293 | $897.36 |  | $179.47
64738 | T |  | Incision of jaw nerve | 0220 | 16.5293 | $897.36 |  | $179.47
64740 | T |  | Incision of tongue nerve | 0220 | 16.5293 | $897.36 |  | $179.47
64742 | T |  | Incision of facial nerve | 0220 | 16.5293 | $897.36 |  | $179.47
64744 | T |  | Incise nerve, back of head | 0220 | 16.5293 | $897.36 |  | $179.47
64746 | T |  | Incise diaphragm nerve | 0220 | 16.5293 | $897.36 |  | $179.47
64752 | C |  | Incision of vagus nerve |  |  |  |  |
64755 | C |  | Incision of stomach nerves |  |  |  |  |
64760 | C |  | Incision of vagus nerve |  |  |  |  |
64761 | T |  | Incision of pelvis nerve | 0220 | 16.5293 | $897.36 |  | $179.47
64763 | C |  | Incise hip/thigh nerve |  |  |  |  |
64766 | C |  | Incise hip/thigh nerve |  |  |  |  |
64771 | T |  | Sever cranial nerve | 0220 | 16.5293 | $897.36 |  | $179.47
64772 | T |  | Incision of spinal nerve | 0220 | 16.5293 | $897.36 |  | $179.47
64774 | T |  | Remove skin nerve lesion | 0220 | 16.5293 | $897.36 |  | $179.47
64776 | T |  | Remove digit nerve lesion | 0220 | 16.5293 | $897.36 |  | $179.47
64778 | T |  | Digit nerve surgery add-on | 0220 | 16.5293 | $897.36 |  | $179.47
64782 | T |  | Remove limb nerve lesion | 0220 | 16.5293 | $897.36 |  | $179.47
64783 | T |  | Limb nerve surgery add-on | 0220 | 16.5293 | $897.36 |  | $179.47
64784 | T |  | Remove nerve lesion | 0220 | 16.5293 | $897.36 |  | $179.47
64786 | T |  | Remove sciatic nerve lesion | 0221 | 25.8194 | $1,401.71 | $463.62 | $280.34
64787 | T |  | Implant nerve end | 0220 | 16.5293 | $897.36 |  | $179.47
64788 | T |  | Remove skin nerve lesion | 0220 | 16.5293 | $897.36 |  | $179.47
64790 | T |  | Removal of nerve lesion | 0220 | 16.5293 | $897.36 |  | $179.47
64792 | T |  | Removal of nerve lesion | 0221 | 25.8194 | $1,401.71 | $463.62 | $280.34
64795 | T |  | Biopsy of nerve | 0220 | 16.5293 | $897.36 |  | $179.47
64802 | T |  | Remove sympathetic nerves | 0220 | 16.5293 | $897.36 |  | $179.47
64804 | C |  | Remove sympathetic nerves |  |  |  |  |
64809 | C |  | Remove sympathetic nerves |  |  |  |  |
64818 | C |  | Remove sympathetic nerves |  |  |  |  |
64820 | T |  | Remove sympathetic nerves | 0220 | 16.5293 | $897.36 |  | $179.47
64821 | T |  | Remove sympathestic nerves | 0054 | 24.2685 | $1,317.51 |  | $263.50
64822 | T |  | Remove sympathetic nerves | 0054 | 24.2685 | $1,317.51 |  | $263.50
64823 | T |  | Remove sympathetic nerves | 0054 | 24.2685 | $1,317.51 |  | $263.50
64831 | T |  | Repair of digit nerve | 0221 | 25.8194 | $1,401.71 | $463.62 | $280.34
64832 | T |  | Repair nerve add-on | 0221 | 25.8194 | $1,401.71 | $463.62 | $280.34
64834 | T |  | Repair of hand or foot nerve | 0221 | 25.8194 | $1,401.71 | $463.62 | $280.34
64835 | T |  | Repair of hand or foot nerve | 0221 | 25.8194 | $1,401.71 | $463.62 | $280.34
64836 | T |  | Repair of hand or foot nerve | 0221 | 25.8194 | $1,401.71 | $463.62 | $280.34
64837 | T |  | Repair nerve add-on | 0221 | 25.8194 | $1,401.71 | $463.62 | $280.34
64840 | T |  | Repair of leg nerve | 0221 | 25.8194 | $1,401.71 | $463.62 | $280.34
64856 | T |  | Repair/transpose nerve | 0221 | 25.8194 | $1,401.71 | $463.62 | $280.34
64857 | T |  | Repair arm/leg nerve | 0221 | 25.8194 | $1,401.71 | $463.62 | $280.34
64858 | T |  | Repair sciatic nerve | 0221 | 25.8194 | $1,401.71 | $463.62 | $280.34
64859 | T |  | Nerve surgery | 0221 | 25.8194 | $1,401.71 | $463.62 | $280.34
64861 | T |  | Repair of arm nerves | 0221 | 25.8194 | $1,401.71 | $463.62 | $280.34
64862 | T |  | Repair of low back nerves | 0221 | 25.8194 | $1,401.71 | $463.62 | $280.34
64864 | T |  | Repair of facial nerve | 0221 | 25.8194 | $1,401.71 | $463.62 | $280.34
64865 | T |  | Repair of facial nerve | 0221 | 25.8194 | $1,401.71 | $463.62 | $280.34
64866 | C |  | Fusion of facial/other nerve |  |  |  |  |
64868 | C |  | Fusion of facial/other nerve |  |  |  |  |
64870 | T |  | Fusion of facial/other nerve | 0221 | 25.8194 | $1,401.71 | $463.62 | $280.34
64872 | T |  | Subsequent repair of nerve | 0221 | 25.8194 | $1,401.71 | $463.62 | $280.34
64874 | T |  | Repair & revise nerve add-on | 0221 | 25.8194 | $1,401.71 | $463.62 | $280.34
64876 | T |  | Repair nerve/shorten bone | 0221 | 25.8194 | $1,401.71 | $463.62 | $280.34
64885 | T |  | Nerve graft, head or neck | 0221 | 25.8194 | $1,401.71 | $463.62 | $280.34
64886 | T |  | Nerve graft, head or neck | 0221 | 25.8194 | $1,401.71 | $463.62 | $280.34
64890 | T |  | Nerve graft, hand or foot | 0221 | 25.8194 | $1,401.71 | $463.62 | $280.34
64891 | T |  | Nerve graft, hand or foot | 0221 | 25.8194 | $1,401.71 | $463.62 | $280.34
64892 | T |  | Nerve graft, arm or leg | 0221 | 25.8194 | $1,401.71 | $463.62 | $280.34
64893 | T |  | Nerve graft, arm or leg | 0221 | 25.8194 | $1,401.71 | $463.62 | $280.34
64895 | T |  | Nerve graft, hand or foot | 0221 | 25.8194 | $1,401.71 | $463.62 | $280.34
64896 | T |  | Nerve graft, hand or foot | 0221 | 25.8194 | $1,401.71 | $463.62 | $280.34
64897 | T |  | Nerve graft, arm or leg | 0221 | 25.8194 | $1,401.71 | $463.62 | $280.34
64898 | T |  | Nerve graft, arm or leg | 0221 | 25.8194 | $1,401.71 | $463.62 | $280.34
64901 | T |  | Nerve graft add-on | 0221 | 25.8194 | $1,401.71 | $463.62 | $280.34
64902 | T |  | Nerve graft add-on | 0221 | 25.8194 | $1,401.71 | $463.62 | $280.34
64905 | T |  | Nerve pedicle transfer | 0221 | 25.8194 | $1,401.71 | $463.62 | $280.34
64907 | T |  | Nerve pedicle transfer | 0221 | 25.8194 | $1,401.71 | $463.62 | $280.34
64999 | T |  | Nervous system surgery | 0204 | 2.2209 | $120.57 | $40.13 | $24.11
65091 | T |  | Revise eye | 0242 | 29.2193 | $1,586.29 | $597.36 | $317.26
65093 | T |  | Revise eye with implant | 0241 | 21.9830 | $1,193.44 | $384.47 | $238.69
65101 | T |  | Removal of eye | 0242 | 29.2193 | $1,586.29 | $597.36 | $317.26
65103 | T |  | Remove eye/insert implant | 0242 | 29.2193 | $1,586.29 | $597.36 | $317.26
65105 | T |  | Remove eye/attach implant | 0242 | 29.2193 | $1,586.29 | $597.36 | $317.26
65110 | T |  | Removal of eye | 0242 | 29.2193 | $1,586.29 | $597.36 | $317.26
65112 | T |  | Remove eye/revise socket | 0242 | 29.2193 | $1,586.29 | $597.36 | $317.26
65114 | T |  | Remove eye/revise socket | 0242 | 29.2193 | $1,586.29 | $597.36 | $317.26
65125 | T |  | Revise ocular implant | 0240 | 17.3397 | $941.35 | $315.31 | $188.27
65130 | T |  | Insert ocular implant | 0241 | 21.9830 | $1,193.44 | $384.47 | $238.69
65135 | T |  | Insert ocular implant | 0241 | 21.9830 | $1,193.44 | $384.47 | $238.69
65140 | T |  | Attach ocular implant | 0242 | 29.2193 | $1,586.29 | $597.36 | $317.26
65150 | T |  | Revise ocular implant | 0241 | 21.9830 | $1,193.44 | $384.47 | $238.69
65155 | T |  | Reinsert ocular implant | 0242 | 29.2193 | $1,586.29 | $597.36 | $317.26
65175 | T |  | Removal of ocular implant | 0240 | 17.3397 | $941.35 | $315.31 | $188.27
65205 | S |  | Remove foreign body from eye | 0698 | 0.9355 | $50.79 | $18.72 | $10.16
65210 | S |  | Remove foreign body from eye | 0231 | 2.0880 | $113.36 | $50.94 | $22.67
65220 | S |  | Remove foreign body from eye | 0231 | 2.0880 | $113.36 | $50.94 | $22.67
65222 | S |  | Remove foreign body from eye | 0231 | 2.0880 | $113.36 | $50.94 | $22.67
65235 | T |  | Remove foreign body from eye | 0233 | 14.5435 | $789.55 | $266.33 | $157.91
65260 | T |  | Remove foreign body from eye | 0236 | 19.6866 | $1,068.77 |  | $213.75
65265 | T |  | Remove foreign body from eye | 0236 | 19.6866 | $1,068.77 |  | $213.75
65270 | T |  | Repair of eye wound | 0240 | 17.3397 | $941.35 | $315.31 | $188.27
65272 | T |  | Repair of eye wound | 0233 | 14.5435 | $789.55 | $266.33 | $157.91
65273 | C |  | Repair of eye wound |  |  |  |  |
65275 | T |  | Repair of eye wound | 0233 | 14.5435 | $789.55 | $266.33 | $157.91
65280 | T |  | Repair of eye wound | 0234 | 21.5482 | $1,169.83 | $511.31 | $233.97
65285 | T |  | Repair of eye wound | 0234 | 21.5482 | $1,169.83 | $511.31 | $233.97
65286 | T |  | Repair of eye wound | 0233 | 14.5435 | $789.55 | $266.33 | $157.91
65290 | T |  | Repair of eye socket wound | 0243 | 21.1035 | $1,145.69 | $431.39 | $229.14
65400 | T |  | Removal of eye lesion | 0233 | 14.5435 | $789.55 | $266.33 | $157.91
65410 | T |  | Biopsy of cornea | 0233 | 14.5435 | $789.55 | $266.33 | $157.91
65420 | T |  | Removal of eye lesion | 0233 | 14.5435 | $789.55 | $266.33 | $157.91
65426 | T |  | Removal of eye lesion | 0234 | 21.5482 | $1,169.83 | $511.31 | $233.97
65430 | S |  | Corneal smear | 0230 | 0.7379 | $40.06 | $14.97 | $8.01
65435 | T |  | Curette/treat cornea | 0239 | 6.2432 | $338.94 | $110.62 | $67.79
65436 | T |  | Curette/treat cornea | 0233 | 14.5435 | $789.55 | $266.33 | $157.91
65450 | S |  | Treatment of corneal lesion | 0231 | 2.0880 | $113.36 | $50.94 | $22.67
65600 | T |  | Revision of cornea | 0240 | 17.3397 | $941.35 | $315.31 | $188.27
65710 | T |  | Corneal transplant | 0244 | 37.4885 | $2,035.21 | $803.26 | $407.04
65730 | T |  | Corneal transplant | 0244 | 37.4885 | $2,035.21 | $803.26 | $407.04
65750 | T |  | Corneal transplant | 0244 | 37.4885 | $2,035.21 | $803.26 | $407.04
65755 | T |  | Corneal transplant | 0244 | 37.4885 | $2,035.21 | $803.26 | $407.04
65760 | E |  | Revision of cornea |  |  |  |  |
65765 | E |  | Revision of cornea |  |  |  |  |
65767 | E |  | Corneal tissue transplant |  |  |  |  |
65770 | T |  | Revise cornea with implant | 0244 | 37.4885 | $2,035.21 | $803.26 | $407.04
65771 | E |  | Radial keratotomy |  |  |  |  |
65772 | T |  | Correction of astigmatism | 0233 | 14.5435 | $789.55 | $266.33 | $157.91
65775 | T |  | Correction of astigmatism | 0233 | 14.5435 | $789.55 | $266.33 | $157.91
65800 | T |  | Drainage of eye | 0233 | 14.5435 | $789.55 | $266.33 | $157.91
65805 | T |  | Drainage of eye | 0233 | 14.5435 | $789.55 | $266.33 | $157.91
65810 | T |  | Drainage of eye | 0234 | 21.5482 | $1,169.83 | $511.31 | $233.97
65815 | T |  | Drainage of eye | 0234 | 21.5482 | $1,169.83 | $511.31 | $233.97
65820 | T |  | Relieve inner eye pressure | 0232 | 4.9739 | $270.03 | $103.17 | $54.01
65850 | T |  | Incision of eye | 0234 | 21.5482 | $1,169.83 | $511.31 | $233.97
65855 | T |  | Laser surgery of eye | 0247 | 5.0192 | $272.49 | $104.31 | $54.50
65860 | T |  | Incise inner eye adhesions | 0247 | 5.0192 | $272.49 | $104.31 | $54.50
65865 | T |  | Incise inner eye adhesions | 0233 | 14.5435 | $789.55 | $266.33 | $157.91
65870 | T |  | Incise inner eye adhesions | 0234 | 21.5482 | $1,169.83 | $511.31 | $233.97
65875 | T |  | Incise inner eye adhesions | 0234 | 21.5482 | $1,169.83 | $511.31 | $233.97
65880 | T |  | Incise inner eye adhesions | 0233 | 14.5435 | $789.55 | $266.33 | $157.91
65900 | T |  | Remove eye lesion | 0233 | 14.5435 | $789.55 | $266.33 | $157.91
65920 | T |  | Remove implant of eye | 0233 | 14.5435 | $789.55 | $266.33 | $157.91
65930 | T |  | Remove blood clot from eye | 0234 | 21.5482 | $1,169.83 | $511.31 | $233.97
66020 | T |  | Injection treatment of eye | 0233 | 14.5435 | $789.55 | $266.33 | $157.91
66030 | T |  | Injection treatment of eye | 0233 | 14.5435 | $789.55 | $266.33 | $157.91
66130 | T |  | Remove eye lesion | 0234 | 21.5482 | $1,169.83 | $511.31 | $233.97
66150 | T |  | Glaucoma surgery | 0233 | 14.5435 | $789.55 | $266.33 | $157.91
66155 | T |  | Glaucoma surgery | 0234 | 21.5482 | $1,169.83 | $511.31 | $233.97
66160 | T |  | Glaucoma surgery | 0234 | 21.5482 | $1,169.83 | $511.31 | $233.97
66165 | T |  | Glaucoma surgery | 0234 | 21.5482 | $1,169.83 | $511.31 | $233.97
66170 | T |  | Glaucoma surgery | 0234 | 21.5482 | $1,169.83 | $511.31 | $233.97
66172 | T |  | Incision of eye | 0673 | 26.7626 | $1,452.91 | $649.56 | $290.58
66180 | T |  | Implant eye shunt | 0673 | 26.7626 | $1,452.91 | $649.56 | $290.58
66185 | T |  | Revise eye shunt | 0673 | 26.7626 | $1,452.91 | $649.56 | $290.58
66220 | T |  | Repair eye lesion | 0236 | 19.6866 | $1,068.77 |  | $213.75
66225 | T |  | Repair/graft eye lesion | 0673 | 26.7626 | $1,452.91 | $649.56 | $290.58
66250 | T |  | Follow-up surgery of eye | 0233 | 14.5435 | $789.55 | $266.33 | $157.91
66500 | T |  | Incision of iris | 0232 | 4.9739 | $270.03 | $103.17 | $54.01
66505 | T |  | Incision of iris | 0232 | 4.9739 | $270.03 | $103.17 | $54.01
66600 | T |  | Remove iris and lesion | 0233 | 14.5435 | $789.55 | $266.33 | $157.91
66605 | T |  | Removal of iris | 0234 | 21.5482 | $1,169.83 | $511.31 | $233.97
66625 | T |  | Removal of iris | 0233 | 14.5435 | $789.55 | $266.33 | $157.91
66630 | T |  | Removal of iris | 0233 | 14.5435 | $789.55 | $266.33 | $157.91
66635 | T |  | Removal of iris | 0234 | 21.5482 | $1,169.83 | $511.31 | $233.97
66680 | T |  | Repair iris & ciliary body | 0234 | 21.5482 | $1,169.83 | $511.31 | $233.97
66682 | T |  | Repair iris & ciliary body | 0234 | 21.5482 | $1,169.83 | $511.31 | $233.97
66700 | T |  | Destruction, ciliary body | 0233 | 14.5435 | $789.55 | $266.33 | $157.91
66710 | T |  | Destruction, ciliary body | 0233 | 14.5435 | $789.55 | $266.33 | $157.91
66720 | T |  | Destruction, ciliary body | 0233 | 14.5435 | $789.55 | $266.33 | $157.91
66740 | T |  | Destruction, ciliary body | 0233 | 14.5435 | $789.55 | $266.33 | $157.91
66761 | T |  | Revision of iris | 0247 | 5.0192 | $272.49 | $104.31 | $54.50
66762 | T |  | Revision of iris | 0247 | 5.0192 | $272.49 | $104.31 | $54.50
66770 | T |  | Removal of inner eye lesion | 0247 | 5.0192 | $272.49 | $104.31 | $54.50
66820 | T |  | Incision, secondary cataract | 0232 | 4.9739 | $270.03 | $103.17 | $54.01
66821 | T |  | After cataract laser surgery | 0247 | 5.0192 | $272.49 | $104.31 | $54.50
66825 | T |  | Reposition intraocular lens | 0234 | 21.5482 | $1,169.83 | $511.31 | $233.97
66830 | T |  | Removal of lens lesion | 0232 | 4.9739 | $270.03 | $103.17 | $54.01
66840 | T |  | Removal of lens material | 0245 | 12.5751 | $682.69 | $226.11 | $136.54
66850 | T |  | Removal of lens material | 0249 | 28.3307 | $1,538.05 | $524.67 | $307.61
66852 | T |  | Removal of lens material | 0249 | 28.3307 | $1,538.05 | $524.67 | $307.61
66920 | T |  | Extraction of lens | 0249 | 28.3307 | $1,538.05 | $524.67 | $307.61
66930 | T |  | Extraction of lens | 0249 | 28.3307 | $1,538.05 | $524.67 | $307.61
66940 | T |  | Extraction of lens | 0245 | 12.5751 | $682.69 | $226.11 | $136.54
66982 | T |  | Cataract surgery, complex | 0246 | 22.8428 | $1,240.11 | $495.96 | $248.02
66983 | T |  | Cataract surg w/iol, 1 stage | 0246 | 22.8428 | $1,240.11 | $495.96 | $248.02
66984 | T |  | Cataract surg w/iol, 1 stage | 0246 | 22.8428 | $1,240.11 | $495.96 | $248.02
66985 | T |  | Insert lens prosthesis | 0246 | 22.8428 | $1,240.11 | $495.96 | $248.02
66986 | T |  | Exchange lens prosthesis | 0246 | 22.8428 | $1,240.11 | $495.96 | $248.02
66990 | N |  | Ophthalmic endoscope add-on |  |  |  |  |
66999 | T |  | Eye surgery procedure | 0232 | 4.9739 | $270.03 | $103.17 | $54.01
67005 | T |  | Partial removal of eye fluid | 0237 | 34.0324 | $1,847.58 | $818.54 | $369.52
67010 | T |  | Partial removal of eye fluid | 0237 | 34.0324 | $1,847.58 | $818.54 | $369.52
67015 | T |  | Release of eye fluid | 0237 | 34.0324 | $1,847.58 | $818.54 | $369.52
67025 | T |  | Replace eye fluid | 0236 | 19.6866 | $1,068.77 |  | $213.75
67027 | T |  | Implant eye drug system | 0237 | 34.0324 | $1,847.58 | $818.54 | $369.52
67028 | T |  | Injection eye drug | 0235 | 4.9900 | $270.90 | $72.04 | $54.18
67030 | T |  | Incise inner eye strands | 0236 | 19.6866 | $1,068.77 |  | $213.75
67031 | T |  | Laser surgery, eye strands | 0247 | 5.0192 | $272.49 | $104.31 | $54.50
67036 | T |  | Removal of inner eye fluid | 0237 | 34.0324 | $1,847.58 | $818.54 | $369.52
67038 | T |  | Strip retinal membrane | 0237 | 34.0324 | $1,847.58 | $818.54 | $369.52
67039 | T |  | Laser treatment of retina | 0237 | 34.0324 | $1,847.58 | $818.54 | $369.52
67040 | T |  | Laser treatment of retina | 0672 | 39.1363 | $2,124.67 | $988.43 | $424.93
67101 | T |  | Repair detached retina | 0235 | 4.9900 | $270.90 | $72.04 | $54.18
67105 | T |  | Repair detached retina | 0248 | 4.7544 | $258.11 | $95.08 | $51.62
67107 | T |  | Repair detached retina | 0672 | 39.1363 | $2,124.67 | $988.43 | $424.93
67108 | T |  | Repair detached retina | 0672 | 39.1363 | $2,124.67 | $988.43 | $424.93
67110 | T |  | Repair detached retina | 0236 | 19.6866 | $1,068.77 |  | $213.75
67112 | T |  | Rerepair detached retina | 0672 | 39.1363 | $2,124.67 | $988.43 | $424.93
67115 | T |  | Release encircling material | 0236 | 19.6866 | $1,068.77 |  | $213.75
67120 | T |  | Remove eye implant material | 0236 | 19.6866 | $1,068.77 |  | $213.75
67121 | T |  | Remove eye implant material | 0237 | 34.0324 | $1,847.58 | $818.54 | $369.52
67141 | T |  | Treatment of retina | 0235 | 4.9900 | $270.90 | $72.04 | $54.18
67145 | T |  | Treatment of retina | 0248 | 4.7544 | $258.11 | $95.08 | $51.62
67208 | T |  | Treatment of retinal lesion | 0235 | 4.9900 | $270.90 | $72.04 | $54.18
67210 | T |  | Treatment of retinal lesion | 0248 | 4.7544 | $258.11 | $95.08 | $51.62
67218 | T |  | Treatment of retinal lesion | 0236 | 19.6866 | $1,068.77 |  | $213.75
67220 | T |  | Treatment of choroid lesion | 0235 | 4.9900 | $270.90 | $72.04 | $54.18
67221 | T |  | Ocular photodynamic ther | 0235 | 4.9900 | $270.90 | $72.04 | $54.18
67225 | T |  | Eye photodynamic ther add-on | 0235 | 4.9900 | $270.90 | $72.04 | $54.18
67227 | T |  | Treatment of retinal lesion | 0235 | 4.9900 | $270.90 | $72.04 | $54.18
67228 | T |  | Treatment of retinal lesion | 0248 | 4.7544 | $258.11 | $95.08 | $51.62
67250 | T |  | Reinforce eye wall | 0240 | 17.3397 | $941.35 | $315.31 | $188.27
67255 | T |  | Reinforce/graft eye wall | 0237 | 34.0324 | $1,847.58 | $818.54 | $369.52
67299 | T |  | Eye surgery procedure | 0235 | 4.9900 | $270.90 | $72.04 | $54.18
67311 | T |  | Revise eye muscle | 0243 | 21.1035 | $1,145.69 | $431.39 | $229.14
67312 | T |  | Revise two eye muscles | 0243 | 21.1035 | $1,145.69 | $431.39 | $229.14
67314 | T |  | Revise eye muscle | 0243 | 21.1035 | $1,145.69 | $431.39 | $229.14
67316 | T |  | Revise two eye muscles | 0243 | 21.1035 | $1,145.69 | $431.39 | $229.14
67318 | T |  | Revise eye muscle(s) | 0243 | 21.1035 | $1,145.69 | $431.39 | $229.14
67320 | T |  | Revise eye muscle(s) add-on | 0243 | 21.1035 | $1,145.69 | $431.39 | $229.14
67331 | T |  | Eye surgery follow-up add-on | 0243 | 21.1035 | $1,145.69 | $431.39 | $229.14
67332 | T |  | Rerevise eye muscles add-on | 0243 | 21.1035 | $1,145.69 | $431.39 | $229.14
67334 | T |  | Revise eye muscle w/suture | 0243 | 21.1035 | $1,145.69 | $431.39 | $229.14
67335 | T |  | Eye suture during surgery | 0243 | 21.1035 | $1,145.69 | $431.39 | $229.14
67340 | T |  | Revise eye muscle add-on | 0243 | 21.1035 | $1,145.69 | $431.39 | $229.14
67343 | T |  | Release eye tissue | 0243 | 21.1035 | $1,145.69 | $431.39 | $229.14
67345 | T |  | Destroy nerve of eye muscle | 0238 | 3.2016 | $173.81 | $58.96 | $34.76
67350 | T |  | Biopsy eye muscle | 0699 | 2.2211 | $120.58 | $54.26 | $24.12
67399 | T |  | Eye muscle surgery procedure | 0243 | 21.1035 | $1,145.69 | $431.39 | $229.14
67400 | T |  | Explore/biopsy eye socket | 0241 | 21.9830 | $1,193.44 | $384.47 | $238.69
67405 | T |  | Explore/drain eye socket | 0241 | 21.9830 | $1,193.44 | $384.47 | $238.69
67412 | T |  | Explore/treat eye socket | 0241 | 21.9830 | $1,193.44 | $384.47 | $238.69
67413 | T |  | Explore/treat eye socket | 0241 | 21.9830 | $1,193.44 | $384.47 | $238.69
67414 | T |  | Explr/decompress eye socket | 0242 | 29.2193 | $1,586.29 | $597.36 | $317.26
67415 | T |  | Aspiration, orbital contents | 0239 | 6.2432 | $338.94 | $110.62 | $67.79
67420 | T |  | Explore/treat eye socket | 0242 | 29.2193 | $1,586.29 | $597.36 | $317.26
67430 | T |  | Explore/treat eye socket | 0242 | 29.2193 | $1,586.29 | $597.36 | $317.26
67440 | T |  | Explore/drain eye socket | 0242 | 29.2193 | $1,586.29 | $597.36 | $317.26
67445 | T |  | Explr/decompress eye socket | 0242 | 29.2193 | $1,586.29 | $597.36 | $317.26
67450 | T |  | Explore/biopsy eye socket | 0242 | 29.2193 | $1,586.29 | $597.36 | $317.26
67500 | S |  | Inject/treat eye socket | 0231 | 2.0880 | $113.36 | $50.94 | $22.67
67505 | T |  | Inject/treat eye socket | 0238 | 3.2016 | $173.81 | $58.96 | $34.76
67515 | T |  | Inject/treat eye socket | 0239 | 6.2432 | $338.94 | $110.62 | $67.79
67550 | T |  | Insert eye socket implant | 0242 | 29.2193 | $1,586.29 | $597.36 | $317.26
67560 | T |  | Revise eye socket implant | 0241 | 21.9830 | $1,193.44 | $384.47 | $238.69
67570 | T |  | Decompress optic nerve | 0242 | 29.2193 | $1,586.29 | $597.36 | $317.26
67599 | T |  | Orbit surgery procedure | 0239 | 6.2432 | $338.94 | $110.62 | $67.79
67700 | T |  | Drainage of eyelid abscess | 0238 | 3.2016 | $173.81 | $58.96 | $34.76
67710 | T |  | Incision of eyelid | 0239 | 6.2432 | $338.94 | $110.62 | $67.79
67715 | T |  | Incision of eyelid fold | 0240 | 17.3397 | $941.35 | $315.31 | $188.27
67800 | T |  | Remove eyelid lesion | 0238 | 3.2016 | $173.81 | $58.96 | $34.76
67801 | T |  | Remove eyelid lesions | 0239 | 6.2432 | $338.94 | $110.62 | $67.79
67805 | T |  | Remove eyelid lesions | 0238 | 3.2016 | $173.81 | $58.96 | $34.76
67808 | T |  | Remove eyelid lesion(s) | 0240 | 17.3397 | $941.35 | $315.31 | $188.27
67810 | T |  | Biopsy of eyelid | 0238 | 3.2016 | $173.81 | $58.96 | $34.76
67820 | S |  | Revise eyelashes | 0698 | 0.9355 | $50.79 | $18.72 | $10.16
67825 | T |  | Revise eyelashes | 0238 | 3.2016 | $173.81 | $58.96 | $34.76
67830 | T |  | Revise eyelashes | 0239 | 6.2432 | $338.94 | $110.62 | $67.79
67835 | T |  | Revise eyelashes | 0240 | 17.3397 | $941.35 | $315.31 | $188.27
67840 | T |  | Remove eyelid lesion | 0239 | 6.2432 | $338.94 | $110.62 | $67.79
67850 | T |  | Treat eyelid lesion | 0239 | 6.2432 | $338.94 | $110.62 | $67.79
67875 | T |  | Closure of eyelid by suture | 0239 | 6.2432 | $338.94 | $110.62 | $67.79
67880 | T |  | Revision of eyelid | 0233 | 14.5435 | $789.55 | $266.33 | $157.91
67882 | T |  | Revision of eyelid | 0240 | 17.3397 | $941.35 | $315.31 | $188.27
67900 | T |  | Repair brow defect | 0240 | 17.3397 | $941.35 | $315.31 | $188.27
67901 | T |  | Repair eyelid defect | 0240 | 17.3397 | $941.35 | $315.31 | $188.27
67902 | T |  | Repair eyelid defect | 0240 | 17.3397 | $941.35 | $315.31 | $188.27
67903 | T |  | Repair eyelid defect | 0240 | 17.3397 | $941.35 | $315.31 | $188.27
67904 | T |  | Repair eyelid defect | 0240 | 17.3397 | $941.35 | $315.31 | $188.27
67906 | T |  | Repair eyelid defect | 0240 | 17.3397 | $941.35 | $315.31 | $188.27
67908 | T |  | Repair eyelid defect | 0240 | 17.3397 | $941.35 | $315.31 | $188.27
67909 | T |  | Revise eyelid defect | 0240 | 17.3397 | $941.35 | $315.31 | $188.27
67911 | T |  | Revise eyelid defect | 0240 | 17.3397 | $941.35 | $315.31 | $188.27
67914 | T |  | Repair eyelid defect | 0240 | 17.3397 | $941.35 | $315.31 | $188.27
67915 | T |  | Repair eyelid defect | 0239 | 6.2432 | $338.94 | $110.62 | $67.79
67916 | T |  | Repair eyelid defect | 0240 | 17.3397 | $941.35 | $315.31 | $188.27
67917 | T |  | Repair eyelid defect | 0240 | 17.3397 | $941.35 | $315.31 | $188.27
67921 | T |  | Repair eyelid defect | 0240 | 17.3397 | $941.35 | $315.31 | $188.27
67922 | T |  | Repair eyelid defect | 0239 | 6.2432 | $338.94 | $110.62 | $67.79
67923 | T |  | Repair eyelid defect | 0240 | 17.3397 | $941.35 | $315.31 | $188.27
67924 | T |  | Repair eyelid defect | 0240 | 17.3397 | $941.35 | $315.31 | $188.27
67930 | T |  | Repair eyelid wound | 0240 | 17.3397 | $941.35 | $315.31 | $188.27
67935 | T |  | Repair eyelid wound | 0240 | 17.3397 | $941.35 | $315.31 | $188.27
67938 | S |  | Remove eyelid foreign body | 0698 | 0.9355 | $50.79 | $18.72 | $10.16
67950 | T |  | Revision of eyelid | 0240 | 17.3397 | $941.35 | $315.31 | $188.27
67961 | T |  | Revision of eyelid | 0240 | 17.3397 | $941.35 | $315.31 | $188.27
67966 | T |  | Revision of eyelid | 0240 | 17.3397 | $941.35 | $315.31 | $188.27
67971 | T |  | Reconstruction of eyelid | 0241 | 21.9830 | $1,193.44 | $384.47 | $238.69
67973 | T |  | Reconstruction of eyelid | 0241 | 21.9830 | $1,193.44 | $384.47 | $238.69
67974 | T |  | Reconstruction of eyelid | 0241 | 21.9830 | $1,193.44 | $384.47 | $238.69
67975 | T |  | Reconstruction of eyelid | 0240 | 17.3397 | $941.35 | $315.31 | $188.27
67999 | T |  | Revision of eyelid | 0240 | 17.3397 | $941.35 | $315.31 | $188.27
68020 | T |  | Incise/drain eyelid lining | 0240 | 17.3397 | $941.35 | $315.31 | $188.27
68040 | S |  | Treatment of eyelid lesions | 0698 | 0.9355 | $50.79 | $18.72 | $10.16
68100 | T |  | Biopsy of eyelid lining | 0232 | 4.9739 | $270.03 | $103.17 | $54.01
68110 | T |  | Remove eyelid lining lesion | 0699 | 2.2211 | $120.58 | $54.26 | $24.12
68115 | T |  | Remove eyelid lining lesion | 0239 | 6.2432 | $338.94 | $110.62 | $67.79
68130 | T |  | Remove eyelid lining lesion | 0233 | 14.5435 | $789.55 | $266.33 | $157.91
68135 | T |  | Remove eyelid lining lesion | 0239 | 6.2432 | $338.94 | $110.62 | $67.79
68200 | S |  | Treat eyelid by injection | 0698 | 0.9355 | $50.79 | $18.72 | $10.16
68320 | T |  | Revise/graft eyelid lining | 0240 | 17.3397 | $941.35 | $315.31 | $188.27
68325 | T |  | Revise/graft eyelid lining | 0242 | 29.2193 | $1,586.29 | $597.36 | $317.26
68326 | T |  | Revise/graft eyelid lining | 0241 | 21.9830 | $1,193.44 | $384.47 | $238.69
68328 | T |  | Revise/graft eyelid lining | 0241 | 21.9830 | $1,193.44 | $384.47 | $238.69
68330 | T |  | Revise eyelid lining | 0233 | 14.5435 | $789.55 | $266.33 | $157.91
68335 | T |  | Revise/graft eyelid lining | 0241 | 21.9830 | $1,193.44 | $384.47 | $238.69
68340 | T |  | Separate eyelid adhesions | 0240 | 17.3397 | $941.35 | $315.31 | $188.27
68360 | T |  | Revise eyelid lining | 0234 | 21.5482 | $1,169.83 | $511.31 | $233.97
68362 | T |  | Revise eyelid lining | 0234 | 21.5482 | $1,169.83 | $511.31 | $233.97
68399 | T |  | Eyelid lining surgery | 0239 | 6.2432 | $338.94 | $110.62 | $67.79
68400 | T |  | Incise/drain tear gland | 0238 | 3.2016 | $173.81 | $58.96 | $34.76
68420 | T |  | Incise/drain tear sac | 0240 | 17.3397 | $941.35 | $315.31 | $188.27
68440 | T |  | Incise tear duct opening | 0238 | 3.2016 | $173.81 | $58.96 | $34.76
68500 | T |  | Removal of tear gland | 0241 | 21.9830 | $1,193.44 | $384.47 | $238.69
68505 | T |  | Partial removal, tear gland | 0241 | 21.9830 | $1,193.44 | $384.47 | $238.69
68510 | T |  | Biopsy of tear gland | 0240 | 17.3397 | $941.35 | $315.31 | $188.27
68520 | T |  | Removal of tear sac | 0241 | 21.9830 | $1,193.44 | $384.47 | $238.69
68525 | T |  | Biopsy of tear sac | 0240 | 17.3397 | $941.35 | $315.31 | $188.27
68530 | T |  | Clearance of tear duct | 0240 | 17.3397 | $941.35 | $315.31 | $188.27
68540 | T |  | Remove tear gland lesion | 0241 | 21.9830 | $1,193.44 | $384.47 | $238.69
68550 | T |  | Remove tear gland lesion | 0242 | 29.2193 | $1,586.29 | $597.36 | $317.26
68700 | T |  | Repair tear ducts | 0241 | 21.9830 | $1,193.44 | $384.47 | $238.69
68705 | T |  | Revise tear duct opening | 0238 | 3.2016 | $173.81 | $58.96 | $34.76
68720 | T |  | Create tear sac drain | 0242 | 29.2193 | $1,586.29 | $597.36 | $317.26
68745 | T |  | Create tear duct drain | 0241 | 21.9830 | $1,193.44 | $384.47 | $238.69
68750 | T |  | Create tear duct drain | 0242 | 29.2193 | $1,586.29 | $597.36 | $317.26
68760 | S |  | Close tear duct opening | 0698 | 0.9355 | $50.79 | $18.72 | $10.16
68761 | S |  | Close tear duct opening | 0231 | 2.0880 | $113.36 | $50.94 | $22.67
68770 | T |  | Close tear system fistula | 0240 | 17.3397 | $941.35 | $315.31 | $188.27
68801 | S |  | Dilate tear duct opening | 0231 | 2.0880 | $113.36 | $50.94 | $22.67
68810 | T |  | Probe nasolacrimal duct | 0699 | 2.2211 | $120.58 | $54.26 | $24.12
68811 | T |  | Probe nasolacrimal duct | 0240 | 17.3397 | $941.35 | $315.31 | $188.27
68815 | T |  | Probe nasolacrimal duct | 0240 | 17.3397 | $941.35 | $315.31 | $188.27
68840 | T |  | Explore/irrigate tear ducts | 0699 | 2.2211 | $120.58 | $54.26 | $24.12
68850 | N |  | Injection for tear sac x-ray |  |  |  |  |
68899 | T |  | Tear duct system surgery | 0699 | 2.2211 | $120.58 | $54.26 | $24.12
69000 | T |  | Drain external ear lesion | 0006 | 1.7487 | $94.94 | $24.12 | $18.99
69005 | T |  | Drain external ear lesion | 0007 | 11.4943 | $624.01 |  | $124.80
69020 | T |  | Drain outer ear canal lesion | 0006 | 1.7487 | $94.94 | $24.12 | $18.99
69090 | E |  | Pierce earlobes |  |  |  |  |
69100 | T |  | Biopsy of external ear | 0019 | 3.9807 | $216.11 | $71.87 | $43.22
69105 | T |  | Biopsy of external ear canal | 0253 | 15.1698 | $823.55 | $282.29 | $164.71
69110 | T |  | Remove external ear, partial | 0021 | 14.5749 | $791.26 | $219.48 | $158.25
69120 | T |  | Removal of external ear | 0254 | 21.4368 | $1,163.78 | $321.35 | $232.76
69140 | T |  | Remove ear canal lesion(s) | 0254 | 21.4368 | $1,163.78 | $321.35 | $232.76
69145 | T |  | Remove ear canal lesion(s) | 0021 | 14.5749 | $791.26 | $219.48 | $158.25
69150 | T |  | Extensive ear canal surgery | 0252 | 6.5416 | $355.14 | $113.41 | $71.03
69155 | C |  | Extensive ear/neck surgery |  |  |  |  |
69200 | X |  | Clear outer ear canal | 0340 | 0.6232 | $33.83 |  | $6.77
69205 | T |  | Clear outer ear canal | 0022 | 18.6725 | $1,013.71 | $354.45 | $202.74
69210 | X |  | Remove impacted ear wax | 0340 | 0.6232 | $33.83 |  | $6.77
69220 | T |  | Clean out mastoid cavity | 0012 | 0.8203 | $44.53 | $11.18 | $8.91
69222 | T |  | Clean out mastoid cavity | 0253 | 15.1698 | $823.55 | $282.29 | $164.71
69300 | T |  | Revise external ear | 0254 | 21.4368 | $1,163.78 | $321.35 | $232.76
69310 | T |  | Rebuild outer ear canal | 0256 | 35.0866 | $1,904.82 |  | $380.96
69320 | T |  | Rebuild outer ear canal | 0256 | 35.0866 | $1,904.82 |  | $380.96
69399 | T |  | Outer ear surgery procedure | 0251 | 1.8643 | $101.21 |  | $20.24
69400 | T |  | Inflate middle ear canal | 0251 | 1.8643 | $101.21 |  | $20.24
69401 | T |  | Inflate middle ear canal | 0251 | 1.8643 | $101.21 |  | $20.24
69405 | T |  | Catheterize middle ear canal | 0252 | 6.5416 | $355.14 | $113.41 | $71.03
69410 | T |  | Inset middle ear (baffle) | 0252 | 6.5416 | $355.14 | $113.41 | $71.03
69420 | T |  | Incision of eardrum | 0252 | 6.5416 | $355.14 | $113.41 | $71.03
69421 | T |  | Incision of eardrum | 0253 | 15.1698 | $823.55 | $282.29 | $164.71
69424 | T |  | Remove ventilating tube | 0252 | 6.5416 | $355.14 | $113.41 | $71.03
69433 | T |  | Create eardrum opening | 0252 | 6.5416 | $355.14 | $113.41 | $71.03
69436 | T |  | Create eardrum opening | 0253 | 15.1698 | $823.55 | $282.29 | $164.71
69440 | T |  | Exploration of middle ear | 0254 | 21.4368 | $1,163.78 | $321.35 | $232.76
69450 | T |  | Eardrum revision | 0256 | 35.0866 | $1,904.82 |  | $380.96
69501 | T |  | Mastoidectomy | 0256 | 35.0866 | $1,904.82 |  | $380.96
69502 | T |  | Mastoidectomy | 0254 | 21.4368 | $1,163.78 | $321.35 | $232.76
69505 | T |  | Remove mastoid structures | 0256 | 35.0866 | $1,904.82 |  | $380.96
69511 | T |  | Extensive mastoid surgery | 0256 | 35.0866 | $1,904.82 |  | $380.96
69530 | T |  | Extensive mastoid surgery | 0256 | 35.0866 | $1,904.82 |  | $380.96
69535 | C |  | Remove part of temporal bone |  |  |  |  |
69540 | T |  | Remove ear lesion | 0253 | 15.1698 | $823.55 | $282.29 | $164.71
69550 | T |  | Remove ear lesion | 0256 | 35.0866 | $1,904.82 |  | $380.96
69552 | T |  | Remove ear lesion | 0256 | 35.0866 | $1,904.82 |  | $380.96
69554 | C |  | Remove ear lesion |  |  |  |  |
69601 | T |  | Mastoid surgery revision | 0256 | 35.0866 | $1,904.82 |  | $380.96
69602 | T |  | Mastoid surgery revision | 0256 | 35.0866 | $1,904.82 |  | $380.96
69603 | T |  | Mastoid surgery revision | 0256 | 35.0866 | $1,904.82 |  | $380.96
69604 | T |  | Mastoid surgery revision | 0256 | 35.0866 | $1,904.82 |  | $380.96
69605 | T |  | Mastoid surgery revision | 0256 | 35.0866 | $1,904.82 |  | $380.96
69610 | T |  | Repair of eardrum | 0254 | 21.4368 | $1,163.78 | $321.35 | $232.76
69620 | T |  | Repair of eardrum | 0254 | 21.4368 | $1,163.78 | $321.35 | $232.76
69631 | T |  | Repair eardrum structures | 0256 | 35.0866 | $1,904.82 |  | $380.96
69632 | T |  | Rebuild eardrum structures | 0256 | 35.0866 | $1,904.82 |  | $380.96
69633 | T |  | Rebuild eardrum structures | 0256 | 35.0866 | $1,904.82 |  | $380.96
69635 | T |  | Repair eardrum structures | 0256 | 35.0866 | $1,904.82 |  | $380.96
69636 | T |  | Rebuild eardrum structures | 0256 | 35.0866 | $1,904.82 |  | $380.96
69637 | T |  | Rebuild eardrum structures | 0256 | 35.0866 | $1,904.82 |  | $380.96
69641 | T |  | Revise middle ear & mastoid | 0256 | 35.0866 | $1,904.82 |  | $380.96
69642 | T |  | Revise middle ear & mastoid | 0256 | 35.0866 | $1,904.82 |  | $380.96
69643 | T |  | Revise middle ear & mastoid | 0256 | 35.0866 | $1,904.82 |  | $380.96
69644 | T |  | Revise middle ear & mastoid | 0256 | 35.0866 | $1,904.82 |  | $380.96
69645 | T |  | Revise middle ear & mastoid | 0256 | 35.0866 | $1,904.82 |  | $380.96
69646 | T |  | Revise middle ear & mastoid | 0256 | 35.0866 | $1,904.82 |  | $380.96
69650 | T |  | Release middle ear bone | 0254 | 21.4368 | $1,163.78 | $321.35 | $232.76
69660 | T |  | Revise middle ear bone | 0256 | 35.0866 | $1,904.82 |  | $380.96
69661 | T |  | Revise middle ear bone | 0256 | 35.0866 | $1,904.82 |  | $380.96
69662 | T |  | Revise middle ear bone | 0256 | 35.0866 | $1,904.82 |  | $380.96
69666 | T |  | Repair middle ear structures | 0256 | 35.0866 | $1,904.82 |  | $380.96
69667 | T |  | Repair middle ear structures | 0256 | 35.0866 | $1,904.82 |  | $380.96
69670 | T |  | Remove mastoid air cells | 0256 | 35.0866 | $1,904.82 |  | $380.96
69676 | T |  | Remove middle ear nerve | 0256 | 35.0866 | $1,904.82 |  | $380.96
69700 | T |  | Close mastoid fistula | 0256 | 35.0866 | $1,904.82 |  | $380.96
69710 | E |  | Implant/replace hearing aid |  |  |  |  |
69711 | T |  | Remove/repair hearing aid | 0256 | 35.0866 | $1,904.82 |  | $380.96
69714 | T |  | Implant temple bone w/stimul | 0256 | 35.0866 | $1,904.82 |  | $380.96
69715 | T |  | Temple bne implnt w/stimulat | 0256 | 35.0866 | $1,904.82 |  | $380.96
69717 | T |  | Temple bone implant revision | 0256 | 35.0866 | $1,904.82 |  | $380.96
69718 | T |  | Revise temple bone implant | 0256 | 35.0866 | $1,904.82 |  | $380.96
69720 | T |  | Release facial nerve | 0256 | 35.0866 | $1,904.82 |  | $380.96
69725 | T |  | Release facial nerve | 0256 | 35.0866 | $1,904.82 |  | $380.96
69740 | T |  | Repair facial nerve | 0256 | 35.0866 | $1,904.82 |  | $380.96
69745 | T |  | Repair facial nerve | 0256 | 35.0866 | $1,904.82 |  | $380.96
69799 | T |  | Middle ear surgery procedure | 0253 | 15.1698 | $823.55 | $282.29 | $164.71
69801 | T |  | Incise inner ear | 0256 | 35.0866 | $1,904.82 |  | $380.96
69802 | T |  | Incise inner ear | 0256 | 35.0866 | $1,904.82 |  | $380.96
69805 | T |  | Explore inner ear | 0256 | 35.0866 | $1,904.82 |  | $380.96
69806 | T |  | Explore inner ear | 0256 | 35.0866 | $1,904.82 |  | $380.96
69820 | T |  | Establish inner ear window | 0256 | 35.0866 | $1,904.82 |  | $380.96
69840 | T |  | Revise inner ear window | 0256 | 35.0866 | $1,904.82 |  | $380.96
69905 | T |  | Remove inner ear | 0256 | 35.0866 | $1,904.82 |  | $380.96
69910 | T |  | Remove inner ear & mastoid | 0256 | 35.0866 | $1,904.82 |  | $380.96
69915 | T |  | Incise inner ear nerve | 0256 | 35.0866 | $1,904.82 |  | $380.96
69930 | T |  | Implant cochlear device | 0259 | 389.1764 | $21,128.00 | $9,394.83 | $4,225.60
69949 | T |  | Inner ear surgery procedure | 0253 | 15.1698 | $823.55 | $282.29 | $164.71
69950 | C |  | Incise inner ear nerve |  |  |  |  |
69955 | T |  | Release facial nerve | 0256 | 35.0866 | $1,904.82 |  | $380.96
69960 | T |  | Release inner ear canal | 0256 | 35.0866 | $1,904.82 |  | $380.96
69970 | C |  | Remove inner ear lesion |  |  |  |  |
69979 | T |  | Temporal bone surgery | 0251 | 1.8643 | $101.21 |  | $20.24
69990 | N |  | Microsurgery add-on |  |  |  |  |
70010 | S |  | Contrast x-ray of brain | 0274 | 3.5837 | $194.56 | $92.92 | $38.91
70015 | S |  | Contrast x-ray of brain | 0274 | 3.5837 | $194.56 | $92.92 | $38.91
70030 | X |  | X-ray eye for foreign body | 0260 | 0.7845 | $42.59 | $21.29 | $8.52
70100 | X |  | X-ray exam of jaw | 0260 | 0.7845 | $42.59 | $21.29 | $8.52
70110 | X |  | X-ray exam of jaw | 0260 | 0.7845 | $42.59 | $21.29 | $8.52
70120 | X |  | X-ray exam of mastoids | 0260 | 0.7845 | $42.59 | $21.29 | $8.52
70130 | X |  | X-ray exam of mastoids | 0260 | 0.7845 | $42.59 | $21.29 | $8.52
70134 | X |  | X-ray exam of middle ear | 0261 | 1.3238 | $71.87 |  | $14.37
70140 | X |  | X-ray exam of facial bones | 0260 | 0.7845 | $42.59 | $21.29 | $8.52
70150 | X |  | X-ray exam of facial bones | 0260 | 0.7845 | $42.59 | $21.29 | $8.52
70160 | X |  | X-ray exam of nasal bones | 0260 | 0.7845 | $42.59 | $21.29 | $8.52
70170 | X |  | X-ray exam of tear duct | 0263 | 2.1875 | $118.76 | $43.58 | $23.75
70190 | X |  | X-ray exam of eye sockets | 0260 | 0.7845 | $42.59 | $21.29 | $8.52
70200 | X |  | X-ray exam of eye sockets | 0260 | 0.7845 | $42.59 | $21.29 | $8.52
70210 | X |  | X-ray exam of sinuses | 0260 | 0.7845 | $42.59 | $21.29 | $8.52
70220 | X |  | X-ray exam of sinuses | 0260 | 0.7845 | $42.59 | $21.29 | $8.52
70240 | X |  | X-ray exam, pituitary saddle | 0260 | 0.7845 | $42.59 | $21.29 | $8.52
70250 | X |  | X-ray exam of skull | 0260 | 0.7845 | $42.59 | $21.29 | $8.52
70260 | X |  | X-ray exam of skull | 0261 | 1.3238 | $71.87 |  | $14.37
70300 | X |  | X-ray exam of teeth | 0262 | 0.7851 | $42.62 | $9.82 | $8.52
70310 | X |  | X-ray exam of teeth | 0262 | 0.7851 | $42.62 | $9.82 | $8.52
70320 | X |  | Full mouth x-ray of teeth | 0262 | 0.7851 | $42.62 | $9.82 | $8.52
70328 | X |  | X-ray exam of jaw joint | 0260 | 0.7845 | $42.59 | $21.29 | $8.52
70330 | X |  | X-ray exam of jaw joints | 0260 | 0.7845 | $42.59 | $21.29 | $8.52
70332 | S |  | X-ray exam of jaw joint | 0275 | 3.2967 | $178.97 | $69.09 | $35.79
70336 | S |  | Magnetic image, jaw joint | 0335 | 6.4453 | $349.91 | $151.46 | $69.98
70350 | X |  | X-ray head for orthodontia | 0260 | 0.7845 | $42.59 | $21.29 | $8.52
70355 | X |  | Panoramic x-ray of jaws | 0260 | 0.7845 | $42.59 | $21.29 | $8.52
70360 | X |  | X-ray exam of neck | 0260 | 0.7845 | $42.59 | $21.29 | $8.52
70370 | X |  | Throat x-ray & fluoroscopy | 0272 | 1.4086 | $76.47 | $38.23 | $15.29
70371 | X |  | Speech evaluation, complex | 0272 | 1.4086 | $76.47 | $38.23 | $15.29
70373 | X |  | Contrast x-ray of larynx | 0263 | 2.1875 | $118.76 | $43.58 | $23.75
70380 | X |  | X-ray exam of salivary gland | 0260 | 0.7845 | $42.59 | $21.29 | $8.52
70390 | X |  | X-ray exam of salivary duct | 0264 | 3.0022 | $162.99 | $79.41 | $32.60
70450 | S |  | Ct head/brain w/o dye | 0332 | 3.3916 | $184.13 | $91.27 | $36.83
70460 | S |  | Ct head/brain w/dye | 0283 | 4.6121 | $250.39 | $125.19 | $50.08
70470 | S |  | Ct head/brain w/o&w dye | 0333 | 5.4299 | $294.78 | $146.98 | $58.96
70480 | S |  | Ct orbit/ear/fossa w/o dye | 0332 | 3.3916 | $184.13 | $91.27 | $36.83
70481 | S |  | Ct orbit/ear/fossa w/dye | 0283 | 4.6121 | $250.39 | $125.19 | $50.08
70482 | S |  | Ct orbit/ear/fossa w/o&w dye | 0333 | 5.4299 | $294.78 | $146.98 | $58.96
70486 | S |  | Ct maxillofacial w/o dye | 0332 | 3.3916 | $184.13 | $91.27 | $36.83
70487 | S |  | Ct maxillofacial w/dye | 0283 | 4.6121 | $250.39 | $125.19 | $50.08
70488 | S |  | Ct maxillofacial w/o&w dye | 0333 | 5.4299 | $294.78 | $146.98 | $58.96
70490 | S |  | Ct soft tissue neck w/o dye | 0332 | 3.3916 | $184.13 | $91.27 | $36.83
70491 | S |  | Ct soft tissue neck w/dye | 0283 | 4.6121 | $250.39 | $125.19 | $50.08
70492 | S |  | Ct sft tsue nck w/o & w/dye | 0333 | 5.4299 | $294.78 | $146.98 | $58.96
70496 | S |  | Ct angiography, head | 0662 | 5.8751 | $318.95 | $156.47 | $63.79
70498 | S |  | Ct angiography, neck | 0662 | 5.8751 | $318.95 | $156.47 | $63.79
70540 | S |  | Mri orbit/face/neck w/o dye | 0336 | 6.4817 | $351.89 | $175.94 | $70.38
70542 | S |  | Mri orbit/face/neck w/dye | 0284 | 7.0207 | $381.15 | $190.57 | $76.23
70543 | S |  | Mri orbt/fac/nck w/o&w dye | 0337 | 9.3215 | $506.05 | $240.77 | $101.21
70544 | S |  | Mr angiography head w/o dye | 0336 | 6.4817 | $351.89 | $175.94 | $70.38
70545 | S |  | Mr angiography head w/dye | 0284 | 7.0207 | $381.15 | $190.57 | $76.23
70546 | S |  | Mr angiograph head w/o&w dye | 0337 | 9.3215 | $506.05 | $240.77 | $101.21
70547 | S |  | Mr angiography neck w/o dye | 0336 | 6.4817 | $351.89 | $175.94 | $70.38
70548 | S |  | Mr angiography neck w/dye | 0284 | 7.0207 | $381.15 | $190.57 | $76.23
70549 | S |  | Mr angiograph neck w/o&w dye | 0337 | 9.3215 | $506.05 | $240.77 | $101.21
70551 | S |  | Mri brain w/o dye | 0336 | 6.4817 | $351.89 | $175.94 | $70.38
70552 | S |  | Mri brain w/dye | 0284 | 7.0207 | $381.15 | $190.57 | $76.23
70553 | S |  | Mri brain w/o&w dye | 0337 | 9.3215 | $506.05 | $240.77 | $101.21
71010 | X |  | Chest x-ray | 0260 | 0.7845 | $42.59 | $21.29 | $8.52
71015 | X |  | Chest x-ray | 0260 | 0.7845 | $42.59 | $21.29 | $8.52
71020 | X |  | Chest x-ray | 0260 | 0.7845 | $42.59 | $21.29 | $8.52
71021 | X |  | Chest x-ray | 0260 | 0.7845 | $42.59 | $21.29 | $8.52
71022 | X |  | Chest x-ray | 0260 | 0.7845 | $42.59 | $21.29 | $8.52
71023 | X |  | Chest x-ray and fluoroscopy | 0272 | 1.4086 | $76.47 | $38.23 | $15.29
71030 | X |  | Chest x-ray | 0260 | 0.7845 | $42.59 | $21.29 | $8.52
71034 | X |  | Chest x-ray and fluoroscopy | 0272 | 1.4086 | $76.47 | $38.23 | $15.29
71035 | X |  | Chest x-ray | 0260 | 0.7845 | $42.59 | $21.29 | $8.52
71040 | X |  | Contrast x-ray of bronchi | 0263 | 2.1875 | $118.76 | $43.58 | $23.75
71060 | X |  | Contrast x-ray of bronchi | 0264 | 3.0022 | $162.99 | $79.41 | $32.60
71090 | X |  | X-ray & pacemaker insertion | 0272 | 1.4086 | $76.47 | $38.23 | $15.29
71100 | X |  | X-ray exam of ribs | 0260 | 0.7845 | $42.59 | $21.29 | $8.52
71101 | X |  | X-ray exam of ribs/chest | 0260 | 0.7845 | $42.59 | $21.29 | $8.52
71110 | X |  | X-ray exam of ribs | 0260 | 0.7845 | $42.59 | $21.29 | $8.52
71111 | X |  | X-ray exam of ribs/ chest | 0261 | 1.3238 | $71.87 |  | $14.37
71120 | X |  | X-ray exam of breastbone | 0260 | 0.7845 | $42.59 | $21.29 | $8.52
71130 | X |  | X-ray exam of breastbone | 0260 | 0.7845 | $42.59 | $21.29 | $8.52
71250 | S |  | Ct thorax w/o dye | 0332 | 3.3916 | $184.13 | $91.27 | $36.83
71260 | S |  | Ct thorax w/dye | 0283 | 4.6121 | $250.39 | $125.19 | $50.08
71270 | S |  | Ct thorax w/o&w dye | 0333 | 5.4299 | $294.78 | $146.98 | $58.96
71275 | S |  | Ct angiography, chest | 0662 | 5.8751 | $318.95 | $156.47 | $63.79
71550 | S |  | Mri chest w/o dye | 0336 | 6.4817 | $351.89 | $175.94 | $70.38
71551 | S |  | Mri chest w/dye | 0284 | 7.0207 | $381.15 | $190.57 | $76.23
71552 | S |  | Mri chest w/o&w/dye | 0337 | 9.3215 | $506.05 | $240.77 | $101.21
71555 | E |  | Mri angio chest w or w/o dye |  |  |  |  |
72010 | X |  | X-ray exam of spine | 0261 | 1.3238 | $71.87 |  | $14.37
72020 | X |  | X-ray exam of spine | 0260 | 0.7845 | $42.59 | $21.29 | $8.52
72040 | X |  | X-ray exam of neck spine | 0260 | 0.7845 | $42.59 | $21.29 | $8.52
72050 | X |  | X-ray exam of neck spine | 0261 | 1.3238 | $71.87 |  | $14.37
72052 | X |  | X-ray exam of neck spine | 0261 | 1.3238 | $71.87 |  | $14.37
72069 | X |  | X-ray exam of trunk spine | 0260 | 0.7845 | $42.59 | $21.29 | $8.52
72070 | X |  | X-ray exam of thoracic spine | 0260 | 0.7845 | $42.59 | $21.29 | $8.52
72072 | X |  | X-ray exam of thoracic spine | 0260 | 0.7845 | $42.59 | $21.29 | $8.52
72074 | X |  | X-ray exam of thoracic spine | 0260 | 0.7845 | $42.59 | $21.29 | $8.52
72080 | X |  | X-ray exam of trunk spine | 0260 | 0.7845 | $42.59 | $21.29 | $8.52
72090 | X |  | X-ray exam of trunk spine | 0261 | 1.3238 | $71.87 |  | $14.37
72100 | X |  | X-ray exam of lower spine | 0260 | 0.7845 | $42.59 | $21.29 | $8.52
72110 | X |  | X-ray exam of lower spine | 0261 | 1.3238 | $71.87 |  | $14.37
72114 | X |  | X-ray exam of lower spine | 0261 | 1.3238 | $71.87 |  | $14.37
72120 | X |  | X-ray exam of lower spine | 0260 | 0.7845 | $42.59 | $21.29 | $8.52
72125 | S |  | Ct neck spine w/o dye | 0332 | 3.3916 | $184.13 | $91.27 | $36.83
72126 | S |  | Ct neck spine w/dye | 0283 | 4.6121 | $250.39 | $125.19 | $50.08
72127 | S |  | Ct neck spine w/o&w/dye | 0333 | 5.4299 | $294.78 | $146.98 | $58.96
72128 | S |  | Ct chest spine w/o dye | 0332 | 3.3916 | $184.13 | $91.27 | $36.83
72129 | S |  | Ct chest spine w/dye | 0283 | 4.6121 | $250.39 | $125.19 | $50.08
72130 | S |  | Ct chest spine w/o&w/dye | 0333 | 5.4299 | $294.78 | $146.98 | $58.96
72131 | S |  | Ct lumbar spine w/o dye | 0332 | 3.3916 | $184.13 | $91.27 | $36.83
72132 | S |  | Ct lumbar spine w/dye | 0283 | 4.6121 | $250.39 | $125.19 | $50.08
72133 | S |  | Ct lumbar spine w/o&w/dye | 0333 | 5.4299 | $294.78 | $146.98 | $58.96
72141 | S |  | Mri neck spine w/o dye | 0336 | 6.4817 | $351.89 | $175.94 | $70.38
72142 | S |  | Mri neck spine w/dye | 0284 | 7.0207 | $381.15 | $190.57 | $76.23
72146 | S |  | Mri chest spine w/o dye | 0336 | 6.4817 | $351.89 | $175.94 | $70.38
72147 | S |  | Mri chest spine w/dye | 0284 | 7.0207 | $381.15 | $190.57 | $76.23
72148 | S |  | Mri lumbar spine w/o dye | 0336 | 6.4817 | $351.89 | $175.94 | $70.38
72149 | S |  | Mri lumbar spine w/dye | 0284 | 7.0207 | $381.15 | $190.57 | $76.23
72156 | S |  | Mri neck spine w/o&w/dye | 0337 | 9.3215 | $506.05 | $240.77 | $101.21
72157 | S |  | Mri chest spine w/o&w/dye | 0337 | 9.3215 | $506.05 | $240.77 | $101.21
72158 | S |  | Mri lumbar spine w/o&w/dye | 0337 | 9.3215 | $506.05 | $240.77 | $101.21
72159 | E |  | Mr angio spine w/o&w/dye |  |  |  |  |
72170 | X |  | X-ray exam of pelvis | 0260 | 0.7845 | $42.59 | $21.29 | $8.52
72190 | X |  | X-ray exam of pelvis | 0260 | 0.7845 | $42.59 | $21.29 | $8.52
72191 | S |  | Ct angiograph pelv w/o&w/dye | 0662 | 5.8751 | $318.95 | $156.47 | $63.79
72192 | S |  | Ct pelvis w/o dye | 0332 | 3.3916 | $184.13 | $91.27 | $36.83
72193 | S |  | Ct pelvis w/dye | 0283 | 4.6121 | $250.39 | $125.19 | $50.08
72194 | S |  | Ct pelvis w/o&w/dye | 0333 | 5.4299 | $294.78 | $146.98 | $58.96
72195 | S |  | Mri pelvis w/o dye | 0336 | 6.4817 | $351.89 | $175.94 | $70.38
72196 | S |  | Mri pelvis w/dye | 0284 | 7.0207 | $381.15 | $190.57 | $76.23
72197 | S |  | Mri pelvis w/o & w/dye | 0337 | 9.3215 | $506.05 | $240.77 | $101.21
72198 | E |  | Mr angio pelvis w/o&w/dye |  |  |  |  |
72200 | X |  | X-ray exam sacroiliac joints | 0260 | 0.7845 | $42.59 | $21.29 | $8.52
72202 | X |  | X-ray exam sacroiliac joints | 0260 | 0.7845 | $42.59 | $21.29 | $8.52
72220 | X |  | X-ray exam of tailbone | 0260 | 0.7845 | $42.59 | $21.29 | $8.52
72240 | S |  | Contrast x-ray of neck spine | 0274 | 3.5837 | $194.56 | $92.92 | $38.91
72255 | S |  | Contrast x-ray, thorax spine | 0274 | 3.5837 | $194.56 | $92.92 | $38.91
72265 | S |  | Contrast x-ray, lower spine | 0274 | 3.5837 | $194.56 | $92.92 | $38.91
72270 | S |  | Contrast x-ray of spine | 0274 | 3.5837 | $194.56 | $92.92 | $38.91
72275 | S |  | Epidurography | 0274 | 3.5837 | $194.56 | $92.92 | $38.91
72285 | S |  | X-ray c/t spine disk | 0388 | 11.7450 | $637.62 | $304.54 | $127.52
72295 | S |  | X-ray of lower spine disk | 0388 | 11.7450 | $637.62 | $304.54 | $127.52
73000 | X |  | X-ray exam of collar bone | 0260 | 0.7845 | $42.59 | $21.29 | $8.52
73010 | X |  | X-ray exam of shoulder blade | 0260 | 0.7845 | $42.59 | $21.29 | $8.52
73020 | X |  | X-ray exam of shoulder | 0260 | 0.7845 | $42.59 | $21.29 | $8.52
73030 | X |  | X-ray exam of shoulder | 0260 | 0.7845 | $42.59 | $21.29 | $8.52
73040 | S |  | Contrast x-ray of shoulder | 0275 | 3.2967 | $178.97 | $69.09 | $35.79
73050 | X |  | X-ray exam of shoulders | 0260 | 0.7845 | $42.59 | $21.29 | $8.52
73060 | X |  | X-ray exam of humerus | 0260 | 0.7845 | $42.59 | $21.29 | $8.52
73070 | X |  | X-ray exam of elbow | 0260 | 0.7845 | $42.59 | $21.29 | $8.52
73080 | X |  | X-ray exam of elbow | 0260 | 0.7845 | $42.59 | $21.29 | $8.52
73085 | S |  | Contrast x-ray of elbow | 0275 | 3.2967 | $178.97 | $69.09 | $35.79
73090 | X |  | X-ray exam of forearm | 0260 | 0.7845 | $42.59 | $21.29 | $8.52
73092 | X |  | X-ray exam of arm, infant | 0260 | 0.7845 | $42.59 | $21.29 | $8.52
73100 | X |  | X-ray exam of wrist | 0260 | 0.7845 | $42.59 | $21.29 | $8.52
73110 | X |  | X-ray exam of wrist | 0260 | 0.7845 | $42.59 | $21.29 | $8.52
73115 | S |  | Contrast x-ray of wrist | 0275 | 3.2967 | $178.97 | $69.09 | $35.79
73120 | X |  | X-ray exam of hand | 0260 | 0.7845 | $42.59 | $21.29 | $8.52
73130 | X |  | X-ray exam of hand | 0260 | 0.7845 | $42.59 | $21.29 | $8.52
73140 | X |  | X-ray exam of finger(s) | 0260 | 0.7845 | $42.59 | $21.29 | $8.52
73200 | S |  | Ct upper extremity w/o dye | 0332 | 3.3916 | $184.13 | $91.27 | $36.83
73201 | S |  | Ct upper extremity w/dye | 0283 | 4.6121 | $250.39 | $125.19 | $50.08
73202 | S |  | Ct uppr extremity w/o&w/dye | 0333 | 5.4299 | $294.78 | $146.98 | $58.96
73206 | S |  | Ct angio upr extrm w/o&w/dye | 0662 | 5.8751 | $318.95 | $156.47 | $63.79
73218 | S |  | Mri upper extremity w/o dye | 0336 | 6.4817 | $351.89 | $175.94 | $70.38
73219 | S |  | Mri upper extremity w/dye | 0284 | 7.0207 | $381.15 | $190.57 | $76.23
73220 | S |  | Mri uppr extremity w/o&w/dye | 0337 | 9.3215 | $506.05 | $240.77 | $101.21
73221 | S |  | Mri joint upr extrem w/o dye | 0336 | 6.4817 | $351.89 | $175.94 | $70.38
73222 | S |  | Mri joint upr extrem w/dye | 0284 | 7.0207 | $381.15 | $190.57 | $76.23
73223 | S |  | Mri joint upr extr w/o&w/dye | 0337 | 9.3215 | $506.05 | $240.77 | $101.21
73225 | E |  | Mr angio upr extr w/o&w/dye |  |  |  |  |
73500 | X |  | X-ray exam of hip | 0260 | 0.7845 | $42.59 | $21.29 | $8.52
73510 | X |  | X-ray exam of hip | 0260 | 0.7845 | $42.59 | $21.29 | $8.52
73520 | X |  | X-ray exam of hips | 0260 | 0.7845 | $42.59 | $21.29 | $8.52
73525 | S |  | Contrast x-ray of hip | 0275 | 3.2967 | $178.97 | $69.09 | $35.79
73530 | X |  | X-ray exam of hip | 0261 | 1.3238 | $71.87 |  | $14.37
73540 | X |  | X-ray exam of pelvis & hips | 0260 | 0.7845 | $42.59 | $21.29 | $8.52
73542 | S |  | X-ray exam, sacroiliac joint | 0275 | 3.2967 | $178.97 | $69.09 | $35.79
73550 | X |  | X-ray exam of thigh | 0260 | 0.7845 | $42.59 | $21.29 | $8.52
73560 | X |  | X-ray exam of knee, 1 or 2 | 0260 | 0.7845 | $42.59 | $21.29 | $8.52
73562 | X |  | X-ray exam of knee, 3 | 0260 | 0.7845 | $42.59 | $21.29 | $8.52
73564 | X |  | X-ray exam, knee, 4 or more | 0260 | 0.7845 | $42.59 | $21.29 | $8.52
73565 | X |  | X-ray exam of knees | 0260 | 0.7845 | $42.59 | $21.29 | $8.52
73580 | S |  | Contrast x-ray of knee joint | 0275 | 3.2967 | $178.97 | $69.09 | $35.79
73590 | X |  | X-ray exam of lower leg | 0260 | 0.7845 | $42.59 | $21.29 | $8.52
73592 | X |  | X-ray exam of leg, infant | 0260 | 0.7845 | $42.59 | $21.29 | $8.52
73600 | X |  | X-ray exam of ankle | 0260 | 0.7845 | $42.59 | $21.29 | $8.52
73610 | X |  | X-ray exam of ankle | 0260 | 0.7845 | $42.59 | $21.29 | $8.52
73615 | S |  | Contrast x-ray of ankle | 0275 | 3.2967 | $178.97 | $69.09 | $35.79
73620 | X |  | X-ray exam of foot | 0260 | 0.7845 | $42.59 | $21.29 | $8.52
73630 | X |  | X-ray exam of foot | 0260 | 0.7845 | $42.59 | $21.29 | $8.52
73650 | X |  | X-ray exam of heel | 0260 | 0.7845 | $42.59 | $21.29 | $8.52
73660 | X |  | X-ray exam of toe(s) | 0260 | 0.7845 | $42.59 | $21.29 | $8.52
73700 | S |  | Ct lower extremity w/o dye | 0332 | 3.3916 | $184.13 | $91.27 | $36.83
73701 | S |  | Ct lower extremity w/dye | 0283 | 4.6121 | $250.39 | $125.19 | $50.08
73702 | S |  | Ct lwr extremity w/o&w/dye | 0333 | 5.4299 | $294.78 | $146.98 | $58.96
73706 | S |  | Ct angio lwr extr w/o&w/dye | 0662 | 5.8751 | $318.95 | $156.47 | $63.79
73718 | S |  | Mri lower extremity w/o dye | 0336 | 6.4817 | $351.89 | $175.94 | $70.38
73719 | S |  | Mri lower extremity w/dye | 0284 | 7.0207 | $381.15 | $190.57 | $76.23
73720 | S |  | Mri lwr extremity w/o&w/dye | 0337 | 9.3215 | $506.05 | $240.77 | $101.21
73721 | S |  | Mri jnt of lwr extre w/o dye | 0336 | 6.4817 | $351.89 | $175.94 | $70.38
73722 | S |  | Mri joint of lwr extr w/dye | 0284 | 7.0207 | $381.15 | $190.57 | $76.23
73723 | S |  | Mri joint lwr extr w/o&w/dye | 0337 | 9.3215 | $506.05 | $240.77 | $101.21
73725 | E |  | Mr ang lwr ext w or w/o dye |  |  |  |  |
74000 | X |  | X-ray exam of abdomen | 0260 | 0.7845 | $42.59 | $21.29 | $8.52
74010 | X |  | X-ray exam of abdomen | 0260 | 0.7845 | $42.59 | $21.29 | $8.52
74020 | X |  | X-ray exam of abdomen | 0260 | 0.7845 | $42.59 | $21.29 | $8.52
74022 | X |  | X-ray exam series, abdomen | 0261 | 1.3238 | $71.87 |  | $14.37
74150 | S |  | Ct abdomen w/o dye | 0332 | 3.3916 | $184.13 | $91.27 | $36.83
74160 | S |  | Ct abdomen w/dye | 0283 | 4.6121 | $250.39 | $125.19 | $50.08
74170 | S |  | Ct abdomen w/o&w/dye | 0333 | 5.4299 | $294.78 | $146.98 | $58.96
74175 | S |  | Ct angio abdom w/o&w/dye | 0662 | 5.8751 | $318.95 | $156.47 | $63.79
74181 | S |  | Mri abdomen w/o dye | 0336 | 6.4817 | $351.89 | $175.94 | $70.38
74182 | S |  | Mri abdomen w/dye | 0284 | 7.0207 | $381.15 | $190.57 | $76.23
74183 | S |  | Mri abdomen w/o&w/dye | 0337 | 9.3215 | $506.05 | $240.77 | $101.21
74185 | E |  | Mri angio, abdom w or w/o dy |  |  |  |  |
74190 | X |  | X-ray exam of peritoneum | 0263 | 2.1875 | $118.76 | $43.58 | $23.75
74210 | S |  | Contrst x-ray exam of throat | 0276 | 1.6025 | $87.00 | $41.72 | $17.40
74220 | S |  | Contrast x-ray, esophagus | 0276 | 1.6025 | $87.00 | $41.72 | $17.40
74230 | S |  | Cine/vid x-ray, throat/esoph | 0276 | 1.6025 | $87.00 | $41.72 | $17.40
74235 | S |  | Remove esophagus obstruction | 0296 | 3.1381 | $170.36 | $69.20 | $34.07
74240 | S |  | X-ray exam, upper gi tract | 0276 | 1.6025 | $87.00 | $41.72 | $17.40
74241 | S |  | X-ray exam, upper gi tract | 0276 | 1.6025 | $87.00 | $41.72 | $17.40
74245 | S |  | X-ray exam, upper gi tract | 0277 | 2.4462 | $132.80 | $60.47 | $26.56
74246 | S |  | Contrst x-ray uppr gi tract | 0276 | 1.6025 | $87.00 | $41.72 | $17.40
74247 | S |  | Contrst x-ray uppr gi tract | 0276 | 1.6025 | $87.00 | $41.72 | $17.40
74249 | S |  | Contrst x-ray uppr gi tract | 0277 | 2.4462 | $132.80 | $60.47 | $26.56
74250 | S |  | X-ray exam of small bowel | 0276 | 1.6025 | $87.00 | $41.72 | $17.40
74251 | S |  | X-ray exam of small bowel | 0277 | 2.4462 | $132.80 | $60.47 | $26.56
74260 | S |  | X-ray exam of small bowel | 0277 | 2.4462 | $132.80 | $60.47 | $26.56
74270 | S |  | Contrast x-ray exam of colon | 0276 | 1.6025 | $87.00 | $41.72 | $17.40
74280 | S |  | Contrast x-ray exam of colon | 0277 | 2.4462 | $132.80 | $60.47 | $26.56
74283 | S |  | Contrast x-ray exam of colon | 0276 | 1.6025 | $87.00 | $41.72 | $17.40
74290 | S |  | Contrast x-ray, gallbladder | 0276 | 1.6025 | $87.00 | $41.72 | $17.40
74291 | S |  | Contrast x-rays, gallbladder | 0276 | 1.6025 | $87.00 | $41.72 | $17.40
74300 | X |  | X-ray bile ducts/pancreas | 0263 | 2.1875 | $118.76 | $43.58 | $23.75
74301 | X |  | X-rays at surgery add-on | 0263 | 2.1875 | $118.76 | $43.58 | $23.75
74305 | X |  | X-ray bile ducts/pancreas | 0263 | 2.1875 | $118.76 | $43.58 | $23.75
74320 | X |  | Contrast x-ray of bile ducts | 0264 | 3.0022 | $162.99 | $79.41 | $32.60
74327 | S |  | X-ray bile stone removal | 0296 | 3.1381 | $170.36 | $69.20 | $34.07
74328 | N |  | X-ray bile duct endoscopy |  |  |  |  |
74329 | N |  | X-ray for pancreas endoscopy |  |  |  |  |
74330 | N |  | X-ray bile/panc endoscopy |  |  |  |  |
74340 | X |  | X-ray guide for GI tube | 0272 | 1.4086 | $76.47 | $38.23 | $15.29
74350 | X |  | X-ray guide, stomach tube | 0263 | 2.1875 | $118.76 | $43.58 | $23.75
74355 | X |  | X-ray guide, intestinal tube | 0263 | 2.1875 | $118.76 | $43.58 | $23.75
74360 | S |  | X-ray guide, GI dilation | 0296 | 3.1381 | $170.36 | $69.20 | $34.07
74363 | S |  | X-ray, bile duct dilation | 0297 | 8.1532 | $442.63 | $172.51 | $88.53
74400 | S |  | Contrst x-ray, urinary tract | 0278 | 2.7365 | $148.56 | $66.07 | $29.71
74410 | S |  | Contrst x-ray, urinary tract | 0278 | 2.7365 | $148.56 | $66.07 | $29.71
74415 | S |  | Contrst x-ray, urinary tract | 0278 | 2.7365 | $148.56 | $66.07 | $29.71
74420 | S |  | Contrst x-ray, urinary tract | 0278 | 2.7365 | $148.56 | $66.07 | $29.71
74425 | S |  | Contrst x-ray, urinary tract | 0278 | 2.7365 | $148.56 | $66.07 | $29.71
74430 | S |  | Contrast x-ray, bladder | 0278 | 2.7365 | $148.56 | $66.07 | $29.71
74440 | S |  | X-ray, male genital tract | 0278 | 2.7365 | $148.56 | $66.07 | $29.71
74445 | S |  | X-ray exam of penis | 0278 | 2.7365 | $148.56 | $66.07 | $29.71
74450 | S |  | X-ray, urethra/bladder | 0278 | 2.7365 | $148.56 | $66.07 | $29.71
74455 | S |  | X-ray, urethra/bladder | 0278 | 2.7365 | $148.56 | $66.07 | $29.71
74470 | X |  | X-ray exam of kidney lesion | 0264 | 3.0022 | $162.99 | $79.41 | $32.60
74475 | S |  | X-ray control, cath insert | 0297 | 8.1532 | $442.63 | $172.51 | $88.53
74480 | S |  | X-ray control, cath insert | 0296 | 3.1381 | $170.36 | $69.20 | $34.07
74485 | S |  | X-ray guide, GU dilation | 0296 | 3.1381 | $170.36 | $69.20 | $34.07
74710 | X |  | X-ray measurement of pelvis | 0260 | 0.7845 | $42.59 | $21.29 | $8.52
74740 | X |  | X-ray, female genital tract | 0264 | 3.0022 | $162.99 | $79.41 | $32.60
74742 | X |  | X-ray, fallopian tube | 0263 | 2.1875 | $118.76 | $43.58 | $23.75
74775 | S |  | X-ray exam of perineum | 0278 | 2.7365 | $148.56 | $66.07 | $29.71
75552 | S |  | Heart mri for morph w/o dye | 0336 | 6.4817 | $351.89 | $175.94 | $70.38
75553 | S |  | Heart mri for morph w/dye | 0284 | 7.0207 | $381.15 | $190.57 | $76.23
75554 | S |  | Cardiac MRI/function | 0335 | 6.4453 | $349.91 | $151.46 | $69.98
75555 | S |  | Cardiac MRI/limited study | 0335 | 6.4453 | $349.91 | $151.46 | $69.98
75556 | E |  | Cardiac MRI/flow mapping |  |  |  |  |
75600 | S |  | Contrast x-ray exam of aorta | 0280 | 19.0237 | $1,032.78 | $353.85 | $206.56
75605 | S |  | Contrast x-ray exam of aorta | 0280 | 19.0237 | $1,032.78 | $353.85 | $206.56
75625 | S |  | Contrast x-ray exam of aorta | 0280 | 19.0237 | $1,032.78 | $353.85 | $206.56
75630 | S |  | X-ray aorta, leg arteries | 0280 | 19.0237 | $1,032.78 | $353.85 | $206.56
75635 | S |  | Ct angio abdominal arteries | 0662 | 5.8751 | $318.95 | $156.47 | $63.79
75650 | S |  | Artery x-rays, head & neck | 0280 | 19.0237 | $1,032.78 | $353.85 | $206.56
75658 | S |  | Artery x-rays, arm | 0280 | 19.0237 | $1,032.78 | $353.85 | $206.56
75660 | S |  | Artery x-rays, head & neck | 0279 | 11.0678 | $600.86 | $174.57 | $120.17
75662 | S |  | Artery x-rays, head & neck | 0279 | 11.0678 | $600.86 | $174.57 | $120.17
75665 | S |  | Artery x-rays, head & neck | 0280 | 19.0237 | $1,032.78 | $353.85 | $206.56
75671 | S |  | Artery x-rays, head & neck | 0280 | 19.0237 | $1,032.78 | $353.85 | $206.56
75676 | S |  | Artery x-rays, neck | 0280 | 19.0237 | $1,032.78 | $353.85 | $206.56
75680 | S |  | Artery x-rays, neck | 0280 | 19.0237 | $1,032.78 | $353.85 | $206.56
75685 | S |  | Artery x-rays, spine | 0279 | 11.0678 | $600.86 | $174.57 | $120.17
75705 | S |  | Artery x-rays, spine | 0279 | 11.0678 | $600.86 | $174.57 | $120.17
75710 | S |  | Artery x-rays, arm/leg | 0280 | 19.0237 | $1,032.78 | $353.85 | $206.56
75716 | S |  | Artery x-rays, arms/legs | 0280 | 19.0237 | $1,032.78 | $353.85 | $206.56
75722 | S |  | Artery x-rays, kidney | 0280 | 19.0237 | $1,032.78 | $353.85 | $206.56
75724 | S |  | Artery x-rays, kidneys | 0280 | 19.0237 | $1,032.78 | $353.85 | $206.56
75726 | S |  | Artery x-rays, abdomen | 0280 | 19.0237 | $1,032.78 | $353.85 | $206.56
75731 | S |  | Artery x-rays, adrenal gland | 0280 | 19.0237 | $1,032.78 | $353.85 | $206.56
75733 | S |  | Artery x-rays, adrenals | 0280 | 19.0237 | $1,032.78 | $353.85 | $206.56
75736 | S |  | Artery x-rays, pelvis | 0280 | 19.0237 | $1,032.78 | $353.85 | $206.56
75741 | S |  | Artery x-rays, lung | 0279 | 11.0678 | $600.86 | $174.57 | $120.17
75743 | S |  | Artery x-rays, lungs | 0280 | 19.0237 | $1,032.78 | $353.85 | $206.56
75746 | S |  | Artery x-rays, lung | 0279 | 11.0678 | $600.86 | $174.57 | $120.17
75756 | S |  | Artery x-rays, chest | 0279 | 11.0678 | $600.86 | $174.57 | $120.17
75774 | S |  | Artery x-ray, each vessel | 0668 | 10.4896 | $569.47 | $237.76 | $113.89
75790 | S |  | Visualize A-V shunt | 0281 | 6.6888 | $363.13 | $115.16 | $72.63
75801 | X |  | Lymph vessel x-ray, arm/leg | 0264 | 3.0022 | $162.99 | $79.41 | $32.60
75803 | X |  | Lymph vessel x-ray,arms/legs | 0264 | 3.0022 | $162.99 | $79.41 | $32.60
75805 | X |  | Lymph vessel x-ray, trunk | 0264 | 3.0022 | $162.99 | $79.41 | $32.60
75807 | X |  | Lymph vessel x-ray, trunk | 0264 | 3.0022 | $162.99 | $79.41 | $32.60
75809 | X |  | Nonvascular shunt, x-ray | 0263 | 2.1875 | $118.76 | $43.58 | $23.75
75810 | S |  | Vein x-ray, spleen/liver | 0279 | 11.0678 | $600.86 | $174.57 | $120.17
75820 | S |  | Vein x-ray, arm/leg | 0281 | 6.6888 | $363.13 | $115.16 | $72.63
75822 | S |  | Vein x-ray, arms/legs | 0281 | 6.6888 | $363.13 | $115.16 | $72.63
75825 | S |  | Vein x-ray, trunk | 0279 | 11.0678 | $600.86 | $174.57 | $120.17
75827 | S |  | Vein x-ray, chest | 0279 | 11.0678 | $600.86 | $174.57 | $120.17
75831 | S |  | Vein x-ray, kidney | 0287 | 6.2829 | $341.09 | $107.20 | $68.22
75833 | S |  | Vein x-ray, kidneys | 0279 | 11.0678 | $600.86 | $174.57 | $120.17
75840 | S |  | Vein x-ray, adrenal gland | 0287 | 6.2829 | $341.09 | $107.20 | $68.22
75842 | S |  | Vein x-ray, adrenal glands | 0287 | 6.2829 | $341.09 | $107.20 | $68.22
75860 | S |  | Vein x-ray, neck | 0287 | 6.2829 | $341.09 | $107.20 | $68.22
75870 | S |  | Vein x-ray, skull | 0287 | 6.2829 | $341.09 | $107.20 | $68.22
75872 | S |  | Vein x-ray, skull | 0287 | 6.2829 | $341.09 | $107.20 | $68.22
75880 | S |  | Vein x-ray, eye socket | 0287 | 6.2829 | $341.09 | $107.20 | $68.22
75885 | S |  | Vein x-ray, liver | 0279 | 11.0678 | $600.86 | $174.57 | $120.17
75887 | S |  | Vein x-ray, liver | 0280 | 19.0237 | $1,032.78 | $353.85 | $206.56
75889 | S |  | Vein x-ray, liver | 0279 | 11.0678 | $600.86 | $174.57 | $120.17
75891 | S |  | Vein x-ray, liver | 0279 | 11.0678 | $600.86 | $174.57 | $120.17
75893 | N |  | Venous sampling by catheter |  |  |  |  |
75894 | S |  | X-rays, transcath therapy | 0297 | 8.1532 | $442.63 | $172.51 | $88.53
75896 | S |  | X-rays, transcath therapy | 0297 | 8.1532 | $442.63 | $172.51 | $88.53
75898 | X |  | Follow-up angiography | 0264 | 3.0022 | $162.99 | $79.41 | $32.60
75900 | C |  | Arterial catheter exchange |  |  |  |  |
75901 | X |  | Remove cva device obstruct | 0264 | 3.0022 | $162.99 | $79.41 | $32.60
75902 | X |  | Remove cva lumen obstruct | 0263 | 2.1875 | $118.76 | $43.58 | $23.75
75940 | X |  | X-ray placement, vein filter | 0187 | 4.4274 | $240.36 | $90.71 | $48.07
75945 | S |  | Intravascular us | 0267 | 2.4805 | $134.66 | $65.52 | $26.93
75946 | S |  | Intravascular us add-on | 0267 | 2.4805 | $134.66 | $65.52 | $26.93
75952 | C |  | Endovasc repair abdom aorta |  |  |  |  |
75953 | C |  | Abdom aneurysm endovas rpr |  |  |  |  |
75954 | C |  | Iliac aneurysm endovas rpr |  |  |  |  |
75960 | S |  | Transcatheter intro, stent | 0280 | 19.0237 | $1,032.78 | $353.85 | $206.56
75961 | S |  | Retrieval, broken catheter | 0280 | 19.0237 | $1,032.78 | $353.85 | $206.56
75962 | S |  | Repair arterial blockage | 0280 | 19.0237 | $1,032.78 | $353.85 | $206.56
75964 | S |  | Repair artery blockage, each | 0280 | 19.0237 | $1,032.78 | $353.85 | $206.56
75966 | S |  | Repair arterial blockage | 0280 | 19.0237 | $1,032.78 | $353.85 | $206.56
75968 | S |  | Repair artery blockage, each | 0280 | 19.0237 | $1,032.78 | $353.85 | $206.56
75970 | S |  | Vascular biopsy | 0280 | 19.0237 | $1,032.78 | $353.85 | $206.56
75978 | S |  | Repair venous blockage | 0668 | 10.4896 | $569.47 | $237.76 | $113.89
75980 | S |  | Contrast xray exam bile duct | 0296 | 3.1381 | $170.36 | $69.20 | $34.07
75982 | S |  | Contrast xray exam bile duct | 0297 | 8.1532 | $442.63 | $172.51 | $88.53
75984 | X |  | Xray control catheter change | 0264 | 3.0022 | $162.99 | $79.41 | $32.60
75989 | N |  | Abscess drainage under x-ray |  |  |  |  |
75992 | S |  | Atherectomy, x-ray exam | 0280 | 19.0237 | $1,032.78 | $353.85 | $206.56
75993 | S |  | Atherectomy, x-ray exam | 0280 | 19.0237 | $1,032.78 | $353.85 | $206.56
75994 | S |  | Atherectomy, x-ray exam | 0280 | 19.0237 | $1,032.78 | $353.85 | $206.56
75995 | S |  | Atherectomy, x-ray exam | 0280 | 19.0237 | $1,032.78 | $353.85 | $206.56
75996 | S |  | Atherectomy, x-ray exam | 0280 | 19.0237 | $1,032.78 | $353.85 | $206.56
76000 | X |  | Fluoroscope examination | 0272 | 1.4086 | $76.47 | $38.23 | $15.29
76001 | N |  | Fluoroscope exam, extensive |  |  |  |  |
76003 | N |  | Needle localization by x-ray |  |  |  |  |
76005 | N |  | Fluoroguide for spine inject |  |  |  |  |
76006 | X |  | X-ray stress view | 0260 | 0.7845 | $42.59 | $21.29 | $8.52
76010 | X |  | X-ray, nose to rectum | 0260 | 0.7845 | $42.59 | $21.29 | $8.52
76012 | S |  | Percut vertebroplasty fluor | 0274 | 3.5837 | $194.56 | $92.92 | $38.91
76013 | S |  | Percut vertebroplasty, ct | 0274 | 3.5837 | $194.56 | $92.92 | $38.91
76020 | X |  | X-rays for bone age | 0260 | 0.7845 | $42.59 | $21.29 | $8.52
76040 | X |  | X-rays, bone evaluation | 0260 | 0.7845 | $42.59 | $21.29 | $8.52
76061 | X |  | X-rays, bone survey | 0261 | 1.3238 | $71.87 |  | $14.37
76062 | X |  | X-rays, bone survey | 0261 | 1.3238 | $71.87 |  | $14.37
76065 | X |  | X-rays, bone evaluation | 0261 | 1.3238 | $71.87 |  | $14.37
76066 | X |  | Joint survey, single view | 0260 | 0.7845 | $42.59 | $21.29 | $8.52
76070 | S |  | CT scan, bone density study | 0288 | 1.2854 | $69.78 |  | $13.96
76071 | S |  | Ct bone density, peripheral | 0282 | 1.6813 | $91.28 | $44.51 | $18.26
76075 | S |  | Dexa, axial skeleton study | 0288 | 1.2854 | $69.78 |  | $13.96
76076 | S |  | Dexa, peripheral study | 0665 | 0.7225 | $39.22 |  | $7.84
76078 | X |  | Radiographic absorptiometry | 0261 | 1.3238 | $71.87 |  | $14.37
76080 | X |  | X-ray exam of fistula | 0263 | 2.1875 | $118.76 | $43.58 | $23.75
76085 | A |  | Computer mammogram add-on |  |  |  |  |
76086 | X |  | X-ray of mammary duct | 0263 | 2.1875 | $118.76 | $43.58 | $23.75
76088 | X |  | X-ray of mammary ducts | 0263 | 2.1875 | $118.76 | $43.58 | $23.75
76090 | S |  | Mammogram, one breast | 0271 | 0.6548 | $35.55 | $16.80 | $7.11
76091 | S |  | Mammogram, both breasts | 0271 | 0.6548 | $35.55 | $16.80 | $7.11
76092 | A |  | Mammogram, screening |  |  |  |  |
76093 | E |  | Magnetic image, breast |  |  |  |  |
76094 | E |  | Magnetic image, both breasts |  |  |  |  |
76095 | X |  | Stereotactic breast biopsy | 0187 | 4.4274 | $240.36 | $90.71 | $48.07
76096 | X |  | X-ray of needle wire, breast | 0289 | 3.6386 | $197.54 | $44.80 | $39.51
76098 | X |  | X-ray exam, breast specimen | 0260 | 0.7845 | $42.59 | $21.29 | $8.52
76100 | X |  | X-ray exam of body section | 0261 | 1.3238 | $71.87 |  | $14.37
76101 | X |  | Complex body section x-ray | 0264 | 3.0022 | $162.99 | $79.41 | $32.60
76102 | X |  | Complex body section x-rays | 0264 | 3.0022 | $162.99 | $79.41 | $32.60
76120 | X |  | Cine/video x-rays | 0272 | 1.4086 | $76.47 | $38.23 | $15.29
76125 | X |  | Cine/video x-rays add-on | 0260 | 0.7845 | $42.59 | $21.29 | $8.52
76140 | E |  | X-ray consultation |  |  |  |  |
76150 | X |  | X-ray exam, dry process | 0260 | 0.7845 | $42.59 | $21.29 | $8.52
76350 | N |  | Special x-ray contrast study |  |  |  |  |
76355 | S |  | CAT scan for localization | 0283 | 4.6121 | $250.39 | $125.19 | $50.08
76360 | S |  | CAT scan for needle biopsy | 0283 | 4.6121 | $250.39 | $125.19 | $50.08
76362 | S |  | Cat scan for tissue ablation | 0332 | 3.3916 | $184.13 | $91.27 | $36.83
76370 | S |  | CAT scan for therapy guide | 0282 | 1.6813 | $91.28 | $44.51 | $18.26
76375 | S |  | 3d/holograph reconstr add-on | 0282 | 1.6813 | $91.28 | $44.51 | $18.26
76380 | S |  | CAT scan follow-up study | 0282 | 1.6813 | $91.28 | $44.51 | $18.26
76390 | E |  | Mr spectroscopy |  |  |  |  |
76393 | S |  | Mr guidance for needle place | 0335 | 6.4453 | $349.91 | $151.46 | $69.98
76394 | S |  | Mri for tissue ablation | 0335 | 6.4453 | $349.91 | $151.46 | $69.98
76400 | S |  | Magnetic image, bone marrow | 0335 | 6.4453 | $349.91 | $151.46 | $69.98
76490 | S |  | Us for tissue ablation | 0268 | 1.2640 | $68.62 |  | $13.72
76496 | X |  | Fluoroscopic procedure | 0272 | 1.4086 | $76.47 | $38.23 | $15.29
76497 | S |  | Ct procedure | 0282 | 1.6813 | $91.28 | $44.51 | $18.26
76498 | S |  | Mri procedure | 0335 | 6.4453 | $349.91 | $151.46 | $69.98
76499 | X |  | Radiographic procedure | 0260 | 0.7845 | $42.59 | $21.29 | $8.52
76506 | S |  | Echo exam of head | 0266 | 1.6234 | $88.13 | $44.06 | $17.63
76511 | S |  | Echo exam of eye | 0266 | 1.6234 | $88.13 | $44.06 | $17.63
76512 | S |  | Echo exam of eye | 0266 | 1.6234 | $88.13 | $44.06 | $17.63
76513 | S |  | Echo exam of eye, water bath | 0265 | 1.0245 | $55.62 | $27.81 | $11.12
76516 | S |  | Echo exam of eye | 0266 | 1.6234 | $88.13 | $44.06 | $17.63
76519 | S |  | Echo exam of eye | 0266 | 1.6234 | $88.13 | $44.06 | $17.63
76529 | S |  | Echo exam of eye | 0265 | 1.0245 | $55.62 | $27.81 | $11.12
76536 | S |  | Us exam of head and neck | 0266 | 1.6234 | $88.13 | $44.06 | $17.63
76604 | S |  | Us exam, chest, b-scan | 0266 | 1.6234 | $88.13 | $44.06 | $17.63
76645 | S |  | Us exam, breast(s) | 0265 | 1.0245 | $55.62 | $27.81 | $11.12
76700 | S |  | Us exam, abdom, complete | 0266 | 1.6234 | $88.13 | $44.06 | $17.63
76705 | S |  | Echo exam of abdomen | 0266 | 1.6234 | $88.13 | $44.06 | $17.63
76770 | S |  | Us exam abdo back wall, comp | 0266 | 1.6234 | $88.13 | $44.06 | $17.63
76775 | S |  | Us eam abdo back wall, lim | 0266 | 1.6234 | $88.13 | $44.06 | $17.63
76778 | S |  | Us exam kidney transplant | 0266 | 1.6234 | $88.13 | $44.06 | $17.63
76800 | S |  | Us exam, spinal canal | 0266 | 1.6234 | $88.13 | $44.06 | $17.63
76801 | S |  | Ob us < 14 wks, single fetus | 0265 | 1.0245 | $55.62 | $27.81 | $11.12
76802 | S |  | Ob us < 14 wks, addl fetus | 0265 | 1.0245 | $55.62 | $27.81 | $11.12
76805 | S |  | Us exam, pg uterus, compl | 0266 | 1.6234 | $88.13 | $44.06 | $17.63
76810 | S |  | Us exam, pg uterus, mult | 0265 | 1.0245 | $55.62 | $27.81 | $11.12
76811 | S |  | Ob us, detailed, sngl fetus | 0267 | 2.4805 | $134.66 | $65.52 | $26.93
76812 | S |  | Ob us, detailed, addl fetus | 0266 | 1.6234 | $88.13 | $44.06 | $17.63
76815 | S |  | Us exam, pg uterus limit | 0265 | 1.0245 | $55.62 | $27.81 | $11.12
76816 | S |  | Us exam pg uterus repeat | 0265 | 1.0245 | $55.62 | $27.81 | $11.12
76817 | S |  | Transvaginal us, obstetric | 0265 | 1.0245 | $55.62 | $27.81 | $11.12
76818 | S |  | Fetal biophys profile w/nst | 0266 | 1.6234 | $88.13 | $44.06 | $17.63
76819 | S |  | Fetal biophys profil w/o nst | 0266 | 1.6234 | $88.13 | $44.06 | $17.63
76825 | S |  | Echo exam of fetal heart | 0671 | 1.6392 | $88.99 | $44.49 | $17.80
76826 | S |  | Echo exam of fetal heart | 0697 | 1.4621 | $79.38 | $39.69 | $15.88
76827 | S |  | Echo exam of fetal heart | 0671 | 1.6392 | $88.99 | $44.49 | $17.80
76828 | S |  | Echo exam of fetal heart | 0697 | 1.4621 | $79.38 | $39.69 | $15.88
76830 | S |  | Transvaginal us, non-ob | 0266 | 1.6234 | $88.13 | $44.06 | $17.63
76831 | S |  | Echo exam, uterus | 0266 | 1.6234 | $88.13 | $44.06 | $17.63
76856 | S |  | Us exam, pelvic, complete | 0266 | 1.6234 | $88.13 | $44.06 | $17.63
76857 | S |  | Us exam, pelvic, limited | 0265 | 1.0245 | $55.62 | $27.81 | $11.12
76870 | S |  | Us exam, scrotum | 0266 | 1.6234 | $88.13 | $44.06 | $17.63
76872 | S |  | Echo exam, transrectal | 0266 | 1.6234 | $88.13 | $44.06 | $17.63
76873 | S |  | Echograp trans r, pros study | 0266 | 1.6234 | $88.13 | $44.06 | $17.63
76880 | S |  | Us exam, extremity | 0266 | 1.6234 | $88.13 | $44.06 | $17.63
76885 | S |  | Us exam infant hips, dynamic | 0266 | 1.6234 | $88.13 | $44.06 | $17.63
76886 | S |  | Us exam infant hips, static | 0266 | 1.6234 | $88.13 | $44.06 | $17.63
76930 | S |  | Echo guide, cardiocentesis | 0268 | 1.2640 | $68.62 |  | $13.72
76932 | S |  | Echo guide for heart biopsy | 0268 | 1.2640 | $68.62 |  | $13.72
76936 | S |  | Echo guide for artery repair | 0268 | 1.2640 | $68.62 |  | $13.72
76941 | S |  | Echo guide for transfusion | 0268 | 1.2640 | $68.62 |  | $13.72
76942 | S |  | Echo guide for biopsy | 0268 | 1.2640 | $68.62 |  | $13.72
76945 | S |  | Echo guide, villus sampling | 0268 | 1.2640 | $68.62 |  | $13.72
76946 | S |  | Echo guide for amniocentesis | 0268 | 1.2640 | $68.62 |  | $13.72
76948 | S |  | Echo guide, ova aspiration | 0268 | 1.2640 | $68.62 |  | $13.72
76950 | S |  | Echo guidance radiotherapy | 0268 | 1.2640 | $68.62 |  | $13.72
76965 | S |  | Echo guidance radiotherapy | 0268 | 1.2640 | $68.62 |  | $13.72
76970 | S |  | Ultrasound exam follow-up | 0265 | 1.0245 | $55.62 | $27.81 | $11.12
76975 | S |  | GI endoscopic ultrasound | 0266 | 1.6234 | $88.13 | $44.06 | $17.63
76977 | X |  | Us bone density measure | 0340 | 0.6232 | $33.83 |  | $6.77
76986 | S |  | Ultrasound guide intraoper | 0266 | 1.6234 | $88.13 | $44.06 | $17.63
76999 | S |  | Echo examination procedure | 0265 | 1.0245 | $55.62 | $27.81 | $11.12
77261 | E |  | Radiation therapy planning |  |  |  |  |
77262 | E |  | Radiation therapy planning |  |  |  |  |
77263 | E |  | Radiation therapy planning |  |  |  |  |
77280 | X |  | Set radiation therapy field | 0304 | 1.6599 | $90.11 | $41.52 | $18.02
77285 | X |  | Set radiation therapy field | 0305 | 3.6649 | $198.96 | $91.38 | $39.79
77290 | X |  | Set radiation therapy field | 0305 | 3.6649 | $198.96 | $91.38 | $39.79
77295 | X |  | Set radiation therapy field | 0310 | 13.7085 | $744.22 | $325.27 | $148.84
77299 | E |  | Radiation therapy planning |  |  |  |  |
77300 | X |  | Radiation therapy dose plan | 0304 | 1.6599 | $90.11 | $41.52 | $18.02
77301 | S |  | Radiotherapy dose plan, imrt | 0413 | 6.0369 | $327.74 |  | $65.55
77305 | X |  | Teletx isodose plan simple | 0304 | 1.6599 | $90.11 | $41.52 | $18.02
77310 | X |  | Teletx isodose plan intermed | 0304 | 1.6599 | $90.11 | $41.52 | $18.02
77315 | X |  | Teletx isodose plan complex | 0305 | 3.6649 | $198.96 | $91.38 | $39.79
77321 | X |  | Special teletx port plan | 0305 | 3.6649 | $198.96 | $91.38 | $39.79
77326 | X |  | Radiation therapy dose plan | 0305 | 3.6649 | $198.96 | $91.38 | $39.79
77327 | X |  | Brachytx isodose calc interm | 0305 | 3.6649 | $198.96 | $91.38 | $39.79
77328 | X |  | Brachytx isodose plan compl | 0305 | 3.6649 | $198.96 | $91.38 | $39.79
77331 | X |  | Special radiation dosimetry | 0304 | 1.6599 | $90.11 | $41.52 | $18.02
77332 | X |  | Radiation treatment aid(s) | 0303 | 2.8636 | $155.46 | $66.95 | $31.09
77333 | X |  | Radiation treatment aid(s) | 0303 | 2.8636 | $155.46 | $66.95 | $31.09
77334 | X |  | Radiation treatment aid(s) | 0303 | 2.8636 | $155.46 | $66.95 | $31.09
77336 | X |  | Radiation physics consult | 0304 | 1.6599 | $90.11 | $41.52 | $18.02
77370 | X |  | Radiation physics consult | 0305 | 3.6649 | $198.96 | $91.38 | $39.79
77399 | X |  | External radiation dosimetry | 0304 | 1.6599 | $90.11 | $41.52 | $18.02
77401 | S |  | Radiation treatment delivery | 0300 | 1.5112 | $82.04 |  | $16.41
77402 | S |  | Radiation treatment delivery | 0300 | 1.5112 | $82.04 |  | $16.41
77403 | S |  | Radiation treatment delivery | 0300 | 1.5112 | $82.04 |  | $16.41
77404 | S |  | Radiation treatment delivery | 0300 | 1.5112 | $82.04 |  | $16.41
77406 | S |  | Radiation treatment delivery | 0300 | 1.5112 | $82.04 |  | $16.41
77407 | S |  | Radiation treatment delivery | 0300 | 1.5112 | $82.04 |  | $16.41
77408 | S |  | Radiation treatment delivery | 0300 | 1.5112 | $82.04 |  | $16.41
77409 | S |  | Radiation treatment delivery | 0300 | 1.5112 | $82.04 |  | $16.41
77411 | S |  | Radiation treatment delivery | 0300 | 1.5112 | $82.04 |  | $16.41
77412 | S |  | Radiation treatment delivery | 0301 | 2.1337 | $115.84 | $23.17 | $23.17
77413 | S |  | Radiation treatment delivery | 0301 | 2.1337 | $115.84 | $23.17 | $23.17
77414 | S |  | Radiation treatment delivery | 0301 | 2.1337 | $115.84 | $23.17 | $23.17
77416 | S |  | Radiation treatment delivery | 0301 | 2.1337 | $115.84 | $23.17 | $23.17
77417 | X |  | Radiology port film(s) | 0260 | 0.7845 | $42.59 | $21.29 | $8.52
77418 | S |  | Radiation tx delivery, imrt | 0412 | 5.2832 | $286.82 |  | $57.36
77427 | E |  | Radiation tx management, x5 |  |  |  |  |
77431 | E |  | Radiation therapy management |  |  |  |  |
77432 | E |  | Stereotactic radiation trmt |  |  |  |  |
77470 | S |  | Special radiation treatment | 0299 | 5.7427 | $311.77 | $62.36 | $62.35
77499 | E |  | Radiation therapy management |  |  |  |  |
77520 | S |  | Proton trmt, simple w/o comp | 0664 | 9.6828 | $525.67 |  | $105.13
77522 | S |  | Proton trmt, simple w/comp | 0664 | 9.6828 | $525.67 |  | $105.13
77523 | S |  | Proton trmt, intermediate | 1511 |  | $950.00 |  | $190.00
77525 | S |  | Proton treatment, complex | 1511 |  | $950.00 |  | $190.00
77600 | S |  | Hyperthermia treatment | 0314 | 5.0930 | $276.49 | $101.77 | $55.30
77605 | S |  | Hyperthermia treatment | 0314 | 5.0930 | $276.49 | $101.77 | $55.30
77610 | S |  | Hyperthermia treatment | 0314 | 5.0930 | $276.49 | $101.77 | $55.30
77615 | S |  | Hyperthermia treatment | 0314 | 5.0930 | $276.49 | $101.77 | $55.30
77620 | S |  | Hyperthermia treatment | 0314 | 5.0930 | $276.49 | $101.77 | $55.30
77750 | S |  | Infuse radioactive materials | 0300 | 1.5112 | $82.04 |  | $16.41
77761 | S |  | Apply intrcav radiat simple | 0312 | 3.6892 | $200.28 | $40.06 | $40.06
77762 | S |  | Apply intrcav radiat interm | 0312 | 3.6892 | $200.28 | $40.06 | $40.06
77763 | S |  | Apply intrcav radiat compl | 0312 | 3.6892 | $200.28 | $40.06 | $40.06
77776 | S |  | Apply interstit radiat simpl | 0312 | 3.6892 | $200.28 | $40.06 | $40.06
77777 | S |  | Apply interstit radiat inter | 0312 | 3.6892 | $200.28 | $40.06 | $40.06
77778 | S |  | Apply interstit radiat compl | 0651 | 10.0459 | $545.38 | $109.08 | $109.08
77781 | S |  | High intensity brachytherapy | 0313 | 13.1258 | $712.59 |  | $142.52
77782 | S |  | High intensity brachytherapy | 0313 | 13.1258 | $712.59 |  | $142.52
77783 | S |  | High intensity brachytherapy | 0313 | 13.1258 | $712.59 |  | $142.52
77784 | S |  | High intensity brachytherapy | 0313 | 13.1258 | $712.59 |  | $142.52
77789 | S |  | Apply surface radiation | 0300 | 1.5112 | $82.04 |  | $16.41
77790 | N |  | Radiation handling |  |  |  |  |
77799 | S |  | Radium/radioisotope therapy | 0313 | 13.1258 | $712.59 |  | $142.52
78000 | S |  | Thyroid, single uptake | 0389 | 1.6475 | $89.44 | $44.72 | $17.89
78001 | S |  | Thyroid, multiple uptakes | 0389 | 1.6475 | $89.44 | $44.72 | $17.89
78003 | S |  | Thyroid suppress/stimul | 0389 | 1.6475 | $89.44 | $44.72 | $17.89
78006 | S |  | Thyroid imaging with uptake | 0390 | 2.8434 | $154.37 | $77.18 | $30.87
78007 | S |  | Thyroid image, mult uptakes | 0391 | 3.7174 | $201.81 | $100.90 | $40.36
78010 | S |  | Thyroid imaging | 0390 | 2.8434 | $154.37 | $77.18 | $30.87
78011 | S |  | Thyroid imaging with flow | 0391 | 3.7174 | $201.81 | $100.90 | $40.36
78015 | S |  | Thyroid met imaging | 0390 | 2.8434 | $154.37 | $77.18 | $30.87
78016 | S |  | Thyroid met imaging/studies | 0390 | 2.8434 | $154.37 | $77.18 | $30.87
78018 | S |  | Thyroid met imaging, body | 0391 | 3.7174 | $201.81 | $100.90 | $40.36
78020 | S |  | Thyroid met uptake | 0389 | 1.6475 | $89.44 | $44.72 | $17.89
78070 | S |  | Parathyroid nuclear imaging | 0391 | 3.7174 | $201.81 | $100.90 | $40.36
78075 | S |  | Adrenal nuclear imaging | 0392 | 6.7081 | $364.18 | $182.08 | $72.84
78099 | S |  | Endocrine nuclear procedure | 0389 | 1.6475 | $89.44 | $44.72 | $17.89
78102 | S |  | Bone marrow imaging, ltd | 0400 | 3.8691 | $210.05 | $105.02 | $42.01
78103 | S |  | Bone marrow imaging, mult | 0400 | 3.8691 | $210.05 | $105.02 | $42.01
78104 | S |  | Bone marrow imaging, body | 0400 | 3.8691 | $210.05 | $105.02 | $42.01
78110 | S |  | Plasma volume, single | 0393 | 4.0720 | $221.06 | $110.53 | $44.21
78111 | S |  | Plasma volume, multiple | 0393 | 4.0720 | $221.06 | $110.53 | $44.21
78120 | S |  | Red cell mass, single | 0393 | 4.0720 | $221.06 | $110.53 | $44.21
78121 | S |  | Red cell mass, multiple | 0393 | 4.0720 | $221.06 | $110.53 | $44.21
78122 | S |  | Blood volume | 0393 | 4.0720 | $221.06 | $110.53 | $44.21
78130 | S |  | Red cell survival study | 0393 | 4.0720 | $221.06 | $110.53 | $44.21
78135 | S |  | Red cell survival kinetics | 0393 | 4.0720 | $221.06 | $110.53 | $44.21
78140 | S |  | Red cell sequestration | 0393 | 4.0720 | $221.06 | $110.53 | $44.21
78160 | S |  | Plasma iron turnover | 0393 | 4.0720 | $221.06 | $110.53 | $44.21
78162 | S |  | Radioiron absorption exam | 0393 | 4.0720 | $221.06 | $110.53 | $44.21
78170 | S |  | Red cell iron utilization | 0393 | 4.0720 | $221.06 | $110.53 | $44.21
78172 | S |  | Total body iron estimation | 0393 | 4.0720 | $221.06 | $110.53 | $44.21
78185 | S |  | Spleen imaging | 0400 | 3.8691 | $210.05 | $105.02 | $42.01
78190 | S |  | Platelet survival, kinetics | 0389 | 1.6475 | $89.44 | $44.72 | $17.89
78191 | S |  | Platelet survival | 0389 | 1.6475 | $89.44 | $44.72 | $17.89
78195 | S |  | Lymph system imaging | 0400 | 3.8691 | $210.05 | $105.02 | $42.01
78199 | S |  | Blood/lymph nuclear exam | 0389 | 1.6475 | $89.44 | $44.72 | $17.89
78201 | S |  | Liver imaging | 0394 | 4.4370 | $240.88 | $120.44 | $48.18
78202 | S |  | Liver imaging with flow | 0394 | 4.4370 | $240.88 | $120.44 | $48.18
78205 | S |  | Liver imaging (3D) | 0394 | 4.4370 | $240.88 | $120.44 | $48.18
78206 | S |  | Liver image (3d) with flow | 0394 | 4.4370 | $240.88 | $120.44 | $48.18
78215 | S |  | Liver and spleen imaging | 0394 | 4.4370 | $240.88 | $120.44 | $48.18
78216 | S |  | Liver & spleen image/flow | 0394 | 4.4370 | $240.88 | $120.44 | $48.18
78220 | S |  | Liver function study | 0394 | 4.4370 | $240.88 | $120.44 | $48.18
78223 | S |  | Hepatobiliary imaging | 0394 | 4.4370 | $240.88 | $120.44 | $48.18
78230 | S |  | Salivary gland imaging | 0395 | 3.9372 | $213.75 | $106.87 | $42.75
78231 | S |  | Serial salivary imaging | 0395 | 3.9372 | $213.75 | $106.87 | $42.75
78232 | S |  | Salivary gland function exam | 0395 | 3.9372 | $213.75 | $106.87 | $42.75
78258 | S |  | Esophageal motility study | 0395 | 3.9372 | $213.75 | $106.87 | $42.75
78261 | S |  | Gastric mucosa imaging | 0395 | 3.9372 | $213.75 | $106.87 | $42.75
78262 | S |  | Gastroesophageal reflux exam | 0395 | 3.9372 | $213.75 | $106.87 | $42.75
78264 | S |  | Gastric emptying study | 0395 | 3.9372 | $213.75 | $106.87 | $42.75
78267 | A |  | Breath tst attain/anal c-14 |  |  |  |  |
78268 | A |  | Breath test analysis, c-14 |  |  |  |  |
78270 | S |  | Vit B-12 absorption exam | 0395 | 3.9372 | $213.75 | $106.87 | $42.75
78271 | S |  | Vit b-12 absrp exam, int fac | 0395 | 3.9372 | $213.75 | $106.87 | $42.75
78272 | S |  | Vit B-12 absorp, combined | 0395 | 3.9372 | $213.75 | $106.87 | $42.75
78278 | S |  | Acute GI blood loss imaging | 0395 | 3.9372 | $213.75 | $106.87 | $42.75
78282 | S |  | GI protein loss exam | 0395 | 3.9372 | $213.75 | $106.87 | $42.75
78290 | S |  | Meckel's divert exam | 0395 | 3.9372 | $213.75 | $106.87 | $42.75
78291 | S |  | Leveen/shunt patency exam | 0395 | 3.9372 | $213.75 | $106.87 | $42.75
78299 | S |  | GI nuclear procedure | 0389 | 1.6475 | $89.44 | $44.72 | $17.89
78300 | S |  | Bone imaging, limited area | 0396 | 4.2445 | $230.43 | $115.21 | $46.09
78305 | S |  | Bone imaging, multiple areas | 0396 | 4.2445 | $230.43 | $115.21 | $46.09
78306 | S |  | Bone imaging, whole body | 0396 | 4.2445 | $230.43 | $115.21 | $46.09
78315 | S |  | Bone imaging, 3 phase | 0396 | 4.2445 | $230.43 | $115.21 | $46.09
78320 | S |  | Bone imaging (3D) | 0396 | 4.2445 | $230.43 | $115.21 | $46.09
78350 | X |  | Bone mineral, single photon | 0261 | 1.3238 | $71.87 |  | $14.37
78351 | E |  | Bone mineral, dual photon |  |  |  |  |
78399 | S |  | Musculoskeletal nuclear exam | 0389 | 1.6475 | $89.44 | $44.72 | $17.89
78414 | S |  | Non-imaging heart function | 0397 | 2.4737 | $134.29 | $67.14 | $26.86
78428 | S |  | Cardiac shunt imaging | 0398 | 6.6521 | $361.14 | $180.57 | $72.23
78445 | S |  | Vascular flow imaging | 0397 | 2.4737 | $134.29 | $67.14 | $26.86
78455 | S |  | Venous thrombosis study | 0397 | 2.4737 | $134.29 | $67.14 | $26.86
78456 | S |  | Acute venous thrombus image | 0397 | 2.4737 | $134.29 | $67.14 | $26.86
78457 | S |  | Venous thrombosis imaging | 0397 | 2.4737 | $134.29 | $67.14 | $26.86
78458 | S |  | Ven thrombosis images, bilat | 0397 | 2.4737 | $134.29 | $67.14 | $26.86
78459 | S |  | Heart muscle imaging (PET) | 0285 | 19.5044 | $1,058.87 | $409.56 | $211.77
78460 | S |  | Heart muscle blood, single | 0398 | 6.6521 | $361.14 | $180.57 | $72.23
78461 | S |  | Heart muscle blood, multiple | 0398 | 6.6521 | $361.14 | $180.57 | $72.23
78464 | S |  | Heart image (3d), single | 0398 | 6.6521 | $361.14 | $180.57 | $72.23
78465 | S |  | Heart image (3d), multiple | 0398 | 6.6521 | $361.14 | $180.57 | $72.23
78466 | S |  | Heart infarct image | 0398 | 6.6521 | $361.14 | $180.57 | $72.23
78468 | S |  | Heart infarct image (ef) | 0398 | 6.6521 | $361.14 | $180.57 | $72.23
78469 | S |  | Heart infarct image (3D) | 0398 | 6.6521 | $361.14 | $180.57 | $72.23
78472 | S |  | Gated heart, planar, single | 0398 | 6.6521 | $361.14 | $180.57 | $72.23
78473 | S |  | Gated heart, multiple | 0398 | 6.6521 | $361.14 | $180.57 | $72.23
78478 | S |  | Heart wall motion add-on | 0399 | 1.6033 | $87.04 | $43.52 | $17.41
78480 | S |  | Heart function add-on | 0399 | 1.6033 | $87.04 | $43.52 | $17.41
78481 | S |  | Heart first pass, single | 0398 | 6.6521 | $361.14 | $180.57 | $72.23
78483 | S |  | Heart first pass, multiple | 0398 | 6.6521 | $361.14 | $180.57 | $72.23
78491 | E |  | Heart image (pet), single |  |  |  |  |
78492 | E |  | Heart image (pet), multiple |  |  |  |  |
78494 | S |  | Heart image, spect | 0398 | 6.6521 | $361.14 | $180.57 | $72.23
78496 | S |  | Heart first pass add-on | 0399 | 1.6033 | $87.04 | $43.52 | $17.41
78499 | S |  | Cardiovascular nuclear exam | 0389 | 1.6475 | $89.44 | $44.72 | $17.89
78580 | S |  | Lung perfusion imaging | 0401 | 4.9130 | $266.72 | $133.35 | $53.34
78584 | S |  | Lung V/Q image single breath | 0401 | 4.9130 | $266.72 | $133.35 | $53.34
78585 | S |  | Lung V/Q imaging | 0401 | 4.9130 | $266.72 | $133.35 | $53.34
78586 | S |  | Aerosol lung image, single | 0401 | 4.9130 | $266.72 | $133.35 | $53.34
78587 | S |  | Aerosol lung image, multiple | 0401 | 4.9130 | $266.72 | $133.35 | $53.34
78588 | S |  | Perfusion lung image | 0401 | 4.9130 | $266.72 | $133.35 | $53.34
78591 | S |  | Vent image, 1 breath, 1 proj | 0401 | 4.9130 | $266.72 | $133.35 | $53.34
78593 | S |  | Vent image, 1 proj, gas | 0401 | 4.9130 | $266.72 | $133.35 | $53.34
78594 | S |  | Vent image, mult proj, gas | 0401 | 4.9130 | $266.72 | $133.35 | $53.34
78596 | S |  | Lung differential function | 0401 | 4.9130 | $266.72 | $133.35 | $53.34
78599 | S |  | Respiratory nuclear exam | 0389 | 1.6475 | $89.44 | $44.72 | $17.89
78600 | S |  | Brain imaging, ltd static | 0402 | 5.4818 | $297.60 | $148.79 | $59.52
78601 | S |  | Brain imaging, ltd w/ flow | 0402 | 5.4818 | $297.60 | $148.79 | $59.52
78605 | S |  | Brain imaging, complete | 0402 | 5.4818 | $297.60 | $148.79 | $59.52
78606 | S |  | Brain imaging, compl w/flow | 0402 | 5.4818 | $297.60 | $148.79 | $59.52
78607 | S |  | Brain imaging (3D) | 0402 | 5.4818 | $297.60 | $148.79 | $59.52
78608 | E |  | Brain imaging (PET) |  |  |  |  |
78609 | E |  | Brain imaging (PET) |  |  |  |  |
78610 | S |  | Brain flow imaging only | 0402 | 5.4818 | $297.60 | $148.79 | $59.52
78615 | S |  | Cerebral vascular flow image | 0402 | 5.4818 | $297.60 | $148.79 | $59.52
78630 | S |  | Cerebrospinal fluid scan | 0403 | 3.9265 | $213.17 | $106.58 | $42.63
78635 | S |  | CSF ventriculography | 0403 | 3.9265 | $213.17 | $106.58 | $42.63
78645 | S |  | CSF shunt evaluation | 0403 | 3.9265 | $213.17 | $106.58 | $42.63
78647 | S |  | Cerebrospinal fluid scan | 0403 | 3.9265 | $213.17 | $106.58 | $42.63
78650 | S |  | CSF leakage imaging | 0403 | 3.9265 | $213.17 | $106.58 | $42.63
78660 | S |  | Nuclear exam of tear flow | 0403 | 3.9265 | $213.17 | $106.58 | $42.63
78699 | S |  | Nervous system nuclear exam | 0389 | 1.6475 | $89.44 | $44.72 | $17.89
78700 | S |  | Kidney imaging, static | 0404 | 5.1538 | $279.79 | $139.89 | $55.96
78701 | S |  | Kidney imaging with flow | 0404 | 5.1538 | $279.79 | $139.89 | $55.96
78704 | S |  | Imaging renogram | 0404 | 5.1538 | $279.79 | $139.89 | $55.96
78707 | S |  | Kidney flow/function image | 0404 | 5.1538 | $279.79 | $139.89 | $55.96
78708 | S |  | Kidney flow/function image | 0404 | 5.1538 | $279.79 | $139.89 | $55.96
78709 | S |  | Kidney flow/function image | 0404 | 5.1538 | $279.79 | $139.89 | $55.96
78710 | S |  | Kidney imaging (3D) | 0404 | 5.1538 | $279.79 | $139.89 | $55.96
78715 | S |  | Renal vascular flow exam | 0404 | 5.1538 | $279.79 | $139.89 | $55.96
78725 | S |  | Kidney function study | 0389 | 1.6475 | $89.44 | $44.72 | $17.89
78730 | S |  | Urinary bladder retention | 0405 | 0.7739 | $42.01 | $21.00 | $8.40
78740 | S |  | Ureteral reflux study | 0405 | 0.7739 | $42.01 | $21.00 | $8.40
78760 | S |  | Testicular imaging | 0405 | 0.7739 | $42.01 | $21.00 | $8.40
78761 | S |  | Testicular imaging/flow | 0405 | 0.7739 | $42.01 | $21.00 | $8.40
78799 | S |  | Genitourinary nuclear exam | 0389 | 1.6475 | $89.44 | $44.72 | $17.89
78800 | S |  | Tumor imaging, limited area | 0406 | 4.7542 | $258.10 |  | $51.62
78801 | S |  | Tumor imaging, mult areas | 0406 | 4.7542 | $258.10 |  | $51.62
78802 | S |  | Tumor imaging, whole body | 0406 | 4.7542 | $258.10 |  | $51.62
78803 | S |  | Tumor imaging (3D) | 0406 | 4.7542 | $258.10 |  | $51.62
78805 | S |  | Abscess imaging, ltd area | 0406 | 4.7542 | $258.10 |  | $51.62
78806 | S |  | Abscess imaging, whole body | 0406 | 4.7542 | $258.10 |  | $51.62
78807 | S |  | Nuclear localization/abscess | 0406 | 4.7542 | $258.10 |  | $51.62
78810 | E |  | Tumor imaging (PET) |  |  |  |  |
78890 | N |  | Nuclear medicine data proc |  |  |  |  |
78891 | N |  | Nuclear med data proc |  |  |  |  |
78990 | E |  | Provide diag radionuclide(s) |  |  |  |  |
78999 | S |  | Nuclear diagnostic exam | 0389 | 1.6475 | $89.44 | $44.72 | $17.89
79000 | S |  | Init hyperthyroid therapy | 0407 | 4.2797 | $232.34 | $116.17 | $46.47
79001 | S |  | Repeat hyperthyroid therapy | 0407 | 4.2797 | $232.34 | $116.17 | $46.47
79020 | S |  | Thyroid ablation | 0407 | 4.2797 | $232.34 | $116.17 | $46.47
79030 | S |  | Thyroid ablation, carcinoma | 0407 | 4.2797 | $232.34 | $116.17 | $46.47
79035 | S |  | Thyroid metastatic therapy | 0407 | 4.2797 | $232.34 | $116.17 | $46.47
79100 | S |  | Hematopoetic nuclear therapy | 0408 | 4.0000 | $217.16 |  | $43.43
79200 | S |  | Intracavitary nuclear trmt | 0408 | 4.0000 | $217.16 |  | $43.43
79300 | S |  | Interstitial nuclear therapy | 0408 | 4.0000 | $217.16 |  | $43.43
79400 | S |  | Nonhemato nuclear therapy | 0408 | 4.0000 | $217.16 |  | $43.43
79420 | S |  | Intravascular nuclear ther | 0408 | 4.0000 | $217.16 |  | $43.43
79440 | S |  | Nuclear joint therapy | 0408 | 4.0000 | $217.16 |  | $43.43
79900 | N |  | Provide ther radiopharm(s) |  |  |  |  |
79999 | S |  | Nuclear medicine therapy | 0389 | 1.6475 | $89.44 | $44.72 | $17.89
80048 | A |  | Basic metabolic panel |  |  |  |  |
80050 | A |  | General health panel |  |  |  |  |
80051 | A |  | Electrolyte panel |  |  |  |  |
80053 | A |  | Comprehen metabolic panel |  |  |  |  |
80055 | A |  | Obstetric panel |  |  |  |  |
80061 | A |  | Lipid panel |  |  |  |  |
80069 | A |  | Renal function panel |  |  |  |  |
80074 | A |  | Acute hepatitis panel |  |  |  |  |
80076 | A |  | Hepatic function panel |  |  |  |  |
80100 | A |  | Drug screen, qualitate/multi |  |  |  |  |
80101 | A |  | Drug screen, single |  |  |  |  |
80102 | A |  | Drug confirmation |  |  |  |  |
80103 | N |  | Drug analysis, tissue prep |  |  |  |  |
80150 | A |  | Assay of amikacin |  |  |  |  |
80152 | A |  | Assay of amitriptyline |  |  |  |  |
80154 | A |  | Assay of benzodiazepines |  |  |  |  |
80156 | A |  | Assay, carbamazepine, total |  |  |  |  |
80157 | A |  | Assay, carbamazepine, free |  |  |  |  |
80158 | A |  | Assay of cyclosporine |  |  |  |  |
80160 | A |  | Assay of desipramine |  |  |  |  |
80162 | A |  | Assay of digoxin |  |  |  |  |
80164 | A |  | Assay, dipropylacetic acid |  |  |  |  |
80166 | A |  | Assay of doxepin |  |  |  |  |
80168 | A |  | Assay of ethosuximide |  |  |  |  |
80170 | A |  | Assay of gentamicin |  |  |  |  |
80172 | A |  | Assay of gold |  |  |  |  |
80173 | A |  | Assay of haloperidol |  |  |  |  |
80174 | A |  | Assay of imipramine |  |  |  |  |
80176 | A |  | Assay of lidocaine |  |  |  |  |
80178 | A |  | Assay of lithium |  |  |  |  |
80182 | A |  | Assay of nortriptyline |  |  |  |  |
80184 | A |  | Assay of phenobarbital |  |  |  |  |
80185 | A |  | Assay of phenytoin, total |  |  |  |  |
80186 | A |  | Assay of phenytoin, free |  |  |  |  |
80188 | A |  | Assay of primidone |  |  |  |  |
80190 | A |  | Assay of procainamide |  |  |  |  |
80192 | A |  | Assay of procainamide |  |  |  |  |
80194 | A |  | Assay of quinidine |  |  |  |  |
80196 | A |  | Assay of salicylate |  |  |  |  |
80197 | A |  | Assay of tacrolimus |  |  |  |  |
80198 | A |  | Assay of theophylline |  |  |  |  |
80200 | A |  | Assay of tobramycin |  |  |  |  |
80201 | A |  | Assay of topiramate |  |  |  |  |
80202 | A |  | Assay of vancomycin |  |  |  |  |
80299 | A |  | Quantitative assay, drug |  |  |  |  |
80400 | A |  | Acth stimulation panel |  |  |  |  |
80402 | A |  | Acth stimulation panel |  |  |  |  |
80406 | A |  | Acth stimulation panel |  |  |  |  |
80408 | A |  | Aldosterone suppression eval |  |  |  |  |
80410 | A |  | Calcitonin stimul panel |  |  |  |  |
80412 | A |  | CRH stimulation panel |  |  |  |  |
80414 | A |  | Testosterone response |  |  |  |  |
80415 | A |  | Estradiol response panel |  |  |  |  |
80416 | A |  | Renin stimulation panel |  |  |  |  |
80417 | A |  | Renin stimulation panel |  |  |  |  |
80418 | A |  | Pituitary evaluation panel |  |  |  |  |
80420 | A |  | Dexamethasone panel |  |  |  |  |
80422 | A |  | Glucagon tolerance panel |  |  |  |  |
80424 | A |  | Glucagon tolerance panel |  |  |  |  |
80426 | A |  | Gonadotropin hormone panel |  |  |  |  |
80428 | A |  | Growth hormone panel |  |  |  |  |
80430 | A |  | Growth hormone panel |  |  |  |  |
80432 | A |  | Insulin suppression panel |  |  |  |  |
80434 | A |  | Insulin tolerance panel |  |  |  |  |
80435 | A |  | Insulin tolerance panel |  |  |  |  |
80436 | A |  | Metyrapone panel |  |  |  |  |
80438 | A |  | TRH stimulation panel |  |  |  |  |
80439 | A |  | TRH stimulation panel |  |  |  |  |
80440 | A |  | TRH stimulation panel |  |  |  |  |
80500 | X |  | Lab pathology consultation | 0343 | 0.4662 | $25.31 | $12.55 | $5.06
80502 | X |  | Lab pathology consultation | 0342 | 0.2169 | $11.78 | $5.88 | $2.36
81000 | A |  | Urinalysis, nonauto w/scope |  |  |  |  |
81001 | A |  | Urinalysis, auto w/scope |  |  |  |  |
81002 | A |  | Urinalysis nonauto w/o scope |  |  |  |  |
81003 | A |  | Urinalysis, auto, w/o scope |  |  |  |  |
81005 | A |  | Urinalysis |  |  |  |  |
81007 | A |  | Urine screen for bacteria |  |  |  |  |
81015 | A |  | Microscopic exam of urine |  |  |  |  |
81020 | A |  | Urinalysis, glass test |  |  |  |  |
81025 | A |  | Urine pregnancy test |  |  |  |  |
81050 | A |  | Urinalysis, volume measure |  |  |  |  |
81099 | A |  | Urinalysis test procedure |  |  |  |  |
82000 | A |  | Assay of blood acetaldehyde |  |  |  |  |
82003 | A |  | Assay of acetaminophen |  |  |  |  |
82009 | A |  | Test for acetone/ketones |  |  |  |  |
82010 | A |  | Acetone assay |  |  |  |  |
82013 | A |  | Acetylcholinesterase assay |  |  |  |  |
82016 | A |  | Acylcarnitines, qual |  |  |  |  |
82017 | A |  | Acylcarnitines, quant |  |  |  |  |
82024 | A |  | Assay of acth |  |  |  |  |
82030 | A |  | Assay of adp & amp |  |  |  |  |
82040 | A |  | Assay of serum albumin |  |  |  |  |
82042 | A |  | Assay of urine albumin |  |  |  |  |
82043 | A |  | Microalbumin, quantitative |  |  |  |  |
82044 | A |  | Microalbumin, semiquant |  |  |  |  |
82055 | A |  | Assay of ethanol |  |  |  |  |
82075 | A |  | Assay of breath ethanol |  |  |  |  |
82085 | A |  | Assay of aldolase |  |  |  |  |
82088 | A |  | Assay of aldosterone |  |  |  |  |
82101 | A |  | Assay of urine alkaloids |  |  |  |  |
82103 | A |  | Alpha-1-antitrypsin, total |  |  |  |  |
82104 | A |  | Alpha-1-antitrypsin, pheno |  |  |  |  |
82105 | A |  | Alpha-fetoprotein, serum |  |  |  |  |
82106 | A |  | Alpha-fetoprotein, amniotic |  |  |  |  |
82108 | A |  | Assay of aluminum |  |  |  |  |
82120 | A |  | Amines, vaginal fluid qual |  |  |  |  |
82127 | A |  | Amino acid, single qual |  |  |  |  |
82128 | A |  | Amino acids, mult qual |  |  |  |  |
82131 | A |  | Amino acids, single quant |  |  |  |  |
82135 | A |  | Assay, aminolevulinic acid |  |  |  |  |
82136 | A |  | Amino acids, quant, 2-5 |  |  |  |  |
82139 | A |  | Amino acids, quan, 6 or more |  |  |  |  |
82140 | A |  | Assay of ammonia |  |  |  |  |
82143 | A |  | Amniotic fluid scan |  |  |  |  |
82145 | A |  | Assay of amphetamines |  |  |  |  |
82150 | A |  | Assay of amylase |  |  |  |  |
82154 | A |  | Androstanediol glucuronide |  |  |  |  |
82157 | A |  | Assay of androstenedione |  |  |  |  |
82160 | A |  | Assay of androsterone |  |  |  |  |
82163 | A |  | Assay of angiotensin II |  |  |  |  |
82164 | A |  | Angiotensin I enzyme test |  |  |  |  |
82172 | A |  | Assay of apolipoprotein |  |  |  |  |
82175 | A |  | Assay of arsenic |  |  |  |  |
82180 | A |  | Assay of ascorbic acid |  |  |  |  |
82190 | A |  | Atomic absorption |  |  |  |  |
82205 | A |  | Assay of barbiturates |  |  |  |  |
82232 | A |  | Assay of beta-2 protein |  |  |  |  |
82239 | A |  | Bile acids, total |  |  |  |  |
82240 | A |  | Bile acids, cholylglycine |  |  |  |  |
82247 | A |  | Bilirubin, total |  |  |  |  |
82248 | A |  | Bilirubin, direct |  |  |  |  |
82252 | A |  | Fecal bilirubin test |  |  |  |  |
82261 | A |  | Assay of biotinidase |  |  |  |  |
82270 | A |  | Test for blood, feces |  |  |  |  |
82273 | A |  | Test for blood, other source |  |  |  |  |
82274 | A |  | Assay test for blood, fecal |  |  |  |  |
82286 | A |  | Assay of bradykinin |  |  |  |  |
82300 | A |  | Assay of cadmium |  |  |  |  |
82306 | A |  | Assay of vitamin D |  |  |  |  |
82307 | A |  | Assay of vitamin D |  |  |  |  |
82308 | A |  | Assay of calcitonin |  |  |  |  |
82310 | A |  | Assay of calcium |  |  |  |  |
82330 | A |  | Assay of calcium |  |  |  |  |
82331 | A |  | Calcium infusion test |  |  |  |  |
82340 | A |  | Assay of calcium in urine |  |  |  |  |
82355 | A |  | Calculus analysis, qual |  |  |  |  |
82360 | A |  | Calculus assay, quant |  |  |  |  |
82365 | A |  | Calculus spectroscopy |  |  |  |  |
82370 | A |  | X-ray assay, calculus |  |  |  |  |
82373 | A |  | Assay, c-d transfer measure |  |  |  |  |
82374 | A |  | Assay, blood carbon dioxide |  |  |  |  |
82375 | A |  | Assay, blood carbon monoxide |  |  |  |  |
82376 | A |  | Test for carbon monoxide |  |  |  |  |
82378 | A |  | Carcinoembryonic antigen |  |  |  |  |
82379 | A |  | Assay of carnitine |  |  |  |  |
82380 | A |  | Assay of carotene |  |  |  |  |
82382 | A |  | Assay, urine catecholamines |  |  |  |  |
82383 | A |  | Assay, blood catecholamines |  |  |  |  |
82384 | A |  | Assay, three catecholamines |  |  |  |  |
82387 | A |  | Assay of cathepsin-d |  |  |  |  |
82390 | A |  | Assay of ceruloplasmin |  |  |  |  |
82397 | A |  | Chemiluminescent assay |  |  |  |  |
82415 | A |  | Assay of chloramphenicol |  |  |  |  |
82435 | A |  | Assay of blood chloride |  |  |  |  |
82436 | A |  | Assay of urine chloride |  |  |  |  |
82438 | A |  | Assay, other fluid chlorides |  |  |  |  |
82441 | A |  | Test for chlorohydrocarbons |  |  |  |  |
82465 | A |  | Assay, bld/serum cholesterol |  |  |  |  |
82480 | A |  | Assay, serum cholinesterase |  |  |  |  |
82482 | A |  | Assay, rbc cholinesterase |  |  |  |  |
82485 | A |  | Assay, chondroitin sulfate |  |  |  |  |
82486 | A |  | Gas/liquid chromatography |  |  |  |  |
82487 | A |  | Paper chromatography |  |  |  |  |
82488 | A |  | Paper chromatography |  |  |  |  |
82489 | A |  | Thin layer chromatography |  |  |  |  |
82491 | A |  | Chromotography, quant, sing |  |  |  |  |
82492 | A |  | Chromotography, quant, mult |  |  |  |  |
82495 | A |  | Assay of chromium |  |  |  |  |
82507 | A |  | Assay of citrate |  |  |  |  |
82520 | A |  | Assay of cocaine |  |  |  |  |
82523 | A |  | Collagen crosslinks |  |  |  |  |
82525 | A |  | Assay of copper |  |  |  |  |
82528 | A |  | Assay of corticosterone |  |  |  |  |
82530 | A |  | Cortisol, free |  |  |  |  |
82533 | A |  | Total cortisol |  |  |  |  |
82540 | A |  | Assay of creatine |  |  |  |  |
82541 | A |  | Column chromotography, qual |  |  |  |  |
82542 | A |  | Column chromotography, quant |  |  |  |  |
82543 | A |  | Column chromotograph/isotope |  |  |  |  |
82544 | A |  | Column chromotograph/isotope |  |  |  |  |
82550 | A |  | Assay of ck (cpk) |  |  |  |  |
82552 | A |  | Assay of cpk in blood |  |  |  |  |
82553 | A |  | Creatine, MB fraction |  |  |  |  |
82554 | A |  | Creatine, isoforms |  |  |  |  |
82565 | A |  | Assay of creatinine |  |  |  |  |
82570 | A |  | Assay of urine creatinine |  |  |  |  |
82575 | A |  | Creatinine clearance test |  |  |  |  |
82585 | A |  | Assay of cryofibrinogen |  |  |  |  |
82595 | A |  | Assay of cryoglobulin |  |  |  |  |
82600 | A |  | Assay of cyanide |  |  |  |  |
82607 | A |  | Vitamin B-12 |  |  |  |  |
82608 | A |  | B-12 binding capacity |  |  |  |  |
82615 | A |  | Test for urine cystines |  |  |  |  |
82626 | A |  | Dehydroepiandrosterone |  |  |  |  |
82627 | A |  | Dehydroepiandrosterone |  |  |  |  |
82633 | A |  | Desoxycorticosterone |  |  |  |  |
82634 | A |  | Deoxycortisol |  |  |  |  |
82638 | A |  | Assay of dibucaine number |  |  |  |  |
82646 | A |  | Assay of dihydrocodeinone |  |  |  |  |
82649 | A |  | Assay of dihydromorphinone |  |  |  |  |
82651 | A |  | Assay of dihydrotestosterone |  |  |  |  |
82652 | A |  | Assay of dihydroxyvitamin d |  |  |  |  |
82654 | A |  | Assay of dimethadione |  |  |  |  |
82657 | A |  | Enzyme cell activity |  |  |  |  |
82658 | A |  | Enzyme cell activity, ra |  |  |  |  |
82664 | A |  | Electrophoretic test |  |  |  |  |
82666 | A |  | Assay of epiandrosterone |  |  |  |  |
82668 | A |  | Assay of erythropoietin |  |  |  |  |
82670 | A |  | Assay of estradiol |  |  |  |  |
82671 | A |  | Assay of estrogens |  |  |  |  |
82672 | A |  | Assay of estrogen |  |  |  |  |
82677 | A |  | Assay of estriol |  |  |  |  |
82679 | A |  | Assay of estrone |  |  |  |  |
82690 | A |  | Assay of ethchlorvynol |  |  |  |  |
82693 | A |  | Assay of ethylene glycol |  |  |  |  |
82696 | A |  | Assay of etiocholanolone |  |  |  |  |
82705 | A |  | Fats/lipids, feces, qual |  |  |  |  |
82710 | A |  | Fats/lipids, feces, quant |  |  |  |  |
82715 | A |  | Assay of fecal fat |  |  |  |  |
82725 | A |  | Assay of blood fatty acids |  |  |  |  |
82726 | A |  | Long chain fatty acids |  |  |  |  |
82728 | A |  | Assay of ferritin |  |  |  |  |
82731 | A |  | Assay of fetal fibronectin |  |  |  |  |
82735 | A |  | Assay of fluoride |  |  |  |  |
82742 | A |  | Assay of flurazepam |  |  |  |  |
82746 | A |  | Blood folic acid serum |  |  |  |  |
82747 | A |  | Assay of folic acid, rbc |  |  |  |  |
82757 | A |  | Assay of semen fructose |  |  |  |  |
82759 | A |  | Assay of rbc galactokinase |  |  |  |  |
82760 | A |  | Assay of galactose |  |  |  |  |
82775 | A |  | Assay galactose transferase |  |  |  |  |
82776 | A |  | Galactose transferase test |  |  |  |  |
82784 | A |  | Assay of gammaglobulin igm |  |  |  |  |
82785 | A |  | Assay of gammaglobulin ige |  |  |  |  |
82787 | A |  | Igg 1, 2, 3 or 4, each |  |  |  |  |
82800 | A |  | Blood pH |  |  |  |  |
82803 | A |  | Blood gases: pH, pO2 & pCO2 |  |  |  |  |
82805 | A |  | Blood gases W/02 saturation |  |  |  |  |
82810 | A |  | Blood gases, O2 sat only |  |  |  |  |
82820 | A |  | Hemoglobin-oxygen affinity |  |  |  |  |
82926 | A |  | Assay of gastric acid |  |  |  |  |
82928 | A |  | Assay of gastric acid |  |  |  |  |
82938 | A |  | Gastrin test |  |  |  |  |
82941 | A |  | Assay of gastrin |  |  |  |  |
82943 | A |  | Assay of glucagon |  |  |  |  |
82945 | A |  | Glucose other fluid |  |  |  |  |
82946 | A |  | Glucagon tolerance test |  |  |  |  |
82947 | A |  | Assay, glucose, blood quant |  |  |  |  |
82948 | A |  | Reagent strip/blood glucose |  |  |  |  |
82950 | A |  | Glucose test |  |  |  |  |
82951 | A |  | Glucose tolerance test (GTT) |  |  |  |  |
82952 | A |  | GTT-added samples |  |  |  |  |
82953 | A |  | Glucose-tolbutamide test |  |  |  |  |
82955 | A |  | Assay of g6pd enzyme |  |  |  |  |
82960 | A |  | Test for G6PD enzyme |  |  |  |  |
82962 | A |  | Glucose blood test |  |  |  |  |
82963 | A |  | Assay of glucosidase |  |  |  |  |
82965 | A |  | Assay of gdh enzyme |  |  |  |  |
82975 | A |  | Assay of glutamine |  |  |  |  |
82977 | A |  | Assay of GGT |  |  |  |  |
82978 | A |  | Assay of glutathione |  |  |  |  |
82979 | A |  | Assay, rbc glutathione |  |  |  |  |
82980 | A |  | Assay of glutethimide |  |  |  |  |
82985 | A |  | Glycated protein |  |  |  |  |
83001 | A |  | Gonadotropin (FSH) |  |  |  |  |
83002 | A |  | Gonadotropin (LH) |  |  |  |  |
83003 | A |  | Assay, growth hormone (hgh) |  |  |  |  |
83008 | A |  | Assay of guanosine |  |  |  |  |
83010 | A |  | Assay of haptoglobin, quant |  |  |  |  |
83012 | A |  | Assay of haptoglobins |  |  |  |  |
83013 | A |  | H pylori analysis |  |  |  |  |
83014 | A |  | H pylori drug admin/collect |  |  |  |  |
83015 | A |  | Heavy metal screen |  |  |  |  |
83018 | A |  | Quantitative screen, metals |  |  |  |  |
83020 | A |  | Hemoglobin electrophoresis |  |  |  |  |
83021 | A |  | Hemoglobin chromotography |  |  |  |  |
83026 | A |  | Hemoglobin, copper sulfate |  |  |  |  |
83030 | A |  | Fetal hemoglobin, chemical |  |  |  |  |
83033 | A |  | Fetal hemoglobin assay, qual |  |  |  |  |
83036 | A |  | Glycated hemoglobin test |  |  |  |  |
83045 | A |  | Blood methemoglobin test |  |  |  |  |
83050 | A |  | Blood methemoglobin assay |  |  |  |  |
83051 | A |  | Assay of plasma hemoglobin |  |  |  |  |
83055 | A |  | Blood sulfhemoglobin test |  |  |  |  |
83060 | A |  | Blood sulfhemoglobin assay |  |  |  |  |
83065 | A |  | Assay of hemoglobin heat |  |  |  |  |
83068 | A |  | Hemoglobin stability screen |  |  |  |  |
83069 | A |  | Assay of urine hemoglobin |  |  |  |  |
83070 | A |  | Assay of hemosiderin, qual |  |  |  |  |
83071 | A |  | Assay of hemosiderin, quant |  |  |  |  |
83080 | A |  | Assay of b hexosaminidase |  |  |  |  |
83088 | A |  | Assay of histamine |  |  |  |  |
83090 | A |  | Assay of homocystine |  |  |  |  |
83150 | A |  | Assay of for hva |  |  |  |  |
83491 | A |  | Assay of corticosteroids |  |  |  |  |
83497 | A |  | Assay of 5-hiaa |  |  |  |  |
83498 | A |  | Assay of progesterone |  |  |  |  |
83499 | A |  | Assay of progesterone |  |  |  |  |
83500 | A |  | Assay, free hydroxyproline |  |  |  |  |
83505 | A |  | Assay, total hydroxyproline |  |  |  |  |
83516 | A |  | Immunoassay, nonantibody |  |  |  |  |
83518 | A |  | Immunoassay, dipstick |  |  |  |  |
83519 | A |  | Immunoassay, nonantibody |  |  |  |  |
83520 | A |  | Immunoassay, RIA |  |  |  |  |
83525 | A |  | Assay of insulin |  |  |  |  |
83527 | A |  | Assay of insulin |  |  |  |  |
83528 | A |  | Assay of intrinsic factor |  |  |  |  |
83540 | A |  | Assay of iron |  |  |  |  |
83550 | A |  | Iron binding test |  |  |  |  |
83570 | A |  | Assay of idh enzyme |  |  |  |  |
83582 | A |  | Assay of ketogenic steroids |  |  |  |  |
83586 | A |  | Assay 17- ketosteroids |  |  |  |  |
83593 | A |  | Fractionation, ketosteroids |  |  |  |  |
83605 | A |  | Assay of lactic acid |  |  |  |  |
83615 | A |  | Lactate (LD) (LDH) enzyme |  |  |  |  |
83625 | A |  | Assay of ldh enzymes |  |  |  |  |
83632 | A |  | Placental lactogen |  |  |  |  |
83633 | A |  | Test urine for lactose |  |  |  |  |
83634 | A |  | Assay of urine for lactose |  |  |  |  |
83655 | A |  | Assay of lead |  |  |  |  |
83661 | A |  | L/s ratio, fetal lung |  |  |  |  |
83662 | A |  | Foam stability, fetal lung |  |  |  |  |
83663 | A |  | Fluoro polarize, fetal lung |  |  |  |  |
83664 | A |  | Lamellar bdy, fetal lung |  |  |  |  |
83670 | A |  | Assay of lap enzyme |  |  |  |  |
83690 | A |  | Assay of lipase |  |  |  |  |
83715 | A |  | Assay of blood lipoproteins |  |  |  |  |
83716 | A |  | Assay of blood lipoproteins |  |  |  |  |
83718 | A |  | Assay of lipoprotein |  |  |  |  |
83719 | A |  | Assay of blood lipoprotein |  |  |  |  |
83721 | A |  | Assay of blood lipoprotein |  |  |  |  |
83727 | A |  | Assay of lrh hormone |  |  |  |  |
83735 | A |  | Assay of magnesium |  |  |  |  |
83775 | A |  | Assay of md enzyme |  |  |  |  |
83785 | A |  | Assay of manganese |  |  |  |  |
83788 | A |  | Mass spectrometry qual |  |  |  |  |
83789 | A |  | Mass spectrometry quant |  |  |  |  |
83805 | A |  | Assay of meprobamate |  |  |  |  |
83825 | A |  | Assay of mercury |  |  |  |  |
83835 | A |  | Assay of metanephrines |  |  |  |  |
83840 | A |  | Assay of methadone |  |  |  |  |
83857 | A |  | Assay of methemalbumin |  |  |  |  |
83858 | A |  | Assay of methsuximide |  |  |  |  |
83864 | A |  | Mucopolysaccharides |  |  |  |  |
83866 | A |  | Mucopolysaccharides screen |  |  |  |  |
83872 | A |  | Assay synovial fluid mucin |  |  |  |  |
83873 | A |  | Assay of csf protein |  |  |  |  |
83874 | A |  | Assay of myoglobin |  |  |  |  |
83880 | A |  | Natriuretic peptide |  |  |  |  |
83883 | A |  | Assay, nephelometry not spec |  |  |  |  |
83885 | A |  | Assay of nickel |  |  |  |  |
83887 | A |  | Assay of nicotine |  |  |  |  |
83890 | A |  | Molecule isolate |  |  |  |  |
83891 | A |  | Molecule isolate nucleic |  |  |  |  |
83892 | A |  | Molecular diagnostics |  |  |  |  |
83893 | A |  | Molecule dot/slot/blot |  |  |  |  |
83894 | A |  | Molecule gel electrophor |  |  |  |  |
83896 | A |  | Molecular diagnostics |  |  |  |  |
83897 | A |  | Molecule nucleic transfer |  |  |  |  |
83898 | A |  | Molecule nucleic ampli |  |  |  |  |
83901 | A |  | Molecule nucleic ampli |  |  |  |  |
83902 | A |  | Molecular diagnostics |  |  |  |  |
83903 | A |  | Molecule mutation scan |  |  |  |  |
83904 | A |  | Molecule mutation identify |  |  |  |  |
83905 | A |  | Molecule mutation identify |  |  |  |  |
83906 | A |  | Molecule mutation identify |  |  |  |  |
83912 | A |  | Genetic examination |  |  |  |  |
83915 | A |  | Assay of nucleotidase |  |  |  |  |
83916 | A |  | Oligoclonal bands |  |  |  |  |
83918 | A |  | Organic acids, total, quant |  |  |  |  |
83919 | A |  | Organic acids, qual, each |  |  |  |  |
83921 | A |  | Organic acid, single, quant |  |  |  |  |
83925 | A |  | Assay of opiates |  |  |  |  |
83930 | A |  | Assay of blood osmolality |  |  |  |  |
83935 | A |  | Assay of urine osmolality |  |  |  |  |
83937 | A |  | Assay of osteocalcin |  |  |  |  |
83945 | A |  | Assay of oxalate |  |  |  |  |
83950 | A |  | Oncoprotein, her-2/neu |  |  |  |  |
83970 | A |  | Assay of parathormone |  |  |  |  |
83986 | A |  | Assay of body fluid acidity |  |  |  |  |
83992 | A |  | Assay for phencyclidine |  |  |  |  |
84022 | A |  | Assay of phenothiazine |  |  |  |  |
84030 | A |  | Assay of blood pku |  |  |  |  |
84035 | A |  | Assay of phenylketones |  |  |  |  |
84060 | A |  | Assay acid phosphatase |  |  |  |  |
84061 | A |  | Phosphatase, forensic exam |  |  |  |  |
84066 | A |  | Assay prostate phosphatase |  |  |  |  |
84075 | A |  | Assay alkaline phosphatase |  |  |  |  |
84078 | A |  | Assay alkaline phosphatase |  |  |  |  |
84080 | A |  | Assay alkaline phosphatases |  |  |  |  |
84081 | A |  | Amniotic fluid enzyme test |  |  |  |  |
84085 | A |  | Assay of rbc pg6d enzyme |  |  |  |  |
84087 | A |  | Assay phosphohexose enzymes |  |  |  |  |
84100 | A |  | Assay of phosphorus |  |  |  |  |
84105 | A |  | Assay of urine phosphorus |  |  |  |  |
84106 | A |  | Test for porphobilinogen |  |  |  |  |
84110 | A |  | Assay of porphobilinogen |  |  |  |  |
84119 | A |  | Test urine for porphyrins |  |  |  |  |
84120 | A |  | Assay of urine porphyrins |  |  |  |  |
84126 | A |  | Assay of feces porphyrins |  |  |  |  |
84127 | A |  | Assay of feces porphyrins |  |  |  |  |
84132 | A |  | Assay of serum potassium |  |  |  |  |
84133 | A |  | Assay of urine potassium |  |  |  |  |
84134 | A |  | Assay of prealbumin |  |  |  |  |
84135 | A |  | Assay of pregnanediol |  |  |  |  |
84138 | A |  | Assay of pregnanetriol |  |  |  |  |
84140 | A |  | Assay of pregnenolone |  |  |  |  |
84143 | A |  | Assay of 17-hydroxypregneno |  |  |  |  |
84144 | A |  | Assay of progesterone |  |  |  |  |
84146 | A |  | Assay of prolactin |  |  |  |  |
84150 | A |  | Assay of prostaglandin |  |  |  |  |
84152 | A |  | Assay of psa, complexed |  |  |  |  |
84153 | A |  | Assay of psa, total |  |  |  |  |
84154 | A |  | Assay of psa, free |  |  |  |  |
84155 | A |  | Assay of protein |  |  |  |  |
84160 | A |  | Assay of serum protein |  |  |  |  |
84165 | A |  | Assay of serum proteins |  |  |  |  |
84181 | A |  | Western blot test |  |  |  |  |
84182 | A |  | Protein, western blot test |  |  |  |  |
84202 | A |  | Assay RBC protoporphyrin |  |  |  |  |
84203 | A |  | Test RBC protoporphyrin |  |  |  |  |
84206 | A |  | Assay of proinsulin |  |  |  |  |
84207 | A |  | Assay of vitamin b-6 |  |  |  |  |
84210 | A |  | Assay of pyruvate |  |  |  |  |
84220 | A |  | Assay of pyruvate kinase |  |  |  |  |
84228 | A |  | Assay of quinine |  |  |  |  |
84233 | A |  | Assay of estrogen |  |  |  |  |
84234 | A |  | Assay of progesterone |  |  |  |  |
84235 | A |  | Assay of endocrine hormone |  |  |  |  |
84238 | A |  | Assay, nonendocrine receptor |  |  |  |  |
84244 | A |  | Assay of renin |  |  |  |  |
84252 | A |  | Assay of vitamin b-2 |  |  |  |  |
84255 | A |  | Assay of selenium |  |  |  |  |
84260 | A |  | Assay of serotonin |  |  |  |  |
84270 | A |  | Assay of sex hormone globul |  |  |  |  |
84275 | A |  | Assay of sialic acid |  |  |  |  |
84285 | A |  | Assay of silica |  |  |  |  |
84295 | A |  | Assay of serum sodium |  |  |  |  |
84300 | A |  | Assay of urine sodium |  |  |  |  |
84302 | A |  | Assay of sweat sodium |  |  |  |  |
84305 | A |  | Assay of somatomedin |  |  |  |  |
84307 | A |  | Assay of somatostatin |  |  |  |  |
84311 | A |  | Spectrophotometry |  |  |  |  |
84315 | A |  | Body fluid specific gravity |  |  |  |  |
84375 | A |  | Chromatogram assay, sugars |  |  |  |  |
84376 | A |  | Sugars, single, qual |  |  |  |  |
84377 | A |  | Sugars, multiple, qual |  |  |  |  |
84378 | A |  | Sugars single quant |  |  |  |  |
84379 | A |  | Sugars multiple quant |  |  |  |  |
84392 | A |  | Assay of urine sulfate |  |  |  |  |
84402 | A |  | Assay of testosterone |  |  |  |  |
84403 | A |  | Assay of total testosterone |  |  |  |  |
84425 | A |  | Assay of vitamin b-1 |  |  |  |  |
84430 | A |  | Assay of thiocyanate |  |  |  |  |
84432 | A |  | Assay of thyroglobulin |  |  |  |  |
84436 | A |  | Assay of total thyroxine |  |  |  |  |
84437 | A |  | Assay of neonatal thyroxine |  |  |  |  |
84439 | A |  | Assay of free thyroxine |  |  |  |  |
84442 | A |  | Assay of thyroid activity |  |  |  |  |
84443 | A |  | Assay thyroid stim hormone |  |  |  |  |
84445 | A |  | Assay of tsi |  |  |  |  |
84446 | A |  | Assay of vitamin e |  |  |  |  |
84449 | A |  | Assay of transcortin |  |  |  |  |
84450 | A |  | Transferase (AST) (SGOT) |  |  |  |  |
84460 | A |  | Alanine amino (ALT) (SGPT) |  |  |  |  |
84466 | A |  | Assay of transferrin |  |  |  |  |
84478 | A |  | Assay of triglycerides |  |  |  |  |
84479 | A |  | Assay of thyroid (t3 or t4) |  |  |  |  |
84480 | A |  | Assay, triiodothyronine (t3) |  |  |  |  |
84481 | A |  | Free assay (FT-3) |  |  |  |  |
84482 | A |  | T3 reverse |  |  |  |  |
84484 | A |  | Assay of troponin, quant |  |  |  |  |
84485 | A |  | Assay duodenal fluid trypsin |  |  |  |  |
84488 | A |  | Test feces for trypsin |  |  |  |  |
84490 | A |  | Assay of feces for trypsin |  |  |  |  |
84510 | A |  | Assay of tyrosine |  |  |  |  |
84512 | A |  | Assay of troponin, qual |  |  |  |  |
84520 | A |  | Assay of urea nitrogen |  |  |  |  |
84525 | A |  | Urea nitrogen semi-quant |  |  |  |  |
84540 | A |  | Assay of urine/urea-n |  |  |  |  |
84545 | A |  | Urea-N clearance test |  |  |  |  |
84550 | A |  | Assay of blood/uric acid |  |  |  |  |
84560 | A |  | Assay of urine/uric acid |  |  |  |  |
84577 | A |  | Assay of feces/urobilinogen |  |  |  |  |
84578 | A |  | Test urine urobilinogen |  |  |  |  |
84580 | A |  | Assay of urine urobilinogen |  |  |  |  |
84583 | A |  | Assay of urine urobilinogen |  |  |  |  |
84585 | A |  | Assay of urine vma |  |  |  |  |
84586 | A |  | Assay of vip |  |  |  |  |
84588 | A |  | Assay of vasopressin |  |  |  |  |
84590 | A |  | Assay of vitamin a |  |  |  |  |
84591 | A |  | Assay of nos vitamin |  |  |  |  |
84597 | A |  | Assay of vitamin k |  |  |  |  |
84600 | A |  | Assay of volatiles |  |  |  |  |
84620 | A |  | Xylose tolerance test |  |  |  |  |
84630 | A |  | Assay of zinc |  |  |  |  |
84681 | A |  | Assay of c-peptide |  |  |  |  |
84702 | A |  | Chorionic gonadotropin test |  |  |  |  |
84703 | A |  | Chorionic gonadotropin assay |  |  |  |  |
84830 | A |  | Ovulation tests |  |  |  |  |
84999 | A |  | Clinical chemistry test |  |  |  |  |
85002 | A |  | Bleeding time test |  |  |  |  |
85004 | A |  | Automated diff wbc count |  |  |  |  |
85007 | A |  | Differential WBC count |  |  |  |  |
85008 | A |  | Nondifferential WBC count |  |  |  |  |
85009 | A |  | Differential WBC count |  |  |  |  |
85013 | A |  | Spun microhematocrit |  |  |  |  |
85014 | A |  | Hematocrit |  |  |  |  |
85018 | A |  | Hemoglobin |  |  |  |  |
85025 | A |  | Automated hemogram |  |  |  |  |
85027 | A |  | Automated hemogram |  |  |  |  |
85032 | A |  | Manual cell count, each |  |  |  |  |
85041 | A |  | Red blood cell (RBC) count |  |  |  |  |
85044 | A |  | Reticulocyte count |  |  |  |  |
85045 | A |  | Reticulocyte count |  |  |  |  |
85046 | A |  | Reticyte/hgb concentrate |  |  |  |  |
85048 | A |  | White blood cell (WBC) count |  |  |  |  |
85049 | A |  | Automated platelet count |  |  |  |  |
85060 | X |  | Blood smear interpretation | 0342 | 0.2169 | $11.78 | $5.88 | $2.36
85097 | X |  | Bone marrow interpretation | 0343 | 0.4662 | $25.31 | $12.55 | $5.06
85130 | A |  | Chromogenic substrate assay |  |  |  |  |
85170 | A |  | Blood clot retraction |  |  |  |  |
85175 | A |  | Blood clot lysis time |  |  |  |  |
85210 | A |  | Blood clot factor II test |  |  |  |  |
85220 | A |  | Blood clot factor V test |  |  |  |  |
85230 | A |  | Blood clot factor VII test |  |  |  |  |
85240 | A |  | Blood clot factor VIII test |  |  |  |  |
85244 | A |  | Blood clot factor VIII test |  |  |  |  |
85245 | A |  | Blood clot factor VIII test |  |  |  |  |
85246 | A |  | Blood clot factor VIII test |  |  |  |  |
85247 | A |  | Blood clot factor VIII test |  |  |  |  |
85250 | A |  | Blood clot factor IX test |  |  |  |  |
85260 | A |  | Blood clot factor X test |  |  |  |  |
85270 | A |  | Blood clot factor XI test |  |  |  |  |
85280 | A |  | Blood clot factor XII test |  |  |  |  |
85290 | A |  | Blood clot factor XIII test |  |  |  |  |
85291 | A |  | Blood clot factor XIII test |  |  |  |  |
85292 | A |  | Blood clot factor assay |  |  |  |  |
85293 | A |  | Blood clot factor assay |  |  |  |  |
85300 | A |  | Antithrombin III test |  |  |  |  |
85301 | A |  | Antithrombin III test |  |  |  |  |
85302 | A |  | Blood clot inhibitor antigen |  |  |  |  |
85303 | A |  | Blood clot inhibitor test |  |  |  |  |
85305 | A |  | Blood clot inhibitor assay |  |  |  |  |
85306 | A |  | Blood clot inhibitor test |  |  |  |  |
85307 | A |  | Assay activated protein c |  |  |  |  |
85335 | A |  | Factor inhibitor test |  |  |  |  |
85337 | A |  | Thrombomodulin |  |  |  |  |
85345 | A |  | Coagulation time |  |  |  |  |
85347 | A |  | Coagulation time |  |  |  |  |
85348 | A |  | Coagulation time |  |  |  |  |
85360 | A |  | Euglobulin lysis |  |  |  |  |
85362 | A |  | Fibrin degradation products |  |  |  |  |
85366 | A |  | Fibrinogen test |  |  |  |  |
85370 | A |  | Fibrinogen test |  |  |  |  |
85378 | A |  | Fibrin degradation |  |  |  |  |
85379 | A |  | Fibrin degradation, quant |  |  |  |  |
85380 | A |  | Fibrin degradation, vte |  |  |  |  |
85384 | A |  | Fibrinogen |  |  |  |  |
85385 | A |  | Fibrinogen |  |  |  |  |
85390 | A |  | Fibrinolysins screen |  |  |  |  |
85400 | A |  | Fibrinolytic plasmin |  |  |  |  |
85410 | A |  | Fibrinolytic antiplasmin |  |  |  |  |
85415 | A |  | Fibrinolytic plasminogen |  |  |  |  |
85420 | A |  | Fibrinolytic plasminogen |  |  |  |  |
85421 | A |  | Fibrinolytic plasminogen |  |  |  |  |
85441 | A |  | Heinz bodies, direct |  |  |  |  |
85445 | A |  | Heinz bodies, induced |  |  |  |  |
85460 | A |  | Hemoglobin, fetal |  |  |  |  |
85461 | A |  | Hemoglobin, fetal |  |  |  |  |
85475 | A |  | Hemolysin |  |  |  |  |
85520 | A |  | Heparin assay |  |  |  |  |
85525 | A |  | Heparin neutralization |  |  |  |  |
85530 | A |  | Heparin-protamine tolerance |  |  |  |  |
85536 | A |  | Iron stain peripheral blood |  |  |  |  |
85540 | A |  | Wbc alkaline phosphatase |  |  |  |  |
85547 | A |  | RBC mechanical fragility |  |  |  |  |
85549 | A |  | Muramidase |  |  |  |  |
85555 | A |  | RBC osmotic fragility |  |  |  |  |
85557 | A |  | RBC osmotic fragility |  |  |  |  |
85576 | A |  | Blood platelet aggregation |  |  |  |  |
85597 | A |  | Platelet neutralization |  |  |  |  |
85610 | A |  | Prothrombin time |  |  |  |  |
85611 | A |  | Prothrombin test |  |  |  |  |
85612 | A |  | Viper venom prothrombin time |  |  |  |  |
85613 | A |  | Russell viper venom, diluted |  |  |  |  |
85635 | A |  | Reptilase test |  |  |  |  |
85651 | A |  | Rbc sed rate, nonautomated |  |  |  |  |
85652 | A |  | Rbc sed rate, automated |  |  |  |  |
85660 | A |  | RBC sickle cell test |  |  |  |  |
85670 | A |  | Thrombin time, plasma |  |  |  |  |
85675 | A |  | Thrombin time, titer |  |  |  |  |
85705 | A |  | Thromboplastin inhibition |  |  |  |  |
85730 | A |  | Thromboplastin time, partial |  |  |  |  |
85732 | A |  | Thromboplastin time, partial |  |  |  |  |
85810 | A |  | Blood viscosity examination |  |  |  |  |
85999 | A |  | Hematology procedure |  |  |  |  |
86000 | A |  | Agglutinins, febrile |  |  |  |  |
86001 | A |  | Allergen specific igg |  |  |  |  |
86003 | A |  | Allergen specific IgE |  |  |  |  |
86005 | A |  | Allergen specific IgE |  |  |  |  |
86021 | A |  | WBC antibody identification |  |  |  |  |
86022 | A |  | Platelet antibodies |  |  |  |  |
86023 | A |  | Immunoglobulin assay |  |  |  |  |
86038 | A |  | Antinuclear antibodies |  |  |  |  |
86039 | A |  | Antinuclear antibodies (ANA) |  |  |  |  |
86060 | A |  | Antistreptolysin o, titer |  |  |  |  |
86063 | A |  | Antistreptolysin o, screen |  |  |  |  |
86077 | A |  | Physician blood bank service |  |  |  |  |
86078 | A |  | Physician blood bank service |  |  |  |  |
86079 | A |  | Physician blood bank service |  |  |  |  |
86140 | A |  | C-reactive protein |  |  |  |  |
86141 | A |  | C-reactive protein, hs |  |  |  |  |
86146 | A |  | Glycoprotein antibody |  |  |  |  |
86147 | A |  | Cardiolipin antibody |  |  |  |  |
86148 | A |  | Phospholipid antibody |  |  |  |  |
86155 | A |  | Chemotaxis assay |  |  |  |  |
86156 | A |  | Cold agglutinin, screen |  |  |  |  |
86157 | A |  | Cold agglutinin, titer |  |  |  |  |
86160 | A |  | Complement, antigen |  |  |  |  |
86161 | A |  | Complement/function activity |  |  |  |  |
86162 | A |  | Complement, total (CH50) |  |  |  |  |
86171 | A |  | Complement fixation, each |  |  |  |  |
86185 | A |  | Counterimmunoelectrophoresis |  |  |  |  |
86215 | A |  | Deoxyribonuclease, antibody |  |  |  |  |
86225 | A |  | DNA antibody |  |  |  |  |
86226 | A |  | DNA antibody, single strand |  |  |  |  |
86235 | A |  | Nuclear antigen antibody |  |  |  |  |
86243 | A |  | Fc receptor |  |  |  |  |
86255 | A |  | Fluorescent antibody, screen |  |  |  |  |
86256 | A |  | Fluorescent antibody, titer |  |  |  |  |
86277 | A |  | Growth hormone antibody |  |  |  |  |
86280 | A |  | Hemagglutination inhibition |  |  |  |  |
86294 | A |  | Immunoassay, tumor qual |  |  |  |  |
86300 | A |  | Immunoassay, tumor ca 15-3 |  |  |  |  |
86301 | A |  | Immunoassay, tumor ca 19-9 |  |  |  |  |
86304 | A |  | Immunoassay, tumor, ca 125 |  |  |  |  |
86308 | A |  | Heterophile antibodies |  |  |  |  |
86309 | A |  | Heterophile antibodies |  |  |  |  |
86310 | A |  | Heterophile antibodies |  |  |  |  |
86316 | A |  | Immunoassay, tumor other |  |  |  |  |
86317 | A |  | Immunoassay,infectious agent |  |  |  |  |
86318 | A |  | Immunoassay,infectious agent |  |  |  |  |
86320 | A |  | Serum immunoelectrophoresis |  |  |  |  |
86325 | A |  | Other immunoelectrophoresis |  |  |  |  |
86327 | A |  | Immunoelectrophoresis assay |  |  |  |  |
86329 | A |  | Immunodiffusion |  |  |  |  |
86331 | A |  | Immunodiffusion ouchterlony |  |  |  |  |
86332 | A |  | Immune complex assay |  |  |  |  |
86334 | A |  | Immunofixation procedure |  |  |  |  |
86336 | A |  | Inhibin A |  |  |  |  |
86337 | A |  | Insulin antibodies |  |  |  |  |
86340 | A |  | Intrinsic factor antibody |  |  |  |  |
86341 | A |  | Islet cell antibody |  |  |  |  |
86343 | A |  | Leukocyte histamine release |  |  |  |  |
86344 | A |  | Leukocyte phagocytosis |  |  |  |  |
86353 | A |  | Lymphocyte transformation |  |  |  |  |
86359 | A |  | T cells, total count |  |  |  |  |
86360 | A |  | T cell, absolute count/ratio |  |  |  |  |
86361 | A |  | T cell, absolute count |  |  |  |  |
86376 | A |  | Microsomal antibody |  |  |  |  |
86378 | A |  | Migration inhibitory factor |  |  |  |  |
86382 | A |  | Neutralization test, viral |  |  |  |  |
86384 | A |  | Nitroblue tetrazolium dye |  |  |  |  |
86403 | A |  | Particle agglutination test |  |  |  |  |
86406 | A |  | Particle agglutination test |  |  |  |  |
86430 | A |  | Rheumatoid factor test |  |  |  |  |
86431 | A |  | Rheumatoid factor, quant |  |  |  |  |
86485 | X |  | Skin test, candida | 0341 | 0.1468 | $7.97 | $3.08 | $1.59
86490 | X |  | Coccidioidomycosis skin test | 0341 | 0.1468 | $7.97 | $3.08 | $1.59
86510 | X |  | Histoplasmosis skin test | 0341 | 0.1468 | $7.97 | $3.08 | $1.59
86580 | X |  | TB intradermal test | 0341 | 0.1468 | $7.97 | $3.08 | $1.59
86585 | X |  | TB tine test | 0341 | 0.1468 | $7.97 | $3.08 | $1.59
86586 | X |  | Skin test, unlisted | 0341 | 0.1468 | $7.97 | $3.08 | $1.59
86590 | A |  | Streptokinase, antibody |  |  |  |  |
86592 | A |  | Blood serology, qualitative |  |  |  |  |
86593 | A |  | Blood serology, quantitative |  |  |  |  |
86602 | A |  | Antinomyces antibody |  |  |  |  |
86603 | A |  | Adenovirus antibody |  |  |  |  |
86606 | A |  | Aspergillus antibody |  |  |  |  |
86609 | A |  | Bacterium antibody |  |  |  |  |
86611 | A |  | Bartonella antibody |  |  |  |  |
86612 | A |  | Blastomyces antibody |  |  |  |  |
86615 | A |  | Bordetella antibody |  |  |  |  |
86617 | A |  | Lyme disease antibody |  |  |  |  |
86618 | A |  | Lyme disease antibody |  |  |  |  |
86619 | A |  | Borrelia antibody |  |  |  |  |
86622 | A |  | Brucella antibody |  |  |  |  |
86625 | A |  | Campylobacter antibody |  |  |  |  |
86628 | A |  | Candida antibody |  |  |  |  |
86631 | A |  | Chlamydia antibody |  |  |  |  |
86632 | A |  | Chlamydia igm antibody |  |  |  |  |
86635 | A |  | Coccidioides antibody |  |  |  |  |
86638 | A |  | Q fever antibody |  |  |  |  |
86641 | A |  | Cryptococcus antibody |  |  |  |  |
86644 | A |  | CMV antibody |  |  |  |  |
86645 | A |  | CMV antibody, IgM |  |  |  |  |
86648 | A |  | Diphtheria antibody |  |  |  |  |
86651 | A |  | Encephalitis antibody |  |  |  |  |
86652 | A |  | Encephalitis antibody |  |  |  |  |
86653 | A |  | Encephalitis antibody |  |  |  |  |
86654 | A |  | Encephalitis antibody |  |  |  |  |
86658 | A |  | Enterovirus antibody |  |  |  |  |
86663 | A |  | Epstein-barr antibody |  |  |  |  |
86664 | A |  | Epstein-barr antibody |  |  |  |  |
86665 | A |  | Epstein-barr antibody |  |  |  |  |
86666 | A |  | Ehrlichia antibody |  |  |  |  |
86668 | A |  | Francisella tularensis |  |  |  |  |
86671 | A |  | Fungus antibody |  |  |  |  |
86674 | A |  | Giardia lamblia antibody |  |  |  |  |
86677 | A |  | Helicobacter pylori |  |  |  |  |
86682 | A |  | Helminth antibody |  |  |  |  |
86684 | A |  | Hemophilus influenza |  |  |  |  |
86687 | A |  | Htlv-i antibody |  |  |  |  |
86688 | A |  | Htlv-ii antibody |  |  |  |  |
86689 | A |  | HTLV/HIV confirmatory test |  |  |  |  |
86692 | A |  | Hepatitis, delta agent |  |  |  |  |
86694 | A |  | Herpes simplex test |  |  |  |  |
86695 | A |  | Herpes simplex test |  |  |  |  |
86696 | A |  | Herpes simplex type 2 |  |  |  |  |
86698 | A |  | Histoplasma |  |  |  |  |
86701 | A |  | HIV-1 |  |  |  |  |
86702 | A |  | HIV-2 |  |  |  |  |
86703 | A |  | HIV-1/HIV-2, single assay |  |  |  |  |
86704 | A |  | Hep b core antibody, total |  |  |  |  |
86705 | A |  | Hep b core antibody, igm |  |  |  |  |
86706 | A |  | Hep b surface antibody |  |  |  |  |
86707 | A |  | Hep be antibody |  |  |  |  |
86708 | A |  | Hep a antibody, total |  |  |  |  |
86709 | A |  | Hep a antibody, igm |  |  |  |  |
86710 | A |  | Influenza virus antibody |  |  |  |  |
86713 | A |  | Legionella antibody |  |  |  |  |
86717 | A |  | Leishmania antibody |  |  |  |  |
86720 | A |  | Leptospira antibody |  |  |  |  |
86723 | A |  | Listeria monocytogenes ab |  |  |  |  |
86727 | A |  | Lymph choriomeningitis ab |  |  |  |  |
86729 | A |  | Lympho venereum antibody |  |  |  |  |
86732 | A |  | Mucormycosis antibody |  |  |  |  |
86735 | A |  | Mumps antibody |  |  |  |  |
86738 | A |  | Mycoplasma antibody |  |  |  |  |
86741 | A |  | Neisseria meningitidis |  |  |  |  |
86744 | A |  | Nocardia antibody |  |  |  |  |
86747 | A |  | Parvovirus antibody |  |  |  |  |
86750 | A |  | Malaria antibody |  |  |  |  |
86753 | A |  | Protozoa antibody nos |  |  |  |  |
86756 | A |  | Respiratory virus antibody |  |  |  |  |
86757 | A |  | Rickettsia antibody |  |  |  |  |
86759 | A |  | Rotavirus antibody |  |  |  |  |
86762 | A |  | Rubella antibody |  |  |  |  |
86765 | A |  | Rubeola antibody |  |  |  |  |
86768 | A |  | Salmonella antibody |  |  |  |  |
86771 | A |  | Shigella antibody |  |  |  |  |
86774 | A |  | Tetanus antibody |  |  |  |  |
86777 | A |  | Toxoplasma antibody |  |  |  |  |
86778 | A |  | Toxoplasma antibody, igm |  |  |  |  |
86781 | A |  | Treponema pallidum, confirm |  |  |  |  |
86784 | A |  | Trichinella antibody |  |  |  |  |
86787 | A |  | Varicella-zoster antibody |  |  |  |  |
86790 | A |  | Virus antibody nos |  |  |  |  |
86793 | A |  | Yersinia antibody |  |  |  |  |
86800 | A |  | Thyroglobulin antibody |  |  |  |  |
86803 | A |  | Hepatitis c ab test |  |  |  |  |
86804 | A |  | Hep c ab test, confirm |  |  |  |  |
86805 | A |  | Lymphocytotoxicity assay |  |  |  |  |
86806 | A |  | Lymphocytotoxicity assay |  |  |  |  |
86807 | A |  | Cytotoxic antibody screening |  |  |  |  |
86808 | A |  | Cytotoxic antibody screening |  |  |  |  |
86812 | A |  | HLA typing, A, B, or C |  |  |  |  |
86813 | A |  | HLA typing, A, B, or C |  |  |  |  |
86816 | A |  | HLA typing, DR/DQ |  |  |  |  |
86817 | A |  | HLA typing, DR/DQ |  |  |  |  |
86821 | A |  | Lymphocyte culture, mixed |  |  |  |  |
86822 | A |  | Lymphocyte culture, primed |  |  |  |  |
86849 | A |  | Immunology procedure |  |  |  |  |
86850 | X |  | RBC antibody screen | 0345 | 0.2589 | $14.06 | $3.10 | $2.81
86860 | X |  | RBC antibody elution | 0346 | 0.3877 | $21.05 | $5.31 | $4.21
86870 | X |  | RBC antibody identification | 0346 | 0.3877 | $21.05 | $5.31 | $4.21
86880 | X |  | Coombs test, direct | 0409 | 0.1385 | $7.52 | $2.31 | $1.50
86885 | X |  | Coombs test, indirect, qual | 0409 | 0.1385 | $7.52 | $2.31 | $1.50
86886 | X |  | Coombs test, indirect, titer | 0409 | 0.1385 | $7.52 | $2.31 | $1.50
86890 | X |  | Autologous blood process | 0347 | 0.9646 | $52.37 | $13.19 | $10.47
86891 | X |  | Autologous blood, op salvage | 0345 | 0.2589 | $14.06 | $3.10 | $2.81
86900 | X |  | Blood typing, ABO | 0409 | 0.1385 | $7.52 | $2.31 | $1.50
86901 | X |  | Blood typing, Rh (D) | 0409 | 0.1385 | $7.52 | $2.31 | $1.50
86903 | X |  | Blood typing, antigen screen | 0345 | 0.2589 | $14.06 | $3.10 | $2.81
86904 | X |  | Blood typing, patient serum | 0345 | 0.2589 | $14.06 | $3.10 | $2.81
86905 | X |  | Blood typing, RBC antigens | 0345 | 0.2589 | $14.06 | $3.10 | $2.81
86906 | X |  | Blood typing, Rh phenotype | 0345 | 0.2589 | $14.06 | $3.10 | $2.81
86910 | E |  | Blood typing, paternity test |  |  |  |  |
86911 | E |  | Blood typing, antigen system |  |  |  |  |
86920 | X |  | Compatibility test | 0346 | 0.3877 | $21.05 | $5.31 | $4.21
86921 | X |  | Compatibility test | 0345 | 0.2589 | $14.06 | $3.10 | $2.81
86922 | X |  | Compatibility test | 0346 | 0.3877 | $21.05 | $5.31 | $4.21
86927 | X |  | Plasma, fresh frozen | 0346 | 0.3877 | $21.05 | $5.31 | $4.21
86930 | X |  | Frozen blood prep | 0347 | 0.9646 | $52.37 | $13.19 | $10.47
86931 | X |  | Frozen blood thaw | 0347 | 0.9646 | $52.37 | $13.19 | $10.47
86932 | X |  | Frozen blood freeze/thaw | 0347 | 0.9646 | $52.37 | $13.19 | $10.47
86940 | A |  | Hemolysins/agglutinins, auto |  |  |  |  |
86941 | A |  | Hemolysins/agglutinins |  |  |  |  |
86945 | X |  | Blood product/irradiation | 0346 | 0.3877 | $21.05 | $5.31 | $4.21
86950 | X |  | Leukacyte transfusion | 0347 | 0.9646 | $52.37 | $13.19 | $10.47
86965 | X |  | Pooling blood platelets | 0346 | 0.3877 | $21.05 | $5.31 | $4.21
86970 | X |  | RBC pretreatment | 0345 | 0.2589 | $14.06 | $3.10 | $2.81
86971 | X |  | RBC pretreatment | 0345 | 0.2589 | $14.06 | $3.10 | $2.81
86972 | X |  | RBC pretreatment | 0345 | 0.2589 | $14.06 | $3.10 | $2.81
86975 | X |  | RBC pretreatment, serum | 0345 | 0.2589 | $14.06 | $3.10 | $2.81
86976 | X |  | RBC pretreatment, serum | 0345 | 0.2589 | $14.06 | $3.10 | $2.81
86977 | X |  | RBC pretreatment, serum | 0345 | 0.2589 | $14.06 | $3.10 | $2.81
86978 | X |  | RBC pretreatment, serum | 0345 | 0.2589 | $14.06 | $3.10 | $2.81
86985 | X |  | Split blood or products | 0347 | 0.9646 | $52.37 | $13.19 | $10.47
86999 | X |  | Transfusion procedure | 0345 | 0.2589 | $14.06 | $3.10 | $2.81
87001 | A |  | Small animal inoculation |  |  |  |  |
87003 | A |  | Small animal inoculation |  |  |  |  |
87015 | A |  | Specimen concentration |  |  |  |  |
87040 | A |  | Blood culture for bacteria |  |  |  |  |
87045 | A |  | Feces culture, bacteria |  |  |  |  |
87046 | A |  | Stool cultr, bacteria, each |  |  |  |  |
87070 | A |  | Culture, bacteria, other |  |  |  |  |
87071 | A |  | Culture bacteri aerobic othr |  |  |  |  |
87073 | A |  | Culture bacteria anaerobic |  |  |  |  |
87075 | A |  | Culture bacteria anaerobic |  |  |  |  |
87076 | A |  | Culture anaerobe ident, each |  |  |  |  |
87077 | A |  | Culture aerobic identify |  |  |  |  |
87081 | A |  | Culture screen only |  |  |  |  |
87084 | A |  | Culture of specimen by kit |  |  |  |  |
87086 | A |  | Urine culture/colony count |  |  |  |  |
87088 | A |  | Urine bacteria culture |  |  |  |  |
87101 | A |  | Skin fungi culture |  |  |  |  |
87102 | A |  | Fungus isolation culture |  |  |  |  |
87103 | A |  | Blood fungus culture |  |  |  |  |
87106 | A |  | Fungi identification, yeast |  |  |  |  |
87107 | A |  | Fungi identification, mold |  |  |  |  |
87109 | A |  | Mycoplasma |  |  |  |  |
87110 | A |  | Chlamydia culture |  |  |  |  |
87116 | A |  | Mycobacteria culture |  |  |  |  |
87118 | A |  | Mycobacteric identification |  |  |  |  |
87140 | A |  | Culture type immunofluoresc |  |  |  |  |
87143 | A |  | Culture typing, glc/hplc |  |  |  |  |
87147 | A |  | Culture type, immunologic |  |  |  |  |
87149 | A |  | Culture type, nucleic acid |  |  |  |  |
87152 | A |  | Culture type pulse field gel |  |  |  |  |
87158 | A |  | Culture typing, added method |  |  |  |  |
87164 | A |  | Dark field examination |  |  |  |  |
87166 | A |  | Dark field examination |  |  |  |  |
87168 | A |  | Macroscopic exam arthropod |  |  |  |  |
87169 | A |  | Macroscopic exam parasite |  |  |  |  |
87172 | A |  | Pinworm exam |  |  |  |  |
87176 | A |  | Tissue homogenization, cultr |  |  |  |  |
87177 | A |  | Ova and parasites smears |  |  |  |  |
87181 | A |  | Microbe susceptible, diffuse |  |  |  |  |
87184 | A |  | Microbe susceptible, disk |  |  |  |  |
87185 | A |  | Microbe susceptible, enzyme |  |  |  |  |
87186 | A |  | Microbe susceptible, mic |  |  |  |  |
87187 | A |  | Microbe susceptible, mlc |  |  |  |  |
87188 | A |  | Microbe suscept, macrobroth |  |  |  |  |
87190 | A |  | Microbe suscept, mycobacteri |  |  |  |  |
87197 | A |  | Bactericidal level, serum |  |  |  |  |
87205 | A |  | Smear, gram stain |  |  |  |  |
87206 | A |  | Smear, fluorescent/acid stai |  |  |  |  |
87207 | A |  | Smear, special stain |  |  |  |  |
87210 | A |  | Smear, wet mount, saline/ink |  |  |  |  |
87220 | A |  | Tissue exam for fungi |  |  |  |  |
87230 | A |  | Assay, toxin or antitoxin |  |  |  |  |
87250 | A |  | Virus inoculate, eggs/animal |  |  |  |  |
87252 | A |  | Virus inoculation, tissue |  |  |  |  |
87253 | A |  | Virus inoculate tissue, addl |  |  |  |  |
87254 | A |  | Virus inoculation, shell via |  |  |  |  |
87255 | A |  | Genet virus isolate, hsv |  |  |  |  |
87260 | A |  | Adenovirus ag, if |  |  |  |  |
87265 | A |  | Pertussis ag, if |  |  |  |  |
87267 | A |  | Enterovirus antibody, dfa |  |  |  |  |
87270 | A |  | Chlamydia trachomatis ag, if |  |  |  |  |
87271 | A |  | Cryptosporidum/gardia ag, if |  |  |  |  |
87272 | A |  | Cryptosporidum/gardia ag, if |  |  |  |  |
87273 | A |  | Herpes simplex 2, ag, if |  |  |  |  |
87274 | A |  | Herpes simplex 1, ag, if |  |  |  |  |
87275 | A |  | Influenza b, ag, if |  |  |  |  |
87276 | A |  | Influenza a, ag, if |  |  |  |  |
87277 | A |  | Legionella micdadei, ag, if |  |  |  |  |
87278 | A |  | Legion pneumophilia ag, if |  |  |  |  |
87279 | A |  | Parainfluenza, ag, if |  |  |  |  |
87280 | A |  | Respiratory syncytial ag, if |  |  |  |  |
87281 | A |  | Pneumocystis carinii, ag, if |  |  |  |  |
87283 | A |  | Rubeola, ag, if |  |  |  |  |
87285 | A |  | Treponema pallidum, ag, if |  |  |  |  |
87290 | A |  | Varicella zoster, ag, if |  |  |  |  |
87299 | A |  | Antibody detection, nos, if |  |  |  |  |
87300 | A |  | Ag detection, polyval, if |  |  |  |  |
87301 | A |  | Adenovirus ag, eia |  |  |  |  |
87320 | A |  | Chylmd trach ag, eia |  |  |  |  |
87324 | A |  | Clostridium ag, eia |  |  |  |  |
87327 | A |  | Cryptococcus neoform ag, eia |  |  |  |  |
87328 | A |  | Cryptospor ag, eia |  |  |  |  |
87332 | A |  | Cytomegalovirus ag, eia |  |  |  |  |
87335 | A |  | E coli 0157 ag, eia |  |  |  |  |
87336 | A |  | Entamoeb hist dispr, ag, eia |  |  |  |  |
87337 | A |  | Entamoeb hist group, ag, eia |  |  |  |  |
87338 | A |  | Hpylori, stool, eia |  |  |  |  |
87339 | A |  | H pylori ag, eia |  |  |  |  |
87340 | A |  | Hepatitis b surface ag, eia |  |  |  |  |
87341 | A |  | Hepatitis b surface, ag, eia |  |  |  |  |
87350 | A |  | Hepatitis be ag, eia |  |  |  |  |
87380 | A |  | Hepatitis delta ag, eia |  |  |  |  |
87385 | A |  | Histoplasma capsul ag, eia |  |  |  |  |
87390 | A |  | Hiv-1 ag, eia |  |  |  |  |
87391 | A |  | Hiv-2 ag, eia |  |  |  |  |
87400 | A |  | Influenza a/b, ag, eia |  |  |  |  |
87420 | A |  | Resp syncytial ag, eia |  |  |  |  |
87425 | A |  | Rotavirus ag, eia |  |  |  |  |
87427 | A |  | Shiga-like toxin ag, eia |  |  |  |  |
87430 | A |  | Strep a ag, eia |  |  |  |  |
87449 | A |  | Ag detect nos, eia, mult |  |  |  |  |
87450 | A |  | Ag detect nos, eia, single |  |  |  |  |
87451 | A |  | Ag detect polyval, eia, mult |  |  |  |  |
87470 | A |  | Bartonella, dna, dir probe |  |  |  |  |
87471 | A |  | Bartonella, dna, amp probe |  |  |  |  |
87472 | A |  | Bartonella, dna, quant |  |  |  |  |
87475 | A |  | Lyme dis, dna, dir probe |  |  |  |  |
87476 | A |  | Lyme dis, dna, amp probe |  |  |  |  |
87477 | A |  | Lyme dis, dna, quant |  |  |  |  |
87480 | A |  | Candida, dna, dir probe |  |  |  |  |
87481 | A |  | Candida, dna, amp probe |  |  |  |  |
87482 | A |  | Candida, dna, quant |  |  |  |  |
87485 | A |  | Chylmd pneum, dna, dir probe |  |  |  |  |
87486 | A |  | Chylmd pneum, dna, amp probe |  |  |  |  |
87487 | A |  | Chylmd pneum, dna, quant |  |  |  |  |
87490 | A |  | Chylmd trach, dna, dir probe |  |  |  |  |
87491 | A |  | Chylmd trach, dna, amp probe |  |  |  |  |
87492 | A |  | Chylmd trach, dna, quant |  |  |  |  |
87495 | A |  | Cytomeg, dna, dir probe |  |  |  |  |
87496 | A |  | Cytomeg, dna, amp probe |  |  |  |  |
87497 | A |  | Cytomeg, dna, quant |  |  |  |  |
87510 | A |  | Gardner vag, dna, dir probe |  |  |  |  |
87511 | A |  | Gardner vag, dna, amp probe |  |  |  |  |
87512 | A |  | Gardner vag, dna, quant |  |  |  |  |
87515 | A |  | Hepatitis b, dna, dir probe |  |  |  |  |
87516 | A |  | Hepatitis b, dna, amp probe |  |  |  |  |
87517 | A |  | Hepatitis b, dna, quant |  |  |  |  |
87520 | A |  | Hepatitis c, rna, dir probe |  |  |  |  |
87521 | A |  | Hepatitis c, rna, amp probe |  |  |  |  |
87522 | A |  | Hepatitis c, rna, quant |  |  |  |  |
87525 | A |  | Hepatitis g, dna, dir probe |  |  |  |  |
87526 | A |  | Hepatitis g, dna, amp probe |  |  |  |  |
87527 | A |  | Hepatitis g, dna, quant |  |  |  |  |
87528 | A |  | Hsv, dna, dir probe |  |  |  |  |
87529 | A |  | Hsv, dna, amp probe |  |  |  |  |
87530 | A |  | Hsv, dna, quant |  |  |  |  |
87531 | A |  | Hhv-6, dna, dir probe |  |  |  |  |
87532 | A |  | Hhv-6, dna, amp probe |  |  |  |  |
87533 | A |  | Hhv-6, dna, quant |  |  |  |  |
87534 | A |  | Hiv-1, dna, dir probe |  |  |  |  |
87535 | A |  | Hiv-1, dna, amp probe |  |  |  |  |
87536 | A |  | Hiv-1, dna, quant |  |  |  |  |
87537 | A |  | Hiv-2, dna, dir probe |  |  |  |  |
87538 | A |  | Hiv-2, dna, amp probe |  |  |  |  |
87539 | A |  | Hiv-2, dna, quant |  |  |  |  |
87540 | A |  | Legion pneumo, dna, dir prob |  |  |  |  |
87541 | A |  | Legion pneumo, dna, amp prob |  |  |  |  |
87542 | A |  | Legion pneumo, dna, quant |  |  |  |  |
87550 | A |  | Mycobacteria, dna, dir probe |  |  |  |  |
87551 | A |  | Mycobacteria, dna, amp probe |  |  |  |  |
87552 | A |  | Mycobacteria, dna, quant |  |  |  |  |
87555 | A |  | M.tuberculo, dna, dir probe |  |  |  |  |
87556 | A |  | M.tuberculo, dna, amp probe |  |  |  |  |
87557 | A |  | M.tuberculo, dna, quant |  |  |  |  |
87560 | A |  | M.avium-intra, dna, dir prob |  |  |  |  |
87561 | A |  | M.avium-intra, dna, amp prob |  |  |  |  |
87562 | A |  | M.avium-intra, dna, quant |  |  |  |  |
87580 | A |  | M.pneumon, dna, dir probe |  |  |  |  |
87581 | A |  | M.pneumon, dna, amp probe |  |  |  |  |
87582 | A |  | M.pneumon, dna, quant |  |  |  |  |
87590 | A |  | N.gonorrhoeae, dna, dir prob |  |  |  |  |
87591 | A |  | N.gonorrhoeae, dna, amp prob |  |  |  |  |
87592 | A |  | N.gonorrhoeae, dna, quant |  |  |  |  |
87620 | A |  | Hpv, dna, dir probe |  |  |  |  |
87621 | A |  | Hpv, dna, amp probe |  |  |  |  |
87622 | A |  | Hpv, dna, quant |  |  |  |  |
87650 | A |  | Strep a, dna, dir probe |  |  |  |  |
87651 | A |  | Strep a, dna, amp probe |  |  |  |  |
87652 | A |  | Strep a, dna, quant |  |  |  |  |
87797 | A |  | Detect agent nos, dna, dir |  |  |  |  |
87798 | A |  | Detect agent nos, dna, amp |  |  |  |  |
87799 | A |  | Detect agent nos, dna, quant |  |  |  |  |
87800 | A |  | Detect agnt mult, dna, direc |  |  |  |  |
87801 | A |  | Detect agnt mult, dna, ampli |  |  |  |  |
87802 | A |  | Strep b assay w/optic |  |  |  |  |
87803 | A |  | Clostridium toxin a w/optic |  |  |  |  |
87804 | A |  | Influenza assay w/optic |  |  |  |  |
87810 | A |  | Chylmd trach assay w/optic |  |  |  |  |
87850 | A |  | N. gonorrhoeae assay w/optic |  |  |  |  |
87880 | A |  | Strep a assay w/optic |  |  |  |  |
87899 | A |  | Agent nos assay w/optic |  |  |  |  |
87901 | A |  | Genotype, dna, hiv reverse t |  |  |  |  |
87902 | A |  | Genotype, dna, hepatitis C |  |  |  |  |
87903 | A |  | Phenotype, dna hiv w/culture |  |  |  |  |
87904 | A |  | Phenotype, dna hiv w/clt add |  |  |  |  |
87999 | A |  | Microbiology procedure |  |  |  |  |
88000 | E |  | Autopsy (necropsy), gross |  |  |  |  |
88005 | E |  | Autopsy (necropsy), gross |  |  |  |  |
88007 | E |  | Autopsy (necropsy), gross |  |  |  |  |
88012 | E |  | Autopsy (necropsy), gross |  |  |  |  |
88014 | E |  | Autopsy (necropsy), gross |  |  |  |  |
88016 | E |  | Autopsy (necropsy), gross |  |  |  |  |
88020 | E |  | Autopsy (necropsy), complete |  |  |  |  |
88025 | E |  | Autopsy (necropsy), complete |  |  |  |  |
88027 | E |  | Autopsy (necropsy), complete |  |  |  |  |
88028 | E |  | Autopsy (necropsy), complete |  |  |  |  |
88029 | E |  | Autopsy (necropsy), complete |  |  |  |  |
88036 | E |  | Limited autopsy |  |  |  |  |
88037 | E |  | Limited autopsy |  |  |  |  |
88040 | E |  | Forensic autopsy (necropsy) |  |  |  |  |
88045 | E |  | Coroner's autopsy (necropsy) |  |  |  |  |
88099 | E |  | Necropsy (autopsy) procedure |  |  |  |  |
88104 | X |  | Cytopathology, fluids | 0343 | 0.4662 | $25.31 | $12.55 | $5.06
88106 | X |  | Cytopathology, fluids | 0343 | 0.4662 | $25.31 | $12.55 | $5.06
88107 | X |  | Cytopathology, fluids | 0343 | 0.4662 | $25.31 | $12.55 | $5.06
88108 | X |  | Cytopath, concentrate tech | 0343 | 0.4662 | $25.31 | $12.55 | $5.06
88125 | X |  | Forensic cytopathology | 0342 | 0.2169 | $11.78 | $5.88 | $2.36
88130 | A |  | Sex chromatin identification |  |  |  |  |
88140 | A |  | Sex chromatin identification |  |  |  |  |
88141 | N |  | Cytopath, c/v, interpret |  |  |  |  |
88142 | A |  | Cytopath, c/v, thin layer |  |  |  |  |
88143 | A |  | Cytopath c/v thin layer redo |  |  |  |  |
88147 | A |  | Cytopath, c/v, automated |  |  |  |  |
88148 | A |  | Cytopath, c/v, auto rescreen |  |  |  |  |
88150 | A |  | Cytopath, c/v, manual |  |  |  |  |
88152 | A |  | Cytopath, c/v, auto redo |  |  |  |  |
88153 | A |  | Cytopath, c/v, redo |  |  |  |  |
88154 | A |  | Cytopath, c/v, select |  |  |  |  |
88155 | A |  | Cytopath, c/v, index add-on |  |  |  |  |
88160 | X |  | Cytopath smear, other source | 0342 | 0.2169 | $11.78 | $5.88 | $2.36
88161 | X |  | Cytopath smear, other source | 0343 | 0.4662 | $25.31 | $12.55 | $5.06
88162 | X |  | Cytopath smear, other source | 0343 | 0.4662 | $25.31 | $12.55 | $5.06
88164 | A |  | Cytopath tbs, c/v, manual |  |  |  |  |
88165 | A |  | Cytopath tbs, c/v, redo |  |  |  |  |
88166 | A |  | Cytopath tbs, c/v, auto redo |  |  |  |  |
88167 | A |  | Cytopath tbs, c/v, select |  |  |  |  |
88172 | X |  | Cytopathology eval of fna | 0343 | 0.4662 | $25.31 | $12.55 | $5.06
88173 | X |  | Cytopath eval, fna, report | 0343 | 0.4662 | $25.31 | $12.55 | $5.06
88174 | A |  | Cytopath, c/v auto, in fluid |  |  |  |  |
88175 | A |  | Cytopath c/v auto fluid redo |  |  |  |  |
88180 | X |  | Cell marker study | 0343 | 0.4662 | $25.31 | $12.55 | $5.06
88182 | X |  | Cell marker study | 0344 | 0.6278 | $34.08 | $17.04 | $6.82
88199 | A |  | Cytopathology procedure |  |  |  |  |
88230 | A |  | Tissue culture, lymphocyte |  |  |  |  |
88233 | A |  | Tissue culture, skin/biopsy |  |  |  |  |
88235 | A |  | Tissue culture, placenta |  |  |  |  |
88237 | A |  | Tissue culture, bone marrow |  |  |  |  |
88239 | A |  | Tissue culture, tumor |  |  |  |  |
88240 | A |  | Cell cryopreserve/storage |  |  |  |  |
88241 | A |  | Frozen cell preparation |  |  |  |  |
88245 | A |  | Chromosome analysis, 20-25 |  |  |  |  |
88248 | A |  | Chromosome analysis, 50-100 |  |  |  |  |
88249 | A |  | Chromosome analysis, 100 |  |  |  |  |
88261 | A |  | Chromosome analysis, 5 |  |  |  |  |
88262 | A |  | Chromosome analysis, 15-20 |  |  |  |  |
88263 | A |  | Chromosome analysis, 45 |  |  |  |  |
88264 | A |  | Chromosome analysis, 20-25 |  |  |  |  |
88267 | A |  | Chromosome analys, placenta |  |  |  |  |
88269 | A |  | Chromosome analys, amniotic |  |  |  |  |
88271 | A |  | Cytogenetics, dna probe |  |  |  |  |
88272 | A |  | Cytogenetics, 3-5 |  |  |  |  |
88273 | A |  | Cytogenetics, 10-30 |  |  |  |  |
88274 | A |  | Cytogenetics, 25-99 |  |  |  |  |
88275 | A |  | Cytogenetics, 100-300 |  |  |  |  |
88280 | A |  | Chromosome karyotype study |  |  |  |  |
88283 | A |  | Chromosome banding study |  |  |  |  |
88285 | A |  | Chromosome count, additional |  |  |  |  |
88289 | A |  | Chromosome study, additional |  |  |  |  |
88291 | A |  | Cyto/molecular report |  |  |  |  |
88299 | X |  | Cytogenetic study | 0342 | 0.2169 | $11.78 | $5.88 | $2.36
88300 | X |  | Surgical path, gross | 0342 | 0.2169 | $11.78 | $5.88 | $2.36
88302 | X |  | Tissue exam by pathologist | 0342 | 0.2169 | $11.78 | $5.88 | $2.36
88304 | X |  | Tissue exam by pathologist | 0343 | 0.4662 | $25.31 | $12.55 | $5.06
88305 | X |  | Tissue exam by pathologist | 0343 | 0.4662 | $25.31 | $12.55 | $5.06
88307 | X |  | Tissue exam by pathologist | 0344 | 0.6278 | $34.08 | $17.04 | $6.82
88309 | X |  | Tissue exam by pathologist | 0344 | 0.6278 | $34.08 | $17.04 | $6.82
88311 | X |  | Decalcify tissue | 0342 | 0.2169 | $11.78 | $5.88 | $2.36
88312 | X |  | Special stains | 0342 | 0.2169 | $11.78 | $5.88 | $2.36
88313 | X |  | Special stains | 0342 | 0.2169 | $11.78 | $5.88 | $2.36
88314 | X |  | Histochemical stain | 0342 | 0.2169 | $11.78 | $5.88 | $2.36
88318 | X |  | Chemical histochemistry | 0342 | 0.2169 | $11.78 | $5.88 | $2.36
88319 | X |  | Enzyme histochemistry | 0342 | 0.2169 | $11.78 | $5.88 | $2.36
88321 | X |  | Microslide consultation | 0342 | 0.2169 | $11.78 | $5.88 | $2.36
88323 | X |  | Microslide consultation | 0343 | 0.4662 | $25.31 | $12.55 | $5.06
88325 | X |  | Comprehensive review of data | 0344 | 0.6278 | $34.08 | $17.04 | $6.82
88329 | X |  | Path consult introp | 0342 | 0.2169 | $11.78 | $5.88 | $2.36
88331 | X |  | Path consult intraop, 1 bloc | 0343 | 0.4662 | $25.31 | $12.55 | $5.06
88332 | X |  | Path consult intraop, addl | 0342 | 0.2169 | $11.78 | $5.88 | $2.36
88342 | X |  | Immunocytochemistry | 0344 | 0.6278 | $34.08 | $17.04 | $6.82
88346 | X |  | Immunofluorescent study | 0343 | 0.4662 | $25.31 | $12.55 | $5.06
88347 | X |  | Immunofluorescent study | 0344 | 0.6278 | $34.08 | $17.04 | $6.82
88348 | X |  | Electron microscopy | 0661 | 3.3215 | $180.32 | $90.16 | $36.06
88349 | X |  | Scanning electron microscopy | 0661 | 3.3215 | $180.32 | $90.16 | $36.06
88355 | X |  | Analysis, skeletal muscle | 0344 | 0.6278 | $34.08 | $17.04 | $6.82
88356 | X |  | Analysis, nerve | 0344 | 0.6278 | $34.08 | $17.04 | $6.82
88358 | X |  | Analysis, tumor | 0344 | 0.6278 | $34.08 | $17.04 | $6.82
88362 | X |  | Nerve teasing preparations | 0343 | 0.4662 | $25.31 | $12.55 | $5.06
88365 | X |  | Tissue hybridization | 0344 | 0.6278 | $34.08 | $17.04 | $6.82
88371 | A |  | Protein, western blot tissue |  |  |  |  |
88372 | A |  | Protein analysis w/probe |  |  |  |  |
88380 | A |  | Microdissection |  |  |  |  |
88399 | A |  | Surgical pathology procedure |  |  |  |  |
88400 | A |  | Bilirubin total transcut |  |  |  |  |
89050 | A |  | Body fluid cell count |  |  |  |  |
89051 | A |  | Body fluid cell count |  |  |  |  |
89055 | A |  | Leukocyte count, fecal |  |  |  |  |
89060 | A |  | Exam,synovial fluid crystals |  |  |  |  |
89100 | X |  | Sample intestinal contents | 0360 | 1.7088 | $92.77 | $42.45 | $18.55
89105 | X |  | Sample intestinal contents | 0360 | 1.7088 | $92.77 | $42.45 | $18.55
89125 | A |  | Specimen fat stain |  |  |  |  |
89130 | X |  | Sample stomach contents | 0360 | 1.7088 | $92.77 | $42.45 | $18.55
89132 | X |  | Sample stomach contents | 0360 | 1.7088 | $92.77 | $42.45 | $18.55
89135 | X |  | Sample stomach contents | 0360 | 1.7088 | $92.77 | $42.45 | $18.55
89136 | X |  | Sample stomach contents | 0360 | 1.7088 | $92.77 | $42.45 | $18.55
89140 | X |  | Sample stomach contents | 0360 | 1.7088 | $92.77 | $42.45 | $18.55
89141 | X |  | Sample stomach contents | 0360 | 1.7088 | $92.77 | $42.45 | $18.55
89160 | A |  | Exam feces for meat fibers |  |  |  |  |
89190 | A |  | Nasal smear for eosinophils |  |  |  |  |
89250 | X |  | Fertilization of oocyte | 0348 | 1.2207 | $66.27 |  | $13.25
89251 | X |  | Culture oocyte w/embryos | 0348 | 1.2207 | $66.27 |  | $13.25
89252 | X |  | Assist oocyte fertilization | 0348 | 1.2207 | $66.27 |  | $13.25
89253 | X |  | Embryo hatching | 0348 | 1.2207 | $66.27 |  | $13.25
89254 | X |  | Oocyte identification | 0348 | 1.2207 | $66.27 |  | $13.25
89255 | X |  | Prepare embryo for transfer | 0348 | 1.2207 | $66.27 |  | $13.25
89256 | X |  | Prepare cryopreserved embryo | 0348 | 1.2207 | $66.27 |  | $13.25
89257 | X |  | Sperm identification | 0348 | 1.2207 | $66.27 |  | $13.25
89258 | X |  | Cryopreservation, embryo | 0348 | 1.2207 | $66.27 |  | $13.25
89259 | X |  | Cryopreservation, sperm | 0348 | 1.2207 | $66.27 |  | $13.25
89260 | X |  | Sperm isolation, simple | 0348 | 1.2207 | $66.27 |  | $13.25
89261 | X |  | Sperm isolation, complex | 0348 | 1.2207 | $66.27 |  | $13.25
89264 | X |  | Identify sperm tissue | 0348 | 1.2207 | $66.27 |  | $13.25
89300 | A |  | Semen analysis w/huhner |  |  |  |  |
89310 | A |  | Semen analysis |  |  |  |  |
89320 | A |  | Semen analysis, complete |  |  |  |  |
89321 | A |  | Semen analysis & motility |  |  |  |  |
89325 | A |  | Sperm antibody test |  |  |  |  |
89329 | A |  | Sperm evaluation test |  |  |  |  |
89330 | A |  | Evaluation, cervical mucus |  |  |  |  |
89350 | X |  | Sputum specimen collection | 0344 | 0.6278 | $34.08 | $17.04 | $6.82
89355 | A |  | Exam feces for starch |  |  |  |  |
89360 | X |  | Collect sweat for test | 0344 | 0.6278 | $34.08 | $17.04 | $6.82
89365 | A |  | Water load test |  |  |  |  |
89399 | A |  | Pathology lab procedure |  |  |  |  |
90281 | E |  | Human ig, im |  |  |  |  |
90283 | E |  | Human ig, iv |  |  |  |  |
90287 | E |  | Botulinum antitoxin |  |  |  |  |
90288 | E |  | Botulism ig, iv |  |  |  |  |
90291 | E |  | Cmv ig, iv |  |  |  |  |
90296 | K |  | Diphtheria antitoxin | 0356 | 0.4353 | $23.63 |  | $4.73
90371 | E |  | Hep b ig, im |  |  |  |  |
90375 | K |  | Rabies ig, im/sc | 0356 | 0.4353 | $23.63 |  | $4.73
90376 | K |  | Rabies ig, heat treated | 0356 | 0.4353 | $23.63 |  | $4.73
90378 | E |  | Rsv ig, im, 50mg |  |  |  |  |
90379 | K |  | Rsv ig, iv | 0356 | 0.4353 | $23.63 |  | $4.73
90384 | E |  | Rh ig, full-dose, im |  |  |  |  |
90385 | N |  | Rh ig, minidose, im |  |  |  |  |
90386 | E |  | Rh ig, iv |  |  |  |  |
90389 | N |  | Tetanus ig, im |  |  |  |  |
90393 | N |  | Vaccina ig, im |  |  |  |  |
90396 | N |  | Varicella-zoster ig, im |  |  |  |  |
90399 | E |  | Immune globulin |  |  |  |  |
90471 | N |  | Immunization admin |  |  |  |  |
90472 | N |  | Immunization admin, each add |  |  |  |  |
90473 | E |  | Immune admin oral/nasal |  |  |  |  |
90474 | E |  | Immune admin oral/nasal addl |  |  |  |  |
90476 | N |  | Adenovirus vaccine, type 4 |  |  |  |  |
90477 | N |  | Adenovirus vaccine, type 7 |  |  |  |  |
90581 | K |  | Anthrax vaccine, sc | 0356 | 0.4353 | $23.63 |  | $4.73
90585 | N |  | Bcg vaccine, percut |  |  |  |  |
90586 | N |  | Bcg vaccine, intravesical |  |  |  |  |
90632 | N |  | Hep a vaccine, adult im |  |  |  |  |
90633 | N |  | Hep a vacc, ped/adol, 2 dose |  |  |  |  |
90634 | N |  | Hep a vacc, ped/adol, 3 dose |  |  |  |  |
90636 | K |  | Hep a/hep b vacc, adult im | 0355 | 0.2667 | $14.48 |  | $2.90
90645 | N |  | Hib vaccine, hboc, im |  |  |  |  |
90646 | N |  | Hib vaccine, prp-d, im |  |  |  |  |
90647 | N |  | Hib vaccine, prp-omp, im |  |  |  |  |
90648 | N |  | Hib vaccine, prp-t, im |  |  |  |  |
90657 | L |  | Flu vaccine, 6-35 mo, im |  |  |  |  |
90658 | L |  | Flu vaccine, 3 yrs, im |  |  |  |  |
90659 | L |  | Flu vaccine, whole, im |  |  |  |  |
90660 | E |  | Flu vaccine, nasal |  |  |  |  |
90665 | N |  | Lyme disease vaccine, im |  |  |  |  |
90669 | E |  | Pneumococcal vacc, ped <5 |  |  |  |  |
90675 | N |  | Rabies vaccine, im |  |  |  |  |
90676 | N |  | Rabies vaccine, id |  |  |  |  |
90680 | N |  | Rotovirus vaccine, oral |  |  |  |  |
90690 | N |  | Typhoid vaccine, oral |  |  |  |  |
90691 | N |  | Typhoid vaccine, im |  |  |  |  |
90692 | N |  | Typhoid vaccine, h-p, sc/id |  |  |  |  |
90693 | K |  | Typhoid vaccine, akd, sc | 0356 | 0.4353 | $23.63 |  | $4.73
90700 | N |  | Dtap vaccine, im |  |  |  |  |
90701 | N |  | Dtp vaccine, im |  |  |  |  |
90702 | N |  | Dt vaccine < 7, im |  |  |  |  |
90703 | N |  | Tetanus vaccine, im |  |  |  |  |
90704 | N |  | Mumps vaccine, sc |  |  |  |  |
90705 | N |  | Measles vaccine, sc |  |  |  |  |
90706 | N |  | Rubella vaccine, sc |  |  |  |  |
90707 | N |  | Mmr vaccine, sc |  |  |  |  |
90708 | N |  | Measles-rubella vaccine, sc |  |  |  |  |
90710 | N |  | Mmrv vaccine, sc |  |  |  |  |
90712 | N |  | Oral poliovirus vaccine |  |  |  |  |
90713 | N |  | Poliovirus, ipv, sc |  |  |  |  |
90716 | N |  | Chicken pox vaccine, sc |  |  |  |  |
90717 | N |  | Yellow fever vaccine, sc |  |  |  |  |
90718 | N |  | Td vaccine > 7, im |  |  |  |  |
90719 | N |  | Diphtheria vaccine, im |  |  |  |  |
90720 | N |  | Dtp/hib vaccine, im |  |  |  |  |
90721 | N |  | Dtap/hib vaccine, im |  |  |  |  |
90723 | K |  | Dtap-hep b-ipv vaccine, im | 0356 | 0.4353 | $23.63 |  | $4.73
90725 | N |  | Cholera vaccine, injectable |  |  |  |  |
90727 | N |  | Plague vaccine, im |  |  |  |  |
90732 | L |  | Pneumococcal vaccine |  |  |  |  |
90733 | N |  | Meningococcal vaccine, sc |  |  |  |  |
90735 | N |  | Encephalitis vaccine, sc |  |  |  |  |
90740 | K |  | Hepb vacc, ill pat 3 dose im | 0356 | 0.4353 | $23.63 |  | $4.73
90743 | K |  | Hep b vacc, adol, 2 dose, im | 0356 | 0.4353 | $23.63 |  | $4.73
90744 | K |  | Hepb vacc ped/adol 3 dose im | 0356 | 0.4353 | $23.63 |  | $4.73
90746 | K |  | Hep b vaccine, adult, im | 0356 | 0.4353 | $23.63 |  | $4.73
90747 | K |  | Hepb vacc, ill pat 4 dose im | 0356 | 0.4353 | $23.63 |  | $4.73
90748 | K |  | Hep b/hib vaccine, im | 0356 | 0.4353 | $23.63 |  | $4.73
90749 | N |  | Vaccine toxoid |  |  |  |  |
90780 | E |  | IV infusion therapy, 1 hour |  |  |  |  |
90781 | E |  | IV infusion, additional hour |  |  |  |  |
90782 | X |  | Injection, sc/im | 0353 | 0.4106 | $22.29 |  | $4.46
90783 | X |  | Injection, ia | 0359 | 0.8794 | $47.74 |  | $9.55
90784 | X |  | Injection, iv | 0359 | 0.8794 | $47.74 |  | $9.55
90788 | X |  | Injection of antibiotic | 0359 | 0.8794 | $47.74 |  | $9.55
90799 | X |  | Ther/prophylactic/dx inject | 0352 | 0.1076 | $5.84 |  | $1.17
90801 | S |  | Psy dx interview | 0323 | 1.7955 | $97.48 | $21.26 | $19.50
90802 | S |  | Intac psy dx interview | 0323 | 1.7955 | $97.48 | $21.26 | $19.50
90804 | S |  | Psytx, office, 20-30 min | 0322 | 1.3091 | $71.07 |  | $14.21
90805 | S |  | Psytx, off, 20-30 min w/e&m | 0322 | 1.3091 | $71.07 |  | $14.21
90806 | S |  | Psytx, off, 45-50 min | 0323 | 1.7955 | $97.48 | $21.26 | $19.50
90807 | S |  | Psytx, off, 45-50 min w/e&m | 0323 | 1.7955 | $97.48 | $21.26 | $19.50
90808 | S |  | Psytx, office, 75-80 min | 0323 | 1.7955 | $97.48 | $21.26 | $19.50
90809 | S |  | Psytx, off, 75-80, w/e&m | 0323 | 1.7955 | $97.48 | $21.26 | $19.50
90810 | S |  | Intac psytx, off, 20-30 min | 0322 | 1.3091 | $71.07 |  | $14.21
90811 | S |  | Intac psytx, 20-30, w/e&m | 0322 | 1.3091 | $71.07 |  | $14.21
90812 | S |  | Intac psytx, off, 45-50 min | 0323 | 1.7955 | $97.48 | $21.26 | $19.50
90813 | S |  | Intac psytx, 45-50 min w/e&m | 0323 | 1.7955 | $97.48 | $21.26 | $19.50
90814 | S |  | Intac psytx, off, 75-80 min | 0323 | 1.7955 | $97.48 | $21.26 | $19.50
90815 | S |  | Intac psytx, 75-80 w/e&m | 0323 | 1.7955 | $97.48 | $21.26 | $19.50
90816 | S |  | Psytx, hosp, 20-30 min | 0322 | 1.3091 | $71.07 |  | $14.21
90817 | S |  | Psytx, hosp, 20-30 min w/e&m | 0322 | 1.3091 | $71.07 |  | $14.21
90818 | S |  | Psytx, hosp, 45-50 min | 0323 | 1.7955 | $97.48 | $21.26 | $19.50
90819 | S |  | Psytx, hosp, 45-50 min w/e&m | 0323 | 1.7955 | $97.48 | $21.26 | $19.50
90821 | S |  | Psytx, hosp, 75-80 min | 0323 | 1.7955 | $97.48 | $21.26 | $19.50
90822 | S |  | Psytx, hosp, 75-80 min w/e&m | 0323 | 1.7955 | $97.48 | $21.26 | $19.50
90823 | S |  | Intac psytx, hosp, 20-30 min | 0322 | 1.3091 | $71.07 |  | $14.21
90824 | S |  | Intac psytx, hsp 20-30 w/e&m | 0322 | 1.3091 | $71.07 |  | $14.21
90826 | S |  | Intac psytx, hosp, 45-50 min | 0323 | 1.7955 | $97.48 | $21.26 | $19.50
90827 | S |  | Intac psytx, hsp 45-50 w/e&m | 0323 | 1.7955 | $97.48 | $21.26 | $19.50
90828 | S |  | Intac psytx, hosp, 75-80 min | 0323 | 1.7955 | $97.48 | $21.26 | $19.50
90829 | S |  | Intac psytx, hsp 75-80 w/e&m | 0323 | 1.7955 | $97.48 | $21.26 | $19.50
90845 | S |  | Psychoanalysis | 0323 | 1.7955 | $97.48 | $21.26 | $19.50
90846 | S |  | Family psytx w/o patient | 0324 | 2.8219 | $153.20 |  | $30.64
90847 | S |  | Family psytx w/patient | 0324 | 2.8219 | $153.20 |  | $30.64
90849 | S |  | Multiple family group psytx | 0325 | 1.5820 | $85.89 | $18.27 | $17.18
90853 | S |  | Group psychotherapy | 0325 | 1.5820 | $85.89 | $18.27 | $17.18
90857 | S |  | Intac group psytx | 0325 | 1.5820 | $85.89 | $18.27 | $17.18
90862 | X |  | Medication management | 0374 | 1.1062 | $60.05 |  | $12.01
90865 | S |  | Narcosynthesis | 0323 | 1.7955 | $97.48 | $21.26 | $19.50
90870 | S |  | Electroconvulsive therapy | 0320 | 5.4480 | $295.77 | $80.06 | $59.15
90871 | E |  | Electroconvulsive therapy |  |  |  |  |
90875 | E |  | Psychophysiological therapy |  |  |  |  |
90876 | E |  | Psychophysiological therapy |  |  |  |  |
90880 | S |  | Hypnotherapy | 0323 | 1.7955 | $97.48 | $21.26 | $19.50
90882 | E |  | Environmental manipulation |  |  |  |  |
90885 | N |  | Psy evaluation of records |  |  |  |  |
90887 | N |  | Consultation with family |  |  |  |  |
90889 | N |  | Preparation of report |  |  |  |  |
90899 | S |  | Psychiatric service/therapy | 0322 | 1.3091 | $71.07 |  | $14.21
90901 | S |  | Biofeedback train, any meth | 0321 | 1.2462 | $67.65 | $21.78 | $13.53
90911 | S |  | Biofeedback peri/uro/rectal | 0321 | 1.2462 | $67.65 | $21.78 | $13.53
90918 | A |  | ESRD related services, month |  |  |  |  |
90919 | A |  | ESRD related services, month |  |  |  |  |
90920 | A |  | ESRD related services, month |  |  |  |  |
90921 | A |  | ESRD related services, month |  |  |  |  |
90922 | A |  | ESRD related services, day |  |  |  |  |
90923 | A |  | Esrd related services, day |  |  |  |  |
90924 | A |  | Esrd related services, day |  |  |  |  |
90925 | A |  | Esrd related services, day |  |  |  |  |
90935 | S |  | Hemodialysis, one evaluation | 0170 | 5.9427 | $322.62 |  | $64.52
90937 | E |  | Hemodialysis, repeated eval |  |  |  |  |
90939 | N |  | Hemodialysis study, transcut |  |  |  |  |
90940 | N |  | Hemodialysis access study |  |  |  |  |
90945 | S |  | Dialysis, one evaluation | 0170 | 5.9427 | $322.62 |  | $64.52
90947 | E |  | Dialysis, repeated eval |  |  |  |  |
90989 | E |  | Dialysis training, complete |  |  |  |  |
90993 | E |  | Dialysis training, incompl |  |  |  |  |
90997 | E |  | Hemoperfusion |  |  |  |  |
90999 | E |  | Dialysis procedure |  |  |  |  |
91000 | X |  | Esophageal intubation | 0361 | 3.5574 | $193.13 | $83.23 | $38.63
91010 | X |  | Esophagus motility study | 0361 | 3.5574 | $193.13 | $83.23 | $38.63
91011 | X |  | Esophagus motility study | 0361 | 3.5574 | $193.13 | $83.23 | $38.63
91012 | X |  | Esophagus motility study | 0361 | 3.5574 | $193.13 | $83.23 | $38.63
91020 | X |  | Gastric motility | 0361 | 3.5574 | $193.13 | $83.23 | $38.63
91030 | X |  | Acid perfusion of esophagus | 0361 | 3.5574 | $193.13 | $83.23 | $38.63
91032 | X |  | Esophagus, acid reflux test | 0361 | 3.5574 | $193.13 | $83.23 | $38.63
91033 | X |  | Prolonged acid reflux test | 0361 | 3.5574 | $193.13 | $83.23 | $38.63
91052 | X |  | Gastric analysis test | 0361 | 3.5574 | $193.13 | $83.23 | $38.63
91055 | X |  | Gastric intubation for smear | 0360 | 1.7088 | $92.77 | $42.45 | $18.55
91060 | X |  | Gastric saline load test | 0360 | 1.7088 | $92.77 | $42.45 | $18.55
91065 | X |  | Breath hydrogen test | 0360 | 1.7088 | $92.77 | $42.45 | $18.55
91100 | X |  | Pass intestine bleeding tube | 0360 | 1.7088 | $92.77 | $42.45 | $18.55
91105 | X |  | Gastric intubation treatment | 0360 | 1.7088 | $92.77 | $42.45 | $18.55
91122 | T |  | Anal pressure record | 0156 | 3.1438 | $170.67 | $46.55 | $34.13
91123 | N |  | Irrigate fecal impaction |  |  |  |  |
91132 | X |  | Electrogastrography | 0360 | 1.7088 | $92.77 | $42.45 | $18.55
91133 | X |  | Electrogastrography w/test | 0360 | 1.7088 | $92.77 | $42.45 | $18.55
91299 | X |  | Gastroenterology procedure | 0360 | 1.7088 | $92.77 | $42.45 | $18.55
92002 | V |  | Eye exam, new patient | 0601 | 1.0031 | $54.46 |  | $10.89
92004 | V |  | Eye exam, new patient | 0602 | 1.5603 | $84.71 |  | $16.94
92012 | V |  | Eye exam established pat | 0600 | 0.9376 | $50.90 |  | $10.18
92014 | V |  | Eye exam & treatment | 0602 | 1.5603 | $84.71 |  | $16.94
92015 | E |  | Refraction |  |  |  |  |
92018 | T |  | New eye exam & treatment | 0699 | 2.2211 | $120.58 | $54.26 | $24.12
92019 | S |  | Eye exam & treatment | 0698 | 0.9355 | $50.79 | $18.72 | $10.16
92020 | S |  | Special eye evaluation | 0230 | 0.7379 | $40.06 | $14.97 | $8.01
92060 | S |  | Special eye evaluation | 0230 | 0.7379 | $40.06 | $14.97 | $8.01
92065 | S |  | Orthoptic/pleoptic training | 0230 | 0.7379 | $40.06 | $14.97 | $8.01
92070 | N |  | Fitting of contact lens |  |  |  |  |
92081 | S |  | Visual field examination(s) | 0230 | 0.7379 | $40.06 | $14.97 | $8.01
92082 | S |  | Visual field examination(s) | 0698 | 0.9355 | $50.79 | $18.72 | $10.16
92083 | S |  | Visual field examination(s) | 0698 | 0.9355 | $50.79 | $18.72 | $10.16
92100 | N |  | Serial tonometry exam(s) |  |  |  |  |
92120 | S |  | Tonography & eye evaluation | 0230 | 0.7379 | $40.06 | $14.97 | $8.01
92130 | S |  | Water provocation tonography | 0698 | 0.9355 | $50.79 | $18.72 | $10.16
92135 | S |  | Opthalmic dx imaging | 0230 | 0.7379 | $40.06 | $14.97 | $8.01
92136 | S |  | Ophthalmic biometry | 0230 | 0.7379 | $40.06 | $14.97 | $8.01
92140 | S |  | Glaucoma provocative tests | 0698 | 0.9355 | $50.79 | $18.72 | $10.16
92225 | S |  | Special eye exam, initial | 0698 | 0.9355 | $50.79 | $18.72 | $10.16
92226 | S |  | Special eye exam, subsequent | 0698 | 0.9355 | $50.79 | $18.72 | $10.16
92230 | T |  | Eye exam with photos | 0699 | 2.2211 | $120.58 | $54.26 | $24.12
92235 | T |  | Eye exam with photos | 0699 | 2.2211 | $120.58 | $54.26 | $24.12
92240 | S |  | Icg angiography | 0231 | 2.0880 | $113.36 | $50.94 | $22.67
92250 | S |  | Eye exam with photos | 0230 | 0.7379 | $40.06 | $14.97 | $8.01
92260 | S |  | Ophthalmoscopy/dynamometry | 0230 | 0.7379 | $40.06 | $14.97 | $8.01
92265 | S |  | Eye muscle evaluation | 0231 | 2.0880 | $113.36 | $50.94 | $22.67
92270 | S |  | Electro-oculography | 0698 | 0.9355 | $50.79 | $18.72 | $10.16
92275 | S |  | Electroretinography | 0231 | 2.0880 | $113.36 | $50.94 | $22.67
92283 | S |  | Color vision examination | 0230 | 0.7379 | $40.06 | $14.97 | $8.01
92284 | S |  | Dark adaptation eye exam | 0698 | 0.9355 | $50.79 | $18.72 | $10.16
92285 | S |  | Eye photography | 0230 | 0.7379 | $40.06 | $14.97 | $8.01
92286 | S |  | Internal eye photography | 0698 | 0.9355 | $50.79 | $18.72 | $10.16
92287 | S |  | Internal eye photography | 0231 | 2.0880 | $113.36 | $50.94 | $22.67
92310 | E |  | Contact lens fitting |  |  |  |  |
92311 | X |  | Contact lens fitting | 0362 | 2.5384 | $137.81 |  | $27.56
92312 | X |  | Contact lens fitting | 0362 | 2.5384 | $137.81 |  | $27.56
92313 | X |  | Contact lens fitting | 0362 | 2.5384 | $137.81 |  | $27.56
92314 | E |  | Prescription of contact lens |  |  |  |  |
92315 | X |  | Prescription of contact lens | 0362 | 2.5384 | $137.81 |  | $27.56
92316 | X |  | Prescription of contact lens | 0362 | 2.5384 | $137.81 |  | $27.56
92317 | X |  | Prescription of contact lens | 0362 | 2.5384 | $137.81 |  | $27.56
92325 | X |  | Modification of contact lens | 0362 | 2.5384 | $137.81 |  | $27.56
92326 | X |  | Replacement of contact lens | 0362 | 2.5384 | $137.81 |  | $27.56
92330 | S |  | Fitting of artificial eye | 0230 | 0.7379 | $40.06 | $14.97 | $8.01
92335 | N |  | Fitting of artificial eye |  |  |  |  |
92340 | E |  | Fitting of spectacles |  |  |  |  |
92341 | E |  | Fitting of spectacles |  |  |  |  |
92342 | E |  | Fitting of spectacles |  |  |  |  |
92352 | X |  | Special spectacles fitting | 0362 | 2.5384 | $137.81 |  | $27.56
92353 | X |  | Special spectacles fitting | 0362 | 2.5384 | $137.81 |  | $27.56
92354 | X |  | Special spectacles fitting | 0362 | 2.5384 | $137.81 |  | $27.56
92355 | X |  | Special spectacles fitting | 0362 | 2.5384 | $137.81 |  | $27.56
92358 | X |  | Eye prosthesis service | 0362 | 2.5384 | $137.81 |  | $27.56
92370 | E |  | Repair & adjust spectacles |  |  |  |  |
92371 | X |  | Repair & adjust spectacles | 0362 | 2.5384 | $137.81 |  | $27.56
92390 | E |  | Supply of spectacles |  |  |  |  |
92391 | E |  | Supply of contact lenses |  |  |  |  |
92392 | E |  | Supply of low vision aids |  |  |  |  |
92393 | E |  | Supply of artificial eye |  |  |  |  |
92395 | E |  | Supply of spectacles |  |  |  |  |
92396 | E |  | Supply of contact lenses |  |  |  |  |
92499 | S |  | Eye service or procedure | 0230 | 0.7379 | $40.06 | $14.97 | $8.01
92502 | T |  | Ear and throat examination | 0251 | 1.8643 | $101.21 |  | $20.24
92504 | N |  | Ear microscopy examination |  |  |  |  |
92506 | A |  | Speech/hearing evaluation |  |  |  |  |
92507 | A |  | Speech/hearing therapy |  |  |  |  |
92508 | A |  | Speech/hearing therapy |  |  |  |  |
92510 | A |  | Rehab for ear implant |  |  |  |  |
92511 | T |  | Nasopharyngoscopy | 0071 | 0.9012 | $48.93 | $12.89 | $9.79
92512 | X |  | Nasal function studies | 0363 | 0.8536 | $46.34 | $17.15 | $9.27
92516 | X |  | Facial nerve function test | 0660 | 1.7330 | $94.08 | $30.66 | $18.82
92520 | X |  | Laryngeal function studies | 0660 | 1.7330 | $94.08 | $30.66 | $18.82
92526 | A |  | Oral function therapy |  |  |  |  |
92531 | N |  | Spontaneous nystagmus study |  |  |  |  |
92532 | N |  | Positional nystagmus test |  |  |  |  |
92533 | N |  | Caloric vestibular test |  |  |  |  |
92534 | N |  | Optokinetic nystagmus test |  |  |  |  |
92541 | X |  | Spontaneous nystagmus test | 0363 | 0.8536 | $46.34 | $17.15 | $9.27
92542 | X |  | Positional nystagmus test | 0363 | 0.8536 | $46.34 | $17.15 | $9.27
92543 | X |  | Caloric vestibular test | 0363 | 0.8536 | $46.34 | $17.15 | $9.27
92544 | X |  | Optokinetic nystagmus test | 0363 | 0.8536 | $46.34 | $17.15 | $9.27
92545 | X |  | Oscillating tracking test | 0363 | 0.8536 | $46.34 | $17.15 | $9.27
92546 | X |  | Sinusoidal rotational test | 0660 | 1.7330 | $94.08 | $30.66 | $18.82
92547 | X |  | Supplemental electrical test | 0363 | 0.8536 | $46.34 | $17.15 | $9.27
92548 | X |  | Posturography | 0660 | 1.7330 | $94.08 | $30.66 | $18.82
92551 | E |  | Pure tone hearing test, air |  |  |  |  |
92552 | X |  | Pure tone audiometry, air | 0364 | 0.4415 | $23.97 | $9.06 | $4.79
92553 | X |  | Audiometry, air & bone | 0365 | 1.1915 | $64.69 | $18.95 | $12.94
92555 | X |  | Speech threshold audiometry | 0364 | 0.4415 | $23.97 | $9.06 | $4.79
92556 | X |  | Speech audiometry, complete | 0364 | 0.4415 | $23.97 | $9.06 | $4.79
92557 | X |  | Comprehensive hearing test | 0365 | 1.1915 | $64.69 | $18.95 | $12.94
92559 | E |  | Group audiometric testing |  |  |  |  |
92560 | E |  | Bekesy audiometry, screen |  |  |  |  |
92561 | X |  | Bekesy audiometry, diagnosis | 0365 | 1.1915 | $64.69 | $18.95 | $12.94
92562 | X |  | Loudness balance test | 0364 | 0.4415 | $23.97 | $9.06 | $4.79
92563 | X |  | Tone decay hearing test | 0364 | 0.4415 | $23.97 | $9.06 | $4.79
92564 | X |  | Sisi hearing test | 0364 | 0.4415 | $23.97 | $9.06 | $4.79
92565 | X |  | Stenger test, pure tone | 0364 | 0.4415 | $23.97 | $9.06 | $4.79
92567 | X |  | Tympanometry | 0364 | 0.4415 | $23.97 | $9.06 | $4.79
92568 | X |  | Acoustic reflex testing | 0364 | 0.4415 | $23.97 | $9.06 | $4.79
92569 | X |  | Acoustic reflex decay test | 0364 | 0.4415 | $23.97 | $9.06 | $4.79
92571 | X |  | Filtered speech hearing test | 0364 | 0.4415 | $23.97 | $9.06 | $4.79
92572 | X |  | Staggered spondaic word test | 0364 | 0.4415 | $23.97 | $9.06 | $4.79
92573 | X |  | Lombard test | 0364 | 0.4415 | $23.97 | $9.06 | $4.79
92575 | X |  | Sensorineural acuity test | 0365 | 1.1915 | $64.69 | $18.95 | $12.94
92576 | X |  | Synthetic sentence test | 0364 | 0.4415 | $23.97 | $9.06 | $4.79
92577 | X |  | Stenger test, speech | 0365 | 1.1915 | $64.69 | $18.95 | $12.94
92579 | X |  | Visual audiometry (vra) | 0365 | 1.1915 | $64.69 | $18.95 | $12.94
92582 | X |  | Conditioning play audiometry | 0365 | 1.1915 | $64.69 | $18.95 | $12.94
92583 | X |  | Select picture audiometry | 0364 | 0.4415 | $23.97 | $9.06 | $4.79
92584 | X |  | Electrocochleography | 0660 | 1.7330 | $94.08 | $30.66 | $18.82
92585 | S |  | Auditor evoke potent, compre | 0216 | 2.8332 | $153.81 | $67.98 | $30.76
92586 | S |  | Auditor evoke potent, limit | 0218 | 1.1296 | $61.32 |  | $12.26
92587 | X |  | Evoked auditory test | 0363 | 0.8536 | $46.34 | $17.15 | $9.27
92588 | X |  | Evoked auditory test | 0363 | 0.8536 | $46.34 | $17.15 | $9.27
92589 | X |  | Auditory function test(s) | 0364 | 0.4415 | $23.97 | $9.06 | $4.79
92590 | E |  | Hearing aid exam, one ear |  |  |  |  |
92591 | E |  | Hearing aid exam, both ears |  |  |  |  |
92592 | E |  | Hearing aid check, one ear |  |  |  |  |
92593 | E |  | Hearing aid check, both ears |  |  |  |  |
92594 | E |  | Electro hearng aid test, one |  |  |  |  |
92595 | E |  | Electro hearng aid tst, both |  |  |  |  |
92596 | X |  | Ear protector evaluation | 0365 | 1.1915 | $64.69 | $18.95 | $12.94
92597 | E |  | Voice Prosthetic Evaluation |  |  |  |  |
92601 | A |  | Cochlear implt f/up exam < 7 |  |  |  |  |
92602 | A |  | Reprogram cochlear implt < 7 |  |  |  |  |
92603 | A |  | Cochlear implt f/up exam 7 > |  |  |  |  |
92604 | A |  | Reprogram cochlear implt 7 > |  |  |  |  |
92605 | A |  | Eval for nonspeech device rx |  |  |  |  |
92606 | A |  | Non-speech device service |  |  |  |  |
92607 | A |  | Ex for speech device rx, 1hr |  |  |  |  |
92608 | A |  | Ex for speech device rx addl |  |  |  |  |
92609 | A |  | Use of speech device service |  |  |  |  |
92610 | A |  | Evaluate swallowing function |  |  |  |  |
92611 | A |  | Motion fluoroscopy/swallow |  |  |  |  |
92612 | A |  | Endoscopy swallow tst (fees) |  |  |  |  |
92613 | E |  | Endoscopy swallow tst (fees) |  |  |  |  |
92614 | A |  | Laryngoscopic sensory test |  |  |  |  |
92615 | E |  | Eval laryngoscopy sense tst |  |  |  |  |
92616 | A |  | Fees w/laryngeal sense test |  |  |  |  |
92617 | E |  | Interprt fees/laryngeal test |  |  |  |  |
92700 | X |  | Ent procedure/service | 0364 | 0.4415 | $23.97 | $9.06 | $4.79
92950 | S |  | Heart/lung resuscitation cpr | 0094 | 2.6412 | $143.39 | $48.46 | $28.68
92953 | S |  | Temporary external pacing | 0094 | 2.6412 | $143.39 | $48.46 | $28.68
92960 | S |  | Cardioversion electric, ext | 0679 | 5.4862 | $297.84 | $95.30 | $59.57
92961 | S |  | Cardioversion, electric, int | 0679 | 5.4862 | $297.84 | $95.30 | $59.57
92970 | C |  | Cardioassist, internal |  |  |  |  |
92971 | C |  | Cardioassist, external |  |  |  |  |
92973 | T |  | Percut coronary thrombectomy | 1541 |  | $250.00 |  | $50.00
92974 | T |  | Cath place, cardio brachytx | 1559 |  | $2,250.00 |  | $450.00
92975 | C |  | Dissolve clot, heart vessel |  |  |  |  |
92977 | T |  | Dissolve clot, heart vessel | 0676 | 3.7505 | $203.61 | $55.06 | $40.72
92978 | S |  | Intravasc us, heart add-on | 0670 | 26.5472 | $1,441.22 | $521.95 | $288.24
92979 | S |  | Intravasc us, heart add-on | 0670 | 26.5472 | $1,441.22 | $521.95 | $288.24
92980 | T |  | Insert intracoronary stent | 0104 | 80.8877 | $4,391.31 |  | $878.26
92981 | T |  | Insert intracoronary stent | 0104 | 80.8877 | $4,391.31 |  | $878.26
92982 | T |  | Coronary artery dilation | 0083 | 59.3417 | $3,221.60 |  | $644.32
92984 | T |  | Coronary artery dilation | 0083 | 59.3417 | $3,221.60 |  | $644.32
92986 | T |  | Revision of aortic valve | 0083 | 59.3417 | $3,221.60 |  | $644.32
92987 | T |  | Revision of mitral valve | 0083 | 59.3417 | $3,221.60 |  | $644.32
92990 | T |  | Revision of pulmonary valve | 0083 | 59.3417 | $3,221.60 |  | $644.32
92992 | C |  | Revision of heart chamber |  |  |  |  |
92993 | C |  | Revision of heart chamber |  |  |  |  |
92995 | T |  | Coronary atherectomy | 0082 | 100.3996 | $5,450.59 | $1,293.59 | $1,090.12
92996 | T |  | Coronary atherectomy add-on | 0082 | 100.3996 | $5,450.59 | $1,293.59 | $1,090.12
92997 | T |  | Pul art balloon repr, percut | 0081 | 34.8355 | $1,891.18 |  | $378.24
92998 | T |  | Pul art balloon repr, percut | 0081 | 34.8355 | $1,891.18 |  | $378.24
93000 | E |  | Electrocardiogram, complete |  |  |  |  |
93005 | S |  | Electrocardiogram, tracing | 0099 | 0.3708 | $20.13 |  | $4.03
93010 | A |  | Electrocardiogram report |  |  |  |  |
93012 | N |  | Transmission of ecg |  |  |  |  |
93014 | E |  | Report on transmitted ecg |  |  |  |  |
93015 | E |  | Cardiovascular stress test |  |  |  |  |
93016 | E |  | Cardiovascular stress test |  |  |  |  |
93017 | X |  | Cardiovascular stress test | 0100 | 1.6726 | $90.80 | $41.44 | $18.16
93018 | E |  | Cardiovascular stress test |  |  |  |  |
93024 | X |  | Cardiac drug stress test | 0100 | 1.6726 | $90.80 | $41.44 | $18.16
93025 | X |  | Microvolt t-wave assess | 0100 | 1.6726 | $90.80 | $41.44 | $18.16
93040 | E |  | Rhythm ECG with report |  |  |  |  |
93041 | S |  | Rhythm ECG, tracing | 0099 | 0.3708 | $20.13 |  | $4.03
93042 | E |  | Rhythm ECG, report |  |  |  |  |
93224 | E |  | ECG monitor/report, 24 hrs |  |  |  |  |
93225 | X |  | ECG monitor/record, 24 hrs | 0097 | 1.0565 | $57.36 | $23.80 | $11.47
93226 | X |  | ECG monitor/report, 24 hrs | 0097 | 1.0565 | $57.36 | $23.80 | $11.47
93227 | E |  | ECG monitor/review, 24 hrs |  |  |  |  |
93230 | E |  | ECG monitor/report, 24 hrs |  |  |  |  |
93231 | X |  | Ecg monitor/record, 24 hrs | 0097 | 1.0565 | $57.36 | $23.80 | $11.47
93232 | X |  | ECG monitor/report, 24 hrs | 0097 | 1.0565 | $57.36 | $23.80 | $11.47
93233 | E |  | ECG monitor/review, 24 hrs |  |  |  |  |
93235 | E |  | ECG monitor/report, 24 hrs |  |  |  |  |
93236 | X |  | ECG monitor/report, 24 hrs | 0097 | 1.0565 | $57.36 | $23.80 | $11.47
93237 | E |  | ECG monitor/review, 24 hrs |  |  |  |  |
93268 | E |  | ECG record/review |  |  |  |  |
93270 | X |  | ECG recording | 0097 | 1.0565 | $57.36 | $23.80 | $11.47
93271 | X |  | Ecg/monitoring and analysis | 0097 | 1.0565 | $57.36 | $23.80 | $11.47
93272 | E |  | Ecg/review, interpret only |  |  |  |  |
93278 | S |  | ECG/signal-averaged | 0099 | 0.3708 | $20.13 |  | $4.03
93303 | S |  | Echo transthoracic | 0269 | 3.2517 | $176.53 | $87.24 | $35.31
93304 | S |  | Echo transthoracic | 0697 | 1.4621 | $79.38 | $39.69 | $15.88
93307 | S |  | Echo exam of heart | 0269 | 3.2517 | $176.53 | $87.24 | $35.31
93308 | S |  | Echo exam of heart | 0697 | 1.4621 | $79.38 | $39.69 | $15.88
93312 | S |  | Echo transesophageal | 0270 | 5.9057 | $320.61 | $146.79 | $64.12
93313 | S |  | Echo transesophageal | 0270 | 5.9057 | $320.61 | $146.79 | $64.12
93314 | N |  | Echo transesophageal |  |  |  |  |
93315 | S |  | Echo transesophageal | 0270 | 5.9057 | $320.61 | $146.79 | $64.12
93316 | S |  | Echo transesophageal | 0270 | 5.9057 | $320.61 | $146.79 | $64.12
93317 | N |  | Echo transesophageal |  |  |  |  |
93318 | S |  | Echo transesophageal intraop | 0270 | 5.9057 | $320.61 | $146.79 | $64.12
93320 | S |  | Doppler echo exam, heart | 0671 | 1.6392 | $88.99 | $44.49 | $17.80
93321 | S |  | Doppler echo exam, heart | 0697 | 1.4621 | $79.38 | $39.69 | $15.88
93325 | S |  | Doppler color flow add-on | 0697 | 1.4621 | $79.38 | $39.69 | $15.88
93350 | S |  | Echo transthoracic | 0269 | 3.2517 | $176.53 | $87.24 | $35.31
93501 | T |  | Right heart catheterization | 0080 | 36.0982 | $1,959.74 | $838.92 | $391.95
93503 | T |  | Insert/place heart catheter | 0103 | 12.1256 | $658.29 | $223.63 | $131.66
93505 | T |  | Biopsy of heart lining | 0103 | 12.1256 | $658.29 | $223.63 | $131.66
93508 | T |  | Cath placement, angiography | 0080 | 36.0982 | $1,959.74 | $838.92 | $391.95
93510 | T |  | Left heart catheterization | 0080 | 36.0982 | $1,959.74 | $838.92 | $391.95
93511 | T |  | Left heart catheterization | 0080 | 36.0982 | $1,959.74 | $838.92 | $391.95
93514 | T |  | Left heart catheterization | 0080 | 36.0982 | $1,959.74 | $838.92 | $391.95
93524 | T |  | Left heart catheterization | 0080 | 36.0982 | $1,959.74 | $838.92 | $391.95
93526 | T |  | Rt & Lt heart catheters | 0080 | 36.0982 | $1,959.74 | $838.92 | $391.95
93527 | T |  | Rt & Lt heart catheters | 0080 | 36.0982 | $1,959.74 | $838.92 | $391.95
93528 | T |  | Rt & Lt heart catheters | 0080 | 36.0982 | $1,959.74 | $838.92 | $391.95
93529 | T |  | Rt, lt heart catheterization | 0080 | 36.0982 | $1,959.74 | $838.92 | $391.95
93530 | T |  | Rt heart cath, congenital | 0080 | 36.0982 | $1,959.74 | $838.92 | $391.95
93531 | T |  | R & l heart cath, congenital | 0080 | 36.0982 | $1,959.74 | $838.92 | $391.95
93532 | T |  | R & l heart cath, congenital | 0080 | 36.0982 | $1,959.74 | $838.92 | $391.95
93533 | T |  | R & l heart cath, congenital | 0080 | 36.0982 | $1,959.74 | $838.92 | $391.95
93539 | N |  | Injection, cardiac cath |  |  |  |  |
93540 | N |  | Injection, cardiac cath |  |  |  |  |
93541 | N |  | Injection for lung angiogram |  |  |  |  |
93542 | N |  | Injection for heart x-rays |  |  |  |  |
93543 | N |  | Injection for heart x-rays |  |  |  |  |
93544 | N |  | Injection for aortography |  |  |  |  |
93545 | N |  | Inject for coronary x-rays |  |  |  |  |
93555 | N |  | Imaging, cardiac cath |  |  |  |  |
93556 | N |  | Imaging, cardiac cath |  |  |  |  |
93561 | N |  | Cardiac output measurement |  |  |  |  |
93562 | N |  | Cardiac output measurement |  |  |  |  |
93571 | N |  | Heart flow reserve measure |  |  |  |  |
93572 | N |  | Heart flow reserve measure |  |  |  |  |
93580 | T |  | Transcath closure of asd | 1559 |  | $2,250.00 |  | $450.00
93581 | T |  | Transcath closure of vsd | 1559 |  | $2,250.00 |  | $450.00
93600 | T |  | Bundle of His recording | 0087 | 40.4579 | $2,196.42 |  | $439.28
93602 | T |  | Intra-atrial recording | 0087 | 40.4579 | $2,196.42 |  | $439.28
93603 | T |  | Right ventricular recording | 0087 | 40.4579 | $2,196.42 |  | $439.28
93609 | T |  | Map tachycardia, add-on | 0087 | 40.4579 | $2,196.42 |  | $439.28
93610 | T |  | Intra-atrial pacing | 0087 | 40.4579 | $2,196.42 |  | $439.28
93612 | T |  | Intraventricular pacing | 0087 | 40.4579 | $2,196.42 |  | $439.28
93613 | T |  | Electrophys map 3d, add-on | 0087 | 40.4579 | $2,196.42 |  | $439.28
93615 | T |  | Esophageal recording | 0087 | 40.4579 | $2,196.42 |  | $439.28
93616 | T |  | Esophageal recording | 0087 | 40.4579 | $2,196.42 |  | $439.28
93618 | T |  | Heart rhythm pacing | 0087 | 40.4579 | $2,196.42 |  | $439.28
93619 | T |  | Electrophysiology evaluation | 0085 | 36.3284 | $1,972.23 | $435.09 | $394.45
93620 | T |  | Electrophysiology evaluation | 0085 | 36.3284 | $1,972.23 | $435.09 | $394.45
93621 | T |  | Electrophysiology evaluation | 0085 | 36.3284 | $1,972.23 | $435.09 | $394.45
93622 | T |  | Electrophysiology evaluation | 0085 | 36.3284 | $1,972.23 | $435.09 | $394.45
93623 | T |  | Stimulation, pacing heart | 0087 | 40.4579 | $2,196.42 |  | $439.28
93624 | S |  | Electrophysiologic study | 0084 | 10.3392 | $561.30 |  | $112.26
93631 | T |  | Heart pacing, mapping | 0087 | 40.4579 | $2,196.42 |  | $439.28
93640 | S |  | Evaluation heart device | 0084 | 10.3392 | $561.30 |  | $112.26
93641 | S |  | Electrophysiology evaluation | 0084 | 10.3392 | $561.30 |  | $112.26
93642 | S |  | Electrophysiology evaluation | 0084 | 10.3392 | $561.30 |  | $112.26
93650 | T |  | Ablate heart dysrhythm focus | 0086 | 44.5652 | $2,419.40 | $822.28 | $483.88
93651 | T |  | Ablate heart dysrhythm focus | 0086 | 44.5652 | $2,419.40 | $822.28 | $483.88
93652 | T |  | Ablate heart dysrhythm focus | 0086 | 44.5652 | $2,419.40 | $822.28 | $483.88
93660 | S |  | Tilt table evaluation | 0101 | 4.3675 | $237.11 | $105.27 | $47.42
93662 | S |  | Intracardiac ecg (ice) | 0670 | 26.5472 | $1,441.22 | $521.95 | $288.24
93668 | E |  | Peripheral vascular rehab |  |  |  |  |
93701 | S |  | Bioimpedance, thoracic | 0099 | 0.3708 | $20.13 |  | $4.03
93720 | E |  | Total body plethysmography |  |  |  |  |
93721 | X |  | Plethysmography tracing | 0368 | 0.9321 | $50.60 | $25.30 | $10.12
93722 | E |  | Plethysmography report |  |  |  |  |
93724 | S |  | Analyze pacemaker system | 0690 | 0.3986 | $21.64 | $10.35 | $4.33
93727 | S |  | Analyze ilr system | 0690 | 0.3986 | $21.64 | $10.35 | $4.33
93731 | S |  | Analyze pacemaker system | 0690 | 0.3986 | $21.64 | $10.35 | $4.33
93732 | S |  | Analyze pacemaker system | 0690 | 0.3986 | $21.64 | $10.35 | $4.33
93733 | S |  | Telephone analy, pacemaker | 0690 | 0.3986 | $21.64 | $10.35 | $4.33
93734 | S |  | Analyze pacemaker system | 0690 | 0.3986 | $21.64 | $10.35 | $4.33
93735 | S |  | Analyze pacemaker system | 0690 | 0.3986 | $21.64 | $10.35 | $4.33
93736 | S |  | Telephone analy, pacemaker | 0690 | 0.3986 | $21.64 | $10.35 | $4.33
93740 | X |  | Temperature gradient studies | 0367 | 0.5828 | $31.64 | $15.16 | $6.33
93741 | S |  | Analyze ht pace device sngl | 0689 | 0.5427 | $29.46 |  | $5.89
93742 | S |  | Analyze ht pace device sngl | 0689 | 0.5427 | $29.46 |  | $5.89
93743 | S |  | Analyze ht pace device dual | 0689 | 0.5427 | $29.46 |  | $5.89
93744 | S |  | Analyze ht pace device dual | 0689 | 0.5427 | $29.46 |  | $5.89
93760 | E |  | Cephalic thermogram |  |  |  |  |
93762 | E |  | Peripheral thermogram |  |  |  |  |
93770 | N |  | Measure venous pressure |  |  |  |  |
93784 | E |  | Ambulatory BP monitoring |  |  |  |  |
93786 | X |  | Ambulatory BP recording | 0097 | 1.0565 | $57.36 | $23.80 | $11.47
93788 | E |  | Ambulatory BP analysis |  |  |  |  |
93790 | E |  | Review/report BP recording |  |  |  |  |
93797 | S |  | Cardiac rehab | 0095 | 0.5984 | $32.49 | $16.24 | $6.50
93798 | S |  | Cardiac rehab/monitor | 0095 | 0.5984 | $32.49 | $16.24 | $6.50
93799 | S |  | Cardiovascular procedure | 0096 | 1.7332 | $94.09 | $47.04 | $18.82
93875 | S |  | Extracranial study | 0096 | 1.7332 | $94.09 | $47.04 | $18.82
93880 | S |  | Extracranial study | 0267 | 2.4805 | $134.66 | $65.52 | $26.93
93882 | S |  | Extracranial study | 0267 | 2.4805 | $134.66 | $65.52 | $26.93
93886 | S |  | Intracranial study | 0267 | 2.4805 | $134.66 | $65.52 | $26.93
93888 | S |  | Intracranial study | 0266 | 1.6234 | $88.13 | $44.06 | $17.63
93922 | S |  | Extremity study | 0096 | 1.7332 | $94.09 | $47.04 | $18.82
93923 | S |  | Extremity study | 0096 | 1.7332 | $94.09 | $47.04 | $18.82
93924 | S |  | Extremity study | 0096 | 1.7332 | $94.09 | $47.04 | $18.82
93925 | S |  | Lower extremity study | 0267 | 2.4805 | $134.66 | $65.52 | $26.93
93926 | S |  | Lower extremity study | 0267 | 2.4805 | $134.66 | $65.52 | $26.93
93930 | S |  | Upper extremity study | 0267 | 2.4805 | $134.66 | $65.52 | $26.93
93931 | S |  | Upper extremity study | 0266 | 1.6234 | $88.13 | $44.06 | $17.63
93965 | S |  | Extremity study | 0096 | 1.7332 | $94.09 | $47.04 | $18.82
93970 | S |  | Extremity study | 0267 | 2.4805 | $134.66 | $65.52 | $26.93
93971 | S |  | Extremity study | 0267 | 2.4805 | $134.66 | $65.52 | $26.93
93975 | S |  | Vascular study | 0267 | 2.4805 | $134.66 | $65.52 | $26.93
93976 | S |  | Vascular study | 0267 | 2.4805 | $134.66 | $65.52 | $26.93
93978 | S |  | Vascular study | 0267 | 2.4805 | $134.66 | $65.52 | $26.93
93979 | S |  | Vascular study | 0267 | 2.4805 | $134.66 | $65.52 | $26.93
93980 | S |  | Penile vascular study | 0267 | 2.4805 | $134.66 | $65.52 | $26.93
93981 | S |  | Penile vascular study | 0267 | 2.4805 | $134.66 | $65.52 | $26.93
93990 | S |  | Doppler flow testing | 0267 | 2.4805 | $134.66 | $65.52 | $26.93
94010 | X |  | Breathing capacity test | 0368 | 0.9321 | $50.60 | $25.30 | $10.12
94014 | X |  | Patient recorded spirometry | 0367 | 0.5828 | $31.64 | $15.16 | $6.33
94015 | X |  | Patient recorded spirometry | 0367 | 0.5828 | $31.64 | $15.16 | $6.33
94016 | A |  | Review patient spirometry |  |  |  |  |
94060 | X |  | Evaluation of wheezing | 0368 | 0.9321 | $50.60 | $25.30 | $10.12
94070 | X |  | Evaluation of wheezing | 0369 | 2.5282 | $137.25 | $44.18 | $27.45
94150 | X |  | Vital capacity test | 0367 | 0.5828 | $31.64 | $15.16 | $6.33
94200 | X |  | Lung function test (MBC/MVV) | 0367 | 0.5828 | $31.64 | $15.16 | $6.33
94240 | X |  | Residual lung capacity | 0368 | 0.9321 | $50.60 | $25.30 | $10.12
94250 | X |  | Expired gas collection | 0367 | 0.5828 | $31.64 | $15.16 | $6.33
94260 | X |  | Thoracic gas volume | 0368 | 0.9321 | $50.60 | $25.30 | $10.12
94350 | X |  | Lung nitrogen washout curve | 0368 | 0.9321 | $50.60 | $25.30 | $10.12
94360 | X |  | Measure airflow resistance | 0367 | 0.5828 | $31.64 | $15.16 | $6.33
94370 | X |  | Breath airway closing volume | 0367 | 0.5828 | $31.64 | $15.16 | $6.33
94375 | X |  | Respiratory flow volume loop | 0367 | 0.5828 | $31.64 | $15.16 | $6.33
94400 | X |  | CO2 breathing response curve | 0367 | 0.5828 | $31.64 | $15.16 | $6.33
94450 | X |  | Hypoxia response curve | 0367 | 0.5828 | $31.64 | $15.16 | $6.33
94620 | X |  | Pulmonary stress test/simple | 0368 | 0.9321 | $50.60 | $25.30 | $10.12
94621 | X |  | Pulm stress test/complex | 0369 | 2.5282 | $137.25 | $44.18 | $27.45
94640 | S |  | Airway inhalation treatment | 0077 | 0.2772 | $15.05 | $7.52 | $3.01
94642 | S |  | Aerosol inhalation treatment | 0078 | 0.7731 | $41.97 | $14.55 | $8.39
94656 | S |  | Initial ventilator mgmt | 0079 | 2.2837 | $123.98 |  | $24.80
94657 | S |  | Continued ventilator mgmt | 0079 | 2.2837 | $123.98 |  | $24.80
94660 | S |  | Pos airway pressure, CPAP | 0068 | 1.1234 | $60.99 | $30.49 | $12.20
94662 | S |  | Neg press ventilation, cnp | 0079 | 2.2837 | $123.98 |  | $24.80
94664 | S |  | Aerosol or vapor inhalations | 0077 | 0.2772 | $15.05 | $7.52 | $3.01
94667 | S |  | Chest wall manipulation | 0077 | 0.2772 | $15.05 | $7.52 | $3.01
94668 | S |  | Chest wall manipulation | 0077 | 0.2772 | $15.05 | $7.52 | $3.01
94680 | X |  | Exhaled air analysis, o2 | 0367 | 0.5828 | $31.64 | $15.16 | $6.33
94681 | X |  | Exhaled air analysis, o2/co2 | 0368 | 0.9321 | $50.60 | $25.30 | $10.12
94690 | X |  | Exhaled air analysis | 0367 | 0.5828 | $31.64 | $15.16 | $6.33
94720 | X |  | Monoxide diffusing capacity | 0368 | 0.9321 | $50.60 | $25.30 | $10.12
94725 | X |  | Membrane diffusion capacity | 0368 | 0.9321 | $50.60 | $25.30 | $10.12
94750 | X |  | Pulmonary compliance study | 0367 | 0.5828 | $31.64 | $15.16 | $6.33
94760 | N |  | Measure blood oxygen level |  |  |  |  |
94761 | N |  | Measure blood oxygen level |  |  |  |  |
94762 | N |  | Measure blood oxygen level |  |  |  |  |
94770 | X |  | Exhaled carbon dioxide test | 0367 | 0.5828 | $31.64 | $15.16 | $6.33
94772 | X |  | Breath recording, infant | 0369 | 2.5282 | $137.25 | $44.18 | $27.45
94799 | X |  | Pulmonary service/procedure | 0367 | 0.5828 | $31.64 | $15.16 | $6.33
95004 | X |  | Percut allergy skin tests | 0370 | 0.8858 | $48.09 | $11.58 | $9.62
95010 | X |  | Percut allergy titrate test | 0370 | 0.8858 | $48.09 | $11.58 | $9.62
95015 | X |  | Id allergy titrate-drug/bug | 0370 | 0.8858 | $48.09 | $11.58 | $9.62
95024 | X |  | Id allergy test, drug/bug | 0370 | 0.8858 | $48.09 | $11.58 | $9.62
95027 | X |  | Skin end point titration | 0370 | 0.8858 | $48.09 | $11.58 | $9.62
95028 | X |  | Id allergy test-delayed type | 0370 | 0.8858 | $48.09 | $11.58 | $9.62
95044 | X |  | Allergy patch tests | 0370 | 0.8858 | $48.09 | $11.58 | $9.62
95052 | X |  | Photo patch test | 0370 | 0.8858 | $48.09 | $11.58 | $9.62
95056 | X |  | Photosensitivity tests | 0370 | 0.8858 | $48.09 | $11.58 | $9.62
95060 | X |  | Eye allergy tests | 0370 | 0.8858 | $48.09 | $11.58 | $9.62
95065 | X |  | Nose allergy test | 0370 | 0.8858 | $48.09 | $11.58 | $9.62
95070 | X |  | Bronchial allergy tests | 0369 | 2.5282 | $137.25 | $44.18 | $27.45
95071 | X |  | Bronchial allergy tests | 0369 | 2.5282 | $137.25 | $44.18 | $27.45
95075 | X |  | Ingestion challenge test | 0361 | 3.5574 | $193.13 | $83.23 | $38.63
95078 | X |  | Provocative testing | 0370 | 0.8858 | $48.09 | $11.58 | $9.62
95115 | X |  | Immunotherapy, one injection | 0352 | 0.1076 | $5.84 |  | $1.17
95117 | X |  | Immunotherapy injections | 0353 | 0.4106 | $22.29 |  | $4.46
95120 | E |  | Immunotherapy, one injection |  |  |  |  |
95125 | E |  | Immunotherapy, many antigens |  |  |  |  |
95130 | E |  | Immunotherapy, insect venom |  |  |  |  |
95131 | E |  | Immunotherapy, insect venoms |  |  |  |  |
95132 | E |  | Immunotherapy, insect venoms |  |  |  |  |
95133 | E |  | Immunotherapy, insect venoms |  |  |  |  |
95134 | E |  | Immunotherapy, insect venoms |  |  |  |  |
95144 | X |  | Antigen therapy services | 0371 | 0.4084 | $22.17 | $4.44 | $4.43
95145 | X |  | Antigen therapy services | 0371 | 0.4084 | $22.17 | $4.44 | $4.43
95146 | X |  | Antigen therapy services | 0371 | 0.4084 | $22.17 | $4.44 | $4.43
95147 | X |  | Antigen therapy services | 0371 | 0.4084 | $22.17 | $4.44 | $4.43
95148 | X |  | Antigen therapy services | 0371 | 0.4084 | $22.17 | $4.44 | $4.43
95149 | X |  | Antigen therapy services | 0371 | 0.4084 | $22.17 | $4.44 | $4.43
95165 | X |  | Antigen therapy services | 0371 | 0.4084 | $22.17 | $4.44 | $4.43
95170 | X |  | Antigen therapy services | 0371 | 0.4084 | $22.17 | $4.44 | $4.43
95180 | X |  | Rapid desensitization | 0370 | 0.8858 | $48.09 | $11.58 | $9.62
95199 | X |  | Allergy immunology services | 0370 | 0.8858 | $48.09 | $11.58 | $9.62
95250 | T |  | Glucose monitoring, cont | 1540 |  | $150.00 |  | $30.00
95805 | S |  | Multiple sleep latency test | 0209 | 11.5352 | $626.23 | $280.58 | $125.25
95806 | S |  | Sleep study, unattended | 0213 | 3.2422 | $176.02 | $70.41 | $35.20
95807 | S |  | Sleep study, attended | 0209 | 11.5352 | $626.23 | $280.58 | $125.25
95808 | S |  | Polysomnography, 1-3 | 0209 | 11.5352 | $626.23 | $280.58 | $125.25
95810 | S |  | Polysomnography, 4 or more | 0209 | 11.5352 | $626.23 | $280.58 | $125.25
95811 | S |  | Polysomnography w/cpap | 0209 | 11.5352 | $626.23 | $280.58 | $125.25
95812 | S |  | Electroencephalogram (EEG) | 0213 | 3.2422 | $176.02 | $70.41 | $35.20
95813 | S |  | Eeg, over 1 hour | 0213 | 3.2422 | $176.02 | $70.41 | $35.20
95816 | S |  | Electroencephalogram (EEG) | 0214 | 2.2459 | $121.93 | $58.12 | $24.39
95819 | S |  | Electroencephalogram (EEG) | 0214 | 2.2459 | $121.93 | $58.12 | $24.39
95822 | S |  | Sleep electroencephalogram | 0214 | 2.2459 | $121.93 | $58.12 | $24.39
95824 | S |  | Eeg, cerebral death only | 0214 | 2.2459 | $121.93 | $58.12 | $24.39
95827 | S |  | Night electroencephalogram | 0209 | 11.5352 | $626.23 | $280.58 | $125.25
95829 | S |  | Surgery electrocorticogram | 0214 | 2.2459 | $121.93 | $58.12 | $24.39
95830 | E |  | Insert electrodes for EEG |  |  |  |  |
95831 | N |  | Limb muscle testing, manual |  |  |  |  |
95832 | N |  | Hand muscle testing, manual |  |  |  |  |
95833 | N |  | Body muscle testing, manual |  |  |  |  |
95834 | N |  | Body muscle testing, manual |  |  |  |  |
95851 | N |  | Range of motion measurements |  |  |  |  |
95852 | N |  | Range of motion measurements |  |  |  |  |
95857 | S |  | Tensilon test | 0218 | 1.1296 | $61.32 |  | $12.26
95858 | S |  | Tensilon test & myogram | 0215 | 0.6390 | $34.69 | $15.76 | $6.94
95860 | S |  | Muscle test, one limb | 0218 | 1.1296 | $61.32 |  | $12.26
95861 | S |  | Muscle test, 2 limbs | 0218 | 1.1296 | $61.32 |  | $12.26
95863 | S |  | Muscle test, 3 limbs | 0218 | 1.1296 | $61.32 |  | $12.26
95864 | S |  | Muscle test, 4 limbs | 0218 | 1.1296 | $61.32 |  | $12.26
95867 | S |  | Muscle test, head or neck | 0218 | 1.1296 | $61.32 |  | $12.26
95868 | S |  | Muscle test cran nerve bilat | 0218 | 1.1296 | $61.32 |  | $12.26
95869 | S |  | Muscle test, thor paraspinal | 0215 | 0.6390 | $34.69 | $15.76 | $6.94
95870 | S |  | Muscle test, nonparaspinal | 0215 | 0.6390 | $34.69 | $15.76 | $6.94
95872 | S |  | Muscle test, one fiber | 0218 | 1.1296 | $61.32 |  | $12.26
95875 | S |  | Limb exercise test | 0215 | 0.6390 | $34.69 | $15.76 | $6.94
95900 | S |  | Motor nerve conduction test | 0215 | 0.6390 | $34.69 | $15.76 | $6.94
95903 | S |  | Motor nerve conduction test | 0215 | 0.6390 | $34.69 | $15.76 | $6.94
95904 | S |  | Sense nerve conduction test | 0215 | 0.6390 | $34.69 | $15.76 | $6.94
95920 | S |  | Intraop nerve test add-on | 0216 | 2.8332 | $153.81 | $67.98 | $30.76
95921 | S |  | Autonomic nerv function test | 0218 | 1.1296 | $61.32 |  | $12.26
95922 | S |  | Autonomic nerv function test | 0218 | 1.1296 | $61.32 |  | $12.26
95923 | S |  | Autonomic nerv function test | 0215 | 0.6390 | $34.69 | $15.76 | $6.94
95925 | S |  | Somatosensory testing | 0216 | 2.8332 | $153.81 | $67.98 | $30.76
95926 | S |  | Somatosensory testing | 0216 | 2.8332 | $153.81 | $67.98 | $30.76
95927 | S |  | Somatosensory testing | 0216 | 2.8332 | $153.81 | $67.98 | $30.76
95930 | S |  | Visual evoked potential test | 0218 | 1.1296 | $61.32 |  | $12.26
95933 | S |  | Blink reflex test | 0215 | 0.6390 | $34.69 | $15.76 | $6.94
95934 | S |  | H-reflex test | 0215 | 0.6390 | $34.69 | $15.76 | $6.94
95936 | S |  | H-reflex test | 0215 | 0.6390 | $34.69 | $15.76 | $6.94
95937 | S |  | Neuromuscular junction test | 0218 | 1.1296 | $61.32 |  | $12.26
95950 | S |  | Ambulatory eeg monitoring | 0213 | 3.2422 | $176.02 | $70.41 | $35.20
95951 | S |  | EEG monitoring/videorecord | 0209 | 11.5352 | $626.23 | $280.58 | $125.25
95953 | S |  | EEG monitoring/computer | 0209 | 11.5352 | $626.23 | $280.58 | $125.25
95954 | S |  | EEG monitoring/giving drugs | 0214 | 2.2459 | $121.93 | $58.12 | $24.39
95955 | S |  | EEG during surgery | 0213 | 3.2422 | $176.02 | $70.41 | $35.20
95956 | S |  | Eeg monitoring, cable/radio | 0214 | 2.2459 | $121.93 | $58.12 | $24.39
95957 | S |  | EEG digital analysis | 0214 | 2.2459 | $121.93 | $58.12 | $24.39
95958 | S |  | EEG monitoring/function test | 0213 | 3.2422 | $176.02 | $70.41 | $35.20
95961 | S |  | Electrode stimulation, brain | 0216 | 2.8332 | $153.81 | $67.98 | $30.76
95962 | S |  | Electrode stim, brain add-on | 0216 | 2.8332 | $153.81 | $67.98 | $30.76
95965 | S |  | Meg, spontaneous | 1528 |  | $5,250.00 |  | $1,050.00
95966 | S |  | Meg, evoked, single | 1516 |  | $1,450.00 |  | $290.00
95967 | S |  | Meg, evoked, each addl | 1511 |  | $950.00 |  | $190.00
95970 | S |  | Analyze neurostim, no prog | 0692 | 0.9625 | $52.25 | $26.12 | $10.45
95971 | S |  | Analyze neurostim, simple | 0692 | 0.9625 | $52.25 | $26.12 | $10.45
95972 | S |  | Analyze neurostim, complex | 0692 | 0.9625 | $52.25 | $26.12 | $10.45
95973 | S |  | Analyze neurostim, complex | 0692 | 0.9625 | $52.25 | $26.12 | $10.45
95974 | S |  | Cranial neurostim, complex | 0692 | 0.9625 | $52.25 | $26.12 | $10.45
95975 | S |  | Cranial neurostim, complex | 0692 | 0.9625 | $52.25 | $26.12 | $10.45
95990 | T |  | Spin/brain pump refil & main | 0125 | 2.5105 | $136.29 |  | $27.26
95999 | S |  | Neurological procedure | 0215 | 0.6390 | $34.69 | $15.76 | $6.94
96000 | S |  | Motion analysis, video/3d | 1503 |  | $150.00 |  | $30.00
96001 | S |  | Motion test w/ft press meas | 1503 |  | $150.00 |  | $30.00
96002 | S |  | Dynamic surface emg | 1503 |  | $150.00 |  | $30.00
96003 | S |  | Dynamic fine wire emg | 1503 |  | $150.00 |  | $30.00
96004 | E |  | Phys review of motion tests |  |  |  |  |
96100 | X |  | Psychological testing | 0373 | 2.1165 | $114.90 | $22.98 | $22.98
96105 | X |  | Assessment of aphasia | 0373 | 2.1165 | $114.90 | $22.98 | $22.98
96110 | X |  | Developmental test, lim | 0373 | 2.1165 | $114.90 | $22.98 | $22.98
96111 | X |  | Developmental test, extend | 0373 | 2.1165 | $114.90 | $22.98 | $22.98
96115 | X |  | Neurobehavior status exam | 0373 | 2.1165 | $114.90 | $22.98 | $22.98
96117 | X |  | Neuropsych test battery | 0373 | 2.1165 | $114.90 | $22.98 | $22.98
96150 | S |  | Assess lth/behave, init | 0322 | 1.3091 | $71.07 |  | $14.21
96151 | S |  | Assess hlth/behave, subseq | 0322 | 1.3091 | $71.07 |  | $14.21
96152 | S |  | Intervene hlth/behave, indiv | 0322 | 1.3091 | $71.07 |  | $14.21
96153 | S |  | Intervene hlth/behave, group | 0322 | 1.3091 | $71.07 |  | $14.21
96154 | S |  | Interv hlth/behav, fam w/pt | 0322 | 1.3091 | $71.07 |  | $14.21
96155 | S |  | Interv hlth/behav fam no pt | 0322 | 1.3091 | $71.07 |  | $14.21
96400 | E |  | Chemotherapy, sc/im |  |  |  |  |
96405 | E |  | Intralesional chemo admin |  |  |  |  |
96406 | E |  | Intralesional chemo admin |  |  |  |  |
96408 | E |  | Chemotherapy, push technique |  |  |  |  |
96410 | E |  | Chemotherapy, infusion method |  |  |  |  |
96412 | E |  | Chemo, infuse method add-on |  |  |  |  |
96414 | E |  | Chemo, infuse method add-on |  |  |  |  |
96420 | E |  | Chemotherapy, push technique |  |  |  |  |
96422 | E |  | Chemotherapy,infusion method |  |  |  |  |
96423 | E |  | Chemo, infuse method add-on |  |  |  |  |
96425 | E |  | Chemotherapy, infusion method |  |  |  |  |
96440 | E |  | Chemotherapy, intracavitary |  |  |  |  |
96445 | E |  | Chemotherapy, intracavitary |  |  |  |  |
96450 | E |  | Chemotherapy, into CNS |  |  |  |  |
96520 | T |  | Port pump refill & main | 0125 | 2.5105 | $136.29 |  | $27.26
96530 | T |  | Pump refilling, maintenance | 0125 | 2.5105 | $136.29 |  | $27.26
96542 | E |  | Chemotherapy injection |  |  |  |  |
96545 | E |  | Provide chemotherapy agent |  |  |  |  |
96549 | E |  | Chemotherapy, unspecified |  |  |  |  |
96567 | T |  | Photodynamic tx, skin | 1540 |  | $150.00 |  | $30.00
96570 | T |  | Photodynamic tx, 30 min | 1541 |  | $250.00 |  | $50.00
96571 | T |  | Photodynamic tx, addl 15 min | 1541 |  | $250.00 |  | $50.00
96900 | S |  | Ultraviolet light therapy | 0001 | 0.3940 | $21.39 | $7.09 | $4.28
96902 | N |  | Trichogram |  |  |  |  |
96910 | S |  | Photochemotherapy with UV-B | 0001 | 0.3940 | $21.39 | $7.09 | $4.28
96912 | S |  | Photochemotherapy with UV-A | 0001 | 0.3940 | $21.39 | $7.09 | $4.28
96913 | S |  | Photochemotherapy, UV-A or B | 0683 | 1.7915 | $97.26 | $35.01 | $19.45
96920 | T |  | Laser tx, skin < 250 sq cm | 0012 | 0.8203 | $44.53 | $11.18 | $8.91
96921 | T |  | Laser tx, skin 250-500 sq cm | 0012 | 0.8203 | $44.53 | $11.18 | $8.91
96922 | T |  | Laser tx, skin > 500 sq cm | 0013 | 1.1420 | $62.00 | $14.20 | $12.40
96999 | T |  | Dermatological procedure | 0010 | 0.6806 | $36.95 | $10.08 | $7.39
97001 | A |  | Pt evaluation |  |  |  |  |
97002 | A |  | Pt re-evaluation |  |  |  |  |
97003 | A |  | Ot evaluation |  |  |  |  |
97004 | A |  | Ot re-evaluation |  |  |  |  |
97005 | E |  | Athletic train eval |  |  |  |  |
97006 | E |  | Athletic train reeval |  |  |  |  |
97010 | A |  | Hot or cold packs therapy |  |  |  |  |
97012 | A |  | Mechanical traction therapy |  |  |  |  |
97014 | E |  | Electric stimulation therapy |  |  |  |  |
97016 | A |  | Vasopneumatic device therapy |  |  |  |  |
97018 | A |  | Paraffin bath therapy |  |  |  |  |
97020 | A |  | Microwave therapy |  |  |  |  |
97022 | A |  | Whirlpool therapy |  |  |  |  |
97024 | A |  | Diathermy treatment |  |  |  |  |
97026 | A |  | Infrared therapy |  |  |  |  |
97028 | A |  | Ultraviolet therapy |  |  |  |  |
97032 | A |  | Electrical stimulation |  |  |  |  |
97033 | A |  | Electric current therapy |  |  |  |  |
97034 | A |  | Contrast bath therapy |  |  |  |  |
97035 | A |  | Ultrasound therapy |  |  |  |  |
97036 | A |  | Hydrotherapy |  |  |  |  |
97039 | A |  | Physical therapy treatment |  |  |  |  |
97110 | A |  | Therapeutic exercises |  |  |  |  |
97112 | A |  | Neuromuscular reeducation |  |  |  |  |
97113 | A |  | Aquatic therapy/exercises |  |  |  |  |
97116 | A |  | Gait training therapy |  |  |  |  |
97124 | A |  | Massage therapy |  |  |  |  |
97139 | A |  | Physical medicine procedure |  |  |  |  |
97140 | A |  | Manual therapy |  |  |  |  |
97150 | A |  | Group therapeutic procedures |  |  |  |  |
97504 | A |  | Orthotic training |  |  |  |  |
97520 | A |  | Prosthetic training |  |  |  |  |
97530 | A |  | Therapeutic activities |  |  |  |  |
97532 | A |  | Cognitive skills development |  |  |  |  |
97533 | A |  | Sensory integration |  |  |  |  |
97535 | A |  | Self care mngment training |  |  |  |  |
97537 | A |  | Community/work reintegration |  |  |  |  |
97542 | A |  | Wheelchair mngment training |  |  |  |  |
97545 | A |  | Work hardening |  |  |  |  |
97546 | A |  | Work hardening add-on |  |  |  |  |
97601 | A |  | Wound(s) care, selective |  |  |  |  |
97602 | N |  | Wound(s) care non-selective |  |  |  |  |
97703 | A |  | Prosthetic checkout |  |  |  |  |
97750 | A |  | Physical performance test |  |  |  |  |
97780 | E |  | Acupuncture w/o stimul |  |  |  |  |
97781 | E |  | Acupuncture w/stimul |  |  |  |  |
97799 | A |  | Physical medicine procedure |  |  |  |  |
97802 | A |  | Medical nutrition, indiv, in |  |  |  |  |
97803 | A |  | Med nutrition, indiv, subseq |  |  |  |  |
97804 | A |  | Medical nutrition, group |  |  |  |  |
98925 | S |  | Osteopathic manipulation | 0060 | 0.3151 | $17.11 | $3.43 | $3.42
98926 | S |  | Osteopathic manipulation | 0060 | 0.3151 | $17.11 | $3.43 | $3.42
98927 | S |  | Osteopathic manipulation | 0060 | 0.3151 | $17.11 | $3.43 | $3.42
98928 | S |  | Osteopathic manipulation | 0060 | 0.3151 | $17.11 | $3.43 | $3.42
98929 | S |  | Osteopathic manipulation | 0060 | 0.3151 | $17.11 | $3.43 | $3.42
98940 | S |  | Chiropractic manipulation | 0060 | 0.3151 | $17.11 | $3.43 | $3.42
98941 | S |  | Chiropractic manipulation | 0060 | 0.3151 | $17.11 | $3.43 | $3.42
98942 | S |  | Chiropractic manipulation | 0060 | 0.3151 | $17.11 | $3.43 | $3.42
98943 | E |  | Chiropractic manipulation |  |  |  |  |
99000 | E |  | Specimen handling |  |  |  |  |
99001 | E |  | Specimen handling |  |  |  |  |
99002 | E |  | Device handling |  |  |  |  |
99024 | E |  | Postop follow-up visit |  |  |  |  |
99025 | E |  | Initial surgical evaluation |  |  |  |  |
99026 | E |  | In-hospital on call service |  |  |  |  |
99027 | E |  | Out-of-hosp on call service |  |  |  |  |
99050 | E |  | Medical services after hrs |  |  |  |  |
99052 | E |  | Medical services at night |  |  |  |  |
99054 | E |  | Medical servcs, unusual hrs |  |  |  |  |
99056 | E |  | Non-office medical services |  |  |  |  |
99058 | E |  | Office emergency care |  |  |  |  |
99070 | E |  | Special supplies |  |  |  |  |
99071 | E |  | Patient education materials |  |  |  |  |
99075 | E |  | Medical testimony |  |  |  |  |
99078 | N |  | Group health education |  |  |  |  |
99080 | E |  | Special reports or forms |  |  |  |  |
99082 | E |  | Unusual physician travel |  |  |  |  |
99090 | E |  | Computer data analysis |  |  |  |  |
99091 | E |  | Collect/review data from pt |  |  |  |  |
99100 | E |  | Special anesthesia service |  |  |  |  |
99116 | E |  | Anesthesia with hypothermia |  |  |  |  |
99135 | E |  | Special anesthesia procedure |  |  |  |  |
99140 | E |  | Emergency anesthesia |  |  |  |  |
99141 | N |  | Sedation, iv/im or inhalant |  |  |  |  |
99142 | N |  | Sedation, oral/rectal/nasal |  |  |  |  |
99170 | T |  | Anogenital exam, child | 0191 | 0.1679 | $9.12 | $2.65 | $1.82
99172 | E |  | Ocular function screen |  |  |  |  |
99173 | E |  | Visual acuity screen |  |  |  |  |
99175 | N |  | Induction of vomiting |  |  |  |  |
99183 | E |  | Hyperbaric oxygen therapy |  |  |  |  |
99185 | N |  | Regional hypothermia |  |  |  |  |
99186 | N |  | Total body hypothermia |  |  |  |  |
99190 | C |  | Special pump services |  |  |  |  |
99191 | C |  | Special pump services |  |  |  |  |
99192 | C |  | Special pump services |  |  |  |  |
99195 | X |  | Phlebotomy | 0372 | 0.5529 | $30.02 | $10.09 | $6.00
99199 | E |  | Special service/proc/report |  |  |  |  |
99201 | V |  | Office/outpatient visit, new | 0600 | 0.9376 | $50.90 |  | $10.18
99202 | V |  | Office/outpatient visit, new | 0600 | 0.9376 | $50.90 |  | $10.18
99203 | V |  | Office/outpatient visit, new | 0601 | 1.0031 | $54.46 |  | $10.89
99204 | V |  | Office/outpatient visit, new | 0602 | 1.5603 | $84.71 |  | $16.94
99205 | V |  | Office/outpatient visit, new | 0602 | 1.5603 | $84.71 |  | $16.94
99211 | V |  | Office/outpatient visit, est | 0600 | 0.9376 | $50.90 |  | $10.18
99212 | V |  | Office/outpatient visit, est | 0600 | 0.9376 | $50.90 |  | $10.18
99213 | V |  | Office/outpatient visit, est | 0601 | 1.0031 | $54.46 |  | $10.89
99214 | V |  | Office/outpatient visit, est | 0602 | 1.5603 | $84.71 |  | $16.94
99215 | V |  | Office/outpatient visit, est | 0602 | 1.5603 | $84.71 |  | $16.94
99217 | N |  | Observation care discharge |  |  |  |  |
99218 | N |  | Observation care |  |  |  |  |
99219 | N |  | Observation care |  |  |  |  |
99220 | N |  | Observation care |  |  |  |  |
99221 | E |  | Initial hospital care |  |  |  |  |
99222 | E |  | Initial hospital care |  |  |  |  |
99223 | E |  | Initial hospital care |  |  |  |  |
99231 | E |  | Subsequent hospital care |  |  |  |  |
99232 | E |  | Subsequent hospital care |  |  |  |  |
99233 | E |  | Subsequent hospital care |  |  |  |  |
99234 | N |  | Observ/hosp same date |  |  |  |  |
99235 | N |  | Observ/hosp same date |  |  |  |  |
99236 | N |  | Observ/hosp same date |  |  |  |  |
99238 | E |  | Hospital discharge day |  |  |  |  |
99239 | E |  | Hospital discharge day |  |  |  |  |
99241 | V |  | Office consultation | 0600 | 0.9376 | $50.90 |  | $10.18
99242 | V |  | Office consultation | 0600 | 0.9376 | $50.90 |  | $10.18
99243 | V |  | Office consultation | 0601 | 1.0031 | $54.46 |  | $10.89
99244 | V |  | Office consultation | 0602 | 1.5603 | $84.71 |  | $16.94
99245 | V |  | Office consultation | 0602 | 1.5603 | $84.71 |  | $16.94
99251 | C |  | Initial inpatient consult |  |  |  |  |
99252 | C |  | Initial inpatient consult |  |  |  |  |
99253 | C |  | Initial inpatient consult |  |  |  |  |
99254 | C |  | Initial inpatient consult |  |  |  |  |
99255 | C |  | Initial inpatient consult |  |  |  |  |
99261 | C |  | Follow-up inpatient consult |  |  |  |  |
99262 | C |  | Follow-up inpatient consult |  |  |  |  |
99263 | C |  | Follow-up inpatient consult |  |  |  |  |
99271 | V |  | Confirmatory consultation | 0600 | 0.9376 | $50.90 |  | $10.18
99272 | V |  | Confirmatory consultation | 0600 | 0.9376 | $50.90 |  | $10.18
99273 | V |  | Confirmatory consultation | 0601 | 1.0031 | $54.46 |  | $10.89
99274 | V |  | Confirmatory consultation | 0602 | 1.5603 | $84.71 |  | $16.94
99275 | V |  | Confirmatory consultation | 0602 | 1.5603 | $84.71 |  | $16.94
99281 | V |  | Emergency dept visit | 0610 | 1.4146 | $76.80 | $19.57 | $15.36
99282 | V |  | Emergency dept visit | 0610 | 1.4146 | $76.80 | $19.57 | $15.36
99283 | V |  | Emergency dept visit | 0611 | 2.4881 | $135.08 | $36.47 | $27.02
99284 | V |  | Emergency dept visit | 0612 | 4.3235 | $234.72 | $54.14 | $46.94
99285 | V |  | Emergency dept visit | 0612 | 4.3235 | $234.72 | $54.14 | $46.94
99288 | E |  | Direct advanced life support |  |  |  |  |
99289 | N |  | Pt transport, 30-74 min |  |  |  |  |
99290 | N |  | Pt transport, addl 30 min |  |  |  |  |
99291 | S |  | Critical care, first hour | 0620 | 9.2657 | $503.03 | $145.78 | $100.61
99292 | N |  | Critical care, addl 30 min |  |  |  |  |
99293 | C |  | Ped critical care, initial |  |  |  |  |
99294 | C |  | Ped critical care, subseq |  |  |  |  |
99295 | C |  | Neonatal critical care |  |  |  |  |
99296 | C |  | Neonatal critical care |  |  |  |  |
99298 | C |  | Neonatal critical care |  |  |  |  |
99299 | C |  | Ic, lbw infant 1500-2500 gm |  |  |  |  |
99301 | E |  | Nursing facility care |  |  |  |  |
99302 | E |  | Nursing facility care |  |  |  |  |
99303 | E |  | Nursing facility care |  |  |  |  |
99311 | E |  | Nursing fac care, subseq |  |  |  |  |
99312 | E |  | Nursing fac care, subseq |  |  |  |  |
99313 | E |  | Nursing fac care, subseq |  |  |  |  |
99315 | E |  | Nursing fac discharge day |  |  |  |  |
99316 | E |  | Nursing fac discharge day |  |  |  |  |
99321 | E |  | Rest home visit, new patient |  |  |  |  |
99322 | E |  | Rest home visit, new patient |  |  |  |  |
99323 | E |  | Rest home visit, new patient |  |  |  |  |
99331 | E |  | Rest home visit, est pat |  |  |  |  |
99332 | E |  | Rest home visit, est pat |  |  |  |  |
99333 | E |  | Rest home visit, est pat |  |  |  |  |
99341 | E |  | Home visit, new patient |  |  |  |  |
99342 | E |  | Home visit, new patient |  |  |  |  |
99343 | E |  | Home visit, new patient |  |  |  |  |
99344 | E |  | Home visit, new patient |  |  |  |  |
99345 | E |  | Home visit, new patient |  |  |  |  |
99347 | E |  | Home visit, est patient |  |  |  |  |
99348 | E |  | Home visit, est patient |  |  |  |  |
99349 | E |  | Home visit, est patient |  |  |  |  |
99350 | E |  | Home visit, est patient |  |  |  |  |
99354 | N |  | Prolonged service, office |  |  |  |  |
99355 | N |  | Prolonged service, office |  |  |  |  |
99356 | C |  | Prolonged service, inpatient |  |  |  |  |
99357 | C |  | Prolonged service, inpatient |  |  |  |  |
99358 | N |  | Prolonged serv, w/o contact |  |  |  |  |
99359 | N |  | Prolonged serv, w/o contact |  |  |  |  |
99360 | E |  | Physician standby services |  |  |  |  |
99361 | E |  | Physician/team conference |  |  |  |  |
99362 | E |  | Physician/team conference |  |  |  |  |
99371 | E |  | Physician phone consultation |  |  |  |  |
99372 | E |  | Physician phone consultation |  |  |  |  |
99373 | E |  | Physician phone consultation |  |  |  |  |
99374 | E |  | Home health care supervision |  |  |  |  |
99377 | E |  | Hospice care supervision |  |  |  |  |
99379 | E |  | Nursing fac care supervision |  |  |  |  |
99380 | E |  | Nursing fac care supervision |  |  |  |  |
99381 | E |  | Prev visit, new, infant |  |  |  |  |
99382 | E |  | Prev visit, new, age 1-4 |  |  |  |  |
99383 | E |  | Prev visit, new, age 5-11 |  |  |  |  |
99384 | E |  | Prev visit, new, age 12-17 |  |  |  |  |
99385 | E |  | Prev visit, new, age 18-39 |  |  |  |  |
99386 | E |  | Prev visit, new, age 40-64 |  |  |  |  |
99387 | E |  | Prev visit, new, 65 & over |  |  |  |  |
99391 | E |  | Prev visit, est, infant |  |  |  |  |
99392 | E |  | Prev visit, est, age 1-4 |  |  |  |  |
99393 | E |  | Prev visit, est, age 5-11 |  |  |  |  |
99394 | E |  | Prev visit, est, age 12-17 |  |  |  |  |
99395 | E |  | Prev visit, est, age 18-39 |  |  |  |  |
99396 | E |  | Prev visit, est, age 40-64 |  |  |  |  |
99397 | E |  | Prev visit, est, 65 & over |  |  |  |  |
99401 | E |  | Preventive counseling, indiv |  |  |  |  |
99402 | E |  | Preventive counseling, indiv |  |  |  |  |
99403 | E |  | Preventive counseling, indiv |  |  |  |  |
99404 | E |  | Preventive counseling, indiv |  |  |  |  |
99411 | E |  | Preventive counseling, group |  |  |  |  |
99412 | E |  | Preventive counseling, group |  |  |  |  |
99420 | E |  | Health risk assessment test |  |  |  |  |
99429 | E |  | Unlisted preventive service |  |  |  |  |
99431 | V |  | Initial care, normal newborn | 0600 | 0.9376 | $50.90 |  | $10.18
99432 | N |  | Newborn care, not in hosp |  |  |  |  |
99433 | C |  | Normal newborn care/hospital |  |  |  |  |
99435 | E |  | Newborn discharge day hosp |  |  |  |  |
99436 | N |  | Attendance, birth |  |  |  |  |
99440 | S |  | Newborn resuscitation | 0094 | 2.6412 | $143.39 | $48.46 | $28.68
99450 | E |  | Life/disability evaluation |  |  |  |  |
99455 | E |  | Disability examination |  |  |  |  |
99456 | E |  | Disability examination |  |  |  |  |
99499 | E |  | Unlisted e&m service |  |  |  |  |
99500 | E |  | Home visit, prenatal |  |  |  |  |
99501 | E |  | Home visit, postnatal |  |  |  |  |
99502 | E |  | Home visit, nb care |  |  |  |  |
99503 | E |  | Home visit, resp therapy |  |  |  |  |
99504 | E |  | Home visit mech ventilator |  |  |  |  |
99505 | E |  | Home visit, stoma care |  |  |  |  |
99506 | E |  | Home visit, im injection |  |  |  |  |
99507 | E |  | Home visit, cath maintain |  |  |  |  |
99509 | E |  | Home visit day life activity |  |  |  |  |
99510 | E |  | Home visit, sing/m/fam couns |  |  |  |  |
99511 | E |  | Home visit, fecal/enema mgmt |  |  |  |  |
99512 | E |  | Home visit, hemodialysis |  |  |  |  |
99551 | E |  | Home infus, pain mgmt, iv/sc |  |  |  |  |
99552 | E |  | Hm infus pain mgmt, epid/ith |  |  |  |  |
99553 | E |  | Home infuse, tocolytic tx |  |  |  |  |
99554 | E |  | Home infus, hormone/platelet |  |  |  |  |
99555 | E |  | Home infuse, chemotheraphy |  |  |  |  |
99556 | E |  | Home infus, antibio/fung/vir |  |  |  |  |
99557 | E |  | Home infuse, anticoagulant |  |  |  |  |
99558 | E |  | Home infuse, immunotherapy |  |  |  |  |
99559 | E |  | Home infus, periton dialysis |  |  |  |  |
99560 | E |  | Home infus, entero nutrition |  |  |  |  |
99561 | E |  | Home infuse, hydration tx |  |  |  |  |
99562 | E |  | Home infus, parent nutrition |  |  |  |  |
99563 | E |  | Home admin, pentamidine |  |  |  |  |
99564 | E |  | Hme infus, antihemophil agnt |  |  |  |  |
99565 | E |  | Home infus, proteinase inhib |  |  |  |  |
99566 | E |  | Home infuse, iv therapy |  |  |  |  |
99567 | E |  | Home infuse, sympath agent |  |  |  |  |
99568 | E |  | Home infus, misc drug, daily |  |  |  |  |
99569 | E |  | Home infuse, each addl tx |  |  |  |  |
99600 | E |  | Home visit nos |  |  |  |  |
A0021 | E |  | Outside state ambulance serv |  |  |  |  |
A0080 | E |  | Noninterest escort in non er |  |  |  |  |
A0090 | E |  | Interest escort in non er |  |  |  |  |
A0100 | E |  | Nonemergency transport taxi |  |  |  |  |
A0110 | E |  | Nonemergency transport bus |  |  |  |  |
A0120 | E |  | Noner transport mini-bus |  |  |  |  |
A0130 | E |  | Noner transport wheelch van |  |  |  |  |
A0140 | E |  | Nonemergency transport air |  |  |  |  |
A0160 | E |  | Noner transport case worker |  |  |  |  |
A0170 | E |  | Noner transport parking fees |  |  |  |  |
A0180 | E |  | Noner transport lodgng recip |  |  |  |  |
A0190 | E |  | Noner transport meals recip |  |  |  |  |
A0200 | E |  | Noner transport lodgng escrt |  |  |  |  |
A0210 | E |  | Noner transport meals escort |  |  |  |  |
A0225 | A |  | Neonatal emergency transport |  |  |  |  |
A0380 | A |  | Basic life support mileage |  |  |  |  |
A0382 | A |  | Basic support routine suppls |  |  |  |  |
A0384 | A |  | Bls defibrillation supplies |  |  |  |  |
A0390 | A |  | Advanced life support mileag |  |  |  |  |
A0392 | A |  | Als defibrillation supplies |  |  |  |  |
A0394 | A |  | Als IV drug therapy supplies |  |  |  |  |
A0396 | A |  | Als esophageal intub suppls |  |  |  |  |
A0398 | A |  | Als routine disposble suppls |  |  |  |  |
A0420 | A |  | Ambulance waiting 1/2 hr |  |  |  |  |
A0422 | A |  | Ambulance 02 life sustaining |  |  |  |  |
A0424 | A |  | Extra ambulance attendant |  |  |  |  |
A0425 | A |  | Ground mileage |  |  |  |  |
A0426 | A |  | Als 1 |  |  |  |  |
A0427 | A |  | ALS1-emergency |  |  |  |  |
A0428 | A |  | bls |  |  |  |  |
A0429 | A |  | BLS-emergency |  |  |  |  |
A0430 | A |  | Fixed wing air transport |  |  |  |  |
A0431 | A |  | Rotary wing air transport |  |  |  |  |
A0432 | A |  | PI volunteer ambulance co |  |  |  |  |
A0433 | A |  | als 2 |  |  |  |  |
A0434 | A |  | Specialty care transport |  |  |  |  |
A0435 | A |  | Fixed wing air mileage |  |  |  |  |
A0436 | A |  | Rotary wing air mileage |  |  |  |  |
A0888 | E |  | Noncovered ambulance mileage |  |  |  |  |
A0999 | A |  | Unlisted ambulance service |  |  |  |  |
A4206 | A |  | 1 CC sterile syringe&needle |  |  |  |  |
A4207 | A |  | 2 CC sterile syringe&needle |  |  |  |  |
A4208 | A |  | 3 CC sterile syringe&needle |  |  |  |  |
A4209 | E |  | 5+ CC sterile syringe&needle |  |  |  |  |
A4210 | E |  | Nonneedle injection device |  |  |  |  |
A4211 | E |  | Supp for self-adm injections |  |  |  |  |
A4212 | E |  | Non coring needle or stylet |  |  |  |  |
A4213 | E |  | 20+ CC syringe only |  |  |  |  |
A4214 | A |  | 30 CC sterile water/saline |  |  |  |  |
A4215 | E |  | Sterile needle |  |  |  |  |
A4220 | A |  | Infusion pump refill kit |  |  |  |  |
A4221 | A |  | Maint drug infus cath per wk |  |  |  |  |
A4222 | A |  | Drug infusion pump supplies |  |  |  |  |
A4230 | A |  | Infus insulin pump non needl |  |  |  |  |
A4231 | A |  | Infusion insulin pump needle |  |  |  |  |
A4232 | E |  | Syringe w/needle insulin 3cc |  |  |  |  |
A4244 | E |  | Alcohol or peroxide per pint |  |  |  |  |
A4245 | E |  | Alcohol wipes per box |  |  |  |  |
A4246 | E |  | Betadine/phisohex solution |  |  |  |  |
A4247 | E |  | Betadine/iodine swabs/wipes |  |  |  |  |
A4250 | E |  | Urine reagent strips/tablets |  |  |  |  |
A4253 | A |  | Blood glucose/reagent strips |  |  |  |  |
A4254 | A |  | Battery for glucose monitor |  |  |  |  |
A4255 | A |  | Glucose monitor platforms |  |  |  |  |
A4256 | A |  | Calibrator solution/chips |  |  |  |  |
A4257 | A |  | Replace Lensshield Cartridge |  |  |  |  |
A4258 | A |  | Lancet device each |  |  |  |  |
A4259 | A |  | Lancets per box |  |  |  |  |
A4260 | E |  | Levonorgestrel implant |  |  |  |  |
A4261 | E |  | Cervical cap contraceptive |  |  |  |  |
A4262 | N |  | Temporary tear duct plug |  |  |  |  |
A4263 | N |  | Permanent tear duct plug |  |  |  |  |
A4265 | A |  | Paraffin |  |  |  |  |
A4266 | E |  | Diaphragm |  |  |  |  |
A4267 | E |  | Male condom |  |  |  |  |
A4268 | E |  | Female condom |  |  |  |  |
A4269 | E |  | Spermicide |  |  |  |  |
A4270 | A |  | Disposable endoscope sheath |  |  |  |  |
A4280 | A |  | Brst prsths adhsv attchmnt |  |  |  |  |
A4281 | E |  | Replacement breastpump tube |  |  |  |  |
A4282 | E |  | Replacement breastpump adpt |  |  |  |  |
A4283 | E |  | Replacement breastpump cap |  |  |  |  |
A4284 | E |  | Replcmnt breast pump shield |  |  |  |  |
A4285 | E |  | Replcmnt breast pump bottle |  |  |  |  |
A4286 | E |  | Replcmnt breastpump lok ring |  |  |  |  |
A4290 | E |  | Sacral nerve stim test lead |  |  |  |  |
A4300 | N |  | Cath impl vasc access portal |  |  |  |  |
A4301 | N |  | Implantable access syst perc |  |  |  |  |
A4305 | A |  | Drug delivery system >=50 ML |  |  |  |  |
A4306 | A |  | Drug delivery system <=5 ML |  |  |  |  |
A4310 | A |  | Insert tray w/o bag/cath |  |  |  |  |
A4311 | A |  | Catheter w/o bag 2-way latex |  |  |  |  |
A4312 | A |  | Cath w/o bag 2-way silicone |  |  |  |  |
A4313 | A |  | Catheter w/bag 3-way |  |  |  |  |
A4314 | A |  | Cath w/drainage 2-way latex |  |  |  |  |
A4315 | A |  | Cath w/drainage 2-way silcne |  |  |  |  |
A4316 | A |  | Cath w/drainage 3-way |  |  |  |  |
A4319 | A |  | Sterile H2O irrigation solut |  |  |  |  |
A4320 | A |  | Irrigation tray |  |  |  |  |
A4321 | A |  | Cath therapeutic irrig agent |  |  |  |  |
A4322 | A |  | Irrigation syringe |  |  |  |  |
A4323 | A |  | Saline irrigation solution |  |  |  |  |
A4324 | A |  | Male ext cath w/adh coating |  |  |  |  |
A4325 | A |  | Male ext cath w/adh strip |  |  |  |  |
A4326 | A |  | Male external catheter |  |  |  |  |
A4327 | A |  | Fem urinary collect dev cup |  |  |  |  |
A4328 | A |  | Fem urinary collect pouch |  |  |  |  |
A4330 | A |  | Stool collection pouch |  |  |  |  |
A4331 | A |  | Extension drainage tubing |  |  |  |  |
A4332 | A |  | Lubricant for cath insertion |  |  |  |  |
A4333 | A |  | Urinary cath anchor device |  |  |  |  |
A4334 | A |  | Urinary cath leg strap |  |  |  |  |
A4335 | A |  | Incontinence supply |  |  |  |  |
A4338 | A |  | Indwelling catheter latex |  |  |  |  |
A4340 | A |  | Indwelling catheter special |  |  |  |  |
A4344 | A |  | Cath indw foley 2 way silicn |  |  |  |  |
A4346 | A |  | Cath indw foley 3 way |  |  |  |  |
A4347 | A |  | Male external catheter |  |  |  |  |
A4348 | A |  | Male ext cath extended wear |  |  |  |  |
A4351 | A |  | Straight tip urine catheter |  |  |  |  |
A4352 | A |  | Coude tip urinary catheter |  |  |  |  |
A4353 | A |  | Intermittent urinary cath |  |  |  |  |
A4354 | A |  | Cath insertion tray w/bag |  |  |  |  |
A4355 | A |  | Bladder irrigation tubing |  |  |  |  |
A4356 | A |  | Ext ureth clmp or compr dvc |  |  |  |  |
A4357 | A |  | Bedside drainage bag |  |  |  |  |
A4358 | A |  | Urinary leg or abdomen bag |  |  |  |  |
A4359 | A |  | Urinary suspensory w/o leg b |  |  |  |  |
A4361 | A |  | Ostomy face plate |  |  |  |  |
A4362 | A |  | Solid skin barrier |  |  |  |  |
A4364 | A |  | Adhesive, liquid or equal |  |  |  |  |
A4365 | A |  | Adhesive remover wipes |  |  |  |  |
A4367 | A |  | Ostomy belt |  |  |  |  |
A4368 | A |  | Ostomy filter |  |  |  |  |
A4369 | A |  | Skin barrier liquid per oz |  |  |  |  |
A4371 | A |  | Skin barrier powder per oz |  |  |  |  |
A4372 | A |  | Skin barrier solid 4x4 equiv |  |  |  |  |
A4373 | A |  | Skin barrier with flange |  |  |  |  |
A4375 | A |  | Drainable plastic pch w fcpl |  |  |  |  |
A4376 | A |  | Drainable rubber pch w fcplt |  |  |  |  |
A4377 | A |  | Drainable plstic pch w/o fp |  |  |  |  |
A4378 | A |  | Drainable rubber pch w/o fp |  |  |  |  |
A4379 | A |  | Urinary plastic pouch w fcpl |  |  |  |  |
A4380 | A |  | Urinary rubber pouch w fcplt |  |  |  |  |
A4381 | A |  | Urinary plastic pouch w/o fp |  |  |  |  |
A4382 | A |  | Urinary hvy plstc pch w/o fp |  |  |  |  |
A4383 | A |  | Urinary rubber pouch w/o fp |  |  |  |  |
A4384 | A |  | Ostomy faceplt/silicone ring |  |  |  |  |
A4385 | A |  | Ost skn barrier sld ext wear |  |  |  |  |
A4387 | A |  | Ost clsd pouch w att st barr |  |  |  |  |
A4388 | A |  | Drainable pch w ex wear barr |  |  |  |  |
A4389 | A |  | Drainable pch w st wear barr |  |  |  |  |
A4390 | A |  | Drainable pch ex wear convex |  |  |  |  |
A4391 | A |  | Urinary pouch w ex wear barr |  |  |  |  |
A4392 | A |  | Urinary pouch w st wear barr |  |  |  |  |
A4393 | A |  | Urine pch w ex wear bar conv |  |  |  |  |
A4394 | A |  | Ostomy pouch liq deodorant |  |  |  |  |
A4395 | A |  | Ostomy pouch solid deodorant |  |  |  |  |
A4396 | A |  | Peristomal hernia supprt blt |  |  |  |  |
A4397 | A |  | Irrigation supply sleeve |  |  |  |  |
A4398 | A |  | Ostomy irrigation bag |  |  |  |  |
A4399 | A |  | Ostomy irrig cone/cath w brs |  |  |  |  |
A4400 | A |  | Ostomy irrigation set |  |  |  |  |
A4402 | A |  | Lubricant per ounce |  |  |  |  |
A4404 | A |  | Ostomy ring each |  |  |  |  |
A4405 | A |  | Nonpectin based ostomy paste |  |  |  |  |
A4406 | A |  | Pectin based ostomy paste |  |  |  |  |
A4407 | A |  | Ext wear ost skn barr <=4sq″ |  |  |  |  |
A4408 | A |  | Ext wear ost skn barr >4sq″ |  |  |  |  |
A4409 | A |  | Ost skn barr w flng <=4 ″ |  |  |  |  |
A4410 | A |  | Ost skn barr w flng >4sq″ |  |  |  |  |
A4413 | A |  | 2 pc drainable ost pouch |  |  |  |  |
A4414 | A |  | Ostomy sknbarr w flng <=4sq″ |  |  |  |  |
A4415 | A |  | Ostomy skn barr w flng >4sq″ |  |  |  |  |
A4421 | A |  | Ostomy supply misc |  |  |  |  |
A4422 | A |  | Ost pouch absorbent material |  |  |  |  |
A4450 | A |  | Non-waterproof tape |  |  |  |  |
A4452 | A |  | Waterproof tape |  |  |  |  |
A4455 | A |  | Adhesive remover per ounce |  |  |  |  |
A4458 | E |  | Reusable enema bag |  |  |  |  |
A4462 | A |  | Abdmnl drssng holder/binder |  |  |  |  |
A4465 | A |  | Non-elastic extremity binder |  |  |  |  |
A4470 | A |  | Gravlee jet washer |  |  |  |  |
A4480 | A |  | Vabra aspirator |  |  |  |  |
A4481 | A |  | Tracheostoma filter |  |  |  |  |
A4483 | A |  | Moisture exchanger |  |  |  |  |
A4490 | E |  | Above knee surgical stocking |  |  |  |  |
A4495 | E |  | Thigh length surg stocking |  |  |  |  |
A4500 | E |  | Below knee surgical stocking |  |  |  |  |
A4510 | E |  | Full length surg stocking |  |  |  |  |
A4521 | E |  | Adult size diaper sm each |  |  |  |  |
A4522 | E |  | Adult size diaper med each |  |  |  |  |
A4523 | E |  | Adult size diaper lg each |  |  |  |  |
A4524 | E |  | Adult size diaper xl each |  |  |  |  |
A4525 | E |  | Adult size brief sm each |  |  |  |  |
A4526 | E |  | Adult size brief med each |  |  |  |  |
A4527 | E |  | Adult size brief lg each |  |  |  |  |
A4528 | E |  | Adult size brief xl each |  |  |  |  |
A4529 | E |  | Child size diaper sm/med ea |  |  |  |  |
A4530 | E |  | Child size diaper lg each |  |  |  |  |
A4531 | E |  | Child size brief sm/med each |  |  |  |  |
A4532 | E |  | Child size brief lg each |  |  |  |  |
A4533 | E |  | Youth size diaper each |  |  |  |  |
A4534 | E |  | Youth size brief each |  |  |  |  |
A4535 | E |  | Disp incont liner/shield ea |  |  |  |  |
A4536 | E |  | Prot underwr wshbl any sz ea |  |  |  |  |
A4537 | E |  | Under pad reusable any sz ea |  |  |  |  |
A4538 | E |  | Diaper sv ea reusable diaper |  |  |  |  |
A4550 | E |  | Surgical trays |  |  |  |  |
A4554 | E |  | Disposable underpads |  |  |  |  |
A4556 | A |  | Electrodes, pair |  |  |  |  |
A4557 | A |  | Lead wires, pair |  |  |  |  |
A4558 | A |  | Conductive paste or gel |  |  |  |  |
A4561 | N |  | Pessary rubber, any type |  |  |  |  |
A4562 | N |  | Pessary, non rubber,any type |  |  |  |  |
A4565 | A |  | Slings |  |  |  |  |
A4570 | N |  | Splint |  |  |  |  |
A4575 | E |  | Hyperbaric o2 chamber disps |  |  |  |  |
A4580 | N |  | Cast supplies (plaster) |  |  |  |  |
A4590 | N |  | Special casting material |  |  |  |  |
A4595 | A |  | TENS suppl 2 lead per month |  |  |  |  |
A4606 | A |  | Oxygen probe used w oximeter |  |  |  |  |
A4608 | A |  | Transtracheal oxygen cath |  |  |  |  |
A4609 | A |  | Trach suction cath clsed sys |  |  |  |  |
A4610 | A |  | Trach sctn cath 72h clsedsys |  |  |  |  |
A4611 | A |  | Heavy duty battery |  |  |  |  |
A4612 | A |  | Battery cables |  |  |  |  |
A4613 | A |  | Battery charger |  |  |  |  |
A4614 | A |  | Hand-held PEFR meter |  |  |  |  |
A4615 | A |  | Cannula nasal |  |  |  |  |
A4616 | A |  | Tubing (oxygen) per foot |  |  |  |  |
A4617 | A |  | Mouth piece |  |  |  |  |
A4618 | A |  | Breathing circuits |  |  |  |  |
A4619 | A |  | Face tent |  |  |  |  |
A4620 | A |  | Variable concentration mask |  |  |  |  |
A4621 | A |  | Tracheotomy mask or collar |  |  |  |  |
A4622 | A |  | Tracheostomy or larngectomy |  |  |  |  |
A4623 | A |  | Tracheostomy inner cannula |  |  |  |  |
A4624 | A |  | Tracheal suction tube |  |  |  |  |
A4625 | A |  | Trach care kit for new trach |  |  |  |  |
A4626 | A |  | Tracheostomy cleaning brush |  |  |  |  |
A4627 | E |  | Spacer bag/reservoir |  |  |  |  |
A4628 | A |  | Oropharyngeal suction cath |  |  |  |  |
A4629 | A |  | Tracheostomy care kit |  |  |  |  |
A4630 | A |  | Repl bat t.e.n.s. own by pt |  |  |  |  |
A4631 | A |  | Wheelchair battery |  |  |  |  |
A4632 | E |  | Infus pump rplcemnt battery |  |  |  |  |
A4633 | A |  | Uvl replacement bulb |  |  |  |  |
A4634 | A |  | Replacement bulb th lightbox |  |  |  |  |
A4635 | A |  | Underarm crutch pad |  |  |  |  |
A4636 | A |  | Handgrip for cane etc |  |  |  |  |
A4637 | A |  | Repl tip cane/crutch/walker |  |  |  |  |
A4639 | A |  | Infrared ht sys replcmnt pad |  |  |  |  |
A4640 | A |  | Alternating pressure pad |  |  |  |  |
A4641 | N |  | Diagnostic imaging agent |  |  |  |  |
A4642 | K |  | Satumomab pendetide per dose | 0704 | 2.9212 | $158.59 |  | $31.72
A4643 | N |  | High dose contrast MRI |  |  |  |  |
A4644 | N |  | Contrast 100-199 MGs iodine |  |  |  |  |
A4645 | N |  | Contrast 200-299 MGs iodine |  |  |  |  |
A4646 | N |  | Contrast 300-399 MGs iodine |  |  |  |  |
A4647 | N |  | Supp- paramagnetic contr mat |  |  |  |  |
A4649 | A |  | Surgical supplies |  |  |  |  |
A4651 | A |  | Calibrated microcap tube |  |  |  |  |
A4652 | A |  | Microcapillary tube sealant |  |  |  |  |
A4653 | A |  | PD catheter anchor belt |  |  |  |  |
A4656 | A |  | Dialysis needle |  |  |  |  |
A4657 | A |  | Dialysis syringe w/wo needle |  |  |  |  |
A4660 | A |  | Sphyg/bp app w cuff and stet |  |  |  |  |
A4663 | A |  | Dialysis blood pressure cuff |  |  |  |  |
A4670 | E |  | Automatic bp monitor, dial |  |  |  |  |
A4680 | A |  | Activated carbon filter, ea |  |  |  |  |
A4690 | A |  | Dialyzer, each |  |  |  |  |
A4706 | A |  | Bicarbonate conc sol per gal |  |  |  |  |
A4707 | A |  | Bicarbonate conc pow per pac |  |  |  |  |
A4708 | A |  | Acetate conc sol per gallon |  |  |  |  |
A4709 | A |  | Acid conc sol per gallon |  |  |  |  |
A4712 | A |  | Sterile water inj per 10 ml |  |  |  |  |
A4714 | A |  | Treated water per gallon |  |  |  |  |
A4719 | A |  | “Y set” tubing |  |  |  |  |
A4720 | A |  | Dialysat sol fld vol > 249cc |  |  |  |  |
A4721 | A |  | Dialysat sol fld vol > 999cc |  |  |  |  |
A4722 | A |  | Dialys sol fld vol > 1999cc |  |  |  |  |
A4723 | A |  | Dialys sol fld vol > 2999cc |  |  |  |  |
A4724 | A |  | Dialys sol fld vol > 3999cc |  |  |  |  |
A4725 | A |  | Dialys sol fld vol > 999cc |  |  |  |  |
A4726 | A |  | Dialys sol fld vol > 5999cc |  |  |  |  |
A4730 | A |  | Fistula cannulation set, ea |  |  |  |  |
A4736 | A |  | Topical anesthetic, per gram |  |  |  |  |
A4737 | A |  | Inj anesthetic per 10 ml |  |  |  |  |
A4740 | A |  | Shunt accessory |  |  |  |  |
A4750 | A |  | Art or venous blood tubing |  |  |  |  |
A4755 | A |  | Comb art/venous blood tubing |  |  |  |  |
A4760 | A |  | Dialysate sol test kit, each |  |  |  |  |
A4765 | A |  | Dialysate conc pow per pack |  |  |  |  |
A4766 | A |  | Dialysate conc sol add 10 ml |  |  |  |  |
A4770 | A |  | Blood collection tube/vacuum |  |  |  |  |
A4771 | A |  | Serum clotting time tube |  |  |  |  |
A4772 | A |  | Blood glucose test strips |  |  |  |  |
A4773 | A |  | Occult blood test strips |  |  |  |  |
A4774 | A |  | Ammonia test strips |  |  |  |  |
A4802 | A |  | Protamine sulfate per 50 mg |  |  |  |  |
A4860 | A |  | Disposable catheter tips |  |  |  |  |
A4870 | A |  | Plumb/elec wk hm hemo equip |  |  |  |  |
A4890 | A |  | Repair/maint cont hemo equip |  |  |  |  |
A4911 | A |  | Drain bag/bottle |  |  |  |  |
A4913 | A |  | Misc dialysis supplies noc |  |  |  |  |
A4918 | A |  | Venous pressure clamp |  |  |  |  |
A4927 | A |  | Non-sterile gloves |  |  |  |  |
A4928 | A |  | Surgical mask |  |  |  |  |
A4929 | A |  | Tourniquet for dialysis, ea |  |  |  |  |
A4930 | A |  | Sterile, gloves per pair |  |  |  |  |
A4931 | A |  | Reusable oral thermometer |  |  |  |  |
A4932 | E |  | Reusable rectal thermometer |  |  |  |  |
A5051 | A |  | Pouch clsd w barr attached |  |  |  |  |
A5052 | A |  | Clsd ostomy pouch w/o barr |  |  |  |  |
A5053 | A |  | Clsd ostomy pouch faceplate |  |  |  |  |
A5054 | A |  | Clsd ostomy pouch w/flange |  |  |  |  |
A5055 | A |  | Stoma cap |  |  |  |  |
A5061 | A |  | Pouch drainable w barrier at |  |  |  |  |
A5062 | A |  | Drnble ostomy pouch w/o barr |  |  |  |  |
A5063 | A |  | Drain ostomy pouch w/flange |  |  |  |  |
A5071 | A |  | Urinary pouch w/barrier |  |  |  |  |
A5072 | A |  | Urinary pouch w/o barrier |  |  |  |  |
A5073 | A |  | Urinary pouch on barr w/flng |  |  |  |  |
A5081 | A |  | Continent stoma plug |  |  |  |  |
A5082 | A |  | Continent stoma catheter |  |  |  |  |
A5093 | A |  | Ostomy accessory convex inse |  |  |  |  |
A5102 | A |  | Bedside drain btl w/wo tube |  |  |  |  |
A5105 | A |  | Urinary suspensory |  |  |  |  |
A5112 | A |  | Urinary leg bag |  |  |  |  |
A5113 | A |  | Latex leg strap |  |  |  |  |
A5114 | A |  | Foam/fabric leg strap |  |  |  |  |
A5119 | A |  | Skin barrier wipes box pr 50 |  |  |  |  |
A5121 | A |  | Solid skin barrier 6x6 |  |  |  |  |
A5122 | A |  | Solid skin barrier 8x8 |  |  |  |  |
A5126 | A |  | Disk/foam pad +or- adhesive |  |  |  |  |
A5131 | A |  | Appliance cleaner |  |  |  |  |
A5200 | A |  | Percutaneous catheter anchor |  |  |  |  |
A5500 | A |  | Diab shoe for density insert |  |  |  |  |
A5501 | A |  | Diabetic custom molded shoe |  |  |  |  |
A5503 | A |  | Diabetic shoe w/roller/rockr |  |  |  |  |
A5504 | A |  | Diabetic shoe with wedge |  |  |  |  |
A5505 | A |  | Diab shoe w/metatarsal bar |  |  |  |  |
A5506 | A |  | Diabetic shoe w/off set heel |  |  |  |  |
A5507 | A |  | Modification diabetic shoe |  |  |  |  |
A5508 | A |  | Diabetic deluxe shoe |  |  |  |  |
A5509 | A |  | Direct heat form shoe insert |  |  |  |  |
A5510 | A |  | Compression form shoe insert |  |  |  |  |
A5511 | A |  | Custom fab molded shoe inser |  |  |  |  |
A6000 | E |  | Wound warming wound cover |  |  |  |  |
A6010 | A |  | Collagen based wound filler |  |  |  |  |
A6011 | A |  | Collagen gel/paste wound fil |  |  |  |  |
A6021 | A |  | Collagen dressing <=16 sq in |  |  |  |  |
A6022 | A |  | Collagen drsg>6<=48 sq in |  |  |  |  |
A6023 | A |  | Collagen dressing >48 sq in |  |  |  |  |
A6024 | A |  | Collagen dsg wound filler |  |  |  |  |
A6025 | E |  | Silicone gel sheet, each |  |  |  |  |
A6154 | A |  | Wound pouch each |  |  |  |  |
A6196 | A |  | Alginate dressing <=16 sq in |  |  |  |  |
A6197 | A |  | Alginate drsg >16 <=48 sq in |  |  |  |  |
A6198 | A |  | alginate dressing > 48 sq in |  |  |  |  |
A6199 | A |  | Alginate drsg wound filler |  |  |  |  |
A6200 | A |  | Compos drsg <=16 no border |  |  |  |  |
A6201 | A |  | Compos drsg >16<=48 no bdr |  |  |  |  |
A6202 | A |  | Compos drsg >48 no border |  |  |  |  |
A6203 | A |  | Composite drsg <= 16 sq in |  |  |  |  |
A6204 | A |  | Composite drsg >16<=48 sq in |  |  |  |  |
A6205 | A |  | Composite drsg > 48 sq in |  |  |  |  |
A6206 | A |  | Contact layer <= 16 sq in |  |  |  |  |
A6207 | A |  | Contact layer >16<= 48 sq in |  |  |  |  |
A6208 | A |  | Contact layer > 48 sq in |  |  |  |  |
A6209 | A |  | Foam drsg <=16 sq in w/o bdr |  |  |  |  |
A6210 | A |  | Foam drg >16<=48 sq in w/o b |  |  |  |  |
A6211 | A |  | Foam drg > 48 sq in w/o brdr |  |  |  |  |
A6212 | A |  | Foam drg <=16 sq in w/border |  |  |  |  |
A6213 | A |  | Foam drg >16<=48 sq in w/bdr |  |  |  |  |
A6214 | A |  | Foam drg > 48 sq in w/border |  |  |  |  |
A6215 | A |  | Foam dressing wound filler |  |  |  |  |
A6216 | A |  | Non-sterile gauze<=16 sq in |  |  |  |  |
A6217 | A |  | Non-sterile gauze>16<=48 sq |  |  |  |  |
A6218 | A |  | Non-sterile gauze > 48 sq in |  |  |  |  |
A6219 | A |  | Gauze <= 16 sq in w/border |  |  |  |  |
A6220 | A |  | Gauze >16 <=48 sq in w/bordr |  |  |  |  |
A6221 | A |  | Gauze > 48 sq in w/border |  |  |  |  |
A6222 | A |  | Gauze <=16 in no w/sal w/o b |  |  |  |  |
A6223 | A |  | Gauze >16<=48 no w/sal w/o b |  |  |  |  |
A6224 | A |  | Gauze > 48 in no w/sal w/o b |  |  |  |  |
A6228 | A |  | Gauze <= 16 sq in water/sal |  |  |  |  |
A6229 | A |  | Gauze >16<=48 sq in watr/sal |  |  |  |  |
A6230 | A |  | Gauze > 48 sq in water/salne |  |  |  |  |
A6231 | A |  | Hydrogel dsg<=16 sq in |  |  |  |  |
A6232 | A |  | Hydrogel dsg>16<=48 sq in |  |  |  |  |
A6233 | A |  | Hydrogel dressing >48 sq in |  |  |  |  |
A6234 | A |  | Hydrocolld drg <=16 w/o bdr |  |  |  |  |
A6235 | A |  | Hydrocolld drg >16<=48 w/o b |  |  |  |  |
A6236 | A |  | Hydrocolld drg > 48 in w/o b |  |  |  |  |
A6237 | A |  | Hydrocolld drg <=16 in w/bdr |  |  |  |  |
A6238 | A |  | Hydrocolld drg >16<=48 w/bdr |  |  |  |  |
A6239 | A |  | Hydrocolld drg > 48 in w/bdr |  |  |  |  |
A6240 | A |  | Hydrocolld drg filler paste |  |  |  |  |
A6241 | A |  | Hydrocolloid drg filler dry |  |  |  |  |
A6242 | A |  | Hydrogel drg <=16 in w/o bdr |  |  |  |  |
A6243 | A |  | Hydrogel drg >16<=48 w/o bdr |  |  |  |  |
A6244 | A |  | Hydrogel drg >48 in w/o bdr |  |  |  |  |
A6245 | A |  | Hydrogel drg <= 16 in w/bdr |  |  |  |  |
A6246 | A |  | Hydrogel drg >16<=48 in w/b |  |  |  |  |
A6247 | A |  | Hydrogel drg > 48 sq in w/b |  |  |  |  |
A6248 | A |  | Hydrogel drsg gel filler |  |  |  |  |
A6250 | A |  | Skin seal protect moisturizr |  |  |  |  |
A6251 | A |  | Absorpt drg <=16 sq in w/o b |  |  |  |  |
A6252 | A |  | Absorpt drg >16 <=48 w/o bdr |  |  |  |  |
A6253 | A |  | Absorpt drg > 48 sq in w/o b |  |  |  |  |
A6254 | A |  | Absorpt drg <=16 sq in w/bdr |  |  |  |  |
A6255 | A |  | Absorpt drg >16<=48 in w/bdr |  |  |  |  |
A6256 | A |  | Absorpt drg > 48 sq in w/bdr |  |  |  |  |
A6257 | A |  | Transparent film <= 16 sq in |  |  |  |  |
A6258 | A |  | Transparent film >16<=48 in |  |  |  |  |
A6259 | A |  | Transparent film > 48 sq in |  |  |  |  |
A6260 | A |  | Wound cleanser any type/size |  |  |  |  |
A6261 | A |  | Wound filler gel/paste /oz |  |  |  |  |
A6262 | A |  | Wound filler dry form / gram |  |  |  |  |
A6266 | A |  | Impreg gauze no h20/sal/yard |  |  |  |  |
A6402 | A |  | Sterile gauze <= 16 sq in |  |  |  |  |
A6403 | A |  | Sterile gauze>16 <= 48 sq in |  |  |  |  |
A6404 | A |  | Sterile gauze > 48 sq in |  |  |  |  |
A6410 | A |  | Sterile eye pad |  |  |  |  |
A6411 | A |  | Non-sterile eye pad |  |  |  |  |
A6412 | E |  | Occlusive eye patch |  |  |  |  |
A6421 | A |  | Pad bandage >=3 <5in w /roll |  |  |  |  |
A6422 | A |  | Conf bandage ns >=3<5“w/roll |  |  |  |  |
A6424 | A |  | Conf bandage ns >=5“w /roll |  |  |  |  |
A6426 | A |  | Conf bandage s >=3<5“ w/roll |  |  |  |  |
A6428 | A |  | Conf bandage s >=5“ w /roll |  |  |  |  |
A6430 | A |  | Lt compres bdg >=3<5“w /roll |  |  |  |  |
A6432 | A |  | Lt compres bdg >=5“w /roll |  |  |  |  |
A6434 | A |  | Mo compres bdg >=3<5“w /roll |  |  |  |  |
A6436 | A |  | Hi compres bdg >=3<5“w /roll |  |  |  |  |
A6438 | A |  | Self-adher bdg >=3<5“w /roll |  |  |  |  |
A6440 | A |  | Zinc paste bdg >=3<5“w /roll |  |  |  |  |
A6501 | A |  | Compres burngarment bodysuit |  |  |  |  |
A6502 | A |  | Compres burngarment chinstrp |  |  |  |  |
A6503 | A |  | Compres burngarment facehood |  |  |  |  |
A6504 | A |  | Cmprsburngarment glove-wrist |  |  |  |  |
A6505 | A |  | Cmprsburngarment glove-elbow |  |  |  |  |
A6506 | A |  | Cmprsburngrmnt glove-axilla |  |  |  |  |
A6507 | A |  | Cmprs burngarment foot-knee |  |  |  |  |
A6508 | A |  | Cmprs burngarment foot-thigh |  |  |  |  |
A6509 | A |  | Compres burn garment jacket |  |  |  |  |
A6510 | A |  | Compres burn garment leotard |  |  |  |  |
A6511 | A |  | Compres burn garment panty |  |  |  |  |
A6512 | A |  | Compres burn garment, noc |  |  |  |  |
A7000 | A |  | Disposable canister for pump |  |  |  |  |
A7001 | A |  | Nondisposable pump canister |  |  |  |  |
A7002 | A |  | Tubing used w suction pump |  |  |  |  |
A7003 | A |  | Nebulizer administration set |  |  |  |  |
A7004 | A |  | Disposable nebulizer sml vol |  |  |  |  |
A7005 | A |  | Nondisposable nebulizer set |  |  |  |  |
A7006 | A |  | Filtered nebulizer admin set |  |  |  |  |
A7007 | A |  | Lg vol nebulizer disposable |  |  |  |  |
A7008 | A |  | Disposable nebulizer prefill |  |  |  |  |
A7009 | A |  | Nebulizer reservoir bottle |  |  |  |  |
A7010 | A |  | Disposable corrugated tubing |  |  |  |  |
A7011 | A |  | Nondispos corrugated tubing |  |  |  |  |
A7012 | A |  | Nebulizer water collec devic |  |  |  |  |
A7013 | A |  | Disposable compressor filter |  |  |  |  |
A7014 | A |  | Compressor nondispos filter |  |  |  |  |
A7015 | A |  | Aerosol mask used w nebulize |  |  |  |  |
A7016 | A |  | Nebulizer dome & mouthpiece |  |  |  |  |
A7017 | A |  | Nebulizer not used w oxygen |  |  |  |  |
A7018 | A |  | Water distilled w/nebulizer |  |  |  |  |
A7019 | A |  | Saline solution dispenser |  |  |  |  |
A7020 | A |  | Sterile H2O or NSS w lgv neb |  |  |  |  |
A7025 | A |  | Replace chest compress vest |  |  |  |  |
A7026 | A |  | Replace chst cmprss sys hose |  |  |  |  |
A7030 | A |  | CPAP full face mask |  |  |  |  |
A7031 | A |  | Replacement facemask interfa |  |  |  |  |
A7032 | A |  | Replacement nasal cushion |  |  |  |  |
A7033 | A |  | Replacement nasal pillows |  |  |  |  |
A7034 | A |  | Nasal application device |  |  |  |  |
A7035 | A |  | Pos airway press headgear |  |  |  |  |
A7036 | A |  | Pos airway press chinstrap |  |  |  |  |
A7037 | A |  | Pos airway pressure tubing |  |  |  |  |
A7038 | A |  | Pos airway pressure filter |  |  |  |  |
A7039 | A |  | Filter, non disposable w pap |  |  |  |  |
A7042 | A |  | Implanted pleural catheter |  |  |  |  |
A7043 | A |  | Vacuum drainagebottle/tubing |  |  |  |  |
A7044 | A |  | PAP oral interface |  |  |  |  |
A7501 | A |  | Tracheostoma valve w diaphra |  |  |  |  |
A7502 | A |  | Replacement diaphragm/fplate |  |  |  |  |
A7503 | A |  | HMES filter holder or cap |  |  |  |  |
A7504 | A |  | Tracheostoma HMES filter |  |  |  |  |
A7505 | A |  | HMES or trach valve housing |  |  |  |  |
A7506 | A |  | HMES/trachvalve adhesivedisk |  |  |  |  |
A7507 | A |  | Integrated filter & holder |  |  |  |  |
A7508 | A |  | Housing & Integrated Adhesiv |  |  |  |  |
A7509 | A |  | Heat & moisture exchange sys |  |  |  |  |
A9150 | E |  | Misc/exper non-prescript dru |  |  |  |  |
A9270 | E |  | Non-covered item or service |  |  |  |  |
A9300 | E |  | Exercise equipment |  |  |  |  |
A9500 | N |  | Technetium TC 99m sestamibi |  |  |  |  |
A9502 | N |  | Technetium TC99M tetrofosmin |  |  |  |  |
A9503 | N |  | Technetium TC 99m medronate |  |  |  |  |
A9504 | N |  | Technetium tc 99m apcitide |  |  |  |  |
A9505 | N |  | Thallous chloride TL 201/mci |  |  |  |  |
A9507 | K |  | Indium/111 capromab pendetid | 1604 | 12.4029 | $673.34 |  | $134.67
A9508 | K |  | Iobenguane sulfate I-131, per 0.5 mCi | 1045 | 2.9293 | $159.03 |  | $31.81
A9510 | N |  | Technetium TC99m Disofenin |  |  |  |  |
A9511 | K |  | Technetium TC 99m depreotide | 1095 | 3.7042 | $201.10 |  | $40.22
A9512 | N |  | Technetiumtc99mpertechnetate |  |  |  |  |
A9513 | N |  | Technetium tc-99m mebrofenin |  |  |  |  |
A9514 | N |  | Technetiumtc99mpyrophosphate |  |  |  |  |
A9515 | N |  | Technetium tc-99m pentetate |  |  |  |  |
A9516 | N |  | I-123 sodium iodide capsule |  |  |  |  |
A9517 | K |  | I-131 sodium iodide capsule | 1064 | 0.1007 | $5.47 |  | $1.09
A9518 | K |  | I-131 sodium iodide solution | 1065 | 0.0002 | $.01 |  |
A9519 | N |  | Technetiumtc-99mmacroag albu |  |  |  |  |
A9520 | N |  | Technetiumtc-99m sulfur clld |  |  |  |  |
A9521 | K |  | Technetiumtc-99m exametazine | 1096 | 3.8103 | $206.86 |  | $41.37
A9522 | K |  | Indium111ibritumomabtiuxetan | 9118 | 38.3972 | $2,084.55 |  | $416.91
A9523 | K |  | Yttrium90ibritumomabtiuxetan | 9117 | 332.7763 | $18,066.09 |  | $3,613.22
A9524 | K |  | Iodinated I-131 serumalbumin, per 5uci | 9100 | 0.0071 | $.39 |  | $.08
A9600 | K |  | Strontium-89 chloride | 0701 | 7.4586 | $404.92 |  | $80.98
A9605 | K |  | Samarium sm153 lexidronamm | 0702 | 16.1415 | $876.31 |  | $175.26
A9699 | N |  | Noc therapeutic radiopharm |  |  |  |  |
A9700 | E |  | Echocardiography Contrast |  |  |  |  |
A9900 | A |  | Supply/accessory/service |  |  |  |  |
A9901 | A |  | Delivery/set up/dispensing |  |  |  |  |
B4034 | A |  | Enter feed supkit syr by day |  |  |  |  |
B4035 | A |  | Enteral feed supp pump per d |  |  |  |  |
B4036 | A |  | Enteral feed sup kit grav by |  |  |  |  |
B4081 | A |  | Enteral ng tubing w/ stylet |  |  |  |  |
B4082 | A |  | Enteral ng tubing w/o stylet |  |  |  |  |
B4083 | A |  | Enteral stomach tube levine |  |  |  |  |
B4086 | A |  | Gastrostomy/jejunostomy tube |  |  |  |  |
B4100 | E |  | Food thickener oral |  |  |  |  |
B4150 | A |  | Enteral formulae category i |  |  |  |  |
B4151 | A |  | Enteral formulae cat1natural |  |  |  |  |
B4152 | A |  | Enteral formulae category ii |  |  |  |  |
B4153 | A |  | Enteral formulae categoryIII |  |  |  |  |
B4154 | A |  | Enteral formulae category IV |  |  |  |  |
B4155 | A |  | Enteral formulae category v |  |  |  |  |
B4156 | A |  | Enteral formulae category vi |  |  |  |  |
B4164 | A |  | Parenteral 50% dextrose solu |  |  |  |  |
B4168 | A |  | Parenteral sol amino acid 3. |  |  |  |  |
B4172 | A |  | Parenteral sol amino acid 5. |  |  |  |  |
B4176 | A |  | Parenteral sol amino acid 7- |  |  |  |  |
B4178 | A |  | Parenteral sol amino acid > |  |  |  |  |
B4180 | A |  | Parenteral sol carb > 50% |  |  |  |  |
B4184 | A |  | Parenteral sol lipids 10% |  |  |  |  |
B4186 | A |  | Parenteral sol lipids 20% |  |  |  |  |
B4189 | A |  | Parenteral sol amino acid & |  |  |  |  |
B4193 | A |  | Parenteral sol 52-73 gm prot |  |  |  |  |
B4197 | A |  | Parenteral sol 74-100 gm pro |  |  |  |  |
B4199 | A |  | Parenteral sol > 100gm prote |  |  |  |  |
B4216 | A |  | Parenteral nutrition additiv |  |  |  |  |
B4220 | A |  | Parenteral supply kit premix |  |  |  |  |
B4222 | A |  | Parenteral supply kit homemi |  |  |  |  |
B4224 | A |  | Parenteral administration ki |  |  |  |  |
B5000 | A |  | Parenteral sol renal-amirosy |  |  |  |  |
B5100 | A |  | Parenteral sol hepatic-fream |  |  |  |  |
B5200 | A |  | Parenteral sol stres-brnch c |  |  |  |  |
B9000 | A |  | Enter infusion pump w/o alrm |  |  |  |  |
B9002 | A |  | Enteral infusion pump w/ ala |  |  |  |  |
B9004 | A |  | Parenteral infus pump portab |  |  |  |  |
B9006 | A |  | Parenteral infus pump statio |  |  |  |  |
B9998 | A |  | Enteral supp not otherwise c |  |  |  |  |
B9999 | A |  | Parenteral supp not othrws c |  |  |  |  |
C1010 | K |  | Blood, L/R, CMV-NEG | 1010 | 2.1361 | $115.97 |  | $23.19
C1011 | K |  | Platelets, HLA-m, L/R, unit | 1011 | 8.2851 | $449.79 |  | $89.96
C1015 | K |  | Plt, pher,L/R,CMV, irrad | 1020 | 9.6266 | $522.62 |  | $104.52
C1016 | K |  | BLOOD,L/R,FROZ/DEGLY/Washed | 1016 | 5.0012 | $271.51 |  | $54.30
C1017 | K |  | Plt, APH/PHER,L/R,CMV-NEG | 1017 | 6.5175 | $353.83 |  | $70.77
C1018 | K |  | Blood, L/R, IRRADIATED | 1018 | 2.1950 | $119.16 |  | $23.83
C1020 | K |  | RBC, frz/deg/wsh, L/R, irrad | 1021 | 6.5287 | $354.44 |  | $70.89
C1021 | K |  | RBC, L/R, CMV neg, irrad | 1022 | 3.9139 | $212.48 |  | $42.50
C1022 | K |  | Plasma, frz within 24 hour | 0955 | 1.5750 | $85.51 |  | $17.10
C1079 | N |  | CO 57/58 per 0.5 uCi |  |  |  |  |
C1088 | T |  | LASER OPTIC TR Sys | 1557 |  | $1,850.00 |  | $370.00
C1091 | K |  | IN111 oxyquinoline,per0.5mCi | 1091 | 4.0535 | $220.06 |  | $44.01
C1092 | K |  | IN 111 pentetate per 0.5 mCi | 1092 | 4.0824 | $221.63 |  | $44.33
C1122 | K |  | Tc 99M ARCITUMOMAB PER VIAL | 1122 | 9.6556 | $524.19 |  | $104.84
C1166 | N |  | CYTARABINE LIPOSOMAL, 10 mg |  |  |  |  |
C1167 | K |  | EPIRUBICIN HCL, 2 mg | 1167 | 0.3597 | $19.53 |  | $3.91
C1178 | K |  | BUSULFAN IV, 6 Mg | 1178 | 6.0245 | $327.06 |  | $65.41
C1200 | N |  | TC 99M Sodium Glucoheptonat |  |  |  |  |
C1201 | N |  | TC 99M SUCCIMER, PER Vial |  |  |  |  |
C1300 | S |  | HYPERBARIC Oxygen | 0659 | 3.2220 | $174.92 |  | $34.98
C1305 | K |  | Apligraf | 1305 | 11.2075 | $608.44 |  | $121.69
C1716 | K |  | Brachytx source, Gold 198 | 1716 | 1.3399 | $72.74 |  | $14.55
C1718 | K |  | Brachytx source, Iodine 125 | 1718 | 0.6695 | $36.35 |  | $7.27
C1719 | K |  | Brachytx sour,Non-HDR Ir-192 | 1719 | 0.3053 | $16.57 |  | $3.31
C1720 | K |  | Brachytx sour, Palladium 103 | 1720 | 0.8104 | $44.00 |  | $8.80
C1765 | N |  | Adhesion barrier |  |  |  |  |
C1774 | K |  | Darbepoetin alfa, 1 mcg | 0734 | 0.0463 | $2.51 |  | $.50
C1775 | K |  | FDG, per dose (4-40 mCi/ml) | 1775 | 5.8606 | $318.17 |  | $63.63
C1783 | H |  | Ocular imp, aqueous drain dev | 1783 |  |  |  |
C1814 | H |  | Retinal tamp, silicone oil | 1814 |  |  |  |
C1818 | H |  | Integrated keratoprosthesis | 1818 |  |  |  |
C1900 | H |  | Lead coronary venous | 1900 |  |  |  |
C2614 | H |  | Probe, perc lumb disc | 2614 |  |  |  |
C2616 | K |  | Brachytx source, Yttrium-90 | 2616 | 163.4011 | $8,870.88 |  | $1,774.18
C2618 | N |  | Probe, cryoablation |  |  |  |  |
C2632 | H |  | Brachytx sol, I-125, per mCi | 2632 |  |  |  |
C8900 | S |  | MRA w/cont, abd | 0284 | 7.0207 | $381.15 | $190.57 | $76.23
C8901 | S |  | MRA w/o cont, abd | 0336 | 6.4817 | $351.89 | $175.94 | $70.38
C8902 | S |  | MRA w/o fol w/cont, abd | 0337 | 9.3215 | $506.05 | $240.77 | $101.21
C8903 | S |  | MRI w/cont, breast, uni | 0284 | 7.0207 | $381.15 | $190.57 | $76.23
C8904 | S |  | MRI w/o cont, breast, uni | 0336 | 6.4817 | $351.89 | $175.94 | $70.38
C8905 | S |  | MRI w/o fol w/cont, brst, un | 0337 | 9.3215 | $506.05 | $240.77 | $101.21
C8906 | S |  | MRI w/cont, breast, bi | 0284 | 7.0207 | $381.15 | $190.57 | $76.23
C8907 | S |  | MRI w/o cont, breast, bi | 0336 | 6.4817 | $351.89 | $175.94 | $70.38
C8908 | S |  | MRI w/o fol w/cont, breast, | 0337 | 9.3215 | $506.05 | $240.77 | $101.21
C8909 | S |  | MRA w/cont, chest | 0284 | 7.0207 | $381.15 | $190.57 | $76.23
C8910 | S |  | MRA w/o cont, chest | 0336 | 6.4817 | $351.89 | $175.94 | $70.38
C8911 | S |  | MRA w/o fol w/cont, chest | 0337 | 9.3215 | $506.05 | $240.77 | $101.21
C8912 | S |  | MRA w/cont, lwr ext | 0284 | 7.0207 | $381.15 | $190.57 | $76.23
C8913 | S |  | MRA w/o cont, lwr ext | 0336 | 6.4817 | $351.89 | $175.94 | $70.38
C8914 | S |  | MRA w/o fol w/cont, lwr ext | 0337 | 9.3215 | $506.05 | $240.77 | $101.21
C8918 | S |  | MRA w/cont, pelvis | 0284 | 7.0207 | $381.15 | $190.57 | $76.23
C8919 | S |  | MRA w/o cont, pelvis | 0336 | 6.4817 | $351.89 | $175.94 | $70.38
C8920 | S |  | MRA w/o fol w/cont, pelvis | 0337 | 9.3215 | $506.05 | $240.77 | $101.21
C9000 | K |  | Na chromateCr51, per 0.25mCi | 9000 | 1.2631 | $68.57 |  | $13.71
C9003 | K |  | Palivizumab, per 50 mg | 9003 | 6.3850 | $346.64 |  | $69.33
C9007 | N |  | Baclofen Intrathecal kit-1am |  |  |  |  |
C9008 | N |  | Baclofen Refill Kit-500mcg |  |  |  |  |
C9009 | K |  | Baclofen Refill Kit-2000mcg | 9009 | 0.7478 | $40.60 |  | $8.12
C9010 | K |  | Baclofen Refill Kit--4000mcg | 9010 | 0.7340 | $39.85 |  | $7.97
C9013 | N |  | Co 57 cobaltous chloride |  |  |  |  |
C9102 | N |  | 51 Na Chromate, 50mCi |  |  |  |  |
C9103 | N |  | Na Iothalamate I-125, 10 uCi |  |  |  |  |
C9105 | K |  | Hep B imm glob, per 1 ml | 9105 | 1.5621 | $84.80 |  | $16.96
C9109 | K |  | Tirofiban hcl, 6.25 mg | 9109 | 2.2328 | $121.22 |  | $24.24
C9111 | G |  | Inj, bivalirudin, 250mg vial | 9111 |  | $397.81 |  | $59.46
C9112 | G |  | Perflutren lipid micro, 2ml | 9112 |  | $148.20 |  | $22.15
C9113 | G |  | Inj pantoprazole sodium, via | 9113 |  | $22.80 |  | $3.41
C9116 | G |  | Ertapenem sodium, per 1 gm | 9116 |  | $45.31 |  | $6.77
C9120 | G |  | Injection, fulvestrant | 9120 |  | $175.16 |  | $26.18
C9121 | G |  | Injection, argatroban | 9121 |  | $14.25 |  | $2.13
C9200 | G |  | Orcel, per 36 cm2 | 9200 |  | $1,135.25 |  | $169.69
C9201 | K |  | Dermagraft, per 37.5 sq cm | 9201 | 7.9288 | $430.45 |  | $86.09
C9202 | K |  | Octafluoropropane | 9202 | 2.1253 | $115.38 |  | $23.08
C9203 | G |  | Perflexane lipid micro | 9203 |  | $142.50 |  | $21.30
C9204 | G |  | Ziprasidone mesylate | 9204 |  | $41.56 |  | $6.21
C9205 | G |  | Oxaliplatin | 9205 |  | $94.46 |  | $14.12
C9503 | K |  | Fresh frozen plasma, ea unit | 9503 | 1.1560 | $62.76 |  | $12.55
C9701 | T |  | Stretta System | 1557 |  | $1,850.00 |  | $370.00
C9703 | T |  | Bard Endoscopic Suturing Sys | 1555 |  | $1,650.00 |  | $330.00
C9711 | T |  | H.E.L.P. Apheresis System | 1552 |  | $1,350.00 |  | $270.00
D0120 | E |  | Periodic oral evaluation |  |  |  |  |
D0140 | E |  | Limit oral eval problm focus |  |  |  |  |
D0150 | S |  | Comprehensve oral evaluation | 0330 | 0.5609 | $30.45 | $6.09 | $6.09
D0160 | E |  | Extensv oral eval prob focus |  |  |  |  |
D0170 | E |  | Re-eval,est pt,problem focus |  |  |  |  |
D0180 | E |  | Comp periodontal evaluation |  |  |  |  |
D0210 | E |  | Intraor complete film series |  |  |  |  |
D0220 | E |  | Intraoral periapical first f |  |  |  |  |
D0230 | E |  | Intraoral periapical ea add |  |  |  |  |
D0240 | S |  | Intraoral occlusal film | 0330 | 0.5609 | $30.45 | $6.09 | $6.09
D0250 | S |  | Extraoral first film | 0330 | 0.5609 | $30.45 | $6.09 | $6.09
D0260 | S |  | Extraoral ea additional film | 0330 | 0.5609 | $30.45 | $6.09 | $6.09
D0270 | S |  | Dental bitewing single film | 0330 | 0.5609 | $30.45 | $6.09 | $6.09
D0272 | S |  | Dental bitewings two films | 0330 | 0.5609 | $30.45 | $6.09 | $6.09
D0274 | S |  | Dental bitewings four films | 0330 | 0.5609 | $30.45 | $6.09 | $6.09
D0277 | S |  | Vert bitewings-sev to eight | 0330 | 0.5609 | $30.45 | $6.09 | $6.09
D0290 | E |  | Dental film skull/facial bon |  |  |  |  |
D0310 | E |  | Dental saliography |  |  |  |  |
D0320 | E |  | Dental tmj arthrogram incl i |  |  |  |  |
D0321 | E |  | Dental other tmj films |  |  |  |  |
D0322 | E |  | Dental tomographic survey |  |  |  |  |
D0330 | E |  | Dental panoramic film |  |  |  |  |
D0340 | E |  | Dental cephalometric film |  |  |  |  |
D0350 | E |  | Oral/facial images |  |  |  |  |
D0415 | E |  | Bacteriologic study |  |  |  |  |
D0425 | E |  | Caries susceptibility test |  |  |  |  |
D0460 | S |  | Pulp vitality test | 0330 | 0.5609 | $30.45 | $6.09 | $6.09
D0470 | E |  | Diagnostic casts |  |  |  |  |
D0472 | S |  | Gross exam, prep & report | 0330 | 0.5609 | $30.45 | $6.09 | $6.09
D0473 | S |  | Micro exam, prep & report | 0330 | 0.5609 | $30.45 | $6.09 | $6.09
D0474 | S |  | Micro w exam of surg margins | 0330 | 0.5609 | $30.45 | $6.09 | $6.09
D0480 | S |  | Cytopath smear prep & report | 0330 | 0.5609 | $30.45 | $6.09 | $6.09
D0502 | S |  | Other oral pathology procedu | 0330 | 0.5609 | $30.45 | $6.09 | $6.09
D0999 | S |  | Unspecified diagnostic proce | 0330 | 0.5609 | $30.45 | $6.09 | $6.09
D1110 | E |  | Dental prophylaxis adult |  |  |  |  |
D1120 | E |  | Dental prophylaxis child |  |  |  |  |
D1201 | E |  | Topical fluor w prophy child |  |  |  |  |
D1203 | E |  | Topical fluor w/o prophy chi |  |  |  |  |
D1204 | E |  | Topical fluor w/o prophy adu |  |  |  |  |
D1205 | E |  | Topical fluoride w/ prophy a |  |  |  |  |
D1310 | E |  | Nutri counsel-control caries |  |  |  |  |
D1320 | E |  | Tobacco counseling |  |  |  |  |
D1330 | E |  | Oral hygiene instruction |  |  |  |  |
D1351 | E |  | Dental sealant per tooth |  |  |  |  |
D1510 | S |  | Space maintainer fxd unilat | 0330 | 0.5609 | $30.45 | $6.09 | $6.09
D1515 | S |  | Fixed bilat space maintainer | 0330 | 0.5609 | $30.45 | $6.09 | $6.09
D1520 | S |  | Remove unilat space maintain | 0330 | 0.5609 | $30.45 | $6.09 | $6.09
D1525 | S |  | Remove bilat space maintain | 0330 | 0.5609 | $30.45 | $6.09 | $6.09
D1550 | S |  | Recement space maintainer | 0330 | 0.5609 | $30.45 | $6.09 | $6.09
D2140 | E |  | Amalgam one surface permanen |  |  |  |  |
D2150 | E |  | Amalgam two surfaces permane |  |  |  |  |
D2160 | E |  | Amalgam three surfaces perma |  |  |  |  |
D2161 | E |  | Amalgam 4 or > surfaces perm |  |  |  |  |
D2330 | E |  | Resin one surface-anterior |  |  |  |  |
D2331 | E |  | Resin two surfaces-anterior |  |  |  |  |
D2332 | E |  | Resin three surfaces-anterio |  |  |  |  |
D2335 | E |  | Resin 4/> surf or w incis an |  |  |  |  |
D2390 | E |  | Ant resin-based cmpst crown |  |  |  |  |
D2391 | E |  | Post 1 srfc resinbased cmpst |  |  |  |  |
D2392 | E |  | Post 2 srfc resinbased cmpst |  |  |  |  |
D2393 | E |  | Post 3 srfc resinbased cmpst |  |  |  |  |
D2394 | E |  | Post >=4srfc resinbase cmpst |  |  |  |  |
D2410 | E |  | Dental gold foil one surface |  |  |  |  |
D2420 | E |  | Dental gold foil two surface |  |  |  |  |
D2430 | E |  | Dental gold foil three surfa |  |  |  |  |
D2510 | E |  | Dental inlay metalic 1 surf |  |  |  |  |
D2520 | E |  | Dental inlay metallic 2 surf |  |  |  |  |
D2530 | E |  | Dental inlay metl 3/more sur |  |  |  |  |
D2542 | E |  | Dental onlay metallic 2 surf |  |  |  |  |
D2543 | E |  | Dental onlay metallic 3 surf |  |  |  |  |
D2544 | E |  | Dental onlay metl 4/more sur |  |  |  |  |
D2610 | E |  | Inlay porcelain/ceramic 1 su |  |  |  |  |
D2620 | E |  | Inlay porcelain/ceramic 2 su |  |  |  |  |
D2630 | E |  | Dental onlay porc 3/more sur |  |  |  |  |
D2642 | E |  | Dental onlay porcelin 2 surf |  |  |  |  |
D2643 | E |  | Dental onlay porcelin 3 surf |  |  |  |  |
D2644 | E |  | Dental onlay porc 4/more sur |  |  |  |  |
D2650 | E |  | Inlay composite/resin one su |  |  |  |  |
D2651 | E |  | Inlay composite/resin two su |  |  |  |  |
D2652 | E |  | Dental inlay resin 3/mre sur |  |  |  |  |
D2662 | E |  | Dental onlay resin 2 surface |  |  |  |  |
D2663 | E |  | Dental onlay resin 3 surface |  |  |  |  |
D2664 | E |  | Dental onlay resin 4/mre sur |  |  |  |  |
D2710 | E |  | Crown resin laboratory |  |  |  |  |
D2720 | E |  | Crown resin w/ high noble me |  |  |  |  |
D2721 | E |  | Crown resin w/ base metal |  |  |  |  |
D2722 | E |  | Crown resin w/ noble metal |  |  |  |  |
D2740 | E |  | Crown porcelain/ceramic subs |  |  |  |  |
D2750 | E |  | Crown porcelain w/ h noble m |  |  |  |  |
D2751 | E |  | Crown porcelain fused base m |  |  |  |  |
D2752 | E |  | Crown porcelain w/ noble met |  |  |  |  |
D2780 | E |  | Crown 3/4 cast hi noble met |  |  |  |  |
D2781 | E |  | Crown 3/4 cast base metal |  |  |  |  |
D2782 | E |  | Crown 3/4 cast noble metal |  |  |  |  |
D2783 | E |  | Crown 3/4 porcelain/ceramic |  |  |  |  |
D2790 | E |  | Crown full cast high noble m |  |  |  |  |
D2791 | E |  | Crown full cast base metal |  |  |  |  |
D2792 | E |  | Crown full cast noble metal |  |  |  |  |
D2799 | E |  | Provisional crown |  |  |  |  |
D2910 | E |  | Dental recement inlay |  |  |  |  |
D2920 | E |  | Dental recement crown |  |  |  |  |
D2930 | E |  | Prefab stnlss steel crwn pri |  |  |  |  |
D2931 | E |  | Prefab stnlss steel crown pe |  |  |  |  |
D2932 | E |  | Prefabricated resin crown |  |  |  |  |
D2933 | E |  | Prefab stainless steel crown |  |  |  |  |
D2940 | E |  | Dental sedative filling |  |  |  |  |
D2950 | E |  | Core build-up incl any pins |  |  |  |  |
D2951 | E |  | Tooth pin retention |  |  |  |  |
D2952 | E |  | Post and core cast + crown |  |  |  |  |
D2953 | E |  | Each addtnl cast post |  |  |  |  |
D2954 | E |  | Prefab post/core + crown |  |  |  |  |
D2955 | E |  | Post removal |  |  |  |  |
D2957 | E |  | Each addtnl prefab post |  |  |  |  |
D2960 | E |  | Laminate labial veneer |  |  |  |  |
D2961 | E |  | Lab labial veneer resin |  |  |  |  |
D2962 | E |  | Lab labial veneer porcelain |  |  |  |  |
D2970 | S |  | Temporary- fractured tooth | 0330 | 0.5609 | $30.45 | $6.09 | $6.09
D2980 | E |  | Crown repair |  |  |  |  |
D2999 | S |  | Dental unspec restorative pr | 0330 | 0.5609 | $30.45 | $6.09 | $6.09
D3110 | E |  | Pulp cap direct |  |  |  |  |
D3120 | E |  | Pulp cap indirect |  |  |  |  |
D3220 | E |  | Therapeutic pulpotomy |  |  |  |  |
D3221 | E |  | Gross pulpal debridement |  |  |  |  |
D3230 | E |  | Pulpal therapy anterior prim |  |  |  |  |
D3240 | E |  | Pulpal therapy posterior pri |  |  |  |  |
D3310 | E |  | Anterior |  |  |  |  |
D3320 | E |  | Root canal therapy 2 canals |  |  |  |  |
D3330 | E |  | Root canal therapy 3 canals |  |  |  |  |
D3331 | E |  | Non-surg tx root canal obs |  |  |  |  |
D3332 | E |  | Incomplete endodontic tx |  |  |  |  |
D3333 | E |  | Internal root repair |  |  |  |  |
D3346 | E |  | Retreat root canal anterior |  |  |  |  |
D3347 | E |  | Retreat root canal bicuspid |  |  |  |  |
D3348 | E |  | Retreat root canal molar |  |  |  |  |
D3351 | E |  | Apexification/recalc initial |  |  |  |  |
D3352 | E |  | Apexification/recalc interim |  |  |  |  |
D3353 | E |  | Apexification/recalc final |  |  |  |  |
D3410 | E |  | Apicoect/perirad surg anter |  |  |  |  |
D3421 | E |  | Root surgery bicuspid |  |  |  |  |
D3425 | E |  | Root surgery molar |  |  |  |  |
D3426 | E |  | Root surgery ea add root |  |  |  |  |
D3430 | E |  | Retrograde filling |  |  |  |  |
D3450 | E |  | Root amputation |  |  |  |  |
D3460 | S |  | Endodontic endosseous implan | 0330 | 0.5609 | $30.45 | $6.09 | $6.09
D3470 | E |  | Intentional replantation |  |  |  |  |
D3910 | E |  | Isolation- tooth w rubb dam |  |  |  |  |
D3920 | E |  | Tooth splitting |  |  |  |  |
D3950 | E |  | Canal prep/fitting of dowel |  |  |  |  |
D3999 | S |  | Endodontic procedure | 0330 | 0.5609 | $30.45 | $6.09 | $6.09
D4210 | E |  | Gingivectomy/plasty per quad |  |  |  |  |
D4211 | E |  | Gingivectomy/plasty per toot |  |  |  |  |
D4240 | E |  | Gingival flap proc w/ planin |  |  |  |  |
D4241 | E |  | Gngvl flap w rootplan 1-3 th |  |  |  |  |
D4245 | E |  | Apically positioned flap |  |  |  |  |
D4249 | E |  | Crown lengthen hard tissue |  |  |  |  |
D4260 | S |  | Osseous surgery per quadrant | 0330 | 0.5609 | $30.45 | $6.09 | $6.09
D4261 | E |  | Osseous surgl-3teethperquad |  |  |  |  |
D4263 | S |  | Bone replce graft first site | 0330 | 0.5609 | $30.45 | $6.09 | $6.09
D4264 | S |  | Bone replce graft each add | 0330 | 0.5609 | $30.45 | $6.09 | $6.09
D4265 | E |  | Bio mtrls to aid soft/os reg |  |  |  |  |
D4266 | E |  | Guided tiss regen resorble |  |  |  |  |
D4267 | E |  | Guided tiss regen nonresorb |  |  |  |  |
D4268 | S |  | Surgical revision procedure | 0330 | 0.5609 | $30.45 | $6.09 | $6.09
D4270 | S |  | Pedicle soft tissue graft pr | 0330 | 0.5609 | $30.45 | $6.09 | $6.09
D4271 | S |  | Free soft tissue graft proc | 0330 | 0.5609 | $30.45 | $6.09 | $6.09
D4273 | S |  | Subepithelial tissue graft | 0330 | 0.5609 | $30.45 | $6.09 | $6.09
D4274 | E |  | Distal/proximal wedge proc |  |  |  |  |
D4275 | E |  | Soft tissue allograft |  |  |  |  |
D4276 | E |  | Con tissue w dble ped graft |  |  |  |  |
D4320 | E |  | Provision splnt intracoronal |  |  |  |  |
D4321 | E |  | Provisional splint extracoro |  |  |  |  |
D4341 | E |  | Periodontal scaling & root |  |  |  |  |
D4342 | E |  | Periodontal scaling 1-3teeth |  |  |  |  |
D4355 | S |  | Full mouth debridement | 0330 | 0.5609 | $30.45 | $6.09 | $6.09
D4381 | S |  | Localized chemo delivery | 0330 | 0.5609 | $30.45 | $6.09 | $6.09
D4910 | E |  | Periodontal maint procedures |  |  |  |  |
D4920 | E |  | Unscheduled dressing change |  |  |  |  |
D4999 | E |  | Unspecified periodontal proc |  |  |  |  |
D5110 | E |  | Dentures complete maxillary |  |  |  |  |
D5120 | E |  | Dentures complete mandible |  |  |  |  |
D5130 | E |  | Dentures immediat maxillary |  |  |  |  |
D5140 | E |  | Dentures immediat mandible |  |  |  |  |
D5211 | E |  | Dentures maxill part resin |  |  |  |  |
D5212 | E |  | Dentures mand part resin |  |  |  |  |
D5213 | E |  | Dentures maxill part metal |  |  |  |  |
D5214 | E |  | Dentures mandibl part metal |  |  |  |  |
D5281 | E |  | Removable partial denture |  |  |  |  |
D5410 | E |  | Dentures adjust cmplt maxil |  |  |  |  |
D5411 | E |  | Dentures adjust cmplt mand |  |  |  |  |
D5421 | E |  | Dentures adjust part maxill |  |  |  |  |
D5422 | E |  | Dentures adjust part mandbl |  |  |  |  |
D5510 | E |  | Dentur repr broken compl bas |  |  |  |  |
D5520 | E |  | Replace denture teeth complt |  |  |  |  |
D5610 | E |  | Dentures repair resin base |  |  |  |  |
D5620 | E |  | Rep part denture cast frame |  |  |  |  |
D5630 | E |  | Rep partial denture clasp |  |  |  |  |
D5640 | E |  | Replace part denture teeth |  |  |  |  |
D5650 | E |  | Add tooth to partial denture |  |  |  |  |
D5660 | E |  | Add clasp to partial denture |  |  |  |  |
D5670 | E |  | Replc tth&acrlc on mtl frmwk |  |  |  |  |
D5671 | E |  | Replc tth&acrlc mandibular |  |  |  |  |
D5710 | E |  | Dentures rebase cmplt maxil |  |  |  |  |
D5711 | E |  | Dentures rebase cmplt mand |  |  |  |  |
D5720 | E |  | Dentures rebase part maxill |  |  |  |  |
D5721 | E |  | Dentures rebase part mandbl |  |  |  |  |
D5730 | E |  | Denture reln cmplt maxil ch |  |  |  |  |
D5731 | E |  | Denture reln cmplt mand chr |  |  |  |  |
D5740 | E |  | Denture reln part maxil chr |  |  |  |  |
D5741 | E |  | Denture reln part mand chr |  |  |  |  |
D5750 | E |  | Denture reln cmplt max lab |  |  |  |  |
D5751 | E |  | Denture reln cmplt mand lab |  |  |  |  |
D5760 | E |  | Denture reln part maxil lab |  |  |  |  |
D5761 | E |  | Denture reln part mand lab |  |  |  |  |
D5810 | E |  | Denture interm cmplt maxill |  |  |  |  |
D5811 | E |  | Denture interm cmplt mandbl |  |  |  |  |
D5820 | E |  | Denture interm part maxill |  |  |  |  |
D5821 | E |  | Denture interm part mandbl |  |  |  |  |
D5850 | E |  | Denture tiss conditn maxill |  |  |  |  |
D5851 | E |  | Denture tiss condtin mandbl |  |  |  |  |
D5860 | E |  | Overdenture complete |  |  |  |  |
D5861 | E |  | Overdenture partial |  |  |  |  |
D5862 | E |  | Precision attachment |  |  |  |  |
D5867 | E |  | Replacement of precision att |  |  |  |  |
D5875 | E |  | Prosthesis modification |  |  |  |  |
D5899 | E |  | Removable prosthodontic proc |  |  |  |  |
D5911 | S |  | Facial moulage sectional | 0330 | 0.5609 | $30.45 | $6.09 | $6.09
D5912 | S |  | Facial moulage complete | 0330 | 0.5609 | $30.45 | $6.09 | $6.09
D5913 | E |  | Nasal prosthesis |  |  |  |  |
D5914 | E |  | Auricular prosthesis |  |  |  |  |
D5915 | E |  | Orbital prosthesis |  |  |  |  |
D5916 | E |  | Ocular prosthesis |  |  |  |  |
D5919 | E |  | Facial prosthesis |  |  |  |  |
D5922 | E |  | Nasal septal prosthesis |  |  |  |  |
D5923 | E |  | Ocular prosthesis interim |  |  |  |  |
D5924 | E |  | Cranial prosthesis |  |  |  |  |
D5925 | E |  | Facial augmentation implant |  |  |  |  |
D5926 | E |  | Replacement nasal prosthesis |  |  |  |  |
D5927 | E |  | Auricular replacement |  |  |  |  |
D5928 | E |  | Orbital replacement |  |  |  |  |
D5929 | E |  | Facial replacement |  |  |  |  |
D5931 | E |  | Surgical obturator |  |  |  |  |
D5932 | E |  | Postsurgical obturator |  |  |  |  |
D5933 | E |  | Refitting of obturator |  |  |  |  |
D5934 | E |  | Mandibular flange prosthesis |  |  |  |  |
D5935 | E |  | Mandibular denture prosth |  |  |  |  |
D5936 | E |  | Temp obturator prosthesis |  |  |  |  |
D5937 | E |  | Trismus appliance |  |  |  |  |
D5951 | E |  | Feeding aid |  |  |  |  |
D5952 | E |  | Pediatric speech aid |  |  |  |  |
D5953 | E |  | Adult speech aid |  |  |  |  |
D5954 | E |  | Superimposed prosthesis |  |  |  |  |
D5955 | E |  | Palatal lift prosthesis |  |  |  |  |
D5958 | E |  | Intraoral con def inter plt |  |  |  |  |
D5959 | E |  | Intraoral con def mod palat |  |  |  |  |
D5960 | E |  | Modify speech aid prosthesis |  |  |  |  |
D5982 | E |  | Surgical stent |  |  |  |  |
D5983 | S |  | Radiation applicator | 0330 | 0.5609 | $30.45 | $6.09 | $6.09
D5984 | S |  | Radiation shield | 0330 | 0.5609 | $30.45 | $6.09 | $6.09
D5985 | S |  | Radiation cone locator | 0330 | 0.5609 | $30.45 | $6.09 | $6.09
D5986 | E |  | Fluoride applicator |  |  |  |  |
D5987 | S |  | Commissure splint | 0330 | 0.5609 | $30.45 | $6.09 | $6.09
D5988 | E |  | Surgical splint |  |  |  |  |
D5999 | E |  | Maxillofacial prosthesis |  |  |  |  |
D6010 | E |  | Odontics endosteal implant |  |  |  |  |
D6020 | E |  | Odontics abutment placement |  |  |  |  |
D6040 | E |  | Odontics eposteal implant |  |  |  |  |
D6050 | E |  | Odontics transosteal implnt |  |  |  |  |
D6053 | E |  | Implnt/abtmnt spprt remv dnt |  |  |  |  |
D6054 | E |  | Implnt/abtmnt spprt remvprtl |  |  |  |  |
D6055 | E |  | Implant connecting bar |  |  |  |  |
D6056 | E |  | Prefabricated abutment |  |  |  |  |
D6057 | E |  | Custom abutment |  |  |  |  |
D6058 | E |  | Abutment supported crown |  |  |  |  |
D6059 | E |  | Abutment supported mtl crown |  |  |  |  |
D6060 | E |  | Abutment supported mtl crown |  |  |  |  |
D6061 | E |  | Abutment supported mtl crown |  |  |  |  |
D6062 | E |  | Abutment supported mtl crown |  |  |  |  |
D6063 | E |  | Abutment supported mtl crown |  |  |  |  |
D6064 | E |  | Abutment supported mtl crown |  |  |  |  |
D6065 | E |  | Implant supported crown |  |  |  |  |
D6066 | E |  | Implant supported mtl crown |  |  |  |  |
D6067 | E |  | Implant supported mtl crown |  |  |  |  |
D6068 | E |  | Abutment supported retainer |  |  |  |  |
D6069 | E |  | Abutment supported retainer |  |  |  |  |
D6070 | E |  | Abutment supported retainer |  |  |  |  |
D6071 | E |  | Abutment supported retainer |  |  |  |  |
D6072 | E |  | Abutment supported retainer |  |  |  |  |
D6073 | E |  | Abutment supported retainer |  |  |  |  |
D6074 | E |  | Abutment supported retainer |  |  |  |  |
D6075 | E |  | Implant supported retainer |  |  |  |  |
D6076 | E |  | Implant supported retainer |  |  |  |  |
D6077 | E |  | Implant supported retainer |  |  |  |  |
D6078 | E |  | Implnt/abut suprtd fixd dent |  |  |  |  |
D6079 | E |  | Implnt/abut suprtd fixd dent |  |  |  |  |
D6080 | E |  | Implant maintenance |  |  |  |  |
D6090 | E |  | Repair implant |  |  |  |  |
D6095 | E |  | Odontics repr abutment |  |  |  |  |
D6100 | E |  | Removal of implant |  |  |  |  |
D6199 | E |  | Implant procedure |  |  |  |  |
D6210 | E |  | Prosthodont high noble metal |  |  |  |  |
D6211 | E |  | Bridge base metal cast |  |  |  |  |
D6212 | E |  | Bridge noble metal cast |  |  |  |  |
D6240 | E |  | Bridge porcelain high noble |  |  |  |  |
D6241 | E |  | Bridge porcelain base metal |  |  |  |  |
D6242 | E |  | Bridge porcelain nobel metal |  |  |  |  |
D6245 | E |  | Bridge porcelain/ceramic |  |  |  |  |
D6250 | E |  | Bridge resin w/high noble |  |  |  |  |
D6251 | E |  | Bridge resin base metal |  |  |  |  |
D6252 | E |  | Bridge resin w/noble metal |  |  |  |  |
D6253 | E |  | Provisional pontic |  |  |  |  |
D6545 | E |  | Dental retainr cast metl |  |  |  |  |
D6548 | E |  | Porcelain/ceramic retainer |  |  |  |  |
D6600 | E |  | Porcelain/ceramic inlay 2srf |  |  |  |  |
D6601 | E |  | Porc/ceram inlay >= 3 surfac |  |  |  |  |
D6602 | E |  | Cst hgh nble mtl inlay 2 srf |  |  |  |  |
D6603 | E |  | Cst hgh nble mtl inlay >=3sr |  |  |  |  |
D6604 | E |  | Cst bse mtl inlay 2 surfaces |  |  |  |  |
D6605 | E |  | Cst bse mtl inlay >= 3 surfa |  |  |  |  |
D6606 | E |  | Cast noble metal inlay 2 sur |  |  |  |  |
D6607 | E |  | Cst noble mtl inlay >=3 surf |  |  |  |  |
D6608 | E |  | Onlay porc/crmc 2 surfaces |  |  |  |  |
D6609 | E |  | Onlay porc/crmc >=3 surfaces |  |  |  |  |
D6610 | E |  | Onlay cst hgh nbl mtl 2 srfc |  |  |  |  |
D6611 | E |  | Onlay cst hgh nbl mtl >=3srf |  |  |  |  |
D6612 | E |  | Onlay cst base mtl 2 surface |  |  |  |  |
D6613 | E |  | Onlay cst base mtl >=3 surfa |  |  |  |  |
D6614 | E |  | Onlay cst nbl mtl 2 surfaces |  |  |  |  |
D6615 | E |  | Onlay cst nbl mtl >=3 surfac |  |  |  |  |
D6720 | E |  | Retain crown resin w hi nble |  |  |  |  |
D6721 | E |  | Crown resin w/base metal |  |  |  |  |
D6722 | E |  | Crown resin w/noble metal |  |  |  |  |
D6740 | E |  | Crown porcelain/ceramic |  |  |  |  |
D6750 | E |  | Crown porcelain high noble |  |  |  |  |
D6751 | E |  | Crown porcelain base metal |  |  |  |  |
D6752 | E |  | Crown porcelain noble metal |  |  |  |  |
D6780 | E |  | Crown 3/4 high noble metal |  |  |  |  |
D6781 | E |  | Crown 3/4 cast based metal |  |  |  |  |
D6782 | E |  | Crown 3/4 cast noble metal |  |  |  |  |
D6783 | E |  | Crown 3/4 porcelain/ceramic |  |  |  |  |
D6790 | E |  | Crown full high noble metal |  |  |  |  |
D6791 | E |  | Crown full base metal cast |  |  |  |  |
D6792 | E |  | Crown full noble metal cast |  |  |  |  |
D6793 | E |  | Provisional retainer crown |  |  |  |  |
D6920 | S |  | Dental connector bar | 0330 | 0.5609 | $30.45 | $6.09 | $6.09
D6930 | E |  | Dental recement bridge |  |  |  |  |
D6940 | E |  | Stress breaker |  |  |  |  |
D6950 | E |  | Precision attachment |  |  |  |  |
D6970 | E |  | Post & core plus retainer |  |  |  |  |
D6971 | E |  | Cast post bridge retainer |  |  |  |  |
D6972 | E |  | Prefab post & core plus reta |  |  |  |  |
D6973 | E |  | Core build up for retainer |  |  |  |  |
D6975 | E |  | Coping metal |  |  |  |  |
D6976 | E |  | Each addtnl cast post |  |  |  |  |
D6977 | E |  | Each addtl prefab post |  |  |  |  |
D6980 | E |  | Bridge repair |  |  |  |  |
D6985 | E |  | Pediatric partial denture fx |  |  |  |  |
D6999 | E |  | Fixed prosthodontic proc |  |  |  |  |
D7111 | S |  | Coronal remnants deciduous t | 0330 | 0.5609 | $30.45 | $6.09 | $6.09
D7140 | S |  | Extraction erupted tooth/exr | 0330 | 0.5609 | $30.45 | $6.09 | $6.09
D7210 | S |  | Rem imp tooth w mucoper flp | 0330 | 0.5609 | $30.45 | $6.09 | $6.09
D7220 | S |  | Impact tooth remov soft tiss | 0330 | 0.5609 | $30.45 | $6.09 | $6.09
D7230 | S |  | Impact tooth remov part bony | 0330 | 0.5609 | $30.45 | $6.09 | $6.09
D7240 | S |  | Impact tooth remov comp bony | 0330 | 0.5609 | $30.45 | $6.09 | $6.09
D7241 | S |  | Impact tooth rem bony w/comp | 0330 | 0.5609 | $30.45 | $6.09 | $6.09
D7250 | S |  | Tooth root removal | 0330 | 0.5609 | $30.45 | $6.09 | $6.09
D7260 | S |  | Oral antral fistula closure | 0330 | 0.5609 | $30.45 | $6.09 | $6.09
D7261 | S |  | Primary closure sinus perf | 0330 | 0.5609 | $30.45 | $6.09 | $6.09
D7270 | E |  | Tooth reimplantation |  |  |  |  |
D7272 | E |  | Tooth transplantation |  |  |  |  |
D7280 | E |  | Exposure impact tooth orthod |  |  |  |  |
D7281 | E |  | Exposure tooth aid eruption |  |  |  |  |
D7282 | E |  | Mobilize erupted/malpos toot |  |  |  |  |
D7285 | E |  | Biopsy of oral tissue hard |  |  |  |  |
D7286 | E |  | Biopsy of oral tissue soft |  |  |  |  |
D7287 | E |  | Cytology sample collection |  |  |  |  |
D7290 | E |  | Repositioning of teeth |  |  |  |  |
D7291 | S |  | Transseptal fiberotomy | 0330 | 0.5609 | $30.45 | $6.09 | $6.09
D7310 | E |  | Alveoplasty w/ extraction |  |  |  |  |
D7320 | E |  | Alveoplasty w/o extraction |  |  |  |  |
D7340 | E |  | Vestibuloplasty ridge extens |  |  |  |  |
D7350 | E |  | Vestibuloplasty exten graft |  |  |  |  |
D7410 | E |  | Rad exc lesion up to 1.25 cm |  |  |  |  |
D7411 | E |  | Excision benign lesion>1.25c |  |  |  |  |
D7412 | E |  | Excision benign lesion compl |  |  |  |  |
D7413 | E |  | Excision malig lesion<=1.25c |  |  |  |  |
D7414 | E |  | Excision malig lesion>1.25cm |  |  |  |  |
D7415 | E |  | Excision malig les complicat |  |  |  |  |
D7440 | E |  | Malig tumor exc to 1.25 cm |  |  |  |  |
D7441 | E |  | Malig tumor > 1.25 cm |  |  |  |  |
D7450 | E |  | Rem odontogen cyst to 1.25cm |  |  |  |  |
D7451 | E |  | Rem odontogen cyst > 1.25 cm |  |  |  |  |
D7460 | E |  | Rem nonodonto cyst to 1.25cm |  |  |  |  |
D7461 | E |  | Rem nonodonto cyst > 1.25 cm |  |  |  |  |
D7465 | E |  | Lesion destruction |  |  |  |  |
D7471 | E |  | Rem exostosis any site |  |  |  |  |
D7472 | E |  | Removal of torus palatinus |  |  |  |  |
D7473 | E |  | Remove torus mandibularis |  |  |  |  |
D7485 | E |  | Surg reduct osseoustuberosit |  |  |  |  |
D7490 | E |  | Mandible resection |  |  |  |  |
D7510 | E |  | I&d absc intraoral soft tiss |  |  |  |  |
D7520 | E |  | I&d abscess extraoral |  |  |  |  |
D7530 | E |  | Removal fb skin/areolar tiss |  |  |  |  |
D7540 | E |  | Removal of fb reaction |  |  |  |  |
D7550 | E |  | Removal of sloughed off bone |  |  |  |  |
D7560 | E |  | Maxillary sinusotomy |  |  |  |  |
D7610 | E |  | Maxilla open reduct simple |  |  |  |  |
D7620 | E |  | Clsd reduct simpl maxilla fx |  |  |  |  |
D7630 | E |  | Open red simpl mandible fx |  |  |  |  |
D7640 | E |  | Clsd red simpl mandible fx |  |  |  |  |
D7650 | E |  | Open red simp malar/zygom fx |  |  |  |  |
D7660 | E |  | Clsd red simp malar/zygom fx |  |  |  |  |
D7670 | E |  | Closd rductn splint alveolus |  |  |  |  |
D7671 | E |  | Alveolus open reduction |  |  |  |  |
D7680 | E |  | Reduct simple facial bone fx |  |  |  |  |
D7710 | E |  | Maxilla open reduct compound |  |  |  |  |
D7720 | E |  | Clsd reduct compd maxilla fx |  |  |  |  |
D7730 | E |  | Open reduct compd mandble fx |  |  |  |  |
D7740 | E |  | Clsd reduct compd mandble fx |  |  |  |  |
D7750 | E |  | Open red comp malar/zygma fx |  |  |  |  |
D7760 | E |  | Clsd red comp malar/zygma fx |  |  |  |  |
D7770 | E |  | Open reduc compd alveolus fx |  |  |  |  |
D7771 | E |  | Alveolus clsd reduc stblz te |  |  |  |  |
D7780 | E |  | Reduct compnd facial bone fx |  |  |  |  |
D7810 | E |  | Tmj open reduct-dislocation |  |  |  |  |
D7820 | E |  | Closed tmp manipulation |  |  |  |  |
D7830 | E |  | Tmj manipulation under anest |  |  |  |  |
D7840 | E |  | Removal of tmj condyle |  |  |  |  |
D7850 | E |  | Tmj meniscectomy |  |  |  |  |
D7852 | E |  | Tmj repair of joint disc |  |  |  |  |
D7854 | E |  | Tmj excisn of joint membrane |  |  |  |  |
D7856 | E |  | Tmj cutting of a muscle |  |  |  |  |
D7858 | E |  | Tmj reconstruction |  |  |  |  |
D7860 | E |  | Tmj cutting into joint |  |  |  |  |
D7865 | E |  | Tmj reshaping components |  |  |  |  |
D7870 | E |  | Tmj aspiration joint fluid |  |  |  |  |
D7871 | E |  | Lysis + lavage w catheters |  |  |  |  |
D7872 | E |  | Tmj diagnostic arthroscopy |  |  |  |  |
D7873 | E |  | Tmj arthroscopy lysis adhesn |  |  |  |  |
D7874 | E |  | Tmj arthroscopy disc reposit |  |  |  |  |
D7875 | E |  | Tmj arthroscopy synovectomy |  |  |  |  |
D7876 | E |  | Tmj arthroscopy discectomy |  |  |  |  |
D7877 | E |  | Tmj arthroscopy debridement |  |  |  |  |
D7880 | E |  | Occlusal orthotic appliance |  |  |  |  |
D7899 | E |  | Tmj unspecified therapy |  |  |  |  |
D7910 | E |  | Dent sutur recent wnd to 5cm |  |  |  |  |
D7911 | E |  | Dental suture wound to 5 cm |  |  |  |  |
D7912 | E |  | Suture complicate wnd > 5 cm |  |  |  |  |
D7920 | E |  | Dental skin graft |  |  |  |  |
D7940 | S |  | Reshaping bone orthognathic | 0330 | 0.5609 | $30.45 | $6.09 | $6.09
D7941 | E |  | Bone cutting ramus closed |  |  |  |  |
D7943 | E |  | Cutting ramus open w/graft |  |  |  |  |
D7944 | E |  | Bone cutting segmented |  |  |  |  |
D7945 | E |  | Bone cutting body mandible |  |  |  |  |
D7946 | E |  | Reconstruction maxilla total |  |  |  |  |
D7947 | E |  | Reconstruct maxilla segment |  |  |  |  |
D7948 | E |  | Reconstruct midface no graft |  |  |  |  |
D7949 | E |  | Reconstruct midface w/graft |  |  |  |  |
D7950 | E |  | Mandible graft |  |  |  |  |
D7955 | E |  | Repair maxillofacial defects |  |  |  |  |
D7960 | E |  | Frenulectomy/frenulotomy |  |  |  |  |
D7970 | E |  | Excision hyperplastic tissue |  |  |  |  |
D7971 | E |  | Excision pericoronal gingiva |  |  |  |  |
D7972 | E |  | Surg redct fibrous tuberosit |  |  |  |  |
D7980 | E |  | Sialolithotomy |  |  |  |  |
D7981 | E |  | Excision of salivary gland |  |  |  |  |
D7982 | E |  | Sialodochoplasty |  |  |  |  |
D7983 | E |  | Closure of salivary fistula |  |  |  |  |
D7990 | E |  | Emergency tracheotomy |  |  |  |  |
D7991 | E |  | Dental coronoidectomy |  |  |  |  |
D7995 | E |  | Synthetic graft facial bones |  |  |  |  |
D7996 | E |  | Implant mandible for augment |  |  |  |  |
D7997 | E |  | Appliance removal |  |  |  |  |
D7999 | E |  | Oral surgery procedure |  |  |  |  |
D8010 | E |  | Limited dental tx primary |  |  |  |  |
D8020 | E |  | Limited dental tx transition |  |  |  |  |
D8030 | E |  | Limited dental tx adolescent |  |  |  |  |
D8040 | E |  | Limited dental tx adult |  |  |  |  |
D8050 | E |  | Intercep dental tx primary |  |  |  |  |
D8060 | E |  | Intercep dental tx transitn |  |  |  |  |
D8070 | E |  | Compre dental tx transition |  |  |  |  |
D8080 | E |  | Compre dental tx adolescent |  |  |  |  |
D8090 | E |  | Compre dental tx adult |  |  |  |  |
D8210 | E |  | Orthodontic rem appliance tx |  |  |  |  |
D8220 | E |  | Fixed appliance therapy habt |  |  |  |  |
D8660 | E |  | Preorthodontic tx visit |  |  |  |  |
D8670 | E |  | Periodic orthodontc tx visit |  |  |  |  |
D8680 | E |  | Orthodontic retention |  |  |  |  |
D8690 | E |  | Orthodontic treatment |  |  |  |  |
D8691 | E |  | Repair ortho appliance |  |  |  |  |
D8692 | E |  | Replacement retainer |  |  |  |  |
D8999 | E |  | Orthodontic procedure |  |  |  |  |
D9110 | N |  | Tx dental pain minor proc |  |  |  |  |
D9210 | E |  | Dent anesthesia w/o surgery |  |  |  |  |
D9211 | E |  | Regional block anesthesia |  |  |  |  |
D9212 | E |  | Trigeminal block anesthesia |  |  |  |  |
D9215 | E |  | Local anesthesia |  |  |  |  |
D9220 | E |  | General anesthesia |  |  |  |  |
D9221 | E |  | General anesthesia ea ad 15m |  |  |  |  |
D9230 | N |  | Analgesia |  |  |  |  |
D9241 | E |  | Intravenous sedation |  |  |  |  |
D9242 | E |  | IV sedation ea ad 30 m |  |  |  |  |
D9248 | N |  | Sedation (non-iv) |  |  |  |  |
D9310 | E |  | Dental consultation |  |  |  |  |
D9410 | E |  | Dental house call |  |  |  |  |
D9420 | E |  | Hospital call |  |  |  |  |
D9430 | E |  | Office visit during hours |  |  |  |  |
D9440 | E |  | Office visit after hours |  |  |  |  |
D9450 | E |  | Case presentation tx plan |  |  |  |  |
D9610 | E |  | Dent therapeutic drug inject |  |  |  |  |
D9630 | S |  | Other drugs/medicaments | 0330 | 0.5609 | $30.45 | $6.09 | $6.09
D9910 | E |  | Dent appl desensitizing med |  |  |  |  |
D9911 | E |  | Appl desensitizing resin |  |  |  |  |
D9920 | E |  | Behavior management |  |  |  |  |
D9930 | S |  | Treatment of complications | 0330 | 0.5609 | $30.45 | $6.09 | $6.09
D9940 | S |  | Dental occlusal guard | 0330 | 0.5609 | $30.45 | $6.09 | $6.09
D9941 | E |  | Fabrication athletic guard |  |  |  |  |
D9950 | S |  | Occlusion analysis | 0330 | 0.5609 | $30.45 | $6.09 | $6.09
D9951 | S |  | Limited occlusal adjustment | 0330 | 0.5609 | $30.45 | $6.09 | $6.09
D9952 | S |  | Complete occlusal adjustment | 0330 | 0.5609 | $30.45 | $6.09 | $6.09
D9970 | E |  | Enamel microabrasion |  |  |  |  |
D9971 | E |  | Odontoplasty 1-2 teeth |  |  |  |  |
D9972 | E |  | Extrnl bleaching per arch |  |  |  |  |
D9973 | E |  | Extrnl bleaching per tooth |  |  |  |  |
D9974 | E |  | Intrnl bleaching per tooth |  |  |  |  |
D9999 | E |  | Adjunctive procedure |  |  |  |  |
E0100 | A |  | Cane adjust/fixed with tip |  |  |  |  |
E0105 | A |  | Cane adjust/fixed quad/3 pro |  |  |  |  |
E0110 | A |  | Crutch forearm pair |  |  |  |  |
E0111 | A |  | Crutch forearm each |  |  |  |  |
E0112 | A |  | Crutch underarm pair wood |  |  |  |  |
E0113 | A |  | Crutch underarm each wood |  |  |  |  |
E0114 | A |  | Crutch underarm pair no wood |  |  |  |  |
E0116 | A |  | Crutch underarm each no wood |  |  |  |  |
E0117 | A |  | Underarm springassist crutch |  |  |  |  |
E0130 | A |  | Walker rigid adjust/fixed ht |  |  |  |  |
E0135 | A |  | Walker folding adjust/fixed |  |  |  |  |
E0141 | A |  | Rigid walker wheeled wo seat |  |  |  |  |
E0142 | A |  | Walker rigid wheeled with se |  |  |  |  |
E0143 | A |  | Walker folding wheeled w/o s |  |  |  |  |
E0144 | A |  | Enclosed walker w rear seat |  |  |  |  |
E0145 | A |  | Walker whled seat/crutch att |  |  |  |  |
E0146 | A |  | Folding walker wheels w seat |  |  |  |  |
E0147 | A |  | Walker variable wheel resist |  |  |  |  |
E0148 | A |  | Heavyduty walker no wheels |  |  |  |  |
E0149 | A |  | Heavy duty wheeled walker |  |  |  |  |
E0153 | A |  | Forearm crutch platform atta |  |  |  |  |
E0154 | A |  | Walker platform attachment |  |  |  |  |
E0155 | A |  | Walker wheel attachment,pair |  |  |  |  |
E0156 | A |  | Walker seat attachment |  |  |  |  |
E0157 | A |  | Walker crutch attachment |  |  |  |  |
E0158 | A |  | Walker leg extenders set of4 |  |  |  |  |
E0159 | A |  | Brake for wheeled walker |  |  |  |  |
E0160 | A |  | Sitz type bath or equipment |  |  |  |  |
E0161 | A |  | Sitz bath/equipment w/faucet |  |  |  |  |
E0162 | A |  | Sitz bath chair |  |  |  |  |
E0163 | A |  | Commode chair stationry fxd |  |  |  |  |
E0164 | A |  | Commode chair mobile fixed a |  |  |  |  |
E0165 | A |  | Commode chair stationry det |  |  |  |  |
E0166 | A |  | Commode chair mobile detach |  |  |  |  |
E0167 | A |  | Commode chair pail or pan |  |  |  |  |
E0168 | A |  | Heavyduty/wide commode chair |  |  |  |  |
E0169 | A |  | Seatlift incorp commodechair |  |  |  |  |
E0175 | A |  | Commode chair foot rest |  |  |  |  |
E0176 | A |  | Air pressre pad/cushion nonp |  |  |  |  |
E0177 | A |  | Water press pad/cushion nonp |  |  |  |  |
E0178 | A |  | Gel pressre pad/cushion nonp |  |  |  |  |
E0179 | A |  | Dry pressre pad/cushion nonp |  |  |  |  |
E0180 | A |  | Press pad alternating w pump |  |  |  |  |
E0181 | A |  | Press pad alternating w/ pum |  |  |  |  |
E0182 | A |  | Pressure pad alternating pum |  |  |  |  |
E0184 | A |  | Dry pressure mattress |  |  |  |  |
E0185 | A |  | Gel pressure mattress pad |  |  |  |  |
E0186 | A |  | Air pressure mattress |  |  |  |  |
E0187 | A |  | Water pressure mattress |  |  |  |  |
E0188 | E |  | Synthetic sheepskin pad |  |  |  |  |
E0189 | E |  | Lambswool sheepskin pad |  |  |  |  |
E0191 | A |  | Protector heel or elbow |  |  |  |  |
E0192 | A |  | Pad wheelchr low press/posit |  |  |  |  |
E0193 | A |  | Powered air flotation bed |  |  |  |  |
E0194 | A |  | Air fluidized bed |  |  |  |  |
E0196 | A |  | Gel pressure mattress |  |  |  |  |
E0197 | A |  | Air pressure pad for mattres |  |  |  |  |
E0198 | A |  | Water pressure pad for mattr |  |  |  |  |
E0199 | A |  | Dry pressure pad for mattres |  |  |  |  |
E0200 | A |  | Heat lamp without stand |  |  |  |  |
E0202 | A |  | Phototherapy light w/ photom |  |  |  |  |
E0203 | A |  | Therapeutic lightbox tabletp |  |  |  |  |
E0205 | A |  | Heat lamp with stand |  |  |  |  |
E0210 | A |  | Electric heat pad standard |  |  |  |  |
E0215 | A |  | Electric heat pad moist |  |  |  |  |
E0217 | A |  | Water circ heat pad w pump |  |  |  |  |
E0218 | E |  | Water circ cold pad w pump |  |  |  |  |
E0220 | A |  | Hot water bottle |  |  |  |  |
E0221 | A |  | Infrared heating pad system |  |  |  |  |
E0225 | A |  | Hydrocollator unit |  |  |  |  |
E0230 | A |  | Ice cap or collar |  |  |  |  |
E0231 | E |  | Wound warming device |  |  |  |  |
E0232 | E |  | Warming card for NWT |  |  |  |  |
E0235 | A |  | Paraffin bath unit portable |  |  |  |  |
E0236 | A |  | Pump for water circulating p |  |  |  |  |
E0238 | A |  | Heat pad non-electric moist |  |  |  |  |
E0239 | A |  | Hydrocollator unit portable |  |  |  |  |
E0241 | E |  | Bath tub wall rail |  |  |  |  |
E0242 | E |  | Bath tub rail floor |  |  |  |  |
E0243 | E |  | Toilet rail |  |  |  |  |
E0244 | E |  | Toilet seat raised |  |  |  |  |
E0245 | E |  | Tub stool or bench |  |  |  |  |
E0246 | E |  | Transfer tub rail attachment |  |  |  |  |
E0249 | A |  | Pad water circulating heat u |  |  |  |  |
E0250 | A |  | Hosp bed fixed ht w/ mattres |  |  |  |  |
E0251 | A |  | Hosp bed fixd ht w/o mattres |  |  |  |  |
E0255 | A |  | Hospital bed var ht w/ mattr |  |  |  |  |
E0256 | A |  | Hospital bed var ht w/o matt |  |  |  |  |
E0260 | A |  | Hosp bed semi-electr w/ matt |  |  |  |  |
E0261 | A |  | Hosp bed semi-electr w/o mat |  |  |  |  |
E0265 | A |  | Hosp bed total electr w/ mat |  |  |  |  |
E0266 | A |  | Hosp bed total elec w/o matt |  |  |  |  |
E0270 | E |  | Hospital bed institutional t |  |  |  |  |
E0271 | A |  | Mattress innerspring |  |  |  |  |
E0272 | A |  | Mattress foam rubber |  |  |  |  |
E0273 | E |  | Bed board |  |  |  |  |
E0274 | E |  | Over-bed table |  |  |  |  |
E0275 | A |  | Bed pan standard |  |  |  |  |
E0276 | A |  | Bed pan fracture |  |  |  |  |
E0277 | A |  | Powered pres-redu air mattrs |  |  |  |  |
E0280 | A |  | Bed cradle |  |  |  |  |
E0290 | A |  | Hosp bed fx ht w/o rails w/m |  |  |  |  |
E0291 | A |  | Hosp bed fx ht w/o rail w/o |  |  |  |  |
E0292 | A |  | Hosp bed var ht w/o rail w/o |  |  |  |  |
E0293 | A |  | Hosp bed var ht w/o rail w/ |  |  |  |  |
E0294 | A |  | Hosp bed semi-elect w/ mattr |  |  |  |  |
E0295 | A |  | Hosp bed semi-elect w/o matt |  |  |  |  |
E0296 | A |  | Hosp bed total elect w/ matt |  |  |  |  |
E0297 | A |  | Hosp bed total elect w/o mat |  |  |  |  |
E0305 | A |  | Rails bed side half length |  |  |  |  |
E0310 | A |  | Rails bed side full length |  |  |  |  |
E0315 | E |  | Bed accessory brd/tbl/supprt |  |  |  |  |
E0316 | A |  | Bed safety enclosure |  |  |  |  |
E0325 | A |  | Urinal male jug-type |  |  |  |  |
E0326 | A |  | Urinal female jug-type |  |  |  |  |
E0350 | E |  | Control unit bowel system |  |  |  |  |
E0352 | E |  | Disposable pack w/bowel syst |  |  |  |  |
E0370 | E |  | Air elevator for heel |  |  |  |  |
E0371 | A |  | Nonpower mattress overlay |  |  |  |  |
E0372 | A |  | Powered air mattress overlay |  |  |  |  |
E0373 | A |  | Nonpowered pressure mattress |  |  |  |  |
E0424 | A |  | Stationary compressed gas 02 |  |  |  |  |
E0425 | E |  | Gas system stationary compre |  |  |  |  |
E0430 | E |  | Oxygen system gas portable |  |  |  |  |
E0431 | A |  | Portable gaseous 02 |  |  |  |  |
E0434 | A |  | Portable liquid 02 |  |  |  |  |
E0435 | E |  | Oxygen system liquid portabl |  |  |  |  |
E0439 | A |  | Stationary liquid 02 |  |  |  |  |
E0440 | E |  | Oxygen system liquid station |  |  |  |  |
E0441 | A |  | Oxygen contents, gaseous |  |  |  |  |
E0442 | A |  | Oxygen contents, liquid |  |  |  |  |
E0443 | A |  | Portable 02 contents, gas |  |  |  |  |
E0444 | A |  | Portable 02 contents, liquid |  |  |  |  |
E0445 | A |  | Oximeter non-invasive |  |  |  |  |
E0450 | A |  | Volume vent stationary/porta |  |  |  |  |
E0454 | A |  | Pressure ventilator |  |  |  |  |
E0455 | A |  | Oxygen tent excl croup/ped t |  |  |  |  |
E0457 | A |  | Chest shell |  |  |  |  |
E0459 | A |  | Chest wrap |  |  |  |  |
E0460 | A |  | Neg press vent portabl/statn |  |  |  |  |
E0461 | A |  | Vol vent noninvasive interfa |  |  |  |  |
E0462 | A |  | Rocking bed w/ or w/o side r |  |  |  |  |
E0480 | A |  | Percussor elect/pneum home m |  |  |  |  |
E0481 | E |  | Intrpulmnry percuss vent sys |  |  |  |  |
E0482 | A |  | Cough stimulating device |  |  |  |  |
E0483 | A |  | Chest compression gen system |  |  |  |  |
E0484 | A |  | Non-elec oscillatory pep dvc |  |  |  |  |
E0500 | A |  | Ippb all types |  |  |  |  |
E0550 | A |  | Humidif extens supple w ippb |  |  |  |  |
E0555 | A |  | Humidifier for use w/ regula |  |  |  |  |
E0560 | A |  | Humidifier supplemental w/ i |  |  |  |  |
E0565 | A |  | Compressor air power source |  |  |  |  |
E0570 | A |  | Nebulizer with compression |  |  |  |  |
E0571 | A |  | Aerosol compressor for svneb |  |  |  |  |
E0572 | A |  | Aerosol compressor adjust pr |  |  |  |  |
E0574 | A |  | Ultrasonic generator w svneb |  |  |  |  |
E0575 | A |  | Nebulizer ultrasonic |  |  |  |  |
E0580 | A |  | Nebulizer for use w/ regulat |  |  |  |  |
E0585 | A |  | Nebulizer w/ compressor & he |  |  |  |  |
E0590 | A |  | Dispensing fee dme neb drug |  |  |  |  |
E0600 | A |  | Suction pump portab hom modl |  |  |  |  |
E0601 | A |  | Cont airway pressure device |  |  |  |  |
E0602 | E |  | Manual breast pump |  |  |  |  |
E0603 | A |  | Electric breast pump |  |  |  |  |
E0604 | A |  | Hosp grade elec breast pump |  |  |  |  |
E0605 | A |  | Vaporizer room type |  |  |  |  |
E0606 | A |  | Drainage board postural |  |  |  |  |
E0607 | A |  | Blood glucose monitor home |  |  |  |  |
E0610 | A |  | Pacemaker monitr audible/vis |  |  |  |  |
E0615 | A |  | Pacemaker monitr digital/vis |  |  |  |  |
E0616 | N |  | Cardiac event recorder |  |  |  |  |
E0617 | A |  | Automatic ext defibrillator |  |  |  |  |
E0618 | A |  | Apnea monitor |  |  |  |  |
E0619 | A |  | Apnea monitor w recorder |  |  |  |  |
E0620 | A |  | Cap bld skin piercing laser |  |  |  |  |
E0621 | A |  | Patient lift sling or seat |  |  |  |  |
E0625 | E |  | Patient lift bathroom or toi |  |  |  |  |
E0627 | A |  | Seat lift incorp lift-chair |  |  |  |  |
E0628 | A |  | Seat lift for pt furn-electr |  |  |  |  |
E0629 | A |  | Seat lift for pt furn-non-el |  |  |  |  |
E0630 | A |  | Patient lift hydraulic |  |  |  |  |
E0635 | A |  | Patient lift electric |  |  |  |  |
E0636 | A |  | PT support & positioning sys |  |  |  |  |
E0650 | A |  | Pneuma compresor non-segment |  |  |  |  |
E0651 | A |  | Pneum compressor segmental |  |  |  |  |
E0652 | A |  | Pneum compres w/cal pressure |  |  |  |  |
E0655 | A |  | Pneumatic appliance half arm |  |  |  |  |
E0660 | A |  | Pneumatic appliance full leg |  |  |  |  |
E0665 | A |  | Pneumatic appliance full arm |  |  |  |  |
E0666 | A |  | Pneumatic appliance half leg |  |  |  |  |
E0667 | A |  | Seg pneumatic appl full leg |  |  |  |  |
E0668 | A |  | Seg pneumatic appl full arm |  |  |  |  |
E0669 | A |  | Seg pneumatic appli half leg |  |  |  |  |
E0671 | A |  | Pressure pneum appl full leg |  |  |  |  |
E0672 | A |  | Pressure pneum appl full arm |  |  |  |  |
E0673 | A |  | Pressure pneum appl half leg |  |  |  |  |
E0691 | A |  | Uvl pnl 2 sq ft or less |  |  |  |  |
E0692 | A |  | Uvl sys panel 4 ft |  |  |  |  |
E0693 | A |  | Uvl sys panel 6 ft |  |  |  |  |
E0694 | A |  | Uvl md cabinet sys 6 ft |  |  |  |  |
E0700 | E |  | Safety equipment |  |  |  |  |
E0701 | A |  | Helmet w face guard prefab |  |  |  |  |
E0710 | E |  | Restraints any type |  |  |  |  |
E0720 | A |  | Tens two lead |  |  |  |  |
E0730 | A |  | Tens four lead |  |  |  |  |
E0731 | A |  | Conductive garment for tens/ |  |  |  |  |
E0740 | E |  | Incontinence treatment systm |  |  |  |  |
E0744 | A |  | Neuromuscular stim for scoli |  |  |  |  |
E0745 | A |  | Neuromuscular stim for shock |  |  |  |  |
E0746 | E |  | Electromyograph biofeedback |  |  |  |  |
E0747 | A |  | Elec osteogen stim not spine |  |  |  |  |
E0748 | A |  | Elec osteogen stim spinal |  |  |  |  |
E0749 | N |  | Elec osteogen stim implanted |  |  |  |  |
E0752 | N |  | Neurostimulator electrode |  |  |  |  |
E0754 | A |  | Pulsegenerator pt programmer |  |  |  |  |
E0755 | E |  | Electronic salivary reflex s |  |  |  |  |
E0756 | N |  | Implantable pulse generator |  |  |  |  |
E0757 | N |  | Implantable RF receiver |  |  |  |  |
E0758 | A |  | External RF transmitter |  |  |  |  |
E0759 | A |  | Replace rdfrquncy transmittr |  |  |  |  |
E0760 | E |  | Osteogen ultrasound stimltor |  |  |  |  |
E0761 | E |  | Nontherm electromgntc device |  |  |  |  |
E0765 | E |  | Nerve stimulator for tx n&v |  |  |  |  |
E0776 | A |  | Iv pole |  |  |  |  |
E0779 | A |  | Amb infusion pump mechanical |  |  |  |  |
E0780 | A |  | Mech amb infusion pump <8hrs |  |  |  |  |
E0781 | A |  | External ambulatory infus pu |  |  |  |  |
E0782 | N |  | Non-programble infusion pump |  |  |  |  |
E0783 | N |  | Programmable infusion pump |  |  |  |  |
E0784 | A |  | Ext amb infusn pump insulin |  |  |  |  |
E0785 | N |  | Replacement impl pump cathet |  |  |  |  |
E0786 | N |  | Implantable pump replacement |  |  |  |  |
E0791 | A |  | Parenteral infusion pump sta |  |  |  |  |
E0830 | N |  | Ambulatory traction device |  |  |  |  |
E0840 | A |  | Tract frame attach headboard |  |  |  |  |
E0850 | A |  | Traction stand free standing |  |  |  |  |
E0855 | A |  | Cervical traction equipment |  |  |  |  |
E0860 | A |  | Tract equip cervical tract |  |  |  |  |
E0870 | A |  | Tract frame attach footboard |  |  |  |  |
E0880 | A |  | Trac stand free stand extrem |  |  |  |  |
E0890 | A |  | Traction frame attach pelvic |  |  |  |  |
E0900 | A |  | Trac stand free stand pelvic |  |  |  |  |
E0910 | A |  | Trapeze bar attached to bed |  |  |  |  |
E0920 | A |  | Fracture frame attached to b |  |  |  |  |
E0930 | A |  | Fracture frame free standing |  |  |  |  |
E0935 | A |  | Exercise device passive moti |  |  |  |  |
E0940 | A |  | Trapeze bar free standing |  |  |  |  |
E0941 | A |  | Gravity assisted traction de |  |  |  |  |
E0942 | A |  | Cervical head harness/halter |  |  |  |  |
E0943 | A |  | Cervical pillow |  |  |  |  |
E0944 | A |  | Pelvic belt/harness/boot |  |  |  |  |
E0945 | A |  | Belt/harness extremity |  |  |  |  |
E0946 | A |  | Fracture frame dual w cross |  |  |  |  |
E0947 | A |  | Fracture frame attachmnts pe |  |  |  |  |
E0948 | A |  | Fracture frame attachmnts ce |  |  |  |  |
E0950 | E |  | Tray |  |  |  |  |
E0951 | E |  | Loop heel |  |  |  |  |
E0952 | E |  | Loop tie |  |  |  |  |
E0953 | E |  | Pneumatic tire |  |  |  |  |
E0954 | E |  | Wheelchair semi-pneumatic ca |  |  |  |  |
E0958 | A |  | Whlchr att- conv 1 arm drive |  |  |  |  |
E0959 | E |  | Amputee adapter |  |  |  |  |
E0961 | E |  | Wheelchair brake extension |  |  |  |  |
E0962 | A |  | Wheelchair 1 inch cushion |  |  |  |  |
E0963 | A |  | Wheelchair 2 inch cushion |  |  |  |  |
E0964 | A |  | Wheelchair 3 inch cushion |  |  |  |  |
E0965 | A |  | Wheelchair 4 inch cushion |  |  |  |  |
E0966 | E |  | Wheelchair head rest extensi |  |  |  |  |
E0967 | E |  | Wheelchair hand rims |  |  |  |  |
E0968 | A |  | Wheelchair commode seat |  |  |  |  |
E0969 | E |  | Wheelchair narrowing device |  |  |  |  |
E0970 | E |  | Wheelchair no. 2 footplates |  |  |  |  |
E0971 | E |  | Wheelchair anti-tipping devi |  |  |  |  |
E0972 | A |  | Transfer board or device |  |  |  |  |
E0973 | E |  | Wheelchair adjustabl height |  |  |  |  |
E0974 | E |  | Wheelchair grade-aid |  |  |  |  |
E0975 | E |  | Wheelchair reinforced seat u |  |  |  |  |
E0976 | E |  | Wheelchair reinforced back u |  |  |  |  |
E0977 | E |  | Wheelchair wedge cushion |  |  |  |  |
E0978 | E |  | Wheelchair belt w/airplane b |  |  |  |  |
E0979 | E |  | Wheelchair belt with velcro |  |  |  |  |
E0980 | E |  | Wheelchair safety vest |  |  |  |  |
E0990 | E |  | Whellchair elevating leg res |  |  |  |  |
E0991 | E |  | Wheelchair upholstry seat |  |  |  |  |
E0992 | E |  | Wheelchair solid seat insert |  |  |  |  |
E0993 | E |  | Wheelchair back upholstery |  |  |  |  |
E0994 | E |  | Wheelchair arm rest |  |  |  |  |
E0995 | E |  | Wheelchair calf rest |  |  |  |  |
E0996 | E |  | Wheelchair tire solid |  |  |  |  |
E0997 | E |  | Wheelchair caster w/ a fork |  |  |  |  |
E0998 | E |  | Wheelchair caster w/o a fork |  |  |  |  |
E0999 | E |  | Wheelchr pneumatic tire w/wh |  |  |  |  |
E1000 | E |  | Wheelchair tire pneumatic ca |  |  |  |  |
E1001 | E |  | Wheelchair wheel |  |  |  |  |
E1011 | A |  | Ped wc modify width adjustm |  |  |  |  |
E1012 | A |  | Int seat sys planar ped w/c |  |  |  |  |
E1013 | A |  | Int seat sys contour ped w/c |  |  |  |  |
E1014 | A |  | Reclining back add ped w/c |  |  |  |  |
E1015 | A |  | Shock absorber for man w/c |  |  |  |  |
E1016 | A |  | Shock absorber for power w/c |  |  |  |  |
E1017 | A |  | HD shck absrbr for hd man wc |  |  |  |  |
E1018 | A |  | HD shck absrber for hd powwc |  |  |  |  |
E1020 | A |  | Residual limb support system |  |  |  |  |
E1025 | A |  | Pedwc lat/thor sup nocontour |  |  |  |  |
E1026 | A |  | Pedwc contoured lat/thor sup |  |  |  |  |
E1027 | A |  | Ped wc lat/ant support |  |  |  |  |
E1031 | A |  | Rollabout chair with casters |  |  |  |  |
E1035 | E |  | Patient transfer system |  |  |  |  |
E1037 | A |  | Transport chair, ped size |  |  |  |  |
E1038 | A |  | Transport chair, adult size |  |  |  |  |
E1050 | A |  | Whelchr fxd full length arms |  |  |  |  |
E1060 | A |  | Wheelchair detachable arms |  |  |  |  |
E1065 | E |  | Wheelchair power attachment |  |  |  |  |
E1066 | E |  | Wheelchair battery charger |  |  |  |  |
E1069 | E |  | Wheelchair deep cycle batter |  |  |  |  |
E1070 | A |  | Wheelchair detachable foot r |  |  |  |  |
E1083 | A |  | Hemi-wheelchair fixed arms |  |  |  |  |
E1084 | A |  | Hemi-wheelchair detachable a |  |  |  |  |
E1085 | A |  | Hemi-wheelchair fixed arms |  |  |  |  |
E1086 | A |  | Hemi-wheelchair detachable a |  |  |  |  |
E1087 | A |  | Wheelchair lightwt fixed arm |  |  |  |  |
E1088 | A |  | Wheelchair lightweight det a |  |  |  |  |
E1089 | A |  | Wheelchair lightwt fixed arm |  |  |  |  |
E1090 | A |  | Wheelchair lightweight det a |  |  |  |  |
E1091 | A |  | Wheelchair youth |  |  |  |  |
E1092 | A |  | Wheelchair wide w/ leg rests |  |  |  |  |
E1093 | A |  | Wheelchair wide w/ foot rest |  |  |  |  |
E1100 | A |  | Whchr s-recl fxd arm leg res |  |  |  |  |
E1110 | A |  | Wheelchair semi-recl detach |  |  |  |  |
E1130 | A |  | Whlchr stand fxd arm ft rest |  |  |  |  |
E1140 | A |  | Wheelchair standard detach a |  |  |  |  |
E1150 | A |  | Wheelchair standard w/ leg r |  |  |  |  |
E1160 | A |  | Wheelchair fixed arms |  |  |  |  |
E1161 | A |  | Manual adult wc w tiltinspac |  |  |  |  |
E1170 | A |  | Whlchr ampu fxd arm leg rest |  |  |  |  |
E1171 | A |  | Wheelchair amputee w/o leg r |  |  |  |  |
E1172 | A |  | Wheelchair amputee detach ar |  |  |  |  |
E1180 | A |  | Wheelchair amputee w/ foot r |  |  |  |  |
E1190 | A |  | Wheelchair amputee w/ leg re |  |  |  |  |
E1195 | A |  | Wheelchair amputee heavy dut |  |  |  |  |
E1200 | A |  | Wheelchair amputee fixed arm |  |  |  |  |
E1210 | A |  | Whlchr moto ful arm leg rest |  |  |  |  |
E1211 | A |  | Wheelchair motorized w/ det |  |  |  |  |
E1212 | A |  | Wheelchair motorized w full |  |  |  |  |
E1213 | A |  | Wheelchair motorized w/ det |  |  |  |  |
E1220 | A |  | Whlchr special size/constrc |  |  |  |  |
E1221 | A |  | Wheelchair spec size w foot |  |  |  |  |
E1222 | A |  | Wheelchair spec size w/ leg |  |  |  |  |
E1223 | A |  | Wheelchair spec size w foot |  |  |  |  |
E1224 | A |  | Wheelchair spec size w/ leg |  |  |  |  |
E1225 | A |  | Wheelchair spec sz semi-recl |  |  |  |  |
E1226 | E |  | Wheelchair spec sz full-recl |  |  |  |  |
E1227 | E |  | Wheelchair spec sz spec ht a |  |  |  |  |
E1228 | A |  | Wheelchair spec sz spec ht b |  |  |  |  |
E1230 | A |  | Power operated vehicle |  |  |  |  |
E1231 | A |  | Rigid ped w/c tilt-in-space |  |  |  |  |
E1232 | A |  | Folding ped wc tilt-in-space |  |  |  |  |
E1233 | A |  | Rig ped wc tltnspc w/o seat |  |  |  |  |
E1234 | A |  | Fld ped wc tltnspc w/o seat |  |  |  |  |
E1235 | A |  | Rigid ped wc adjustable |  |  |  |  |
E1236 | A |  | Folding ped wc adjustable |  |  |  |  |
E1237 | A |  | Rgd ped wc adjstabl w/o seat |  |  |  |  |
E1238 | A |  | Fld ped wc adjstabl w/o seat |  |  |  |  |
E1240 | A |  | Whchr litwt det arm leg rest |  |  |  |  |
E1250 | A |  | Wheelchair lightwt fixed arm |  |  |  |  |
E1260 | A |  | Wheelchair lightwt foot rest |  |  |  |  |
E1270 | A |  | Wheelchair lightweight leg r |  |  |  |  |
E1280 | A |  | Whchr h-duty det arm leg res |  |  |  |  |
E1285 | A |  | Wheelchair heavy duty fixed |  |  |  |  |
E1290 | A |  | Wheelchair hvy duty detach a |  |  |  |  |
E1295 | A |  | Wheelchair heavy duty fixed |  |  |  |  |
E1296 | A |  | Wheelchair special seat heig |  |  |  |  |
E1297 | A |  | Wheelchair special seat dept |  |  |  |  |
E1298 | A |  | Wheelchair spec seat depth/w |  |  |  |  |
E1300 | E |  | Whirlpool portable |  |  |  |  |
E1310 | A |  | Whirlpool non-portable |  |  |  |  |
E1340 | A |  | Repair for DME, per 15 min |  |  |  |  |
E1353 | A |  | Oxygen supplies regulator |  |  |  |  |
E1355 | A |  | Oxygen supplies stand/rack |  |  |  |  |
E1372 | A |  | Oxy suppl heater for nebuliz |  |  |  |  |
E1390 | A |  | Oxygen concentrator |  |  |  |  |
E1399 | A |  | Durable medical equipment mi |  |  |  |  |
E1405 | A |  | O2/water vapor enrich w/heat |  |  |  |  |
E1406 | A |  | O2/water vapor enrich w/o he |  |  |  |  |
E1500 | A |  | Centrifuge |  |  |  |  |
E1510 | A |  | Kidney dialysate delivry sys |  |  |  |  |
E1520 | A |  | Heparin infusion pump |  |  |  |  |
E1530 | A |  | Replacement air bubble detec |  |  |  |  |
E1540 | A |  | Replacement pressure alarm |  |  |  |  |
E1550 | A |  | Bath conductivity meter |  |  |  |  |
E1560 | A |  | Replace blood leak detector |  |  |  |  |
E1570 | A |  | Adjustable chair for esrd pt |  |  |  |  |
E1575 | A |  | Transducer protect/fld bar |  |  |  |  |
E1580 | A |  | Unipuncture control system |  |  |  |  |
E1590 | A |  | Hemodialysis machine |  |  |  |  |
E1592 | A |  | Auto interm peritoneal dialy |  |  |  |  |
E1594 | A |  | Cycler dialysis machine |  |  |  |  |
E1600 | A |  | Deli/install chrg hemo equip |  |  |  |  |
E1610 | A |  | Reverse osmosis h2o puri sys |  |  |  |  |
E1615 | A |  | Deionizer H2O puri system |  |  |  |  |
E1620 | A |  | Replacement blood pump |  |  |  |  |
E1625 | A |  | Water softening system |  |  |  |  |
E1630 | A |  | Reciprocating peritoneal dia |  |  |  |  |
E1632 | A |  | Wearable artificial kidney |  |  |  |  |
E1635 | A |  | Compact travel hemodialyzer |  |  |  |  |
E1636 | A |  | Sorbent cartridges per 10 |  |  |  |  |
E1637 | A |  | Hemostats for dialysis, each |  |  |  |  |
E1639 | A |  | Dialysis scale |  |  |  |  |
E1699 | A |  | Dialysis equipment noc |  |  |  |  |
E1700 | A |  | Jaw motion rehab system |  |  |  |  |
E1701 | A |  | Repl cushions for jaw motion |  |  |  |  |
E1702 | A |  | Repl measr scales jaw motion |  |  |  |  |
E1800 | A |  | Adjust elbow ext/flex device |  |  |  |  |
E1801 | A |  | SPS elbow device |  |  |  |  |
E1802 | A |  | Adjst forearm pro/sup device |  |  |  |  |
E1805 | A |  | Adjust wrist ext/flex device |  |  |  |  |
E1806 | A |  | SPS wrist device |  |  |  |  |
E1810 | A |  | Adjust knee ext/flex device |  |  |  |  |
E1811 | A |  | SPS knee device |  |  |  |  |
E1815 | A |  | Adjust ankle ext/flex device |  |  |  |  |
E1816 | A |  | SPS ankle device |  |  |  |  |
E1818 | A |  | SPS forearm device |  |  |  |  |
E1820 | A |  | Soft interface material |  |  |  |  |
E1821 | A |  | Replacement interface SPSD |  |  |  |  |
E1825 | A |  | Adjust finger ext/flex devc |  |  |  |  |
E1830 | A |  | Adjust toe ext/flex device |  |  |  |  |
E1840 | A |  | Adj shoulder ext/flex device |  |  |  |  |
E1902 | A |  | AAC non-electronic board |  |  |  |  |
E2000 | A |  | Gastric suction pump hme mdl |  |  |  |  |
E2100 | A |  | Bld glucose monitor w voice |  |  |  |  |
E2101 | A |  | Bld glucose monitor w lance |  |  |  |  |
G0001 | A |  | Drawing blood for specimen |  |  |  |  |
G0008 | L |  | Admin influenza virus vac |  |  |  |  |
G0009 | L |  | Admin pneumococcal vaccine |  |  |  |  |
G0010 | K |  | Admin hepatitis b vaccine | 0355 | 0.2667 | $14.48 |  | $2.90
G0025 | N |  | Collagen skin test kit |  |  |  |  |
G0030 | S |  | PET imaging prev PET single | 0285 | 19.5044 | $1,058.87 | $409.56 | $211.77
G0031 | S |  | PET imaging prev PET multple | 0285 | 19.5044 | $1,058.87 | $409.56 | $211.77
G0032 | S |  | PET follow SPECT 78464 singl | 0285 | 19.5044 | $1,058.87 | $409.56 | $211.77
G0033 | S |  | PET follow SPECT 78464 mult | 0285 | 19.5044 | $1,058.87 | $409.56 | $211.77
G0034 | S |  | PET follow SPECT 76865 singl | 0285 | 19.5044 | $1,058.87 | $409.56 | $211.77
G0035 | S |  | PET follow SPECT 78465 mult | 0285 | 19.5044 | $1,058.87 | $409.56 | $211.77
G0036 | S |  | PET follow cornry angio sing | 0285 | 19.5044 | $1,058.87 | $409.56 | $211.77
G0037 | S |  | PET follow cornry angio mult | 0285 | 19.5044 | $1,058.87 | $409.56 | $211.77
G0038 | S |  | PET follow myocard perf sing | 0285 | 19.5044 | $1,058.87 | $409.56 | $211.77
G0039 | S |  | PET follow myocard perf mult | 0285 | 19.5044 | $1,058.87 | $409.56 | $211.77
G0040 | S |  | PET follow stress echo singl | 0285 | 19.5044 | $1,058.87 | $409.56 | $211.77
G0041 | S |  | PET follow stress echo mult | 0285 | 19.5044 | $1,058.87 | $409.56 | $211.77
G0042 | S |  | PET follow ventriculogm sing | 0285 | 19.5044 | $1,058.87 | $409.56 | $211.77
G0043 | S |  | PET follow ventriculogm mult | 0285 | 19.5044 | $1,058.87 | $409.56 | $211.77
G0044 | S |  | PET following rest ECG singl | 0285 | 19.5044 | $1,058.87 | $409.56 | $211.77
G0045 | S |  | PET following rest ECG mult | 0285 | 19.5044 | $1,058.87 | $409.56 | $211.77
G0046 | S |  | PET follow stress ECG singl | 0285 | 19.5044 | $1,058.87 | $409.56 | $211.77
G0047 | S |  | PET follow stress ECG mult | 0285 | 19.5044 | $1,058.87 | $409.56 | $211.77
G0101 | V |  | CA screen;pelvic/breast exam | 0600 | 0.9376 | $50.90 |  | $10.18
G0102 | N |  | Prostate ca screening; dre |  |  |  |  |
G0103 | A |  | Psa, total screening |  |  |  |  |
G0104 | S |  | CA screen;flexi sigmoidscope | 0159 | 2.7168 | $147.49 | $36.87 | $29.50
G0105 | T |  | Colorectal scrn; hi risk ind | 0158 | 7.4187 | $402.75 | $100.69 | $80.55
G0106 | S |  | Colon CA screen;barium enema | 0157 | 2.4771 | $134.48 |  | $26.90
G0107 | A |  | CA screen; fecal blood test |  |  |  |  |
G0108 | A |  | Diab manage trn per indiv |  |  |  |  |
G0109 | A |  | Diab manage trn ind/group |  |  |  |  |
G0110 | A |  | Nett pulm-rehab educ; ind |  |  |  |  |
G0111 | A |  | Nett pulm-rehab educ; group |  |  |  |  |
G0112 | A |  | Nett;nutrition guid, initial |  |  |  |  |
G0113 | A |  | Nett;nutrition guid,subseqnt |  |  |  |  |
G0114 | A |  | Nett; psychosocial consult |  |  |  |  |
G0115 | A |  | Nett; psychological testing |  |  |  |  |
G0116 | A |  | Nett; psychosocial counsel |  |  |  |  |
G0117 | S |  | Glaucoma scrn hgh risk direc | 0230 | 0.7379 | $40.06 | $14.97 | $8.01
G0118 | S |  | Glaucoma scrn hgh risk direc | 0230 | 0.7379 | $40.06 | $14.97 | $8.01
G0120 | S |  | Colon ca scrn; barium enema | 0157 | 2.4771 | $134.48 |  | $26.90
G0121 | T |  | Colon ca scrn not hi rsk ind | 0158 | 7.4187 | $402.75 | $100.69 | $80.55
G0122 | E |  | Colon ca scrn; barium enema |  |  |  |  |
G0123 | A |  | Screen cerv/vag thin layer |  |  |  |  |
G0124 | A |  | Screen c/v thin layer by MD |  |  |  |  |
G0125 | S |  | PET img WhBD sgl pulm ring | 1516 |  | $1,450.00 |  | $290.00
G0127 | T |  | Trim nail(s) | 0009 | 0.6597 | $35.81 | $8.34 | $7.16
G0128 | E |  | CORF skilled nursing service |  |  |  |  |
G0129 | P |  | Partial hosp prog service | 0033 | 3.8397 | $208.45 | $41.83 | $41.69
G0130 | X |  | Single energy x-ray study | 0260 | 0.7845 | $42.59 | $21.29 | $8.52
G0141 | E |  | Scr c/v cyto,autosys and md |  |  |  |  |
G0143 | A |  | Scr c/v cyto,thinlayer,rescr |  |  |  |  |
G0144 | A |  | Scr c/v cyto,thinlayer,rescr |  |  |  |  |
G0145 | A |  | Scr c/v cyto,thinlayer,rescr |  |  |  |  |
G0147 | A |  | Scr c/v cyto, automated sys |  |  |  |  |
G0148 | A |  | Scr c/v cyto, autosys, rescr |  |  |  |  |
G0151 | E |  | HHCP-serv of pt,ea 15 min |  |  |  |  |
G0152 | E |  | HHCP-serv of ot,ea 15 min |  |  |  |  |
G0153 | E |  | HHCP-svs of s/l path,ea 15mn |  |  |  |  |
G0154 | E |  | HHCP-svs of rn,ea 15 min |  |  |  |  |
G0155 | E |  | HHCP-svs of csw,ea 15 min |  |  |  |  |
G0156 | E |  | HHCP-svs of aide,ea 15 min |  |  |  |  |
G0166 | T |  | Extrnl counterpulse, per tx | 0678 | 2.0622 | $111.95 |  | $22.39
G0167 | E |  | Hyperbaric oz tx;no md reqrd |  |  |  |  |
G0168 | X |  | Wound closure by adhesive | 0340 | 0.6232 | $33.83 |  | $6.77
G0173 | S |  | Stereo radoisurgery,complete | 1528 |  | $5,250.00 |  | $1,050.00
G0175 | V |  | OPPS Service,sched team conf | 0602 | 1.5603 | $84.71 |  | $16.94
G0176 | P |  | OPPS/PHP;activity therapy | 0033 | 3.8397 | $208.45 | $41.83 | $41.69
G0177 | P |  | OPPS/PHP; train & educ serv | 0033 | 3.8397 | $208.45 | $41.83 | $41.69
G0179 | E |  | MD recertification HHA PT |  |  |  |  |
G0180 | E |  | MD certification HHA patient |  |  |  |  |
G0181 | E |  | Home health care supervision |  |  |  |  |
G0182 | E |  | Hospice care supervision |  |  |  |  |
G0186 | T |  | Dstry eye lesn,fdr vssl tech | 0235 | 4.9900 | $270.90 | $72.04 | $54.18
G0202 | A |  | Screeningmammographydigital |  |  |  |  |
G0204 | S |  | Diagnosticmammographydigital | 0669 | 0.9111 | $49.46 |  | $9.89
G0206 | S |  | Diagnosticmammographydigital | 0669 | 0.9111 | $49.46 |  | $9.89
G0210 | S |  | PET img whbd ring dxlung ca | 1516 |  | $1,450.00 |  | $290.00
G0211 | S |  | PET img whbd ring init lung | 1516 |  | $1,450.00 |  | $290.00
G0212 | S |  | PET img whbd ring restag lun | 1516 |  | $1,450.00 |  | $290.00
G0213 | S |  | PET img whbd ring dx colorec | 1516 |  | $1,450.00 |  | $290.00
G0214 | S |  | PET img whbd ring init colre | 1516 |  | $1,450.00 |  | $290.00
G0215 | S |  | PET img whbd restag col | 1516 |  | $1,450.00 |  | $290.00
G0216 | S |  | PET img whbd ring dx melanom | 1516 |  | $1,450.00 |  | $290.00
G0217 | S |  | PET img whbd ring init melan | 1516 |  | $1,450.00 |  | $290.00
G0218 | S |  | PET img whbd ring restag mel | 1516 |  | $1,450.00 |  | $290.00
G0219 | E |  | PET img whbd ring noncov ind |  |  |  |  |
G0220 | S |  | PET img whbd ring dx lymphom | 1516 |  | $1,450.00 |  | $290.00
G0221 | S |  | PET img whbd ring init lymph | 1516 |  | $1,450.00 |  | $290.00
G0222 | S |  | PET img whbd ring resta lymp | 1516 |  | $1,450.00 |  | $290.00
G0223 | S |  | PET img whbd reg ring dx hea | 1516 |  | $1,450.00 |  | $290.00
G0224 | S |  | PETimg whbd reg ring ini hea | 1516 |  | $1,450.00 |  | $290.00
G0225 | S |  | PET img whbd ring restag hea | 1516 |  | $1,450.00 |  | $290.00
G0226 | S |  | PET img whbd dx esophag | 1516 |  | $1,450.00 |  | $290.00
G0227 | S |  | PET img whbd ring ini esopha | 1516 |  | $1,450.00 |  | $290.00
G0228 | S |  | PET img whbd ring restg esop | 1516 |  | $1,450.00 |  | $290.00
G0229 | S |  | PET img metabolic brain ring | 1516 |  | $1,450.00 |  | $290.00
G0230 | S |  | PET myocard viability ring | 1516 |  | $1,450.00 |  | $290.00
G0231 | S |  | PET WhBD colorec; gamma cam | 1516 |  | $1,450.00 |  | $290.00
G0232 | S |  | PET whbd lymphoma; gamma cam | 1516 |  | $1,450.00 |  | $290.00
G0233 | S |  | PET whbd melanoma; gamma cam | 1516 |  | $1,450.00 |  | $290.00
G0234 | S |  | PET WhBD pulm nod; gamma cam | 1516 |  | $1,450.00 |  | $290.00
G0236 | S |  | Digital film convert diag ma | 0410 | 0.1473 | $8.00 |  | $1.60
G0237 | S |  | Therapeutic procd strg endur | 0411 | 0.4207 | $22.84 |  | $4.57
G0238 | S |  | Oth resp proc, indiv | 0411 | 0.4207 | $22.84 |  | $4.57
G0239 | S |  | Oth resp proc, group | 0411 | 0.4207 | $22.84 |  | $4.57
G0242 | S |  | Multisource photon ster plan | 1516 |  | $1,450.00 |  | $290.00
G0243 | S |  | Multisour photon stero treat | 1528 |  | $5,250.00 |  | $1,050.00
G0244 | S |  | Observ care by facility topt | 0339 | 7.2016 | $390.97 |  | $78.19
G0245 | V |  | Initial Foot Exam PTLOPS | 0600 | 0.9376 | $50.90 |  | $10.18
G0246 | V |  | Follow-up Eval of Foot PTLOPS | 0600 | 0.9376 | $50.90 |  | $10.18
G0247 | T |  | Routine footcare w LOPS | 0009 | 0.6597 | $35.81 | $8.34 | $7.16
G0248 | S |  | Demonstrate use home INR mon | 1503 |  | $150.00 |  | $30.00
G0249 | S |  | Provide test material,equipm | 1503 |  | $150.00 |  | $30.00
G0250 | E |  | MD review interpret of test |  |  |  |  |
G0251 | S |  | Linear acc based stero radio | 1513 |  | $1,150.00 |  | $230.00
G0252 | E |  | PET imaging initial dx |  |  |  |  |
G0253 | S |  | PET image brst dection recur | 1516 |  | $1,450.00 |  | $290.00
G0254 | S |  | PET image brst eval to tx | 1516 |  | $1,450.00 |  | $290.00
G0255 | E |  | Current percep threshold tst |  |  |  |  |
G0256 | T |  | Prostate brachy w palladium | 0649 | 119.0281 | $6,461.92 |  | $1,292.38
G0257 | S |  | Unsched dialysis ESRD pt hos | 0170 | 5.9427 | $322.62 |  | $64.52
G0259 | N |  | Inject for sacroiliac joint |  |  |  |  |
G0260 | T |  | Inj for sacroiliac jt anesth | 0204 | 2.2209 | $120.57 | $40.13 | $24.11
G0261 | T |  | Prostate brachy w iodine see | 0684 | 104.7194 | $5,685.11 |  | $1,137.02
G0262 | S |  | Sm intestinal image capsule | 1508 |  | $650.00 |  | $130.00
G0263 | N |  | Adm with CHF, CP, asthma |  |  |  |  |
G0264 | V |  | Assmt otr CHF, CP, asthma | 0600 | 0.9376 | $50.90 |  | $10.18
G0265 | A |  | Cryopresevation Freeze+stora |  |  |  |  |
G0266 | A |  | Thawing + expansion froz cel |  |  |  |  |
G0267 | S |  | Bone marrow or psc harvest | 0110 | 3.7128 | $201.56 |  | $40.31
G0268 | X |  | Removal of impacted wax md | 0340 | 0.6232 | $33.83 |  | $6.77
G0269 | N |  | Occlusive device in vein art |  |  |  |  |
G0270 | A |  | MNT subs tx for change dx |  |  |  |  |
G0271 | A |  | Group MNT 2 or more 30 mins |  |  |  |  |
G0272 | X |  | Naso/oro gastric tube pl MD | 0272 | 1.4086 | $76.47 | $38.23 | $15.29
G0273 | S |  | Pretx planning, non-Hodgkins | 0406 | 4.7542 | $258.10 |  | $51.62
G0274 | S |  | Radiopharm tx, non-Hodgkins | 0408 | 4.0000 | $217.16 |  | $43.43
G0275 | N |  | Renal angio, cardiac cath |  |  |  |  |
G0278 | N |  | Iliac art angio,cardiac cath |  |  |  |  |
G0279 | A |  | Excorp shock tx, elbow epi |  |  |  |  |
G0280 | A |  | Excorp shock tx other than |  |  |  |  |
G0281 | A |  | Elec stim unattend for press |  |  |  |  |
G0282 | A |  | Elect stim wound care not pd |  |  |  |  |
G0283 | A |  | Elec stim other than wound |  |  |  |  |
G0288 | S |  | Recon, CTA for surg plan | 0414 | 4.8012 | $260.65 |  | $52.13
G0289 | N |  | Arthro, loose body + chondro |  |  |  |  |
G0290 | T |  | Drug-eluting stents, single | 0656 | 101.3662 | $5,503.07 |  | $1,100.61
G0291 | T |  | Drug-eluting stents,each add | 0656 | 101.3662 | $5,503.07 |  | $1,100.61
G0292 | S |  | Adm exp drugs,clinical trial | 1503 |  | $150.00 |  | $30.00
G0293 | S |  | Non-cov surg proc,clin trial | 1505 |  | $350.00 |  | $70.00
G0294 | S |  | Non-cov proc, clinical trial | 1502 |  | $75.00 |  | $15.00
G0295 | E |  | Electromagnetic therapy onc |  |  |  |  |
G9001 | E |  | MCCD, initial rate |  |  |  |  |
G9002 | E |  | MCCD,maintenance rate |  |  |  |  |
G9003 | E |  | MCCD, risk adj hi, initial |  |  |  |  |
G9004 | E |  | MCCD, risk adj lo, initial |  |  |  |  |
G9005 | E |  | MCCD, risk adj, maintenance |  |  |  |  |
G9006 | E |  | MCCD, Home monitoring |  |  |  |  |
G9007 | E |  | MCCD, sch team conf |  |  |  |  |
G9008 | E |  | Mccd,phys coor-care ovrsght |  |  |  |  |
G9009 | E |  | MCCD, risk adj, level 3 |  |  |  |  |
G9010 | E |  | MCCD, risk adj, level 4 |  |  |  |  |
G9011 | E |  | MCCD, risk adj, level 5 |  |  |  |  |
G9012 | E |  | Other Specified Case Mgmt |  |  |  |  |
G9016 | A |  | Demo-smoking cessation coun |  |  |  |  |
GXXX1 | S |  | Infusion, pkgd noncancer | 0382 | 4.6839 | $254.28 |  | $50.86
GXXX3 | S |  | Pkgd cancer chemo, other | 0376 | 2.1479 | $116.61 |  | $23.32
GXXX4 | S |  | Infusion of pkgd cancer | 0378 | 4.3955 | $238.63 |  | $47.73
GXXX5 | S |  | Pkgd cancer chemo, both | 0380 | 5.1857 | $281.53 |  | $56.31
GYYY1 | S |  | Infusion, separate noncancer | 0383 | 1.8419 | $99.99 |  | $20.00
GYYY3 | S |  | Sep cancer chemo, other | 0377 | 0.6673 | $36.23 |  | $7.25
GYYY4 | S |  | Infusion, separate cancer | 0379 | 2.4298 | $131.91 |  | $26.38
GYYY5 | S |  | Sep cancer chemo, both | 0381 | 2.1596 | $117.24 |  | $23.45
H0001 | E |  | Alcohol and/or drug assess |  |  |  |  |
H0002 | E |  | Alcohol and/or drug screenin |  |  |  |  |
H0003 | E |  | Alcohol and/or drug screenin |  |  |  |  |
H0004 | E |  | Alcohol and/or drug services |  |  |  |  |
H0005 | E |  | Alcohol and/or drug services |  |  |  |  |
H0006 | E |  | Alcohol and/or drug services |  |  |  |  |
H0007 | E |  | Alcohol and/or drug services |  |  |  |  |
H0008 | E |  | Alcohol and/or drug services |  |  |  |  |
H0009 | E |  | Alcohol and/or drug services |  |  |  |  |
H0010 | E |  | Alcohol and/or drug services |  |  |  |  |
H0011 | E |  | Alcohol and/or drug services |  |  |  |  |
H0012 | E |  | Alcohol and/or drug services |  |  |  |  |
H0013 | E |  | Alcohol and/or drug services |  |  |  |  |
H0014 | E |  | Alcohol and/or drug services |  |  |  |  |
H0015 | E |  | Alcohol and/or drug services |  |  |  |  |
H0016 | E |  | Alcohol and/or drug services |  |  |  |  |
H0017 | E |  | Alcohol and/or drug services |  |  |  |  |
H0018 | E |  | Alcohol and/or drug services |  |  |  |  |
H0019 | E |  | Alcohol and/or drug services |  |  |  |  |
H0020 | E |  | Alcohol and/or drug services |  |  |  |  |
H0021 | E |  | Alcohol and/or drug training |  |  |  |  |
H0022 | E |  | Alcohol and/or drug interven |  |  |  |  |
H0023 | E |  | Alcohol and/or drug outreach |  |  |  |  |
H0024 | E |  | Alcohol and/or drug preventi |  |  |  |  |
H0025 | E |  | Alcohol and/or drug preventi |  |  |  |  |
H0026 | E |  | Alcohol and/or drug preventi |  |  |  |  |
H0027 | E |  | Alcohol and/or drug preventi |  |  |  |  |
H0028 | E |  | Alcohol and/or drug preventi |  |  |  |  |
H0029 | E |  | Alcohol and/or drug preventi |  |  |  |  |
H0030 | E |  | Alcohol and/or drug hotline |  |  |  |  |
H0031 | E |  | MH health assess by non-md |  |  |  |  |
H0032 | E |  | MH svc plan dev by non-md |  |  |  |  |
H0033 | E |  | Oral med adm direct observe |  |  |  |  |
H0034 | E |  | Med trng & support per 15min |  |  |  |  |
H0035 | E |  | MH partial hosp tx under 24h |  |  |  |  |
H0036 | E |  | Comm psy face-face per 15min |  |  |  |  |
H0037 | E |  | Comm psy sup tx pgm per diem |  |  |  |  |
H0038 | E |  | Self-help/peer svc per 15min |  |  |  |  |
H0039 | E |  | Asser com tx face-face/15min |  |  |  |  |
H0040 | E |  | Assert comm tx pgm per diem |  |  |  |  |
H0041 | E |  | Fos c chld non-ther per diem |  |  |  |  |
H0042 | E |  | Fos c chld non-ther per mon |  |  |  |  |
H0043 | E |  | Supported housing, per diem |  |  |  |  |
H0044 | E |  | Supported housing, per month |  |  |  |  |
H0045 | E |  | Respite not-in-home per diem |  |  |  |  |
H0046 | E |  | Mental health service, nos |  |  |  |  |
H0047 | E |  | Alcohol/drug abuse svc nos |  |  |  |  |
H0048 | E |  | Spec coll non-blood:a/d test |  |  |  |  |
H1000 | A |  | Prenatal care atrisk assessm |  |  |  |  |
H1001 | A |  | Antepartum management |  |  |  |  |
H1002 | A |  | Carecoordination prenatal |  |  |  |  |
H1003 | A |  | Prenatal at risk education |  |  |  |  |
H1004 | A |  | Follow up home visit/prental |  |  |  |  |
H1005 | A |  | Prenatalcare enhanced srv pk |  |  |  |  |
H1010 | E |  | Nonmed family planning ed |  |  |  |  |
H1011 | E |  | Family assessment |  |  |  |  |
H2000 | E |  | Comp multidisipln evaluation |  |  |  |  |
H2001 | E |  | Rehabilitation program 1/2 d |  |  |  |  |
J0120 | N |  | Tetracyclin injection |  |  |  |  |
J0130 | K |  | Abciximab injection | 1605 | 5.2806 | $286.68 |  | $57.34
J0150 | N |  | Injection adenosine 6 MG |  |  |  |  |
J0151 | K |  | Adenosine injection | 0917 | 2.3474 | $127.44 |  | $25.49
J0170 | N |  | Adrenalin epinephrin inject |  |  |  |  |
J0190 | N |  | Inj biperiden lactate/5 mg |  |  |  |  |
J0200 | N |  | Alatrofloxacin mesylate |  |  |  |  |
J0205 | K |  | Alglucerase injection | 0900 | 0.5473 | $29.71 |  | $5.94
J0207 | K |  | Amifostine | 7000 | 3.9932 | $216.79 |  | $43.36
J0210 | N |  | Methyldopate hcl injection |  |  |  |  |
J0256 | K |  | Alpha 1 proteinase inhibitor | 0901 | 0.0214 | $1.16 |  | $.23
J0270 | E |  | Alprostadil for injection |  |  |  |  |
J0275 | E |  | Alprostadil urethral suppos |  |  |  |  |
J0280 | N |  | Aminophyllin 250 MG inj |  |  |  |  |
J0282 | N |  | Amiodarone HCl |  |  |  |  |
J0285 | N |  | Amphotericin B |  |  |  |  |
J0287 | K |  | Amphotericin b lipid complex | 9024 | 0.4174 | $22.66 |  | $4.53
J0288 | N |  | Ampho b cholesteryl sulfate |  |  |  |  |
J0289 | N |  | Amphotericin b liposome inj |  |  |  |  |
J0290 | N |  | Ampicillin 500 MG inj |  |  |  |  |
J0295 | N |  | Ampicillin sodium per 1.5 gm |  |  |  |  |
J0300 | N |  | Amobarbital 125 MG inj |  |  |  |  |
J0330 | N |  | Succinycholine chloride inj |  |  |  |  |
J0350 | K |  | Injection anistreplase 30 u | 1606 | 25.3116 | $1,374.14 |  | $274.83
J0360 | N |  | Hydralazine hcl injection |  |  |  |  |
J0380 | N |  | Inj metaraminol bitartrate |  |  |  |  |
J0390 | N |  | Chloroquine injection |  |  |  |  |
J0395 | N |  | Arbutamine HCl injection |  |  |  |  |
J0456 | N |  | Azithromycin |  |  |  |  |
J0460 | N |  | Atropine sulfate injection |  |  |  |  |
J0470 | N |  | Dimecaprol injection |  |  |  |  |
J0475 | N |  | Baclofen 10 MG injection |  |  |  |  |
J0476 | E |  | Baclofen intrathecal trial |  |  |  |  |
J0500 | N |  | Dicyclomine injection |  |  |  |  |
J0515 | N |  | Inj benztropine mesylate |  |  |  |  |
J0520 | N |  | Bethanechol chloride inject |  |  |  |  |
J0530 | N |  | Penicillin g benzathine inj |  |  |  |  |
J0540 | N |  | Penicillin g benzathine inj |  |  |  |  |
J0550 | N |  | Penicillin g benzathine inj |  |  |  |  |
J0560 | N |  | Penicillin g benzathine inj |  |  |  |  |
J0570 | N |  | Penicillin g benzathine inj |  |  |  |  |
J0580 | N |  | Penicillin g benzathine inj |  |  |  |  |
J0585 | K |  | Botulinum toxin a per unit | 0902 | 0.0460 | $2.50 |  | $.50
J0587 | K |  | Botulinum toxin type B | 9018 | 0.1272 | $6.91 |  | $1.38
J0592 | N |  | Buprenorphine hydrochloride |  |  |  |  |
J0600 | N |  | Edetate calcium disodium inj |  |  |  |  |
J0610 | N |  | Calcium gluconate injection |  |  |  |  |
J0620 | N |  | Calcium glycer & lact/10 ML |  |  |  |  |
J0630 | N |  | Calcitonin salmon injection |  |  |  |  |
J0636 | N |  | Inj calcitriol per 0.1 mcg |  |  |  |  |
J0637 | K |  | Caspofungin acetate | 9019 | 0.5334 | $28.96 |  | $5.79
J0640 | N |  | Leucovorin calcium injection |  |  |  |  |
J0670 | N |  | Inj mepivacaine HCL/10 ml |  |  |  |  |
J0690 | N |  | Cefazolin sodium injection |  |  |  |  |
J0692 | N |  | Cefepime HCl for injection |  |  |  |  |
J0694 | N |  | Cefoxitin sodium injection |  |  |  |  |
J0696 | N |  | Ceftriaxone sodium injection |  |  |  |  |
J0697 | N |  | Sterile cefuroxime injection |  |  |  |  |
J0698 | N |  | Cefotaxime sodium injection |  |  |  |  |
J0702 | N |  | Betamethasone acet&sod phosp |  |  |  |  |
J0704 | N |  | Betamethasone sod phosp/4 MG |  |  |  |  |
J0706 | N |  | Caffeine citrate injection |  |  |  |  |
J0710 | N |  | Cephapirin sodium injection |  |  |  |  |
J0713 | N |  | Inj ceftazidime per 500 mg |  |  |  |  |
J0715 | N |  | Ceftizoxime sodium / 500 MG |  |  |  |  |
J0720 | N |  | Chloramphenicol sodium injec |  |  |  |  |
J0725 | N |  | Chorionic gonadotropin/1000u |  |  |  |  |
J0735 | N |  | Clonidine hydrochloride |  |  |  |  |
J0740 | N |  | Cidofovir injection |  |  |  |  |
J0743 | N |  | Cilastatin sodium injection |  |  |  |  |
J0744 | N |  | Ciprofloxacin iv |  |  |  |  |
J0745 | N |  | Inj codeine phosphate /30 MG |  |  |  |  |
J0760 | N |  | Colchicine injection |  |  |  |  |
J0770 | N |  | Colistimethate sodium inj |  |  |  |  |
J0780 | N |  | Prochlorperazine injection |  |  |  |  |
J0800 | N |  | Corticotropin injection |  |  |  |  |
J0835 | N |  | Inj cosyntropin per 0.25 MG |  |  |  |  |
J0850 | K |  | Cytomegalovirus imm IV /vial | 0903 | 5.0754 | $275.54 |  | $55.11
J0880 | E |  | Darbepoetin alfa injection |  |  |  |  |
J0895 | N |  | Deferoxamine mesylate inj |  |  |  |  |
J0900 | N |  | Testosterone enanthate inj |  |  |  |  |
J0945 | N |  | Brompheniramine maleate inj |  |  |  |  |
J0970 | N |  | Estradiol valerate injection |  |  |  |  |
J1000 | N |  | Depo-estradiol cypionate inj |  |  |  |  |
J1020 | N |  | Methylprednisolone 20 MG inj |  |  |  |  |
J1030 | N |  | Methylprednisolone 40 MG inj |  |  |  |  |
J1040 | N |  | Methylprednisolone 80 MG inj |  |  |  |  |
J1051 | N |  | Medroxyprogesterone inj |  |  |  |  |
J1055 | E |  | Medrxyprogester acetate inj |  |  |  |  |
J1056 | E |  | MA/EC contraceptiveinjection |  |  |  |  |
J1060 | N |  | Testosterone cypionate 1 ML |  |  |  |  |
J1070 | N |  | Testosterone cypionat 100 MG |  |  |  |  |
J1080 | N |  | Testosterone cypionat 200 MG |  |  |  |  |
J1094 | N |  | Inj dexamethasone acetate |  |  |  |  |
J1100 | N |  | Dexamethasone sodium phos |  |  |  |  |
J1110 | N |  | Inj dihydroergotamine mesylt |  |  |  |  |
J1120 | N |  | Acetazolamid sodium injectio |  |  |  |  |
J1160 | N |  | Digoxin injection |  |  |  |  |
J1165 | N |  | Phenytoin sodium injection |  |  |  |  |
J1170 | N |  | Hydromorphone injection |  |  |  |  |
J1180 | N |  | Dyphylline injection |  |  |  |  |
J1190 | K |  | Dexrazoxane HCl injection | 0726 | 1.9860 | $107.82 |  | $21.56
J1200 | N |  | Diphenhydramine hcl injectio |  |  |  |  |
J1205 | N |  | Chlorothiazide sodium inj |  |  |  |  |
J1212 | N |  | Dimethyl sulfoxide 50% 50 ML |  |  |  |  |
J1230 | N |  | Methadone injection |  |  |  |  |
J1240 | N |  | Dimenhydrinate injection |  |  |  |  |
J1245 | N |  | Dipyridamole injection |  |  |  |  |
J1250 | N |  | Inj dobutamine HCL/250 mg |  |  |  |  |
J1260 | N |  | Dolasetron mesylate |  |  |  |  |
J1270 | N |  | Injection, doxercalciferol |  |  |  |  |
J1320 | N |  | Amitriptyline injection |  |  |  |  |
J1325 | N |  | Epoprostenol injection |  |  |  |  |
J1327 | K |  | Eptifibatide injection | 1607 | 0.1426 | $7.74 |  | $1.55
J1330 | N |  | Ergonovine maleate injection |  |  |  |  |
J1364 | N |  | Erythro lactobionate /500 MG |  |  |  |  |
J1380 | N |  | Estradiol valerate 10 MG inj |  |  |  |  |
J1390 | N |  | Estradiol valerate 20 MG inj |  |  |  |  |
J1410 | N |  | Inj estrogen conjugate 25 MG |  |  |  |  |
J1435 | N |  | Injection estrone per 1 MG |  |  |  |  |
J1436 | N |  | Etidronate disodium inj |  |  |  |  |
J1438 | N |  | Etanercept injection |  |  |  |  |
J1440 | K |  | Filgrastim 300 mcg injection | 0728 | 2.2544 | $122.39 |  | $24.48
J1441 | K |  | Filgrastim 480 mcg injection | 7049 | 3.1998 | $173.71 |  | $34.74
J1450 | N |  | Fluconazole |  |  |  |  |
J1452 | N |  | Intraocular Fomivirsen na |  |  |  |  |
J1455 | N |  | Foscarnet sodium injection |  |  |  |  |
J1460 | N |  | Gamma globulin 1 CC inj |  |  |  |  |
J1470 | E |  | Gamma globulin 2 CC inj |  |  |  |  |
J1480 | E |  | Gamma globulin 3 CC inj |  |  |  |  |
J1490 | E |  | Gamma globulin 4 CC inj |  |  |  |  |
J1500 | E |  | Gamma globulin 5 CC inj |  |  |  |  |
J1510 | E |  | Gamma globulin 6 CC inj |  |  |  |  |
J1520 | E |  | Gamma globulin 7 CC inj |  |  |  |  |
J1530 | E |  | Gamma globulin 8 CC inj |  |  |  |  |
J1540 | E |  | Gamma globulin 9 CC inj |  |  |  |  |
J1550 | E |  | Gamma globulin 10 CC inj |  |  |  |  |
J1560 | E |  | Gamma globulin > 10 CC inj |  |  |  |  |
J1563 | K |  | Immune globulin, 1 g | 0905 | 0.8103 | $43.99 |  | $8.80
J1564 | K |  | Immune globulin 10 mg | 9021 | 0.0080 | $.43 |  | $.09
J1565 | K |  | RSV-ivig | 0906 | 6.0142 | $326.50 |  | $65.30
J1570 | N |  | Ganciclovir sodium injection |  |  |  |  |
J1580 | N |  | Garamycin gentamicin inj |  |  |  |  |
J1590 | N |  | Gatifloxacin injection |  |  |  |  |
J1600 | N |  | Gold sodium thiomaleate inj |  |  |  |  |
J1610 | N |  | Glucagon hydrochloride/1 MG |  |  |  |  |
J1620 | N |  | Gonadorelin hydroch/ 100 mcg |  |  |  |  |
J1626 | N |  | Granisetron HCl injection |  |  |  |  |
J1630 | N |  | Haloperidol injection |  |  |  |  |
J1631 | N |  | Haloperidol decanoate inj |  |  |  |  |
J1642 | N |  | Inj heparin sodium per 10 u |  |  |  |  |
J1644 | N |  | Inj heparin sodium per 1000u |  |  |  |  |
J1645 | N |  | Dalteparin sodium |  |  |  |  |
J1650 | N |  | Inj enoxaparin sodium |  |  |  |  |
J1652 | N |  | Fondaparinux sodium |  |  |  |  |
J1655 | N |  | Tinzaparin sodium injection |  |  |  |  |
J1670 | N |  | Tetanus immune globulin inj |  |  |  |  |
J1700 | N |  | Hydrocortisone acetate inj |  |  |  |  |
J1710 | N |  | Hydrocortisone sodium ph inj |  |  |  |  |
J1720 | N |  | Hydrocortisone sodium succ i |  |  |  |  |
J1730 | N |  | Diazoxide injection |  |  |  |  |
J1742 | N |  | Ibutilide fumarate injection |  |  |  |  |
J1745 | K |  | Infliximab injection | 7043 | 0.6841 | $37.14 |  | $7.43
J1750 | N |  | Iron dextran |  |  |  |  |
J1756 | N |  | Iron sucrose injection |  |  |  |  |
J1785 | K |  | Injection imiglucerase /unit | 0916 | 0.0531 | $2.88 |  | $.58
J1790 | N |  | Droperidol injection |  |  |  |  |
J1800 | N |  | Propranolol injection |  |  |  |  |
J1810 | E |  | Droperidol/fentanyl inj |  |  |  |  |
J1815 | N |  | Insulin injection |  |  |  |  |
J1817 | N |  | Insulin for insulin pump use |  |  |  |  |
J1825 | K |  | Interferon beta-1a | 0909 | 2.8010 | $152.06 |  | $30.41
J1830 | K |  | Interferon beta-1b / .25 MG | 0910 | 1.9843 | $107.73 |  | $21.55
J1835 | N |  | Itraconazole injection |  |  |  |  |
J1840 | N |  | Kanamycin sulfate 500 MG inj |  |  |  |  |
J1850 | N |  | Kanamycin sulfate 75 MG inj |  |  |  |  |
J1885 | N |  | Ketorolac tromethamine inj |  |  |  |  |
J1890 | N |  | Cephalothin sodium injection |  |  |  |  |
J1910 | N |  | Kutapressin injection |  |  |  |  |
J1940 | N |  | Furosemide injection |  |  |  |  |
J1950 | K |  | Leuprolide acetate /3.75 MG | 0800 | 3.3020 | $179.26 |  | $35.85
J1955 | E |  | Inj levocarnitine per 1 gm |  |  |  |  |
J1956 | N |  | Levofloxacin injection |  |  |  |  |
J1960 | N |  | Levorphanol tartrate inj |  |  |  |  |
J1980 | N |  | Hyoscyamine sulfate inj |  |  |  |  |
J1990 | N |  | Chlordiazepoxide injection |  |  |  |  |
J2000 | N |  | Lidocaine injection |  |  |  |  |
J2010 | N |  | Lincomycin injection |  |  |  |  |
J2020 | N |  | Linezolid injection |  |  |  |  |
J2060 | N |  | Lorazepam injection |  |  |  |  |
J2150 | N |  | Mannitol injection |  |  |  |  |
J2175 | N |  | Meperidine hydrochl /100 MG |  |  |  |  |
J2180 | N |  | Meperidine/promethazine inj |  |  |  |  |
J2210 | N |  | Methylergonovin maleate inj |  |  |  |  |
J2250 | N |  | Inj midazolam hydrochloride |  |  |  |  |
J2260 | N |  | Inj milrinone lactate, per 5 mg |  |  |  |  |
J2270 | N |  | Morphine sulfate injection |  |  |  |  |
J2271 | N |  | Morphine so4 injection 100mg |  |  |  |  |
J2275 | N |  | Morphine sulfate injection |  |  |  |  |
J2300 | N |  | Inj nalbuphine hydrochloride |  |  |  |  |
J2310 | N |  | Inj naloxone hydrochloride |  |  |  |  |
J2320 | N |  | Nandrolone decanoate 50 MG |  |  |  |  |
J2321 | N |  | Nandrolone decanoate 100 MG |  |  |  |  |
J2322 | N |  | Nandrolone decanoate 200 MG |  |  |  |  |
J2324 | G |  | Nesiritide, per 0.5 mg vial | 9114 |  | $144.40 |  | $21.58
J2352 | K |  | Octreotide acetate injection | 7031 | 1.0339 | $56.13 |  | $11.23
J2355 | K |  | Oprelvekin injection | 7011 | 2.7246 | $147.92 |  | $29.58
J2360 | N |  | Orphenadrine injection |  |  |  |  |
J2370 | N |  | Phenylephrine hcl injection |  |  |  |  |
J2400 | N |  | Chloroprocaine hcl injection |  |  |  |  |
J2405 | N |  | Ondansetron hcl injection |  |  |  |  |
J2410 | N |  | Oxymorphone hcl injection |  |  |  |  |
J2430 | K |  | Pamidronate disodium /30 MG | 0730 | 2.0537 | $111.49 |  | $22.30
J2440 | N |  | Papaverin hcl injection |  |  |  |  |
J2460 | N |  | Oxytetracycline injection |  |  |  |  |
J2501 | N |  | Paricalcitol |  |  |  |  |
J2510 | N |  | Penicillin g procaine inj |  |  |  |  |
J2515 | N |  | Pentobarbital sodium inj |  |  |  |  |
J2540 | N |  | Penicillin g potassium inj |  |  |  |  |
J2543 | N |  | Piperacillin/tazobactam |  |  |  |  |
J2545 | A |  | Pentamidine isethionte/300mg |  |  |  |  |
J2550 | N |  | Promethazine hcl injection |  |  |  |  |
J2560 | N |  | Phenobarbital sodium inj |  |  |  |  |
J2590 | N |  | Oxytocin injection |  |  |  |  |
J2597 | N |  | Inj desmopressin acetate |  |  |  |  |
J2650 | N |  | Prednisolone acetate inj |  |  |  |  |
J2670 | N |  | Totazoline hcl injection |  |  |  |  |
J2675 | N |  | Inj progesterone per 50 MG |  |  |  |  |
J2680 | N |  | Fluphenazine decanoate 25 MG |  |  |  |  |
J2690 | N |  | Procainamide hcl injection |  |  |  |  |
J2700 | N |  | Oxacillin sodium injeciton |  |  |  |  |
J2710 | N |  | Neostigmine methylslfte inj |  |  |  |  |
J2720 | N |  | Inj protamine sulfate/10 MG |  |  |  |  |
J2725 | N |  | Inj protirelin per 250 mcg |  |  |  |  |
J2730 | N |  | Pralidoxime chloride inj |  |  |  |  |
J2760 | N |  | Phentolaine mesylate inj |  |  |  |  |
J2765 | N |  | Metoclopramide hcl injection |  |  |  |  |
J2770 | N |  | Quinupristin/dalfopristin |  |  |  |  |
J2780 | N |  | Ranitidine hydrochloride inj |  |  |  |  |
J2788 | K |  | Rho d immune globulin 50 mcg | 9023 | 0.0523 | $2.84 |  | $.57
J2790 | K |  | Rho d immune globulin inj | 0884 | 0.2312 | $12.55 |  | $2.51
J2792 | K |  | Rho(D) immune globulin h, sd | 1609 | 0.1863 | $10.11 |  | $2.02
J2795 | N |  | Ropivacaine HCl injection |  |  |  |  |
J2800 | N |  | Methocarbamol injection |  |  |  |  |
J2810 | N |  | Inj theophylline per 40 MG |  |  |  |  |
J2820 | N |  | Sargramostim injection |  |  |  |  |
J2910 | N |  | Aurothioglucose injeciton |  |  |  |  |
J2912 | N |  | Sodium chloride injection |  |  |  |  |
J2916 | N |  | Na ferric gluconate complex |  |  |  |  |
J2920 | N |  | Methylprednisolone injection |  |  |  |  |
J2930 | N |  | Methylprednisolone injection |  |  |  |  |
J2940 | N |  | Somatrem injection |  |  |  |  |
J2941 | K |  | Somatropin injection | 7034 | 0.9206 | $49.98 |  | $10.00
J2950 | N |  | Promazine hcl injection |  |  |  |  |
J2993 | K |  | Reteplase injection | 9005 | 10.1332 | $550.12 |  | $110.02
J2995 | K |  | Inj streptokinase /250000 IU | 0911 | 1.6055 | $87.16 |  | $17.43
J2997 | N |  | Alteplase recombinant |  |  |  |  |
J3000 | N |  | Streptomycin injection |  |  |  |  |
J3010 | N |  | Fentanyl citrate injeciton |  |  |  |  |
J3030 | N |  | Sumatriptan succinate / 6 MG |  |  |  |  |
J3070 | N |  | Pentazocine hcl injection |  |  |  |  |
J3100 | K |  | Tenecteplase injection | 9002 | 23.2303 | $1,261.15 |  | $252.23
J3105 | N |  | Terbutaline sulfate inj |  |  |  |  |
J3120 | N |  | Testosterone enanthate inj |  |  |  |  |
J3130 | N |  | Testosterone enanthate inj |  |  |  |  |
J3140 | N |  | Testosterone suspension inj |  |  |  |  |
J3150 | N |  | Testosteron propionate inj |  |  |  |  |
J3230 | N |  | Chlorpromazine hcl injection |  |  |  |  |
J3240 | K |  | Thyrotropin injection | 9108 | 6.6059 | $358.63 |  | $71.73
J3245 | K |  | Tirofiban hydrochloride | 7041 | 4.2976 | $233.31 |  | $46.66
J3250 | N |  | Trimethobenzamide hcl inj |  |  |  |  |
J3260 | N |  | Tobramycin sulfate injection |  |  |  |  |
J3265 | N |  | Injection torsemide 10 mg/ml |  |  |  |  |
J3280 | N |  | Thiethylperazine maleate inj |  |  |  |  |
J3301 | N |  | Triamcinolone acetonide inj |  |  |  |  |
J3302 | N |  | Triamcinolone diacetate inj |  |  |  |  |
J3303 | N |  | Triamcinolone hexacetonl inj |  |  |  |  |
J3305 | K |  | Inj trimetrexate glucoronate | 7045 | 1.2099 | $65.68 |  | $13.14
J3310 | N |  | Perphenazine injeciton |  |  |  |  |
J3315 | G |  | Triptorelin pamoate | 9122 |  | $415.24 |  | $62.07
J3320 | N |  | Spectinomycn di-hcl inj |  |  |  |  |
J3350 | N |  | Urea injection |  |  |  |  |
J3360 | N |  | Diazepam injection |  |  |  |  |
J3364 | N |  | Urokinase 5000 IU injection |  |  |  |  |
J3365 | K |  | Urokinase 250,000 IU inj | 7036 | 5.1032 | $277.05 |  | $55.41
J3370 | N |  | Vancomycin hcl injection |  |  |  |  |
J3395 | K |  | Verteporfin injection | 1203 | 16.1946 | $879.19 |  | $175.84
J3400 | N |  | Triflupromazine hcl inj |  |  |  |  |
J3410 | N |  | Hydroxyzine hcl injection |  |  |  |  |
J3420 | N |  | Vitamin b12 injection |  |  |  |  |
J3430 | N |  | Vitamin k phytonadione inj |  |  |  |  |
J3470 | N |  | Hyaluronidase injection |  |  |  |  |
J3475 | N |  | Inj magnesium sulfate |  |  |  |  |
J3480 | N |  | Inj potassium chloride |  |  |  |  |
J3485 | N |  | Zidovudine |  |  |  |  |
J3487 | G |  | Zoledronic acid | 9115 |  | $203.40 |  | $30.40
J3490 | N |  | Drugs unclassified injection |  |  |  |  |
J3520 | E |  | Edetate disodium per 150 mg |  |  |  |  |
J3530 | N |  | Nasal vaccine inhalation |  |  |  |  |
J3535 | E |  | Metered dose inhaler drug |  |  |  |  |
J3570 | E |  | Laetrile amygdalin vit B17 |  |  |  |  |
J3590 | N |  | Unclassified biologics |  |  |  |  |
J7030 | N |  | Normal saline solution infus |  |  |  |  |
J7040 | N |  | Normal saline solution infus |  |  |  |  |
J7042 | N |  | 5% dextrose/normal saline |  |  |  |  |
J7050 | N |  | Normal saline solution infus |  |  |  |  |
J7051 | N |  | Sterile saline/water |  |  |  |  |
J7060 | N |  | 5% dextrose/water |  |  |  |  |
J7070 | N |  | D5w infusion |  |  |  |  |
J7100 | N |  | Dextran 40 infusion |  |  |  |  |
J7110 | N |  | Dextran 75 infusion |  |  |  |  |
J7120 | N |  | Ringers lactate infusion |  |  |  |  |
J7130 | N |  | Hypertonic saline solution |  |  |  |  |
J7190 | K |  | Factor viii | 0925 | 0.0085 | $.46 |  | $.09
J7191 | K |  | Factor VIII (porcine) | 0926 | 0.0253 | $1.37 |  | $.27
J7192 | K |  | Factor viii recombinant | 0927 | 0.0168 | $.91 |  | $.18
J7193 | K |  | Factor IX non-recombinant | 0931 | 0.0104 | $.56 |  | $.11
J7194 | K |  | Factor ix complex | 0928 | 0.0085 | $.46 |  | $.09
J7195 | K |  | Factor IX recombinant | 0932 | 0.0168 | $.91 |  | $.18
J7197 | K |  | Antithrombin iii injection | 0930 | 0.0117 | $.64 |  | $.13
J7198 | K |  | Anti-inhibitor | 0929 | 0.0168 | $.91 |  | $.18
J7199 | E |  | Hemophilia clot factor noc |  |  |  |  |
J7300 | E |  | Intraut copper contraceptive |  |  |  |  |
J7302 | E |  | Levonorgestrel iu contracept |  |  |  |  |
J7308 | N |  | Aminolevulinic acid hcl top |  |  |  |  |
J7310 | N |  | Ganciclovir long act implant |  |  |  |  |
J7317 | N |  | Sodium hyaluronate injection |  |  |  |  |
J7320 | K |  | Hylan G-F 20 injection | 1611 | 2.1566 | $117.08 |  | $23.42
J7330 | E |  | Cultured chondrocytes implnt |  |  |  |  |
J7340 | E |  | Metabolic active D/E tissue |  |  |  |  |
J7342 | N |  | Metabolically active tissue |  |  |  |  |
J7350 | N |  | Injectable human tissue |  |  |  |  |
J7500 | N |  | Azathioprine oral 50mg |  |  |  |  |
J7501 | N |  | Azathioprine parenteral |  |  |  |  |
J7502 | K |  | Cyclosporine oral 100 mg | 0888 | 0.0482 | $2.62 |  | $.52
J7504 | K |  | Lymphocyte immune globulin | 0890 | 2.1958 | $119.21 |  | $23.84
J7505 | K |  | Monoclonal antibodies | 7038 | 5.8452 | $317.33 |  | $63.47
J7506 | N |  | Prednisone oral |  |  |  |  |
J7507 | K |  | Tacrolimus oral per 1 MG | 0891 | 0.0236 | $1.28 |  | $.26
J7508 | E |  | Tacrolimus oral per 5 MG |  |  |  |  |
J7509 | N |  | Methylprednisolone oral |  |  |  |  |
J7510 | N |  | Prednisolone oral per 5 mg |  |  |  |  |
J7511 | K |  | Antithymocyte globuln rabbit | 9104 | 2.9801 | $161.79 |  | $32.36
J7513 | K |  | Daclizumab, parenteral | 1612 | 3.7304 | $202.52 |  | $40.50
J7515 | N |  | Cyclosporine oral 25 mg |  |  |  |  |
J7516 | N |  | Cyclosporin parenteral 250mg |  |  |  |  |
J7517 | K |  | Mycophenolate mofetil oral | 9015 | 0.0373 | $2.02 |  | $.40
J7520 | K |  | Sirolimus, oral | 9020 | 0.0520 | $2.82 |  | $.56
J7525 | N |  | Tacrolimus injection |  |  |  |  |
J7599 | E |  | Immunosuppressive drug noc |  |  |  |  |
J7608 | A |  | Acetylcysteine inh sol u d |  |  |  |  |
J7618 | A |  | Albuterol inh sol con |  |  |  |  |
J7619 | A |  | Albuterol inh sol u d |  |  |  |  |
J7622 | A |  | Beclomethasone inhalatn sol |  |  |  |  |
J7624 | A |  | Betamethasone inhalation sol |  |  |  |  |
J7626 | A |  | Budesonide inhalation sol |  |  |  |  |
J7628 | A |  | Bitolterol mes inhal sol con |  |  |  |  |
J7629 | A |  | Bitolterol mes inh sol u d |  |  |  |  |
J7631 | A |  | Cromolyn sodium inh sol u d |  |  |  |  |
J7633 | N |  | Budesonide concentrated sol |  |  |  |  |
J7635 | A |  | Atropine inhal sol con |  |  |  |  |
J7636 | A |  | Atropine inhal sol unit dose |  |  |  |  |
J7637 | A |  | Dexamethasone inhal sol con |  |  |  |  |
J7638 | A |  | Dexamethasone inhal sol u d |  |  |  |  |
J7639 | A |  | Dornase alpha inhal sol u d |  |  |  |  |
J7641 | A |  | Flunisolide, inhalation sol |  |  |  |  |
J7642 | A |  | Glycopyrrolate inhal sol con |  |  |  |  |
J7643 | A |  | Glycopyrrolate inhal sol u d |  |  |  |  |
J7644 | A |  | Ipratropium brom inh sol u d |  |  |  |  |
J7648 | A |  | Isoetharine hcl inh sol con |  |  |  |  |
J7649 | A |  | Isoetharine hcl inh sol u d |  |  |  |  |
J7658 | A |  | Isoproterenolhcl inh sol con |  |  |  |  |
J7659 | A |  | Isoproterenol hcl inh sol ud |  |  |  |  |
J7668 | A |  | Metaproterenol inh sol con |  |  |  |  |
J7669 | A |  | Metaproterenol inh sol u d |  |  |  |  |
J7680 | A |  | Terbutaline so4 inh sol con |  |  |  |  |
J7681 | A |  | Terbutaline so4 inh sol u d |  |  |  |  |
J7682 | A |  | Tobramycin inhalation sol |  |  |  |  |
J7683 | A |  | Triamcinolone inh sol con |  |  |  |  |
J7684 | A |  | Triamcinolone inh sol u d |  |  |  |  |
J7699 | A |  | Inhalation solution for DME |  |  |  |  |
J7799 | A |  | Non-inhalation drug for DME |  |  |  |  |
J8499 | E |  | Oral prescrip drug non chemo |  |  |  |  |
J8510 | K |  | Oral busulfan | 7015 | 0.0263 | $1.43 |  | $.29
J8520 | K |  | Capecitabine, oral, 150 mg | 7042 | 0.0290 | $1.57 |  | $.31
J8521 | E |  | Capecitabine, oral, 500 mg |  |  |  |  |
J8530 | N |  | Cyclophosphamide oral 25 MG |  |  |  |  |
J8560 | K |  | Etoposide oral 50 MG | 0802 | 0.4830 | $26.22 |  | $5.24
J8600 | N |  | Melphalan oral 2 MG |  |  |  |  |
J8610 | N |  | Methotrexate oral 2.5 MG |  |  |  |  |
J8700 | K |  | Temozolmide | 1086 | 0.0643 | $3.49 |  | $.70
J8999 | E |  | Oral prescription drug chemo |  |  |  |  |
J9000 | N |  | Doxorubic hcl 10 MG vl chemo |  |  |  |  |
J9001 | K |  | Doxorubicin hcl liposome inj | 7046 | 4.6362 | $251.69 |  | $50.34
J9010 | K |  | Alemtuzumab injection | 9110 | 7.6422 | $414.89 |  | $82.98
J9015 | K |  | Aldesleukin/single use vial | 0807 | 7.0936 | $385.10 |  | $77.02
J9017 | K |  | Arsenic trioxide | 9012 | 0.4837 | $26.26 |  | $5.25
J9020 | N |  | Asparaginase injection |  |  |  |  |
J9031 | N |  | Bcg live intravesical vac |  |  |  |  |
J9040 | K |  | Bleomycin sulfate injection | 0857 | 2.2352 | $121.35 |  | $24.27
J9045 | K |  | Carboplatin injection | 0811 | 1.5475 | $84.01 |  | $16.80
J9050 | K |  | Carmus bischl nitro inj | 0812 | 0.9972 | $54.14 |  | $10.83
J9060 | K |  | Cisplatin 10 MG injection | 0813 | 0.3594 | $19.51 |  | $3.90
J9062 | E |  | Cisplatin 50 MG injection |  |  |  |  |
J9065 | K |  | Inj cladribine per 1 MG | 0858 | 0.7031 | $38.17 |  | $7.63
J9070 | N |  | Cyclophosphamide 100 MG inj |  |  |  |  |
J9080 | E |  | Cyclophosphamide 200 MG inj |  |  |  |  |
J9090 | E |  | Cyclophosphamide 500 MG inj |  |  |  |  |
J9091 | E |  | Cyclophosphamide 1.0 grm inj |  |  |  |  |
J9092 | E |  | Cyclophosphamide 2.0 grm inj |  |  |  |  |
J9093 | N |  | Cyclophosphamide lyophilized |  |  |  |  |
J9094 | E |  | Cyclophosphamide lyophilized |  |  |  |  |
J9095 | E |  | Cyclophosphamide lyophilized |  |  |  |  |
J9096 | E |  | Cyclophosphamide lyophilized |  |  |  |  |
J9097 | E |  | Cyclophosphamide lyophilized |  |  |  |  |
J9100 | N |  | Cytarabine hcl 100 MG inj |  |  |  |  |
J9110 | E |  | Cytarabine hcl 500 MG inj |  |  |  |  |
J9120 | N |  | Dactinomycin actinomycin d |  |  |  |  |
J9130 | N |  | Dacarbazine 10 MG inj |  |  |  |  |
J9140 | E |  | Dacarbazine 200 MG inj |  |  |  |  |
J9150 | K |  | Daunorubicin | 0820 | .6052 | $32.86 |  | $6.57
J9151 | K |  | Daunorubicin citrate liposom | 0821 | 2.9697 | $161.22 |  | $32.24
J9160 | K |  | Denileukin diftitox, 300 mcg | 1084 | 15.0913 | $819.29 |  | $163.86
J9165 | K |  | Diethylstilbestrol injection | 0822 | 1.3274 | $72.06 |  | $14.41
J9170 | K |  | Docetaxel | 0823 | 4.0041 | $217.38 |  | $43.48
J9180 | E |  | Epirubicin HCl injection |  |  |  |  |
J9181 | N |  | Etoposide 10 MG inj |  |  |  |  |
J9182 | E |  | Etoposide 100 MG inj |  |  |  |  |
J9185 | K |  | Fludarabine phosphate inj | 0842 | 3.6854 | $200.08 |  | $40.02
J9190 | N |  | Fluorouracil injection |  |  |  |  |
J9200 | K |  | Floxuridine injection | 0827 | 2.1836 | $118.55 |  | $23.71
J9201 | K |  | Gemcitabine HCl | 0828 | 1.4523 | $78.84 |  | $15.77
J9202 | K |  | Goserelin acetate implant | 0810 | 4.9549 | $269.00 |  | $53.80
J9206 | K |  | Irinotecan injection | 0830 | 1.8626 | $101.12 |  | $20.22
J9208 | K |  | Ifosfomide injection | 0831 | 1.1616 | $63.06 |  | $12.61
J9209 | K |  | Mesna injection | 0732 | 0.4908 | $26.65 |  | $5.33
J9211 | K |  | Idarubicin hcl injection | 0832 | 3.2438 | $176.10 |  | $35.22
J9212 | N |  | Interferon alfacon-1 |  |  |  |  |
J9213 | N |  | Interferon alfa-2a inj |  |  |  |  |
J9214 | K |  | Interferon alfa-2b inj | 0836 | 0.2000 | $10.86 |  | $2.17
J9215 | K |  | Interferon alfa-n3 inj | 0865 | 1.5823 | $85.90 |  | $17.18
J9216 | K |  | Interferon gamma 1-b inj | 0838 | 2.4742 | $134.32 |  | $26.86
J9217 | K |  | Leuprolide acetate suspnsion | 9217 | 5.5128 | $299.28 |  | $59.86
J9218 | K |  | Leuprolide acetate injeciton | 0861 | 0.8223 | $44.64 |  | $8.93
J9219 | K |  | Leuprolide acetate implant | 7051 | 68.9392 | $3,742.64 |  | $748.53
J9230 | N |  | Mechlorethamine hcl inj |  |  |  |  |
J9245 | K |  | Inj melphalan hydrochl 50 MG | 0840 | 4.4072 | $239.26 |  | $47.85
J9250 | N |  | Methotrexate sodium inj |  |  |  |  |
J9260 | E |  | Methotrexate sodium inj |  |  |  |  |
J9265 | K |  | Paclitaxel injection | 0863 | 1.2674 | $68.81 |  | $13.76
J9266 | K |  | Pegaspargase/singl dose vial | 0843 | 5.7621 | $312.82 |  | $62.56
J9268 | K |  | Pentostatin injection | 0844 | 17.4201 | $945.72 |  | $189.14
J9270 | N |  | Plicamycin (mithramycin) inj |  |  |  |  |
J9280 | K |  | Mitomycin 5 MG inj | 0862 | 0.9557 | $51.88 |  | $10.38
J9290 | E |  | Mitomycin 20 MG inj |  |  |  |  |
J9291 | E |  | Mitomycin 40 MG inj |  |  |  |  |
J9293 | K |  | Mitoxantrone hydrochl / 5 MG | 0864 | 3.1513 | $171.08 |  | $34.22
J9300 | K |  | Gemtuzumab ozogamicin | 9004 | 17.5020 | $950.17 |  | $190.03
J9310 | K |  | Rituximab cancer treatment | 0849 | 5.5636 | $302.04 |  | $60.41
J9320 | K |  | Streptozocin injection | 0850 | 1.3942 | $75.69 |  | $15.14
J9340 | N |  | Thiotepa injection |  |  |  |  |
J9350 | K |  | Topotecan | 0852 | 7.9075 | $429.29 |  | $85.86
J9355 | K |  | Trastuzumab | 1613 | 0.7384 | $40.09 |  | $8.02
J9357 | K |  | Valrubicin, 200 mg | 1614 | 9.6183 | $522.17 |  | $104.43
J9360 | N |  | Vinblastine sulfate inj |  |  |  |  |
J9370 | N |  | Vincristine sulfate 1 MG inj |  |  |  |  |
J9375 | E |  | Vincristine sulfate 2 MG inj |  |  |  |  |
J9380 | E |  | Vincristine sulfate 5 MG inj |  |  |  |  |
J9390 | K |  | Vinorelbine tartrate/10 mg | 0855 | 1.1683 | $63.43 |  | $12.69
J9600 | K |  | Porfimer sodium | 0856 | 25.3788 | $1,377.79 |  | $275.56
J9999 | N |  | Chemotherapy drug |  |  |  |  |
K0001 | A |  | Standard wheelchair |  |  |  |  |
K0002 | A |  | Stnd hemi (low seat) whlchr |  |  |  |  |
K0003 | A |  | Lightweight wheelchair |  |  |  |  |
K0004 | A |  | High strength ltwt whlchr |  |  |  |  |
K0005 | A |  | Ultralightweight wheelchair |  |  |  |  |
K0006 | A |  | Heavy duty wheelchair |  |  |  |  |
K0007 | A |  | Extra heavy duty wheelchair |  |  |  |  |
K0009 | A |  | Other manual wheelchair/base |  |  |  |  |
K0010 | A |  | Stnd wt frame power whlchr |  |  |  |  |
K0011 | A |  | Stnd wt pwr whlchr w control |  |  |  |  |
K0012 | A |  | Ltwt portbl power whlchr |  |  |  |  |
K0014 | A |  | Other power whlchr base |  |  |  |  |
K0015 | A |  | Detach non-adjus hght armrst |  |  |  |  |
K0016 | A |  | Detach adjust armrst cmplete |  |  |  |  |
K0017 | A |  | Detach adjust armrest base |  |  |  |  |
K0018 | A |  | Detach adjust armrst upper |  |  |  |  |
K0019 | A |  | Arm pad each |  |  |  |  |
K0020 | A |  | Fixed adjust armrest pair |  |  |  |  |
K0022 | A |  | Reinforced back upholstery |  |  |  |  |
K0023 | A |  | Planr back insrt foam w/strp |  |  |  |  |
K0024 | A |  | Plnr back insrt foam w/hrdwr |  |  |  |  |
K0025 | A |  | Hook-on headrest extension |  |  |  |  |
K0026 | A |  | Back upholst lgtwt whlchr |  |  |  |  |
K0027 | A |  | Back upholst other whlchr |  |  |  |  |
K0028 | A |  | Manual fully reclining back |  |  |  |  |
K0029 | A |  | Reinforced seat upholstery |  |  |  |  |
K0030 | A |  | Solid plnr seat sngl dnsfoam |  |  |  |  |
K0031 | A |  | Safety belt/pelvic strap |  |  |  |  |
K0032 | A |  | Seat uphols lgtwt whlchr |  |  |  |  |
K0033 | A |  | Seat upholstery other whlchr |  |  |  |  |
K0035 | A |  | Heel loop with ankle strap |  |  |  |  |
K0036 | A |  | Toe loop each |  |  |  |  |
K0037 | A |  | High mount flip-up footrest |  |  |  |  |
K0038 | A |  | Leg strap each |  |  |  |  |
K0039 | A |  | Leg strap h style each |  |  |  |  |
K0040 | A |  | Adjustable angle footplate |  |  |  |  |
K0041 | A |  | Large size footplate each |  |  |  |  |
K0042 | A |  | Standard size footplate each |  |  |  |  |
K0043 | A |  | Ftrst lower extension tube |  |  |  |  |
K0044 | A |  | Ftrst upper hanger bracket |  |  |  |  |
K0045 | A |  | Footrest complete assembly |  |  |  |  |
K0046 | A |  | Elevat legrst low extension |  |  |  |  |
K0047 | A |  | Elevat legrst up hangr brack |  |  |  |  |
K0048 | A |  | Elevate legrest complete |  |  |  |  |
K0049 | A |  | Calf pad each |  |  |  |  |
K0050 | A |  | Ratchet assembly |  |  |  |  |
K0051 | A |  | Cam relese assem ftrst/lgrst |  |  |  |  |
K0052 | A |  | Swingaway detach footrest |  |  |  |  |
K0053 | A |  | Elevate footrest articulate |  |  |  |  |
K0054 | A |  | Seat wdth 10-12/15/17/20 wc |  |  |  |  |
K0055 | A |  | Seat dpth 15/17/18 ltwt wc |  |  |  |  |
K0056 | A |  | Seat ht >17 or <=21 ltwt wc |  |  |  |  |
K0057 | A |  | Seat wdth 19/20 hvy dty wc |  |  |  |  |
K0058 | A |  | Seat dpth 17/18 power wc |  |  |  |  |
K0059 | A |  | Plastic coated handrim each |  |  |  |  |
K0060 | A |  | Steel handrim each |  |  |  |  |
K0061 | A |  | Aluminum handrim each |  |  |  |  |
K0062 | A |  | Handrim 8-10 vert/obliq proj |  |  |  |  |
K0063 | A |  | Hndrm 12-16 vert/obliq proj |  |  |  |  |
K0064 | A |  | Zero pressure tube flat free |  |  |  |  |
K0065 | A |  | Spoke protectors |  |  |  |  |
K0066 | A |  | Solid tire any size each |  |  |  |  |
K0067 | A |  | Pneumatic tire any size each |  |  |  |  |
K0068 | A |  | Pneumatic tire tube each |  |  |  |  |
K0069 | A |  | Rear whl complete solid tire |  |  |  |  |
K0070 | A |  | Rear whl compl pneum tire |  |  |  |  |
K0071 | A |  | Front castr compl pneum tire |  |  |  |  |
K0072 | A |  | Frnt cstr cmpl sem-pneum tir |  |  |  |  |
K0073 | A |  | Caster pin lock each |  |  |  |  |
K0074 | A |  | Pneumatic caster tire each |  |  |  |  |
K0075 | A |  | Semi-pneumatic caster tire |  |  |  |  |
K0076 | A |  | Solid caster tire each |  |  |  |  |
K0077 | A |  | Front caster assem complete |  |  |  |  |
K0078 | A |  | Pneumatic caster tire tube |  |  |  |  |
K0079 | A |  | Wheel lock extension pair |  |  |  |  |
K0080 | A |  | Anti-rollback device pair |  |  |  |  |
K0081 | A |  | Wheel lock assembly complete |  |  |  |  |
K0082 | A |  | 22 nf deep cycl acid battery |  |  |  |  |
K0083 | A |  | 22 nf gel cell battery each |  |  |  |  |
K0084 | A |  | Grp 24 deep cycl acid battry |  |  |  |  |
K0085 | A |  | Group 24 gel cell battery |  |  |  |  |
K0086 | A |  | U-1 lead acid battery each |  |  |  |  |
K0087 | A |  | U-1 gel cell battery each |  |  |  |  |
K0088 | A |  | Battry chrgr acid/gel cell |  |  |  |  |
K0089 | A |  | Battery charger dual mode |  |  |  |  |
K0090 | A |  | Rear tire power wheelchair |  |  |  |  |
K0091 | A |  | Rear tire tube power whlchr |  |  |  |  |
K0092 | A |  | Rear assem cmplt powr whlchr |  |  |  |  |
K0093 | A |  | Rear zero pressure tire tube |  |  |  |  |
K0094 | A |  | Wheel tire for power base |  |  |  |  |
K0095 | A |  | Wheel tire tube each base |  |  |  |  |
K0096 | A |  | Wheel assem powr base complt |  |  |  |  |
K0097 | A |  | Wheel zero presure tire tube |  |  |  |  |
K0098 | A |  | Drive belt power wheelchair |  |  |  |  |
K0099 | A |  | Pwr wheelchair front caster |  |  |  |  |
K0100 | A |  | Amputee adapter pair |  |  |  |  |
K0102 | A |  | Crutch and cane holder |  |  |  |  |
K0103 | A |  | Transfer board < 25≧ |  |  |  |  |
K0104 | A |  | Cylinder tank carrier |  |  |  |  |
K0105 | A |  | Iv hanger |  |  |  |  |
K0106 | A |  | Arm trough each |  |  |  |  |
K0107 | A |  | Wheelchair tray |  |  |  |  |
K0108 | A |  | W/c component-accessory NOS |  |  |  |  |
K0112 | A |  | Trunk vest supprt innr frame |  |  |  |  |
K0113 | A |  | Trunk vest suprt w/o inr frm |  |  |  |  |
K0114 | A |  | Whlchr back suprt inr frame |  |  |  |  |
K0115 | A |  | Back module orthotic system |  |  |  |  |
K0116 | A |  | Back & seat modul orthot sys |  |  |  |  |
K0195 | A |  | Elevating whlchair leg rests |  |  |  |  |
K0268 | A |  | Humidifier nonheated w PAP |  |  |  |  |
K0415 | E |  | RX antiemetic drg, oral NOS |  |  |  |  |
K0416 | E |  | Rx antiemetic drg,rectal NOS |  |  |  |  |
K0452 | A |  | Wheelchair bearings |  |  |  |  |
K0455 | A |  | Pump uninterrupted infusion |  |  |  |  |
K0460 | A |  | WC power add-on joystick |  |  |  |  |
K0461 | A |  | WC power add-on tiller cntrl |  |  |  |  |
K0462 | A |  | Temporary replacement eqpmnt |  |  |  |  |
K0531 | A |  | Heated humidifier used w pap |  |  |  |  |
K0532 | A |  | Noninvasive assist wo backup |  |  |  |  |
K0533 | A |  | Noninvasive assist w backup |  |  |  |  |
K0534 | A |  | Invasive assist w backup |  |  |  |  |
K0538 | A |  | Neg pressure wnd thrpy pump |  |  |  |  |
K0539 | A |  | Neg pres wnd thrpy dsg set |  |  |  |  |
K0540 | A |  | Neg pres wnd thrp canister |  |  |  |  |
K0541 | A |  | SGD prerecorded msg <= 8 min |  |  |  |  |
K0542 | A |  | SGD prerecorded msg > 8 min |  |  |  |  |
K0543 | A |  | SGD msg formed by spelling |  |  |  |  |
K0544 | A |  | SGD w multi methods msg/accs |  |  |  |  |
K0545 | A |  | SGD sftwre prgrm for PC/PDA |  |  |  |  |
K0546 | A |  | SGD accessory,mounting systm |  |  |  |  |
K0547 | A |  | SGD accessory NOC |  |  |  |  |
K0548 | A |  | Insulin lispro |  |  |  |  |
K0549 | A |  | Hosp bed hvy dty xtra wide |  |  |  |  |
K0550 | A |  | Hosp bed xtra hvy dty x wide |  |  |  |  |
K0556 | A |  | Socket insert w lock mech |  |  |  |  |
K0557 | A |  | Socket insert w/o lock mech |  |  |  |  |
K0558 | A |  | Intl custm cong/atyp insert |  |  |  |  |
K0559 | A |  | Initial custom socket insert |  |  |  |  |
K0560 | N |  | Mcp joint 2-piece for implant |  |  |  |  |
K0581 | A |  | Ost pch clsd w barrier/filtr |  |  |  |  |
K0582 | A |  | Ost pch w bar/bltinconv/fltr |  |  |  |  |
K0583 | A |  | Ost pch clsd w/o bar w filtr |  |  |  |  |
K0584 | A |  | Ost pch for bar w flange/flt |  |  |  |  |
K0585 | A |  | Ost pch clsd for bar w lk fl |  |  |  |  |
K0586 | A |  | Ost pch for bar w lk fl/fltr |  |  |  |  |
K0587 | A |  | Ost pch drain w bar & filter |  |  |  |  |
K0588 | A |  | Ost pch drain for barrier fl |  |  |  |  |
K0589 | A |  | Ost pch drain 2 piece system |  |  |  |  |
K0590 | A |  | Ost pch drain/barr lk flng/f |  |  |  |  |
K0591 | A |  | Urine ost pouch w faucet/tap |  |  |  |  |
K0592 | A |  | Urine ost pouch w bltinconv |  |  |  |  |
K0593 | A |  | Ost urine pch w b/bltin conv |  |  |  |  |
K0594 | A |  | Ost pch urine w barrier/tapv |  |  |  |  |
K0595 | A |  | Os pch urine w bar/fange/tap |  |  |  |  |
K0596 | A |  | Urine ost pch bar w lock fln |  |  |  |  |
K0597 | A |  | Ost pch urine w lock flng/ft |  |  |  |  |
K0600 | A |  | Functional neuromuscular stim |  |  |  |  |
K0601 | A |  | Repl batt silver oxide 1.5 v |  |  |  |  |
K0602 | A |  | Repl batt silver oxide 3 v |  |  |  |  |
K0603 | A |  | Repl batt alkaline 1.5 v |  |  |  |  |
K0604 | A |  | Repl batt lithium 3.6 v |  |  |  |  |
K0605 | A |  | Repl batt lithium 4.5 v |  |  |  |  |
K0606 | A |  | AED garment w/elec analysis |  |  |  |  |
K0607 | A |  | Repl batt for AED device |  |  |  |  |
K0608 | A |  | Repl garment for AED |  |  |  |  |
K0609 | A |  | Repl electrode for AED |  |  |  |  |
K0610 | A |  | Peritoneal dialysis clamp |  |  |  |  |
K0611 | A |  | Disposable cycler set |  |  |  |  |
K0612 | A |  | Drainage ext line, dialysis |  |  |  |  |
K0613 | A |  | Ext line w/easy lock connect |  |  |  |  |
K0614 | A |  | Chem/antiseptic solution, 8oz |  |  |  |  |
K0615 | A |  | SGD prerec mes >8min <20min |  |  |  |  |
K0616 | A |  | SGD prerec mes >20min <40min |  |  |  |  |
K0617 | A |  | SGD prerec mes >40min |  |  |  |  |
K0618 | A |  | TLSO 2 piece rigid shell |  |  |  |  |
K0619 | A |  | TLSO 3 piece rigid shell |  |  |  |  |
K0620 | A |  | Tubular elastic dressing |  |  |  |  |
K0621 | A |  | Gauze, non-impreg pack strip |  |  |  |  |
L0100 | A |  | Cranial orthosis/helmet mold |  |  |  |  |
L0110 | A |  | Cranial orthosis/helmet nonm |  |  |  |  |
L0120 | A |  | Cerv flexible non-adjustable |  |  |  |  |
L0130 | A |  | Flex thermoplastic collar mo |  |  |  |  |
L0140 | A |  | Cervical semi-rigid adjustab |  |  |  |  |
L0150 | A |  | Cerv semi-rig adj molded chn |  |  |  |  |
L0160 | A |  | Cerv semi-rig wire occ/mand |  |  |  |  |
L0170 | A |  | Cervical collar molded to pt |  |  |  |  |
L0172 | A |  | Cerv col thermplas foam 2 pi |  |  |  |  |
L0174 | A |  | Cerv col foam 2 piece w thor |  |  |  |  |
L0180 | A |  | Cer post col occ/man sup adj |  |  |  |  |
L0190 | A |  | Cerv collar supp adj cerv ba |  |  |  |  |
L0200 | A |  | Cerv col supp adj bar & thor |  |  |  |  |
L0210 | A |  | Thoracic rib belt |  |  |  |  |
L0220 | A |  | Thor rib belt custom fabrica |  |  |  |  |
L0450 | A |  | TLSO flex prefab thoracic |  |  |  |  |
L0452 | A |  | tlso flex custom fab thoraci |  |  |  |  |
L0454 | A |  | TLSO flex prefab sacrococ-T9 |  |  |  |  |
L0456 | A |  | TLSO flex prefab |  |  |  |  |
L0458 | A |  | TLSO 2Mod symphis-xipho pre |  |  |  |  |
L0460 | A |  | TLSO2Mod symphysis-stern pre |  |  |  |  |
L0462 | A |  | TLSO 3Mod sacro-scap pre |  |  |  |  |
L0464 | A |  | TLSO 4Mod sacro-scap pre |  |  |  |  |
L0466 | A |  | TLSO rigid frame pre soft ap |  |  |  |  |
L0468 | A |  | TLSO rigid frame prefab pelv |  |  |  |  |
L0470 | A |  | TLSO rigid frame pre subclav |  |  |  |  |
L0472 | A |  | TLSO rigid frame hyperex pre |  |  |  |  |
L0474 | A |  | TLSO rigid frame pre pelvic |  |  |  |  |
L0476 | A |  | TLSO flexion compres jac pre |  |  |  |  |
L0478 | A |  | TLSO flexion compres jac cus |  |  |  |  |
L0480 | A |  | TLSO rigid plastic custom fa |  |  |  |  |
L0482 | A |  | TLSO rigid lined custom fab |  |  |  |  |
L0484 | A |  | TLSO rigid plastic cust fab |  |  |  |  |
L0486 | A |  | TLSO rigidlined cust fab two |  |  |  |  |
L0488 | A |  | TLSO rigid lined pre one pie |  |  |  |  |
L0490 | A |  | TLSO rigid plastic pre one |  |  |  |  |
L0500 | A |  | Lso flex surgical support |  |  |  |  |
L0510 | A |  | Lso flexible custom fabricat |  |  |  |  |
L0515 | A |  | Lso flex elas w/ rig post pa |  |  |  |  |
L0520 | A |  | Lso a-p-l control with apron |  |  |  |  |
L0530 | A |  | Lso ant-pos control w apron |  |  |  |  |
L0540 | A |  | Lso lumbar flexion a-p-l |  |  |  |  |
L0550 | A |  | Lso a-p-l control molded |  |  |  |  |
L0560 | A |  | Lso a-p-l w interface |  |  |  |  |
L0561 | A |  | Prefab lso |  |  |  |  |
L0565 | A |  | Lso a-p-l control custom |  |  |  |  |
L0600 | A |  | Sacroiliac flex surg support |  |  |  |  |
L0610 | A |  | Sacroiliac flexible custm fa |  |  |  |  |
L0620 | A |  | Sacroiliac semi-rig w apron |  |  |  |  |
L0700 | A |  | Ctlso a-p-l control molded |  |  |  |  |
L0710 | A |  | Ctlso a-p-l control w/ inter |  |  |  |  |
L0810 | A |  | Halo cervical into jckt vest |  |  |  |  |
L0820 | A |  | Halo cervical into body jack |  |  |  |  |
L0830 | A |  | Halo cerv into milwaukee typ |  |  |  |  |
L0860 | A |  | Magnetic resonanc image comp |  |  |  |  |
L0960 | A |  | Post surgical support pads |  |  |  |  |
L0970 | A |  | Tlso corset front |  |  |  |  |
L0972 | A |  | Lso corset front |  |  |  |  |
L0974 | A |  | Tlso full corset |  |  |  |  |
L0976 | A |  | Lso full corset |  |  |  |  |
L0978 | A |  | Axillary crutch extension |  |  |  |  |
L0980 | A |  | Peroneal straps pair |  |  |  |  |
L0982 | A |  | Stocking supp grips set of f |  |  |  |  |
L0984 | A |  | Protective body sock each |  |  |  |  |
L0999 | A |  | Add to spinal orthosis NOS |  |  |  |  |
L1000 | A |  | Ctlso milwauke initial model |  |  |  |  |
L1005 | A |  | Tension based scoliosis orth |  |  |  |  |
L1010 | A |  | Ctlso axilla sling |  |  |  |  |
L1020 | A |  | Kyphosis pad |  |  |  |  |
L1025 | A |  | Kyphosis pad floating |  |  |  |  |
L1030 | A |  | Lumbar bolster pad |  |  |  |  |
L1040 | A |  | Lumbar or lumbar rib pad |  |  |  |  |
L1050 | A |  | Sternal pad |  |  |  |  |
L1060 | A |  | Thoracic pad |  |  |  |  |
L1070 | A |  | Trapezius sling |  |  |  |  |
L1080 | A |  | Outrigger |  |  |  |  |
L1085 | A |  | Outrigger bil w/ vert extens |  |  |  |  |
L1090 | A |  | Lumbar sling |  |  |  |  |
L1100 | A |  | Ring flange plastic/leather |  |  |  |  |
L1110 | A |  | Ring flange plas/leather mol |  |  |  |  |
L1120 | A |  | Covers for upright each |  |  |  |  |
L1200 | A |  | Furnsh initial orthosis only |  |  |  |  |
L1210 | A |  | Lateral thoracic extension |  |  |  |  |
L1220 | A |  | Anterior thoracic extension |  |  |  |  |
L1230 | A |  | Milwaukee type superstructur |  |  |  |  |
L1240 | A |  | Lumbar derotation pad |  |  |  |  |
L1250 | A |  | Anterior asis pad |  |  |  |  |
L1260 | A |  | Anterior thoracic derotation |  |  |  |  |
L1270 | A |  | Abdominal pad |  |  |  |  |
L1280 | A |  | Rib gusset (elastic) each |  |  |  |  |
L1290 | A |  | Lateral trochanteric pad |  |  |  |  |
L1300 | A |  | Body jacket mold to patient |  |  |  |  |
L1310 | A |  | Post-operative body jacket |  |  |  |  |
L1499 | A |  | Spinal orthosis NOS |  |  |  |  |
L1500 | A |  | Thkao mobility frame |  |  |  |  |
L1510 | A |  | Thkao standing frame |  |  |  |  |
L1520 | A |  | Thkao swivel walker |  |  |  |  |
L1600 | A |  | Abduct hip flex frejka w cvr |  |  |  |  |
L1610 | A |  | Abduct hip flex frejka covr |  |  |  |  |
L1620 | A |  | Abduct hip flex pavlik harne |  |  |  |  |
L1630 | A |  | Abduct control hip semi-flex |  |  |  |  |
L1640 | A |  | Pelv band/spread bar thigh c |  |  |  |  |
L1650 | A |  | HO abduction hip adjustable |  |  |  |  |
L1652 | A |  | HO bi thighcuffs w sprdr bar |  |  |  |  |
L1660 | A |  | HO abduction static plastic |  |  |  |  |
L1680 | A |  | Pelvic & hip control thigh c |  |  |  |  |
L1685 | A |  | Post-op hip abduct custom fa |  |  |  |  |
L1686 | A |  | HO post-op hip abduction |  |  |  |  |
L1690 | A |  | Combination bilateral HO |  |  |  |  |
L1700 | A |  | Leg perthes orth toronto typ |  |  |  |  |
L1710 | A |  | Legg perthes orth newington |  |  |  |  |
L1720 | A |  | Legg perthes orthosis trilat |  |  |  |  |
L1730 | A |  | Legg perthes orth scottish r |  |  |  |  |
L1750 | A |  | Legg perthes sling |  |  |  |  |
L1755 | A |  | Legg perthes patten bottom t |  |  |  |  |
L1800 | A |  | Knee orthoses elas w stays |  |  |  |  |
L1810 | A |  | Ko elastic with joints |  |  |  |  |
L1815 | A |  | Elastic with condylar pads |  |  |  |  |
L1820 | A |  | Ko elas w/ condyle pads & jo |  |  |  |  |
L1825 | A |  | Ko elastic knee cap |  |  |  |  |
L1830 | A |  | Ko immobilizer canvas longit |  |  |  |  |
L1832 | A |  | KO adj jnt pos rigid support |  |  |  |  |
L1834 | A |  | Ko w/0 joint rigid molded to |  |  |  |  |
L1836 | A |  | Rigid KO wo joints |  |  |  |  |
L1840 | A |  | Ko derot ant cruciate custom |  |  |  |  |
L1843 | A |  | KO single upright custom fit |  |  |  |  |
L1844 | A |  | Ko w/adj jt rot cntrl molded |  |  |  |  |
L1845 | A |  | Ko w/ adj flex/ext rotat cus |  |  |  |  |
L1846 | A |  | Ko w adj flex/ext rotat mold |  |  |  |  |
L1847 | A |  | KO adjustable w air chambers |  |  |  |  |
L1850 | A |  | Ko swedish type |  |  |  |  |
L1855 | A |  | Ko plas doub upright jnt mol |  |  |  |  |
L1858 | A |  | Ko polycentric pneumatic pad |  |  |  |  |
L1860 | A |  | Ko supracondylar socket mold |  |  |  |  |
L1870 | A |  | Ko doub upright lacers molde |  |  |  |  |
L1880 | A |  | Ko doub upright cuffs/lacers |  |  |  |  |
L1885 | A |  | Knee upright w/resistance |  |  |  |  |
L1900 | A |  | Afo sprng wir drsflx calf bd |  |  |  |  |
L1901 | A |  | Prefab ankle orthosis |  |  |  |  |
L1902 | A |  | Afo ankle gauntlet |  |  |  |  |
L1904 | A |  | Afo molded ankle gauntlet |  |  |  |  |
L1906 | A |  | Afo multiligamentus ankle su |  |  |  |  |
L1910 | A |  | Afo sing bar clasp attach sh |  |  |  |  |
L1920 | A |  | Afo sing upright w/ adjust s |  |  |  |  |
L1930 | A |  | Afo plastic |  |  |  |  |
L1940 | A |  | Afo molded to patient plasti |  |  |  |  |
L1945 | A |  | Afo molded plas rig ant tib |  |  |  |  |
L1950 | A |  | Afo spiral molded to pt plas |  |  |  |  |
L1960 | A |  | Afo pos solid ank plastic mo |  |  |  |  |
L1970 | A |  | Afo plastic molded w/ankle j |  |  |  |  |
L1980 | A |  | Afo sing solid stirrup calf |  |  |  |  |
L1990 | A |  | Afo doub solid stirrup calf |  |  |  |  |
L2000 | A |  | Kafo sing fre stirr thi/calf |  |  |  |  |
L2010 | A |  | Kafo sng solid stirrup w/o j |  |  |  |  |
L2020 | A |  | Kafo dbl solid stirrup band/ |  |  |  |  |
L2030 | A |  | Kafo dbl solid stirrup w/o j |  |  |  |  |
L2035 | A |  | KAFO plastic pediatric size |  |  |  |  |
L2036 | A |  | Kafo plas doub free knee mol |  |  |  |  |
L2037 | A |  | Kafo plas sing free knee mol |  |  |  |  |
L2038 | A |  | Kafo w/o joint multi-axis an |  |  |  |  |
L2039 | A |  | KAFO,plstic,medlat rotat con |  |  |  |  |
L2040 | A |  | Hkafo torsion bil rot straps |  |  |  |  |
L2050 | A |  | Hkafo torsion cable hip pelv |  |  |  |  |
L2060 | A |  | Hkafo torsion ball bearing j |  |  |  |  |
L2070 | A |  | Hkafo torsion unilat rot str |  |  |  |  |
L2080 | A |  | Hkafo unilat torsion cable |  |  |  |  |
L2090 | A |  | Hkafo unilat torsion ball br |  |  |  |  |
L2102 | E |  | Afo tibial fx cast plstr mol |  |  |  |  |
L2104 | E |  | Afo tib fx cast synthetic mo |  |  |  |  |
L2106 | A |  | Afo tib fx cast plaster mold |  |  |  |  |
L2108 | A |  | Afo tib fx cast molded to pt |  |  |  |  |
L2112 | A |  | Afo tibial fracture soft |  |  |  |  |
L2114 | A |  | Afo tib fx semi-rigid |  |  |  |  |
L2116 | A |  | Afo tibial fracture rigid |  |  |  |  |
L2122 | E |  | Kafo fem fx cast plaster mol |  |  |  |  |
L2124 | E |  | Kafo fem fx cast synthet mol |  |  |  |  |
L2126 | A |  | Kafo fem fx cast thermoplas |  |  |  |  |
L2128 | A |  | Kafo fem fx cast molded to p |  |  |  |  |
L2132 | A |  | Kafo femoral fx cast soft |  |  |  |  |
L2134 | A |  | Kafo fem fx cast semi-rigid |  |  |  |  |
L2136 | A |  | Kafo femoral fx cast rigid |  |  |  |  |
L2180 | A |  | Plas shoe insert w ank joint |  |  |  |  |
L2182 | A |  | Drop lock knee |  |  |  |  |
L2184 | A |  | Limited motion knee joint |  |  |  |  |
L2186 | A |  | Adj motion knee jnt lerman t |  |  |  |  |
L2188 | A |  | Quadrilateral brim |  |  |  |  |
L2190 | A |  | Waist belt |  |  |  |  |
L2192 | A |  | Pelvic band & belt thigh fla |  |  |  |  |
L2200 | A |  | Limited ankle motion ea jnt |  |  |  |  |
L2210 | A |  | Dorsiflexion assist each joi |  |  |  |  |
L2220 | A |  | Dorsi & plantar flex ass/res |  |  |  |  |
L2230 | A |  | Split flat caliper stirr & p |  |  |  |  |
L2240 | A |  | Round caliper and plate atta |  |  |  |  |
L2250 | A |  | Foot plate molded stirrup at |  |  |  |  |
L2260 | A |  | Reinforced solid stirrup |  |  |  |  |
L2265 | A |  | Long tongue stirrup |  |  |  |  |
L2270 | A |  | Varus/valgus strap padded/li |  |  |  |  |
L2275 | A |  | Plastic mod low ext pad/line |  |  |  |  |
L2280 | A |  | Molded inner boot |  |  |  |  |
L2300 | A |  | Abduction bar jointed adjust |  |  |  |  |
L2310 | A |  | Abduction bar-straight |  |  |  |  |
L2320 | A |  | Non-molded lacer |  |  |  |  |
L2330 | A |  | Lacer molded to patient mode |  |  |  |  |
L2335 | A |  | Anterior swing band |  |  |  |  |
L2340 | A |  | Pre-tibial shell molded to p |  |  |  |  |
L2350 | A |  | Prosthetic type socket molde |  |  |  |  |
L2360 | A |  | Extended steel shank |  |  |  |  |
L2370 | A |  | Patten bottom |  |  |  |  |
L2375 | A |  | Torsion ank & half solid sti |  |  |  |  |
L2380 | A |  | Torsion straight knee joint |  |  |  |  |
L2385 | A |  | Straight knee joint heavy du |  |  |  |  |
L2390 | A |  | Offset knee joint each |  |  |  |  |
L2395 | A |  | Offset knee joint heavy duty |  |  |  |  |
L2397 | A |  | Suspension sleeve lower ext |  |  |  |  |
L2405 | A |  | Knee joint drop lock ea jnt |  |  |  |  |
L2415 | A |  | Knee joint cam lock each joi |  |  |  |  |
L2425 | A |  | Knee disc/dial lock/adj flex |  |  |  |  |
L2430 | A |  | Knee jnt ratchet lock ea jnt |  |  |  |  |
L2435 | A |  | Knee joint polycentric joint |  |  |  |  |
L2492 | A |  | Knee lift loop drop lock rin |  |  |  |  |
L2500 | A |  | Thi/glut/ischia wgt bearing |  |  |  |  |
L2510 | A |  | Th/wght bear quad-lat brim m |  |  |  |  |
L2520 | A |  | Th/wght bear quad-lat brim c |  |  |  |  |
L2525 | A |  | Th/wght bear nar m-l brim mo |  |  |  |  |
L2526 | A |  | Th/wght bear nar m-l brim cu |  |  |  |  |
L2530 | A |  | Thigh/wght bear lacer non-mo |  |  |  |  |
L2540 | A |  | Thigh/wght bear lacer molded |  |  |  |  |
L2550 | A |  | Thigh/wght bear high roll cu |  |  |  |  |
L2570 | A |  | Hip clevis type 2 posit jnt |  |  |  |  |
L2580 | A |  | Pelvic control pelvic sling |  |  |  |  |
L2600 | A |  | Hip clevis/thrust bearing fr |  |  |  |  |
L2610 | A |  | Hip clevis/thrust bearing lo |  |  |  |  |
L2620 | A |  | Pelvic control hip heavy dut |  |  |  |  |
L2622 | A |  | Hip joint adjustable flexion |  |  |  |  |
L2624 | A |  | Hip adj flex ext abduct cont |  |  |  |  |
L2627 | A |  | Plastic mold recipro hip & c |  |  |  |  |
L2628 | A |  | Metal frame recipro hip & ca |  |  |  |  |
L2630 | A |  | Pelvic control band & belt u |  |  |  |  |
L2640 | A |  | Pelvic control band & belt b |  |  |  |  |
L2650 | A |  | Pelv & thor control gluteal |  |  |  |  |
L2660 | A |  | Thoracic control thoracic ba |  |  |  |  |
L2670 | A |  | Thorac cont paraspinal uprig |  |  |  |  |
L2680 | A |  | Thorac cont lat support upri |  |  |  |  |
L2750 | A |  | Plating chrome/nickel pr bar |  |  |  |  |
L2755 | A |  | Carbon graphite lamination |  |  |  |  |
L2760 | A |  | Extension per extension per |  |  |  |  |
L2768 | A |  | Ortho sidebar disconnect |  |  |  |  |
L2770 | A |  | Low ext orthosis per bar/jnt |  |  |  |  |
L2780 | A |  | Non-corrosive finish |  |  |  |  |
L2785 | A |  | Drop lock retainer each |  |  |  |  |
L2795 | A |  | Knee control full kneecap |  |  |  |  |
L2800 | A |  | Knee cap medial or lateral p |  |  |  |  |
L2810 | A |  | Knee control condylar pad |  |  |  |  |
L2820 | A |  | Soft interface below knee se |  |  |  |  |
L2830 | A |  | Soft interface above knee se |  |  |  |  |
L2840 | A |  | Tibial length sock fx or equ |  |  |  |  |
L2850 | A |  | Femoral lgth sock fx or equa |  |  |  |  |
L2860 | A |  | Torsion mechanism knee/ankle |  |  |  |  |
L2999 | A |  | Lower extremity orthosis NOS |  |  |  |  |
L3000 | E |  | Ft insert ucb berkeley shell |  |  |  |  |
L3001 | E |  | Foot insert remov molded spe |  |  |  |  |
L3002 | E |  | Foot insert plastazote or eq |  |  |  |  |
L3003 | E |  | Foot insert silicone gel eac |  |  |  |  |
L3010 | E |  | Foot longitudinal arch suppo |  |  |  |  |
L3020 | E |  | Foot longitud/metatarsal sup |  |  |  |  |
L3030 | E |  | Foot arch support remov prem |  |  |  |  |
L3040 | E |  | Ft arch suprt premold longit |  |  |  |  |
L3050 | E |  | Foot arch supp premold metat |  |  |  |  |
L3060 | E |  | Foot arch supp longitud/meta |  |  |  |  |
L3070 | E |  | Arch suprt att to sho longit |  |  |  |  |
L3080 | E |  | Arch supp att to shoe metata |  |  |  |  |
L3090 | E |  | Arch supp att to shoe long/m |  |  |  |  |
L3100 | E |  | Hallus-valgus nght dynamic s |  |  |  |  |
L3140 | E |  | Abduction rotation bar shoe |  |  |  |  |
L3150 | E |  | Abduct rotation bar w/o shoe |  |  |  |  |
L3160 | E |  | Shoe styled positioning dev |  |  |  |  |
L3170 | E |  | Foot plastic heel stabilizer |  |  |  |  |
L3201 | E |  | Oxford w supinat/pronat inf |  |  |  |  |
L3202 | E |  | Oxford w/ supinat/pronator c |  |  |  |  |
L3203 | E |  | Oxford w/ supinator/pronator |  |  |  |  |
L3204 | E |  | Hightop w/ supp/pronator inf |  |  |  |  |
L3206 | E |  | Hightop w/ supp/pronator chi |  |  |  |  |
L3207 | E |  | Hightop w/ supp/pronator jun |  |  |  |  |
L3208 | E |  | Surgical boot each infant |  |  |  |  |
L3209 | E |  | Surgical boot each child |  |  |  |  |
L3211 | E |  | Surgical boot each junior |  |  |  |  |
L3212 | E |  | Benesch boot pair infant |  |  |  |  |
L3213 | E |  | Benesch boot pair child |  |  |  |  |
L3214 | E |  | Benesch boot pair junior |  |  |  |  |
L3215 | E |  | Orthopedic ftwear ladies oxf |  |  |  |  |
L3216 | E |  | Orthoped ladies shoes dpth i |  |  |  |  |
L3217 | E |  | Ladies shoes hightop depth i |  |  |  |  |
L3219 | E |  | Orthopedic mens shoes oxford |  |  |  |  |
L3221 | E |  | Orthopedic mens shoes dpth i |  |  |  |  |
L3222 | E |  | Mens shoes hightop depth inl |  |  |  |  |
L3224 | A |  | Woman's shoe oxford brace |  |  |  |  |
L3225 | A |  | Man's shoe oxford brace |  |  |  |  |
L3230 | E |  | Custom shoes depth inlay |  |  |  |  |
L3250 | E |  | Custom mold shoe remov prost |  |  |  |  |
L3251 | E |  | Shoe molded to pt silicone s |  |  |  |  |
L3252 | E |  | Shoe molded plastazote cust |  |  |  |  |
L3253 | E |  | Shoe molded plastazote cust |  |  |  |  |
L3254 | E |  | Orth foot non-stndard size/w |  |  |  |  |
L3255 | E |  | Orth foot non-standard size/ |  |  |  |  |
L3257 | E |  | Orth foot add charge split s |  |  |  |  |
L3260 | E |  | Ambulatory surgical boot eac |  |  |  |  |
L3265 | E |  | Plastazote sandal each |  |  |  |  |
L3300 | E |  | Sho lift taper to metatarsal |  |  |  |  |
L3310 | E |  | Shoe lift elev heel/sole neo |  |  |  |  |
L3320 | E |  | Shoe lift elev heel/sole cor |  |  |  |  |
L3330 | E |  | Lifts elevation metal extens |  |  |  |  |
L3332 | E |  | Shoe lifts tapered to one-ha |  |  |  |  |
L3334 | E |  | Shoe lifts elevation heel /i |  |  |  |  |
L3340 | E |  | Shoe wedge sach |  |  |  |  |
L3350 | E |  | Shoe heel wedge |  |  |  |  |
L3360 | E |  | Shoe sole wedge outside sole |  |  |  |  |
L3370 | E |  | Shoe sole wedge between sole |  |  |  |  |
L3380 | E |  | Shoe clubfoot wedge |  |  |  |  |
L3390 | E |  | Shoe outflare wedge |  |  |  |  |
L3400 | E |  | Shoe metatarsal bar wedge ro |  |  |  |  |
L3410 | E |  | Shoe metatarsal bar between |  |  |  |  |
L3420 | E |  | Full sole/heel wedge btween |  |  |  |  |
L3430 | E |  | Sho heel count plast reinfor |  |  |  |  |
L3440 | E |  | Heel leather reinforced |  |  |  |  |
L3450 | E |  | Shoe heel sach cushion type |  |  |  |  |
L3455 | E |  | Shoe heel new leather standa |  |  |  |  |
L3460 | E |  | Shoe heel new rubber standar |  |  |  |  |
L3465 | E |  | Shoe heel thomas with wedge |  |  |  |  |
L3470 | E |  | Shoe heel thomas extend to b |  |  |  |  |
L3480 | E |  | Shoe heel pad & depress for |  |  |  |  |
L3485 | E |  | Shoe heel pad removable for |  |  |  |  |
L3500 | E |  | Ortho shoe add leather insol |  |  |  |  |
L3510 | E |  | Orthopedic shoe add rub insl |  |  |  |  |
L3520 | E |  | O shoe add felt w leath insl |  |  |  |  |
L3530 | E |  | Ortho shoe add half sole |  |  |  |  |
L3540 | E |  | Ortho shoe add full sole |  |  |  |  |
L3550 | E |  | O shoe add standard toe tap |  |  |  |  |
L3560 | E |  | O shoe add horseshoe toe tap |  |  |  |  |
L3570 | E |  | O shoe add instep extension |  |  |  |  |
L3580 | E |  | O shoe add instep velcro clo |  |  |  |  |
L3590 | E |  | O shoe convert to sof counte |  |  |  |  |
L3595 | E |  | Ortho shoe add march bar |  |  |  |  |
L3600 | E |  | Trans shoe calip plate exist |  |  |  |  |
L3610 | E |  | Trans shoe caliper plate new |  |  |  |  |
L3620 | E |  | Trans shoe solid stirrup exi |  |  |  |  |
L3630 | E |  | Trans shoe solid stirrup new |  |  |  |  |
L3640 | E |  | Shoe dennis browne splint bo |  |  |  |  |
L3649 | E |  | Orthopedic shoe modifica NOS |  |  |  |  |
L3650 | A |  | Shlder fig 8 abduct restrain |  |  |  |  |
L3651 | A |  | Prefab shoulder orthosis |  |  |  |  |
L3652 | A |  | Prefab dbl shoulder orthosis |  |  |  |  |
L3660 | A |  | Abduct restrainer canvas&web |  |  |  |  |
L3670 | A |  | Acromio/clavicular canvas&we |  |  |  |  |
L3675 | A |  | Canvas vest SO |  |  |  |  |
L3677 | E |  | SO hard plastic stabilizer |  |  |  |  |
L3700 | A |  | Elbow orthoses elas w stays |  |  |  |  |
L3701 | A |  | Prefab elbow orthosis |  |  |  |  |
L3710 | A |  | Elbow elastic with metal joi |  |  |  |  |
L3720 | A |  | Forearm/arm cuffs free motio |  |  |  |  |
L3730 | A |  | Forearm/arm cuffs ext/flex a |  |  |  |  |
L3740 | A |  | Cuffs adj lock w/ active con |  |  |  |  |
L3760 | A |  | EO withjoint, Prefabricated |  |  |  |  |
L3762 | A |  | Rigid EO wo joints |  |  |  |  |
L3800 | A |  | Whfo short opponen no attach |  |  |  |  |
L3805 | A |  | Whfo long opponens no attach |  |  |  |  |
L3807 | A |  | WHFO,no joint, prefabricated |  |  |  |  |
L3810 | A |  | Whfo thumb abduction bar |  |  |  |  |
L3815 | A |  | Whfo second m.p. abduction a |  |  |  |  |
L3820 | A |  | Whfo ip ext asst w/ mp ext s |  |  |  |  |
L3825 | A |  | Whfo m.p. extension stop |  |  |  |  |
L3830 | A |  | Whfo m.p. extension assist |  |  |  |  |
L3835 | A |  | Whfo m.p. spring extension a |  |  |  |  |
L3840 | A |  | Whfo spring swivel thumb |  |  |  |  |
L3845 | A |  | Whfo thumb ip ext ass w/ mp |  |  |  |  |
L3850 | A |  | Action wrist w/ dorsiflex as |  |  |  |  |
L3855 | A |  | Whfo adj m.p. flexion contro |  |  |  |  |
L3860 | A |  | Whfo adj m.p. flex ctrl & i. |  |  |  |  |
L3890 | E |  | Torsion mechanism wrist/elbo |  |  |  |  |
L3900 | A |  | Hinge extension/flex wrist/f |  |  |  |  |
L3901 | A |  | Hinge ext/flex wrist finger |  |  |  |  |
L3902 | A |  | Whfo ext power compress gas |  |  |  |  |
L3904 | A |  | Whfo electric custom fitted |  |  |  |  |
L3906 | A |  | Wrist gauntlet molded to pt |  |  |  |  |
L3907 | A |  | Whfo wrst gauntlt thmb spica |  |  |  |  |
L3908 | A |  | Wrist cock-up non-molded |  |  |  |  |
L3909 | A |  | Prefab wrist orthosis |  |  |  |  |
L3910 | A |  | Whfo swanson design |  |  |  |  |
L3911 | A |  | Prefab hand finger orthosis |  |  |  |  |
L3912 | A |  | Flex glove w/elastic finger |  |  |  |  |
L3914 | A |  | WHO wrist extension cock-up |  |  |  |  |
L3916 | A |  | Whfo wrist extens w/ outrigg |  |  |  |  |
L3918 | A |  | HFO knuckle bender |  |  |  |  |
L3920 | A |  | Knuckle bender with outrigge |  |  |  |  |
L3922 | A |  | Knuckle bend 2 seg to flex j |  |  |  |  |
L3923 | A |  | HFO, no joint, prefabricated |  |  |  |  |
L3924 | A |  | Oppenheimer |  |  |  |  |
L3926 | A |  | Thomas suspension |  |  |  |  |
L3928 | A |  | Finger extension w/ clock sp |  |  |  |  |
L3930 | A |  | Finger extension with wrist |  |  |  |  |
L3932 | A |  | Safety pin spring wire |  |  |  |  |
L3934 | A |  | Safety pin modified |  |  |  |  |
L3936 | A |  | Palmer |  |  |  |  |
L3938 | A |  | Dorsal wrist |  |  |  |  |
L3940 | A |  | Dorsal wrist w/ outrigger at |  |  |  |  |
L3942 | A |  | Reverse knuckle bender |  |  |  |  |
L3944 | A |  | Reverse knuckle bend w/ outr |  |  |  |  |
L3946 | A |  | HFO composite elastic |  |  |  |  |
L3948 | A |  | Finger knuckle bender |  |  |  |  |
L3950 | A |  | Oppenheimer w/ knuckle bend |  |  |  |  |
L3952 | A |  | Oppenheimer w/ rev knuckle 2 |  |  |  |  |
L3954 | A |  | Spreading hand |  |  |  |  |
L3956 | A |  | Add joint upper ext orthosis |  |  |  |  |
L3960 | A |  | Sewho airplan desig abdu pos |  |  |  |  |
L3962 | A |  | Sewho erbs palsey design abd |  |  |  |  |
L3963 | A |  | Molded w/ articulating elbow |  |  |  |  |
L3964 | A |  | Seo mobile arm sup att to wc |  |  |  |  |
L3965 | A |  | Arm supp att to wc rancho ty |  |  |  |  |
L3966 | A |  | Mobile arm supports reclinin |  |  |  |  |
L3968 | A |  | Friction dampening arm supp |  |  |  |  |
L3969 | A |  | Monosuspension arm/hand supp |  |  |  |  |
L3970 | A |  | Elevat proximal arm support |  |  |  |  |
L3972 | A |  | Offset/lat rocker arm w/ ela |  |  |  |  |
L3974 | A |  | Mobile arm support supinator |  |  |  |  |
L3980 | A |  | Upp ext fx orthosis humeral |  |  |  |  |
L3982 | A |  | Upper ext fx orthosis rad/ul |  |  |  |  |
L3984 | A |  | Upper ext fx orthosis wrist |  |  |  |  |
L3985 | A |  | Forearm hand fx orth w/ wr h |  |  |  |  |
L3986 | A |  | Humeral rad/ulna wrist fx or |  |  |  |  |
L3995 | A |  | Sock fracture or equal each |  |  |  |  |
L3999 | A |  | Upper limb orthosis NOS |  |  |  |  |
L4000 | A |  | Repl girdle milwaukee orth |  |  |  |  |
L4010 | A |  | Replace trilateral socket br |  |  |  |  |
L4020 | A |  | Replace quadlat socket brim |  |  |  |  |
L4030 | A |  | Replace socket brim cust fit |  |  |  |  |
L4040 | A |  | Replace molded thigh lacer |  |  |  |  |
L4045 | A |  | Replace non-molded thigh lac |  |  |  |  |
L4050 | A |  | Replace molded calf lacer |  |  |  |  |
L4055 | A |  | Replace non-molded calf lace |  |  |  |  |
L4060 | A |  | Replace high roll cuff |  |  |  |  |
L4070 | A |  | Replace prox & dist upright |  |  |  |  |
L4080 | A |  | Repl met band kafo-afo prox |  |  |  |  |
L4090 | A |  | Repl met band kafo-afo calf/ |  |  |  |  |
L4100 | A |  | Repl leath cuff kafo prox th |  |  |  |  |
L4110 | A |  | Repl leath cuff kafo-afo cal |  |  |  |  |
L4130 | A |  | Replace pretibial shell |  |  |  |  |
L4205 | A |  | Ortho dvc repair per 15 min |  |  |  |  |
L4210 | A |  | Orth dev repair/repl minor p |  |  |  |  |
L4350 | A |  | Pneumatic ankle cntrl splint |  |  |  |  |
L4360 | A |  | Pneumatic walking splint |  |  |  |  |
L4370 | A |  | Pneumatic full leg splint |  |  |  |  |
L4380 | A |  | Pneumatic knee splint |  |  |  |  |
L4386 | A |  | Non-pneumatic walking splint |  |  |  |  |
L4392 | A |  | Replace AFO soft interface |  |  |  |  |
L4394 | A |  | Replace foot drop spint |  |  |  |  |
L4396 | A |  | Static AFO |  |  |  |  |
L4398 | A |  | Foot drop splint recumbent |  |  |  |  |
L5000 | A |  | Sho insert w arch toe filler |  |  |  |  |
L5010 | A |  | Mold socket ank hgt w/ toe f |  |  |  |  |
L5020 | A |  | Tibial tubercle hgt w/ toe f |  |  |  |  |
L5050 | A |  | Ank symes mold sckt sach ft |  |  |  |  |
L5060 | A |  | Symes met fr leath socket ar |  |  |  |  |
L5100 | A |  | Molded socket shin sach foot |  |  |  |  |
L5105 | A |  | Plast socket jts/thgh lacer |  |  |  |  |
L5150 | A |  | Mold sckt ext knee shin sach |  |  |  |  |
L5160 | A |  | Mold socket bent knee shin s |  |  |  |  |
L5200 | A |  | Kne sing axis fric shin sach |  |  |  |  |
L5210 | A |  | No knee/ankle joints w/ ft b |  |  |  |  |
L5220 | A |  | No knee joint with artic ali |  |  |  |  |
L5230 | A |  | Fem focal defic constant fri |  |  |  |  |
L5250 | A |  | Hip canad sing axi cons fric |  |  |  |  |
L5270 | A |  | Tilt table locking hip sing |  |  |  |  |
L5280 | A |  | Hemipelvect canad sing axis |  |  |  |  |
L5301 | A |  | BK mold socket SACH ft endo |  |  |  |  |
L5311 | A |  | Knee disart, SACH ft, endo |  |  |  |  |
L5321 | A |  | AK open end SACH |  |  |  |  |
L5331 | A |  | Hip disart canadian SACH ft |  |  |  |  |
L5341 | A |  | Hemipelvectomy canadian SACH |  |  |  |  |
L5400 | A |  | Postop dress & 1 cast chg bk |  |  |  |  |
L5410 | A |  | Postop dsg bk ea add cast ch |  |  |  |  |
L5420 | A |  | Postop dsg & 1 cast chg ak/d |  |  |  |  |
L5430 | A |  | Postop dsg ak ea add cast ch |  |  |  |  |
L5450 | A |  | Postop app non-wgt bear dsg |  |  |  |  |
L5460 | A |  | Postop app non-wgt bear dsg |  |  |  |  |
L5500 | A |  | Init bk ptb plaster direct |  |  |  |  |
L5505 | A |  | Init ak ischal plstr direct |  |  |  |  |
L5510 | A |  | Prep BK ptb plaster molded |  |  |  |  |
L5520 | A |  | Perp BK ptb thermopls direct |  |  |  |  |
L5530 | A |  | Prep BK ptb thermopls molded |  |  |  |  |
L5535 | A |  | Prep BK ptb open end socket |  |  |  |  |
L5540 | A |  | Prep BK ptb laminated socket |  |  |  |  |
L5560 | A |  | Prep AK ischial plast molded |  |  |  |  |
L5570 | A |  | Prep AK ischial direct form |  |  |  |  |
L5580 | A |  | Prep AK ischial thermo mold |  |  |  |  |
L5585 | A |  | Prep AK ischial open end |  |  |  |  |
L5590 | A |  | Prep AK ischial laminated |  |  |  |  |
L5595 | A |  | Hip disartic sach thermopls |  |  |  |  |
L5600 | A |  | Hip disart sach laminat mold |  |  |  |  |
L5610 | A |  | Above knee hydracadence |  |  |  |  |
L5611 | A |  | Ak 4 bar link w/fric swing |  |  |  |  |
L5613 | A |  | Ak 4 bar ling w/hydraul swig |  |  |  |  |
L5614 | A |  | 4-bar link above knee w/swng |  |  |  |  |
L5616 | A |  | Ak univ multiplex sys frict |  |  |  |  |
L5617 | A |  | AK/BK self-aligning unit ea |  |  |  |  |
L5618 | A |  | Test socket symes |  |  |  |  |
L5620 | A |  | Test socket below knee |  |  |  |  |
L5622 | A |  | Test socket knee disarticula |  |  |  |  |
L5624 | A |  | Test socket above knee |  |  |  |  |
L5626 | A |  | Test socket hip disarticulat |  |  |  |  |
L5628 | A |  | Test socket hemipelvectomy |  |  |  |  |
L5629 | A |  | Below knee acrylic socket |  |  |  |  |
L5630 | A |  | Syme typ expandabl wall sckt |  |  |  |  |
L5631 | A |  | Ak/knee disartic acrylic soc |  |  |  |  |
L5632 | A |  | Symes type ptb brim design s |  |  |  |  |
L5634 | A |  | Symes type poster opening so |  |  |  |  |
L5636 | A |  | Symes type medial opening so |  |  |  |  |
L5637 | A |  | Below knee total contact |  |  |  |  |
L5638 | A |  | Below knee leather socket |  |  |  |  |
L5639 | A |  | Below knee wood socket |  |  |  |  |
L5640 | A |  | Knee disarticulat leather so |  |  |  |  |
L5642 | A |  | Above knee leather socket |  |  |  |  |
L5643 | A |  | Hip flex inner socket ext fr |  |  |  |  |
L5644 | A |  | Above knee wood socket |  |  |  |  |
L5645 | A |  | Bk flex inner socket ext fra |  |  |  |  |
L5646 | A |  | Below knee air cushion socke |  |  |  |  |
L5647 | A |  | Below knee suction socket |  |  |  |  |
L5648 | A |  | Above knee air cushion socke |  |  |  |  |
L5649 | A |  | Isch containmt/narrow m-l so |  |  |  |  |
L5650 | A |  | Tot contact ak/knee disart s |  |  |  |  |
L5651 | A |  | Ak flex inner socket ext fra |  |  |  |  |
L5652 | A |  | Suction susp ak/knee disart |  |  |  |  |
L5653 | A |  | Knee disart expand wall sock |  |  |  |  |
L5654 | A |  | Socket insert symes |  |  |  |  |
L5655 | A |  | Socket insert below knee |  |  |  |  |
L5656 | A |  | Socket insert knee articulat |  |  |  |  |
L5658 | A |  | Socket insert above knee |  |  |  |  |
L5661 | A |  | Multi-durometer symes |  |  |  |  |
L5665 | A |  | Multi-durometer below knee |  |  |  |  |
L5666 | A |  | Below knee cuff suspension |  |  |  |  |
L5668 | A |  | Socket insert w/o lock lower |  |  |  |  |
L5670 | A |  | Bk molded supracondylar susp |  |  |  |  |
L5671 | A |  | BK/AK locking mechanism |  |  |  |  |
L5672 | A |  | Bk removable medial brim sus |  |  |  |  |
L5674 | A |  | Bk suspension sleeve |  |  |  |  |
L5675 | A |  | Bk heavy duty susp sleeve |  |  |  |  |
L5676 | A |  | Bk knee joints single axis p |  |  |  |  |
L5677 | A |  | Bk knee joints polycentric p |  |  |  |  |
L5678 | A |  | Bk joint covers pair |  |  |  |  |
L5680 | A |  | Bk thigh lacer non-molded |  |  |  |  |
L5682 | A |  | Bk thigh lacer glut/ischia m |  |  |  |  |
L5684 | A |  | Bk fork strap |  |  |  |  |
L5686 | A |  | Bk back check |  |  |  |  |
L5688 | A |  | Bk waist belt webbing |  |  |  |  |
L5690 | A |  | Bk waist belt padded and lin |  |  |  |  |
L5692 | A |  | Ak pelvic control belt light |  |  |  |  |
L5694 | A |  | Ak pelvic control belt pad/l |  |  |  |  |
L5695 | A |  | Ak sleeve susp neoprene/equa |  |  |  |  |
L5696 | A |  | Ak/knee disartic pelvic join |  |  |  |  |
L5697 | A |  | Ak/knee disartic pelvic band |  |  |  |  |
L5698 | A |  | Ak/knee disartic silesian ba |  |  |  |  |
L5699 | A |  | Shoulder harness |  |  |  |  |
L5700 | A |  | Replace socket below knee |  |  |  |  |
L5701 | A |  | Replace socket above knee |  |  |  |  |
L5702 | A |  | Replace socket hip |  |  |  |  |
L5704 | A |  | Custom shape cover BK |  |  |  |  |
L5705 | A |  | Custom shape cover AK |  |  |  |  |
L5706 | A |  | Custom shape cvr knee disart |  |  |  |  |
L5707 | A |  | Custom shape cvr hip disart |  |  |  |  |
L5710 | A |  | Kne-shin exo sng axi mnl loc |  |  |  |  |
L5711 | A |  | Knee-shin exo mnl lock ultra |  |  |  |  |
L5712 | A |  | Knee-shin exo frict swg & st |  |  |  |  |
L5714 | A |  | Knee-shin exo variable frict |  |  |  |  |
L5716 | A |  | Knee-shin exo mech stance ph |  |  |  |  |
L5718 | A |  | Knee-shin exo frct swg & sta |  |  |  |  |
L5722 | A |  | Knee-shin pneum swg frct exo |  |  |  |  |
L5724 | A |  | Knee-shin exo fluid swing ph |  |  |  |  |
L5726 | A |  | Knee-shin ext jnts fld swg e |  |  |  |  |
L5728 | A |  | Knee-shin fluid swg & stance |  |  |  |  |
L5780 | A |  | Knee-shin pneum/hydra pneum |  |  |  |  |
L5781 | A |  | Lower limb pros vacuum pump |  |  |  |  |
L5782 | A |  | HD low limb pros vacuum pump |  |  |  |  |
L5785 | A |  | Exoskeletal bk ultralt mater |  |  |  |  |
L5790 | A |  | Exoskeletal ak ultra-light m |  |  |  |  |
L5795 | A |  | Exoskel hip ultra-light mate |  |  |  |  |
L5810 | A |  | Endoskel knee-shin mnl lock |  |  |  |  |
L5811 | A |  | Endo knee-shin mnl lck ultra |  |  |  |  |
L5812 | A |  | Endo knee-shin frct swg & st |  |  |  |  |
L5814 | A |  | Endo knee-shin hydral swg ph |  |  |  |  |
L5816 | A |  | Endo knee-shin polyc mch sta |  |  |  |  |
L5818 | A |  | Endo knee-shin frct swg & st |  |  |  |  |
L5822 | A |  | Endo knee-shin pneum swg frc |  |  |  |  |
L5824 | A |  | Endo knee-shin fluid swing p |  |  |  |  |
L5826 | A |  | Miniature knee joint |  |  |  |  |
L5828 | A |  | Endo knee-shin fluid swg/sta |  |  |  |  |
L5830 | A |  | Endo knee-shin pneum/swg pha |  |  |  |  |
L5840 | A |  | Multi-axial knee/shin system |  |  |  |  |
L5845 | A |  | Knee-shin sys stance flexion |  |  |  |  |
L5846 | A |  | Knee-shin sys microprocessor |  |  |  |  |
L5847 | A |  | Microprocessor cntrl feature |  |  |  |  |
L5848 | A |  | Knee-shin sys hydraul stance |  |  |  |  |
L5850 | A |  | Endo ak/hip knee extens assi |  |  |  |  |
L5855 | A |  | Mech hip extension assist |  |  |  |  |
L5910 | A |  | Endo below knee alignable sy |  |  |  |  |
L5920 | A |  | Endo ak/hip alignable system |  |  |  |  |
L5925 | A |  | Above knee manual lock |  |  |  |  |
L5930 | A |  | High activity knee frame |  |  |  |  |
L5940 | A |  | Endo bk ultra-light material |  |  |  |  |
L5950 | A |  | Endo ak ultra-light material |  |  |  |  |
L5960 | A |  | Endo hip ultra-light materia |  |  |  |  |
L5962 | A |  | Below knee flex cover system |  |  |  |  |
L5964 | A |  | Above knee flex cover system |  |  |  |  |
L5966 | A |  | Hip flexible cover system |  |  |  |  |
L5968 | A |  | Multiaxial ankle w dorsiflex |  |  |  |  |
L5970 | A |  | Foot external keel sach foot |  |  |  |  |
L5972 | A |  | Flexible keel foot |  |  |  |  |
L5974 | A |  | Foot single axis ankle/foot |  |  |  |  |
L5975 | A |  | Combo ankle/foot prosthesis |  |  |  |  |
L5976 | A |  | Energy storing foot |  |  |  |  |
L5978 | A |  | Ft prosth multiaxial ankl/ft |  |  |  |  |
L5979 | A |  | Multi-axial ankle/ft prosth |  |  |  |  |
L5980 | A |  | Flex foot system |  |  |  |  |
L5981 | A |  | Flex-walk sys low ext prosth |  |  |  |  |
L5982 | A |  | Exoskeletal axial rotation u |  |  |  |  |
L5984 | A |  | Endoskeletal axial rotation |  |  |  |  |
L5985 | A |  | Lwr ext dynamic prosth pylon |  |  |  |  |
L5986 | A |  | Multi-axial rotation unit |  |  |  |  |
L5987 | A |  | Shank ft w vert load pylon |  |  |  |  |
L5988 | A |  | Vertical shock reducing pylo |  |  |  |  |
L5989 | A |  | Pylon w elctrnc force sensor |  |  |  |  |
L5990 | A |  | User adjustable heel height |  |  |  |  |
L5995 | A |  | Lower ext pros heavyduty fea |  |  |  |  |
L5999 | A |  | Lowr extremity prosthes NOS |  |  |  |  |
L6000 | A |  | Par hand robin-aids thum rem |  |  |  |  |
L6010 | A |  | Hand robin-aids little/ring |  |  |  |  |
L6020 | A |  | Part hand robin-aids no fing |  |  |  |  |
L6025 | A |  | Part hand disart myoelectric |  |  |  |  |
L6050 | A |  | Wrst MLd sck flx hng tri pad |  |  |  |  |
L6055 | A |  | Wrst mold sock w/exp interfa |  |  |  |  |
L6100 | A |  | Elb mold sock flex hinge pad |  |  |  |  |
L6110 | A |  | Elbow mold sock suspension t |  |  |  |  |
L6120 | A |  | Elbow mold doub splt soc ste |  |  |  |  |
L6130 | A |  | Elbow stump activated lock h |  |  |  |  |
L6200 | A |  | Elbow mold outsid lock hinge |  |  |  |  |
L6205 | A |  | Elbow molded w/ expand inter |  |  |  |  |
L6250 | A |  | Elbow inter loc elbow forarm |  |  |  |  |
L6300 | A |  | Shlder disart int lock elbow |  |  |  |  |
L6310 | A |  | Shoulder passive restor comp |  |  |  |  |
L6320 | A |  | Shoulder passive restor cap |  |  |  |  |
L6350 | A |  | Thoracic intern lock elbow |  |  |  |  |
L6360 | A |  | Thoracic passive restor comp |  |  |  |  |
L6370 | A |  | Thoracic passive restor cap |  |  |  |  |
L6380 | A |  | Postop dsg cast chg wrst/elb |  |  |  |  |
L6382 | A |  | Postop dsg cast chg elb dis/ |  |  |  |  |
L6384 | A |  | Postop dsg cast chg shlder/t |  |  |  |  |
L6386 | A |  | Postop ea cast chg & realign |  |  |  |  |
L6388 | A |  | Postop applicat rigid dsg on |  |  |  |  |
L6400 | A |  | Below elbow prosth tiss shap |  |  |  |  |
L6450 | A |  | Elb disart prosth tiss shap |  |  |  |  |
L6500 | A |  | Above elbow prosth tiss shap |  |  |  |  |
L6550 | A |  | Shldr disar prosth tiss shap |  |  |  |  |
L6570 | A |  | Scap thorac prosth tiss shap |  |  |  |  |
L6580 | A |  | Wrist/elbow bowden cable mol |  |  |  |  |
L6582 | A |  | Wrist/elbow bowden cbl dir f |  |  |  |  |
L6584 | A |  | Elbow fair lead cable molded |  |  |  |  |
L6586 | A |  | Elbow fair lead cable dir fo |  |  |  |  |
L6588 | A |  | Shdr fair lead cable molded |  |  |  |  |
L6590 | A |  | Shdr fair lead cable direct |  |  |  |  |
L6600 | A |  | Polycentric hinge pair |  |  |  |  |
L6605 | A |  | Single pivot hinge pair |  |  |  |  |
L6610 | A |  | Flexible metal hinge pair |  |  |  |  |
L6615 | A |  | Disconnect locking wrist uni |  |  |  |  |
L6616 | A |  | Disconnect insert locking wr |  |  |  |  |
L6620 | A |  | Flexion-friction wrist unit |  |  |  |  |
L6623 | A |  | Spring-ass rot wrst w/ latch |  |  |  |  |
L6625 | A |  | Rotation wrst w/ cable lock |  |  |  |  |
L6628 | A |  | Quick disconn hook adapter o |  |  |  |  |
L6629 | A |  | Lamination collar w/ couplin |  |  |  |  |
L6630 | A |  | Stainless steel any wrist |  |  |  |  |
L6632 | A |  | Latex suspension sleeve each |  |  |  |  |
L6635 | A |  | Lift assist for elbow |  |  |  |  |
L6637 | A |  | Nudge control elbow lock |  |  |  |  |
L6638 | A |  | Elec lock on manual pw elbow |  |  |  |  |
L6640 | A |  | Shoulder abduction joint pai |  |  |  |  |
L6641 | A |  | Excursion amplifier pulley t |  |  |  |  |
L6642 | A |  | Excursion amplifier lever ty |  |  |  |  |
L6645 | A |  | Shoulder flexion-abduction j |  |  |  |  |
L6646 | A |  | Multipo locking shoulder jnt |  |  |  |  |
L6647 | A |  | Shoulder lock actuator |  |  |  |  |
L6648 | A |  | Ext pwrd shlder lock/unlock |  |  |  |  |
L6650 | A |  | Shoulder universal joint |  |  |  |  |
L6655 | A |  | Standard control cable extra |  |  |  |  |
L6660 | A |  | Heavy duty control cable |  |  |  |  |
L6665 | A |  | Teflon or equal cable lining |  |  |  |  |
L6670 | A |  | Hook to hand cable adapter |  |  |  |  |
L6672 | A |  | Harness chest/shlder saddle |  |  |  |  |
L6675 | A |  | Harness figure of 8 sing con |  |  |  |  |
L6676 | A |  | Harness figure of 8 dual con |  |  |  |  |
L6680 | A |  | Test sock wrist disart/bel e |  |  |  |  |
L6682 | A |  | Test sock elbw disart/above |  |  |  |  |
L6684 | A |  | Test socket shldr disart/tho |  |  |  |  |
L6686 | A |  | Suction socket |  |  |  |  |
L6687 | A |  | Frame typ socket bel elbow/w |  |  |  |  |
L6688 | A |  | Frame typ sock above elb/dis |  |  |  |  |
L6689 | A |  | Frame typ socket shoulder di |  |  |  |  |
L6690 | A |  | Frame typ sock interscap-tho |  |  |  |  |
L6691 | A |  | Removable insert each |  |  |  |  |
L6692 | A |  | Silicone gel insert or equal |  |  |  |  |
L6693 | A |  | Lockingelbow forearm cntrbal |  |  |  |  |
L6700 | A |  | Terminal device model #3 |  |  |  |  |
L6705 | A |  | Terminal device model #5 |  |  |  |  |
L6710 | A |  | Terminal device model #5x |  |  |  |  |
L6715 | A |  | Terminal device model #5xa |  |  |  |  |
L6720 | A |  | Terminal device model #6 |  |  |  |  |
L6725 | A |  | Terminal device model #7 |  |  |  |  |
L6730 | A |  | Terminal device model #7lo |  |  |  |  |
L6735 | A |  | Terminal device model #8 |  |  |  |  |
L6740 | A |  | Terminal device model #8x |  |  |  |  |
L6745 | A |  | Terminal device model #88x |  |  |  |  |
L6750 | A |  | Terminal device model #10p |  |  |  |  |
L6755 | A |  | Terminal device model #10x |  |  |  |  |
L6765 | A |  | Terminal device model #12p |  |  |  |  |
L6770 | A |  | Terminal device model #99x |  |  |  |  |
L6775 | A |  | Terminal device model#555 |  |  |  |  |
L6780 | A |  | Terminal device model #ss555 |  |  |  |  |
L6790 | A |  | Hooks-accu hook or equal |  |  |  |  |
L6795 | A |  | Hooks-2 load or equal |  |  |  |  |
L6800 | A |  | Hooks-aprl vc or equal |  |  |  |  |
L6805 | A |  | Modifier wrist flexion unit |  |  |  |  |
L6806 | A |  | Trs grip vc or equal |  |  |  |  |
L6807 | A |  | Term device grip1/2 or equal |  |  |  |  |
L6808 | A |  | Term device infant or child |  |  |  |  |
L6809 | A |  | Trs super sport passive |  |  |  |  |
L6810 | A |  | Pincher tool otto bock or eq |  |  |  |  |
L6825 | A |  | Hands dorrance vo |  |  |  |  |
L6830 | A |  | Hand aprl vc |  |  |  |  |
L6835 | A |  | Hand sierra vo |  |  |  |  |
L6840 | A |  | Hand becker imperial |  |  |  |  |
L6845 | A |  | Hand becker lock grip |  |  |  |  |
L6850 | A |  | Term dvc-hand becker plylite |  |  |  |  |
L6855 | A |  | Hand robin-aids vo |  |  |  |  |
L6860 | A |  | Hand robin-aids vo soft |  |  |  |  |
L6865 | A |  | Hand passive hand |  |  |  |  |
L6867 | A |  | Hand detroit infant hand |  |  |  |  |
L6868 | A |  | Passive inf hand steeper/hos |  |  |  |  |
L6870 | A |  | Hand child mitt |  |  |  |  |
L6872 | A |  | Hand nyu child hand |  |  |  |  |
L6873 | A |  | Hand mech inf steeper or equ |  |  |  |  |
L6875 | A |  | Hand bock vc |  |  |  |  |
L6880 | A |  | Hand bock vo |  |  |  |  |
L6881 | A |  | Autograsp feature ul term dv |  |  |  |  |
L6882 | A |  | Microprocessor control uplmb |  |  |  |  |
L6890 | A |  | Production glove |  |  |  |  |
L6895 | A |  | Custom glove |  |  |  |  |
L6900 | A |  | Hand restorat thumb/1 finger |  |  |  |  |
L6905 | A |  | Hand restoration multiple fi |  |  |  |  |
L6910 | A |  | Hand restoration no fingers |  |  |  |  |
L6915 | A |  | Hand restoration replacmnt g |  |  |  |  |
L6920 | A |  | Wrist disarticul switch ctrl |  |  |  |  |
L6925 | A |  | Wrist disart myoelectronic c |  |  |  |  |
L6930 | A |  | Below elbow switch control |  |  |  |  |
L6935 | A |  | Below elbow myoelectronic ct |  |  |  |  |
L6940 | A |  | Elbow disarticulation switch |  |  |  |  |
L6945 | A |  | Elbow disart myoelectronic c |  |  |  |  |
L6950 | A |  | Above elbow switch control |  |  |  |  |
L6955 | A |  | Above elbow myoelectronic ct |  |  |  |  |
L6960 | A |  | Shldr disartic switch contro |  |  |  |  |
L6965 | A |  | Shldr disartic myoelectronic |  |  |  |  |
L6970 | A |  | Interscapular-thor switch ct |  |  |  |  |
L6975 | A |  | Interscap-thor myoelectronic |  |  |  |  |
L7010 | A |  | Hand otto back steeper/eq sw |  |  |  |  |
L7015 | A |  | Hand sys teknik village swit |  |  |  |  |
L7020 | A |  | Electronic greifer switch ct |  |  |  |  |
L7025 | A |  | Electron hand myoelectronic |  |  |  |  |
L7030 | A |  | Hand sys teknik vill myoelec |  |  |  |  |
L7035 | A |  | Electron greifer myoelectro |  |  |  |  |
L7040 | A |  | Prehensile actuator hosmer s |  |  |  |  |
L7045 | A |  | Electron hook child michigan |  |  |  |  |
L7170 | A |  | Electronic elbow hosmer swit |  |  |  |  |
L7180 | A |  | Electronic elbow utah myoele |  |  |  |  |
L7185 | A |  | Electron elbow adolescent sw |  |  |  |  |
L7186 | A |  | Electron elbow child switch |  |  |  |  |
L7190 | A |  | Elbow adolescent myoelectron |  |  |  |  |
L7191 | A |  | Elbow child myoelectronic ct |  |  |  |  |
L7260 | A |  | Electron wrist rotator otto |  |  |  |  |
L7261 | A |  | Electron wrist rotator utah |  |  |  |  |
L7266 | A |  | Servo control steeper or equ |  |  |  |  |
L7272 | A |  | Analogue control unb or equa |  |  |  |  |
L7274 | A |  | Proportional ctl 12 volt uta |  |  |  |  |
L7360 | A |  | Six volt bat otto bock/eq ea |  |  |  |  |
L7362 | A |  | Battery chrgr six volt otto |  |  |  |  |
L7364 | A |  | Twelve volt battery utah/equ |  |  |  |  |
L7366 | A |  | Battery chrgr 12 volt utah/e |  |  |  |  |
L7367 | A |  | Replacemnt lithium ionbatter |  |  |  |  |
L7368 | A |  | Lithium ion battery charger |  |  |  |  |
L7499 | A |  | Upper extremity prosthes NOS |  |  |  |  |
L7500 | A |  | Prosthetic dvc repair hourly |  |  |  |  |
L7510 | A |  | Prosthetic device repair rep |  |  |  |  |
L7520 | A |  | Repair prosthesis per 15 min |  |  |  |  |
L7900 | A |  | Vacuum erection system |  |  |  |  |
L8000 | A |  | Mastectomy bra |  |  |  |  |
L8001 | A |  | Breast prosthesis bra & form |  |  |  |  |
L8002 | A |  | Brst prsth bra & bilat form |  |  |  |  |
L8010 | A |  | Mastectomy sleeve |  |  |  |  |
L8015 | A |  | Ext breastprosthesis garment |  |  |  |  |
L8020 | A |  | Mastectomy form |  |  |  |  |
L8030 | A |  | Breast prosthesis silicone/e |  |  |  |  |
L8035 | A |  | Custom breast prosthesis |  |  |  |  |
L8039 | A |  | Breast prosthesis NOS |  |  |  |  |
L8040 | A |  | Nasal prosthesis |  |  |  |  |
L8041 | A |  | Midfacial prosthesis |  |  |  |  |
L8042 | A |  | Orbital prosthesis |  |  |  |  |
L8043 | A |  | Upper facial prosthesis |  |  |  |  |
L8044 | A |  | Hemi-facial prosthesis |  |  |  |  |
L8045 | A |  | Auricular prosthesis |  |  |  |  |
L8046 | A |  | Partial facial prosthesis |  |  |  |  |
L8047 | A |  | Nasal septal prosthesis |  |  |  |  |
L8048 | A |  | Unspec maxillofacial prosth |  |  |  |  |
L8049 | A |  | Repair maxillofacial prosth |  |  |  |  |
L8100 | E |  | Compression stocking BK18-30 |  |  |  |  |
L8110 | E |  | Compression stocking BK30-40 |  |  |  |  |
L8120 | E |  | Compression stocking BK40-50 |  |  |  |  |
L8130 | E |  | Gc stocking thighlngth 18-30 |  |  |  |  |
L8140 | E |  | Gc stocking thighlngth 30-40 |  |  |  |  |
L8150 | E |  | Gc stocking thighlngth 40-50 |  |  |  |  |
L8160 | E |  | Gc stocking full lngth 18-30 |  |  |  |  |
L8170 | E |  | Gc stocking full lngth 30-40 |  |  |  |  |
L8180 | E |  | Gc stocking full lngth 40-50 |  |  |  |  |
L8190 | E |  | Gc stocking waistlngth 18-30 |  |  |  |  |
L8195 | E |  | Gc stocking waistlngth 30-40 |  |  |  |  |
L8200 | E |  | Gc stocking waistlngth 40-50 |  |  |  |  |
L8210 | E |  | Gc stocking custom made |  |  |  |  |
L8220 | E |  | Gc stocking lymphedema |  |  |  |  |
L8230 | E |  | Gc stocking garter belt |  |  |  |  |
L8239 | E |  | G compression stocking NOS |  |  |  |  |
L8300 | A |  | Truss single w/ standard pad |  |  |  |  |
L8310 | A |  | Truss double w/ standard pad |  |  |  |  |
L8320 | A |  | Truss addition to std pad wa |  |  |  |  |
L8330 | A |  | Truss add to std pad scrotal |  |  |  |  |
L8400 | A |  | Sheath below knee |  |  |  |  |
L8410 | A |  | Sheath above knee |  |  |  |  |
L8415 | A |  | Sheath upper limb |  |  |  |  |
L8417 | A |  | Pros sheath/sock w gel cushn |  |  |  |  |
L8420 | A |  | Prosthetic sock multi ply BK |  |  |  |  |
L8430 | A |  | Prosthetic sock multi ply AK |  |  |  |  |
L8435 | A |  | Pros sock multi ply upper lm |  |  |  |  |
L8440 | A |  | Shrinker below knee |  |  |  |  |
L8460 | A |  | Shrinker above knee |  |  |  |  |
L8465 | A |  | Shrinker upper limb |  |  |  |  |
L8470 | A |  | Pros sock single ply BK |  |  |  |  |
L8480 | A |  | Pros sock single ply AK |  |  |  |  |
L8485 | A |  | Pros sock single ply upper l |  |  |  |  |
L8490 | A |  | Air seal suction reten systm |  |  |  |  |
L8499 | A |  | Unlisted misc prosthetic ser |  |  |  |  |
L8500 | A |  | Artificial larynx |  |  |  |  |
L8501 | A |  | Tracheostomy speaking valve |  |  |  |  |
L8505 | A |  | Artificial larynx, accessory |  |  |  |  |
L8507 | A |  | Trach-esoph voice pros pt in |  |  |  |  |
L8509 | A |  | Trach-esoph voice pros md in |  |  |  |  |
L8510 | A |  | Voice amplifier |  |  |  |  |
L8600 | N |  | Implant breast silicone/eq |  |  |  |  |
L8603 | N |  | Collagen imp urinary 2.5 ml |  |  |  |  |
L8606 | N |  | Synthetic implnt urinary 1ml |  |  |  |  |
L8610 | N |  | Ocular implant |  |  |  |  |
L8612 | N |  | Aqueous shunt prosthesis |  |  |  |  |
L8613 | N |  | Ossicular implant |  |  |  |  |
L8614 | E |  | Cochlear device/system |  |  |  |  |
L8619 | A |  | Replace cochlear processor |  |  |  |  |
L8630 | N |  | Metacarpophalangeal implant |  |  |  |  |
L8641 | N |  | Metatarsal joint implant |  |  |  |  |
L8642 | N |  | Hallux implant |  |  |  |  |
L8658 | N |  | Interphalangeal joint implnt |  |  |  |  |
L8670 | N |  | Vascular graft, synthetic |  |  |  |  |
L8699 | N |  | Prosthetic implant NOS |  |  |  |  |
L9900 | A |  | O&P supply/accessory/service |  |  |  |  |
M0064 | X |  | Visit for drug monitoring | 0374 | 1.1062 | $60.05 |  | $12.01
M0075 | E |  | Cellular therapy |  |  |  |  |
M0076 | E |  | Prolotherapy |  |  |  |  |
M0100 | E |  | Intragastric hypothermia |  |  |  |  |
M0300 | E |  | IV chelationtherapy |  |  |  |  |
M0301 | E |  | Fabric wrapping of aneurysm |  |  |  |  |
P2028 | A |  | Cephalin floculation test |  |  |  |  |
P2029 | A |  | Congo red blood test |  |  |  |  |
P2031 | E |  | Hair analysis |  |  |  |  |
P2033 | A |  | Blood thymol turbidity |  |  |  |  |
P2038 | A |  | Blood mucoprotein |  |  |  |  |
P3000 | A |  | Screen pap by tech w md supv |  |  |  |  |
P3001 | E |  | Screening pap smear by phys |  |  |  |  |
P7001 | E |  | Culture bacterial urine |  |  |  |  |
P9010 | K |  | Whole blood for transfusion | 0950 | 1.4575 | $79.13 |  | $15.83
P9011 | K |  | Blood split unit | 0957 | 0.6870 | $37.30 |  | $7.46
P9012 | K |  | Cryoprecipitate each unit | 0952 | 0.4860 | $26.38 |  | $5.28
P9016 | K |  | RBC leukocytes reduced | 0954 | 1.9770 | $107.33 |  | $21.47
P9017 | K |  | One donor fresh frozn plasma | 0955 | 1.5750 | $85.51 |  | $17.10
P9019 | K |  | Platelets, each unit | 0957 | 0.6870 | $37.30 |  | $7.46
P9020 | K |  | Plaelet rich plasma unit | 0958 | 1.1296 | $61.32 |  | $12.26
P9021 | K |  | Red blood cells unit | 0959 | 1.4326 | $77.77 |  | $15.55
P9022 | K |  | Washed red blood cells unit | 0960 | 2.6638 | $144.62 |  | $28.92
P9023 | K |  | Frozen plasma, pooled, sd | 0949 | 2.0608 | $111.88 |  | $22.38
P9031 | K |  | Platelets leukocytes reduced | 1013 | 0.9101 | $49.41 |  | $9.88
P9032 | K |  | Platelets, irradiated | 9500 | 1.2398 | $67.31 |  | $13.46
P9033 | K |  | Platelets leukoreduced irrad | 0954 | 1.9770 | $107.33 |  | $21.47
P9034 | K |  | Platelets, pheresis | 9501 | 6.7772 | $367.93 |  | $73.59
P9035 | K |  | Platelet pheres leukoreduced | 9501 | 6.7772 | $367.93 |  | $73.59
P9036 | K |  | Platelet pheresis irradiated | 9502 | 7.3552 | $399.31 |  | $79.86
P9037 | K |  | Plate pheres leukoredu irrad | 1019 | 6.7353 | $365.65 |  | $73.13
P9038 | K |  | RBC irradiated | 9505 | 1.8011 | $97.78 |  | $19.56
P9039 | K |  | RBC deglycerolized | 9504 | 3.9764 | $215.87 |  | $43.17
P9040 | K |  | RBC leukoreduced irradiated | 9504 | 3.9764 | $215.87 |  | $43.17
P9041 | K |  | Albumin (human),5%, 50ml | 0961 | 0.7319 | $39.73 |  | $7.95
P9043 | K |  | Plasma protein fract,5%,50ml | 0956 | 1.5414 | $83.68 |  | $16.74
P9044 | K |  | Cryoprecipitatereducedplasma | 1009 | 0.9447 | $51.29 |  | $10.26
P9045 | K |  | Albumin (human), 5%, 250 ml | 0963 | 3.4713 | $188.45 |  | $37.69
P9046 | K |  | Albumin (human), 25%, 20 ml | 0964 | 0.7911 | $42.95 |  | $8.59
P9047 | K |  | Albumin (human), 25%, 50ml | 0965 | 1.9432 | $105.49 |  | $21.10
P9048 | K |  | Plasmaprotein fract,5%,250ml | 0966 | 7.7071 | $418.41 |  | $83.68
P9050 | K |  | Granulocytes, pheresis unit | 9506 | 20.7004 | $1,123.80 |  | $224.76
P9603 | A |  | One-way allow prorated miles |  |  |  |  |
P9604 | A |  | One-way allow prorated trip |  |  |  |  |
P9612 | N |  | Catheterize for urine spec |  |  |  |  |
P9615 | N |  | Urine specimen collect mult |  |  |  |  |
Q0035 | X |  | Cardiokymography | 0100 | 1.6726 | $90.80 | $41.44 | $18.16
Q0081 | E |  | Infusion ther other than che |  |  |  |  |
Q0083 | E |  | Chemo by other than infusion |  |  |  |  |
Q0084 | E |  | Chemotherapy by infusion |  |  |  |  |
Q0085 | E |  | Chemo by both infusion and o |  |  |  |  |
Q0086 | A |  | Physical therapy evaluation/ |  |  |  |  |
Q0091 | T |  | Obtaining screen pap smear | 0191 | 0.1679 | $9.12 | $2.65 | $1.82
Q0092 | N |  | Set up port xray equipment |  |  |  |  |
Q0111 | A |  | Wet mounts/ w preparations |  |  |  |  |
Q0112 | A |  | Potassium hydroxide preps |  |  |  |  |
Q0113 | A |  | Pinworm examinations |  |  |  |  |
Q0114 | A |  | Fern test |  |  |  |  |
Q0115 | A |  | Post-coital mucous exam |  |  |  |  |
Q0136 | K |  | Non esrd epoetin alpha inj | 0733 | 0.1782 | $9.67 |  | $1.93
Q0144 | E |  | Azithromycin dihydrate, oral |  |  |  |  |
Q0163 | N |  | Diphenhydramine HCl 50mg |  |  |  |  |
Q0164 | N |  | Prochlorperazine maleate 5mg |  |  |  |  |
Q0165 | E |  | Prochlorperazine maleate10mg |  |  |  |  |
Q0166 | N |  | Granisetron HCl 1 mg oral |  |  |  |  |
Q0167 | N |  | Dronabinol 2.5mg oral |  |  |  |  |
Q0168 | E |  | Dronabinol 5mg oral |  |  |  |  |
Q0169 | N |  | Promethazine HCl 12.5mg oral |  |  |  |  |
Q0170 | E |  | Promethazine HCl 25 mg oral |  |  |  |  |
Q0171 | N |  | Chlorpromazine HCl 10mg oral |  |  |  |  |
Q0172 | E |  | Chlorpromazine HCl 25mg oral |  |  |  |  |
Q0173 | N |  | Trimethobenzamide HCl 250mg |  |  |  |  |
Q0174 | N |  | Thiethylperazine maleate10mg |  |  |  |  |
Q0175 | N |  | Perphenazine 4mg oral |  |  |  |  |
Q0176 | E |  | Perphenazine 8mg oral |  |  |  |  |
Q0177 | N |  | Hydroxyzine pamoate 25mg |  |  |  |  |
Q0178 | E |  | Hydroxyzine pamoate 50mg |  |  |  |  |
Q0179 | N |  | Ondansetron HCl 8mg oral |  |  |  |  |
Q0180 | N |  | Dolasetron mesylate oral |  |  |  |  |
Q0181 | E |  | Unspecified oral anti-emetic |  |  |  |  |
Q0183 | N |  | Nonmetabolic active tissue |  |  |  |  |
Q0187 | K |  | Factor viia recombinant | 1409 | 17.9693 | $975.54 |  | $195.11
Q1001 | N |  | Ntiol category 1 |  |  |  |  |
Q1002 | N |  | Ntiol category 2 |  |  |  |  |
Q1003 | N |  | Ntiol category 3 |  |  |  |  |
Q1004 | N |  | Ntiol category 4 |  |  |  |  |
Q1005 | N |  | Ntiol category 5 |  |  |  |  |
Q2001 | N |  | Oral cabergoline 0.5 mg |  |  |  |  |
Q2002 | N |  | Elliotts b solution per ml |  |  |  |  |
Q2003 | N |  | Aprotinin, 10,000 kiu |  |  |  |  |
Q2004 | N |  | Bladder calculi irrig sol |  |  |  |  |
Q2005 | K |  | Corticorelin ovine triflutat | 7024 | 3.4880 | $189.36 |  | $37.87
Q2006 | K |  | Digoxin immune fab (ovine) | 7025 | 4.4789 | $243.16 |  | $48.63
Q2007 | N |  | Ethanolamine oleate 100 mg |  |  |  |  |
Q2008 | K |  | Fomepizole, 15 mg | 7027 | 0.2215 | $12.03 |  | $2.41
Q2009 | N |  | Fosphenytoin, 50 mg |  |  |  |  |
Q2010 | N |  | Glatiramer acetate, per dose |  |  |  |  |
Q2011 | K |  | Hemin, per 1 mg | 7030 | 0.0119 | $.65 |  | $.13
Q2012 | N |  | Pegademase bovine, 25 iu |  |  |  |  |
Q2013 | N |  | Pentastarch 10% solution |  |  |  |  |
Q2014 | N |  | Sermorelin acetate, 0.5 mg |  |  |  |  |
Q2017 | K |  | Teniposide, 50 mg | 7035 | 1.5530 | $84.31 |  | $16.86
Q2018 | K |  | Urofollitropin, 75 iu | 7037 | 1.1321 | $61.46 |  | $12.29
Q2019 | K |  | Basiliximab | 1615 | 11.2007 | $608.07 |  | $121.61
Q2020 | E |  | Histrelin acetate |  |  |  |  |
Q2021 | N |  | Lepirudin |  |  |  |  |
Q2022 | K |  | VonWillebrandFactrCmplxperIU | 1618 | 0.0168 | $.91 |  | $.18
Q3000 | K |  | Rubidium-Rb-82 | 9025 | 2.5939 | $140.82 |  | $28.16
Q3001 | N |  | Brachytherapy Radioelements |  |  |  |  |
Q3002 | N |  | Gallium ga 67 |  |  |  |  |
Q3003 | K |  | Technetium tc99m bicisate | 1620 | 3.3106 | $179.73 |  | $35.95
Q3004 | N |  | Xenon xe 133 |  |  |  |  |
Q3005 | N |  | Technetium tc99m mertiatide |  |  |  |  |
Q3006 | N |  | Technetium tc99m glucepatate |  |  |  |  |
Q3007 | N |  | Sodium phosphate p32 |  |  |  |  |
Q3008 | K |  | Indium 111-in pentetreotide | 1625 | 6.8170 | $370.09 |  | $74.02
Q3009 | N |  | Technetium tc99m oxidronate |  |  |  |  |
Q3010 | N |  | Technetium tc99mlabeledrbcs |  |  |  |  |
Q3011 | K |  | Chromic phosphate p32 | 1628 | 2.0103 | $109.14 |  | $21.83
Q3012 | N |  | Cyanocobalamin cobalt co57 |  |  |  |  |
Q3014 | A |  | Telehealth facility fee |  |  |  |  |
Q3019 | A |  | ALS emer trans no ALS serv |  |  |  |  |
Q3020 | A |  | ALS nonemer trans no ALS se |  |  |  |  |
Q3021 | E |  | Ped hepatitis b vaccine inj |  |  |  |  |
Q3022 | E |  | Hepatitis b vaccine adult ds |  |  |  |  |
Q3023 | E |  | Injection hepatitis Bvaccine |  |  |  |  |
Q3025 | K |  | IM inj interferon beta 1-a | 9022 | 0.9417 | $51.12 |  | $10.22
Q3026 | N |  | Subc inj interferon beta-1a |  |  |  |  |
Q4001 | A |  | Cast sup body cast plaster |  |  |  |  |
Q4002 | A |  | Cast sup body cast fiberglas |  |  |  |  |
Q4003 | A |  | Cast sup shoulder cast plstr |  |  |  |  |
Q4004 | A |  | Cast sup shoulder cast fbrgl |  |  |  |  |
Q4005 | A |  | Cast sup long arm adult plst |  |  |  |  |
Q4006 | A |  | Cast sup long arm adult fbrg |  |  |  |  |
Q4007 | A |  | Cast sup long arm ped plster |  |  |  |  |
Q4008 | A |  | Cast sup long arm ped fbrgls |  |  |  |  |
Q4009 | A |  | Cast sup sht arm adult plstr |  |  |  |  |
Q4010 | A |  | Cast sup sht arm adult fbrgl |  |  |  |  |
Q4011 | A |  | Cast sup sht arm ped plaster |  |  |  |  |
Q4012 | A |  | Cast sup sht arm ped fbrglas |  |  |  |  |
Q4013 | A |  | Cast sup gauntlet plaster |  |  |  |  |
Q4014 | A |  | Cast sup gauntlet fiberglass |  |  |  |  |
Q4015 | A |  | Cast sup gauntlet ped plster |  |  |  |  |
Q4016 | A |  | Cast sup gauntlet ped fbrgls |  |  |  |  |
Q4017 | A |  | Cast sup lng arm splint plst |  |  |  |  |
Q4018 | A |  | Cast sup lng arm splint fbrg |  |  |  |  |
Q4019 | A |  | Cast sup lng arm splnt ped p |  |  |  |  |
Q4020 | A |  | Cast sup lng arm splnt ped f |  |  |  |  |
Q4021 | A |  | Cast sup sht arm splint plst |  |  |  |  |
Q4022 | A |  | Cast sup sht arm splint fbrg |  |  |  |  |
Q4023 | A |  | Cast sup sht arm splnt ped p |  |  |  |  |
Q4024 | A |  | Cast sup sht arm splnt ped f |  |  |  |  |
Q4025 | A |  | Cast sup hip spica plaster |  |  |  |  |
Q4026 | A |  | Cast sup hip spica fiberglas |  |  |  |  |
Q4027 | A |  | Cast sup hip spica ped plstr |  |  |  |  |
Q4028 | A |  | Cast sup hip spica ped fbrgl |  |  |  |  |
Q4029 | A |  | Cast sup long leg plaster |  |  |  |  |
Q4030 | A |  | Cast sup long leg fiberglass |  |  |  |  |
Q4031 | A |  | Cast sup lng leg ped plaster |  |  |  |  |
Q4032 | A |  | Cast sup lng leg ped fbrgls |  |  |  |  |
Q4033 | A |  | Cast sup lng leg cylinder pl |  |  |  |  |
Q4034 | A |  | Cast sup lng leg cylinder fb |  |  |  |  |
Q4035 | A |  | Cast sup lngleg cylndr ped p |  |  |  |  |
Q4036 | A |  | Cast sup lngleg cylndr ped f |  |  |  |  |
Q4037 | A |  | Cast sup shrt leg plaster |  |  |  |  |
Q4038 | A |  | Cast sup shrt leg fiberglass |  |  |  |  |
Q4039 | A |  | Cast sup shrt leg ped plster |  |  |  |  |
Q4040 | A |  | Cast sup shrt leg ped fbrgls |  |  |  |  |
Q4041 | A |  | Cast sup lng leg splnt plstr |  |  |  |  |
Q4042 | A |  | Cast sup lng leg splnt fbrgl |  |  |  |  |
Q4043 | A |  | Cast sup lng leg splnt ped p |  |  |  |  |
Q4044 | A |  | Cast sup lng leg splnt ped f |  |  |  |  |
Q4045 | A |  | Cast sup sht leg splnt plstr |  |  |  |  |
Q4046 | A |  | Cast sup sht leg splnt fbrgl |  |  |  |  |
Q4047 | A |  | Cast sup sht leg splnt ped p |  |  |  |  |
Q4048 | A |  | Cast sup sht leg splnt ped f |  |  |  |  |
Q4049 | A |  | Finger splint, static |  |  |  |  |
Q4050 | A |  | Cast supplies unlisted |  |  |  |  |
Q4051 | A |  | Splint supplies misc |  |  |  |  |
Q4052 | K |  | Octreotide injection, depot | 1207 | 1.1849 | $64.33 |  | $12.87
Q4053 | G |  | Pegfilgrastim, per 1 mg | 9119 |  | $467.09 |  | $69.82
Q9920 | A |  | Epoetin with hct <= 20 |  |  |  |  |
Q9921 | A |  | Epoetin with hct = 21 |  |  |  |  |
Q9922 | A |  | Epoetin with hct = 22 |  |  |  |  |
Q9923 | A |  | Epoetin with hct = 23 |  |  |  |  |
Q9924 | A |  | Epoetin with hct = 24 |  |  |  |  |
Q9925 | A |  | Epoetin with hct = 25 |  |  |  |  |
Q9926 | A |  | Epoetin with hct = 26 |  |  |  |  |
Q9927 | A |  | Epoetin with hct = 27 |  |  |  |  |
Q9928 | A |  | Epoetin with hct = 28 |  |  |  |  |
Q9929 | A |  | Epoetin with hct = 29 |  |  |  |  |
Q9930 | A |  | Epoetin with hct = 30 |  |  |  |  |
Q9931 | A |  | Epoetin with hct = 31 |  |  |  |  |
Q9932 | A |  | Epoetin with hct = 32 |  |  |  |  |
Q9933 | A |  | Epoetin with hct = 33 |  |  |  |  |
Q9934 | A |  | Epoetin with hct = 34 |  |  |  |  |
Q9935 | A |  | Epoetin with hct = 35 |  |  |  |  |
Q9936 | A |  | Epoetin with hct = 36 |  |  |  |  |
Q9937 | A |  | Epoetin with hct = 37 |  |  |  |  |
Q9938 | A |  | Epoetin with hct = 38 |  |  |  |  |
Q9939 | A |  | Epoetin with hct = 39 |  |  |  |  |
Q9940 | A |  | Epoetin with hct >= 40 |  |  |  |  |
R0070 | N |  | Transport portable x-ray |  |  |  |  |
R0075 | N |  | Transport port x-ray multipl |  |  |  |  |
R0076 | N |  | Transport portable EKG |  |  |  |  |
T1015 | E |  | Clinic service |  |  |  |  |
T1016 | E |  | Case management |  |  |  |  |
T1017 | E |  | Targeted case management |  |  |  |  |
T1018 | E |  | School-based IEP ser bundled |  |  |  |  |
T1019 | E |  | Personal care ser per 15 min |  |  |  |  |
T1020 | E |  | Personal care ser per diem |  |  |  |  |
T1021 | E |  | HH Aide or cn aide per visit |  |  |  |  |
T1022 | E |  | Contracted services per day |  |  |  |  |
T1023 | E |  | Program intake assessment |  |  |  |  |
T1024 | E |  | Team evaluation & management |  |  |  |  |
T1025 | E |  | Ped compr care pkg, per diem |  |  |  |  |
T1026 | E |  | Ped compr care pkg, per hour |  |  |  |  |
T1027 | E |  | Family training & counseling |  |  |  |  |
T1028 | E |  | Home environment assessment |  |  |  |  |
T1029 | E |  | Dwelling lead investigation |  |  |  |  |
T1030 | E |  | RN home care per diem |  |  |  |  |
T1031 | E |  | LPN home care per diem |  |  |  |  |
T1500 | E |  | Reusable diaper/pant |  |  |  |  |
T1502 | E |  | Medication admin visit |  |  |  |  |
T1999 | E |  | NOC retail items andsupplies |  |  |  |  |
T2001 | E |  | N-et; patient attend/escort |  |  |  |  |
T2002 | E |  | N-et; per diem |  |  |  |  |
T2003 | E |  | N-et; encounter/trip |  |  |  |  |
T2004 | E |  | N-et; commerc carrier pass |  |  |  |  |
T2005 | E |  | N-et; stretcher van |  |  |  |  |
T2006 | E |  | Amb response & trt, no trans |  |  |  |  |
T2007 | E |  | Non-emer transport wait time |  |  |  |  |
V2020 | A |  | Vision svcs frames purchases |  |  |  |  |
V2025 | E |  | Eyeglasses delux frames |  |  |  |  |
V2100 | A |  | Lens spher single plano 4.00 |  |  |  |  |
V2101 | A |  | Single visn sphere 4.12-7.00 |  |  |  |  |
V2102 | A |  | Singl visn sphere 7.12-20.00 |  |  |  |  |
V2103 | A |  | Spherocylindr 4.00d/12-2.00d |  |  |  |  |
V2104 | A |  | Spherocylindr 4.00d/2.12-4d |  |  |  |  |
V2105 | A |  | Spherocylinder 4.00d/4.25-6d |  |  |  |  |
V2106 | A |  | Spherocylinder 4.00d/>6.00d |  |  |  |  |
V2107 | A |  | Spherocylinder 4.25d/12-2d |  |  |  |  |
V2108 | A |  | Spherocylinder 4.25d/2.12-4d |  |  |  |  |
V2109 | A |  | Spherocylinder 4.25d/4.25-6d |  |  |  |  |
V2110 | A |  | Spherocylinder 4.25d/over 6d |  |  |  |  |
V2111 | A |  | Spherocylindr 7.25d/.25-2.25 |  |  |  |  |
V2112 | A |  | Spherocylindr 7.25d/2.25-4d |  |  |  |  |
V2113 | A |  | Spherocylindr 7.25d/4.25-6d |  |  |  |  |
V2114 | A |  | Spherocylinder over 12.00d |  |  |  |  |
V2115 | A |  | Lens lenticular bifocal |  |  |  |  |
V2116 | A |  | Nonaspheric lens bifocal |  |  |  |  |
V2117 | A |  | Aspheric lens bifocal |  |  |  |  |
V2118 | A |  | Lens aniseikonic single |  |  |  |  |
V2199 | A |  | Lens single vision not oth c |  |  |  |  |
V2200 | A |  | Lens spher bifoc plano 4.00d |  |  |  |  |
V2201 | A |  | Lens sphere bifocal 4.12-7.0 |  |  |  |  |
V2202 | A |  | Lens sphere bifocal 7.12-20. |  |  |  |  |
V2203 | A |  | Lens sphcyl bifocal 4.00d/.1 |  |  |  |  |
V2204 | A |  | Lens sphcy bifocal 4.00d/2.1 |  |  |  |  |
V2205 | A |  | Lens sphcy bifocal 4.00d/4.2 |  |  |  |  |
V2206 | A |  | Lens sphcy bifocal 4.00d/ove |  |  |  |  |
V2207 | A |  | Lens sphcy bifocal 4.25-7d/. |  |  |  |  |
V2208 | A |  | Lens sphcy bifocal 4.25-7/2. |  |  |  |  |
V2209 | A |  | Lens sphcy bifocal 4.25-7/4. |  |  |  |  |
V2210 | A |  | Lens sphcy bifocal 4.25-7/ov |  |  |  |  |
V2211 | A |  | Lens sphcy bifo 7.25-12/.25- |  |  |  |  |
V2212 | A |  | Lens sphcyl bifo 7.25-12/2.2 |  |  |  |  |
V2213 | A |  | Lens sphcyl bifo 7.25-12/4.2 |  |  |  |  |
V2214 | A |  | Lens sphcyl bifocal over 12. |  |  |  |  |
V2215 | A |  | Lens lenticular bifocal |  |  |  |  |
V2216 | A |  | Lens lenticular nonaspheric |  |  |  |  |
V2217 | A |  | Lens lenticular aspheric bif |  |  |  |  |
V2218 | A |  | Lens aniseikonic bifocal |  |  |  |  |
V2219 | A |  | Lens bifocal seg width over |  |  |  |  |
V2220 | A |  | Lens bifocal add over 3.25d |  |  |  |  |
V2299 | A |  | Lens bifocal speciality |  |  |  |  |
V2300 | A |  | Lens sphere trifocal 4.00d |  |  |  |  |
V2301 | A |  | Lens sphere trifocal 4.12-7. |  |  |  |  |
V2302 | A |  | Lens sphere trifocal 7.12-20 |  |  |  |  |
V2303 | A |  | Lens sphcy trifocal 4.0/.12- |  |  |  |  |
V2304 | A |  | Lens sphcy trifocal 4.0/2.25 |  |  |  |  |
V2305 | A |  | Lens sphcy trifocal 4.0/4.25 |  |  |  |  |
V2306 | A |  | Lens sphcyl trifocal 4.00/>6 |  |  |  |  |
V2307 | A |  | Lens sphcy trifocal 4.25-7/. |  |  |  |  |
V2308 | A |  | Lens sphc trifocal 4.25-7/2. |  |  |  |  |
V2309 | A |  | Lens sphc trifocal 4.25-7/4. |  |  |  |  |
V2310 | A |  | Lens sphc trifocal 4.25-7/>6 |  |  |  |  |
V2311 | A |  | Lens sphc trifo 7.25-12/.25- |  |  |  |  |
V2312 | A |  | Lens sphc trifo 7.25-12/2.25 |  |  |  |  |
V2313 | A |  | Lens sphc trifo 7.25-12/4.25 |  |  |  |  |
V2314 | A |  | Lens sphcyl trifocal over 12 |  |  |  |  |
V2315 | A |  | Lens lenticular trifocal |  |  |  |  |
V2316 | A |  | Lens lenticular nonaspheric |  |  |  |  |
V2317 | A |  | Lens lenticular aspheric tri |  |  |  |  |
V2318 | A |  | Lens aniseikonic trifocal |  |  |  |  |
V2319 | A |  | Lens trifocal seg width > 28 |  |  |  |  |
V2320 | A |  | Lens trifocal add over 3.25d |  |  |  |  |
V2399 | A |  | Lens trifocal speciality |  |  |  |  |
V2410 | A |  | Lens variab asphericity sing |  |  |  |  |
V2430 | A |  | Lens variable asphericity bi |  |  |  |  |
V2499 | A |  | Variable asphericity lens |  |  |  |  |
V2500 | A |  | Contact lens pmma spherical |  |  |  |  |
V2501 | A |  | Cntct lens pmma-toric/prism |  |  |  |  |
V2502 | A |  | Contact lens pmma bifocal |  |  |  |  |
V2503 | A |  | Cntct lens pmma color vision |  |  |  |  |
V2510 | A |  | Cntct gas permeable sphericl |  |  |  |  |
V2511 | A |  | Cntct toric prism ballast |  |  |  |  |
V2512 | A |  | Cntct lens gas permbl bifocl |  |  |  |  |
V2513 | A |  | Contact lens extended wear |  |  |  |  |
V2520 | A |  | Contact lens hydrophilic |  |  |  |  |
V2521 | A |  | Cntct lens hydrophilic toric |  |  |  |  |
V2522 | A |  | Cntct lens hydrophil bifocl |  |  |  |  |
V2523 | A |  | Cntct lens hydrophil extend |  |  |  |  |
V2530 | A |  | Contact lens gas impermeable |  |  |  |  |
V2531 | A |  | Contact lens gas permeable |  |  |  |  |
V2599 | A |  | Contact lens/es other type |  |  |  |  |
V2600 | A |  | Hand held low vision aids |  |  |  |  |
V2610 | A |  | Single lens spectacle mount |  |  |  |  |
V2615 | A |  | Telescop/othr compound lens |  |  |  |  |
V2623 | A |  | Plastic eye prosth custom |  |  |  |  |
V2624 | A |  | Polishing artifical eye |  |  |  |  |
V2625 | A |  | Enlargemnt of eye prosthesis |  |  |  |  |
V2626 | A |  | Reduction of eye prosthesis |  |  |  |  |
V2627 | A |  | Scleral cover shell |  |  |  |  |
V2628 | A |  | Fabrication & fitting |  |  |  |  |
V2629 | A |  | Prosthetic eye other type |  |  |  |  |
V2630 | N |  | Anter chamber intraocul lens |  |  |  |  |
V2631 | N |  | Iris support intraoclr lens |  |  |  |  |
V2632 | N |  | Post chmbr intraocular lens |  |  |  |  |
V2700 | A |  | Balance lens |  |  |  |  |
V2710 | A |  | Glass/plastic slab off prism |  |  |  |  |
V2715 | A |  | Prism lens/es |  |  |  |  |
V2718 | A |  | Fresnell prism press-on lens |  |  |  |  |
V2730 | A |  | Special base curve |  |  |  |  |
V2740 | A |  | Rose tint plastic |  |  |  |  |
V2741 | A |  | Non-rose tint plastic |  |  |  |  |
V2742 | A |  | Rose tint glass |  |  |  |  |
V2743 | A |  | Non-rose tint glass |  |  |  |  |
V2744 | A |  | Tint photochromatic lens/es |  |  |  |  |
V2750 | A |  | Anti-reflective coating |  |  |  |  |
V2755 | A |  | UV lens/es |  |  |  |  |
V2760 | A |  | Scratch resistant coating |  |  |  |  |
V2770 | A |  | Occluder lens/es |  |  |  |  |
V2780 | A |  | Oversize lens/es |  |  |  |  |
V2781 | E |  | Progressive lens per lens |  |  |  |  |
V2785 | F |  | Corneal tissue processing |  |  |  |  |
V2790 | N |  | Amniotic membrane |  |  |  |  |
V2799 | A |  | Miscellaneous vision service |  |  |  |  |
V5008 | E |  | Hearing screening |  |  |  |  |
V5010 | E |  | Assessment for hearing aid |  |  |  |  |
V5011 | E |  | Hearing aid fitting/checking |  |  |  |  |
V5014 | E |  | Hearing aid repair/modifying |  |  |  |  |
V5020 | E |  | Conformity evaluation |  |  |  |  |
V5030 | E |  | Body-worn hearing aid air |  |  |  |  |
V5040 | E |  | Body-worn hearing aid bone |  |  |  |  |
V5050 | E |  | Hearing aid monaural in ear |  |  |  |  |
V5060 | E |  | Behind ear hearing aid |  |  |  |  |
V5070 | E |  | Glasses air conduction |  |  |  |  |
V5080 | E |  | Glasses bone conduction |  |  |  |  |
V5090 | E |  | Hearing aid dispensing fee |  |  |  |  |
V5095 | E |  | Implant mid ear hearing pros |  |  |  |  |
V5100 | E |  | Body-worn bilat hearing aid |  |  |  |  |
V5110 | E |  | Hearing aid dispensing fee |  |  |  |  |
V5120 | E |  | Body-worn binaur hearing aid |  |  |  |  |
V5130 | E |  | In ear binaural hearing aid |  |  |  |  |
V5140 | E |  | Behind ear binaur hearing ai |  |  |  |  |
V5150 | E |  | Glasses binaural hearing aid |  |  |  |  |
V5160 | E |  | Dispensing fee binaural |  |  |  |  |
V5170 | E |  | Within ear cros hearing aid |  |  |  |  |
V5180 | E |  | Behind ear cros hearing aid |  |  |  |  |
V5190 | E |  | Glasses cros hearing aid |  |  |  |  |
V5200 | E |  | Cros hearing aid dispens fee |  |  |  |  |
V5210 | E |  | In ear bicros hearing aid |  |  |  |  |
V5220 | E |  | Behind ear bicros hearing ai |  |  |  |  |
V5230 | E |  | Glasses bicros hearing aid |  |  |  |  |
V5240 | E |  | Dispensing fee bicros |  |  |  |  |
V5241 | E |  | Dispensing fee, monaural |  |  |  |  |
V5242 | E |  | Hearing aid, monaural, cic |  |  |  |  |
V5243 | E |  | Hearing aid, monaural, itc |  |  |  |  |
V5244 | E |  | Hearing aid, prog, mon, cic |  |  |  |  |
V5245 | E |  | Hearing aid, prog, mon, itc |  |  |  |  |
V5246 | E |  | Hearing aid, prog, mon, ite |  |  |  |  |
V5247 | E |  | Hearing aid, prog, mon, bte |  |  |  |  |
V5248 | E |  | Hearing aid, binaural, cic |  |  |  |  |
V5249 | E |  | Hearing aid, binaural, itc |  |  |  |  |
V5250 | E |  | Hearing aid, prog, bin, cic |  |  |  |  |
V5251 | E |  | Hearing aid, prog, bin, itc |  |  |  |  |
V5252 | E |  | Hearing aid, prog, bin, ite |  |  |  |  |
V5253 | E |  | Hearing aid, prog, bin, bte |  |  |  |  |
V5254 | E |  | Hearing id, digit, mon, cic |  |  |  |  |
V5255 | E |  | Hearing aid, digit, mon, itc |  |  |  |  |
V5256 | E |  | Hearing aid, digit, mon, ite |  |  |  |  |
V5257 | E |  | Hearing aid, digit, mon, bte |  |  |  |  |
V5258 | E |  | Hearing aid, digit, bin, cic |  |  |  |  |
V5259 | E |  | Hearing aid, digit, bin, itc |  |  |  |  |
V5260 | E |  | Hearing aid, digit, bin, ite |  |  |  |  |
V5261 | E |  | Hearing aid, digit, bin, bte |  |  |  |  |
V5262 | E |  | Hearing aid, disp, monaural |  |  |  |  |
V5263 | E |  | Hearing aid, disp, binaural |  |  |  |  |
V5264 | E |  | Ear mold/insert |  |  |  |  |
V5265 | E |  | Ear mold/insert, disp |  |  |  |  |
V5266 | E |  | Battery for hearing device |  |  |  |  |
V5267 | E |  | Hearing aid supply/accessory |  |  |  |  |
V5268 | E |  | ALD Telephone Amplifier |  |  |  |  |
V5269 | E |  | Alerting device, any type |  |  |  |  |
V5270 | E |  | ALD, TV amplifier, any type |  |  |  |  |
V5271 | E |  | ALD, TV caption decoder |  |  |  |  |
V5272 | E |  | Tdd |  |  |  |  |
V5273 | E |  | ALD for cochlear implant |  |  |  |  |
V5274 | E |  | ALD unspecified |  |  |  |  |
V5275 | E |  | Ear impression |  |  |  |  |
V5298 | E |  | Hearing aid noc |  |  |  |  |
V5299 | E |  | Hearing service |  |  |  |  |
V5336 | E |  | Repair communication device |  |  |  |  |
V5362 | A |  | Speech screening |  |  |  |  |
V5363 | A |  | Language screening |  |  |  |  |
V5364 | A |  | Dysphagia screening |  |  |  |  |
CPT codes and escriptions only are copyright American Medical Association. All Rights Reserved. Applicable FARS/DFARS Apply.
Copyright American Dental Association. All right reserved.

Addendum D.—Payment Status Indicators for the Hospital Outpatient Prospective Payment System
Indicator | Service | Status
A | Services Paid under a Fee Schedule Other than OPPS, e.g., Clinical Diagnostic Laboratory Services; Physical, Occupational and Speech Therapy; and Screening Mammography | Paid under a Payment System other than OPPS.
C | Inpatient Procedures | Not Paid under OPPS; Admit Patient; Bill as Inpatient.
D | Deleted Code | Not Paid under Medicare.
E | Non-Covered Items and Services; Codes not Payable in Hospital Outpatient Setting; Codes Not Recognized by OPPS but for Which an Alternate Code may be Applicable. | Not Covered under Medicare, or not an Allowed Code when Performed in a Hospital Outpatient Setting.
F | Corneal Tissue Acquisition | Paid at Reasonable Cost.
G | Drug/Biological Pass-Through | Paid under OPPS; Separate APC Payment Includes Pass-Through Amount.
H | Device Category Pass-Through | Paid under OPPS; Separate Cost-Based Pass-Through Payment.
K | Non Pass-Through Drug/Biological, Radiopharmaceutical Agent, Certain Brachytherapy Sources | Paid under OPPS; Separate APC.
L | Influenza Vaccine; Pneumococcal Pneumonia Vaccine | Paid at Reasonable Cost; Not Subject to Deductible or Coinsurance.
N | Items and Services Packaged into APC Rate | Paid under OPPS; Payment is Packaged into Payment for Other Services.
P | Partial Hospitalization | Paid under OPPS; Per Diem APC.
S | Significant Procedure, Not Discounted when Multiple | Paid under OPPS; Separate APC.
T | Significant Procedure, Multiple Procedure Reduction Applies | Paid under OPPS; Separate APC.
V | Clinic or Emergency Department Visit | Paid under OPPS; Separate APC.
X | Ancillary Service | Paid under OPPS; Separate APC.

——————————

CPT codes and descriptions only are copyright American Medical Association. All Rights Reserved. Applicable FARS/DFARS Apply.

Copyright American Dental Association. All rights reserved.

Addendum E.—CPT Codes Which Would Be Paid Only as Inpatient Procedures
[Calendar Year 2004]
CPT/HCPCS | Status indicator | Description
0001T | C | Endovas repr abdo ao aneurys
0002T | C | Endovas repr abdo ao aneurys
0005T | C | Perc cath stent/brain cv art
0006T | C | Perc cath stent/brain cv art
0007T | C | Perc cath stent/brain cv art
00174 | C | Anesth, pharyngeal surgery
00176 | C | Anesth, pharyngeal surgery
00192 | C | Anesth, facial bone surgery
00214 | C | Anesth, skull drainage
00215 | C | Anesth, skull repair/fract
0021T | C | Fetal oximetry, trnsvag/cerv
0024T | C | Transcath cardiac reduction
0033T | C | Endovasc taa repr incl subcl
0034T | C | Endovasc taa repr w/o subcl
0035T | C | Insert endovasc prosth, taa
0036T | C | Endovasc prosth, taa, add-on
0037T | C | Artery transpose/endovas taa
0038T | C | Rad endovasc taa rpr w/cover
0039T | C | Rad s/i, endovasc taa repair
00404 | C | Anesth, surgery of breast
00406 | C | Anesth, surgery of breast
0040T | C | Rad s/i, endovasc taa prosth
00452 | C | Anesth, surgery of shoulder
00474 | C | Anesth, surgery of rib(s)
00524 | C | Anesth, chest drainage
00540 | C | Anesth, chest surgery
00542 | C | Anesth, release of lung
00544 | C | Anesth, chest lining removal
00546 | C | Anesth, lung,chest wall surg
00560 | C | Anesth, open heart surgery
00562 | C | Anesth, open heart surgery
00580 | C | Anesth, heart/lung transplnt
00604 | C | Anesth, sitting procedure
00622 | C | Anesth, removal of nerves
00632 | C | Anesth, removal of nerves
00634 | C | Anesth for chemonucleolysis
00670 | C | Anesth, spine, cord surgery
00792 | C | Anesth, hemorr/excise liver
00794 | C | Anesth, pancreas removal
00796 | C | Anesth, for liver transplant
00802 | C | Anesth, fat layer removal
00844 | C | Anesth, pelvis surgery
00846 | C | Anesth, hysterectomy
00848 | C | Anesth, pelvic organ surg
00864 | C | Anesth, removal of bladder
00865 | C | Anesth, removal of prostate
00866 | C | Anesth, removal of adrenal
00868 | C | Anesth, kidney transplant
00882 | C | Anesth, major vein ligation
00904 | C | Anesth, perineal surgery
00908 | C | Anesth, removal of prostate
00928 | C | Anesth, removal of testis
00932 | C | Anesth, amputation of penis
00934 | C | Anesth, penis, nodes removal
00936 | C | Anesth, penis, nodes removal
00944 | C | Anesth, vaginal hysterectomy
01140 | C | Anesth, amputation at pelvis
01150 | C | Anesth, pelvic tumor surgery
01190 | C | Anesth, pelvis nerve removal
01212 | C | Anesth, hip disarticulation
01214 | C | Anesth, hip arthroplasty
01232 | C | Anesth, amputation of femur
01234 | C | Anesth, radical femur surg
01272 | C | Anesth, femoral artery surg
01274 | C | Anesth, femoral embolectomy
01402 | C | Anesth, knee arthroplasty
01404 | C | Anesth, amputation at knee
01442 | C | Anesth, knee artery surg
01444 | C | Anesth, knee artery repair
01486 | C | Anesth, ankle replacement
01502 | C | Anesth, lwr leg embolectomy
01632 | C | Anesth, surgery of shoulder
01634 | C | Anesth, shoulder joint amput
01636 | C | Anesth, forequarter amput
31225 | C | Removal of upper jaw
31230 | C | Removal of upper jaw
31290 | C | Nasal/sinus endoscopy, surg
31291 | C | Nasal/sinus endoscopy, surg
31292 | C | Nasal/sinus endoscopy, surg
31293 | C | Nasal/sinus endoscopy, surg
31294 | C | Nasal/sinus endoscopy, surg
31360 | C | Removal of larynx
31365 | C | Removal of larynx
31367 | C | Partial removal of larynx
31368 | C | Partial removal of larynx
31370 | C | Partial removal of larynx
31375 | C | Partial removal of larynx
31380 | C | Partial removal of larynx
31382 | C | Partial removal of larynx
31390 | C | Removal of larynx & pharynx
31395 | C | Reconstruct larynx & pharynx
31584 | C | Treat larynx fracture
31587 | C | Revision of larynx
31725 | C | Clearance of airways
31760 | C | Repair of windpipe
31766 | C | Reconstruction of windpipe
31770 | C | Repair/graft of bronchus
31775 | C | Reconstruct bronchus
31780 | C | Reconstruct windpipe
31781 | C | Reconstruct windpipe
31786 | C | Remove windpipe lesion
31800 | C | Repair of windpipe injury
31805 | C | Repair of windpipe injury
32035 | C | Exploration of chest
32036 | C | Exploration of chest
32095 | C | Biopsy through chest wall
32100 | C | Exploration/biopsy of chest
32110 | C | Explore/repair chest
32120 | C | Re-exploration of chest
32124 | C | Explore chest free adhesions
32140 | C | Removal of lung lesion(s)
32141 | C | Remove/treat lung lesions
32150 | C | Removal of lung lesion(s)
32151 | C | Remove lung foreign body
32160 | C | Open chest heart massage
32200 | C | Drain, open, lung lesion
32215 | C | Treat chest lining
32220 | C | Release of lung
32225 | C | Partial release of lung
32310 | C | Removal of chest lining
32320 | C | Free/remove chest lining
32402 | C | Open biopsy chest lining
32440 | C | Removal of lung
32442 | C | Sleeve pneumonectomy
32445 | C | Removal of lung
32480 | C | Partial removal of lung
32482 | C | Bilobectomy
32484 | C | Segmentectomy
32486 | C | Sleeve lobectomy
32488 | C | Completion pneumonectomy
32491 | C | Lung volume reduction
32500 | C | Partial removal of lung
32501 | C | Repair bronchus add-on
32520 | C | Remove lung & revise chest
32522 | C | Remove lung & revise chest
32525 | C | Remove lung & revise chest
32540 | C | Removal of lung lesion
32650 | C | Thoracoscopy, surgical
32651 | C | Thoracoscopy, surgical
32652 | C | Thoracoscopy, surgical
32653 | C | Thoracoscopy, surgical
32654 | C | Thoracoscopy, surgical
32655 | C | Thoracoscopy, surgical
32656 | C | Thoracoscopy, surgical
32657 | C | Thoracoscopy, surgical
32658 | C | Thoracoscopy, surgical
32659 | C | Thoracoscopy, surgical
32660 | C | Thoracoscopy, surgical
32661 | C | Thoracoscopy, surgical
32662 | C | Thoracoscopy, surgical
32663 | C | Thoracoscopy, surgical
32664 | C | Thoracoscopy, surgical
32665 | C | Thoracoscopy, surgical
32800 | C | Repair lung hernia
32810 | C | Close chest after drainage
01638 | C | Anesth, shoulder replacement
01652 | C | Anesth, shoulder vessel surg
01654 | C | Anesth, shoulder vessel surg
01656 | C | Anesth, arm-leg vessel surg
01756 | C | Anesth, radical humerus surg
01990 | C | Support for organ donor
15756 | C | Free muscle flap, microvasc
15757 | C | Free skin flap, microvasc
15758 | C | Free fascial flap, microvasc
16035 | C | Incision of burn scab, initi
16036 | C | Incise burn scab, addl incis
19200 | C | Removal of breast
19220 | C | Removal of breast
19271 | C | Revision of chest wall
19272 | C | Extensive chest wall surgery
19361 | C | Breast reconstruction
19364 | C | Breast reconstruction
19367 | C | Breast reconstruction
19368 | C | Breast reconstruction
19369 | C | Breast reconstruction
20660 | C | Apply, rem fixation device
20661 | C | Application of head brace
20662 | C | Application of pelvis brace
20663 | C | Application of thigh brace
20664 | C | Halo brace application
20802 | C | Replantation, arm, complete
20805 | C | Replant forearm, complete
20808 | C | Replantation hand, complete
20816 | C | Replantation digit, complete
20822 | C | Replantation digit, complete
20824 | C | Replantation thumb, complete
20827 | C | Replantation thumb, complete
20838 | C | Replantation foot, complete
20930 | C | Spinal bone allograft
20931 | C | Spinal bone allograft
20936 | C | Spinal bone autograft
20937 | C | Spinal bone autograft
20938 | C | Spinal bone autograft
20955 | C | Fibula bone graft, microvasc
20956 | C | Iliac bone graft, microvasc
20957 | C | Mt bone graft, microvasc
20962 | C | Other bone graft, microvasc
20969 | C | Bone/skin graft, microvasc
20970 | C | Bone/skin graft, iliac crest
20972 | C | Bone/skin graft, metatarsal
20973 | C | Bone/skin graft, great toe
21045 | C | Extensive jaw surgery
21141 | C | Reconstruct midface, lefort
21142 | C | Reconstruct midface, lefort
21143 | C | Reconstruct midface, lefort
21145 | C | Reconstruct midface, lefort
21146 | C | Reconstruct midface, lefort
21147 | C | Reconstruct midface, lefort
21150 | C | Reconstruct midface, lefort
21151 | C | Reconstruct midface, lefort
21154 | C | Reconstruct midface, lefort
21155 | C | Reconstruct midface, lefort
21159 | C | Reconstruct midface, lefort
21160 | C | Reconstruct midface, lefort
21172 | C | Reconstruct orbit/forehead
21175 | C | Reconstruct orbit/forehead
21179 | C | Reconstruct entire forehead
21180 | C | Reconstruct entire forehead
21182 | C | Reconstruct cranial bone
21183 | C | Reconstruct cranial bone
21184 | C | Reconstruct cranial bone
21188 | C | Reconstruction of midface
21193 | C | Reconst lwr jaw w/o graft
21194 | C | Reconst lwr jaw w/graft
21195 | C | Reconst lwr jaw w/o fixation
21196 | C | Reconst lwr jaw w/fixation
21247 | C | Reconstruct lower jaw bone
21255 | C | Reconstruct lower jaw bone
21256 | C | Reconstruction of orbit
21268 | C | Revise eye sockets
21343 | C | Treatment of sinus fracture
21344 | C | Treatment of sinus fracture
21346 | C | Treat nose/jaw fracture
21347 | C | Treat nose/jaw fracture
21348 | C | Treat nose/jaw fracture
21356 | C | Treat cheek bone fracture
21360 | C | Treat cheek bone fracture
21365 | C | Treat cheek bone fracture
21366 | C | Treat cheek bone fracture
21385 | C | Treat eye socket fracture
21386 | C | Treat eye socket fracture
21387 | C | Treat eye socket fracture
21395 | C | Treat eye socket fracture
21408 | C | Treat eye socket fracture
21422 | C | Treat mouth roof fracture
21423 | C | Treat mouth roof fracture
21431 | C | Treat craniofacial fracture
21432 | C | Treat craniofacial fracture
21433 | C | Treat craniofacial fracture
21435 | C | Treat craniofacial fracture
21436 | C | Treat craniofacial fracture
21495 | C | Treat hyoid bone fracture
21510 | C | Drainage of bone lesion
21557 | C | Remove tumor, neck/chest
21615 | C | Removal of rib
21616 | C | Removal of rib and nerves
21620 | C | Partial removal of sternum
21627 | C | Sternal debridement
21630 | C | Extensive sternum surgery
21632 | C | Extensive sternum surgery
21705 | C | Revision of neck muscle/rib
21740 | C | Reconstruction of sternum
21750 | C | Repair of sternum separation
21810 | C | Treatment of rib fracture(s)
21825 | C | Treat sternum fracture
22110 | C | Remove part of neck vertebra
22112 | C | Remove part, thorax vertebra
22114 | C | Remove part, lumbar vertebra
22116 | C | Remove extra spine segment
22210 | C | Revision of neck spine
22212 | C | Revision of thorax spine
22214 | C | Revision of lumbar spine
22216 | C | Revise, extra spine segment
22220 | C | Revision of neck spine
22222 | C | Revision of thorax spine
22224 | C | Revision of lumbar spine
22226 | C | Revise, extra spine segment
22318 | C | Treat odontoid fx w/o graft
22319 | C | Treat odontoid fx w/graft
22325 | C | Treat spine fracture
22326 | C | Treat neck spine fracture
22327 | C | Treat thorax spine fracture
22328 | C | Treat each add spine fx
22548 | C | Neck spine fusion
22554 | C | Neck spine fusion
22556 | C | Thorax spine fusion
22558 | C | Lumbar spine fusion
22585 | C | Additional spinal fusion
22590 | C | Spine & skull spinal fusion
22595 | C | Neck spinal fusion
22600 | C | Neck spine fusion
22610 | C | Thorax spine fusion
22630 | C | Lumbar spine fusion
22632 | C | Spine fusion, extra segment
22800 | C | Fusion of spine
22802 | C | Fusion of spine
22804 | C | Fusion of spine
22808 | C | Fusion of spine
22810 | C | Fusion of spine
22812 | C | Fusion of spine
22818 | C | Kyphectomy, 1-2 segments
22819 | C | Kyphectomy, 3 or more
22830 | C | Exploration of spinal fusion
22840 | C | Insert spine fixation device
22841 | C | Insert spine fixation device
22842 | C | Insert spine fixation device
22843 | C | Insert spine fixation device
22844 | C | Insert spine fixation device
22845 | C | Insert spine fixation device
22846 | C | Insert spine fixation device
22847 | C | Insert spine fixation device
22848 | C | Insert pelv fixation device
22849 | C | Reinsert spinal fixation
22850 | C | Remove spine fixation device
22851 | C | Apply spine prosth device
22852 | C | Remove spine fixation device
22855 | C | Remove spine fixation device
23200 | C | Removal of collar bone
23210 | C | Removal of shoulder blade
23220 | C | Partial removal of humerus
23221 | C | Partial removal of humerus
23222 | C | Partial removal of humerus
23332 | C | Remove shoulder foreign body
23472 | C | Reconstruct shoulder joint
23900 | C | Amputation of arm & girdle
23920 | C | Amputation at shoulder joint
24149 | C | Radical resection of elbow
24900 | C | Amputation of upper arm
24920 | C | Amputation of upper arm
24930 | C | Amputation follow-up surgery
24931 | C | Amputate upper arm & implant
24940 | C | Revision of upper arm
25900 | C | Amputation of forearm
25905 | C | Amputation of forearm
25909 | C | Amputation follow-up surgery
25915 | C | Amputation of forearm
25920 | C | Amputate hand at wrist
25924 | C | Amputation follow-up surgery
25927 | C | Amputation of hand
25931 | C | Amputation follow-up surgery
26551 | C | Great toe-hand transfer
26553 | C | Single transfer, toe-hand
26554 | C | Double transfer, toe-hand
26556 | C | Toe joint transfer
26992 | C | Drainage of bone lesion
27005 | C | Incision of hip tendon
27006 | C | Incision of hip tendons
27025 | C | Incision of hip/thigh fascia
27030 | C | Drainage of hip joint
27036 | C | Excision of hip joint/muscle
27054 | C | Removal of hip joint lining
27070 | C | Partial removal of hip bone
27071 | C | Partial removal of hip bone
27075 | C | Extensive hip surgery
27076 | C | Extensive hip surgery
27077 | C | Extensive hip surgery
27078 | C | Extensive hip surgery
27079 | C | Extensive hip surgery
27090 | C | Removal of hip prosthesis
27091 | C | Removal of hip prosthesis
27120 | C | Reconstruction of hip socket
27122 | C | Reconstruction of hip socket
27125 | C | Partial hip replacement
27130 | C | Total hip arthroplasty
27132 | C | Total hip arthroplasty
27134 | C | Revise hip joint replacement
27137 | C | Revise hip joint replacement
27138 | C | Revise hip joint replacement
27140 | C | Transplant femur ridge
27146 | C | Incision of hip bone
27147 | C | Revision of hip bone
27151 | C | Incision of hip bones
27156 | C | Revision of hip bones
27158 | C | Revision of pelvis
27161 | C | Incision of neck of femur
27165 | C | Incision/fixation of femur
27170 | C | Repair/graft femur head/neck
27175 | C | Treat slipped epiphysis
27176 | C | Treat slipped epiphysis
27177 | C | Treat slipped epiphysis
27178 | C | Treat slipped epiphysis
27179 | C | Revise head/neck of femur
27181 | C | Treat slipped epiphysis
27185 | C | Revision of femur epiphysis
27187 | C | Reinforce hip bones
27215 | C | Treat pelvic fracture(s)
27217 | C | Treat pelvic ring fracture
27218 | C | Treat pelvic ring fracture
27222 | C | Treat hip socket fracture
27226 | C | Treat hip wall fracture
27227 | C | Treat hip fracture(s)
27228 | C | Treat hip fracture(s)
27232 | C | Treat thigh fracture
27236 | C | Treat thigh fracture
27240 | C | Treat thigh fracture
27244 | C | Treat thigh fracture
27245 | C | Treat thigh fracture
27248 | C | Treat thigh fracture
27253 | C | Treat hip dislocation
27254 | C | Treat hip dislocation
27258 | C | Treat hip dislocation
27259 | C | Treat hip dislocation
27280 | C | Fusion of sacroiliac joint
27282 | C | Fusion of pubic bones
27284 | C | Fusion of hip joint
27286 | C | Fusion of hip joint
27290 | C | Amputation of leg at hip
27295 | C | Amputation of leg at hip
27303 | C | Drainage of bone lesion
27365 | C | Extensive leg surgery
27445 | C | Revision of knee joint
27447 | C | Total knee arthroplasty
27448 | C | Incision of thigh
27450 | C | Incision of thigh
27454 | C | Realignment of thigh bone
27455 | C | Realignment of knee
27457 | C | Realignment of knee
27465 | C | Shortening of thigh bone
27466 | C | Lengthening of thigh bone
27468 | C | Shorten/lengthen thighs
27470 | C | Repair of thigh
27472 | C | Repair/graft of thigh
27475 | C | Surgery to stop leg growth
27477 | C | Surgery to stop leg growth
27479 | C | Surgery to stop leg growth
27485 | C | Surgery to stop leg growth
27486 | C | Revise/replace knee joint
27487 | C | Revise/replace knee joint
27488 | C | Removal of knee prosthesis
27495 | C | Reinforce thigh
27506 | C | Treatment of thigh fracture
27507 | C | Treatment of thigh fracture
27511 | C | Treatment of thigh fracture
27513 | C | Treatment of thigh fracture
27514 | C | Treatment of thigh fracture
27519 | C | Treat thigh fx growth plate
27535 | C | Treat knee fracture
27536 | C | Treat knee fracture
27540 | C | Treat knee fracture
27556 | C | Treat knee dislocation
27557 | C | Treat knee dislocation
27558 | C | Treat knee dislocation
27580 | C | Fusion of knee
27590 | C | Amputate leg at thigh
27591 | C | Amputate leg at thigh
27592 | C | Amputate leg at thigh
27596 | C | Amputation follow-up surgery
27598 | C | Amputate lower leg at knee
27645 | C | Extensive lower leg surgery
27646 | C | Extensive lower leg surgery
27702 | C | Reconstruct ankle joint
27703 | C | Reconstruction, ankle joint
27712 | C | Realignment of lower leg
27715 | C | Revision of lower leg
27720 | C | Repair of tibia
27722 | C | Repair/graft of tibia
27724 | C | Repair/graft of tibia
27725 | C | Repair of lower leg
27727 | C | Repair of lower leg
27880 | C | Amputation of lower leg
27881 | C | Amputation of lower leg
27882 | C | Amputation of lower leg
27886 | C | Amputation follow-up surgery
27888 | C | Amputation of foot at ankle
28800 | C | Amputation of midfoot
28805 | C | Amputation thru metatarsal
32815 | C | Close bronchial fistula
32820 | C | Reconstruct injured chest
32850 | C | Donor pneumonectomy
32851 | C | Lung transplant, single
32852 | C | Lung transplant with bypass
32853 | C | Lung transplant, double
32854 | C | Lung transplant with bypass
32900 | C | Removal of rib(s)
32905 | C | Revise & repair chest wall
32906 | C | Revise & repair chest wall
32940 | C | Revision of lung
32997 | C | Total lung lavage
33015 | C | Incision of heart sac
33020 | C | Incision of heart sac
33025 | C | Incision of heart sac
33030 | C | Partial removal of heart sac
33031 | C | Partial removal of heart sac
33050 | C | Removal of heart sac lesion
33120 | C | Removal of heart lesion
33130 | C | Removal of heart lesion
33140 | C | Heart revascularize (tmr)
33141 | C | Heart tmr w/other procedure
33200 | C | Insertion of heart pacemaker
33201 | C | Insertion of heart pacemaker
33236 | C | Remove electrode/thoracotomy
33237 | C | Remove electrode/thoracotomy
33238 | C | Remove electrode/thoracotomy
33243 | C | Remove eltrd/thoracotomy
33245 | C | Insert epic eltrd pace-defib
33246 | C | Insert epic eltrd/generator
33250 | C | Ablate heart dysrhythm focus
33251 | C | Ablate heart dysrhythm focus
33253 | C | Reconstruct atria
33261 | C | Ablate heart dysrhythm focus
33300 | C | Repair of heart wound
33305 | C | Repair of heart wound
33310 | C | Exploratory heart surgery
33315 | C | Exploratory heart surgery
33320 | C | Repair major blood vessel(s)
33321 | C | Repair major vessel
33322 | C | Repair major blood vessel(s)
33330 | C | Insert major vessel graft
33332 | C | Insert major vessel graft
33335 | C | Insert major vessel graft
33400 | C | Repair of aortic valve
33401 | C | Valvuloplasty, open
33403 | C | Valvuloplasty, w/cp bypass
33404 | C | Prepare heart-aorta conduit
33405 | C | Replacement of aortic valve
33406 | C | Replacement of aortic valve
33410 | C | Replacement of aortic valve
33411 | C | Replacement of aortic valve
33412 | C | Replacement of aortic valve
33413 | C | Replacement of aortic valve
33414 | C | Repair of aortic valve
33415 | C | Revision, subvalvular tissue
33416 | C | Revise ventricle muscle
33417 | C | Repair of aortic valve
33420 | C | Revision of mitral valve
33422 | C | Revision of mitral valve
33425 | C | Repair of mitral valve
33426 | C | Repair of mitral valve
33427 | C | Repair of mitral valve
33430 | C | Replacement of mitral valve
33460 | C | Revision of tricuspid valve
33463 | C | Valvuloplasty, tricuspid
33464 | C | Valvuloplasty, tricuspid
33465 | C | Replace tricuspid valve
33468 | C | Revision of tricuspid valve
33470 | C | Revision of pulmonary valve
33471 | C | Valvotomy, pulmonary valve
33472 | C | Revision of pulmonary valve
33474 | C | Revision of pulmonary valve
33475 | C | Replacement, pulmonary valve
33476 | C | Revision of heart chamber
33478 | C | Revision of heart chamber
33496 | C | Repair, prosth valve clot
33500 | C | Repair heart vessel fistula
33501 | C | Repair heart vessel fistula
33502 | C | Coronary artery correction
33503 | C | Coronary artery graft
33504 | C | Coronary artery graft
33505 | C | Repair artery w/tunnel
33506 | C | Repair artery, translocation
33510 | C | CABG, vein, single
33511 | C | CABG, vein, two
33512 | C | CABG, vein, three
33513 | C | CABG, vein, four
33514 | C | CABG, vein, five
33516 | C | Cabg, vein, six or more
33517 | C | CABG, artery-vein, single
33518 | C | CABG, artery-vein, two
33519 | C | CABG, artery-vein, three
33521 | C | CABG, artery-vein, four
33522 | C | CABG, artery-vein, five
33523 | C | Cabg, art-vein, six or more
33530 | C | Coronary artery, bypass/reop
33533 | C | CABG, arterial, single
33534 | C | CABG, arterial, two
33535 | C | CABG, arterial, three
33536 | C | Cabg, arterial, four or more
33542 | C | Removal of heart lesion
33545 | C | Repair of heart damage
33572 | C | Open coronary endarterectomy
33600 | C | Closure of valve
33602 | C | Closure of valve
33606 | C | Anastomosis/artery-aorta
33608 | C | Repair anomaly w/conduit
33610 | C | Repair by enlargement
33611 | C | Repair double ventricle
33612 | C | Repair double ventricle
33615 | C | Repair, modified fontan
33617 | C | Repair single ventricle
33619 | C | Repair single ventricle
33641 | C | Repair heart septum defect
33645 | C | Revision of heart veins
33647 | C | Repair heart septum defects
33660 | C | Repair of heart defects
33665 | C | Repair of heart defects
33670 | C | Repair of heart chambers
33681 | C | Repair heart septum defect
33684 | C | Repair heart septum defect
33688 | C | Repair heart septum defect
33690 | C | Reinforce pulmonary artery
33692 | C | Repair of heart defects
33694 | C | Repair of heart defects
33697 | C | Repair of heart defects
33702 | C | Repair of heart defects
33710 | C | Repair of heart defects
33720 | C | Repair of heart defect
33722 | C | Repair of heart defect
33730 | C | Repair heart-vein defect(s)
33732 | C | Repair heart-vein defect
33735 | C | Revision of heart chamber
33736 | C | Revision of heart chamber
33737 | C | Revision of heart chamber
33750 | C | Major vessel shunt
33755 | C | Major vessel shunt
33762 | C | Major vessel shunt
33764 | C | Major vessel shunt & graft
33766 | C | Major vessel shunt
33767 | C | Major vessel shunt
33770 | C | Repair great vessels defect
33771 | C | Repair great vessels defect
33774 | C | Repair great vessels defect
33775 | C | Repair great vessels defect
33776 | C | Repair great vessels defect
33777 | C | Repair great vessels defect
33778 | C | Repair great vessels defect
33779 | C | Repair great vessels defect
33780 | C | Repair great vessels defect
33781 | C | Repair great vessels defect
33786 | C | Repair arterial trunk
33788 | C | Revision of pulmonary artery
33800 | C | Aortic suspension
33802 | C | Repair vessel defect
33803 | C | Repair vessel defect
33813 | C | Repair septal defect
33814 | C | Repair septal defect
33820 | C | Revise major vessel
33822 | C | Revise major vessel
33824 | C | Revise major vessel
33840 | C | Remove aorta constriction
33845 | C | Remove aorta constriction
33851 | C | Remove aorta constriction
33852 | C | Repair septal defect
33853 | C | Repair septal defect
33860 | C | Ascending aortic graft
33861 | C | Ascending aortic graft
33863 | C | Ascending aortic graft
33870 | C | Transverse aortic arch graft
33875 | C | Thoracic aortic graft
33877 | C | Thoracoabdominal graft
33910 | C | Remove lung artery emboli
33915 | C | Remove lung artery emboli
33916 | C | Surgery of great vessel
33917 | C | Repair pulmonary artery
33918 | C | Repair pulmonary atresia
33919 | C | Repair pulmonary atresia
33920 | C | Repair pulmonary atresia
33922 | C | Transect pulmonary artery
33924 | C | Remove pulmonary shunt
33930 | C | Removal of donor heart/lung
33935 | C | Transplantation, heart/lung
33940 | C | Removal of donor heart
33945 | C | Transplantation of heart
33960 | C | External circulation assist
33961 | C | External circulation assist
33967 | C | Insert ia percut device
33968 | C | Remove aortic assist device
33970 | C | Aortic circulation assist
33971 | C | Aortic circulation assist
33973 | C | Insert balloon device
33974 | C | Remove intra-aortic balloon
33975 | C | Implant ventricular device
33976 | C | Implant ventricular device
33977 | C | Remove ventricular device
33978 | C | Remove ventricular device
33979 | C | Insert intracorporeal device
33980 | C | Remove intracorporeal device
34001 | C | Removal of artery clot
34051 | C | Removal of artery clot
34151 | C | Removal of artery clot
34401 | C | Removal of vein clot
34451 | C | Removal of vein clot
34502 | C | Reconstruct vena cava
34800 | C | Endovasc abdo repair w/tube
34802 | C | Endovasc abdo repr w/device
34804 | C | Endovasc abdo repr w/device
34808 | C | Endovasc abdo occlud device
34812 | C | Xpose for endoprosth, aortic
34813 | C | Femoral endovas graft add-on
34820 | C | Xpose for endoprosth, iliac
34825 | C | Endovasc extend prosth, init
34826 | C | Endovasc exten prosth, addl
34830 | C | Open aortic tube prosth repr
34831 | C | Open aortoiliac prosth repr
34832 | C | Open aortofemor prosth repr
34833 | C | Xpose for endoprosth, iliac
34834 | C | Xpose, endoprosth, brachial
34900 | C | Endovasc iliac repr w/graft
35001 | C | Repair defect of artery
35002 | C | Repair artery rupture, neck
35005 | C | Repair defect of artery
35013 | C | Repair artery rupture, arm
35021 | C | Repair defect of artery
35022 | C | Repair artery rupture, chest
35045 | C | Repair defect of arm artery
35081 | C | Repair defect of artery
35082 | C | Repair artery rupture, aorta
35091 | C | Repair defect of artery
35092 | C | Repair artery rupture, aorta
35102 | C | Repair defect of artery
35103 | C | Repair artery rupture, groin
35111 | C | Repair defect of artery
35112 | C | Repair artery rupture,spleen
35121 | C | Repair defect of artery
35122 | C | Repair artery rupture, belly
35131 | C | Repair defect of artery
35132 | C | Repair artery rupture, groin
35141 | C | Repair defect of artery
35142 | C | Repair artery rupture, thigh
35151 | C | Repair defect of artery
35152 | C | Repair artery rupture, knee
35161 | C | Repair defect of artery
35162 | C | Repair artery rupture
35182 | C | Repair blood vessel lesion
35189 | C | Repair blood vessel lesion
35211 | C | Repair blood vessel lesion
35216 | C | Repair blood vessel lesion
35221 | C | Repair blood vessel lesion
35241 | C | Repair blood vessel lesion
35246 | C | Repair blood vessel lesion
35251 | C | Repair blood vessel lesion
35271 | C | Repair blood vessel lesion
35276 | C | Repair blood vessel lesion
35281 | C | Repair blood vessel lesion
35301 | C | Rechanneling of artery
35311 | C | Rechanneling of artery
35331 | C | Rechanneling of artery
35341 | C | Rechanneling of artery
35351 | C | Rechanneling of artery
35355 | C | Rechanneling of artery
35361 | C | Rechanneling of artery
35363 | C | Rechanneling of artery
35371 | C | Rechanneling of artery
35372 | C | Rechanneling of artery
35381 | C | Rechanneling of artery
35390 | C | Reoperation, carotid add-on
35400 | C | Angioscopy
35450 | C | Repair arterial blockage
35452 | C | Repair arterial blockage
35454 | C | Repair arterial blockage
35456 | C | Repair arterial blockage
35480 | C | Atherectomy, open
35481 | C | Atherectomy, open
35482 | C | Atherectomy, open
35483 | C | Atherectomy, open
35501 | C | Artery bypass graft
35506 | C | Artery bypass graft
35507 | C | Artery bypass graft
35508 | C | Artery bypass graft
35509 | C | Artery bypass graft
35511 | C | Artery bypass graft
35515 | C | Artery bypass graft
35516 | C | Artery bypass graft
35518 | C | Artery bypass graft
35521 | C | Artery bypass graft
35526 | C | Artery bypass graft
35531 | C | Artery bypass graft
35533 | C | Artery bypass graft
35536 | C | Artery bypass graft
35541 | C | Artery bypass graft
35546 | C | Artery bypass graft
35548 | C | Artery bypass graft
35549 | C | Artery bypass graft
35551 | C | Artery bypass graft
35556 | C | Artery bypass graft
35558 | C | Artery bypass graft
35560 | C | Artery bypass graft
35563 | C | Artery bypass graft
35565 | C | Artery bypass graft
35566 | C | Artery bypass graft
35571 | C | Artery bypass graft
35582 | C | Vein bypass graft
35583 | C | Vein bypass graft
35585 | C | Vein bypass graft
35587 | C | Vein bypass graft
35600 | C | Harvest artery for cabg
35601 | C | Artery bypass graft
35606 | C | Artery bypass graft
35612 | C | Artery bypass graft
35616 | C | Artery bypass graft
35621 | C | Artery bypass graft
35623 | C | Bypass graft, not vein
35626 | C | Artery bypass graft
35631 | C | Artery bypass graft
35636 | C | Artery bypass graft
35641 | C | Artery bypass graft
35642 | C | Artery bypass graft
35645 | C | Artery bypass graft
35646 | C | Artery bypass graft
35647 | C | Artery bypass graft
35650 | C | Artery bypass graft
35651 | C | Artery bypass graft
35654 | C | Artery bypass graft
35656 | C | Artery bypass graft
35661 | C | Artery bypass graft
35663 | C | Artery bypass graft
35665 | C | Artery bypass graft
35666 | C | Artery bypass graft
35671 | C | Artery bypass graft
35681 | C | Composite bypass graft
35682 | C | Composite bypass graft
35683 | C | Composite bypass graft
35691 | C | Arterial transposition
35693 | C | Arterial transposition
35694 | C | Arterial transposition
35695 | C | Arterial transposition
35700 | C | Reoperation, bypass graft
35701 | C | Exploration, carotid artery
35721 | C | Exploration, femoral artery
35741 | C | Exploration popliteal artery
35800 | C | Explore neck vessels
35820 | C | Explore chest vessels
35840 | C | Explore abdominal vessels
35870 | C | Repair vessel graft defect
35901 | C | Excision, graft, neck
35905 | C | Excision, graft, thorax
35907 | C | Excision, graft, abdomen
36510 | C | Insertion of catheter, vein
36660 | C | Insertion catheter, artery
36822 | C | Insertion of cannula(s)
36823 | C | Insertion of cannula(s)
37140 | C | Revision of circulation
37145 | C | Revision of circulation
37160 | C | Revision of circulation
37180 | C | Revision of circulation
37181 | C | Splice spleen/kidney veins
37182 | C | Insert hepatic shunt (tips)
37183 | C | Remove hepatic shunt (tips)
37195 | C | Thrombolytic therapy, stroke
37616 | C | Ligation of chest artery
37617 | C | Ligation of abdomen artery
37618 | C | Ligation of extremity artery
37660 | C | Revision of major vein
37788 | C | Revascularization, penis
38100 | C | Removal of spleen, total
38101 | C | Removal of spleen, partial
38102 | C | Removal of spleen, total
38115 | C | Repair of ruptured spleen
38380 | C | Thoracic duct procedure
38381 | C | Thoracic duct procedure
38382 | C | Thoracic duct procedure
38562 | C | Removal, pelvic lymph nodes
38564 | C | Removal, abdomen lymph nodes
38724 | C | Removal of lymph nodes, neck
38746 | C | Remove thoracic lymph nodes
38747 | C | Remove abdominal lymph nodes
38765 | C | Remove groin lymph nodes
38770 | C | Remove pelvis lymph nodes
38780 | C | Remove abdomen lymph nodes
39000 | C | Exploration of chest
39010 | C | Exploration of chest
39200 | C | Removal chest lesion
39220 | C | Removal chest lesion
39499 | C | Chest procedure
39501 | C | Repair diaphragm laceration
39502 | C | Repair paraesophageal hernia
39503 | C | Repair of diaphragm hernia
39520 | C | Repair of diaphragm hernia
39530 | C | Repair of diaphragm hernia
39531 | C | Repair of diaphragm hernia
39540 | C | Repair of diaphragm hernia
39541 | C | Repair of diaphragm hernia
39545 | C | Revision of diaphragm
39560 | C | Resect diaphragm, simple
39561 | C | Resect diaphragm, complex
39599 | C | Diaphragm surgery procedure
41130 | C | Partial removal of tongue
41135 | C | Tongue and neck surgery
41140 | C | Removal of tongue
41145 | C | Tongue removal, neck surgery
41150 | C | Tongue, mouth, jaw surgery
41153 | C | Tongue, mouth, neck surgery
41155 | C | Tongue, jaw, & neck surgery
42426 | C | Excise parotid gland/lesion
42845 | C | Extensive surgery of throat
42894 | C | Revision of pharyngeal walls
42953 | C | Repair throat, esophagus
42961 | C | Control throat bleeding
42971 | C | Control nose/throat bleeding
43045 | C | Incision of esophagus
43100 | C | Excision of esophagus lesion
43101 | C | Excision of esophagus lesion
43107 | C | Removal of esophagus
43108 | C | Removal of esophagus
43112 | C | Removal of esophagus
43113 | C | Removal of esophagus
43116 | C | Partial removal of esophagus
43117 | C | Partial removal of esophagus
43118 | C | Partial removal of esophagus
43121 | C | Partial removal of esophagus
43122 | C | Partial removal of esophagus
43123 | C | Partial removal of esophagus
43124 | C | Removal of esophagus
43135 | C | Removal of esophagus pouch
43300 | C | Repair of esophagus
43305 | C | Repair esophagus and fistula
43310 | C | Repair of esophagus
43312 | C | Repair esophagus and fistula
43313 | C | Esophagoplasty congenital
43314 | C | Tracheo-esophagoplasty cong
43320 | C | Fuse esophagus & stomach
43324 | C | Revise esophagus & stomach
43325 | C | Revise esophagus & stomach
43326 | C | Revise esophagus & stomach
43330 | C | Repair of esophagus
43331 | C | Repair of esophagus
43340 | C | Fuse esophagus & intestine
43341 | C | Fuse esophagus & intestine
43350 | C | Surgical opening, esophagus
43351 | C | Surgical opening, esophagus
43352 | C | Surgical opening, esophagus
43360 | C | Gastrointestinal repair
43361 | C | Gastrointestinal repair
43400 | C | Ligate esophagus veins
43401 | C | Esophagus surgery for veins
43405 | C | Ligate/staple esophagus
43410 | C | Repair esophagus wound
43415 | C | Repair esophagus wound
43420 | C | Repair esophagus opening
43425 | C | Repair esophagus opening
43460 | C | Pressure treatment esophagus
43496 | C | Free jejunum flap, microvasc
43500 | C | Surgical opening of stomach
43501 | C | Surgical repair of stomach
43502 | C | Surgical repair of stomach
43510 | C | Surgical opening of stomach
43520 | C | Incision of pyloric muscle
43605 | C | Biopsy of stomach
43610 | C | Excision of stomach lesion
43611 | C | Excision of stomach lesion
43620 | C | Removal of stomach
43621 | C | Removal of stomach
43622 | C | Removal of stomach
43631 | C | Removal of stomach, partial
43632 | C | Removal of stomach, partial
43633 | C | Removal of stomach, partial
43634 | C | Removal of stomach, partial
43635 | C | Removal of stomach, partial
43638 | C | Removal of stomach, partial
43639 | C | Removal of stomach, partial
43640 | C | Vagotomy & pylorus repair
43641 | C | Vagotomy & pylorus repair
43800 | C | Reconstruction of pylorus
43810 | C | Fusion of stomach and bowel
43820 | C | Fusion of stomach and bowel
43825 | C | Fusion of stomach and bowel
43832 | C | Place gastrostomy tube
43840 | C | Repair of stomach lesion
43842 | C | Gastroplasty for obesity
43843 | C | Gastroplasty for obesity
43846 | C | Gastric bypass for obesity
43847 | C | Gastric bypass for obesity
43848 | C | Revision gastroplasty
43850 | C | Revise stomach-bowel fusion
43855 | C | Revise stomach-bowel fusion
43860 | C | Revise stomach-bowel fusion
43865 | C | Revise stomach-bowel fusion
43880 | C | Repair stomach-bowel fistula
44005 | C | Freeing of bowel adhesion
44010 | C | Incision of small bowel
44015 | C | Insert needle cath bowel
44020 | C | Explore small intestine
44021 | C | Decompress small bowel
44025 | C | Incision of large bowel
44050 | C | Reduce bowel obstruction
44055 | C | Correct malrotation of bowel
44110 | C | Excise intestine lesion(s)
44111 | C | Excision of bowel lesion(s)
44120 | C | Removal of small intestine
44121 | C | Removal of small intestine
44125 | C | Removal of small intestine
44126 | C | Enterectomy w/o taper, cong
44127 | C | Enterectomy w/taper, cong
44128 | C | Enterectomy cong, add-on
44130 | C | Bowel to bowel fusion
44132 | C | Enterectomy, cadaver donor
44133 | C | Enterectomy, live donor
44135 | C | Intestine transplnt, cadaver
44136 | C | Intestine transplant, live
44139 | C | Mobilization of colon
44140 | C | Partial removal of colon
44141 | C | Partial removal of colon
44143 | C | Partial removal of colon
44144 | C | Partial removal of colon
44145 | C | Partial removal of colon
44146 | C | Partial removal of colon
44147 | C | Partial removal of colon
44150 | C | Removal of colon
44151 | C | Removal of colon/ileostomy
44152 | C | Removal of colon/ileostomy
44153 | C | Removal of colon/ileostomy
44155 | C | Removal of colon/ileostomy
44156 | C | Removal of colon/ileostomy
44160 | C | Removal of colon
44202 | C | Lap resect s/intestine singl
44203 | C | Lap resect s/intestine, addl
44204 | C | Laparo partial colectomy
44205 | C | Lap colectomy part w/ileum
44210 | C | Laparo total proctocolectomy
44211 | C | Laparo total proctocolectomy
44212 | C | Laparo total proctocolectomy
44300 | C | Open bowel to skin
44310 | C | Ileostomy/jejunostomy
44314 | C | Revision of ileostomy
44316 | C | Devise bowel pouch
44320 | C | Colostomy
44322 | C | Colostomy with biopsies
44345 | C | Revision of colostomy
44346 | C | Revision of colostomy
44602 | C | Suture, small intestine
44603 | C | Suture, small intestine
44604 | C | Suture, large intestine
44605 | C | Repair of bowel lesion
44615 | C | Intestinal stricturoplasty
44620 | C | Repair bowel opening
44625 | C | Repair bowel opening
44626 | C | Repair bowel opening
44640 | C | Repair bowel-skin fistula
44650 | C | Repair bowel fistula
44660 | C | Repair bowel-bladder fistula
44661 | C | Repair bowel-bladder fistula
44680 | C | Surgical revision, intestine
44700 | C | Suspend bowel w/prosthesis
44800 | C | Excision of bowel pouch
44820 | C | Excision of mesentery lesion
44850 | C | Repair of mesentery
44899 | C | Bowel surgery procedure
44900 | C | Drain app abscess, open
44901 | C | Drain app abscess, percut
44950 | C | Appendectomy
44955 | C | Appendectomy add-on
44960 | C | Appendectomy
45110 | C | Removal of rectum
45111 | C | Partial removal of rectum
45112 | C | Removal of rectum
45113 | C | Partial proctectomy
45114 | C | Partial removal of rectum
45116 | C | Partial removal of rectum
45119 | C | Remove rectum w/reservoir
45120 | C | Removal of rectum
45121 | C | Removal of rectum and colon
45123 | C | Partial proctectomy
45126 | C | Pelvic exenteration
45130 | C | Excision of rectal prolapse
45135 | C | Excision of rectal prolapse
45136 | C | Excise ileoanal reservior
45540 | C | Correct rectal prolapse
45541 | C | Correct rectal prolapse
45550 | C | Repair rectum/remove sigmoid
45562 | C | Exploration/repair of rectum
45563 | C | Exploration/repair of rectum
45800 | C | Repair rect/bladder fistula
45805 | C | Repair fistula w/colostomy
45820 | C | Repair rectourethral fistula
45825 | C | Repair fistula w/colostomy
46705 | C | Repair of anal stricture
46715 | C | Repair of anovaginal fistula
46716 | C | Repair of anovaginal fistula
46730 | C | Construction of absent anus
46735 | C | Construction of absent anus
46740 | C | Construction of absent anus
46742 | C | Repair of imperforated anus
46744 | C | Repair of cloacal anomaly
46746 | C | Repair of cloacal anomaly
46748 | C | Repair of cloacal anomaly
46751 | C | Repair of anal sphincter
47010 | C | Open drainage, liver lesion
47015 | C | Inject/aspirate liver cyst
47100 | C | Wedge biopsy of liver
47120 | C | Partial removal of liver
47122 | C | Extensive removal of liver
47125 | C | Partial removal of liver
47130 | C | Partial removal of liver
47133 | C | Removal of donor liver
47134 | C | Partial removal, donor liver
47135 | C | Transplantation of liver
47136 | C | Transplantation of liver
47300 | C | Surgery for liver lesion
47350 | C | Repair liver wound
47360 | C | Repair liver wound
47361 | C | Repair liver wound
47362 | C | Repair liver wound
47380 | C | Open ablate liver tumor rf
47381 | C | Open ablate liver tumor cryo
47400 | C | Incision of liver duct
47420 | C | Incision of bile duct
47425 | C | Incision of bile duct
47460 | C | Incise bile duct sphincter
47480 | C | Incision of gallbladder
47550 | C | Bile duct endoscopy add-on
47570 | C | Laparo cholecystoenterostomy
47600 | C | Removal of gallbladder
47605 | C | Removal of gallbladder
47610 | C | Removal of gallbladder
47612 | C | Removal of gallbladder
47620 | C | Removal of gallbladder
47700 | C | Exploration of bile ducts
47701 | C | Bile duct revision
47711 | C | Excision of bile duct tumor
47712 | C | Excision of bile duct tumor
47715 | C | Excision of bile duct cyst
47716 | C | Fusion of bile duct cyst
47720 | C | Fuse gallbladder & bowel
47721 | C | Fuse upper gi structures
47740 | C | Fuse gallbladder & bowel
47741 | C | Fuse gallbladder & bowel
47760 | C | Fuse bile ducts and bowel
47765 | C | Fuse liver ducts & bowel
47780 | C | Fuse bile ducts and bowel
47785 | C | Fuse bile ducts and bowel
47800 | C | Reconstruction of bile ducts
47801 | C | Placement, bile duct support
47802 | C | Fuse liver duct & intestine
47900 | C | Suture bile duct injury
48000 | C | Drainage of abdomen
48001 | C | Placement of drain, pancreas
48005 | C | Resect/debride pancreas
48020 | C | Removal of pancreatic stone
48100 | C | Biopsy of pancreas, open
48120 | C | Removal of pancreas lesion
48140 | C | Partial removal of pancreas
48145 | C | Partial removal of pancreas
48146 | C | Pancreatectomy
48148 | C | Removal of pancreatic duct
48150 | C | Partial removal of pancreas
48152 | C | Pancreatectomy
48153 | C | Pancreatectomy
48154 | C | Pancreatectomy
48155 | C | Removal of pancreas
48180 | C | Fuse pancreas and bowel
48400 | C | Injection, intraop add-on
48500 | C | Surgery of pancreatic cyst
48510 | C | Drain pancreatic pseudocyst
48520 | C | Fuse pancreas cyst and bowel
48540 | C | Fuse pancreas cyst and bowel
48545 | C | Pancreatorrhaphy
48547 | C | Duodenal exclusion
48556 | C | Removal, allograft pancreas
49000 | C | Exploration of abdomen
49002 | C | Reopening of abdomen
49010 | C | Exploration behind abdomen
49020 | C | Drain abdominal abscess
49021 | C | Drain abdominal abscess
49040 | C | Drain, open, abdom abscess
49041 | C | Drain, percut, abdom abscess
49060 | C | Drain, open, retrop abscess
49061 | C | Drain, percut, retroper absc
49062 | C | Drain to peritoneal cavity
49201 | C | Remove abdom lesion, complex
49215 | C | Excise sacral spine tumor
49220 | C | Multiple surgery, abdomen
49255 | C | Removal of omentum
49425 | C | Insert abdomen-venous drain
49428 | C | Ligation of shunt
49605 | C | Repair umbilical lesion
49606 | C | Repair umbilical lesion
49610 | C | Repair umbilical lesion
49611 | C | Repair umbilical lesion
49900 | C | Repair of abdominal wall
49904 | C | Omental flap, extra-abdom
49905 | C | Omental flap
49906 | C | Free omental flap, microvasc
50010 | C | Exploration of kidney
50020 | C | Renal abscess, open drain
50040 | C | Drainage of kidney
50045 | C | Exploration of kidney
50060 | C | Removal of kidney stone
50065 | C | Incision of kidney
50070 | C | Incision of kidney
50075 | C | Removal of kidney stone
50100 | C | Revise kidney blood vessels
50120 | C | Exploration of kidney
50125 | C | Explore and drain kidney
50130 | C | Removal of kidney stone
50135 | C | Exploration of kidney
50205 | C | Biopsy of kidney
50220 | C | Remove kidney, open
50225 | C | Removal kidney open, complex
50230 | C | Removal kidney open, radical
50234 | C | Removal of kidney & ureter
50236 | C | Removal of kidney & ureter
50240 | C | Partial removal of kidney
50280 | C | Removal of kidney lesion
50290 | C | Removal of kidney lesion
50300 | C | Removal of donor kidney
50320 | C | Removal of donor kidney
50340 | C | Removal of kidney
50360 | C | Transplantation of kidney
50365 | C | Transplantation of kidney
50370 | C | Remove transplanted kidney
50380 | C | Reimplantation of kidney
50400 | C | Revision of kidney/ureter
50405 | C | Revision of kidney/ureter
50500 | C | Repair of kidney wound
50520 | C | Close kidney-skin fistula
50525 | C | Repair renal-abdomen fistula
50526 | C | Repair renal-abdomen fistula
50540 | C | Revision of horseshoe kidney
50545 | C | Laparo radical nephrectomy
50546 | C | Laparoscopic nephrectomy
50547 | C | Laparo removal donor kidney
50548 | C | Laparo remove k/ureter
50570 | C | Kidney endoscopy
50572 | C | Kidney endoscopy
50574 | C | Kidney endoscopy & biopsy
50575 | C | Kidney endoscopy
50576 | C | Kidney endoscopy & treatment
50578 | C | Renal endoscopy/radiotracer
50580 | C | Kidney endoscopy & treatment
50600 | C | Exploration of ureter
50605 | C | Insert ureteral support
50610 | C | Removal of ureter stone
50620 | C | Removal of ureter stone
50630 | C | Removal of ureter stone
50650 | C | Removal of ureter
50660 | C | Removal of ureter
50700 | C | Revision of ureter
50715 | C | Release of ureter
50722 | C | Release of ureter
50725 | C | Release/revise ureter
50727 | C | Revise ureter
50728 | C | Revise ureter
50740 | C | Fusion of ureter & kidney
50750 | C | Fusion of ureter & kidney
50760 | C | Fusion of ureters
50770 | C | Splicing of ureters
50780 | C | Reimplant ureter in bladder
50782 | C | Reimplant ureter in bladder
50783 | C | Reimplant ureter in bladder
50785 | C | Reimplant ureter in bladder
50800 | C | Implant ureter in bowel
50810 | C | Fusion of ureter & bowel
50815 | C | Urine shunt to intestine
50820 | C | Construct bowel bladder
50825 | C | Construct bowel bladder
50830 | C | Revise urine flow
50840 | C | Replace ureter by bowel
50845 | C | Appendico-vesicostomy
50860 | C | Transplant ureter to skin
50900 | C | Repair of ureter
50920 | C | Closure ureter/skin fistula
50930 | C | Closure ureter/bowel fistula
50940 | C | Release of ureter
51060 | C | Removal of ureter stone
51525 | C | Removal of bladder lesion
51530 | C | Removal of bladder lesion
51535 | C | Repair of ureter lesion
51550 | C | Partial removal of bladder
51555 | C | Partial removal of bladder
51565 | C | Revise bladder & ureter(s)
51570 | C | Removal of bladder
51575 | C | Removal of bladder & nodes
51580 | C | Remove bladder/revise tract
51585 | C | Removal of bladder & nodes
51590 | C | Remove bladder/revise tract
51595 | C | Remove bladder/revise tract
51596 | C | Remove bladder/create pouch
51597 | C | Removal of pelvic structures
51800 | C | Revision of bladder/urethra
51820 | C | Revision of urinary tract
51840 | C | Attach bladder/urethra
51841 | C | Attach bladder/urethra
51845 | C | Repair bladder neck
51860 | C | Repair of bladder wound
51865 | C | Repair of bladder wound
51900 | C | Repair bladder/vagina lesion
51920 | C | Close bladder-uterus fistula
51925 | C | Hysterectomy/bladder repair
51940 | C | Correction of bladder defect
51960 | C | Revision of bladder & bowel
51980 | C | Construct bladder opening
53085 | C | Drainage of urinary leakage
53415 | C | Reconstruction of urethra
53448 | C | Remov/replc ur sphinctr comp
54125 | C | Removal of penis
54130 | C | Remove penis & nodes
54135 | C | Remove penis & nodes
54332 | C | Revise penis/urethra
54336 | C | Revise penis/urethra
54390 | C | Repair penis and bladder
54411 | C | Remov/replc penis pros, comp
54417 | C | Remv/replc penis pros, compl
54430 | C | Revision of penis
54535 | C | Extensive testis surgery
54560 | C | Exploration for testis
54650 | C | Orchiopexy (Fowler-Stephens)
55600 | C | Incise sperm duct pouch
55605 | C | Incise sperm duct pouch
55650 | C | Remove sperm duct pouch
55801 | C | Removal of prostate
55810 | C | Extensive prostate surgery
55812 | C | Extensive prostate surgery
55815 | C | Extensive prostate surgery
55821 | C | Removal of prostate
55831 | C | Removal of prostate
55840 | C | Extensive prostate surgery
55842 | C | Extensive prostate surgery
55845 | C | Extensive prostate surgery
55862 | C | Extensive prostate surgery
55865 | C | Extensive prostate surgery
55866 | C | Laparo radical prostatectomy
56630 | C | Extensive vulva surgery
56631 | C | Extensive vulva surgery
56632 | C | Extensive vulva surgery
56633 | C | Extensive vulva surgery
56634 | C | Extensive vulva surgery
56637 | C | Extensive vulva surgery
56640 | C | Extensive vulva surgery
57110 | C | Remove vagina wall, complete
57111 | C | Remove vagina tissue, compl
57112 | C | Vaginectomy w/nodes, compl
57270 | C | Repair of bowel pouch
57280 | C | Suspension of vagina
57282 | C | Repair of vaginal prolapse
57292 | C | Construct vagina with graft
57305 | C | Repair rectum-vagina fistula
57307 | C | Fistula repair & colostomy
57308 | C | Fistula repair, transperine
57311 | C | Repair urethrovaginal lesion
57335 | C | Repair vagina
57531 | C | Removal of cervix, radical
57540 | C | Removal of residual cervix
57545 | C | Remove cervix/repair pelvis
58140 | C | Removal of uterus lesion
58146 | C | Myomectomy abdom complex
58150 | C | Total hysterectomy
58152 | C | Total hysterectomy
58180 | C | Partial hysterectomy
58200 | C | Extensive hysterectomy
58210 | C | Extensive hysterectomy
58240 | C | Removal of pelvis contents
58260 | C | Vaginal hysterectomy
58262 | C | Vag hyst including t/o
58263 | C | Vag hyst w/t/o & vag repair
58267 | C | Vag hyst w/urinary repair
58270 | C | Vag hyst w/enterocele repair
58275 | C | Hysterectomy/revise vagina
58280 | C | Hysterectomy/revise vagina
58285 | C | Extensive hysterectomy
58290 | C | Vag hyst complex
58291 | C | Vag hyst incl t/o, complex
58292 | C | Vag hyst t/o & repair, compl
58293 | C | Vag hyst w/uro repair, compl
58294 | C | Vag hyst w/enterocele, compl
58400 | C | Suspension of uterus
58410 | C | Suspension of uterus
58520 | C | Repair of ruptured uterus
58540 | C | Revision of uterus
58605 | C | Division of fallopian tube
58611 | C | Ligate oviduct(s) add-on
58700 | C | Removal of fallopian tube
58720 | C | Removal of ovary/tube(s)
58740 | C | Revise fallopian tube(s)
58750 | C | Repair oviduct
58752 | C | Revise ovarian tube(s)
58760 | C | Remove tubal obstruction
58770 | C | Create new tubal opening
58805 | C | Drainage of ovarian cyst(s)
58822 | C | Drain ovary abscess, percut
58825 | C | Transposition, ovary(s)
58940 | C | Removal of ovary(s)
58943 | C | Removal of ovary(s)
58950 | C | Resect ovarian malignancy
58951 | C | Resect ovarian malignancy
58952 | C | Resect ovarian malignancy
58953 | C | Tah, rad dissect for debulk
58954 | C | Tah rad debulk/lymph remove
58960 | C | Exploration of abdomen
59100 | C | Remove uterus lesion
59120 | C | Treat ectopic pregnancy
59121 | C | Treat ectopic pregnancy
59130 | C | Treat ectopic pregnancy
59135 | C | Treat ectopic pregnancy
59136 | C | Treat ectopic pregnancy
59140 | C | Treat ectopic pregnancy
59325 | C | Revision of cervix
59350 | C | Repair of uterus
59514 | C | Cesarean delivery only
59525 | C | Remove uterus after cesarean
59620 | C | Attempted vbac delivery only
59830 | C | Treat uterus infection
59850 | C | Abortion
59851 | C | Abortion
59852 | C | Abortion
59855 | C | Abortion
59856 | C | Abortion
59857 | C | Abortion
60254 | C | Extensive thyroid surgery
60270 | C | Removal of thyroid
60271 | C | Removal of thyroid
60502 | C | Re-explore parathyroids
60505 | C | Explore parathyroid glands
60520 | C | Removal of thymus gland
60521 | C | Removal of thymus gland
60522 | C | Removal of thymus gland
60540 | C | Explore adrenal gland
60545 | C | Explore adrenal gland
60600 | C | Remove carotid body lesion
60605 | C | Remove carotid body lesion
60650 | C | Laparoscopy adrenalectomy
61105 | C | Twist drill hole
61107 | C | Drill skull for implantation
61108 | C | Drill skull for drainage
61120 | C | Burr hole for puncture
61140 | C | Pierce skull for biopsy
61150 | C | Pierce skull for drainage
61151 | C | Pierce skull for drainage
61154 | C | Pierce skull & remove clot
61156 | C | Pierce skull for drainage
61210 | C | Pierce skull, implant device
61250 | C | Pierce skull & explore
61253 | C | Pierce skull & explore
61304 | C | Open skull for exploration
61305 | C | Open skull for exploration
61312 | C | Open skull for drainage
61313 | C | Open skull for drainage
61314 | C | Open skull for drainage
61315 | C | Open skull for drainage
61320 | C | Open skull for drainage
61321 | C | Open skull for drainage
61322 | C | Decompressive craniotomy
61323 | C | Decompressive lobectomy
61332 | C | Explore/biopsy eye socket
61333 | C | Explore orbit/remove lesion
61334 | C | Explore orbit/remove object
61340 | C | Relieve cranial pressure
61343 | C | Incise skull (press relief)
61345 | C | Relieve cranial pressure
61440 | C | Incise skull for surgery
61450 | C | Incise skull for surgery
61458 | C | Incise skull for brain wound
61460 | C | Incise skull for surgery
61470 | C | Incise skull for surgery
61480 | C | Incise skull for surgery
61490 | C | Incise skull for surgery
61500 | C | Removal of skull lesion
61501 | C | Remove infected skull bone
61510 | C | Removal of brain lesion
61512 | C | Remove brain lining lesion
61514 | C | Removal of brain abscess
61516 | C | Removal of brain lesion
61518 | C | Removal of brain lesion
61519 | C | Remove brain lining lesion
61520 | C | Removal of brain lesion
61521 | C | Removal of brain lesion
61522 | C | Removal of brain abscess
61524 | C | Removal of brain lesion
61526 | C | Removal of brain lesion
61530 | C | Removal of brain lesion
61531 | C | Implant brain electrodes
61533 | C | Implant brain electrodes
61534 | C | Removal of brain lesion
61535 | C | Remove brain electrodes
61536 | C | Removal of brain lesion
61538 | C | Removal of brain tissue
61539 | C | Removal of brain tissue
61541 | C | Incision of brain tissue
61542 | C | Removal of brain tissue
61543 | C | Removal of brain tissue
61544 | C | Remove & treat brain lesion
61545 | C | Excision of brain tumor
61546 | C | Removal of pituitary gland
61548 | C | Removal of pituitary gland
61550 | C | Release of skull seams
61552 | C | Release of skull seams
61556 | C | Incise skull/sutures
61557 | C | Incise skull/sutures
61558 | C | Excision of skull/sutures
61559 | C | Excision of skull/sutures
61563 | C | Excision of skull tumor
61564 | C | Excision of skull tumor
61570 | C | Remove foreign body, brain
61571 | C | Incise skull for brain wound
61575 | C | Skull base/brainstem surgery
61576 | C | Skull base/brainstem surgery
61580 | C | Craniofacial approach, skull
61581 | C | Craniofacial approach, skull
61582 | C | Craniofacial approach, skull
61583 | C | Craniofacial approach, skull
61584 | C | Orbitocranial approach/skull
61585 | C | Orbitocranial approach/skull
61586 | C | Resect nasopharynx, skull
61590 | C | Infratemporal approach/skull
61591 | C | Infratemporal approach/skull
61592 | C | Orbitocranial approach/skull
61595 | C | Transtemporal approach/skull
61596 | C | Transcochlear approach/skull
61597 | C | Transcondylar approach/skull
61598 | C | Transpetrosal approach/skull
61600 | C | Resect/excise cranial lesion
61601 | C | Resect/excise cranial lesion
61605 | C | Resect/excise cranial lesion
61606 | C | Resect/excise cranial lesion
61607 | C | Resect/excise cranial lesion
61608 | C | Resect/excise cranial lesion
61609 | C | Transect artery, sinus
61610 | C | Transect artery, sinus
61611 | C | Transect artery, sinus
61612 | C | Transect artery, sinus
61613 | C | Remove aneurysm, sinus
61615 | C | Resect/excise lesion, skull
61616 | C | Resect/excise lesion, skull
61618 | C | Repair dura
61619 | C | Repair dura
61624 | C | Occlusion/embolization cath
61680 | C | Intracranial vessel surgery
61682 | C | Intracranial vessel surgery
61684 | C | Intracranial vessel surgery
61686 | C | Intracranial vessel surgery
61690 | C | Intracranial vessel surgery
61692 | C | Intracranial vessel surgery
61697 | C | Brain aneurysm repr, complx
61698 | C | Brain aneurysm repr, complx
61700 | C | Brain aneurysm repr, simple
61702 | C | Inner skull vessel surgery
61703 | C | Clamp neck artery
61705 | C | Revise circulation to head
61708 | C | Revise circulation to head
61710 | C | Revise circulation to head
61711 | C | Fusion of skull arteries
61720 | C | Incise skull/brain surgery
61735 | C | Incise skull/brain surgery
61750 | C | Incise skull/brain biopsy
61751 | C | Brain biopsy w/ ct/mr guide
61760 | C | Implant brain electrodes
61770 | C | Incise skull for treatment
61850 | C | Implant neuroelectrodes
61860 | C | Implant neuroelectrodes
61862 | C | Implant neurostimul, subcort
61870 | C | Implant neuroelectrodes
61875 | C | Implant neuroelectrodes
62000 | C | Treat skull fracture
62005 | C | Treat skull fracture
62010 | C | Treatment of head injury
62100 | C | Repair brain fluid leakage
62115 | C | Reduction of skull defect
62116 | C | Reduction of skull defect
62117 | C | Reduction of skull defect
62120 | C | Repair skull cavity lesion
62121 | C | Incise skull repair
62140 | C | Repair of skull defect
62141 | C | Repair of skull defect
62142 | C | Remove skull plate/flap
62143 | C | Replace skull plate/flap
62145 | C | Repair of skull & brain
62146 | C | Repair of skull with graft
62147 | C | Repair of skull with graft
62161 | C | Dissect brain w/scope
62162 | C | Remove colloid cyst w/scope
62163 | C | Neuroendoscopy w/fb removal
62164 | C | Remove brain tumor w/scope
62165 | C | Remove pituit tumor w/scope
62180 | C | Establish brain cavity shunt
62190 | C | Establish brain cavity shunt
62192 | C | Establish brain cavity shunt
62200 | C | Establish brain cavity shunt
62201 | C | Establish brain cavity shunt
62220 | C | Establish brain cavity shunt
62223 | C | Establish brain cavity shunt
62256 | C | Remove brain cavity shunt
62258 | C | Replace brain cavity shunt
63043 | C | Laminotomy, addl cervical
63044 | C | Laminotomy, addl lumbar
63075 | C | Neck spine disk surgery
63076 | C | Neck spine disk surgery
63077 | C | Spine disk surgery, thorax
63078 | C | Spine disk surgery, thorax
63081 | C | Removal of vertebral body
63082 | C | Remove vertebral body add-on
63085 | C | Removal of vertebral body
63086 | C | Remove vertebral body add-on
63087 | C | Removal of vertebral body
63088 | C | Remove vertebral body add-on
63090 | C | Removal of vertebral body
63091 | C | Remove vertebral body add-on
63170 | C | Incise spinal cord tract(s)
63172 | C | Drainage of spinal cyst
63173 | C | Drainage of spinal cyst
63180 | C | Revise spinal cord ligaments
63182 | C | Revise spinal cord ligaments
63185 | C | Incise spinal column/nerves
63190 | C | Incise spinal column/nerves
63191 | C | Incise spinal column/nerves
63194 | C | Incise spinal column & cord
63195 | C | Incise spinal column & cord
63196 | C | Incise spinal column & cord
63197 | C | Incise spinal column & cord
63198 | C | Incise spinal column & cord
63199 | C | Incise spinal column & cord
63200 | C | Release of spinal cord
63250 | C | Revise spinal cord vessels
63251 | C | Revise spinal cord vessels
63252 | C | Revise spinal cord vessels
63265 | C | Excise intraspinal lesion
63266 | C | Excise intraspinal lesion
63267 | C | Excise intraspinal lesion
63268 | C | Excise intraspinal lesion
63270 | C | Excise intraspinal lesion
63271 | C | Excise intraspinal lesion
63272 | C | Excise intraspinal lesion
63273 | C | Excise intraspinal lesion
63275 | C | Biopsy/excise spinal tumor
63276 | C | Biopsy/excise spinal tumor
63277 | C | Biopsy/excise spinal tumor
63278 | C | Biopsy/excise spinal tumor
63280 | C | Biopsy/excise spinal tumor
63281 | C | Biopsy/excise spinal tumor
63282 | C | Biopsy/excise spinal tumor
63283 | C | Biopsy/excise spinal tumor
63285 | C | Biopsy/excise spinal tumor
63286 | C | Biopsy/excise spinal tumor
63287 | C | Biopsy/excise spinal tumor
63290 | C | Biopsy/excise spinal tumor
63300 | C | Removal of vertebral body
63301 | C | Removal of vertebral body
63302 | C | Removal of vertebral body
63303 | C | Removal of vertebral body
63304 | C | Removal of vertebral body
63305 | C | Removal of vertebral body
63306 | C | Removal of vertebral body
63307 | C | Removal of vertebral body
63308 | C | Remove vertebral body add-on
63700 | C | Repair of spinal herniation
63702 | C | Repair of spinal herniation
63704 | C | Repair of spinal herniation
63706 | C | Repair of spinal herniation
63707 | C | Repair spinal fluid leakage
63709 | C | Repair spinal fluid leakage
63710 | C | Graft repair of spine defect
63740 | C | Install spinal shunt
64752 | C | Incision of vagus nerve
64755 | C | Incision of stomach nerves
64760 | C | Incision of vagus nerve
64763 | C | Incise hip/thigh nerve
64766 | C | Incise hip/thigh nerve
64804 | C | Remove sympathetic nerves
64809 | C | Remove sympathetic nerves
64818 | C | Remove sympathetic nerves
64866 | C | Fusion of facial/other nerve
64868 | C | Fusion of facial/other nerve
65273 | C | Repair of eye wound
69155 | C | Extensive ear/neck surgery
69535 | C | Remove part of temporal bone
69554 | C | Remove ear lesion
69950 | C | Incise inner ear nerve
69970 | C | Remove inner ear lesion
75900 | C | Arterial catheter exchange
75952 | C | Endovasc repair abdom aorta
75953 | C | Abdom aneurysm endovas rpr
75954 | C | Iliac aneurysm endovas rpr
92970 | C | Cardioassist, internal
92971 | C | Cardioassist, external
92975 | C | Dissolve clot, heart vessel
92992 | C | Revision of heart chamber
92993 | C | Revision of heart chamber
99190 | C | Special pump services
99191 | C | Special pump services
99192 | C | Special pump services
99251 | C | Initial inpatient consult
99252 | C | Initial inpatient consult
99253 | C | Initial inpatient consult
99254 | C | Initial inpatient consult
99255 | C | Initial inpatient consult
99261 | C | Follow-up inpatient consult
99262 | C | Follow-up inpatient consult
99263 | C | Follow-up inpatient consult
99293 | C | Ped critical care, initial
99294 | C | Ped critical care, subseq
99295 | C | Neonatal critical care
99296 | C | Neonatal critical care
99298 | C | Neonatal critical care
99299 | C | Ic, lbw infant 1500-2500 gm
99356 | C | Prolonged service, inpatient
99357 | C | Prolonged service, inpatient
99433 | C | Normal newborn care/hospital
CPT codes and escriptions only are copyright American Medical Association. All Rights Reserved. Applicable FARS/DFARS Apply.
Copyright American Dental Association. All right reserved.

Addendum H.—Wage Index for Urban Areas
Urban area (constituent counties) | Wage index
0040 Abilene, TX | 0.7678
Taylor, TX
0060 Aguadilla, PR | 0.4335
Aguada, PR
Aguadilla, PR
Moca, PR
0080 Akron, OH | 0.9445
Portage, OH
Summit, OH
0120 Albany, GA | 1.0838
Dougherty, GA
Lee, GA
0160 Albany-Schenectady-Troy, NY | 0.8693
Albany, NY
Montgomery, NY
Rensselaer, NY
Saratoga, NY
Schenectady, NY
Schoharie, NY
0200 Albuquerque, NM | 0.9431
Bernalillo, NM
Sandoval, NM
Valencia, NM
0220 Alexandria, LA | 0.8087
Rapides, LA
0240 Allentown-Bethlehem-Easton, PA | 0.9576
Carbon, PA
Lehigh, PA
Northampton, PA
0280 Altoona, PA | 0.8886
Blair, PA
0320 Amarillo, TX | 0.8968
Potter, TX
Randall, TX
0380 Anchorage, AK | 1.2433
Anchorage, AK
0440 Ann Arbor, MI | 1.1069
Lenawee, MI
Livingston, MI
Washtenaw, MI
0450 Anniston, AL | 0.8140
Calhoun, AL
0460 Appleton-Oshkosh-Neenah, WI ² | 0.9130
Calumet, WI
Outagamie, WI
Winnebago, WI
0470 Arecibo, PR | 0.4130
Arecibo, PR
Camuy, PR
Hatillo, PR
0480 Asheville, NC | 0.9697
Buncombe, NC
Madison, NC
0500 Athens, GA | 0.9664
Clarke, GA
Madison, GA
Oconee, GA
0520 Atlanta, GA ¹ | 1.0027
Barrow, GA
Bartow, GA
Carroll, GA
Cherokee, GA
Clayton, GA
Cobb, GA
Coweta, GA
DeKalb, GA
Douglas, GA
Fayette, GA
Forsyth, GA
Fulton, GA
Gwinnett, GA
Henry, GA
Newton, GA
Paulding, GA
Pickens, GA
Rockdale, GA
Spalding, GA
Walton, GA
0560 Atlantic-Cape May, NJ | 1.0862
Atlantic, NJ
Cape May, NJ
0580 Auburn-Opelika, AL | 0.8540
Lee, AL
0600 Augusta-Aiken, GA-SC | 0.9725
Columbia, GA
McDuffie, GA
Richmond, GA
Aiken, SC
Edgefield, SC
0640 Austin-San Marcos, TX ¹ | 0.9551
Bastrop, TX
Caldwell, TX
Hays, TX
Travis, TX
Williamson, TX
0680 Bakersfield, CA ² | 0.9907
Kern, CA
0720 Baltimore, MD ¹ | 0.9951
Anne Arundel, MD
Baltimore, MD
Baltimore City, MD
Carroll, MD
Harford, MD
Howard, MD
Queen Anne's, MD
0733 Bangor, ME | 0.9750
Penobscot, ME
0743 Barnstable-Yarmouth, MA | 1.2893
Barnstable, MA
0760 Baton Rouge, LA | 0.8271
Ascension, LA
East Baton Rouge, LA
Livingston, LA
West Baton Rouge, LA
0840 Beaumont-Port Arthur, TX | 0.8503
Hardin, TX
Jefferson, TX
Orange, TX
0860 Bellingham, WA | 1.1834
Whatcom, WA
0870 Benton Harbor, MI | 0.8949
Berrien, MI
0875 Bergen-Passaic, NJ ¹ | 1.1655
Bergen, NJ
Passaic, NJ
0880 Billings, MT | 0.8889
Yellowstone, MT
0920 Biloxi-Gulfport-Pascagoula, MS | 0.9089
Hancock, MS
Harrison, MS
Jackson, MS
0960 Binghamton, NY ² | 0.8530
Broome, NY
Tioga, NY
1000 Birmingham, AL | 0.9251
Blount, AL
Jefferson, AL
St. Clair, AL
Shelby, AL
1010 Bismarck, ND | 0.8101
Burleigh, ND
Morton, ND
1020 Bloomington, IN | 0.8968
Monroe, IN
1040 Bloomington-Normal, IL | 0.8954
McLean, IL
1080 Boise City, ID | 0.9295
Ada, ID
Canyon, ID
1123 Boston-Worcester-Lawrence-Lowell-Brockton, MA-NH ¹ | 1.1269
Bristol, MA
Essex, MA
Middlesex, MA
Norfolk, MA
Plymouth, MA
Suffolk, MA
Worcester, MA
Hillsborough, NH
Merrimack, NH
Rockingham, NH
Strafford, NH
1125 Boulder-Longmont, CO | 1.0119
Boulder, CO
1145 Brazoria, TX | 0.8324
Brazoria, TX
1150 Bremerton, WA | 1.0601
Kitsap, WA
1240 Brownsville-Harlingen-San Benito, TX | 21.0231
Cameron, TX
1260 Bryan-College Station, TX
Brazos, TX
0.9044
1280 Buffalo-Niagara Falls, NY ¹ | 0.9600
Erie, NY
Niagara, NY
1303 Burlington, VT | 0.9768
Chittenden, VT
Franklin, VT
Grand Isle, VT
1310 Caguas, PR | 0.4229
Caguas, PR
Cayey, PR
Cidra, PR
Gurabo, PR
San Lorenzo, PR
1320 Canton-Massillon, OH | 0.9128
Carroll, OH
Stark, OH
1350 Casper, WY | 0.9239
Natrona, WY
1360 Cedar Rapids, IA | 0.8933
Linn, IA
1400 Champaign-Urbana, IL | 0.9907
Champaign, IL
1440 Charleston-North Charleston, SC | 0.9307
Berkeley, SC
Charleston, SC
Dorchester, SC
1480 Charleston, WV | 0.8753
Kanawha, WV
Putnam, WV
1520 Charlotte-Gastonia-Rock Hill, NC-SC ¹ | 0.9766
Cabarrus, NC
Gaston, NC
Lincoln, NC
Mecklenburg, NC
Rowan, NC
Stanly, NC
Union, NC
York, SC
1540 Charlottesville, VA | 1.0092
Albemarle, VA
Charlottesville City, VA
Fluvanna, VA
Greene, VA
1560 Chattanooga, TN-GA | 0.8985
Catoosa, GA
Dade, GA
Walker, GA
Hamilton, TN
Marion, TN
1580 Cheyenne, WY ² | 0.9137
Laramie, WY
1600 Chicago, IL ¹ | 1.1012
Cook, IL
DeKalb, IL
DuPage, IL
Grundy, IL
Kane, IL
Kendall, IL
Lake, IL
McHenry, IL
Will, IL
1620 Chico-Paradise, CA | 1.0147
Butte, CA
1640 Cincinnati, OH-KY-IN ¹ | 0.9452
Dearborn, IN
Ohio, IN
Boone, KY
Campbell, KY
Gallatin, KY
Grant, KY
Kenton, KY
Pendleton, KY
Brown, OH
Clermont, OH
Hamilton, OH
Warren, OH
1660 Clarksville-Hopkinsville, TN-KY | 0.8410
Christian, KY
Montgomery, TN
1680 Cleveland-Lorain-Elyria, OH ¹ | 0.9686
Ashtabula, OH
Cuyahoga, OH
Geauga, OH
Lake, OH
Lorain, OH
Medina, OH
1720 Colorado Springs, CO ² | 0.8897
El Paso, CO
1740 Columbia, MO | 0.8745
Boone, MO
1760 Columbia, SC | 0.8958
Lexington, SC
Richland, SC
1800 Columbus, GA-AL | 0.8700
Russell, AL
Chattahoochee, GA
Harris, GA
Muscogee, GA
1840 Columbus, OH ¹ | 0.9649
Delaware, OH
Fairfield, OH
Franklin, OH
Licking, OH
Madison, OH
Pickaway, OH
1880 Corpus Christi, TX | 0.8565
Nueces, TX
San Patricio, TX
1890 Corvallis, OR | 1.1593
Benton, OR
1900 Cumberland, MD-WV ² (MD Hospitals) | 0.9175
Allegany, MD
Mineral, WV
1900 Cumberland, MD-WV (WV Hospitals) | 0.8224
Allegany, MD
Mineral, WV
1920 Dallas, TX ¹ | 0.9733
Collin, TX
Dallas, TX
Denton, TX
Ellis, TX
Henderson, TX
Hunt, TX
Kaufman, TX
Rockwall, TX
1950 Danville, VA | 0.9095
Danville City, VA
Pittsylvania, VA
1960 Davenport-Moline-Rock Island, IA-IL | 0.8727
Scott, IA
Henry, IL
Rock Island, IL
2000 Dayton-Springfield, OH | 0.9432
Clark, OH
Greene, OH
Miami, OH
Montgomery, OH
2020 Daytona Beach, FL | 0.9208
Flagler, FL
Volusia, FL
2030 Decatur, AL | 0.8882
Lawrence, AL
Morgan, AL
2040 Decatur, IL ² | 0.8282
Macon, IL
2080 Denver, CO ¹ | 1.0776
Adams, CO
Arapahoe, CO
Broomfield, CO
Denver, CO
Douglas, CO
Jefferson, CO
2120 Des Moines, IA | 0.9053
Dallas, IA
Polk, IA
Warren, IA
2160 Detroit, MI ¹ | 1.0097
Lapeer, MI
Macomb, MI
Monroe, MI
Oakland, MI
St. Clair, MI
Wayne, MI
2180 Dothan, AL | 0.7931
Dale, AL
Houston, AL
2190 Dover, DE | 0.9870
Kent, DE
2200 Dubuque, IA | 0.8946
Dubuque, IA
2240 Duluth-Superior, MN-WI | 1.0133
St. Louis, MN
Douglas, WI
2281 Dutchess County, NY | 1.0966
Dutchess, NY
2290 Eau Claire, WI | 0.9141
Chippewa, WI
Eau Claire, WI
2320 El Paso, TX | 0.9267
El Paso, TX
2330 Elkhart-Goshen, IN | 0.9848
Elkhart, IN
2335 Elmira, NY ² | 0.8530
Chemung, NY
2340 Enid, OK | 0.8616
Garfield, OK
2360 Erie, PA | 0.8636
Erie, PA
2400 Eugene-Springfield, OR | 1.1212
Lane, OR
2440 Evansville-Henderson, IN-KY ² (IN Hospitals) | 0.8770
Posey, IN
Vanderburgh, IN
Warrick, IN
Henderson, KY
2440 Evansville-Henderson, IN-KY (KY Hospitals) | 0.8442
Posey, IN
Vanderburgh, IN
Warrick, IN
Henderson, KY
2520 Fargo-Moorhead, ND-MN | 0.9650
Clay, MN
Cass, ND
2560 Fayetteville, NC | 0.8957
Cumberland, NC
2580 Fayetteville-Springdale-Rogers, AR | 0.8038
Benton, AR
Washington, AR
2620 Flagstaff, AZ-UT | 1.1283
Coconino, AZ
Kane, UT
2640 Flint, MI | 1.0929
Genesee, MI
2650 Florence, AL | 0.7824
Colbert, AL
Lauderdale, AL
2655 Florence, SC | 0.8763
Florence, SC
2670 Fort Collins-Loveland, CO | 1.0201
Larimer, CO
2680 Ft. Lauderdale, FL ¹ | 1.0534
Broward, FL
2700 Fort Myers-Cape Coral, FL | 0.9877
Lee, FL
2710 Fort Pierce-Port St. Lucie, FL | 1.0227
Martin, FL
St. Lucie, FL
2720 Fort Smith, AR-OK ² (AR Hospitals) | 0.7746
Crawford, AR
Sebastian, AR
Sequoyah, OK
2720 Fort Smith, AR-OK (OK Hospitals) | 0.7740
Crawford, AR
Sebastian, AR
Sequoyah, OK
2750 Fort Walton Beach, FL | 0.8929
Okaloosa, FL
2760 Fort Wayne, IN | 0.9674
Adams, IN
Allen, IN
De Kalb, IN
Huntington, IN
Wells, IN
Whitley, IN
2800 Forth Worth-Arlington, TX ¹ | 0.9268
Hood, TX
Johnson, TX
Parker, TX
Tarrant, TX
2840 Fresno, CA | 1.0157
Fresno, CA
Madera, CA
2880 Gadsden, AL | 0.8295
Etowah, AL
2900 Gainesville, FL ² | 0.8782
Alachua, FL
2920 Galveston-Texas City, TX | 0.9360
Galveston, TX
2960 Gary, IN | 0.9462
Lake, IN
Porter, IN
2975 Glens Falls, NY ² | 0.8530
Warren, NY
Washington, NY
2980 Goldsboro, NC | 0.8679
Wayne, NC
2985 Grand Forks, ND-MN (ND Hospitals) | 0.9031
Polk, MN
Grand Forks, ND
2985 Grand Forks, ND-MN ² (MN Hospitals) | 0.9243
Polk, MN
Grand Forks, ND
2995 Grand Junction, CO | 0.9940
Mesa, CO
3000 Grand Rapids-Muskegon-Holland, MI ¹ | 0.9406
Allegan, MI
Kent, MI
Muskegon, MI
Ottawa, MI
3040 Great Falls, MT | 0.8977
Cascade, MT
3060 Greeley, CO | 0.9516
Weld, CO
3080 Green Bay, WI | 0.9524
Brown, WI
3120 Greensboro-Winston-Salem-High Point, NC ¹ | 0.8533
Alamance, NC
Davidson, NC
Davie, NC
Forsyth, NC
Guilford, NC
Randolph, NC
Stokes, NC
Yadkin, NC
3150 Greenville, NC | 0.9621
Pitt, NC
3160 Greenville-Spartanburg-Anderson, SC | 0.9289
Anderson, SC
Cherokee, SC
Greenville, SC
Pickens, SC
Spartanburg, SC
3180 Hagerstown, MD | 0.9233
Washington, MD
3200 Hamilton-Middletown, OH | 0.9236
Butler, OH
3240 Harrisburg-Lebanon-Carlisle, PA | 0.9178
Cumberland, PA
Dauphin, PA
Lebanon, PA
Perry, PA
3283 Hartford, CT ¹, ² | 1.2199
Hartford, CT
Litchfield, CT
Middlesex, CT
Tolland, CT
3285 Hattiesburg, MS ² | 0.7810
Forrest, MS
Lamar, MS
3290 Hickory-Morganton-Lenoir, NC | 0.9090
Alexander, NC
Burke, NC
Caldwell, NC
Catawba, NC
3320 Honolulu, HI | 1.1176
Honolulu, HI
3350 Houma, LA | 0.7763
Lafourche, LA
Terrebonne, LA
3360 Houston, TX ¹ | 0.9591
Chambers, TX
Fort Bend, TX
Harris, TX
Liberty, TX
Montgomery, TX
Waller, TX
3400 Huntington-Ashland, WV-KY-OH | 0.9620
Boyd, KY
Carter, KY
Greenup, KY
Lawrence, OH
Cabell, WV
Wayne, WV
3440 Huntsville, AL | 0.9238
Limestone, AL
Madison, AL
3480 Indianapolis, IN ¹ | 0.9934
Boone, IN
Hamilton, IN
Hancock, IN
Hendricks, IN
Johnson, IN
Madison, IN
Marion, IN
Morgan, IN
Shelby, IN
3500 Iowa City, IA | 0.9605
Johnson, IA
3520 Jackson, MI | 0.9043
Jackson, MI
3560 Jackson, MS | 0.8459
Hinds, MS
Madison, MS
Rankin, MS
3580 Jackson, TN | 0.8602
Madison, TN
Chester, TN
3600 Jacksonville, FL ¹ | 0.9426
Clay, FL
Duval, FL
Nassau, FL
St. Johns, FL
3605 Jacksonville, NC | 0.8589
Onslow, NC
3610 Jamestown, NY ² | 0.8530
Chautauqua, NY
3620 Janesville-Beloit, WI | 0.9344
Rock, WI
3640 Jersey City, NJ | 1.1203
Hudson, NJ
3660 Johnson City-Kingsport-Bristol, TN-VA (TN Hospitals) | 0.8371
Carter, TN
Hawkins, TN
Sullivan, TN
Unicoi, TN
Washington, TN
Bristol City, VA
Scott, VA
Washington, VA
3660 Johnson City-Kingsport-Bristol, TN-VA ² (VA Hospitals) | 0.8542
Carter, TN
Hawkins, TN
Sullivan, TN
Unicoi, TN
Washington, TN
Bristol City, VA
Scott, VA
Washington, VA
3680 Johnstown, PA ² | 0.8429
Cambria, PA
Somerset, PA
3700 Jonesboro, AR ² | 0.7755
Craighead, AR
3710 Joplin, MO | 0.8739
Jasper, MO
Newton, MO
3720 Kalamazoo-Battlecreek, MI | 1.0554
Calhoun, MI
Kalamazoo, MI
Van Buren, MI
3740 Kankakee, IL | 1.1074
Kankakee, IL
3760 Kansas City, KS-MO ¹ | 0.9551
Johnson, KS
Leavenworth, KS
Miami, KS
Wyandotte, KS
Cass, MO
Clay, MO
Clinton, MO
Jackson, MO
Lafayette, MO
Platte, MO
Ray, MO
3800 Kenosha, WI | 0.9826
Kenosha, WI
3810 Killeen-Temple, TX | 0.9221
Bell, TX
Coryell, TX
3840 Knoxville, TN | 0.8987
Anderson, TN
Blount, TN
Knox, TN
Loudon, TN
Sevier, TN
Union, TN
3850 Kokomo, IN | 0.8963
Howard, IN
Tipton, IN
3870 La Crosse, WI-MN | 0.9259
Houston, MN
La Crosse, WI
3880 Lafayette, LA | 0.8271
Acadia, LA
Lafayette, LA
St. Landry, LA
St. Martin, LA
3920 Lafayette, IN | 0.9052
Clinton, IN
Tippecanoe, IN
3960 Lake Charles, LA | 0.8460
Calcasieu, LA
3980 Lakeland-Winter Haven, FL ² | 0.8782
Polk, FL
4000 Lancaster, PA | 0.9325
Lancaster, PA
4040 Lansing-East Lansing, MI | 0.9270
Clinton, MI
Eaton, MI
Ingham, MI
4080 Laredo, TX | 0.8145
Webb, TX
4100 Las Cruces, NM | 0.8532
Dona Ana, NM
4120 Las Vegas, NV-AZ ¹ | 1.1457
Mohave, AZ
Clark, NV
Nye, NV
4150 Lawrence, KS ² | 0.7860
Douglas, KS
4200 Lawton, OK | 0.8322
Comanche, OK
4243 Lewiston-Auburn, ME | 0.9389
Androscoggin, ME
4280 Lexington, KY | 0.8622
Bourbon, KY
Clark, KY
Fayette, KY
Jessamine, KY
Madison, KY
Scott, KY
Woodford, KY
4320 Lima, OH | 0.9457
Allen, OH
Auglaize, OH
4360 Lincoln, NE | 1.0101
Lancaster, NE
4400 Little Rock-North Little Rock, AR | 0.8905
Faulkner, AR
Lonoke, AR
Pulaski, AR
Saline, AR
4420 Longview-Marshall, TX | 0.9141
Gregg, TX
Harrison, TX
Upshur, TX
4480 Los Angeles-Long Beach, CA ¹ | 1.1656
Los Angeles, CA
4520 Louisville, KY-IN ¹ | 0.9174
Clark, IN
Floyd, IN
Harrison, IN
Scott, IN
Bullitt, KY
Jefferson, KY
Oldham, KY
4600 Lubbock, TX | 0.8330
Lubbock, TX
4640 Lynchburg, VA | 0.9202
Amherst, VA
Bedford, VA
Bedford City, VA
Campbell, VA
Lynchburg City, VA
4680 Macon, GA | 0.9011
Bibb, GA
Houston, GA
Jones, GA
Peach, GA
Twiggs, GA
4720 Madison, WI | 1.0235
Dane, WI
4800 Mansfield, OH | 0.9059
Crawford, OH
Richland, OH
4840 Mayaguez, PR | 0.4780
Anasco, PR
Cabo Rojo, PR
Hormigueros, PR
Mayaguez, PR
Sabana Grande, PR
San German, PR
4880 McAllen-Edinburg-Mission, TX | 0.9084
Hidalgo, TX
4890 Medford-Ashland, OR | 1.0844
Jackson, OR
4900 Melbourne-Titusville-Palm Bay, FL | 0.9837
Brevard, Fl
4920 Memphis, TN-AR-MS ¹ | 0.9325
Crittenden, AR
DeSoto, MS
Fayette, TN
Shelby, TN
Tipton, TN
4940 Merced, CA ² | 0.9907
Merced, CA
5000 Miami, FL ¹ | 0.9888
Dade, FL
5015 Middlesex-Somerset-Hunterdon, NJ ¹ | 1.1437
Hunterdon, NJ
Middlesex, NJ
Somerset, NJ
5080 Milwaukee-Waukesha, WI ¹ | 0.9888
Milwaukee, WI
Ozaukee, WI
Washington, WI
Waukesha, WI
5120 Minneapolis-St. Paul, MN-WI ¹ | 1.1064
Anoka, MN
Carver, MN
Chisago, MN
Dakota, MN
Hennepin, MN
Isanti, MN
Ramsey, MN
Scott, MN
Sherburne, MN
Washington, MN
Wright, MN
Pierce, WI
St. Croix, WI
5140 Missoula, MT | 0.8943
Missoula, MT
5160 Mobile, AL | 0.7948
Baldwin, AL
Mobile, AL
5170 Modesto, CA | 1.1344
Stanislaus, CA
5190 Monmouth-Ocean, NJ ¹ | 1.1094
Monmouth, NJ
Ocean, NJ
5200 Monroe, LA | 0.7978
Ouachita, LA
5240 Montgomery, AL | 0.7856
Autauga, AL
Elmore, AL
Montgomery, AL
5280 Muncie, IN ² | 0.8770
Delaware, IN
5330 Myrtle Beach, SC | 0.8950
Horry, SC
5345 Naples, FL | 0.9866
Collier, FL
5360 Nashville, TN ¹ | 0.9836
Cheatham, TN
Davidson, TN
Dickson, TN
Robertson, TN
Rutherford TN
Sumner, TN
Williamson, TN
Wilson, TN
5380 Nassau-Suffolk, NY ¹ | 1.3011
Nassau, NY
Suffolk, NY
5483 New Haven-Bridgeport-Stamford-Waterbury-Danbury, CT ¹ | 1.2525
Fairfield, CT
New Haven, CT
5523 New London-Norwich, CT ² | 1.2199
New London, CT
5560 New Orleans, LA ¹ | 0.9167
Jefferson, LA
Orleans, LA
Plaquemines, LA
St. Bernard, LA
St. Charles, LA
St. James, LA
St. John The Baptist, LA
St. Tammany, LA
5600 New York, NY ¹ | 1.3867
Bronx, NY
Kings, NY
New York, NY
Putnam, NY
Queens, NY
Richmond, NY
Rockland, NY
Westchester, NY
5640 Newark, NJ ¹ | 1.1417
Essex, NJ
Morris, NJ
Sussex, NJ
Union, NJ
Warren, NJ
5660 Newburgh, NY-PA | 1.1377
Orange, NY
Pike, PA
5720 Norfolk-Virginia Beach-Newport News, VA-NC ¹ | 0.8659
Currituck, NC
Chesapeake City, VA
Gloucester, VA
Hampton City, VA
Isle of Wight, VA
James City, VA
Mathews, VA
Newport News City, VA
Norfolk City, VA
Poquoson City, VA
Portsmouth City, VA
Suffolk City, VA
Virginia Beach City VA
Williamsburg City, VA
York, VA
5775 Oakland, CA ¹ | 1.5204
Alameda, CA
Contra Costa, CA
5790 Ocala, FL | 0.9788
Marion, FL
5800 Odessa-Midland, TX | 0.9447
Ector, TX
Midland, TX
5880 Oklahoma City, OK ¹ | 0.9027
Canadian, OK
Cleveland, OK
Logan, OK
McClain, OK
Oklahoma, OK
Pottawatomie, OK
5910 Olympia, WA | 1.1030
Thurston, WA
5920 Omaha, NE-IA | 0.9744
Pottawattamie, IA
Cass, NE
Douglas, NE
Sarpy, NE
Washington, NE
5945 Orange County, CA ¹ | 1.1235
Orange, CA
5960 Orlando, FL ¹ | 0.9612
Lake, FL
Orange, FL
Osceola, FL
Seminole, FL
5990 Owensboro, KY | 0.8429
Daviess, KY
6015 Panama City, FL ² | 0.8782
Bay, FL
6020 Parkersburg-Marietta, WV-OH (WV Hospitals) | 0.8093
Washington, OH
Wood, WV
6020 Parkersburg-Marietta, WV-OH ² (OH Hospitals) | 0.8756
Washington, OH
Wood, WV
6080 Pensacola, FL ² | 0.8782
Escambia, FL
Santa Rosa, FL
6120 Peoria-Pekin, IL | 0.8811
Peoria, IL
Tazewell, IL
Woodford, IL
6160 Philadelphia, PA-NJ ¹ | 1.0947
Burlington, NJ
Camden, NJ
Gloucester, NJ
Salem, NJ
Bucks, PA
Chester, PA
Delaware, PA
Montgomery, PA
Philadelphia, PA
6200 Phoenix-Mesa, AZ ¹ | 1.0213
Maricopa, AZ
Pinal, AZ
6240 Pine Bluff, AR | 0.7753
Jefferson, AR
6280 Pittsburgh, PA ¹ | 0.8788
Allegheny, PA
Beaver, PA
Butler, PA
Fayette, PA
Washington, PA
Westmoreland, PA
6323 Pittsfield, MA ² | 1.1234
Berkshire, MA
6340 Pocatello, ID | 0.9103
Bannock, ID
6360 Ponce, PR | 0.4762
Guayanilla, PR
Juana Diaz, PR
Penuelas, PR
Ponce, PR
Villalba, PR
Yauco, PR
6403 Portland, ME | 0.9985
Cumberland, ME
Sagadahoc, ME
York, ME
6440 Portland-Vancouver, OR-WA ¹ | 1.1193
Clackamas, OR
Columbia, OR
Multnomah, OR
Washington, OR
Yamhill, OR
Clark, WA
6483 Providence-Warwick-Pawtucket, RI ¹ | 1.1025
Bristol, RI
Kent, RI
Newport, RI
Providence, RI
Washington, RI
6520 Provo-Orem, UT | 1.0043
Utah, UT
6560 Pueblo, CO ² | 0.8897
Pueblo, CO
6580 Punta Gorda, FL | 0.9518
Charlotte, FL
6600 Racine, WI ² | 0.9130
Racine, WI
6640 Raleigh-Durham-Chapel Hill, NC ¹ | 1.0084
Chatham, NC
Durham, NC
Franklin, NC
Johnston, NC
Orange, NC
Wake, NC
6660 Rapid City, SD | 0.8865
Pennington, SD
6680 Reading, PA | 0.9042
Berks, PA
6690 Redding, CA | 1.1357
Shasta, CA
6720 Reno, NV | 1.0758
Washoe, NV
6740 Richland-Kennewick-Pasco, WA | 1.0639
Benton, WA
Franklin, WA
6760 Richmond-Petersburg, VA | 0.9402
Charles City County, VA
Chesterfield, VA
Colonial Heights City, VA
Dinwiddie, VA
Goochland, VA
Hanover, VA
Henrico, VA
Hopewell City, VA
New Kent, VA
Petersburg City, VA
Powhatan, VA
Prince George, VA
Richmond City, VA
6780 Riverside-San Bernardino, CA ¹ | 1.1318
Riverside, CA
San Bernardino, CA
6800 Roanoke, VA | 0.8759
Botetourt, VA
Roanoke, VA
Roanoke City, VA
Salem City, VA
6820 Rochester, MN | 1.1802
Olmsted, MN
6840 Rochester, NY ¹ | 0.9556
Genesee, NY
Livingston, NY
Monroe, NY
Ontario, NY
Orleans, NY
Wayne, NY
6880 Rockford, IL | 0.9730
Boone, IL
Ogle, IL
Winnebago, IL
6895 Rocky Mount, NC | 0.9058
Edgecombe, NC
Nash, NC
6920 Sacramento, CA ¹ | 1.1911
El Dorado, CA
Placer, CA
Sacramento, CA
6960 Saginaw-Bay City-Midland, MI | 0.9620
Bay, MI
Midland, MI
Saginaw, MI
6980 St. Cloud, MN | 0.9723
Benton, MN
Stearns, MN
7000 St. Joseph, MO ² | 0.7793
Andrew, MO
Buchanan, MO
7040 St. Louis, MO-IL ¹ | 0.9049
Clinton, IL
Jersey, IL
Madison, IL
Monroe, IL
St. Clair, IL
Franklin, MO
Jefferson, MO
Lincoln, MO
St. Charles, MO
St. Louis, MO
St. Louis City, MO
Warren, MO
7080 Salem, OR | 1.0594
Marion, OR
Polk, OR
7120 Salinas, CA | 1.4435
Monterey, CA
7160 Salt Lake City-Ogden, UT ¹ | 0.9899
Davis, UT
Salt Lake, UT
Weber, UT
7200 San Angelo, TX | 0.8288
Tom Green, TX
7240 San Antonio, TX ¹ | 0.8876
Bexar, TX
Comal, TX
Guadalupe, TX
Wilson, TX
7320 San Diego, CA ¹ | 1.1206
San Diego, CA
7360 San Francisco, CA ¹ | 1.4349
Marin, CA
San Francisco, CA
San Mateo, CA
7400 San Jose, CA ¹ | 1.4642
Santa Clara, CA
7440 San Juan-Bayamon, PR ¹ | 0.4904
Aguas Buenas, PR
Barceloneta, PR
Bayamon, PR
Canovanas, PR
Carolina, PR
Catano, PR
Ceiba, PR
Comerio, PR
Corozal, PR
Dorado, PR
Fajardo, PR
Florida, PR
Guaynabo, PR
Humacao, PR
Juncos, PR
Los Piedras, PR
Loiza, PR
Luguillo, PR
Manati, PR
Morovis, PR
Naguabo, PR
Naranjito, PR
Rio Grande, PR
San Juan, PR
Toa Alta, PR
Toa Baja, PR
Trujillo Alto, PR
Vega Alta, PR
Vega Baja, PR
Yabucoa, PR
7460 San Luis Obispo-Atascadero-Paso Robles, CA | 1.1484
San Luis Obispo, CA
7480 Santa Barbara-Santa Maria-Lompoc, CA | 1.0511
Santa Barbara, CA
7485 Santa Cruz-Watsonville, CA | 1.3012
Santa Cruz, CA
7490 Santa Fe, NM | 1.0639
Los Alamos, NM
Santa Fe, NM
7500 Santa Rosa, CA | 1.2836
Sonoma, CA
7510 Sarasota-Bradenton, FL | 0.9834
Manatee, FL
Sarasota, FL
7520 Savannah, GA | 0.9556
Bryan, GA
Chatham, GA
Effingham, GA
7560 Scranton—Wilkes-Barre—Hazleton, PA ² | 0.8429
Columbia, PA
Lackawanna, PA
Luzerne, PA
Wyoming, PA
7600 Seattle-Bellevue-Everett, WA ¹ | 1.1557
Island, WA
King, WA
Snohomish, WA
7610 Sharon, PA ² | 0.8429
Mercer, PA
7620 Sheboygan, WI ² | 0.9130
Sheboygan, WI
7640 Sherman-Denison, TX | 0.9508
Grayson, TX
7680 Shreveport-Bossier City, LA | 0.9127
Bossier, LA
Caddo, LA
Webster, LA
7720 Sioux City, IA-NE | 0.9052
Woodbury, IA
Dakota, NE
7760 Sioux Falls, SD | 0.9371
Lincoln, SD
Minnehaha, SD
7800 South Bend, IN | 0.9887
St. Joseph, IN
7840 Spokane, WA | 1.0954
Spokane, WA
7880 Springfield, IL | 0.9004
Menard, IL
Sangamon, IL
7920 Springfield, MO | 0.8470
Christian, MO
Greene, MO
Webster, MO
8003 Springfield, MA ² | 1.1234
Hampden, MA
Hampshire, MA
8050 State College, PA | 0.8798
Centre, PA
8080 Steubenville-Weirton, OH-WV | 0.8454
Jefferson, OH
Brooke, WV
Hancock, WV
8120 Stockton-Lodi, CA | 1.1168
San Joaquin, CA
8140 Sumter, SC ² | 0.8489
Sumter, SC
8160 Syracuse, NY | 0.9482
Cayuga, NY
Madison, NY
Onondaga, NY
Oswego, NY
8200 Tacoma, WA ² | 1.0242
Pierce, WA
8240 Tallahassee, FL ² | 0.8782
Gadsden, FL
Leon, FL
8280 Tampa-St. Petersburg-Clearwater, FL ¹ | 0.9111
Hernando, FL
Hillsborough, FL
Pasco, FL
Pinellas, FL
8320 Terre Haute, IN ² | 0.8770
Clay, IN
Vermillion, IN
Vigo, IN
8360 Texarkana, AR-Texarkana, TX | 0.8198
Miller, AR
Bowie, TX
8400 Toledo, OH | 0.9551
Fulton, OH
Lucas, OH
Wood, OH
8440 Topeka, KS | 0.9021
Shawnee, KS
8480 Trenton, NJ | 1.0556
Mercer, NJ
8520 Tucson, AZ | 0.8958
Pima, AZ
8560 Tulsa, OK | 0.9093
Creek, OK
Osage, OK
Rogers, OK
Tulsa, OK
Wagoner, OK
8600 Tuscaloosa, AL | 0.8239
Tuscaloosa, AL
8640 Tyler, TX | 0.8789
Smith, TX
8680 Utica-Rome, NY ² | 0.8530
Herkimer, NY
Oneida, NY
8720 Vallejo-Fairfield-Napa, CA | 1.3500
Napa, CA
Solano, CA
8735 Ventura, CA | 1.0472
Ventura, CA
8750 Victoria, TX | 0.8105
Victoria, TX
8760 Vineland-Millville-Bridgeton, NJ | 1.0475
Cumberland, NJ
8780 Visalia-Tulare-Porterville, CA ² | 0.9907
Tulare, CA
8800 Waco, TX | 0.8449
McLennan, TX
8840 Washington, DC-MD-VA-WV ¹ | 1.0707
District of Columbia, DC
Calvert, MD
Charles, MD
Frederick, MD
Montgomery, MD
Prince Georges, MD
Alexandria City, VA
Arlington, VA
Clarke, VA
Culpepper, VA
Fairfax, VA
Fairfax City, VA
Falls Church City, VA
Fauquier, VA
Fredericksburg City, VA
King George, VA
Loudoun, VA
Manassas City, VA
Manassas Park City, VA
Prince William, VA
Spotsylvania, VA
Stafford, VA
Warren, VA
Berkeley, WV
Jefferson, WV
8920 Waterloo-Cedar Falls, IA | 0.8422
Black Hawk, IA
8940 Wausau, WI | 0.9806
Marathon, WI
8960 West Palm Beach-Boca Raton, FL ¹ | 0.9784
Palm Beach, FL
9000 Wheeling, WV-OH ² (WV Hospitals) | 0.8008
Belmont, OH
Marshall, WV
Ohio, WV
9000 Wheeling, WV-OH ² (OH Hospitals) | 0.8756
Belmont, OH
Marshall, WV
Ohio, WV
9040 Wichita, KS | 0.9300
Butler, KS
Harvey, KS
Sedgwick, KS
9080 Wichita Falls, TX | 0.8407
Archer, TX
Wichita, TX
9140 Williamsport, PA ² | 0.8429
Lycoming, PA
9160 Wilmington-Newark, DE-MD | 1.0955
New Castle, DE
Cecil, MD
9200 Wilmington, NC | 0.9604
New Hanover, NC
Brunswick, NC
9260 Yakima, WA | 1.0320
Yakima, WA
9270Yolo, CA ² | 0.9907
Yolo, CA
9280 York, PA | 0.9154
York, PA
9320 Youngstown-Warren, OH | 0.9273
Columbiana, OH
Mahoning, OH
Trumbull, OH
9340 Yuba City, CA | 1.0264
Sutter, CA
Yuba, CA
9360 Yuma, AZ | 0.8954
Yuma, AZ
¹ Large urban area.
² Hospitals geographically located in the area are assigned the statewide rural wage index for FY 2004.

Addendum I.—Wage Index for Rural Areas
Nonurban area | Wage index
Alaska | 1.1958
Arizona | 0.8906
Arkansas | 0.7746
California | 0.9907
Colorado | 0.8897
Connecticut | 1.2199
Delaware | 0.9669
Florida | 0.8782
Georgia | 0.8365
Hawaii | 0.9896
Idaho | 0.8907
Illinois | 0.8282
Indiana | 0.8770
Iowa | 0.8278
Kansas | 0.7860
Kentucky | 0.7924
Louisiana | 0.7565
Maine | 0.8995
Maryland | 0.9175
Massachusetts | 1.1234
Michigan | 0.8807
Minnesota | 0.9243
Mississippi | 0.7810
Missouri | 0.7793
Montana | 0.8530
Nebraska | 0.8326
Nevada | 0.9758
New Hampshire | 0.9944
New Jersey¹ |
New Mexico | 0.8314
New York | 0.8530
North Carolina | 0.8355
North Dakota | 0.7536
Ohio | 0.8756
Oklahoma | 0.7577
Oregon | 0.9939
Pennsylvania | 0.8429
Puerto Rico | 0.4037
Rhode Island¹ |
South Carolina | 0.8489
South Dakota | 0.8093
Tennessee | 0.7945
Texas | 0.7673
Utah | 0.9034
Vermont | 0.9401
Virginia | 0.8542
Washington | 1.0242
West Virginia | 0.8008
Wisconsin | 0.9130
Wyoming | 0.9137
¹All counties within the State are classified as urban.

Addendum J.—Wage Index for Hospitals That are Reclassified
Area | Wage index
Akron, OH | 0.9445
Albany, GA | 1.0643
Albuquerque, NM | 0.9431
Alexandria, LA | 0.8087
Altoona, PA | 0.8886
Amarillo, TX | 0.8814
Anchorage, AK | 1.2433
Ann Arbor, MI | 1.0859
Anniston, AL | 0.8025
Asheville, NC | 0.9503
Athens, GA | 0.9437
Atlanta, GA | 0.9912
Atlantic-Cape May, NJ | 1.0597
Augusta-Aiken, GA-SC | 0.9491
Austin-San Marcos, TX | 0.9551
Bangor, ME | 0.9750
Barnstable-Yarmouth, MA | 1.2703
Baton Rouge, LA | 0.8271
Bellingham, WA | 1.1834
Benton Harbor, MI | 0.8949
Bergen-Passaic, NJ | 1.1655
Billings, MT | 0.8889
Biloxi-Gulfport-Pascagoula, MS | 0.8449
Binghamton, NY | 0.8433
Birmingham, AL | 0.9251
Bismarck, ND | 0.8101
Bloomington-Normal, IL | 0.8954
Boise City, ID | 0.9295
Boston-Worcester-Lawrence-Lowell-Brockton, MA-NH | 1.1269
Burlington, VT | 0.9442
Caguas, PR | 0.4229
Casper, WY | 0.9239
Champaign-Urbana, IL | 0.9385
Charleston-North Charleston, SC | 0.9307
Charleston, WV (WV Hospitals) | 0.8510
Charleston, WV (OH Hospitals) | 0.8756
Charlotte-Gastonia-Rock Hill, NC-SC | 0.9636
Charlottesville, VA | 0.9946
Chattanooga, TN-GA | 0.8985
Chicago, IL | 1.0863
Cincinnati, OH-KY-IN | 0.9452
Clarksville-Hopkinsville, TN-KY | 0.8410
Cleveland-Lorain-Elyria, OH | 0.9686
Columbia, MO | 0.8607
Columbia, SC | 0.8958
Columbus, GA-AL | 0.8505
Columbus, OH | 0.9649
Corpus Christi, TX | 0.8565
Corvallis, OR | 1.1316
Dallas, TX | 0.9733
Davenport-Moline-Rock Island, IA-IL | 0.8727
Dayton-Springfield, OH | 0.9432
Decatur, AL | 0.8633
Denver, CO | 1.0581
Des Moines, IA | 0.9053
Detroit, MI | 1.0097
Dothan, AL | 0.7931
Dover, DE | 0.9669
Duluth-Superior, MN-WI | 1.0133
Dutchess County, NY | 1.0769
Eau Claire, WI | 0.9141
Elkhart-Goshen, IN | 0.9613
Erie, PA | 0.8530
Eugene-Springfield, OR | 1.0889
Fargo-Moorhead, ND-MN | 0.9444
Fayetteville, NC | 0.8957
Flagstaff, AZ-UT | 1.1086
Flint, MI | 1.0929
Florence, AL | 0.7824
Florence, SC | 0.8763
Fort Collins-Loveland, CO | 1.0201
Ft. Lauderdale, FL | 1.0534
Fort Pierce-Port St. Lucie, FL | 1.0227
Fort Smith, AR-OK | 0.7577
Fort Walton Beach, FL | 0.8700
Forth Worth-Arlington, TX | 0.9268
Gadsden, AL | 0.8295
Grand Forks, ND-MN (ND Hospitals) | 0.9031
Grand Forks, ND-MN (MN Hospitals) | 0.9243
Grand Junction, CO | 0.9940
Grand Rapids-Muskegon-Holland, MI | 0.9406
Great Falls, MT | 0.8977
Greeley, CO | 0.9516
Green Bay, WI | 0.9201
Greensboro-Winston-Salem-High Point, NC (NC Hospitals) | 0.8533
Greensboro-Winston-Salem-High Point, NC (VA Hospitals) | 0.8542
Greenville, NC | 0.9621
Hamilton-Middletown, OH | 0.9236
Harrisburg-Lebanon-Carlisle, PA | 0.9178
Hartford, CT (MA Hospitals) | 1.1234
Hartford, CT (NY Hospitals) | 1.1211
Hattiesburg, MS | 0.7810
Hickory-Morganton-Lenoir, NC | 0.8987
Honolulu, HI | 1.1176
Houston, TX | 0.9591
Huntington-Ashland, WV-KY-OH | 0.9080
Huntsville, AL | 0.8954
Indianapolis, IN | 0.9934
Iowa City, IA | 0.9460
Jackson, MS | 0.8459
Jackson, TN | 0.8602
Jacksonville, FL | 0.9426
Johnson City-Kingsport-Bristol, TN-VA (VA Hospitals) | 0.8542
Johnson City-Kingsport-Bristol, TN-VA (KY Hospitals) | 0.8371
Jonesboro, AR (AR Hospitals) | 0.7755
Jonesboro, AR (MO Hospitals) | 0.7793
Joplin, MO | 0.8621
Kalamazoo-Battlecreek, MI | 1.0554
Kansas City, KS-MO | 0.9551
Knoxville, TN | 0.8987
Kokomo, IN | 0.8963
Lafayette, LA | 0.8271
Lakeland-Winter Haven, FL | 0.8782
Las Vegas, NV-AZ | 1.1341
Lawton, OK | 0.8194
Lexington, KY | 0.8424
Lima, OH | 0.9457
Lincoln, NE | 0.9613
Little Rock-North Little Rock, AR | 0.8905
Longview-Marshall, TX | 0.8969
Los Angeles-Long Beach, CA | 1.1656
Louisville, KY-IN | 0.9056
Lubbock, TX | 0.8330
Lynchburg, VA | 0.9004
Macon, GA | 0.9011
Madison, WI | 1.0108
Medford-Ashland, OR | 1.0494
Melbourne-Titusville-Palm Bay, FL | 0.9837
Memphis, TN-AR-MS | 0.9010
Miami, FL | 0.9888
Milwaukee-Waukesha, WI | 0.9760
Minneapolis-St. Paul, MN-WI | 1.1064
Missoula, MT | 0.8943
Mobile, AL | 0.7948
Modesto, CA | 1.1183
Monmouth-Ocean, NJ | 1.1094
Monroe, LA | 0.7978
Montgomery, AL | 0.7856
Nashville, TN | 0.9582
New Haven-Bridgeport-Stamford-Waterbury-Danbury, CT | 1.2525
New Orleans, LA | 0.9167
New York, NY | 1.3867
Newark, NJ | 1.1417
Newburgh, NY-PA | 1.1377
Norfolk-Virginia Beach-Newport News, VA-NC | 0.8659
Oakland, CA | 1.5204
Ocala, FL | 0.9646
Odessa-Midland, TX | 0.9156
Oklahoma City, OK | 0.9027
Olympia, WA | 1.1030
Omaha, NE-IA | 0.9744
Orange County, CA | 1.1235
Orlando, FL | 0.9612
Peoria-Pekin, IL | 0.8811
Philadelphia, PA-NJ | 1.0947
Phoenix-Mesa, AZ | 1.0213
Pine Bluff, AR | 0.7810
Pittsburgh, PA | 0.8788
Pittsfield, MA | 0.9861
Pocatello, ID (ID Hospitals) | 0.9103
Pocatello, ID (WY Hospitals) | 0.9137
Portland, ME | 0.9784
Portland-Vancouver, OR-WA | 1.1193
Provo-Orem, UT | 0.9912
Raleigh-Durham-Chapel Hill, NC | 0.9756
Rapid City, SD | 0.8865
Reading, PA | 0.8910
Redding, CA | 1.1357
Reno, NV | 1.0758
Richland-Kennewick-Pasco, WA | 1.0639
Richmond-Petersburg, VA | 0.9402
Roanoke, VA | 0.8759
Rochester, MN | 1.1802
Rockford, IL | 0.9500
Sacramento, CA | 1.1911
Saginaw-Bay City-Midland, MI | 0.9470
St. Cloud, MN | 0.9723
St. Joseph, MO | 0.9694
St. Louis, MO-IL | 0.9049
Salinas, CA | 1.4435
Salt Lake City-Ogden, UT | 0.9899
San Antonio, TX | 0.8876
Santa Fe, NM | 0.9543
Santa Rosa, CA | 1.2836
Sarasota-Bradenton, FL | 0.9834
Savannah, GA | 0.9556
Seattle-Bellevue-Everett, WA | 1.1557
Sherman-Denison, TX | 0.9084
Shreveport-Bossier City, LA | 0.9127
Sioux City, IA-NE | 0.8806
Sioux Falls, SD | 0.9246
South Bend, IN | 0.9780
Spokane, WA | 1.0770
Springfield, IL | 0.9004
Springfield, MO | 0.8269
Stockton-Lodi, CA | 1.1168
Syracuse, NY | 0.9381
Tampa-St. Petersburg-Clearwater, FL | 0.9111
Texarkana, AR-Texarkana, TX | 0.8018
Toledo, OH | 0.9551
Topeka, KS | 0.8791
Tucson, AZ | 0.8958
Tulsa, OK | 0.8876
Tuscaloosa, AL | 0.8134
Tyler, TX | 0.8789
Vallejo-Fairfield-Napa, CA | 1.3500
Victoria, TX | 0.8105
Waco, TX | 0.8449
Washington, DC-MD-VA-WV | 1.0707
Waterloo-Cedar Falls, IA | 0.8422
Wausau, WI | 0.9806
West Palm Beach-Boca Raton, FL | 0.9784
Wichita, KS | 0.9053
Wichita Falls, TX | 0.8407
Wilmington-Newark, DE-MD | 1.0782
Wilmington, NC | 0.9402
York, PA | 0.9154
Youngstown-Warren, OH | 0.9273
Rural Alabama | 0.7517
Rural Florida | 0.8782
Rural Illinois | 0.8282
Rural Kentucky | 0.7924
Rural Louisiana | 0.7565
Rural Michigan | 0.8807
Rural Minnesota | 0.9243
Rural Mississippi | 0.7810
Rural Missouri | 0.7793
Rural Nebraska | 0.8326
Rural New Hampshire | 0.9944
Rural Texas | 0.7673
Rural Washington | 1.0242
Rural Wyoming | 0.9020

Addendum L.—Packaged Nonchemotherapy Infusion Drugs Calendar Year 2004
HCPCS | Descriptor
J0706 | Caffeine citrate injection
J1260 | Dolasetron mesylate
J1325 | Epoprostenol injection
J1436 | Etidronate disodium inj
J1570 | Ganciclovir sodium injection
J1626 | Granisetron HCl injection
J2020 | Linezolid injection
J2260 | Inj milrinone lactate, per 5
J2275 | Morphine sulfate injection
J2405 | Ondansetron hcl injection
J2765 | Metoclopramide hcl injection
J2770 | Quinupristin/dalfopristin
J2820 | Sargramostim injection
J2997 | Alteplase recombinant
J3010 | Fentanyl citrate injeciton
J7501 | Azathioprine parenteral
J7516 | Cyclosporin parenteral 250mg
J7525 | Tacrolimus injection
Q2003 | Aprotinin, 10,000 kiu
Q2007 | Ethanolamine oleate 100 mg
Q2009 | Fosphenytoin, 50 mg
Q2013 | Pentastarch 10% solution
Q2021 | Lepirudin

Addendum M.—Separately Paid Nonchemotology Infusion Drugs Calendar Year 2004
HCPCS | Descriptor
C1178 | BUSULFAN IV, 6 Mg
C9019 | Caspofungin acetate, 5 mg
C9109 | Tirofiban hcl, 6.25 mg
J0130 | Abciximab injection
J0151 | Adenosine injection
J0286 | Amphotericin B lipid complex
J0350 | Injection anistreplase 30 u
J0850 | Cytomegalovirus imm IV /vial
J1327 | Eptifibatide injection
J1440 | Filgrastim 300 mcg injection
J1441 | Filgrastim 480 mcg injection
J1561 | Immune globulin 500 mg
J1563 | Immune globulin, 1 g
J1564 | Immune globulin 10 mg
J1565 | RSV-ivig
J1745 | Infliximab injection
J2792 | Rho(D) immune globulin h, sd
J2993 | Reteplase injection
J2995 | Inj streptokinase /250000 IU
J3245 | Tirofiban hydrochloride
J3305 | Inj trimetrexate glucoronate
J3365 | Urokinase 250,000 IU inj
J3395 | Verteporfin injection
J7197 | Antithrombin iii injection
J7504 | Lymphocyte immune globulin
J7511 | Antithymocyte globuln rabbit
J9200 | Floxuridine injection
J9600 | Porfimer sodium
P9041 | Albumin (human),5%, 50ml
P9045 | Albumin (human), 5%, 250 ml
P9046 | Albumin (human), 25%, 20 ml
P9047 | Albumin (human), 25%, 50ml
Q2006 | Digoxin immune fab (ovine)
Q2008 | Fomepizole, 15 mg
Q2011 | Hemin, per 1 mg

Addendum N.—Packaged Chemotherapy Drug Other Than Infusion Calendar Year 2004
HCPCS | Short descriptor
J9000 | Doxorubic hcl 10 MG vl chemo
J9190 | Fluorouracil injection
J9212 | Interferon alfacon-1
J9213 | Interferon alfa-2a inj
J9230 | Mechlorethamine hcl inj
J9250 | Methotrexate sodium inj
J9360 | Vinblastine sulfate inj
J9370 | Vincristine sulfate 1 MG inj

Addendum O.—Separately Paid Chemotherapy Drugs Other than Infusion Calendar Year 2004
HCPCS | Short descriptor
J2352 | Octreotide acetate injection
J9202 | Goserelin acetate implant
J9214 | Interferon alfa-2b inj
J9217 | Leuprolide acetate suspnsion
J9218 | Leuprolide acetate inj
J9219 | Leuprolide acetate implant

Addendum P.—Packaged Chemotherapy Drugs Infusion Only Calendar Year 2004
HCPCS | Short descriptor
C1166 | CYTARABINE LIPOSOMAL, 10 mg
J1620 | Gonadorelin hydroch/100 mcg
J9020 | Asparaginase injection
J9031 | Bcg live intravesical vac
J9070 | Cyclophosphamide 100 MG inj
J9093 | Cyclophosphamide lyophilized
J9100 | Cytarabine hcl 100 MG inj
J9120 | Dactinomycin actinomycin d
J9130 | Dacarbazine 10 MG inj
J9181 | Etoposide 10 MG inj
J9270 | Plicamycin (mithramycin) inj
J9340 | Thiotepa injection

Addendum Q.—Separately Paid Chemotherapy Drugs Infusion Only Calendar Year 2004
HCPCS | Short descriptor
C1167 | EPIRUBICIN HCL, 2 mg
C1207 | OCTREOTIDE ACETATE DEPOT 1mg
C9110 | Alemtuzumab, per 10mg/ml
J0207 | Amifostine
J1190 | Dexrazoxane HCl injection
J1950 | Leuprolide acetate /3.75 MG
J2355 | Oprelvekin injection
J2430 | Pamidronate disodium /30 MG
J9001 | Doxorubicin hcl liposome inj
J9015 | Aldesleukin/single use vial
J9017 | Arsenic trioxide
J9040 | Bleomycin sulfate injection
J9045 | Carboplatin injection
J9050 | Carmus bischl nitro inj
J9060 | Cisplatin 10 MG injection
J9065 | Inj cladribine per 1 MG
J9150 | Daunorubicin
J9151 | Daunorubicin citrate liposom
J9160 | Denileukin diftitox, 300 mcg
J9165 | Diethylstilbestrol injection
J9170 | Docetaxel
J9185 | Fludarabine phosphate inj
J9201 | Gemcitabine HCl
J9206 | Irinotecan injection
J9208 | Ifosfomide injection
J9209 | Mesna injection
J9211 | Idarubicin hcl injection
J9245 | Inj melphalan hydrochl 50 MG
J9265 | Paclitaxel injection
J9266 | Pegaspargase/singl dose vial
J9268 | Pentostatin injection
J9280 | Mitomycin 5 MG inj
J9293 | Mitoxantrone hydrochl/5 MG
J9300 | Gemtuzumab ozogamicin
J9310 | Rituximab cancer treatment
J9320 | Streptozocin injection
J9350 | Topotecan
J9355 | Trastuzumab
J9357 | Valrubicin, 200 mg
J9390 | Vinorelbine tartrate/10 mg
Q2017 | Teniposide, 50 mg

[FR Doc. 03-20280 Filed 8-6-03; 8:45 am]

BILLING CODE 4120-01-P